DEPARTMENT OF HEALTH AND HUMAN SERVICES

Centers for Medicare & Medicaid Services

42 CFR Parts 403, 412, 413, 418, 460, 480, 482, 483, 485, and 489

[CMS-1428-F2]

RIN 0938-AM80

Medicare Program; Changes to the Hospital Inpatient Prospective Payment Systems and Fiscal Year 2005 Rates; Correcting Amendment

AGENCY: Centers for Medicare & Medicaid Services (CMS), HHS.

ACTION: Final rule; correcting amendment.

SUMMARY: In the October 7, 2004 Federal Register (69 FR 60242), we published a correction to the final rule that appeared in the August 11, 2004 Federal Register entitled “Medicare Program; Changes to the Hospital Inpatient Prospective Payment Systems and Fiscal Year 2005 Rates.” This amendment corrects errors in that final rule and the correction of the final rule.

EFFECTIVE DATE: January 1, 2005.

FOR FURTHER INFORMATION CONTACT: Marc Hartstein, (410) 786-4548.

SUPPLEMENTARY INFORMATION:

I. Background and Summary of Errors

In FR Doc. 04-17943 (69 FR 48916, August 11, 2004) the final rule entitled “Medicare Program; Changes to the Hospital Inpatient Prospective Payment Systems and Fiscal Year 2005 Rates” (hereinafter referred to as the FY 2005 final rule) there were a number of errors. Some of these errors were identified and corrected in the correction of the final rule that was published in the October 7, 2004 Federal Register.

We note that sections II.A., II.B., II.C. items 1 through 11 and 13, and II.D. of this correcting amendment apply to IPPS payments effective October 1, 2004, as if they had been included correctly in the FY 2005 final rule. Items 12 and 14 through 29 of section II.C. apply to discharges occurring on or after January 1, 2005.

A. Summary of Preamble Errors

In the FY 2005 final rule, we identified codes for spinal fusion procedures that were to be used in various combinations to identify cases that are eligible to receive new technology add-on payments for bone morphogenetic proteins (BMPs) for spinal fusion (69 FR 49009). We made an error in listing the spinal fusion codes for the Stryker Biotech OP-1 Putty product. FDA approved the use of OP-1 Putty for refusion of the spine with a posterior approach (codes 81.35 and 81.38) but not for initial spinal fusions (codes 81.05 and 81.08). It is our policy to restrict the payment of new technology add-on payments only to cases in which FDA-approved indications are present. Therefore, we should not have included codes 81.05 and 81.08 in the final rule as procedure codes that could be used with OP-1 Putty in order to receive new technology add-on payments. As a result, the correct codes for receiving the OP-1 Putty BMP new technology payments are 84.52 (for the BMP) and either 81.35 or 81.38 (for the refusion of the spine with a posterior approach) and without code 84.51 for the LT Cage.

This correction, which removes codes 81.05 and 81.08 from the new technology logic for Stryker Biotech OP-1 Putty, reflects our policy of not making new technology add-on payments for off-label uses. Currently there is no plan to release a January Pricer update; therefore, the next the update of the Pricer would probably be effective April 1, 2005. However, we do not believe that payment will be made for many cases as a result of this error. The FDA approved OP-1 Putty under a humanitarian device exemption (HDE). As a result, the FDA has imposed a strict limitation on the number of cases in which the product can be used. In addition, an independent review board reviews each case in which OP-1 Putty will be used to ensure that the use of the product is in the best interest of the patient. Therefore, we expect off-label use of the product will be minimal and we will not try to recover monies paid on claims reporting codes 81.05 and 81.08 in conjunction with the code for OP-1 Putty (84.52) that receive add-on payments during the 6-month period from October 1, 2004 through March 31, 2005.

Finally, we are not modifying the new technology payments for the InFUSE ™ product because the code logic adopted in the FY 2005 final rule reflects FDA-approval criteria. However, we are making some revisions to our discussion of the code logic for InFUSE ™ in order to clarify our policy of making add-on payments only for FDA-approved uses of this technology. (See II.A. of this correcting amendment for these revisions.)

B. Summary of Regulations Text Errors

In the FY 2005 final rule, we made an error in adding new § 412.230(d). Subparagraph (C) was inadvertently added to a nonexistent paragraph (d)(3)(iii) instead of (d)(1)(iii) (69 FR 49249). In the October 7, 2004 correction of the final rule, we also erred by adding a new subparagraph (B) to § 412.230(d)(3)(ii). In section II of this correcting amendment, we are amending § 412.230(d)(1)(iii) to add the subparagraph (C) that was inadvertently placed in paragraph (d)(3)(iii); revising paragraph (d)(1)(iii)(B) to reflect the language that was inadvertently placed in (d)(3)(ii)(B); making editorial changes to paragraphs (d)(3)(i) and (ii); and revising paragraph (d)(3) to reflect the correct text. (See section II.B. item 1 of this correcting amendment.)

The FY 2005 final rule (69 FR 49251) included § 412.534 regarding special payment provisions for long-term care hospitals-within-hospitals (HwHs) and satellites of long-term care hospitals (LTCHs). The LTCH prospective payment system (PPS) is a per discharge system and therefore the specific payment adjustment implemented in this regulation will be made for each Medicare patient who is discharged from the LTCH HwH or satellite of a LTCH during a cost reporting period if that patient was admitted to the LTCH or satellite of a LTCH from the host hospital and if the number of such patients exceeds specific thresholds (detailed in other sections of the regulation). We believe that adding the term “discharged” before the phrase “Medicare inpatient population” and changing the term “referred” to “admitted” (with regard to the source of patients) in the following subsections of the regulatory text will increase the clarity of our policy at § 412.534(c)(1), (c)(2), (d)(1), and (e)(1). Our policy goal in establishing § 412.534 is to distinguish between those LTCH HwHs and satellites that are functioning as totally separate providers from their host hospital and those that are behaving as units of the host, a configuration that is statutorily precluded and to provide a payment adjustment under the LTCH PPS when the LTCH HwH or satellite behaves like a unit. We have determined that this distinction can best be reflected by focusing on the percentage of total discharges from a LTCH HwH or satellite for a particular cost reporting period that were admitted from the host. (This policy rationale was first articulated in the September 1, 1994 IPPS final rule (59 FR 45389)). This policy is articulated on numerous pages in the preamble of the IPPS final rule (69 FR 48916, 49196, 49198, 49201, 49206, and 49213). The use of the term “referred” is imprecise with regards to this policy and we are correcting the regulation text to more precisely mirror the final policy as established in the preamble (see 69 FR 49196). Further clarifying the same policy, we are revising the phrase “threshold for discharges of patients from the co-located hospital” in § 412.534(c)(2), (d)(1), and (e)(1), respectively, to conform the regulation text to the preamble language on pages 49196, 49198, 49201, 49206, and 49213 where we state that we examine the percentage of a LTCH's or satellite's discharges that were admitted from the host. The present regulation text omits the phrase “who have been admitted;” and therefore, does not make as clear as it could that we examine the percentage of LTCH's or satellite's discharges from its host.

The revised regulation text will refer to the “threshold for discharges of patients who have been admitted from the co-located hospital.” The policy, as articulated above, is focused on identifying the percentage of patients discharged from the HwH or satellite that were admitted from the host hospital in order to apply a payment adjustment when specific thresholds (detailed elsewhere in the regulation text) are exceeded.

In the preamble to the FY 2005 final rule on pages 49196, 49206, and 49213, we established an adjustment for discharges from LTCHs or satellites if the LTCH or satellite is located in a rural area and is co-located with a host hospital or if it is co-located with the only urban hospital in the MSA or a MSA-dominant host hospital. On page 49206 of the preamble, we state that these particular adjustments are in effect “* * * following the phase-in period * * *” However, we inadvertently excluded this statement from the regulation text at § 412.534(d) and (e) which detail this adjustment. In the regulation text that specifies the phase-in period at § 412.534(f)(4), we establish a threshold of “* * * 25 percent or the applicable percentage determined under paragraph (d) or (e) of this section” which clearly indicates that we intended that the particular payment adjustments for rural, single urban, or MSA dominant hosts would go into effect only after the transition period set forth in paragraph (f). We are concerned that the regulation text in § 412.534(d) and (e) does not state this policy clearly and unambiguously. Therefore, we are adding the phrase “[S]ubject to paragraph (f) of this section” in both § 412.534(d)(1) and in (e)(1) to clarify that the specific payment adjustment established in § 412.534(d) for rural hospitals and in § 412.534(e) for single urban or MSA dominant hospitals begins after the phase-in described in § 412.534(f). Similarly, we are adding the phrase, “[E]xcept as provided in paragraph (f) of this section” at the beginning of § 412.534(c)(1), which indicates that the 25 percent threshold for the payment adjustment specified in the following paragraphs begins only after the transition set forth in paragraph (f). In the preamble to the FY 2005 final rule on pages 49196 and 49213, we established a “hold harmless” for cost reporting periods beginning on or after October 1, 2004 and before October 1, 2005 for “grandfathered” LTCHs HwHs and satellites. We stated that “* * * even for grandfathered facilities, in the first cost reporting period, the percentage of discharges admitted from the host hospital may not exceed the percentage of discharges admitted form the host hospital in its FY 2004 cost reporting period.” However, referring to HwHs and satellites that are governed by this policy (“grandfathered”), we state at § 412.534(f)(1) that “For each discharge during the first cost reporting period beginning on or after October 1, 2004 and before October 1, 2005 the amount paid is the amount payable under this subpart with no adjustment under this § 412.534.” We inadvertently omitted from this regulation text that these facilities are required to not exceed the percentage of discharges admitted from the host hospital in its FY 2004 cost reporting period as was indicated in the preamble of the FY 2005 final rule on pages 49213 and 49196. We are revising the wording in paragraph (f)(1) to include this requirement and thus precisely reflect the policy stated in the preamble by adding “but the hospital may not exceed the percentage of patients admitted from the host during its FY 2004 cost reporting period” to the end of that paragraph.

In the regulation text at § 412.534(f)(2), we specify that cost reporting periods beginning on or after October 1, 2005 and before October 1, 2006, the percentage of patients discharged from the HwH or satellite that may be admitted from the host hospital with no payment adjustment may not exceed the lesser of the “percentage of patients admitted from the host during fiscal year 2004 or 75 percent” and at paragraph (f)(3), we specify that cost reporting periods beginning on or after October 1, 2006 and before October 1, 2007, the percentage of patients discharged from the HwH or satellite that may be admitted from the host hospital with no payment adjustment may not exceed the lesser of the “percentage of patients admitted from the host during fiscal year 2004 or 50 percent.” The policy to which we are referring is on pages 49196 and 49213 of the preamble, but in the preamble we use the much clearer phrase “* * * FY 2004 cost reporting period.” in describing the specific period used for the comparison, rather than the “fiscal year 2004” in paragraphs (f)(2) and (f)(3). We are revising the regulation text in paragraphs (f)(2) and (3) replacing “fiscal year 2004” with “its FY 2004 cost reporting period” to conform to the above cited preamble pages.

Accordingly, we have revised § 412.534 to incorporate these corrections. (See section II.B. item 2 of this correcting amendment.)

In the October 7, 2004 correction of the final rule, we corrected § 413.79(a)(10) (69 FR 60252). In this correction, we inadvertently omitted the term “portions” from the beginning of the sentence. Therefore, we are correcting this error in section II.B., item 3 of this correcting amendment.

The October 7, 2004 correction of the final rule also included a correction to § 485.610 (69 FR 60252). This correction stated that paragraph (b)(3) is deleted. Since there were two paragraphs (b)(3) in the FY 2005 final rule, we want to clarify that only the first of these paragraphs was deleted. In section II.B. item 4 of this correcting amendment, we have republished § 485.610(b)(3) to clarify this correction.

C. Summary of Addendum Errors

In the October 7, 2004 correction of the final rule (69 FR 60242), we noted the correction of errors in the tables and addendum language of the FY 2005 final rule related to the wage indexes, geographic reclassifications, and IPPS payments rates. In addition, we posted corrected wage tables and geographic reclassification tables on the CMS Website at: http://www.cms.hhs.gov/providers/hipps/ippswage.asp. We also noted that we would publish the corrected tables in a subsequent Federal Register document.

In section II.C. items 1 through 8 and 10 of this correcting amendment, we are publishing revised operating standardized amounts and capital Federal payment rates, including Tables 1A, 1B, 1C, and 1D as posted on the CMS Website as of September 29, 2004. Thus, these corrections simply make the standardized amounts and rates consistent with the hospitals' actual payment designations, which have been in effect since October 1, 2004. Items 9, 11, and 13 merely correct typographical errors in and the placement of the headings of the wage index tables. Accordingly, we believe it is appropriate to make the corrections in items 1 through 11 and 13 of section II.C. of this correcting amendment applicable October 1, 2004.

The FY 2005 final rule and the correction to the final rule were effective October 1, 2004. Since that date, we have identified additional errors in the wage index, geographic reclassification, and out-migration adjustment tables that were posted on the CMS Website. As discussed in this section, we are correcting the errors in the wage index, out-migration adjustment, and geographic reclassification tables in items 12 and 14 through 29 of section II.C. of this correcting amendment.

We granted several hospitals' wage data revision requests, but inadvertently failed to include the revised data in the wage index tables in the FY 2005 final rule. These errors affected the wage index value for several CBSAs. We are correcting these errors in the revised wage index tables in this correcting amendment.

In addition, we also have received information that several hospitals were assigned to incorrect labor market areas. We discovered that our data files incorrectly listed these hospitals in counties other than the counties in which these hospitals are actually located. These incorrect geographic designations affected the wage index computations for labor market areas in several States. We have revised the wage index computations for hospitals in the affected labor market areas to reflect the correct geographic designations of these hospitals.

Additionally, we discovered that we had incomplete and outdated information regarding hospitals located in urban areas that have been reclassified as rural under § 412.103 of the regulations. Accordingly, we have updated and corrected this information and revised the wage index computations for hospitals in the affected labor market areas. We also discovered, subsequent to the publication of the FY 2005 final rule, that we had inadvertently neglected to provide the hold-harmless wage index for providers in several counties that were previously designated as urban. In the final rule, we had provided that hospitals in areas that are classified as rural under the new MSA definitions, but had been designated as urban under the MSA definitions in effect through FY 2004, could retain their assignment to the wage index of the area in which they had previously been located. Accordingly, we have revised the wage index assignments for these hospitals.

Moreover, changes to county-level wage data due to the revisions described above, have also resulted in changes to the list of counties eligible for the out-migration wage index adjustment under section 505 of Pub. L. 108-173. In some cases, the wage data revisions have also resulted in changes to the amount of the adjustment. We have revised and corrected the list of eligible counties and the computation of the adjustment amounts. Thus, we are publishing revised versions of the tables displaying average hourly wages, wage index values, and capital geographic adjustment factors, specifically Tables 2, 3A1, 3A2, 3B1, 3B2, 4A1, 4A2, 4B1, 4B2, 4C1, 4C2, 4G, and 4H. We are also publishing a revised version of Table 4J, which displays the list of counties qualifying for the out-migration adjustment and adjustment amounts. In addition, we note that in Tables 4A2 and 4G of the FY 2005 final rule, we inadvertently included 2 rural geographic areas in our list of urban areas. The two rural geographic areas were Enid, OK and Jamestown, NY. In accordance with the 3-year hold-harmless provision, all hospitals in these areas will maintain their current geographic area assignment for the 3-year period beginning FY 2005 and ending in FY 2007. Accordingly, we have removed these two geographic areas from Tables 4A2 and 4G.

There were errors in several of the entries in Tables 9A¹ and 9A² of the FY 2005 final rule. Therefore, we are correcting these errors by republishing these tables in their entirety. These errors were brought to our attention after the publication of the FY 2005 final rule.

Lastly when identifying and correcting errors to the wage index, we believe it is appropriate to apply the changes to the wage index prospectively. As we stated in the January 3, 1984 final rule (49 FR 258), “Application of a retroactive adjustment to the rates [for corrections in the wage index] would erode the basis of the prospective payment system that payment will be made at a predetermined, specified rate.” Therefore, we will apply the corrections to the wage index, geographic reclassification, and out-migration adjustment tables to discharges occurring on or after January 1, 2005.

D. Summary of Appendix A (Regulatory Impact Analysis) Errors

Section IV of the correction of the final rule that appeared in the October 7, 2004 Federal Register stated that we would include a revised impact analysis in a forthcoming correction notice. Accordingly, we have included corrections to the regulatory impact analysis (Appendix A) based on the corrections summarized in section I.C. of this correcting amendment. In addition, we also note that we are deleting duplicative impact analysis language. (See section II.D. of this correcting amendment.)

II. Correction of Errors

Given the errors summarized in section I of this correcting amendment, we are making the following corrections to FR Doc. 04-17943 (69 FR 48916) and FR Doc. 04-22389 (69 FR 60242):

A. Correction of Preamble Errors

1. On page 49009, lines 9 through 51, the paragraph that begins with the phrase “Cases using InFUSE(™) should be” and ending with the phrase “$1,995 for FY 2005” is corrected to read as follows:

“FDA has not approved coverage for InFUSE(™) when it is applied through a posterior approach. It is our policy to restrict the payment of new technology add-on payments only to cases in which FDA approved indications are present. Therefore, we are excluding add-on payments for those cases that contain procedure codes that indicate off-label uses of InFUSE(tm).

The posterior approach is captured through one of the following codes:

• 81.05 Dorsal and dorsolumbar fusion, posterior technique.

• 81.08 Lumbar and lumbosacral fusion, posterior technique.

• 81.35 Refusion of dorsal and dorsolumbar fusion, posterior technique.

• 81.38 Refusion of lumbar and lumbosacral fusion, posterior technique.

Cases using InFUSE™ should be identified by the combination of procedure codes 84.51 and 84.52, as described above and as required in the previous year of new technology add-on payments for this technology. Therefore, we are adopting the following code logic for new technology add-on payments for this product: cases in DRGs 497 and 498 with codes 84.52 and 84.51, but without any of the following codes: 81.05, 81.08, 81.35, or 81.38.

“For cases using the OP-1 Putty, the procedure code 84.52 (Insertion of recombinant bone morphogenetic protein) must be coded in combination with procedure codes identifying posterolateral spinal fusions, as is consistent with the FDA approval of this device. However, unlike InFUSE™, the OP-1 Putty is not used with a LT Cage (code 84.51). Therefore, we will provide new technology add-on payments for the OP-1 Putty through the following payment logic: Cases in DRGs 497 and 498 with code 84.52 and one of the following codes: 81.35 or 81.38 and without code 84.51.

“Both of these devices have FDA approval that is consistent with cases that would be assigned to DRGs 497 to 498. Because Stryker Biotech did not submit an application for new technology add-on payments, we were unable to do a complete analysis of the cost of the device. However, we have been able to determine that the costs associated with the OP-1 Putty are similar to those associated with InFUSE(™). Therefore, we believe that the same payment amount for new technology add-on payments is appropriate for both devices. Accordingly, cases containing one of the above combinations of procedure codes and that fall into DRGs 497 or 498 will be eligible to receive the add-on payment, with a maximum of $1,955 for FY 2005.”

B. Correction of Regulation Text Errors

Given the errors summarized in section I.B. of this correcting amendment, we are making the following correcting amendments to 42 CFR Parts 412, 413, and 485:

PART 412—[CORRECTED]

§ 412.230 [Corrected]

1. Section 412.230 is amended by—

A. Revising paragraphs (d)(1)(iii)(A) and (B).

B. Adding a new paragraph (d)(1)(iii)(C).

C. Revising paragraph (d)(3).

The revisions and additions read as follows:

§ 412.230 Criteria for an individual hospital seeking redesignation to another rural area or an urban area.

* * * * *

(d) Use of urban or other rural area's wage index.

(1) * * *

(iii) * * *

(A) With respect to redesignations for Federal fiscal years 1994 through 2001, the hospital's average hourly wage is at least 108 percent of the average hourly wage of hospitals in the area in which the hospital is located;

(B) With respect to redesignations for Federal fiscal years 2002 through 2005, the hospital's average hourly wage is, in the case of a hospital located in a rural area, at least 106 percent and in the case of a hospital located in an urban area, at least 108 percent of the average hourly wage of hospitals in the area in which the hospital is located; or

(C) With respect to redesignations for Federal fiscal year 2006 and subsequent years, the hospital's average hourly wage is, in the case of a hospital located in a rural area, at least 106 percent and in the case of a hospital located in an urban area, at least 108 percent of the average hourly wage of all other hospitals in the area in which the hospital is located;

* * * * *

(3) Rural referral center exceptions.

(i) If a hospital was ever a rural referral center, it does not have to demonstrate that it meets the average hourly wage criterion set forth in paragraph (d)(1)(iii) of this section.

(ii) If a hospital was ever a rural referral center, it is required to meet only the criterion that applies to rural hospitals under paragraph (d)(1)(iv) of this section, regardless of its actual location in an urban or rural area.

* * * * *

§ 412.534 [Corrected]

2. Section 412.534 is amended by—

A. Republishing the introductory text of paragraph (c).

B. Revising paragraph (c)(1).

C. Revising the first sentence and republishing the last sentence of paragraph (c)(2).

D. Republishing the introductory text of paragraph (d).

E. Revising the first sentence and republishing the last sentence of paragraph (d)(1).

F. Republish the introductory text of paragraph (e).

G. Revising the first sentence and republishing the second sentence of paragraph (e)(1).

H. Republish the introductory text of paragraph (f).

I. Revising paragraphs (f)(1), (f)(2), and (f)(3).

§ 412.534 Special payment provisions for long-term care hospitals within hospitals and satellites of long-term care hospitals.

(c) Patients admitted from the hospital located in the same building or on the same campus as the long-term care hospital or satellite facility. Payments to the long-term care hospital for patients admitted to it or to its satellite facility from the co-located hospital will be made under either paragraph (c)(1) or paragraph (c)(2) of this section.

(1) Except as provided in paragraph (f) of this section, for any cost reporting period beginning on or after October 1, 2004 in which the long-term care hospital or its satellite facility has a discharged Medicare inpatient population of whom no more than 25 percent were admitted to the hospital or its satellite facility from the co-located hospital, payments are made under the rules at § 412.500 through § 412.541 in this subpart with no adjustment under this section.

(2) Except as provided in paragraph (d), (e), or (f) of this section, for any cost reporting period beginning on or after October 1, 2004 in which the long-term care hospital or satellite facility has a discharged Medicare inpatient population of whom more than 25 percent were admitted to the hospital or satellite facility from the co-located hospital, payments for the patients who are admitted from the co-located hospital and who cause the long-term care hospital or satellite facility to exceed the 25 percent threshold for discharged patients who have been admitted from the co-located hospital are the lesser of the amount otherwise payable under this subpart or the amount payable under this subpart that is equivalent to the amount that would be determined under the rules at Subpart A, § 412.1(a). Payments for the remainder of the long-term care hospital's or satellite facility's patients are made under the rules in this subpart at § 412.500 through § 412.541 with no adjustment under this section.

* * * * *

(d) Special treatment of rural hospitals. (1) Subject to paragraph (f) of this section, in the case of a long-term care hospital or satellite facility that is located in a rural area as defined in § 412.62(f) and is co-located with another hospital for any cost reporting period beginning on or after October 1, 2004 in which the long-term care hospital or satellite facility has a discharged Medicare inpatient population of whom more than 50 percent were admitted to the long-term care hospital or satellite facility from the co-located hospital, payments for the patients who are admitted from the co-located hospital and who cause the long-term care hospital or satellite facility to exceed the 50 percent threshold for discharged patients who have been admitted from the co-located hospital are the lesser of the amount otherwise payable under this subpart or the amount payable under this subpart that is equivalent to the amount that would be otherwise payable under Subpart A, § 412.1(a). Payments for the remainder of the long-term care hospital's or satellite facility's patients are made under the rules in this subpart at § 412.500 through § 412.541 with no adjustment under this section.

* * * * *

(e) Special treatment of urban single or MSA dominant hospitals. (1) Subject to paragraph (f) of this section, In the case of a long-term care hospital or satellite facility that is co-located with the only other hospital in the MSA or with a MSA dominant hospital as defined in paragraph (e)(4) of this section, for any cost reporting period beginning on or after October 1, 2004 in which the long-term care hospital or satellite facility has a discharged Medicare inpatient population of whom more than the percentage calculated under paragraph (e)(2) of this section were admitted to the hospital from the co-located hospital, payments for the patients who are admitted from the co-located hospital and who cause the long-term care hospital to exceed the applicable threshold for discharged patients who have been admitted from the co-located hospital are the lesser of the amount otherwise payable under this subpart or the amount under this subpart that is equivalent to the amount that otherwise would be determined under Subpart A, § 412.1(a). Payments for the remainder of the long-term care hospital's or satellite facility's patients are made under the rules in this subpart with no adjustment under this section.

* * * * *

(f) Transition period for long-term care hospitals and satellite facilities paid under this subpart. In the case of a long-term care hospital or a satellite facility that is paid under the provisions of this Subpart O of Part 412 on October 1, 2004 or of a hospital that is paid under the provisions of this Subpart O on October 1, 2005 and whose qualifying period under § 412.23(e) began on or before October 1, 2004, the amount paid is calculated as specified below:

(1) For each discharge during the first cost reporting period beginning on or after October 1, 2004, and before October 1, 2005, the amount paid is the amount payable under this subpart with no adjustment under this section but the hospital may not exceed the percentage of patients admitted from the host during its FY 2004 cost reporting period.

(2) For each discharge during the cost reporting period beginning on or after October 1, 2005, and before October 1, 2006, the percentage that may be admitted from the host with no payment adjustment may not exceed the lesser of the percentage of patients admitted from the host during its FY 2004 cost reporting period or 75 percent.

(3) For each discharge during the cost reporting period beginning on or after October 1, 2006, and before October 1, 2007, the percentage that may be admitted from the host with no payment adjustment may not exceed the lesser of the percentage of patients admitted from the host during its FY 2004 cost reporting period or 50 percent.

* * * * *

PART 413—[CORRECTED]

§ 413.79 [Corrected]

3. Section 413.79 is amended by revising paragraph (a)(10) to read as follows:

§ 413.79 Direct GME payments: Determination of the weighted number of FTE residents.

* * * * *

(a) * * *

(10) Effective for portions of cost reporting periods beginning on or after October 1, 2004, if a hospital can document that a resident simultaneously matched for 1 year of training in a particular specialty program, and for a subsequent year(s) of training in a different specialty program, the resident's initial residency period will be determined based on the period on board eligibility associated with the program for which the resident matched for the subsequent year(s) of training.

* * * * *

PART 485—[CORRECTED]

§ 485.610 [Corrected]

4. Section 485.610(b)(3) is republished to read as follows:

§ 485.610 Condition of participation: Status and location.

* * * * *

(b) * * *

(3) Effective only for October 1, 2004 through September 30, 2006, the CAH does not meet the location requirements in either paragraph (b)(1) or (b)(2) of this section and is located in a county that in FY 2004, was not part of a Metropolitan Statistical Area as defined by the Office of Management and Budget, but as of FY 2005 was included as part of such an MSA as a result of the most recent census data and implementation of the new MSA definitions announced by OMB on June 6, 2003.

* * * * *

C. Correction of Errors in the Addendum

1. On page 49275, third column, line 15, the figure “0.993833” is corrected to read “0.993659”.

2. On page 49278, top half of the page, the table is corrected to read as follows:

| Operating standardized amounts | Capital federal rate
National | 0.948978 | 0.950591
Puerto Rico | 0.973183 | 0.973749

3. On page 49280, top of the page, the table entitled Comparison of FY 2004 Standardized Amounts to FY 2005 Single Standardized Amount with Full Update and Reduced Update is corrected by changing the figures in second and third columns for the listed entries to read as follows:

| Full update (3.3 percent) | Reduced update (2.9 percent)
FY 2005 Reclassification Budget Neutrality Factor | 0.993659 | 0.993659
Adjusted for Blend of FY 2004 DRG Recalibration and Wage Index Budget Neutrality Factors* | Labor: $3,418.96 | Labor: $3,405.72
| Nonlabor: $1,389.70 | Nonlabor: $1,384.32
FY 2005 Outlier Factor | 0.948978 | 0.948978
Rate for FY 2005 (after multiplying FY 2004 base rate by above factors) where the wage index is less than or equal to 1.0000 | Labor: $2,823.64 | Labor: $2,812.70
| Nonlabor: $1,730.62 | Nonlabor: $1,723.91
Rate for FY 2005 (after multiplying FY 2004 base rate by above factors) where the wage index is greater than 1.0000 | Labor: $3,238.07 | Labor: $3,225.53
| Nonlabor: $1,316.18 | Nonlabor: $1,311.08

4. On page 49283,

a. Second column, line 63, the figure “$416.63” is corrected to read “$416.53”; and

b. Third column, line 1, the figure “0.68” is corrected to read “0.65”.

5. On page 49286, third column,

a. Line 31, the figure “0.9997” is corrected to read “0.9995”; and

b. Line 35, the figure “0.9905” is corrected to read “0.9903”.

6. On page 49287, the table Budget Neutrality Adjustment for DRG Reclassifications and Recalibration and the Geographic Adjustment Factors” the following entries are corrected to read as follows:

Fiscal year | National Incremental Adjustment: Geographic Adjustment Factor | National Incremental Adjustment: DRG Reclassifications and Recalibration | National Incremental Adjustment: Combined | National Incremental Adjustment: Cumulative | Puerto Rico Incremental Adjustment: Geographic Adjustment Factor | Puerto Rico Incremental Adjustment: DRG Reclassifications and Recalibration | Puerto Rico Incremental Adjustment: Combined | Puerto Rico Incremental Adjustment: Cumulative
2005 | 010.99946 ¹¹ | 1.00094 | 1.00140 ¹¹ | 0.991317 | 0.99115 ¹¹ | 1.00094 | 0.99208 ¹¹ | 0.98946

7. On page 49288,

a. First column,

(1) Line 48, the figure “1.0006” is corrected to read “1.0004”;

(2) Line 61, the figure “1.0006” is corrected to read “1.0004”;

(3) Line 64, the figure “0.9914” is corrected to read “0.9912”; and

(4) Line 67, the phrase “FY 002” is corrected to read “FY 2002”.

b. Second column,

(1) Line 3, the figure “1.0006” is corrected to read “1.0004”; and

(2) Line 4, the figure “0.9914” is corrected to read “0.9912”.

8. On page 49289,

a. Top of the page,

(1) Second column,

(a) Line 9, the figure “$416.63” is corrected to read “$416.53”; and

(b) Line 18, the figure “1.0006” is corrected to read “1.0004”.

(2) Third column

(a) Line 16, the figure “0.06” is corrected to read “0.04”

(b) Line 28, the figure “0.68” is corrected to read “0.65”

b. Middle of the page, the table entitled, Comparison of Factors and Adjustments: FY 2004 Capital Federal Rate ¹ and FY 2005 Capital Federal Rate two entries and a footnote are corrected to read as follows:

| FY 2004 ¹ | FY 2005 | Change | Percent change
GAF/DRG Adjustment factor ² | 1.0025 | 1.0004 | 1.004 | 0.04
Capital federal rate | $413.83 | $416.53 | 1.0065 | 0.65
² The update factor and the GAF/DRG budget neutrality factors are built permanently into the capital rates. Thus, for example, the incremental change from FY 2004 to FY 2005 resulting from the application of the 1.0004 GAF/DRG budget neutrality factor for FY 2005 is 1.004.

c. Lower third of the page, the table, Comparison of Factors and Adjustments: FY 2005 Proposed Capital Federal Rate ¹ and FY 2005 Final Capital Federal Rate, two entries are corrected to read as follows:

| Proposed FY 2005 | Final FY 2005 | Change | Percent change
GAF/DRG adjustment factor ² | 1.0015 | 1.0004 | 0.9989 | -0.11
Capital federal rate | $416.59 | $416.53 | 0.9999 | -0.01

9. On page 49292, second column, seventh paragraph, the paragraph “Table 2—Hospital Case-Mix Indexes For Discharges Occurring in Federal Fiscal Year 2003; Hospital Average Hourly Wage For Federal Fiscal Years 2003 (1999 Wage Data), 2004 (2000 Wage Data), and 2005 (2001 Wage Data) Wage Indexes and 3-YEAR Average of Hospital Average Hourly Wages” is corrected to read “Table 2.—Hospital Case-Mix Indexes For Discharges Occurring in Federal Fiscal Year 2003; Hospital Wage Indexes For Federal Fiscal Year 2005; Hospital Average Hourly Wages For Federal Fiscal Years 2003 (1999 Wage Data), 2004 (2000 Wage Data), and 2005 (2001 Wage Data); and 3-Year Average of Hospital Average Hourly Wages”.

10. On page 49294,

a. Table 1A.—National Adjusted Operating Standardized Amounts, Labor/Nonlabor is corrected to read as follows:

Table 1A.—National Adjusted Operating Standardized Amounts, Labor/Nonlabor
[71.1 Percent Labor Share/28.9 Percent Nonlabor Share If Wage Index Greater Than 1]
Full update (3.3 Percent): Labor-related | Full update (3.3 Percent): Nonlabor-related | Reduced update (2.9 Percent): Labor-related | Reduced update (2.9 Percent): Nonlabor-related
$3,238.07 | $1,316.18 | $3,225.53 | $1,311.08

b. Table 1B.—National Adjusted Operating Standardized Amounts, Labor/Nonlabor is corrected to read as follows:

Table 1B.—National Adjusted Operating Standardized Amounts, Labor/Nonlabor
[62 Percent Labor Share/38 Percent Nonlabor Share If Wage Index Less Than or Equal to 1]
Full update (3.3 Percent): Labor-related | Full update (3.3 Percent): Nonlabor-related | Reduced update (2.9 Percent): Labor-related | Reduced update (2.9 Percent): Nonlabor-related
$2,823.64 | $1,730.62 | $2,812.70 | $1,723.91

c. Table 1C.—Adjusted Operating Standardized Amounts for Puerto Rico, Labor/Nonlabor is corrected to read as follows:

Table 1C.—Adjusted Operating Standardized Amounts for Puerto Rico, Labor/Nonlabor
| Rates if Wage Index Greater Than 1: Labor | Rates if Wage Index Greater Than 1: Nonlabor | Rates if Wage Index Less Than or Equal to 1: Labor | Rates if Wage Index Less Than or Equal to 1: Nonlabor
National | $3,238.07 | $1,316.18 | $2,823.64 | $1,730.62
Puerto Rico | 1,554.79 | 625.84 | 1,351.99 | 828.64

d. Table 1D.—Capital Standard Federal Payment Rate is corrected to read as follows:

Table 1D.—Capital Standard Federal Payment Rate
| Rate
National | $416.53
Puerto Rico | 199.01

11. On page 49295, at the top of the page, the heading “TABLE 2.—HOSPITAL CASE MIX INDEXES FOR DISCHARGES OCCURING IN FEDERAL FISCAL YEAR 2003; HOSPITAL FISCAL YEAR 2005 WAGE INDEX; HOSPITAL AVERAGE HOURLY WAGE FOR FEDERAL FISCAL YEARS 2003 (1999 WAGE DATA), 2004 (2000 WAGE DATA), AND 2005 (2001 WAGE DATA) WAGE INDEXES AND 3-YEAR AVERAGE OF HOSPITAL AVERAGE HOURLY WAGES” is corrected to read “TABLE 2.—HOSPITAL CASE-MIX INDEXES FOR DISCHARGES OCCURRING IN FEDERAL FISCAL YEAR 2003; HOSPITAL WAGE INDEXES FOR FEDERAL FISCAL YEAR 2005; HOSPITAL AVERAGE HOURLY WAGES FOR FEDERAL FISCAL YEARS 2003 (1999 WAGE DATA), 2004 (2000 WAGE DATA), AND 2005 (2001 WAGE DATA); AND 3-YEAR AVERAGE OF HOSPITAL AVERAGE HOURLY WAGES”.

12. On pages 49295 through 49424, in Table 2—Hospital Case Mix Indexes for Discharges Occurring in Federal Fiscal Year 2003; Hospital Fiscal Year 2005 Wage Index; Hospital Average Hourly Wage for Federal Fiscal Years 2003 (1999 Wage Data), 2004 (2000 Wage Data), and 2005 (2001 Wage Data) Wage Indexes and 3-Year Average of Hospital Average Hourly Wages, the table is corrected to read as follows:

Table 2.—Hospital Case-Mix Indexes for Discharges Occurring in Federal Fiscal Year 2003; Hospital Wage Indexes for Federal Fiscal Year 2005; Hospital Average Hourly Wages for Federal Fiscal Years 2003 (1999 Wage Data), 2004 (2000 Wage Data), and 2005 (2001 Wage Data); Wage Indexes and 3-Year Average of Hospital Average Hourly Wages
Provider No. | Case mix index | FY 2005 wage index | Average hourly wage FY 2003 | Average hourly wage FY 2004 | Average hourly wage FY 2005 | Average hourly wage** (3 yrs)
010001 | 1.4628 | 0.7651 | 17.9841 | 19.4061 | 20.6563 | 19.3592
010004 | *** | * | 20.1613 | 22.2674 | 22.7585 | 21.6609
010005 | 1.1670 | 0.9178 | 19.9733 | 19.6063 | 20.4937 | 20.0290
010006 | 1.3945 | 0.7906 | 18.3931 | 19.0976 | 21.0241 | 19.4984
010007 | 1.1115 | 0.7651 | 16.0781 | 17.5462 | 16.8811 | 16.8364
010008 | 1.0017 | 0.8311 | 19.0182 | 19.6573 | 23.8333 | 20.8947
010009 | 1.0250 | 0.8893 | 19.7273 | 20.4309 | 21.6422 | 20.5897
010010 ʰ | 1.0203 | 0.9097 | 17.7348 | 19.2644 | 22.3021 | 19.7359
010011 | 1.6232 | 0.9178 | 24.8922 | 25.8231 | 24.8166 | 25.1564
010012 | 1.2209 | 0.7856 | 20.3375 | 20.0896 | 21.7622 | 20.7424
010015 | 0.9482 | 0.7651 | 19.8205 | 18.8890 | 20.4732 | 19.7680
010016 | 1.2926 | 0.9178 | 20.3175 | 21.7918 | 23.0414 | 21.7886
010018 | 1.3080 | 0.9178 | 19.5519 | 19.2071 | 20.5888 | 19.7714
010019 | 1.2206 | 0.7906 | 17.6414 | 18.9177 | 20.1336 | 18.8827
010021 ʰ | 1.1834 | 0.7651 | 25.3335 | 17.7596 | 20.7108 | 20.6787
010022 | 0.9284 | 0.8909 | 22.1250 | 22.2267 | 25.8797 | 23.4461
010023 | 1.7445 | 0.8311 | 18.4567 | 20.4901 | 23.7791 | 20.7075
010024 | 1.6395 | 0.8311 | 17.3746 | 18.5942 | 20.0067 | 18.6270
010025 | 1.2124 | 0.7651 | 17.4702 | 19.3649 | 19.8561 | 18.8705
010027 | 0.7657 | 0.7651 | 16.5157 | 14.0975 | 14.9585 | 15.1595
010029 | 1.5338 | 0.8357 | 19.3393 | 20.9868 | 21.6724 | 20.7210
010031 | *** | * | 19.2612 | 21.0176 | 20.9463 | 20.4044
010032 | 0.8718 | 0.7651 | 16.3968 | 16.4713 | 18.5073 | 17.1611
010033 | 2.0723 | 0.9178 | 21.9828 | 24.5088 | 25.5165 | 23.9915
010034 | 0.9857 | 0.8311 | 14.9379 | 14.9333 | 17.1625 | 15.6290
010035 | 1.1993 | 0.9178 | 20.7808 | 21.6182 | 23.1319 | 21.8768
010036 | 1.0902 | 0.7651 | 18.7157 | 19.2501 | 20.5125 | 19.4735
010038 | 1.1714 | 0.8011 | 19.6887 | 18.6578 | 20.3935 | 19.6125
010039 | 1.6404 | 0.8838 | 21.3550 | 23.0339 | 23.4151 | 22.6371
010040 | 1.4871 | 0.8077 | 20.4486 | 20.7779 | 21.6708 | 20.9799
010043 | 0.9615 | 0.9178 | 17.3567 | 19.9012 | 19.5422 | 18.9651
010044 | 1.0238 | 0.7651 | 23.4576 | 25.8560 | 23.0220 | 24.0513
010045 | 1.1016 | 0.8390 | 18.7569 | 22.7713 | 20.5658 | 20.5841
010046 | 1.6184 | 0.8077 | 18.8741 | 19.6754 | 20.8935 | 19.9036
010047 | 0.9117 | 0.7806 | 13.4130 | 16.1695 | 19.5937 | 16.1765
010049 | 1.1141 | 0.7651 | 16.3349 | 16.2973 | 17.7801 | 16.8074
010050 | 1.0486 | 0.9178 | 20.3028 | 20.7398 | 21.5625 | 20.8933
010051 | 0.8803 | 0.8339 | 12.3280 | 14.3006 | 14.7053 | 13.7722
010052 | 0.8896 | 0.7651 | 19.8289 | 11.9019 | 21.3673 | 16.4899
010053 | 1.0729 | 0.7651 | 15.4156 | 17.3238 | 17.4160 | 16.7020
010054 | 1.0491 | 0.8893 | 20.9656 | 20.6382 | 23.1894 | 21.5890
010055 | 1.4918 | 0.7651 | 19.5667 | 18.9664 | 19.1847 | 19.2296
010056 | 1.4717 | 0.9178 | 20.5645 | 21.1104 | 22.7183 | 21.5191
010058 | 0.8823 | 0.9157 | 16.1265 | 17.7800 | 20.3182 | 17.9980
010059 | 1.0548 | 0.8893 | 19.1270 | 20.5534 | 23.6963 | 21.1230
010061 | 1.0168 | 0.8157 | 18.5320 | 17.0447 | 20.5683 | 18.6485
010062 | 1.0883 | 0.7651 | 16.9721 | 17.1786 | 18.1323 | 17.4330
010064 | 1.7161 | 0.9178 | 20.5650 | 22.2280 | 25.4345 | 22.4456
010065 | 1.3846 | 0.8070 | 17.0557 | 17.2698 | 20.0108 | 18.1438
010066 | 0.8112 | 0.7651 | 14.8904 | 14.8696 | 17.0935 | 15.6113
010068 | 1.2149 | 0.9178 | 23.4322 | 18.3308 | 17.5690 | 20.1824
010069 | 1.0378 | 0.7651 | 15.4497 | 17.0957 | 19.6317 | 17.4477
010072 | 1.1030 | 0.7949 | 16.5652 | 18.8807 | 21.5419 | 18.9501
010073 | 0.9193 | 0.7651 | 13.5594 | 14.9826 | 16.4043 | 14.9376
010078 | 1.2359 | 0.8011 | 18.5127 | 20.1447 | 21.0633 | 19.8889
010079 | 1.1543 | 0.8838 | 17.1612 | 20.7401 | 20.4254 | 19.3330
010083 ʰ | 1.2127 | 0.8118 | 18.4282 | 19.8524 | 20.2166 | 19.4500
010084 | 1.5436 | 0.9178 | 19.8773 | 21.6522 | 22.5219 | 21.4099
010085 | 1.2555 | 0.8893 | 21.5860 | 22.5282 | 23.7007 | 22.6206
010086 | 1.0352 | 0.7651 | 16.8886 | 18.0122 | 19.4332 | 18.0635
010087 | 1.8181 | 0.7997 | 18.7915 | 19.7620 | 21.6226 | 20.0048
010089 | 1.2094 | 0.9157 | 19.5241 | 19.5783 | 22.2508 | 20.4322
010090 | 1.6804 | 0.7997 | 19.5635 | 20.0287 | 21.4322 | 20.3544
010091 | 0.9701 | 0.7651 | 17.1775 | 17.4672 | 19.4222 | 18.0426
010092 | 1.4402 | 0.8390 | 18.5478 | 19.9351 | 22.0709 | 20.1834
010095 | 0.8396 | 0.8339 | 12.3064 | 12.5243 | 13.4426 | 12.7704
010097 | 0.7691 | 0.8311 | 14.2675 | 15.1593 | 17.1735 | 15.4853
010098 | 0.9776 | 0.7651 | 15.5763 | 15.1629 | 19.6717 | 16.5274
010099 | 1.0663 | 0.7651 | 15.9232 | 16.3307 | 18.1849 | 16.8379
010100 ʰ | 1.5256 | 0.8118 | 18.3755 | 19.8146 | 20.0027 | 19.4279
010101 | 1.1213 | 0.7949 | 18.9525 | 19.0718 | 21.0085 | 19.6864
010102 | 0.9256 | 0.7651 | 15.7778 | 16.4637 | 19.9196 | 17.3540
010103 | 1.7993 | 0.9178 | 22.0802 | 22.5709 | 24.2201 | 22.9368
010104 | 1.6744 | 0.9178 | 21.9457 | 20.9391 | 24.1929 | 22.2745
010108 | 1.1065 | 0.8311 | 19.1596 | 20.7787 | 23.7803 | 21.1826
010109 | 0.9816 | 0.7651 | 15.9627 | 18.2235 | 21.7128 | 18.5994
010110 | 0.7468 | 0.7651 | 15.5817 | 16.0015 | 19.2706 | 17.3294
010112 | 0.9609 | 0.7651 | 15.6041 | 17.9243 | 17.2963 | 16.8980
010113 | 1.6569 | 0.7997 | 18.2774 | 19.4106 | 20.4181 | 19.3908
010114 | 1.3468 | 0.9178 | 19.3772 | 20.1763 | 21.5319 | 20.3330
010115 | 0.8452 | 0.7744 | 15.3510 | 15.7872 | 17.5985 | 16.2135
010118 | 1.2575 | 0.8311 | 17.4621 | 19.5302 | 18.8560 | 18.5514
010119 | *** | * | 19.5163 | 20.5245 | 21.8215 | 20.6281
010120 | 0.9950 | 0.7997 | 18.9975 | 19.4368 | 20.5855 | 19.6680
010121 | *** | * | 15.2345 | 17.1640 | 17.0329 | 16.5712
010125 | 1.0374 | 0.7651 | 16.5117 | 16.8622 | 16.8419 | 16.7415
010126 | 1.0882 | 0.8311 | 19.5933 | 19.9647 | 23.1856 | 20.9538
010128 | 0.8524 | 0.7651 | 16.6898 | 14.7646 | 17.9354 | 16.3915
010129 ʰ | 1.0610 | 0.8118 | 16.7609 | 16.4905 | 18.7821 | 17.4262
010130 | 0.9761 | 0.9178 | 17.4614 | 18.7190 | 18.4944 | 18.2496
010131 | 1.2915 | 0.8838 | 19.0492 | 22.9969 | 24.2197 | 22.1728
010134 | 0.8697 | * | 18.5178 | 17.7717 | * | 18.1134
010137 | 1.2445 | 0.9178 | 21.3573 | 28.9402 | 29.7665 | 26.1994
010138 | 0.7579 | 0.7651 | 14.1368 | 14.2025 | 13.5082 | 13.9815
010139 | 1.5044 | 0.9178 | 20.5708 | 22.8390 | 24.9410 | 22.7783
010143 | 1.1936 | 0.9178 | 18.9084 | 20.5639 | 22.1312 | 20.5538
010144 | 1.5383 | 0.7997 | 18.8272 | 19.1497 | 20.6425 | 19.5545
010145 | 1.2420 | 0.8390 | 20.8157 | 22.1394 | 23.1976 | 22.0834
010146 | 1.0689 | 0.8011 | 18.3666 | 21.3083 | 19.9944 | 19.8782
010148 | 0.8709 | 0.7651 | 18.4590 | 17.6829 | 18.5309 | 18.2453
010149 | 1.2944 | 0.8311 | 19.0199 | 21.0086 | 23.1593 | 20.9862
010150 | 1.0639 | 0.8357 | 19.4819 | 21.2360 | 20.6738 | 20.4784
010152 | 1.3146 | 0.7997 | 19.8990 | 21.6038 | 22.1626 | 21.2042
010155 | *** | * | 13.6137 | * | * | 13.6137
010157 | 1.1366 | 0.7906 | 17.7373 | 19.6977 | 21.3574 | 19.5828
010158 | 1.0915 | 0.8893 | 18.6052 | 18.5464 | 22.4440 | 19.7809
010159 | *** | * | 19.3950 | * | * | 19.3950
010161 | *** | * | * | * | 27.5119 | 27.5119
020001 | 1.7071 | 1.2164 | 28.6530 | 30.1452 | 31.6091 | 30.2393
020002 | *** | * | 28.2758 | * | * | 28.2758
020004 | 1.2047 | 1.1733 | 29.2351 | 27.3516 | 29.9926 | 28.8392
020005 | 0.8979 | * | 35.0860 | 32.7936 | * | 33.9497
020006 | 1.1674 | 1.2164 | 33.0843 | 31.2673 | 33.4210 | 32.5617
020007 | *** | * | 27.7271 | * | * | 27.7271
020008 | 1.2534 | 1.3119 | 31.8877 | 33.4543 | 34.5856 | 33.3645
020009 | *** | * | 18.5594 | * | * | 18.5594
020010 | 0.9035 | * | 23.7276 | 20.7929 | * | 22.1109
020011 | *** | * | 27.5062 | * | * | 27.5062
020012 | 1.3522 | 1.1733 | 26.7586 | 27.9955 | 29.3419 | 28.1074
020013 | 0.9687 | * | 29.5647 | 30.6423 | * | 30.1127
020014 | 1.1194 | 1.1733 | 27.7870 | 29.6805 | 32.1233 | 29.9193
020017 | 1.8770 | 1.2164 | 28.8753 | 30.3017 | 32.9281 | 30.7977
020024 | 1.0782 | 1.1733 | 25.5933 | 28.0930 | 27.9799 | 27.2883
020025 | *** | * | 29.4374 | * | * | 29.4374
030001 | 1.2134 | 0.9985 | 22.8996 | 25.7513 | 27.7572 | 25.2939
030002 | 1.9953 | 0.9985 | 23.1450 | 25.6038 | 27.9628 | 25.6016
030003 | *** | * | 23.9850 | 22.1436 | * | 23.0546
030004 | 1.0093 | * | 13.8452 | * | * | 13.8452
030006 | 1.6635 | 0.9125 | 20.5019 | 23.2881 | 24.0169 | 22.4651
030007 | 1.3947 | 1.0564 | 22.2473 | 26.1551 | 26.9442 | 25.2403
030009 | 1.1142 | 0.9125 | 19.1258 | 19.9131 | 21.4065 | 20.1252
030010 | 1.3878 | 0.9125 | 19.8496 | 20.7204 | 22.8647 | 21.1646
030011 | 1.4758 | 0.9125 | 19.8141 | 21.0028 | 22.8422 | 21.2114
030012 | 1.2790 | 0.9985 | 21.1099 | 24.2366 | 25.5205 | 23.8026
030013 | 1.3507 | 0.9125 | 19.9517 | 21.9766 | 23.5229 | 21.8802
030014 | 1.4627 | 0.9985 | 20.3017 | 23.3663 | 25.1189 | 22.9571
030016 | 1.3052 | 0.9985 | 22.2526 | 24.3380 | 27.1583 | 24.6799
030017 | 1.6980 | 0.9985 | 23.1702 | 21.8792 | 24.4055 | 23.1546
030018 | 1.1998 | 0.9985 | 21.8067 | 24.9216 | 24.4308 | 23.7395
030019 | 1.1887 | 0.9985 | 22.0341 | 23.2973 | 28.4917 | 24.3829
030022 | 1.6736 | 0.9985 | 22.3351 | 24.9941 | 25.1461 | 24.2980
030023 | 1.6129 | 1.0777 | 25.4626 | 28.6627 | 28.4112 | 27.6224
030024 | 2.1141 | 0.9985 | 23.7663 | 26.7641 | 28.3470 | 26.1920
030025 | *** | * | 20.2690 | * | * | 20.2690
030027 | 0.9766 | 0.9125 | 18.5500 | 19.4583 | 21.0527 | 19.7088
030030 | 1.5804 | 0.9985 | 23.1280 | 25.2425 | 24.6005 | 24.2281
030033 | 1.2643 | 1.0564 | 20.3034 | 26.3814 | 26.6009 | 24.3844
030034 | *** | * | 19.5578 | * | * | 19.5578
030035 | *** | * | 20.5339 | * | * | 20.5339
030036 | 1.2000 | 0.9985 | 22.2690 | 24.9432 | 26.5708 | 24.6324
030037 | 2.1363 | 0.9985 | 23.7325 | 23.0542 | 30.3907 | 25.3379
030038 | 1.6005 | 0.9985 | 23.4477 | 25.2632 | 26.5178 | 25.1009
030040 | 0.8710 | 0.9125 | 19.3707 | 21.2717 | 22.5130 | 21.0352
030041 | *** | * | 18.4749 | * | * | 18.4749
030043 | 1.2791 | 0.9125 | 20.5653 | 23.5172 | 26.0825 | 23.4414
030044 | 0.9557 | 0.9125 | 18.6781 | 21.9503 | 19.5714 | 19.9272
030047 | *** | * | 22.7385 | * | * | 22.7385
030049 | *** | * | 19.7315 | * | * | 19.7315
030054 | *** | * | 15.7974 | * | * | 15.7974
030055 ʰ | 1.3097 | 1.1345 | 20.8373 | 22.8612 | 23.1837 | 22.3625
030059 | *** | * | 27.3929 | * | 24.7676 | 26.9545
030060 | 1.1863 | 0.9125 | 19.5021 | 21.7685 | 22.3551 | 21.2224
030061 | 1.6178 | 0.9985 | 21.1013 | 22.9706 | 23.4722 | 22.5411
030062 | 1.1997 | 0.9125 | 19.2670 | 21.1639 | 21.9849 | 20.8320
030064 | 1.8861 | 0.9125 | 21.6435 | 22.8009 | 24.6732 | 23.0238
030065 | 1.6009 | 0.9985 | 22.2846 | 24.6064 | 25.6738 | 24.2585
030067 | 0.9665 | 0.9125 | 17.6414 | 18.4003 | 19.1332 | 18.3489
030068 | 1.0854 | 0.9125 | 18.9718 | 19.7097 | 19.7030 | 19.4968
030069 ʰ | 1.3534 | 1.1345 | 23.4903 | 24.5432 | 25.6243 | 24.5990
030080 | 1.4335 | 0.9125 | 21.2299 | 22.8953 | 24.3573 | 22.8911
030083 | 1.3118 | 0.9985 | 23.5049 | 24.3273 | 24.9269 | 24.2989
030085 | 1.5587 | 0.9125 | 21.6542 | 21.8196 | 23.2070 | 22.2934
030087 | 1.5889 | 0.9985 | 23.1339 | 25.6351 | 26.3878 | 25.1083
030088 | 1.3864 | 0.9985 | 21.4491 | 23.5761 | 23.2478 | 22.8032
030089 | 1.5208 | 0.9985 | 22.0850 | 24.5055 | 26.2166 | 24.3651
030092 | 1.4203 | 0.9985 | 19.6625 | 24.0515 | 25.4127 | 23.2498
030093 | 1.2658 | 0.9985 | 21.7195 | 23.2485 | 23.5623 | 22.9162
030094 | 1.3193 | 0.9985 | 21.8049 | 24.5992 | 26.9985 | 24.3985
030095 | *** | * | 20.5222 | * | * | 20.5222
030099 | 0.9046 | 0.9125 | 19.8092 | 20.3310 | 26.7996 | 22.1687
030100 | 1.9561 | 0.9125 | 23.5868 | 27.6299 | * | 25.8489
030101 ʰ | 1.3419 | 1.1345 | 21.1029 | 23.7661 | 25.0077 | 23.1660
030102 | 2.4891 | 0.9985 | 21.5405 | 27.9419 | * | 24.8036
030103 | 1.6329 | 0.9985 | 28.9308 | 29.1105 | 28.2832 | 28.7420
030104 | *** | * | 32.8669 | 34.6028 | * | 33.8315
030105 | 2.6154 | 0.9985 | * | * | 27.6900 | 27.6900
030106 | 2.3713 | 0.9985 | * | * | 30.4791 | 30.4791
040001 | 1.0995 | 0.8670 | 16.3882 | 18.7141 | 23.1475 | 19.5432
040002 | 1.1706 | 0.7581 | 16.1353 | 18.0776 | 19.3429 | 17.8255
040003 | 1.0866 | 0.7581 | 15.5186 | 16.3918 | 18.5000 | 16.7495
040004 | 1.5912 | 0.8670 | 19.0105 | 21.2335 | 23.3504 | 21.3232
040005 | *** | * | 16.5465 | * | * | 16.5465
040007 | 1.5795 | 0.8840 | 22.5319 | 23.3992 | 23.4565 | 23.1106
040008 | *** | * | 20.2122 | * | * | 20.2122
040010 | 1.4170 | 0.8670 | 19.8251 | 20.7114 | 22.0984 | 20.8951
040011 | 0.9733 | 0.7581 | 17.1337 | 18.8346 | 19.0319 | 18.5339
040014 | 1.2952 | 0.8840 | 19.3996 | 22.4970 | 24.0846 | 21.9495
040015 | 0.9850 | 0.7581 | 17.9601 | 18.8513 | 18.0793 | 18.2951
040016 | 1.6960 | 0.8840 | 19.8087 | 21.2198 | 22.7219 | 21.2351
040017 | 1.1121 | 0.8267 | 16.5648 | 17.7545 | 19.4365 | 17.8909
040018 | 1.0668 | 0.8310 | 18.8203 | 22.0408 | 23.8515 | 21.6003
040019 | 1.1459 | 0.8887 | 21.0465 | 21.1711 | 21.5316 | 21.2611
040020 | 1.5207 | 0.8887 | 17.6056 | 18.6419 | 20.9136 | 19.0968
040021 | 1.1647 | 0.8840 | 21.3321 | 23.5620 | 24.7771 | 23.3281
040022 | 1.5752 | 0.8670 | 19.2393 | 21.4194 | 23.7462 | 21.2573
040024 | 1.0407 | 0.7581 | 17.1507 | 17.5750 | 20.1101 | 18.3059
040025 | *** | * | 14.8070 | * | * | 14.8070
040026 | 1.5991 | 0.9268 | 21.0143 | 22.7699 | 24.3053 | 22.7334
040027 | 1.3854 | 0.8267 | 17.7161 | 19.3388 | 19.9348 | 18.9814
040028 | *** | * | 15.2850 | * | * | 15.2850
040029 | 1.5039 | 0.8840 | 22.5094 | 22.1882 | 22.8770 | 22.5261
040030 | *** | * | 16.5488 | * | * | 16.5488
040032 | 0.9642 | * | 13.8013 | 16.2781 | 18.5171 | 16.1503
040035 | 0.8922 | 0.7581 | 11.0611 | 11.8237 | 13.4265 | 12.0575
040036 | 1.5023 | 0.8840 | 21.1066 | 21.6742 | 24.2851 | 22.3500
040037 | *** | * | 15.4985 | * | * | 15.4985
040039 | 1.2725 | 0.7581 | 15.2811 | 15.9673 | 17.7976 | 16.3796
040040 | *** | * | 19.6705 | * | * | 19.6705
040041 | 1.1707 | 0.8840 | 17.7783 | 20.4646 | 22.0188 | 20.0911
040042 | 1.3102 | 0.9231 | 16.6875 | 16.2285 | 18.9550 | 17.2476
040044 | *** | * | 17.1869 | * | * | 17.1869
040045 | 0.9625 | 0.7581 | 16.6648 | 19.5572 | 18.7952 | 18.2593
040047 | 1.0548 | 0.8026 | 18.6295 | 21.6323 | 21.5334 | 20.6477
040050 | 1.1094 | 0.7581 | 14.2087 | 15.1428 | 15.4782 | 14.9341
040051 | 1.0272 | 0.7581 | 18.2152 | 17.6964 | 18.8943 | 18.2885
040053 | 0.9972 | 0.7581 | 14.1508 | 19.2586 | 20.8153 | 17.5782
040054 | 1.0424 | 0.7581 | 16.5217 | 16.5573 | 16.7370 | 16.6038
040055 | 1.4787 | 0.8310 | 17.4236 | 19.7336 | 22.2237 | 19.7620
040058 | *** | * | 19.3124 | * | * | 19.3124
040060 | *** | * | 15.4220 | * | * | 15.4220
040062 | 1.5584 | 0.8310 | 19.4255 | 21.9336 | 21.6403 | 20.9790
040064 | *** | * | 13.3479 | * | * | 13.3479
040066 | 1.0431 | 0.8840 | 19.5619 | 21.7766 | 23.4616 | 21.6179
040067 | 1.0538 | 0.7581 | 15.0081 | 16.0516 | 15.1441 | 15.3964
040069 | 1.1116 | 0.8887 | 18.9754 | 20.5968 | 21.7607 | 20.4611
040070 | 1.0039 | * | 18.6066 | * | * | 18.6066
040071 | 1.5333 | 0.8726 | 18.4956 | 19.4324 | 22.9350 | 20.2395
040072 | 1.0808 | 0.8840 | 21.3320 | 19.3079 | 20.8269 | 20.4867
040074 | 1.1335 | 0.8840 | 20.8465 | 22.0800 | 22.6147 | 21.8283
040075 | 0.9844 | 0.8670 | 14.6681 | 15.7875 | 16.2583 | 15.5643
040076 | 1.0126 | 0.8656 | 21.8010 | 23.5947 | 21.0442 | 22.0817
040077 | 0.9878 | 0.7581 | 14.7230 | 16.7832 | 18.3261 | 16.5572
040078 | 1.5293 | 0.9268 | 19.6363 | 21.4854 | 24.4589 | 21.9124
040080 | 0.9910 | 0.8229 | 22.8154 | 18.4470 | 21.3483 | 20.6735
040081 | 0.8328 | 0.7581 | 12.4797 | 13.2797 | 13.7148 | 13.1618
040082 | *** | * | 16.4840 | * | * | 16.4840
040084 | 1.1179 | 0.8840 | 18.3410 | 20.1163 | 22.6441 | 20.4399
040085 | 0.9985 | 0.7581 | 14.1782 | 15.5811 | 18.0756 | 15.8198
040088 | 1.3499 | 0.8955 | 18.3159 | 20.0032 | 21.2974 | 19.8367
040090 | *** | * | 16.6619 | * | * | 16.6619
040091 | 1.2814 | 0.8440 | 20.2904 | 20.6688 | 23.0252 | 21.3255
040093 | *** | * | 14.7132 | * | * | 14.7132
040100 | 1.3423 | 0.7740 | 17.0271 | 17.8889 | 19.3560 | 18.1847
040105 | 1.0320 | 0.7581 | 14.8936 | 15.4697 | 15.8171 | 15.4079
040106 | *** | * | 19.0936 | * | * | 19.0936
040107 | 0.9113 | * | 20.6852 | 17.6695 | * | 19.2231
040109 | 1.1431 | 0.7581 | 16.2496 | 17.1706 | 18.8624 | 17.4430
040114 | 1.7775 | 0.8840 | 21.3826 | 21.6849 | 23.5628 | 22.2116
040118 | 1.4221 | 0.8229 | 19.6248 | 21.7913 | 24.2547 | 22.0146
040119 | 1.3583 | 0.8840 | 18.6028 | 19.9013 | 20.1631 | 19.5668
040126 | 0.8714 | 0.7581 | 16.3391 | 13.3832 | 12.5944 | 13.8589
040132 | *** | * | 24.6947 | 29.2343 | 36.5525 | 30.3513
040134 | 2.4517 | 0.8840 | 22.1291 | 24.4646 | * | 23.3449
040136 | *** | * | 21.4138 | * | * | 21.4138
040137 | 1.1769 | 0.8840 | * | 24.7813 | 23.4672 | 24.1071
040138 | 1.1841 | 0.8670 | * | 22.3523 | 23.3615 | 22.8913
040140 | *** | * | * | * | 25.1224 | 25.1224
050002 | 1.4035 | 1.5338 | 30.2629 | 30.9729 | 31.9709 | 31.0784
050006 | 1.5602 | 1.0450 | 22.4890 | 25.4604 | 27.6176 | 25.4669
050007 | 1.4877 | 1.4694 | 31.6270 | 34.1406 | 37.5804 | 34.4787
050008 | 1.3667 | 1.4694 | 28.2021 | 32.4067 | 36.9371 | 32.5714
050009 | 1.8839 | 1.4133 | 28.3021 | 30.2740 | 35.5384 | 31.4470
050013 | 2.0261 | 1.4133 | 27.2552 | 29.8401 | 31.7637 | 29.6455
050014 | 1.1627 | 1.1756 | 25.1664 | 27.7646 | 29.5726 | 27.5073
050015 | 1.2392 | 1.0450 | 28.2204 | 27.5652 | 30.1398 | 28.6270
050016 | 1.1481 | 1.1115 | 22.7014 | 25.5508 | 25.5735 | 24.6660
050017 | 2.0023 | 1.1756 | 25.7403 | 28.4911 | 30.5863 | 28.2416
050018 | 1.1589 | 1.1742 | 16.5909 | 17.9621 | 20.3179 | 18.3521
050022 | 1.5791 | 1.0979 | 26.2574 | 28.1312 | 28.2773 | 27.6284
050024 | 1.1174 | 1.1260 | 21.5230 | 25.1425 | 26.9378 | 24.7268
050025 | 1.7773 | 1.1260 | 26.0161 | 29.8262 | 31.7242 | 29.2573
050026 | 1.5392 | 1.1260 | 23.4651 | 24.2564 | 26.6406 | 24.8828
050028 | 1.2246 | 1.0450 | 17.9421 | 18.7866 | 21.5448 | 19.5088
050029 | *** | * | 26.6783 | 30.2538 | 34.3934 | 29.9982
050030 | 1.2557 | 1.0546 | 21.8639 | 21.9251 | 22.9148 | 22.2387
050032 | *** | * | 24.4176 | 28.8046 | * | 26.4686
050033 | *** | * | 31.1768 | * | * | 31.1768
050036 | 1.6468 | 1.0450 | 24.8017 | 25.3885 | 27.4915 | 25.9272
050038 | 1.5562 | 1.4723 | 32.1757 | 36.1619 | 35.0441 | 34.5289
050039 | 1.5373 | 1.0546 | 23.8478 | 26.8993 | 29.8179 | 26.9395
050040 | 1.1781 | 1.1742 | 30.1153 | 30.7426 | 31.8983 | 30.9709
050042 | 1.2538 | 1.1709 | 25.4903 | 27.6765 | 29.8062 | 27.6641
050043 | 1.5672 | 1.5338 | 38.8988 | 37.3217 | 39.6054 | 38.6251
050045 | 1.1878 | 1.0450 | 21.0356 | 22.1691 | 22.7051 | 21.9490
050046 | 1.1542 | 1.1742 | 25.3067 | 25.5490 | 25.2786 | 25.3770
050047 | 1.6483 | 1.4694 | 31.6959 | 34.4427 | 39.3993 | 35.3295
050051 | *** | * | 17.9266 | * | * | 17.9266
050054 | 1.1778 | 1.0979 | 19.2395 | 21.3495 | 27.1437 | 22.2812
050055 | 1.2232 | 1.4694 | 32.0923 | 36.1182 | 36.9386 | 35.0923
050056 | 1.4087 | 1.1742 | 24.7994 | 27.1458 | 29.4829 | 27.2030
050057 | 1.6159 | 1.0450 | 22.2584 | 24.2759 | 26.2099 | 24.3476
050058 | 1.5844 | 1.1742 | 24.8366 | 25.9389 | 27.3584 | 26.0730
050060 | 1.5647 | 1.0648 | 21.9971 | 22.9491 | 26.5515 | 23.9483
050061 | 1.5036 | 1.0757 | 23.9906 | 25.3042 | * | 24.6327
050063 | 1.3802 | 1.1742 | 25.5798 | 28.6093 | 32.0515 | 28.7954
050065 | 1.8252 | 1.1730 | 27.6677 | 28.8369 | 33.8223 | 30.2555
050066 | *** | * | 26.3920 | * | * | 26.3920
050067 | 1.2271 | 1.1993 | 22.1250 | 27.8867 | 29.6982 | 25.7491
050068 | *** | * | 19.2325 | 21.9031 | * | 19.8252
050069 | 1.5827 | 1.1730 | 25.8560 | 27.2744 | 28.6752 | 27.2574
050070 | 1.2693 | 1.4694 | 36.4136 | 39.5178 | 40.5645 | 38.9110
050071 | 1.2117 | 1.5338 | 36.4834 | 40.1344 | 41.1036 | 39.3177
050072 | 1.3637 | 1.5338 | 36.1146 | 39.2529 | 40.8108 | 38.8556
050073 | 1.2998 | 1.5338 | 36.1054 | 38.6763 | 41.3430 | 38.8513
050075 | 1.2462 | 1.5338 | 37.8104 | 40.2265 | 43.7101 | 40.7734
050076 | 2.0695 | 1.5338 | 37.0415 | 40.8075 | 43.0845 | 40.3198
050077 | 1.6248 | 1.1260 | 25.3481 | 27.1234 | 29.6264 | 27.3341
050078 | 1.2394 | 1.1742 | 23.0613 | 24.1091 | 25.6814 | 24.3042
050079 | 1.5268 | 1.5338 | 36.5455 | 38.8981 | 42.7385 | 39.7417
050082 | 1.7403 | 1.1742 | 23.7718 | 27.5022 | 28.9139 | 26.6018
050084 | 1.5700 | 1.1138 | 25.1155 | 26.0607 | 28.2664 | 26.5592
050088 | 0.8219 | 1.1115 | 25.2282 | 27.1103 | 26.4093 | 26.2305
050089 | 1.3284 | 1.1131 | 23.4120 | 24.7857 | 29.4884 | 25.8460
050090 | 1.2937 | 1.3246 | 25.4545 | 27.4193 | 31.1774 | 27.9574
050091 | 1.1092 | 1.1742 | 26.6463 | 29.2522 | 30.1534 | 28.7339
050092 | *** | * | 17.1883 | * | * | 17.1883
050093 | 1.5357 | 1.0648 | 27.2048 | 29.2642 | 31.1083 | 29.2944
050095 | *** | * | 29.2228 | * | * | 29.2228
050096 | 1.3911 | 1.1742 | 22.5034 | 23.0525 | 24.2277 | 23.1998
050097 | *** | * | 24.2548 | 24.6726 | 26.6788 | 25.1549
050099 | 1.5024 | 1.1131 | 26.2363 | 27.1282 | 28.7711 | 27.4160
050100 | 1.7732 | 1.1260 | 23.9877 | 25.6798 | 28.0303 | 25.8976
050101 | 1.3660 | 1.4538 | 33.1232 | 32.9866 | 35.4655 | 33.8972
050102 | 1.2746 | 1.0979 | 22.6741 | 25.5763 | 24.9381 | 24.3305
050103 | 1.4671 | 1.1742 | 23.5946 | 27.8079 | 28.7375 | 26.6551
050104 | 1.3878 | 1.1742 | 27.3260 | 26.1592 | 29.1240 | 27.5138
050107 | 1.3797 | 1.0757 | 22.2745 | 22.6900 | 27.6002 | 24.3549
050108 | 1.9362 | 1.1756 | 25.6983 | 28.5244 | 31.4271 | 28.5322
050110 | 1.2765 | 1.0757 | 21.3399 | 21.9297 | 20.0769 | 21.0071
050111 | 1.2334 | 1.1742 | 21.0813 | 23.7715 | 26.6345 | 23.8200
050112 | 1.5086 | 1.1742 | 29.1268 | 31.9797 | 34.0258 | 31.8161
050113 | 1.3060 | 1.4694 | 32.4493 | 32.6932 | 34.2851 | 33.1750
050114 | 1.3403 | 1.1742 | 27.6486 | 28.1938 | 29.2858 | 28.4022
050115 | 1.5361 | 1.1260 | 24.3748 | 24.1481 | 27.5207 | 25.3681
050116 | 1.6038 | 1.1742 | 27.0331 | 28.2924 | 28.8193 | 28.0729
050117 | 1.3507 | 1.0989 | 23.0697 | 24.7555 | 28.2227 | 25.4459
050118 | 1.1585 | 1.1138 | 24.9094 | 28.9358 | 33.0650 | 29.1714
050121 | 1.3693 | 1.0450 | 18.8430 | 25.0858 | 25.5962 | 22.9069
050122 | 1.5514 | 1.1138 | 26.9048 | 29.1534 | 29.7629 | 28.6276
050124 | 1.2888 | 1.1742 | 23.9379 | 23.0843 | 26.7065 | 24.5798
050125 | 1.3386 | 1.4723 | 33.3290 | 35.6573 | 40.9218 | 36.7497
050126 | 1.3579 | 1.1742 | 26.9718 | 27.7126 | 29.6203 | 28.1272
050127 | 1.3493 | 1.1683 | 20.5928 | 21.8719 | 23.6208 | 21.9780
050128 | 1.5056 | 1.1260 | 26.2519 | 28.7668 | 28.3278 | 27.7857
050129 | 1.8088 | 1.1131 | 23.7432 | 25.2780 | 27.8488 | 25.6046
050131 | 1.2137 | 1.4694 | 33.0979 | 37.7845 | 38.6834 | 36.6672
050132 | 1.3799 | 1.1742 | 24.1582 | 27.8805 | 29.4317 | 27.1434
050133 | 1.4609 | 1.0620 | 23.9479 | 25.1948 | 27.6030 | 25.6990
050135 | 0.9452 | 1.1742 | 23.2750 | * | 24.9415 | 24.0588
050136 | 1.2420 | 1.3246 | 28.0754 | 31.6146 | 35.2834 | 31.6860
050137 | 1.3008 | 1.1742 | 33.7489 | 35.0503 | 36.5409 | 35.0951
050138 | 1.9011 | 1.1742 | 40.8913 | 43.0858 | 43.8671 | 42.6456
050139 | 1.2215 | 1.1742 | 35.1492 | 33.8749 | 35.1013 | 34.7094
050140 | 1.4016 | 1.1131 | 36.7096 | 36.1708 | 37.5473 | 36.8236
050144 | 1.4257 | 1.1742 | 29.8983 | 30.3679 | 32.4042 | 30.9480
050145 | 1.2869 | 1.3820 | 37.5003 | 37.5722 | 39.5676 | 38.2547
050148 | 1.0800 | 1.0450 | 21.1621 | 17.3908 | 24.7063 | 20.7433
050149 | 1.5371 | 1.1742 | 25.8880 | 28.0500 | 30.1596 | 27.8848
050150 | 1.1778 | 1.1756 | 25.9494 | 26.7728 | 31.5333 | 28.0206
050152 | 1.3802 | 1.4694 | 34.5096 | 34.5694 | 40.3464 | 36.6036
050153 | 1.5765 | 1.4723 | 33.3333 | 34.5870 | 40.4446 | 36.0526
050155 | 1.0420 | 1.1742 | 23.2119 | 21.2068 | 21.8829 | 22.1262
050158 | 1.2971 | 1.1742 | 28.9764 | 30.6598 | 33.6400 | 31.2133
050159 | 1.2630 | 1.1742 | 26.6140 | 27.4051 | 30.8069 | 28.2926
050167 | 1.3398 | 1.1138 | 21.9596 | 23.2022 | 25.9850 | 23.7818
050168 | 1.6823 | 1.1730 | 27.1971 | 27.5313 | 30.8036 | 28.4978
050169 | 1.4020 | 1.1742 | 24.7737 | 25.6896 | 26.2864 | 25.5983
050170 | *** | * | 27.7692 | 29.4075 | * | 28.5112
050172 | 1.2746 | 1.0450 | 22.0400 | 24.5849 | 27.1497 | 24.5792
050173 | 1.1982 | 1.1730 | * | 27.7070 | 27.6097 | 27.6547
050174 | 1.7598 | 1.3655 | 31.6888 | 33.5204 | 36.3117 | 34.0156
050175 | 1.3022 | 1.1742 | 26.0146 | 26.9627 | 31.5615 | 28.1510
050177 | 1.2200 | 1.1742 | 22.5039 | 23.1575 | 24.7531 | 23.4567
050179 | 1.1785 | 1.1993 | 22.8941 | 23.0583 | 25.8072 | 23.9667
050180 | 1.6065 | 1.5338 | 34.0900 | 36.9905 | 40.8101 | 37.3796
050186 | *** | * | 25.0791 | 27.6638 | * | 26.3758
050188 | 1.3376 | 1.4723 | 30.6007 | 34.1503 | 39.3507 | 34.8263
050189 | 0.9822 | 1.3820 | 28.3295 | 32.3513 | 20.0709 | 25.6362
050191 | 1.5115 | 1.1742 | 29.4162 | 28.1689 | * | 28.7551
050192 | 1.0034 | 1.0450 | 19.0400 | 19.5327 | 21.2448 | 19.9850
050193 | 1.1550 | 1.1730 | 25.5293 | 24.6307 | 30.7341 | 26.9959
050194 | 1.2811 | 1.4759 | 28.5389 | 28.1413 | 38.6750 | 31.6195
050195 | 1.4801 | 1.5338 | 39.1617 | 42.1735 | 43.9696 | 41.8230
050196 | 1.1320 | 1.0450 | 19.4304 | 20.7257 | 25.2168 | 21.6072
050197 | 1.9489 | 1.4694 | 34.6878 | * | 40.8832 | 37.6336
050204 | 1.4387 | 1.1742 | 23.0192 | 24.9458 | 25.2512 | 24.4720
050205 | 1.2592 | 1.1742 | 24.1275 | 25.2841 | 28.0504 | 25.8192
050207 | 1.3222 | 1.0450 | 23.7774 | 25.1863 | 27.0216 | 25.3211
050211 | 1.2909 | 1.5338 | 33.2481 | 34.3396 | 38.3319 | 35.2596
050214 | 1.4703 | 1.1742 | 21.1480 | 22.4773 | 24.4785 | 22.6170
050215 | 1.6874 | 1.4723 | 31.6895 | 36.6063 | 41.6886 | 36.6088
050217 | 1.2167 | 1.0450 | 21.3026 | 22.2055 | 23.6286 | 22.3914
050219 | 1.0843 | 1.1742 | 21.7637 | 21.8649 | 22.9226 | 22.2450
050222 | 1.6931 | 1.1260 | 23.0670 | 25.2922 | 26.3882 | 24.9615
050224 | 1.7014 | 1.1730 | 24.8431 | 26.2108 | 26.7916 | 26.0048
050225 | 1.4137 | 1.0546 | 22.0981 | 25.0219 | 29.5184 | 25.5541
050226 | 1.5534 | 1.1730 | 26.1959 | 26.0826 | 29.2259 | 27.1921
050228 | 1.3658 | 1.5338 | 36.0632 | 38.6751 | 40.1362 | 38.2963
050230 | 1.3563 | 1.1730 | 26.7963 | 30.0380 | 34.1417 | 30.4321
050231 | 1.6282 | 1.1742 | 27.4697 | 27.8896 | 30.1298 | 28.5338
050232 | 1.4661 | 1.1115 | 25.8640 | 25.3439 | 24.4383 | 25.1909
050234 | 1.1504 | 1.1260 | 25.0104 | 24.0754 | 29.2421 | 25.9702
050235 | 1.5715 | 1.1742 | 26.0323 | 27.2838 | 27.8965 | 27.0815
050236 | 1.3305 | 1.1742 | 27.7406 | 27.0687 | 28.1969 | 27.6512
050238 | 1.4768 | 1.1742 | 25.1796 | 26.0312 | 29.1481 | 26.8188
050239 | 1.6086 | 1.1742 | 24.9469 | 27.0866 | 28.2327 | 26.8433
050240 | 1.6546 | 1.1742 | 28.8910 | 32.8542 | 35.2284 | 32.6305
050242 | 1.3998 | 1.4759 | 33.5646 | 34.4412 | 39.7629 | 35.9654
050243 | 1.5892 | 1.0979 | 26.0256 | 28.5626 | 31.8153 | 28.8813
050245 | 1.3235 | 1.1131 | 24.6092 | 25.7585 | 27.0949 | 25.8577
050248 | 1.0760 | 1.3820 | 28.4413 | 29.1192 | 31.6240 | 29.7919
050251 | 0.9414 | 1.0450 | 27.9530 | 24.4552 | 26.5021 | 26.1432
050253 | 0.8940 | 1.1730 | 21.0399 | 23.9246 | 22.2450 | 22.4112
050254 | 1.1655 | 1.1756 | 22.3414 | 23.3358 | 24.1512 | 23.3225
050256 | 1.7636 | 1.1742 | 25.1104 | 26.8618 | 28.4728 | 26.8599
050257 | 0.9838 | 1.0450 | 15.6379 | 17.4909 | 20.8367 | 18.0051
050260 | *** | * | 30.1623 | * | * | 30.1623
050261 | 1.2647 | 1.0450 | 19.4649 | 21.4693 | 25.3005 | 22.0287
050262 | 1.9550 | 1.1742 | 30.8866 | 33.0425 | 36.1162 | 33.3924
050264 | 1.3440 | 1.5338 | 33.2270 | 37.4742 | 41.3478 | 37.1652
050267 | *** | * | 27.8394 | 26.6558 | 26.7060 | 27.0912
050270 | 1.2834 | 1.1260 | 26.4092 | 27.9871 | 30.0540 | 28.2704
050272 | 1.4246 | 1.1131 | 23.3443 | 24.0921 | 25.9103 | 24.4736
050276 | 1.2460 | 1.5338 | 34.0633 | 34.7422 | 41.2251 | 36.8082
050277 | 1.2564 | 1.1742 | 23.6065 | 35.6323 | 35.8246 | 32.0771
050278 | 1.5387 | 1.1742 | 24.9699 | 26.0331 | 28.0351 | 26.3900
050279 | 1.2703 | 1.1131 | 22.2776 | 23.5145 | 25.5299 | 23.7872
050280 | 1.6777 | 1.1830 | 26.3392 | 28.5504 | 30.6723 | 28.5663
050281 | 1.4351 | 1.1742 | 25.2698 | 25.7832 | 26.2623 | 25.8272
050282 | *** | * | 26.4698 | * | * | 26.4698
050283 | 1.5681 | 1.5338 | 32.3270 | 35.1831 | 38.5600 | 35.4742
050286 | *** | * | 20.6190 | 19.7352 | 19.4973 | 19.9061
050289 | 1.5984 | 1.4694 | 32.2125 | 34.9645 | 38.6875 | 35.2956
050290 | 1.6311 | 1.1742 | 31.5000 | 31.9510 | 32.6388 | 32.0351
050291 | 1.7489 | 1.3246 | 30.9334 | 28.3451 | 29.6162 | 29.5747
050292 | 1.0285 | 1.0979 | 21.4357 | 27.6114 | 27.0775 | 25.2754
050293 | *** | * | 17.1935 | * | * | 17.1935
050295 | 1.5630 | 1.0450 | 25.4405 | 25.4332 | 31.5960 | 27.0241
050296 | 1.1549 | 1.4723 | 30.0984 | 33.5948 | 34.9952 | 32.9186
050298 | 1.1253 | 1.1131 | 22.4000 | 26.1707 | 25.8232 | 24.7510
050299 | 1.3307 | 1.1742 | 24.6751 | 26.9870 | 27.7535 | 26.5352
050300 | 1.6002 | 1.1131 | 26.0298 | 26.3182 | 28.3862 | 26.9438
050301 | 1.2424 | 1.0450 | 24.7987 | 25.7167 | 28.5769 | 26.4086
050305 | 1.4704 | 1.5338 | 36.6981 | 38.7597 | 40.9978 | 38.8596
050308 | 1.4367 | 1.4723 | 30.3887 | 31.6790 | 38.0564 | 33.4068
050309 | 1.3856 | 1.1756 | 25.5221 | 25.5367 | 28.9181 | 26.7014
050312 | 1.6034 | 1.1830 | 26.0172 | 28.2557 | 32.6846 | 29.2299
050313 | 1.1710 | 1.1138 | 28.9125 | 25.3372 | 27.5321 | 27.1784
050315 | 1.4110 | 1.0450 | 22.5906 | 23.6638 | 26.1224 | 24.1843
050320 | 1.2867 | 1.5338 | 31.6571 | 31.4570 | 36.3252 | 33.3109
050324 | 1.9545 | 1.1260 | 26.8313 | 28.4931 | 30.9958 | 28.8746
050325 | 1.2761 | 1.1993 | 22.6352 | 26.6325 | 30.2280 | 26.1975
050327 | 1.6411 | 1.1131 | 31.1527 | 33.0549 | 29.8327 | 31.2216
050329 | 1.3055 | 1.0979 | 24.2134 | 26.6341 | 26.8021 | 25.9438
050331 | 1.2629 | 1.3246 | 25.2110 | 21.5193 | 20.9847 | 22.6062
050333 | 1.1237 | 1.0450 | 14.1808 | 15.6929 | 15.3119 | 15.0561
050334 | 1.7059 | 1.3820 | 34.3956 | 37.2336 | 38.7635 | 36.8622
050335 | 1.4820 | 1.0626 | 22.9335 | 24.9274 | 27.4046 | 25.1372
050336 | 1.2582 | 1.1138 | 22.0202 | 23.2687 | 25.3062 | 23.5022
050342 | 1.1848 | 1.0450 | 22.4510 | 23.0282 | 24.7654 | 23.4399
050348 | 1.6467 | 1.1730 | 29.3364 | 28.9864 | 33.2676 | 30.6134
050349 | 0.9532 | 1.0450 | 15.4536 | 15.6043 | 16.9251 | 15.9684
050350 | 1.3278 | 1.1742 | 27.2368 | 27.2573 | 29.4262 | 27.9426
050351 | 1.4875 | 1.1742 | 25.2436 | 27.4042 | 29.3082 | 27.4273
050352 | 1.2212 | 1.1756 | 27.7489 | 32.6572 | 24.2931 | 27.8949
050353 | 1.5494 | 1.1742 | 24.1009 | 25.4309 | 26.6332 | 25.4247
050355 | 0.8275 | 1.0450 | 41.4707 | * | 11.2498 | 20.5891
050357 | 1.3323 | 1.0757 | 24.3540 | 25.2126 | 26.7265 | 25.4355
050359 | 1.1560 | 1.0450 | 19.7653 | 22.9175 | 23.6030 | 22.1297
050360 | 1.4100 | 1.4694 | 33.3592 | 35.9032 | 38.8658 | 36.1674
050366 | 1.1521 | 1.0450 | 22.0442 | 23.4696 | 25.7692 | 23.8612
050367 | 1.3959 | 1.4538 | 31.7487 | 32.6760 | 34.4959 | 33.0088
050369 | 1.2685 | 1.1742 | 26.6627 | 28.0909 | 27.1327 | 27.3063
050373 | 1.4011 | 1.1742 | 29.9749 | 30.7301 | 32.2315 | 30.9778
050376 | 1.4140 | 1.1742 | 28.4026 | 30.3530 | 30.7562 | 29.8294
050377 | *** | * | 11.6463 | 14.3892 | 20.2484 | 13.8073
050378 | 1.0552 | 1.1742 | 27.8389 | 30.4937 | 33.9087 | 30.7032
050379 | 0.9219 | 1.0450 | 24.2409 | 27.5151 | 31.7645 | 27.7551
050380 | 1.6068 | 1.4723 | 31.5962 | 35.8014 | 39.1098 | 35.4231
050382 | 1.3413 | 1.1742 | 26.3968 | 26.8950 | 26.0927 | 26.4631
050385 | 1.3045 | 1.3246 | 27.1692 | * | 25.5735 | 26.2354
050388 | *** | * | 17.6762 | * | * | 17.6762
050390 | 1.1781 | 1.0979 | 25.8556 | 25.7881 | 28.7761 | 26.7764
050391 | 1.1852 | 1.1742 | 19.0832 | 20.2887 | 21.3012 | 20.1817
050392 | 1.0964 | 1.0450 | 24.9004 | 21.8139 | 22.7209 | 23.0523
050393 | 1.2970 | 1.1742 | 25.4028 | 26.4918 | 28.2369 | 26.7640
050394 | 1.4948 | 1.1742 | 23.1641 | 25.1869 | 26.0074 | 24.8523
050396 | 1.6243 | 1.0757 | 25.7580 | 28.4161 | 30.5470 | 28.3141
050397 | 0.8564 | 1.0648 | 23.3213 | 24.7279 | 27.4716 | 25.1220
050404 | *** | * | 16.4845 | * | * | 16.4845
050406 | *** | * | 21.5282 | * | * | 21.5282
050407 | 1.2436 | 1.4694 | 32.0753 | 33.2894 | 35.6035 | 33.6812
050410 | *** | * | 17.1718 | 19.8436 | 19.4995 | 18.7459
050411 | 1.3422 | 1.1742 | 33.1718 | 35.5207 | 37.3817 | 35.3683
050414 | 1.3055 | 1.1756 | 24.5471 | 28.2381 | 28.8561 | 27.2835
050417 | 1.2227 | 1.0450 | 23.3862 | 24.5360 | 25.2930 | 24.3723
050419 | 1.4058 | 1.1709 | 25.1449 | 26.4357 | 28.4471 | 26.6564
050420 | 1.2159 | 1.1742 | 26.4201 | 26.7537 | 26.1838 | 26.4539
050423 | 0.9497 | 1.0979 | 24.8113 | 26.5188 | 28.5944 | 26.8040
050424 | 1.9099 | 1.1260 | 25.9378 | 27.5273 | 29.9133 | 27.7834
050425 | 1.3273 | 1.1756 | 33.7276 | 37.7347 | 38.5317 | 36.8369
050426 | 1.3374 | 1.1730 | 26.7941 | 30.9610 | 30.0077 | 29.2330
050427 | *** | * | 31.4156 | * | * | 31.4156
050430 | 0.9069 | 1.0450 | 25.2322 | 31.5170 | 24.6684 | 26.2981
050432 | 1.4370 | 1.1742 | 26.0686 | 28.1105 | 30.3547 | 28.2703
050433 | 0.8921 | 1.0450 | 17.7979 | 14.3846 | 20.7565 | 17.5511
050434 | 1.1173 | 1.0450 | 24.0017 | * | 25.9506 | 25.0135
050435 | 1.1001 | 1.1260 | 22.5428 | 22.6618 | 32.2183 | 25.4595
050438 | 1.5756 | 1.1742 | 25.3763 | 26.5535 | 26.4668 | 26.1457
050440 | *** | * | 25.4767 | * | * | 25.4767
050441 | 1.9952 | 1.4723 | 33.4696 | 36.6680 | 38.2823 | 36.1818
050443 | *** | * | 16.8897 | * | * | 16.8897
050444 | 1.3825 | 1.0989 | 22.6469 | 23.5299 | 27.6971 | 24.5287
050446 | *** | * | 20.3611 | * | * | 20.3611
050447 | 0.8760 | 1.1260 | 24.4339 | 25.7274 | 21.8552 | 23.7871
050448 | 1.1248 | 1.0450 | 22.6612 | 26.6967 | 25.0983 | 24.6971
050454 | 1.8507 | 1.4694 | 30.3063 | 34.4813 | 36.8383 | 33.8918
050455 | 1.6565 | 1.0450 | 20.5575 | 24.1694 | 24.5314 | 23.0077
050456 | 1.2345 | 1.1742 | 17.5845 | 23.7594 | 22.1675 | 20.7473
050457 | 1.6310 | 1.4694 | 34.2116 | 37.4570 | 40.2725 | 37.1222
050464 | 1.7422 | 1.1993 | 25.8092 | 31.4768 | 37.1342 | 31.7474
050468 | 1.5137 | 1.1742 | 22.9771 | 17.8128 | 29.4280 | 22.5159
050469 | 1.0786 | 1.0450 | * | 25.7995 | 27.3281 | 26.6090
050470 | 1.0753 | 1.0648 | 15.7765 | 21.6981 | 18.4689 | 18.4143
050471 | 1.7249 | 1.1742 | 29.4705 | 32.3570 | 34.5484 | 32.1366
050476 | 1.3097 | 1.0707 | 25.9458 | 26.0482 | 30.9974 | 27.6386
050477 | 1.4185 | 1.1742 | 30.8781 | 32.1676 | 34.6400 | 32.6903
050478 | 1.0308 | 1.0757 | 28.1830 | 28.3894 | 30.9865 | 29.1971
050481 | 1.4192 | 1.1742 | 28.5320 | 30.3890 | 31.9177 | 30.3563
050482 | *** | * | 21.6091 | * | * | 21.6091
050485 | 1.6049 | 1.1742 | 25.2723 | 27.1437 | 28.8459 | 27.0303
050488 | 1.2717 | 1.5338 | 33.8291 | 37.2438 | 40.5313 | 37.3033
050491 | 0.9858 | 1.1730 | 27.7413 | 29.2987 | 30.6461 | 29.2417
050492 | 1.4734 | 1.0648 | 23.4977 | 23.7384 | 27.4933 | 25.0895
050494 | 1.3243 | 1.2938 | 30.2876 | 30.8706 | 35.1457 | 32.0953
050496 | 1.7293 | 1.5338 | 32.7474 | 35.7115 | 38.2871 | 35.5428
050497 | *** | * | * | 14.4481 | 15.9501 | 15.1581
050498 | 1.3228 | 1.1756 | 27.6099 | 28.2196 | 28.2667 | 28.0378
050502 | 1.6874 | 1.1742 | 27.2724 | 28.0102 | 28.7200 | 28.0110
050503 | 1.4279 | 1.1260 | 25.7668 | 26.7924 | 29.2001 | 27.2829
050506 | 1.6048 | 1.1115 | 27.1555 | 30.4731 | 32.4509 | 30.0721
050510 | 1.1787 | 1.5338 | 36.2548 | 39.6005 | 44.3883 | 40.1811
050512 | 1.3349 | 1.5338 | 36.0785 | 39.0767 | 41.8921 | 39.1165
050515 | 1.2916 | 1.1260 | 37.3440 | 36.3131 | 37.4251 | 37.0308
050516 | 1.4978 | 1.1756 | 25.3450 | 30.0985 | 29.4936 | 28.0936
050517 | 1.1032 | 1.1131 | 23.6067 | 23.4131 | 23.6034 | 23.5417
050522 | *** | * | 37.0295 | 38.9157 | * | 37.5829
050523 | 1.2626 | 1.5338 | 32.1272 | 33.8053 | 34.7491 | 33.6018
050526 | 1.2497 | 1.1730 | 26.8814 | 29.0004 | 29.9495 | 28.6527
050528 | 1.1580 | 1.0450 | 21.1741 | 23.9177 | 28.6273 | 24.7915
050531 | 1.1534 | 1.1742 | * | 22.7311 | 25.0157 | 23.8961
050534 | 1.3201 | 1.0979 | 24.4038 | 26.7941 | 29.7546 | 27.1168
050535 | 1.3024 | 1.1730 | 27.7626 | 29.7904 | 32.3646 | 30.2162
050537 | 1.3103 | 1.1683 | 26.2342 | 25.1291 | 27.4196 | 26.2710
050539 | 1.2998 | 1.0707 | 23.7778 | 25.3328 | 28.0586 | 25.6658
050541 | 1.4734 | 1.5338 | 37.0551 | 41.1980 | 43.7765 | 40.7592
050542 | 0.9456 | * | 21.8129 | 21.2846 | * | 21.5965
050543 | 0.7402 | 1.1730 | 22.4134 | 24.0334 | 25.7161 | 24.1159
050545 | 0.8151 | 1.1742 | 33.6302 | 33.4322 | 42.9451 | 35.7939
050546 | 0.6867 | 1.0450 | 39.4267 | 42.8052 | 52.7180 | 44.2209
050547 | 0.9320 | 1.3246 | 37.7632 | 40.6483 | 45.1842 | 40.9624
050548 | 0.6769 | 1.1730 | 30.3337 | 32.3944 | 37.1314 | 33.1735
050549 | 1.5501 | 1.2938 | 30.0948 | 31.8525 | 33.8288 | 32.0221
050550 | 1.3497 | 1.1730 | 26.5515 | 29.0938 | 31.1918 | 29.0913
050551 | 1.2894 | 1.1730 | 26.1042 | 28.6834 | 31.6782 | 28.9731
050552 | 1.1029 | 1.1742 | 20.6068 | 24.9755 | 26.8274 | 24.4067
050557 | 1.5691 | 1.1993 | 23.8340 | 25.8719 | 28.3111 | 26.1521
050559 | *** | * | 26.3798 | 25.3299 | 26.9662 | 26.1992
050561 | 1.3689 | 1.1742 | 34.2065 | 35.9611 | 37.5863 | 35.9396
050566 | *** | * | 21.7712 | * | * | 21.7712
050567 | 1.5998 | 1.1730 | 26.2588 | 27.8475 | 30.1167 | 28.1139
050568 | 1.3378 | 1.0542 | 21.9313 | 20.8324 | 22.5008 | 21.7453
050569 | 1.3067 | 1.2938 | 27.3294 | 27.7955 | 30.4874 | 28.5507
050570 | 1.5515 | 1.1730 | 26.8965 | 29.9470 | 32.6896 | 29.9887
050571 | 1.2982 | 1.1742 | 26.2226 | 29.1716 | 32.1656 | 29.2903
050573 | 1.7368 | 1.0979 | 25.9380 | 27.2328 | 30.5249 | 27.9600
050575 | 1.2352 | 1.1742 | 27.8579 | 23.1358 | 23.2447 | 24.4730
050577 | 1.3034 | 1.1742 | 25.2861 | 26.4806 | 28.7060 | 26.7920
050578 | 1.6041 | 1.1742 | 32.0554 | 30.4934 | 31.5953 | 31.3583
050579 | 1.3273 | 1.1742 | 32.0245 | 34.9794 | 40.2740 | 35.9794
050580 | 1.2832 | 1.1730 | 22.7522 | 27.2431 | 29.4337 | 26.2798
050581 | 1.4091 | 1.1742 | 26.0580 | 28.9696 | 32.0823 | 29.1204
050583 | 1.5371 | 1.1260 | 26.2664 | 30.0427 | 33.5209 | 30.2128
050584 | 1.4598 | 1.1131 | 24.5294 | 24.5544 | 24.5757 | 24.5530
050585 | 1.2331 | 1.1730 | 26.4446 | 26.0595 | 27.2982 | 26.6489
050586 | 1.1608 | 1.1131 | * | 25.7172 | 25.3551 | 25.5353
050588 | 1.3170 | 1.1742 | 27.0506 | 30.5453 | 32.3603 | 30.1319
050589 | 1.2121 | 1.1730 | 23.7918 | 27.9845 | 30.6273 | 27.4205
050590 | 1.3263 | 1.1756 | 25.1100 | 27.0620 | 31.5987 | 27.5768
050591 | 1.1653 | 1.1742 | 26.7662 | 28.6151 | 28.5915 | 28.0684
050592 | 1.1900 | 1.1730 | 23.8267 | 25.9545 | 32.5000 | 27.1441
050594 | 1.9084 | 1.1730 | 28.7415 | 30.8028 | 34.6747 | 31.6043
050597 | 1.2460 | 1.1742 | 23.1209 | 24.5542 | 25.4868 | 24.3972
050598 | *** | * | 25.1623 | 24.6875 | * | 24.9066
050599 | 1.9026 | 1.1756 | 26.3782 | 27.7684 | 30.8420 | 28.3351
050601 | 1.5322 | 1.1742 | 29.7734 | 32.3033 | 35.0325 | 32.5236
050603 | 1.4308 | 1.1730 | 24.9032 | 25.0996 | 28.6982 | 26.3008
050604 | 1.2553 | 1.4723 | 36.4669 | 42.0018 | 45.4433 | 41.3890
050608 | 1.3393 | 1.0450 | 20.9171 | 20.7955 | 22.1999 | 21.3699
050609 | 1.4737 | 1.1742 | 34.8949 | 37.4563 | 38.4561 | 36.9281
050613 | 1.1061 | 1.4694 | 34.9769 | * | * | 34.9769
050615 | 1.3147 | 1.1742 | 25.8697 | 29.4323 | 32.8786 | 29.5326
050616 | 1.3515 | 1.1742 | 25.0016 | 23.1748 | 28.5636 | 25.5306
050618 | 0.9507 | 1.0450 | 22.3548 | 22.3481 | 25.4500 | 23.4384
050623 | 1.1279 | 1.1742 | 28.6475 | 29.9553 | 29.6550 | 29.3955
050624 | 1.2505 | 1.1742 | 22.4030 | 23.3492 | 28.1941 | 24.4726
050625 | 1.7368 | 1.1742 | 29.3665 | 30.8013 | 33.5137 | 31.2789
050630 | *** | * | 25.2915 | 27.7051 | 28.0726 | 27.0318
050633 | 1.2905 | 1.1115 | 27.8165 | 30.2883 | 33.4771 | 30.5689
050636 | 1.3520 | 1.1260 | 25.0213 | 23.2573 | 27.2360 | 25.2117
050638 | *** | * | 15.6375 | * | * | 15.6375
050641 | 1.1927 | 1.1742 | 17.9379 | 21.5030 | 20.4720 | 20.2332
050644 | 1.0042 | 1.1742 | * | 28.4054 | 25.6614 | 26.9492
050662 | 0.7397 | 1.4723 | 38.9591 | 40.9242 | 47.5065 | 42.0959
050663 | 0.9469 | 1.1742 | 22.7770 | 22.9161 | 25.1493 | 23.5792
050667 | 0.8853 | 1.4133 | 26.9236 | 31.4906 | 25.9250 | 28.0922
050668 | 1.0310 | 1.5338 | 57.8627 | 55.9594 | * | 57.1408
050670 | *** | * | 24.1626 | * | * | 24.1626
050674 | 1.3023 | 1.1756 | 33.7845 | 36.8871 | 38.4454 | 36.4893
050676 | *** | * | 16.3947 | * | * | 16.3947
050677 | 1.3818 | 1.1742 | 34.0936 | 36.2702 | 37.3389 | 35.9193
050678 | 1.2442 | 1.1730 | 25.2143 | 27.1337 | 29.1159 | 27.2938
050680 | 1.2834 | 1.4538 | 31.9166 | 32.7065 | 35.6614 | 33.5011
050682 | 0.8548 | 1.0648 | 19.8107 | 23.0984 | 21.7264 | 21.4166
050684 | 1.1621 | 1.0979 | 24.2792 | 23.7443 | 25.2575 | 24.4494
050685 | *** | * | 30.4194 | * | * | 30.4194
050686 | 1.3244 | 1.1701 | 34.8278 | 37.3033 | 38.5595 | 36.9365
050688 | 1.2048 | 1.4723 | 34.9937 | 36.5555 | 41.3305 | 37.6150
050689 | 1.5932 | 1.5338 | 34.0571 | 37.5449 | 40.3815 | 37.6346
050690 | 1.2893 | 1.3655 | 36.7516 | 41.1385 | 43.9228 | 40.7665
050693 | 1.2866 | 1.1730 | 29.1213 | 32.6638 | 34.8040 | 32.4525
050694 | 1.3002 | 1.0979 | 25.1963 | 25.8298 | 26.7041 | 25.9441
050695 | 1.0712 | 1.1138 | 26.2838 | 27.8742 | 30.1226 | 28.1703
050696 | 2.1214 | 1.1742 | 29.6684 | 29.9410 | 36.9314 | 32.4790
050697 | 1.0862 | 1.1830 | 24.1116 | 18.6962 | 19.2603 | 20.3265
050698 | *** | * | 24.9559 | * | * | 24.9559
050699 | *** | * | 23.4611 | 26.0909 | 25.6818 | 24.9432
050701 | 1.2778 | 1.0979 | 26.4901 | 28.4650 | 29.6896 | 28.2745
050704 | 1.0017 | 1.1742 | 25.6565 | 24.6072 | 24.6609 | 24.9725
050707 | 1.2630 | 1.4694 | 28.2637 | 27.7366 | 32.4877 | 29.5180
050708 | 1.6680 | 1.0648 | 24.5607 | 22.1606 | 21.2163 | 22.6876
050709 | 1.2146 | 1.0979 | 21.8770 | 22.7897 | 21.9079 | 22.1851
050710 | 1.2949 | 1.0648 | 30.5918 | 33.7204 | 34.8311 | 33.2239
050713 | 0.9680 | 1.1742 | 18.2822 | 19.0071 | 20.7448 | 19.3408
050714 | 1.2188 | 1.4759 | 30.3290 | 30.3263 | 32.4491 | 31.0508
050717 | 1.1972 | 1.1742 | 31.5021 | 33.0719 | 34.5519 | 33.0437
050718 | 1.3623 | 1.0979 | 22.5990 | 21.7835 | 15.4037 | 18.3570
050719 | *** | * | * | 22.0998 | * | 22.0998
050720 | 0.8490 | 1.1730 | * | 26.1941 | 24.8117 | 25.5276
050723 | 1.1997 | 1.1742 | 32.0291 | 33.0797 | 34.9814 | 33.5056
050724 | 2.0713 | 1.0450 | * | 23.7567 | * | 23.7567
050725 | 1.0337 | 1.1742 | * | 20.6592 | 22.0946 | 21.5366
050726 | 1.6214 | 1.1993 | * | 25.8742 | 27.0928 | 26.5383
050727 | 1.0537 | 1.1742 | * | * | 23.7179 | 23.7179
050728 | 1.3366 | 1.3246 | * | * | 31.4768 | 31.4768
060001 | 1.5659 | 1.0679 | 21.4562 | 23.1548 | 24.9410 | 23.3105
060003 | 1.4190 | 1.0679 | 21.9043 | 23.0807 | 24.7856 | 23.3626
060004 | 1.2166 | 1.0879 | 22.9265 | 25.0037 | 28.0656 | 25.4883
060006 | 1.3005 | 0.9356 | 21.0003 | 21.8609 | 22.7493 | 21.9079
060007 | 1.0665 | 0.9356 | 19.3071 | 21.4244 | 21.4792 | 20.7379
060008 | 1.1119 | 0.9356 | 18.7098 | 19.8803 | 21.8037 | 20.1619
060009 | 1.4716 | 1.0879 | 23.9272 | 24.7920 | 27.0511 | 25.2861
060010 | 1.7217 | 1.0230 | 24.2735 | 25.8475 | 27.2290 | 25.7967
060011 | 1.5236 | 1.0879 | 22.2058 | 25.8919 | 26.1958 | 24.7793
060012 | 1.4406 | 0.9356 | 21.2980 | 22.6374 | 24.1557 | 22.6840
060013 | 1.3645 | 0.9356 | 23.5248 | 23.3954 | 24.9708 | 23.8003
060014 | 1.8598 | 1.0879 | 25.7701 | 27.0326 | 29.6744 | 27.4579
060015 | 1.6588 | 1.0879 | 23.6015 | 27.6338 | 30.1158 | 27.1990
060016 | 1.1648 | 0.9356 | 20.2361 | 22.9300 | 23.9655 | 22.4186
060018 | 1.2543 | 0.9356 | 21.8479 | 21.0581 | 23.6620 | 22.1787
060020 | 1.5776 | 0.9356 | 19.7348 | 20.9025 | 22.2052 | 21.0033
060022 | 1.6078 | 0.9771 | 22.8059 | 24.7928 | 25.7832 | 24.5054
060023 | 1.6091 | 0.9932 | 22.4731 | 24.3749 | 26.7285 | 24.5867
060024 | 1.7644 | 1.0879 | 24.3658 | 25.2409 | 28.7231 | 26.1534
060027 | 1.5405 | 1.0679 | 22.1717 | 25.1480 | 26.6348 | 24.7867
060028 | 1.4570 | 1.0879 | 24.2985 | 27.1303 | 27.9686 | 26.4616
060029 | 0.9334 | * | 19.8498 | 19.7379 | * | 19.7932
060030 | 1.3459 | 1.0230 | 21.2612 | 22.8309 | 26.0011 | 23.5385
060031 | 1.5517 | 0.9771 | 23.3995 | 23.8781 | 25.6207 | 24.3400
060032 | 1.4888 | 1.0879 | 24.7678 | 27.1783 | 28.2234 | 26.8043
060033 | 0.9986 | * | 17.8514 | 16.7266 | * | 17.2895
060034 | 1.5132 | 1.0879 | 24.3652 | 26.1602 | 28.4604 | 26.4088
060036 | 1.1602 | 0.9356 | 18.6521 | 19.4144 | 20.4635 | 19.5159
060037 | *** | * | 15.7495 | * | * | 15.7495
060038 | *** | * | 16.6526 | * | * | 16.6526
060041 | 0.8958 | 0.9356 | 19.5871 | 20.8746 | 22.7123 | 21.0301
060042 | 1.1042 | * | 19.3967 | * | * | 19.3967
060043 | 0.9786 | 0.9356 | 15.4074 | 19.1085 | 20.0939 | 18.2959
060044 | 1.1219 | 1.0679 | 21.3102 | 25.6112 | 25.2471 | 24.5591
060046 | *** | * | 22.6819 | * | * | 22.6819
060047 | *** | * | 17.9172 | * | * | 17.9172
060049 | 1.3476 | 1.0230 | 25.9592 | 25.3425 | 26.8089 | 26.0783
060050 | 1.1924 | * | * | 20.4386 | 21.9108 | 21.1679
060052 | *** | * | 16.0543 | * | * | 16.0543
060053 | *** | * | 19.4746 | * | * | 19.4746
060054 | 1.4122 | 0.9932 | 19.7753 | 21.1281 | 23.5803 | 21.4905
060056 | *** | * | 21.9586 | * | * | 21.9586
060057 | 1.0340 | 1.0679 | 24.6599 | 24.3982 | 26.9891 | 25.4467
060058 | *** | * | 16.4504 | * | * | 16.4504
060060 | *** | * | 19.4418 | * | * | 19.4418
060062 | *** | * | 17.1032 | * | * | 17.1032
060064 | 1.4135 | 1.0879 | 28.8746 | 29.1806 | 30.0963 | 29.4469
060065 | 1.3033 | 1.0879 | 24.4554 | 29.2377 | 28.5282 | 27.4045
060066 | *** | * | 17.5556 | * | * | 17.5556
060070 | 1.0131 | * | 19.2220 | 22.6894 | * | 20.9589
060071 | 1.2135 | 0.9356 | 17.6452 | 20.1385 | 20.2706 | 19.3858
060073 | *** | * | 18.4971 | * | * | 18.4971
060075 | 1.2699 | 1.1677 | 25.0552 | 27.7835 | 30.7835 | 27.8798
060076 | 1.3164 | 0.9356 | 22.9426 | 23.6266 | 25.5406 | 24.1006
060085 | *** | * | 10.9724 | * | * | 10.9724
060088 | *** | * | 20.7211 | * | * | 20.7211
060090 | 1.0058 | * | 16.5321 | * | * | 16.5321
060096 | 1.5946 | 1.0679 | 21.9950 | 26.4167 | 27.4085 | 25.3345
060100 | 1.6440 | 1.0879 | 24.8116 | 28.0561 | 29.7690 | 27.6225
060103 | 1.2656 | 1.0679 | 24.4962 | 26.6863 | 28.8063 | 26.7655
060104 | 1.3509 | 1.0879 | 24.4248 | 26.7683 | 30.8625 | 27.4536
060107 | 1.2642 | 1.0879 | * | * | 26.8267 | 26.8267
060108 | *** | * | 19.1327 | 19.0011 | * | 19.0448
060109 | *** | * | 27.3180 | * | * | 27.3180
060110 | *** | * | * | 29.8561 | * | 29.8561
060111 | *** | * | * | * | 31.2571 | 31.2571
070001 | 1.6543 | 1.2928 | 27.7441 | 29.9592 | 32.2718 | 29.9131
070002 | 1.8043 | 1.1583 | 26.6881 | 28.1101 | 29.0663 | 27.9442
070003 | 1.0877 | 1.1583 | 28.1722 | 29.8684 | 31.3716 | 29.8404
070004 | 1.2288 | 1.1583 | 25.4310 | 25.7207 | 27.3004 | 26.1163
070005 | 1.4070 | 1.2928 | 27.6733 | 29.8173 | 29.3265 | 28.9347
070006 ² | 1.3256 | 1.3318 | 33.6291 | 33.3814 | 33.9310 | 33.6555
070007 | 1.2988 | 1.1627 | 28.0875 | 29.0336 | 30.3648 | 29.1845
070008 | 1.2755 | 1.1583 | 25.1362 | 24.3907 | 24.9176 | 24.8223
070009 | 1.2819 | 1.1583 | 24.9408 | 25.6072 | 28.8649 | 26.4656
070010 | 1.8047 | 1.3457 | 28.3168 | 30.4192 | 33.1535 | 30.6792
070011 | 1.3651 | 1.1583 | 24.8206 | 24.9457 | 27.5391 | 25.7127
070012 | 1.2553 | 1.1583 | 37.5917 | 34.9099 | 40.3337 | 37.5692
070015 | 1.4868 | 1.3457 | 29.2693 | 30.0614 | 30.9728 | 30.0956
070016 | 1.4051 | 1.2928 | 28.4833 | 29.7505 | 29.6662 | 29.2712
070017 | 1.4019 | 1.2928 | 27.5514 | 29.2978 | 30.3951 | 29.0728
070018 ² | 1.3714 | 1.3318 | 32.6301 | 33.8654 | 35.7189 | 34.1711
070019 | 1.2641 | 1.2928 | 26.2348 | 27.9838 | 29.6290 | 27.9856
070020 | 1.3571 | 1.1656 | 26.6203 | 28.4084 | 29.9507 | 28.3943
070021 | 1.2252 | 1.1583 | 29.4597 | 30.3254 | 31.4397 | 30.4614
070022 | 1.8110 | 1.2928 | 27.2423 | 29.7376 | 32.3625 | 29.7867
070024 | 1.4172 | 1.1627 | 26.3544 | 28.3460 | 30.8308 | 28.5554
070025 | 1.8768 | 1.1583 | 27.3592 | 28.3017 | 29.2540 | 28.3054
070027 | 1.3275 | 1.1583 | 25.9279 | 36.9700 | 27.3487 | 29.2726
070028 | 1.6206 | 1.3457 | 26.7286 | 28.2078 | 29.5653 | 28.1832
070029 | 1.3123 | 1.1583 | 23.8427 | 25.8107 | 26.3871 | 25.3719
070031 | 1.2493 | 1.2928 | 25.6347 | 25.5880 | 27.2359 | 26.1749
070033 | 1.3795 | 1.3457 | 34.1591 | 34.3904 | 35.5355 | 34.7141
070034 ² | 1.3932 | 1.3318 | 30.0744 | 32.8074 | 35.6831 | 32.8177
070035 | 1.3209 | 1.1583 | 24.5996 | 26.1693 | 27.1816 | 25.9558
070036 | 1.6434 | 1.2918 | 31.2961 | 35.0701 | 34.0555 | 33.4573
070038 | *** | * | 26.3126 | * | 31.1133 | 27.2024
070039 | 0.9246 | 1.2928 | * | 32.6059 | 35.0164 | 33.8498
080001 | 1.6719 | 1.1134 | 26.8887 | 28.0859 | 30.2463 | 28.4442
080002 | *** | * | 20.9385 | 23.7309 | 26.4192 | 23.6246
080003 | 1.5422 | 1.1134 | 24.8200 | 24.8199 | 27.1131 | 25.5237
080004 | 1.3774 | 1.0904 | 21.7344 | 24.2251 | 26.0092 | 24.0021
080006 | 1.2866 | 0.9631 | 20.9399 | 23.6838 | 24.4204 | 23.0247
080007 | 1.3987 | 1.0316 | 21.5415 | 23.4964 | 24.6485 | 23.2356
090001 | 1.7555 | 1.1026 | 23.0365 | 29.5432 | 31.3552 | 27.7731
090002 | *** | * | 20.6550 | 23.5158 | 29.6780 | 23.4282
090003 | 1.3656 | 1.1026 | 27.1087 | 22.7014 | 27.0514 | 25.4701
090004 | 1.8944 | 1.1026 | 25.9717 | 28.7417 | 29.9785 | 28.4391
090005 | 1.3632 | 1.1026 | 26.8690 | 28.6142 | 30.2504 | 28.6956
090006 | 1.4019 | 1.1026 | 22.9658 | 23.7241 | 25.9086 | 24.2077
090007 | *** | * | 24.6668 | 25.8430 | 30.1419 | 26.6936
090008 | 1.4854 | 1.1026 | * | 19.3212 | 29.6744 | 24.0820
090010 | *** | * | 25.9373 | * | * | 25.9373
090011 | 2.0598 | 1.1026 | 27.6038 | 31.7710 | 32.4412 | 30.6405
100001 | 1.4525 | 0.9565 | 22.0101 | 22.6150 | 25.2381 | 23.3871
100002 | 1.3597 | 1.0348 | 21.5772 | 22.5982 | 22.1269 | 22.1101
100004 | 0.9448 | 0.8626 | 16.1638 | 15.6306 | 16.2637 | 16.0223
100006 | 1.6079 | 0.9731 | 21.6922 | 23.3745 | 26.2372 | 23.8819
100007 | 1.6891 | 0.9731 | 22.5317 | 24.3305 | 25.4333 | 24.2013
100008 | 1.6486 | 0.9870 | 21.6416 | 22.7706 | 25.7377 | 23.4549
100009 | 1.4653 | 0.9870 | 22.6370 | 24.7811 | 24.4666 | 23.9891
100010 | *** | * | 23.9581 | 25.5614 | 26.9486 | 25.4664
100012 | 1.6359 | 0.9338 | 22.0244 | 24.2602 | 24.5762 | 23.6309
100014 | 1.3625 | 0.9018 | 21.9875 | 21.7566 | 22.3054 | 22.0128
100015 | 1.3100 | 0.9074 | 18.9383 | 22.1272 | 22.5781 | 21.2637
100017 | 1.5402 | 0.9018 | 20.1417 | 21.1905 | 22.9545 | 21.5050
100018 | 1.6043 | 1.0531 | 22.6587 | 24.1885 | 27.8582 | 24.9765
100019 | 1.6342 | 0.9625 | 25.8297 | 24.2888 | 25.5566 | 25.1966
100020 | 1.2343 | 0.9870 | 21.7421 | 23.5303 | 23.6106 | 23.0052
100022 | 1.7003 | 1.0382 | 27.4235 | 27.9072 | 29.0519 | 28.1457
100023 | 1.3237 | 0.9731 | 20.2034 | 21.8111 | 21.4015 | 21.1410
100024 | 1.2862 | 0.9870 | 22.9872 | 24.4070 | 27.6476 | 25.0345
100025 | 1.6680 | 0.8626 | 20.1360 | 21.2568 | 21.1174 | 20.8749
100026 | 1.6324 | 0.8626 | 21.3742 | 20.1602 | 21.3533 | 20.9436
100027 | 0.9323 | 0.8626 | 20.5889 | 23.8982 | 12.0314 | 18.2953
100028 | 1.2789 | 0.9625 | 20.3751 | 21.8879 | 23.7818 | 22.0247
100029 | 1.1305 | 0.9870 | 22.2553 | 24.6814 | 26.9307 | 24.5586
100030 | 1.2695 | 0.9731 | 19.5604 | 21.8567 | 22.4887 | 21.4341
100032 | 1.8040 | 0.9074 | 20.6543 | 21.6415 | 23.0174 | 21.7882
100034 | 1.7719 | 0.9870 | 20.0099 | 23.1111 | 24.4064 | 22.5984
100035 | 1.5932 | 0.9610 | 21.3519 | 22.6349 | 25.3590 | 23.0863
100038 | 1.8341 | 1.0382 | 24.9548 | 25.7948 | 27.4422 | 26.1330
100039 | 1.4038 | 1.0382 | 23.3111 | 23.8060 | 26.6016 | 24.6112
100040 | 1.6325 | 0.9565 | 19.5154 | 22.4679 | 23.5372 | 21.8865
100043 | 1.2917 | 0.9074 | 20.7688 | 21.7738 | 22.8963 | 21.8399
100044 | 1.4111 | 1.0093 | 22.9474 | 23.9952 | 26.3208 | 24.4024
100045 | 1.3114 | 0.9731 | 22.8096 | 25.2285 | 23.0520 | 23.6227
100046 | 1.2293 | 0.9074 | 23.2027 | 24.2746 | 26.6169 | 24.8423
100047 | 1.6906 | 0.9472 | 21.4971 | 24.3522 | 24.4212 | 23.5067
100048 | 0.8988 | 0.8626 | 17.3663 | 17.5533 | 18.3767 | 17.7520
100049 | 1.1421 | 0.8943 | 20.9490 | 21.8679 | 22.9532 | 21.9412
100050 | 1.1905 | 0.9870 | 17.8960 | 20.0405 | 20.6893 | 19.5468
100051 | 1.3294 | 0.9731 | 19.3258 | 20.0231 | 22.3311 | 20.7020
100052 | 1.3756 | 0.8943 | 19.6620 | 20.5916 | 20.9078 | 20.3897
100053 | 1.2555 | 0.9870 | 21.6634 | 23.7837 | 27.3383 | 24.3051
100054 | 1.2260 | 0.8781 | 20.9612 | 22.0352 | 25.7279 | 23.0243
100055 | 1.3175 | 0.9074 | 19.1325 | 19.6350 | 22.1051 | 20.2297
100056 | *** | * | 23.1737 | 25.9245 | 25.7945 | 24.9651
100057 | 1.3810 | 0.9731 | 22.3406 | 24.6417 | 22.6038 | 23.1318
100061 | 1.4629 | 0.9870 | 24.5277 | 26.1273 | 26.7673 | 25.8520
100062 | 1.7430 | 0.9234 | 21.9054 | 24.9807 | 24.1413 | 23.6307
100063 | 1.3178 | 0.9074 | 19.2510 | 21.5620 | 21.5566 | 20.8353
100067 | 1.4592 | 0.9074 | 19.2168 | 23.8892 | 23.9333 | 22.4748
100068 | 1.5814 | 0.9018 | 19.9648 | 23.7840 | 24.9025 | 24.0014
100069 | 1.2868 | 0.9074 | 18.5789 | 19.6037 | 22.4386 | 20.3465
100070 | 1.5621 | 0.9610 | 20.9592 | 23.5524 | 23.7746 | 22.8911
100071 | 1.2031 | 0.9074 | 20.7461 | 21.7675 | 23.4176 | 22.1925
100072 | 1.3339 | 0.9018 | 22.0317 | 23.5362 | 24.2934 | 23.3686
100073 | 1.7662 | 1.0382 | 22.2425 | 23.5843 | 25.3685 | 23.7848
100075 | 1.5240 | 0.9074 | 20.4604 | 22.3890 | 23.3503 | 22.0804
100076 | 1.2260 | 0.9870 | 18.4815 | 19.6444 | 21.0777 | 19.7252
100077 | 1.4118 | 0.9472 | 20.9482 | 22.3755 | 24.3478 | 22.5887
100078 | *** | * | 16.6004 | * | * | 16.6004
100080 | 1.7036 | 1.0348 | 22.9720 | 22.8704 | 26.3596 | 24.1112
100081 | 1.1459 | 0.8653 | 16.5149 | 16.8087 | 16.9168 | 16.7506
100084 | 1.7415 | 0.9731 | 24.5682 | 24.1122 | 25.4140 | 24.7109
100086 | 1.1811 | 1.0382 | 24.3067 | 25.2375 | 26.4817 | 25.3800
100087 | 1.9320 | 0.9610 | 22.1764 | 26.5915 | 25.9909 | 24.9427
100088 | 1.7059 | 0.9565 | 20.6667 | 23.6270 | 24.8729 | 23.1132
100090 | 1.3861 | 0.9565 | 21.0431 | 22.5894 | 24.0501 | 22.5894
100092 | 1.4930 | 0.9625 | 21.4601 | 25.4630 | 26.0856 | 24.1570
100093 | 1.7034 | 0.8626 | 18.7153 | 20.2949 | 21.1547 | 20.0867
100098 | 1.0429 | 1.0348 | 21.1723 | 20.0639 | 21.2505 | 20.8483
100099 | 1.0886 | 0.8943 | 16.5271 | 18.5287 | 20.4328 | 18.3874
100102 | 1.1226 | 0.8626 | 19.0193 | 21.6772 | 22.8850 | 21.1693
100103 | 0.9371 | 0.9500 | 19.1222 | 20.3633 | 21.7494 | 20.3776
100105 | 1.4243 | 1.0093 | 22.7793 | 24.5464 | 24.9503 | 24.0896
100106 | 0.9761 | 0.8626 | 21.4342 | 20.3417 | 20.2882 | 20.7173
100107 | 1.1826 | 0.9338 | 21.7553 | 23.3789 | 24.4484 | 23.1833
100108 | 0.8248 | 0.8626 | 18.4126 | 14.8039 | 16.3757 | 16.3500
100109 | 1.2854 | 0.9731 | 20.6007 | 23.0779 | 23.8836 | 22.5682
100110 | 1.5456 | 0.9731 | 22.8127 | 24.4533 | 28.3699 | 25.4724
100112 | *** | * | 16.2110 | * | * | 16.2110
100113 | 1.8723 | 0.9446 | 23.3380 | 24.3614 | 25.0067 | 24.2527
100114 | 1.3209 | 0.9870 | 22.5326 | 25.3699 | 27.7413 | 25.1107
100117 | 1.2141 | 0.9565 | 21.3085 | 23.9134 | 26.0451 | 23.8882
100118 | 1.2721 | 0.9121 | 21.7067 | 24.1104 | 23.6669 | 23.1050
100121 | 1.1757 | 0.8943 | 19.9033 | 23.1100 | 24.0937 | 22.4434
100122 | 1.1923 | 0.8781 | 24.9765 | 24.1820 | 21.2597 | 23.2094
100124 | 1.1507 | 0.8626 | 20.0867 | 24.3048 | 21.6483 | 21.9310
100125 | 1.1774 | 0.9870 | 20.3232 | 22.4185 | 25.3532 | 22.8150
100126 | 1.5110 | 0.9074 | 21.4349 | 21.7977 | 23.2996 | 22.1919
100127 | 1.6080 | 0.9074 | 20.5153 | 21.0153 | 21.3223 | 20.9562
100128 | 2.1360 | 0.9074 | 23.5835 | 24.4104 | 25.6763 | 24.6219
100130 | 1.2661 | 1.0348 | 21.0023 | 20.2478 | 22.8324 | 21.3596
100131 | 1.2815 | 0.9870 | 24.6184 | 25.4811 | 25.8316 | 25.3385
100132 | 1.2217 | 0.9074 | 19.5259 | 21.1538 | 23.0428 | 21.2692
100134 | 0.8889 | 0.8626 | 16.9302 | 18.3391 | 19.5337 | 18.2884
100135 | 1.5307 | 0.8689 | 19.7675 | 20.4915 | 22.3071 | 20.8396
100137 | 1.1480 | 0.8943 | 20.9014 | 20.4007 | 23.3692 | 21.6041
100138 | *** | * | 14.9759 | * | * | 14.9759
100139 | 0.8454 | 0.9446 | 15.7378 | 18.2204 | 14.5046 | 16.1844
100140 | 1.1447 | 0.9565 | 20.2288 | 22.5124 | 24.8165 | 22.6153
100142 | 1.2107 | 0.8626 | 17.7250 | 20.0689 | 20.7219 | 19.4501
100146 | *** | * | 20.8381 | * | * | 20.8381
100147 | 0.9367 | * | 17.1566 | 17.1045 | * | 17.1298
100150 | 1.2999 | 0.9870 | 25.4269 | 22.9194 | 25.7122 | 24.6389
100151 | 1.7682 | 0.9565 | 26.6143 | 26.6470 | 26.1848 | 26.4559
100154 | 1.4221 | 0.9870 | 21.6715 | 23.0820 | 26.3703 | 23.7877
100156 | 1.1162 | 0.8626 | 20.0348 | 20.6928 | 22.2757 | 21.0438
100157 | 1.5890 | 0.8943 | 24.2188 | 23.1045 | 25.9133 | 24.4033
100159 | *** | * | 15.0634 | * | * | 15.0634
100160 | 1.2098 | 0.8626 | 22.6942 | 23.4877 | 27.2019 | 24.5476
100161 | 1.5793 | 0.9731 | 23.3612 | 24.6268 | 28.3607 | 25.5840
100162 | *** | * | 24.2950 | 23.8001 | * | 24.0481
100166 | 1.4348 | 0.9610 | 22.2419 | 23.7419 | 24.4251 | 23.4473
100167 | 1.2463 | 1.0382 | 25.7675 | 26.4517 | 26.8584 | 26.3859
100168 | 1.3713 | 1.0348 | 23.0121 | 24.6276 | 26.0864 | 24.6003
100169 | *** | * | 21.6397 | 23.4575 | * | 22.5513
100170 | *** | * | 21.2469 | * | * | 21.2469
100172 | 1.3951 | 0.9870 | 15.7827 | 17.6051 | 18.4651 | 17.2801
100173 | 1.7317 | 0.9074 | 18.3828 | 19.7190 | 22.4866 | 20.1761
100175 | 1.0244 | 0.8857 | 21.2532 | 21.0474 | 22.0666 | 21.4378
100176 | 1.9088 | 1.0093 | 24.6595 | 26.8740 | 29.8326 | 27.1345
100177 | 1.2516 | 0.9625 | 25.1037 | 24.5078 | 25.3973 | 25.0090
100179 | 1.7478 | 0.9565 | 23.9633 | 24.1801 | 26.6537 | 25.0065
100180 | 1.3800 | 0.9074 | 22.7781 | 24.9433 | 26.3299 | 24.8073
100181 | 1.0678 | 0.9870 | 17.9048 | 18.1320 | 19.5022 | 18.4708
100183 | 1.1482 | 0.9870 | 22.2063 | 24.4575 | 26.7893 | 24.4872
100187 | 1.2744 | 0.9870 | 21.4988 | 23.4760 | 26.1394 | 23.7305
100189 | 1.3038 | 1.0382 | 27.1295 | 26.6846 | 26.5763 | 26.7708
100191 | 1.3519 | 0.9074 | 22.0526 | 24.1911 | 24.3553 | 23.5378
100200 | 1.3810 | 1.0382 | 24.8878 | 24.8120 | 28.0926 | 25.9374
100204 | 1.5168 | 0.9446 | 21.1922 | 22.2613 | 24.4697 | 22.7021
100206 | 1.2752 | 0.9074 | 20.3436 | 22.8782 | 23.0340 | 22.0526
100208 | *** | * | 20.4678 | 24.1482 | 24.9854 | 23.3245
100209 | 1.4170 | 0.9870 | 22.8236 | 23.8502 | 25.0778 | 23.9934
100210 | 1.4661 | 1.0382 | 23.0431 | 26.0933 | 28.6449 | 25.9638
100211 | 1.2427 | 0.9074 | 21.6367 | 24.3243 | * | 22.9720
100212 | 1.4878 | 0.9234 | 21.7239 | 22.6584 | 24.2669 | 22.9037
100213 | 1.5527 | 0.9610 | 22.0176 | 24.4467 | 25.1893 | 23.9275
100217 | 1.2447 | 1.0093 | 22.7116 | 24.0291 | 25.2635 | 24.0217
100220 | 1.6455 | 0.9338 | 24.6234 | 24.9733 | 25.0154 | 24.8740
100221 | *** | * | 23.2263 | * | * | 23.2263
100223 | 1.5614 | 0.8781 | 21.8962 | 21.2434 | 23.4556 | 22.2543
100224 | 1.2359 | 1.0382 | 22.3567 | 23.0804 | 23.3593 | 22.9486
100225 | 1.1840 | 1.0382 | 22.4619 | 23.9971 | 27.9473 | 24.8279
100226 | 1.2824 | 0.9565 | 22.7301 | 23.8701 | 27.8003 | 24.8477
100228 | 1.3226 | 1.0382 | 24.9691 | 26.2593 | 27.2873 | 26.2480
100229 | *** | * | 19.7259 | 21.0038 | * | 20.3419
100230 | 1.4004 | 1.0382 | 23.4169 | 25.0518 | 26.3690 | 25.1751
100231 | 1.7520 | 0.8626 | 21.5712 | 23.5418 | 24.6994 | 23.2423
100232 ʰ | 1.2093 | 0.9793 | 20.1459 | 21.8105 | 23.9405 | 21.9914
100234 | 1.3913 | 1.0348 | 24.3355 | 24.9141 | 25.2574 | 24.8587
100236 | 1.3749 | 0.9472 | 21.7886 | 23.9781 | 25.9282 | 23.8851
100237 | 1.9685 | 1.0382 | 23.2712 | 26.7664 | 25.6112 | 25.1666
100238 | 1.5656 | 0.9074 | 23.3747 | 24.6513 | 27.1748 | 25.0754
100239 | 1.3106 | 0.9074 | 23.2242 | 25.0509 | 26.9668 | 25.1209
100240 | 0.8900 | 0.9870 | 21.3495 | 23.0650 | 23.4830 | 22.6468
100241 | *** | * | 14.1059 | * | * | 14.1059
100242 | 1.3884 | 0.8626 | 19.1097 | 20.4681 | 21.5130 | 20.4341
100243 | 1.5043 | 0.9074 | 22.4496 | 23.2812 | 25.2987 | 23.7180
100244 | 1.3370 | 0.9338 | 21.4386 | 23.4876 | 24.1515 | 23.0877
100246 | 1.6072 | 1.0093 | 23.5614 | 26.7630 | 27.6382 | 26.0293
100248 | 1.4857 | 0.9074 | 22.1553 | 23.8742 | 25.9170 | 24.0072
100249 | 1.2482 | 0.9174 | 18.4932 | 21.3942 | 23.4021 | 21.0109
100252 | 1.1643 | 0.8859 | 22.0976 | 22.6475 | 24.9860 | 23.2783
100253 | 1.3562 | 1.0348 | 22.6517 | 23.6939 | 24.4051 | 23.6314
100254 | 1.5455 | 0.8689 | 20.4410 | 23.2794 | 25.0192 | 23.0550
100255 | 1.1813 | 0.9074 | 20.7228 | 22.9793 | 22.2341 | 21.9641
100256 | 2.0163 | 0.9074 | 22.4844 | 24.1969 | 26.0629 | 24.2500
100258 | 1.4931 | 1.0348 | 22.0790 | 24.5699 | 31.8772 | 25.8663
100259 | 1.2365 | 0.9074 | 21.4991 | 24.1148 | 24.9404 | 23.5859
100260 | 1.3787 | 1.0093 | 21.2413 | 23.5164 | 25.2630 | 23.4298
100262 | *** | * | 22.7137 | 23.8006 | 26.3954 | 24.2596
100264 | 1.2387 | 0.9074 | 21.7410 | 22.4800 | 25.0250 | 23.1561
100265 | 1.2830 | 0.9074 | 20.2664 | 21.0688 | 23.4758 | 21.6885
100266 | 1.3386 | 0.8626 | 20.2821 | 21.5258 | 22.6614 | 21.5572
100267 | 1.2510 | 0.9610 | 22.8054 | 23.3760 | 26.5059 | 24.2860
100268 | 1.1393 | 1.0348 | 23.5414 | 26.0297 | 29.8289 | 26.5173
100269 | 1.3821 | 1.0348 | 26.0271 | 24.9002 | 25.3228 | 25.3769
100270 | *** | * | 20.8217 | * | * | 20.8217
100271 | 2.2363 | * | 21.9823 | * | * | 21.9823
100275 | 1.2601 | 1.0348 | 23.2920 | 23.1419 | 24.3059 | 23.6174
100276 | 1.2113 | 1.0382 | 24.8251 | 25.4557 | 27.2589 | 25.8569
100277 | 1.1368 | 0.9870 | 14.9157 | 25.2985 | 47.3905 | 21.5273
100279 | 1.2444 | 0.9338 | 23.1776 | 24.8484 | 25.4909 | 24.4816
100280 | *** | * | 19.0157 | * | * | 19.0157
100281 | 1.2595 | 1.0382 | 23.4729 | 25.3382 | 27.0864 | 25.4496
100282 | *** | * | 20.9257 | * | * | 20.9257
100284 | 1.0905 | 0.9870 | 18.5716 | 22.3046 | 22.5927 | 21.1697
100286 | 1.5071 | 1.0531 | * | * | 27.1051 | 27.1051
100287 | 1.3212 | 1.0348 | * | * | 28.2229 | 28.2229
100288 | 1.4796 | 1.0348 | * | * | 37.4785 | 37.4785
100289 | 1.7901 | 1.0382 | * | * | 28.4504 | 28.4504
110001 | 1.2587 | 0.9851 | 22.4535 | 24.0561 | 25.1164 | 23.9048
110002 | 1.2917 | 0.9851 | 20.2149 | 20.4502 | 21.8616 | 20.8258
110003 | 1.2840 | 0.9565 | 18.2793 | 19.7061 | 20.0968 | 19.3813
110004 | 1.2272 | 0.9208 | 20.6096 | 21.8791 | 22.7929 | 21.7866
110005 | 1.1417 | 0.9960 | 21.8105 | 23.6146 | 22.3645 | 22.6386
110006 | 1.5047 | 1.0173 | 22.0325 | 23.8762 | 25.0719 | 23.6542
110007 | 1.6710 | 1.1277 | 25.9135 | 28.2025 | 30.7430 | 28.3399
110008 | 1.3519 | 0.9960 | 20.4972 | 22.6308 | 23.4662 | 22.3396
110009 | *** | * | 16.6452 | * | * | 16.6452
110010 | 2.1559 | 0.9960 | 25.1930 | 27.2029 | 28.7690 | 27.0594
110011 | 1.1978 | 0.9960 | 20.4028 | 23.2149 | 25.4620 | 23.0836
110013 | *** | * | 16.7833 | * | * | 16.7833
110014 | 0.9800 | * | 18.4463 | * | * | 18.4463
110015 | 1.1633 | 0.9960 | 21.2601 | 23.2280 | 25.5661 | 23.5181
110016 | 1.2299 | 0.8357 | 14.7571 | 18.8228 | 18.8376 | 17.3246
110017 | *** | * | 21.2969 | * | * | 21.2969
110018 | 1.1804 | 0.9960 | 23.0577 | 24.7007 | 25.6485 | 24.5320
110020 | 1.1524 | 0.9960 | 20.9687 | 23.3004 | 24.8735 | 23.0386
110023 | 1.3743 | 0.9851 | 21.6512 | 23.5673 | 25.3746 | 23.6656
110024 | 1.4237 | 0.9464 | 21.3945 | 22.1471 | 23.8091 | 22.4754
110025 | 1.4467 | 1.1958 | 20.2493 | 29.0965 | 31.5253 | 25.9559
110026 | 1.1210 | 0.8006 | 16.9160 | 19.3201 | 20.5740 | 18.9282
110027 | 1.0784 | 0.8393 | 19.8976 | 19.8351 | 19.2323 | 19.6358
110028 | 1.7736 | 0.9183 | 28.1695 | 25.9474 | 25.1836 | 26.3363
110029 | 1.5894 | 0.9851 | 21.3694 | 22.7981 | 25.2335 | 23.1979
110030 | 1.2774 | 0.9960 | 20.4656 | 22.2341 | 25.0842 | 22.6223
110031 | 1.2379 | 0.9960 | 20.9219 | 22.8695 | 24.1711 | 22.7426
110032 | 1.1838 | 0.8006 | 19.2685 | 18.0744 | 20.7211 | 19.3573
110033 | 1.4386 | 0.9960 | 23.1939 | 24.1447 | 25.2326 | 24.1460
110034 | 1.6529 | 0.9183 | 23.0724 | 24.0791 | 24.4141 | 23.8156
110035 | 1.5054 | 0.9960 | 21.8646 | 24.2581 | 25.7562 | 24.0454
110036 | 1.8311 | 0.9464 | 22.5481 | 24.4788 | 25.4854 | 24.2256
110038 | 1.5304 | 0.8486 | 18.4508 | 20.1710 | 20.5880 | 19.7422
110039 | 1.4711 | 0.9183 | 18.9817 | 17.0608 | 19.4032 | 18.4981
110040 | 1.0602 | 0.9846 | 17.7798 | 17.3095 | 18.8744 | 17.9959
110041 | 1.1744 | 0.9974 | 20.1398 | 20.8080 | 21.5402 | 20.8653
110042 | 1.0418 | 0.9960 | 25.0535 | 25.5588 | 26.8321 | 25.8613
110043 | 1.7776 | 0.9464 | 21.2714 | 22.7589 | 25.2788 | 23.1437
110044 | 1.1799 | 0.8006 | 17.5905 | 19.2562 | 19.6940 | 18.8331
110045 | 1.1240 | 0.9960 | 22.2424 | 19.7746 | 21.3922 | 21.0887
110046 | 1.2407 | 0.9960 | 22.8820 | 21.6201 | 24.0022 | 22.8885
110048 | *** | * | 18.8751 | * | * | 18.8751
110049 | 1.0170 | 0.8006 | 17.1396 | 18.9096 | 19.8706 | 18.6923
110050 | 1.1505 | * | 18.9048 | * | 25.6020 | 22.4537
110051 | 1.1250 | 0.8006 | 17.2050 | 17.6816 | 19.0995 | 18.0105
110054 | 1.4590 | 0.9851 | 20.7825 | 20.5387 | 22.2250 | 21.1685
110056 | 0.9430 | 0.8006 | 17.9037 | 21.7608 | 23.0080 | 20.9242
110059 | 1.1175 | 0.8006 | 17.8076 | 19.9802 | 18.7097 | 18.8340
110061 | 0.9467 | * | 17.4601 | 18.6696 | * | 18.1120
110062 | *** | * | 17.9422 | * | * | 17.9422
110063 | 1.0952 | 0.8296 | 18.0256 | 19.4401 | 20.3760 | 19.3446
110064 | 1.4533 | 0.8691 | 18.8742 | 21.7636 | 23.8739 | 21.4770
110065 | *** | * | 16.9829 | * | * | 16.9829
110066 | *** | * | 23.4554 | * | * | 23.4554
110069 | 1.1885 | 0.9535 | 21.1513 | 21.0518 | 22.3006 | 21.5110
110070 | *** | * | 19.6361 | * | * | 19.6361
110071 | 0.9988 | 0.8006 | 21.5042 | 15.2336 | 13.3731 | 15.9957
110072 | *** | * | 13.6626 | * | * | 13.6626
110073 | 1.0530 | 0.8006 | 17.9372 | 15.2711 | 16.3610 | 16.3982
110074 | 1.5016 | 1.0173 | 24.4924 | 24.4094 | 27.5836 | 25.4906
110075 | 1.2692 | 0.9464 | 20.1604 | 20.4634 | 20.9973 | 20.5420
110076 | 1.4252 | 0.9960 | 23.6127 | 23.8211 | 25.2424 | 24.2729
110078 | 2.0457 | 0.9960 | 25.7416 | 28.2149 | 27.8627 | 27.2910
110079 | 1.3563 | 0.9960 | 22.3641 | 22.8017 | 24.5255 | 23.2240
110080 | 1.5253 | 0.9960 | 19.4635 | 24.1958 | 21.5482 | 21.5982
110082 | 1.9176 | 0.9960 | 22.7015 | 27.2931 | 28.9731 | 26.1071
110083 | 1.9429 | 0.9960 | 22.2609 | 24.6460 | 26.2604 | 24.4266
110086 | 1.3421 | 0.8006 | 19.0163 | 18.8751 | 20.8557 | 19.5405
110087 | 1.4195 | 0.9960 | 24.0994 | 25.7908 | 26.2872 | 25.4624
110089 | 1.1339 | 0.8006 | 19.0453 | 20.6757 | 21.2013 | 20.3266
110091 | 1.2984 | 0.9960 | 23.7110 | 24.3354 | 26.3857 | 24.8617
110092 | 1.0361 | 0.8006 | 15.9178 | 16.9116 | 18.7397 | 17.2529
110094 | *** | * | 16.8890 | * | * | 16.8890
110095 | 1.4143 | 0.8006 | 18.9904 | 20.1024 | 21.8709 | 20.3886
110096 | 1.0627 | 0.8006 | 18.0418 | 18.5513 | 19.4498 | 18.6974
110097 | *** | * | 17.8454 | * | * | 17.8454
110098 | *** | * | 16.7800 | * | * | 16.7800
110100 | 0.9729 | 0.8006 | 18.6821 | 15.1316 | 16.5833 | 16.8273
110101 | 1.0212 | 0.8006 | 13.8787 | 13.3943 | 14.4630 | 13.9254
110103 | *** | * | 21.5685 | * | * | 21.5685
110104 | 1.0566 | 0.8006 | 16.6322 | 17.9805 | 19.5575 | 18.0908
110105 | 1.2669 | 0.8006 | 18.1306 | 19.2156 | 20.6270 | 19.3315
110107 | 1.8355 | 0.9922 | 21.2267 | 21.8167 | 26.0763 | 23.0323
110108 | *** | * | 20.1141 | * | * | 20.1141
110109 | 1.0382 | 0.8006 | 16.5977 | 18.7397 | 20.4726 | 18.5175
110111 | 1.1261 | 0.9183 | 18.4274 | 20.9535 | 20.5577 | 20.0362
110112 | 0.9511 | 0.8006 | 18.9574 | 20.4565 | 21.0612 | 20.1809
110113 | 1.0602 | 0.9156 | 16.0942 | 18.0770 | 16.7641 | 16.9657
110114 | *** | * | 16.8297 | * | * | 16.8297
110115 | 1.7377 | 0.9960 | 26.5759 | 26.3274 | 29.8699 | 27.5187
110118 | 1.0120 | * | 17.5714 | 17.7344 | * | 17.6522
110120 | 1.0949 | * | 18.4738 | 20.3098 | * | 19.4033
110121 | 1.1030 | 0.8006 | 18.8744 | 19.5230 | 21.2534 | 19.8995
110122 | 1.4509 | 0.8486 | 20.6070 | 20.4184 | 22.0210 | 21.0497
110124 | 1.0794 | 0.8434 | 19.4093 | 19.7004 | 20.9334 | 20.0283
110125 | 1.1364 | 0.8006 | 19.5666 | 19.8695 | 22.1458 | 20.5878
110127 | *** | * | 16.1108 | * | * | 16.1108
110128 | 1.2178 | 0.9464 | 20.3047 | 28.4943 | 23.2576 | 23.6773
110129 | 1.5416 | 0.8691 | 20.9442 | 21.8204 | 22.4202 | 21.7655
110130 | 0.9146 | 0.8006 | 16.6915 | 17.5272 | 17.6529 | 17.3161
110132 | 1.0949 | 0.8006 | 17.1821 | 17.2924 | 18.9927 | 17.8306
110134 | *** | * | 19.0305 | * | * | 19.0305
110135 | 1.2035 | 0.8006 | 15.6668 | 18.5125 | 20.0057 | 17.8218
110136 | 1.0848 | 0.8267 | 20.7827 | 21.1235 | 22.7715 | 21.5466
110141 | *** | * | 13.2711 | * | * | 13.2711
110142 | 0.9666 | 0.8006 | 14.1203 | 16.3359 | 17.3328 | 15.9707
110143 | 1.3843 | 0.9960 | 22.4254 | 24.3898 | 25.4932 | 24.1200
110144 | *** | * | 17.5678 | * | * | 17.5678
110146 | 1.0684 | 0.8006 | 17.8499 | 17.2250 | 19.9221 | 18.2306
110149 | 1.2567 | 0.9960 | 25.2525 | 25.3619 | 24.7686 | 25.1225
110150 | 1.2424 | 0.9814 | 22.8322 | 22.7366 | 23.8157 | 23.1526
110152 | *** | * | 16.3837 | * | * | 16.3837
110153 | 1.1180 | 0.9535 | 20.6972 | 21.5300 | 22.8660 | 21.6706
110154 | *** | * | 16.5286 | * | * | 16.5286
110155 | *** | * | 16.4757 | 16.1785 | * | 16.3430
110156 | *** | * | 16.0759 | * | * | 16.0759
110161 | 1.4753 | 0.9960 | 24.5776 | 26.4200 | 27.4435 | 26.2006
110163 | 1.4631 | 1.1277 | 20.1183 | 21.9411 | 25.5461 | 22.4274
110164 | 1.5194 | 0.9922 | 22.6605 | 23.7801 | 26.4450 | 24.2372
110165 | 1.4250 | 0.9960 | 22.5604 | 23.4071 | 24.3897 | 23.4742
110166 | 2.0118 | 0.9922 | 22.3822 | 23.6665 | 25.2264 | 23.5687
110168 | 1.8754 | 0.9851 | 22.3181 | 23.3426 | 24.6321 | 23.4811
110169 | *** | * | 23.3749 | 24.7083 | * | 24.1231
110171 | *** | * | 24.5313 | 32.6386 | * | 28.8253
110172 | 1.3239 | 0.9960 | 24.7005 | 25.2396 | 27.0240 | 25.6126
110177 | 1.6345 | 0.9183 | 22.7831 | 24.0700 | 25.0129 | 24.0267
110179 | *** | * | 24.3673 | 26.0365 | 26.1173 | 25.4991
110181 | *** | * | 13.9591 | * | * | 13.9591
110183 | 1.2715 | 0.9960 | 24.2899 | 26.4248 | 27.6020 | 26.1456
110184 | 1.2285 | 0.9960 | 22.2761 | 24.3379 | 25.5420 | 24.0982
110185 | *** | * | 17.3330 | * | * | 17.3330
110186 | 1.3009 | 0.8691 | 19.7172 | 21.1176 | 23.2348 | 21.4537
110187 | 1.2677 | 0.9851 | 22.8248 | 23.2571 | 22.5730 | 22.8794
110188 | *** | * | 22.0258 | 24.4785 | * | 23.2998
110189 | 1.1401 | 0.9851 | 19.8453 | 21.4255 | 23.9404 | 21.7778
110190 | 1.0754 | 0.8188 | 20.7292 | 21.9008 | 19.1054 | 20.4860
110191 | 1.3005 | 0.9960 | 21.3404 | 24.0572 | 25.8409 | 23.7862
110192 | 1.3263 | 0.9960 | 22.9684 | 24.3823 | 25.7406 | 24.4508
110193 | 1.3262 | 0.9960 | 22.1477 | 25.1779 | 27.8223 | 25.0972
110194 | 0.9360 | 0.8006 | 15.8129 | 16.8075 | 16.3148 | 16.3086
110195 | *** | * | 10.9444 | * | * | 10.9444
110198 | 1.3384 | 0.9960 | 24.8275 | 28.0634 | 30.8014 | 28.0274
110200 | 1.8886 | 0.8691 | 17.9632 | 20.1816 | 21.2177 | 19.8668
110201 | 1.4223 | 0.9922 | 21.9313 | 24.1171 | 27.0388 | 24.1702
110203 | 0.9491 | 0.9960 | 24.2061 | 30.2609 | 25.8951 | 26.5225
110204 | *** | * | 35.3698 | * | * | 35.3698
110205 | 1.1013 | 0.9851 | 20.1405 | 23.1969 | 20.6150 | 21.2933
110207 | *** | * | 14.6045 | * | * | 14.6045
110208 | *** | * | 15.0350 | * | * | 15.0350
110209 | 0.6023 | 0.8006 | 20.0630 | 17.4145 | 19.1000 | 18.8543
110211 | *** | * | 20.1023 | * | * | 20.1023
110212 | 0.9725 | 0.8334 | 15.8420 | 18.7651 | 20.9365 | 18.2449
110215 | 1.2616 | 0.9960 | 21.0263 | 22.5679 | 23.9657 | 22.7016
110218 | *** | * | * | * | 26.1073 | 26.1073
110219 | 1.3949 | 0.9960 | * | * | 27.1880 | 27.1880
120001 | 1.6968 | 1.1033 | 29.4126 | 30.0871 | 31.7108 | 30.3779
120002 | 1.2465 | 1.0558 | 23.5667 | 24.2715 | 26.9900 | 24.9958
120003 | *** | * | 24.6238 | * | * | 24.6238
120004 | 1.2923 | 1.1033 | 26.1398 | 26.8010 | 28.3569 | 27.1076
120005 | 1.3260 | 1.0558 | 22.3213 | 23.0113 | 26.9053 | 24.1323
120006 | 1.1925 | 1.1033 | 26.6302 | 28.1562 | 29.6751 | 28.1658
120007 | 1.7873 | 1.1033 | 22.7179 | 27.8497 | 28.7964 | 26.1945
120009 | *** | * | 16.7629 | * | * | 16.7629
120010 | 1.8869 | 1.1033 | 24.9089 | 25.4050 | 27.1265 | 25.7490
120011 | 1.4126 | 1.1033 | 35.2051 | 30.9308 | 31.7447 | 32.4428
120012 | *** | * | 22.0372 | * | * | 22.0372
120014 | 1.2204 | 1.0558 | 25.3557 | 25.3682 | 28.0786 | 26.2546
120016 | *** | * | 43.5064 | 39.1173 | 52.1034 | 44.5404
120019 | 1.1335 | 1.0558 | 23.8536 | 24.4036 | 28.9661 | 25.6590
120021 | *** | * | 36.8291 | * | * | 36.8291
120022 | 1.8197 | 1.1033 | 22.2781 | 22.4951 | 24.7875 | 23.2173
120024 | 0.8663 | 1.0558 | 21.9657 | * | * | 21.9657
120025 | 0.7128 | 1.1033 | 40.1342 | 40.2473 | 48.7148 | 43.1744
120026 | 1.3584 | 1.1033 | 25.7023 | 26.3653 | 28.5048 | 26.8979
120027 | 1.2398 | 1.1033 | 23.1434 | 24.9464 | 26.4630 | 24.7136
120028 | 1.2861 | 1.1033 | 27.5365 | 29.5070 | 31.3195 | 29.4817
130001 | *** | * | 19.6328 | * | * | 19.6328
130002 | 1.3455 | 0.9032 | 18.5746 | 20.1143 | 21.6626 | 20.1741
130003 | 1.4035 | 0.9950 | 23.0994 | 23.9403 | 25.4904 | 24.2000
130005 | *** | * | 22.6364 | 24.4844 | 25.2550 | 24.0521
130006 | 1.7403 | 0.9338 | 21.4640 | 22.8567 | 24.3982 | 22.9900
130007 | 1.7612 | 0.9338 | 22.0895 | 22.8475 | 24.8764 | 23.3254
130008 | 0.9741 | * | 19.3392 | * | * | 19.3392
130009 | 0.9211 | * | 20.8748 | * | * | 20.8748
130010 | *** | * | 17.7826 | * | * | 17.7826
130011 | 1.1706 | 0.8891 | 22.1125 | 23.1120 | 22.9336 | 22.7137
130012 | *** | * | 24.2451 | * | * | 24.2451
130013 | 1.3471 | 0.9338 | 22.6624 | 23.5316 | 26.3118 | 24.2162
130014 | 1.2440 | 0.9338 | 19.8240 | 21.6495 | 23.4789 | 21.6591
130015 | *** | * | 16.4136 | * | * | 16.4136
130016 | *** | * | 20.1221 | * | * | 20.1221
130017 | *** | * | 19.9511 | * | * | 19.9511
130018 | 1.5598 | 0.9337 | 20.0563 | 22.2249 | 23.9798 | 22.1211
130019 | *** | * | 19.5147 | * | * | 19.5147
130021 | 0.8818 | * | 14.4430 | 18.0006 | 18.9400 | 16.8542
130022 | 1.1120 | * | 19.7814 | 21.5602 | * | 20.7171
130024 | 1.1790 | 0.8948 | 19.9934 | 22.1610 | 21.7853 | 21.3344
130025 | 1.2218 | 0.8673 | 17.5989 | 18.7814 | 19.7066 | 18.7126
130026 | 1.1696 | 0.9337 | 23.2094 | 24.4976 | 25.4020 | 24.3594
130027 | *** | * | 20.6641 | * | * | 20.6641
130028 | 1.3053 | 0.9589 | 21.2217 | 21.1492 | 25.2938 | 22.5343
130029 | *** | * | 22.9242 | * | * | 22.9242
130030 | *** | * | 18.5826 | * | * | 18.5826
130031 | *** | * | 20.4144 | * | * | 20.4144
130034 | *** | * | 20.5802 | * | * | 20.5802
130035 | *** | * | 17.2864 | * | * | 17.2864
130036 | *** | * | 15.1590 | 18.5921 | 16.7907 | 16.7949
130037 | *** | * | 19.2108 | * | * | 19.2108
130043 | *** | * | 17.6920 | * | * | 17.6920
130044 | *** | * | 18.7068 | * | * | 18.7068
130045 | 0.9546 | * | 17.5152 | 19.0270 | * | 18.2842
130049 | 1.3517 | 1.0458 | 22.0520 | 23.7212 | 24.5841 | 23.4851
130054 | *** | * | 16.4674 | * | * | 16.4674
130056 | *** | * | 28.8005 | * | * | 28.8005
130060 | *** | * | 23.2512 | 24.6773 | 26.7516 | 24.9541
130062 | 0.8368 | 0.8673 | 19.8264 | 24.0494 | 16.7951 | 20.0540
130063 | 1.5235 | 0.9338 | 18.4797 | 18.8782 | 20.9502 | 19.4897
140001 | 1.1657 | 0.8347 | 18.1511 | 20.0247 | 21.4779 | 19.9510
140002 | 1.3101 | 0.9083 | 20.9959 | 23.0207 | 24.4908 | 22.8160
140003 | 1.0503 | * | 18.0163 | 19.2097 | 22.6230 | 19.9654
140004 | 1.2045 | * | 18.9713 | * | * | 18.9713
140005 | 0.9238 | * | 12.4144 | 13.2365 | * | 12.8298
140007 | 1.3166 | 1.0864 | 24.9847 | 25.1836 | 26.7943 | 25.6480
140008 | 1.4523 | 1.0864 | 24.2634 | 26.3287 | 27.2211 | 25.9317
140010 | 1.4498 | 1.0864 | 28.0863 | 29.0224 | 31.5774 | 29.7507
140011 | 1.1617 | 0.8347 | 18.4052 | 19.0903 | 20.6338 | 19.4213
140012 | 1.1857 | 1.0709 | 22.5885 | 24.4070 | 24.3675 | 23.8348
140013 | 1.3487 | 0.8888 | 20.3147 | 19.9800 | 22.6022 | 20.9786
140014 | *** | * | 22.2945 | * | * | 22.2945
140015 | 1.3003 | 0.8973 | 20.3540 | 21.4328 | 22.2266 | 21.3909
140016 | 1.0418 | 0.8347 | 15.4453 | 16.3417 | 17.1372 | 16.3009
140018 | 1.3576 | 1.0864 | 23.4062 | 24.3285 | 27.3334 | 25.0042
140019 | 0.9983 | 0.8347 | 16.1180 | 17.4206 | 18.4554 | 17.2801
140024 | 0.9876 | 0.8347 | 16.1032 | 15.6616 | 16.9672 | 16.2623
140025 | *** | * | 21.7775 | * | * | 21.7775
140026 | 1.1694 | 0.8693 | 19.7839 | 20.4084 | 21.6847 | 20.6233
140027 | 1.1806 | 0.8758 | 20.5979 | 20.9855 | 22.6208 | 21.4013
140029 | 1.5550 | 1.0864 | 28.5670 | 25.0485 | 27.7304 | 27.0375
140030 | 1.7126 | 1.0864 | 25.3715 | 26.5733 | 28.7623 | 26.9353
140031 | *** | * | 16.9650 | * | * | 16.9650
140032 | 1.1932 | 0.8973 | 19.8033 | 20.6273 | 22.8157 | 21.1074
140033 | 1.2754 | 1.0759 | 22.8705 | 23.4279 | 26.1553 | 24.1573
140034 | 1.2111 | 0.8973 | 19.7711 | 20.9635 | 22.1003 | 20.9052
140035 | *** | * | 17.4515 | * | * | 17.4515
140036 | 1.1832 | * | 21.2366 | * | * | 21.2366
140037 | 0.9211 | * | 14.3082 | 15.5578 | * | 14.9473
140038 | *** | * | 19.8197 | * | * | 19.8197
140040 | 1.2031 | 0.8862 | 18.0342 | 19.2160 | 20.0269 | 19.1108
140041 | *** | * | 18.8043 | * | * | 18.8043
140042 | 0.9886 | * | 16.1157 | * | * | 16.1157
140043 | 1.2002 | 0.9484 | 21.7356 | 23.3751 | 26.0330 | 23.7570
140045 | 1.0210 | 0.8347 | 17.4262 | 18.9587 | 21.0042 | 19.1862
140046 | 1.4596 | 0.8973 | 20.0859 | 21.7969 | 22.5022 | 21.4825
140047 | *** | * | 16.6672 | * | * | 16.6672
140048 | 1.3065 | 1.0864 | 23.8652 | 25.9122 | 27.0874 | 25.6357
140049 | 1.5818 | 1.0864 | 26.7160 | 21.9546 | 26.6533 | 25.1874
140051 | 1.5823 | 1.0864 | 24.7180 | 24.2472 | 27.9935 | 25.6434
140052 | 1.1905 | 0.9083 | 21.0450 | 21.8161 | 22.2588 | 21.6993
140053 | 1.8922 | 0.8732 | 20.9768 | 22.6099 | 23.5477 | 22.3774
140054 | 1.4086 | 1.0864 | 23.9459 | 35.5659 | 31.7265 | 30.4170
140055 | *** | * | 15.8756 | * | * | 15.8756
140058 | 1.3696 | 0.8732 | 19.1199 | 20.5089 | 22.1269 | 20.5860
140059 | 1.1866 | 0.9083 | 18.2593 | 19.9777 | 22.7121 | 20.2903
140061 | 0.9554 | 0.8347 | 18.4264 | 22.7515 | 30.9925 | 22.9450
140062 | 1.2110 | 1.0864 | 28.6390 | 30.7005 | 31.2359 | 30.2222
140063 | 1.3734 | 1.0864 | 29.6998 | 30.5430 | 26.5584 | 28.8346
140064 | 1.1954 | 0.8758 | 19.6954 | 20.6505 | 21.7470 | 20.6960
140065 | 1.4045 | 1.0864 | 25.5939 | 26.3521 | 26.1904 | 26.0502
140066 | 1.2215 | 0.9083 | 15.4818 | 18.0915 | 20.4353 | 17.7146
140067 | 1.7807 | 0.8888 | 20.7511 | 21.9579 | 23.5906 | 22.1449
140068 | 1.1992 | 1.0864 | 22.3622 | 24.1316 | 25.8963 | 24.0800
140069 | *** | * | 17.7785 | * | * | 17.7785
140070 | *** | * | 25.2646 | 25.2960 | * | 25.2788
140074 | *** | * | 22.2563 | * | * | 22.2563
140075 | 1.3230 | 1.0864 | 21.8472 | 26.5350 | 26.9257 | 24.7743
140077 | 1.0226 | 0.9083 | 17.3236 | 18.0487 | 19.0922 | 18.2004
140079 | *** | * | 22.7046 | 25.7090 | 29.3040 | 25.9482
140080 | 1.4884 | 1.0864 | 22.0682 | 24.4056 | 26.0109 | 24.1401
140081 | *** | * | 18.1746 | * | * | 18.1746
140082 | 1.5007 | 1.0864 | 26.5960 | 25.0474 | 26.8077 | 26.1158
140083 | 1.1851 | 1.0864 | 20.7703 | 23.2822 | 24.6491 | 22.8432
140084 | 1.2127 | 1.0759 | 23.0263 | 25.4818 | 27.6819 | 25.4191
140086 | *** | * | 19.1815 | * | * | 19.1815
140087 | *** | * | 21.4593 | * | * | 21.4593
140088 | 1.8662 | 1.0864 | 26.5258 | 28.4219 | 31.0364 | 28.5985
140089 | 1.2472 | 0.8347 | 19.3230 | 20.7632 | 22.1227 | 20.7470
140090 | *** | * | 28.0530 | 35.0300 | * | 31.1758
140091 | 1.7937 | 0.9515 | 23.5559 | 23.7560 | 26.1075 | 24.5322
140093 | 1.1498 | 0.9301 | 20.7564 | 21.5376 | 22.1540 | 21.4704
140094 | 1.1421 | 1.0864 | 22.8892 | 24.2166 | 25.3678 | 24.1743
140095 | 1.2829 | 1.0864 | 25.5716 | 24.7706 | 29.9746 | 26.8933
140097 | *** | * | 21.8418 | * | * | 21.8418
140100 | 1.3435 | 1.0759 | 23.8226 | 27.1868 | 32.8743 | 28.2968
140101 | 1.2007 | 1.0864 | 23.1418 | 24.6106 | 25.4784 | 24.4645
140102 | 1.0403 | 0.8732 | 18.6328 | 19.8678 | 21.2278 | 19.9151
140103 | 1.3360 | 1.0864 | 19.1834 | 21.2404 | 21.7512 | 20.7501
140105 | 1.2561 | 1.0864 | 23.8258 | 27.3323 | 26.3054 | 25.7682
140107 | *** | * | 11.5827 | * | * | 11.5827
140108 | *** | * | 27.9140 | * | * | 27.9140
140109 | 1.0764 | 0.8347 | 15.9178 | 16.4261 | 17.8103 | 16.7311
140110 | 1.0579 | 0.8888 | 20.9631 | 21.9880 | 25.6561 | 22.9121
140112 | *** | * | 18.1119 | * | * | 18.1119
140113 | 1.5249 | 0.9515 | 26.2393 | 25.6621 | 23.5337 | 25.1119
140114 | 1.3958 | 1.0864 | 23.0383 | 24.1926 | 25.7968 | 24.3761
140115 | 1.0660 | 1.0864 | 20.4587 | 25.3410 | 26.3677 | 23.9652
140116 | 1.2917 | 1.0864 | 25.5980 | 26.8924 | 30.5166 | 27.7940
140117 | 1.5053 | 1.0864 | 22.0889 | 23.3531 | 25.6314 | 23.7250
140118 | 1.7034 | 1.0864 | 25.3249 | 26.7350 | 27.7392 | 26.5951
140119 | 1.8037 | 1.0864 | 30.6468 | 31.3486 | 33.6302 | 31.8532
140120 | 1.2165 | 0.8888 | 17.7667 | 20.3237 | 22.5795 | 20.1397
140121 | 1.2420 | * | 16.2607 | 17.6019 | * | 16.8820
140122 | 1.4030 | 1.0864 | 26.7882 | 26.8595 | 26.4991 | 26.7112
140124 | 1.0983 | 1.0864 | 30.6820 | 30.9648 | 35.2798 | 32.2749
140125 | 1.1833 | 0.9083 | 17.8190 | 19.5359 | 20.7189 | 19.3549
140127 | 1.6064 | 0.9110 | 20.8397 | 21.3102 | 22.8172 | 21.6942
140128 | *** | * | 23.5481 | * | * | 23.5481
140129 | 1.0370 | * | 21.6253 | 21.6495 | * | 21.6375
140130 | 1.2473 | 1.0759 | 26.0464 | 25.7324 | 26.3518 | 26.0481
140132 | *** | * | 23.7046 | 23.0595 | * | 23.3607
140133 | 1.2922 | 1.0864 | 20.1740 | 24.0458 | 26.1599 | 23.3563
140135 | 1.3866 | 0.8347 | 18.2479 | 19.7919 | 21.2104 | 19.8265
140137 | 1.0533 | 0.9080 | 20.4807 | 21.6017 | 20.5053 | 20.8543
140138 | *** | * | 14.5771 | * | * | 14.5771
140140 | 1.0631 | * | 18.8186 | 19.1636 | 21.4710 | 19.8054
140141 | 1.0542 | * | 20.2605 | 20.3706 | 23.0515 | 21.2286
140143 | 1.1173 | 0.8888 | 19.9885 | 22.0009 | 23.8255 | 21.7978
140144 | 0.9556 | * | 24.8854 | 26.9258 | 27.8046 | 26.5266
140145 | 1.0810 | 0.9083 | 19.4509 | 19.6429 | 21.6168 | 20.2676
140146 | *** | * | 19.4272 | * | * | 19.4272
140147 | 1.1707 | 0.8347 | 17.1013 | 18.2692 | 19.5896 | 18.3227
140148 | 1.7637 | 0.8732 | 19.7630 | 21.5777 | 23.0022 | 21.4874
140150 | 1.6882 | 1.0864 | 28.9853 | 32.9291 | 33.9013 | 31.9623
140151 | 0.8245 | 1.0864 | 20.8820 | 21.5167 | 22.4842 | 21.6382
140152 | 1.2362 | 1.0864 | 28.3946 | 28.5468 | 29.6882 | 28.9127
140155 ² | 1.2660 | 1.0709 | 24.2906 | 25.2034 | 27.6610 | 25.6644
140158 | 1.3789 | 1.0864 | 23.7428 | 22.5638 | 23.8542 | 23.3705
140160 | 1.1811 | 0.9484 | 19.8825 | 20.9986 | 22.7002 | 21.1923
140161 | 1.1461 | 1.0709 | 21.2045 | 22.2191 | 24.1071 | 22.5592
140162 | 1.5965 | 0.9110 | 21.6901 | 22.6426 | 26.0312 | 23.5146
140164 | 1.7044 | 0.8973 | 19.8246 | 19.7774 | 22.0424 | 20.5911
140165 | 1.0546 | 0.8347 | 16.3700 | 17.0666 | 15.9312 | 16.4256
140166 | 1.1540 | 0.8347 | 19.3672 | 20.7849 | 21.7776 | 20.5857
140167 | 1.0595 | 0.8347 | 18.8532 | 19.5959 | 19.7610 | 19.4061
140168 | 1.1488 | 0.9083 | 18.2896 | 18.7504 | 20.0225 | 19.0253
140170 | 0.9716 | 0.8347 | 17.6901 | 17.0665 | 17.1608 | 17.3221
140171 | 0.9425 | * | 15.2617 | 17.3214 | * | 16.3046
140172 | 1.3543 | 1.0864 | 24.8587 | 27.3372 | 27.1121 | 26.5971
140173 | 0.8466 | * | 16.0030 | * | * | 16.0030
140174 | 1.4929 | 1.0864 | 22.0418 | 23.6893 | 24.7011 | 23.4906
140176 | 1.2285 | 1.0864 | 26.3468 | 25.6824 | 28.9378 | 27.1086
140177 | 0.9662 | 1.0864 | 20.3142 | 20.8526 | 19.3328 | 20.1303
140179 | 1.3331 | 1.0864 | 22.7345 | 24.1539 | 26.3200 | 24.4164
140180 | 1.3175 | 1.0864 | 22.7508 | 25.4022 | 27.4366 | 25.1661
140181 | 1.1869 | 1.0864 | 22.6643 | 23.7308 | 23.6034 | 23.3513
140182 | 1.4794 | 1.0864 | 25.1302 | 32.1969 | 28.0337 | 28.3827
140184 | 1.2064 | 0.8347 | 17.9169 | 20.6499 | 20.1279 | 19.5955
140185 | 1.4747 | 0.9083 | 18.8573 | 20.0903 | 22.0222 | 20.3386
140186 ² | 1.4865 | 1.0709 | 25.6807 | 26.0970 | 28.1977 | 26.7088
140187 | 1.5935 | 0.9083 | 19.4049 | 20.5829 | 22.0674 | 20.6496
140189 | 1.1662 | 0.9301 | 21.1515 | 22.5875 | 25.6954 | 23.0907
140190 | 1.0848 | 0.8347 | 16.6674 | 17.9193 | 18.8530 | 17.7856
140191 | 1.3262 | 1.0864 | 27.4166 | 24.5446 | 25.2817 | 25.6418
140193 | 1.0287 | * | 18.5651 | 20.5958 | 22.9443 | 20.6815
140197 | 1.2694 | 1.0864 | 19.9407 | 19.2980 | 21.8060 | 20.3232
140199 | 1.0531 | 0.8347 | 18.5409 | 19.7888 | 21.3464 | 19.8905
140200 | 1.4422 | 1.0864 | 22.4627 | 24.1358 | 24.9217 | 23.8647
140202 | 1.5835 | 1.0759 | 25.2777 | 26.2460 | 27.4336 | 26.4012
140203 | 1.0582 | 1.0864 | 24.8870 | 26.5789 | 28.2212 | 26.6848
140205 | 2.1121 | 0.9770 | * | 25.1010 | * | 25.1010
140206 | 1.1091 | 1.0864 | 22.8223 | 24.7616 | 27.5481 | 24.9466
140207 | 1.3545 | 1.0864 | 25.4539 | 23.3197 | 25.7331 | 24.9515
140208 | 1.6850 | 1.0864 | 28.3112 | 27.4671 | 27.6586 | 27.7968
140209 | 1.5598 | 0.8888 | 20.2433 | 22.0813 | 23.3886 | 21.9504
140210 | 1.1293 | 0.8347 | 15.5345 | 15.5339 | 16.6729 | 15.9015
140211 | 1.2517 | 1.0864 | 22.8852 | 25.8556 | 29.5114 | 26.2011
140213 | 1.2057 | 1.0864 | 25.6839 | 27.4607 | 29.1649 | 27.5019
140215 | *** | * | 18.5503 | 18.6962 | 22.3097 | 19.7686
140217 | 1.4108 | 1.0864 | 25.9030 | 24.7146 | 29.3711 | 26.6990
140218 | *** | * | 17.4171 | * | * | 17.4171
140220 | *** | * | 19.3915 | * | * | 19.3915
140223 | 1.4799 | 1.0864 | 26.2168 | 27.4355 | 29.2540 | 27.6782
140224 | 1.4068 | 1.0864 | 25.6766 | 27.1725 | 29.0350 | 27.4449
140228 | 1.5712 | 0.9607 | 21.8627 | 22.9899 | 25.0074 | 23.3128
140230 | *** | * | 12.3494 | * | * | 12.3494
140231 | 1.4680 | 1.0864 | 26.0208 | 25.5536 | 28.3545 | 26.6937
140233 | 1.5672 | 0.9607 | 24.4419 | 24.7103 | 27.3379 | 25.5650
140234 | 1.0706 | 0.8888 | 19.7266 | 20.8676 | 23.2604 | 21.3613
140239 | 1.5363 | 0.9607 | 21.6074 | 23.9205 | 24.2112 | 23.2443
140240 | 1.3733 | 1.0864 | 25.1418 | 25.0325 | 27.2654 | 25.8268
140242 | 1.4802 | 1.0864 | 26.1850 | 28.8686 | 30.4005 | 28.5596
140245 | 0.9868 | 0.8347 | 15.1320 | 15.2537 | 16.0772 | 15.4874
140246 | 0.9890 | * | 15.0650 | 16.1305 | * | 15.5895
140250 | 1.2497 | 1.0864 | 25.3410 | 25.5501 | 27.4628 | 26.1221
140251 | 1.3775 | 1.0864 | 23.5128 | 24.8256 | 26.7266 | 25.0191
140252 | 1.4262 | 1.0864 | 26.4715 | 28.3479 | 30.2656 | 28.4235
140253 | *** | * | 18.4567 | * | * | 18.4567
140258 | 1.5154 | 1.0864 | 25.0743 | 27.5741 | 27.9478 | 26.9112
140271 | 0.8694 | 0.8732 | 16.0351 | 17.5174 | 18.8535 | 17.5336
140275 | 1.2785 | 0.8758 | 22.9656 | 23.1871 | 25.2824 | 23.7763
140276 | 1.8202 | 1.0864 | 26.1713 | 25.3222 | 27.5936 | 26.3414
140280 | 1.5093 | 0.8758 | 20.0763 | 21.7004 | 21.9302 | 21.2393
140281 | 1.6375 | 1.0864 | 26.5197 | 27.9115 | 29.2602 | 27.9572
140285 | 1.2857 | 0.8732 | 15.7435 | * | 17.7824 | 16.6510
140286 | 1.1614 | 1.0864 | 24.0369 | 25.5805 | 28.4378 | 26.0735
140288 | 1.5412 | 1.0864 | 25.8717 | 26.3572 | 26.9581 | 26.4221
140289 | 1.3742 | 0.9083 | 17.7886 | 20.7506 | 22.3274 | 20.3275
140290 | 1.3630 | 1.0864 | 26.5055 | 29.9098 | 28.6926 | 28.4189
140291 | 1.2222 | 1.0759 | 26.8629 | 27.6675 | 28.2338 | 27.6174
140292 | 1.1261 | 1.0864 | 26.8610 | 26.4077 | 26.1781 | 26.4582
140294 | 1.1472 | 0.8347 | 19.4218 | 21.7473 | 22.6123 | 21.2212
140300 | 1.3128 | 1.0864 | 28.9830 | 30.5172 | 33.3983 | 30.9640
150001 | 1.1574 | 1.0104 | 22.6875 | 25.4897 | 27.1021 | 25.2130
150002 | 1.4200 | 1.0709 | 20.7353 | 22.3327 | 23.3804 | 22.1505
150003 | 1.6797 | 0.9051 | 21.4649 | 21.0944 | 23.3196 | 21.9918
150004 | 1.5136 | 1.0709 | 22.8061 | 23.6169 | 24.8884 | 23.7405
150005 | 1.2283 | 1.0104 | 22.8149 | 23.8818 | 25.4443 | 24.1126
150006 | 1.2533 | 0.9434 | 21.8435 | 23.1779 | 24.8976 | 23.3421
150007 | 1.3410 | 0.9023 | 21.2811 | 22.1098 | 23.5841 | 22.4141
150008 | 1.3398 | 1.0709 | 23.0208 | 23.8916 | 23.6953 | 23.5330
150009 | 1.3317 | 0.9146 | 19.5869 | 19.4763 | 20.4993 | 19.8592
150010 | 1.3622 | 0.9023 | 21.2466 | 22.5445 | 23.9740 | 22.6422
150011 | 1.1427 | 1.0104 | 19.9096 | 22.1559 | 23.2249 | 21.7803
150012 | 1.6025 | 0.9434 | 21.7903 | 23.1644 | 22.9314 | 22.6416
150013 | 0.9576 | 0.8699 | 17.5531 | 19.8564 | 19.7689 | 19.0865
150014 | 1.4141 | 1.0104 | 22.8402 | 24.3754 | 26.5785 | 24.5423
150015 | 1.3157 | 1.0709 | 24.2370 | 23.1616 | 24.3015 | 23.8826
150017 | 1.8504 | 0.9802 | 20.6758 | 22.7979 | 23.7180 | 22.4365
150018 | 1.5738 | 0.9257 | 22.8922 | 24.6138 | 24.7048 | 24.1143
150019 | 1.1574 | * | 19.8341 | 17.3170 | * | 18.4629
150020 | 1.0363 | * | 15.9405 | 18.4689 | * | 17.2379
150021 | 1.6999 | 0.9802 | 23.3800 | 24.3658 | 27.8168 | 25.1834
150022 | 1.0551 | 0.8948 | 18.7751 | 22.2973 | 22.8035 | 21.5527
150023 | 1.5373 | 0.8699 | 20.3015 | 20.6926 | 23.1253 | 21.3434
150024 | 1.4254 | 1.0104 | 19.8368 | 21.7593 | 24.7879 | 22.0685
150026 | 1.3273 | 0.9257 | 21.9448 | 23.2169 | 23.7185 | 22.9747
150027 | 1.0733 | 1.0104 | 19.4238 | 21.5766 | 21.2855 | 20.7979
150029 | 1.3561 | 0.9434 | 24.8939 | 25.2067 | 23.4103 | 24.3976
150030 | 1.1853 | 1.0104 | 20.7256 | 23.0196 | 24.4361 | 22.7653
150031 | 1.1068 | * | 21.3494 | 18.9180 | * | 19.9678
150033 | 1.7170 | 1.0104 | 23.0756 | 24.1701 | 25.8851 | 24.3767
150034 | 1.4698 | 1.0709 | 23.3718 | 22.8812 | 23.9388 | 23.4018
150035 | 1.4772 | 0.9405 | 22.3779 | 23.5468 | 26.0952 | 24.0002
150036 | *** | * | 22.1464 | * | * | 22.1464
150037 | 1.2949 | 1.0104 | 22.3699 | 24.4997 | 27.7009 | 24.8057
150038 | 1.1542 | 1.0104 | 20.3454 | 21.6608 | 24.4188 | 22.0777
150039 | 1.1313 | * | 16.0227 | * | * | 16.0227
150042 | 1.3731 | 0.8699 | 18.0185 | 23.7838 | 21.9917 | 21.0664
150043 | 1.0188 | * | 20.6301 | * | * | 20.6301
150044 | 1.2944 | 0.9146 | 19.8951 | 20.5156 | 23.1200 | 21.1614
150045 ʰ | 1.0886 | 1.0218 | 20.6406 | 23.0361 | 24.2899 | 22.7402
150046 | 1.3804 | 0.8699 | 19.4146 | 20.3453 | 21.0417 | 20.2984
150047 | 1.6982 | 0.9802 | 21.9824 | 24.8786 | 24.5455 | 23.7796
150048 | 1.2368 | 0.9497 | 21.1441 | 22.5181 | 24.5864 | 22.7864
150049 | 1.2004 | 0.8699 | 21.6309 | 18.4942 | 20.2178 | 20.1025
150050 | *** | * | 18.0411 | * | * | 18.0411
150051 | 1.5967 | 0.8699 | 20.6895 | 21.4009 | 22.6866 | 21.6323
150052 ʰ | 1.0837 | 0.9146 | 18.8345 | 19.1070 | 19.6073 | 19.1807
150053 | *** | * | 18.3494 | * | * | 18.3494
150054 | *** | * | 19.3424 | * | * | 19.3424
150056 | 1.8813 | 1.0104 | 23.0603 | 24.7841 | 27.6754 | 25.1879
150057 | 2.0625 | 1.0104 | 17.4043 | 28.0884 | 22.7804 | 22.2798
150058 | 1.5636 | 0.9434 | 23.0273 | 24.9479 | 26.9753 | 25.0080
150059 | 1.5623 | 1.0104 | 23.1398 | 25.6738 | 27.0792 | 25.3799
150060 | 1.1052 | 0.8699 | 19.5011 | 19.8990 | 23.2409 | 20.8351
150061 | 1.1811 | 0.8699 | 19.4014 | 19.2826 | 21.3640 | 20.0300
150062 | 1.1794 | 0.8852 | 21.2607 | 22.9214 | 23.5550 | 22.5696
150063 | *** | * | 24.8588 | 24.4091 | 19.0377 | 22.9018
150064 | 1.1554 | 0.8699 | 20.6232 | 21.2512 | 21.6370 | 21.1751
150065 | 1.1210 | 1.0104 | 21.4572 | 23.0636 | 24.4451 | 23.0185
150066 | 0.8962 | * | 19.6845 | * | * | 19.6845
150067 | 1.0677 | * | 20.5000 | 21.4374 | * | 20.9866
150069 | 1.1934 | 0.9536 | 23.5510 | 23.8353 | 25.3445 | 24.1524
150070 | 0.9378 | 0.8699 | 18.9332 | 20.7413 | 22.6260 | 20.8438
150071 | *** | * | 16.4179 | * | * | 16.4179
150072 | 1.1779 | 0.8699 | 18.5813 | 18.5447 | 20.3191 | 19.1866
150073 | *** | * | 19.8034 | 14.8287 | * | 16.6860
150074 | 1.5196 | 1.0104 | 21.3500 | 22.9598 | 24.4374 | 22.9562
150075 | 1.1297 | 0.9802 | 17.2267 | 20.1119 | 24.2085 | 20.3068
150076 | 1.1964 | 0.9434 | 23.3724 | 25.4519 | 24.1434 | 24.3143
150078 | 0.9872 | 0.9306 | 20.2068 | 20.1259 | 21.2476 | 20.5686
150079 | 1.0889 | 0.9146 | 18.3667 | 19.3860 | 20.6486 | 19.4947
150082 | 1.7416 | 0.8699 | 19.6881 | 21.0651 | 22.2054 | 21.0724
150084 | 1.8295 | 1.0104 | 24.9529 | 27.8354 | 28.7722 | 27.2590
150086 | 1.2207 | 0.9536 | 19.7763 | 21.5815 | 22.4471 | 21.3241
150088 | 1.2980 | 0.9589 | 22.3055 | 22.2627 | 23.0998 | 22.5643
150089 | 1.5120 | 0.8699 | 21.5664 | 21.6806 | 22.6545 | 21.9840
150090 | 1.3579 | 1.0709 | 21.9803 | 24.9021 | 24.6758 | 23.7887
150091 ʰ | 1.1509 | 1.0375 | 26.5235 | 26.4248 | 27.8087 | 26.8601
150092 | *** | * | 18.2592 | * | * | 18.2592
150094 | *** | * | 16.8351 | * | * | 16.8351
150095 | *** | * | 22.3214 | * | * | 22.3214
150096 | 0.9574 | 0.8699 | * | 19.7975 | 21.9091 | 20.8347
150097 | 1.0619 | 1.0104 | 21.1462 | 22.4564 | 24.4179 | 22.7769
150098 | 1.1551 | * | 16.4763 | * | * | 16.4763
150100 | 1.7146 | 0.8699 | 18.7289 | 21.2980 | 22.2687 | 20.6246
150101 | 1.0195 | 0.9802 | 21.2025 | 26.1271 | 27.9745 | 24.4114
150102 | 1.0993 | 1.0709 | 20.8817 | 21.3313 | 22.6870 | 21.6474
150103 | *** | * | 19.3652 | * | * | 19.3652
150104 | 1.0494 | 1.0104 | 21.3141 | 21.0799 | 21.8172 | 21.4108
150105 | *** | * | 21.6975 | * | * | 21.6975
150106 ʰ | 0.9550 | 0.9802 | 18.7088 | 19.1976 | 20.9955 | 19.6788
150109 | 1.4074 | 0.9051 | 21.7870 | 23.4642 | 24.3786 | 23.2294
150111 | 1.3006 | * | 24.1560 | * | * | 24.1560
150112 | 1.3928 | 1.0104 | 22.1939 | 23.5151 | 24.7455 | 23.4673
150113 | 1.2228 | 0.9589 | 20.5871 | 21.2412 | 23.0450 | 21.6918
150114 | *** | * | 18.3097 | * | * | 18.3097
150115 | 1.2819 | 0.8699 | 18.1308 | 20.3863 | 20.5215 | 19.6986
150122 | 1.1308 | 0.8898 | 20.7540 | 22.2752 | 24.2471 | 22.4836
150123 | 0.9457 | 0.8699 | 16.2897 | 15.5997 | 15.3050 | 15.7485
150124 | 1.1116 | 0.8699 | 16.2104 | 17.9063 | 18.8218 | 17.6460
150125 | 1.4386 | 1.0709 | 22.0299 | 23.1464 | 24.3872 | 23.2299
150126 | 1.4368 | 1.0709 | 24.0000 | 24.1917 | 25.5585 | 24.5863
150127 | *** | * | 18.0533 | * | * | 18.0533
150128 | 1.3554 | 1.0104 | 20.4742 | 20.9869 | 23.1660 | 21.6089
150129 | 1.1673 | 1.0104 | 29.9888 | 34.3166 | 35.4311 | 33.2370
150130 | 1.0455 | 0.8699 | 18.3852 | 18.5578 | 21.5678 | 19.4353
150132 | 1.3738 | 1.0709 | 21.2747 | 22.2707 | 24.2559 | 22.6184
150133 | 1.2352 | 0.9134 | 20.0320 | 21.8807 | 21.8839 | 21.2868
150134 | 1.0649 | 0.9146 | 20.2764 | 20.7680 | 22.1085 | 21.0778
150136 | 1.1430 | 1.0104 | 22.9091 | 25.8467 | 25.7004 | 24.8117
150146 | 0.9981 | 0.9134 | * | 25.1827 | 26.1168 | 25.5972
150147 | 0.9266 | 1.0709 | * | * | 32.3336 | 32.3336
150148 | *** | * | * | 26.2188 | 27.2081 | 26.7661
150149 | 1.0002 | 0.8699 | * | * | 23.8554 | 23.8554
150150 | 1.2142 | 0.9802 | * | * | 26.5138 | 26.5138
160001 | 1.2068 | 0.9101 | 20.1699 | 22.8426 | 23.8657 | 22.2778
160002 | 1.1516 | * | 17.6600 | 19.9607 | * | 18.7916
160003 | 1.0324 | 0.8515 | 17.5429 | 17.5050 | 19.0037 | 18.0283
160005 | 1.1479 | 0.8515 | 19.3348 | 20.3313 | 21.1745 | 20.2615
160007 | *** | * | 14.9137 | * | * | 14.9137
160008 | 1.0539 | 0.8515 | 16.7863 | 17.9463 | 19.8066 | 18.1465
160009 | *** | * | 19.0664 | * | * | 19.0664
160012 | 0.9609 | * | 17.9236 | * | * | 17.9236
160013 | 1.1956 | 0.8733 | 20.3023 | 21.0541 | 23.0163 | 21.4347
160014 | 0.9530 | 0.8515 | 18.7253 | 18.3097 | 19.2447 | 18.7641
160016 | 1.5221 | 0.9101 | 21.6050 | 21.8400 | 21.2785 | 21.5641
160018 | *** | * | 16.0794 | * | * | 16.0794
160020 | 1.0802 | 0.8515 | 15.7960 | 16.6092 | 19.0043 | 17.1574
160021 | *** | * | 16.7921 | * | * | 16.7921
160023 | *** | * | 15.3855 | * | * | 15.3855
160024 | 1.5603 | 0.9266 | 20.5622 | 22.4256 | 24.2385 | 22.3852
160026 | 1.0142 | 0.9480 | 20.4567 | 22.8967 | 24.2045 | 22.5201
160027 | *** | * | 18.2082 | * | * | 18.2082
160028 | 1.3022 | 0.9740 | 22.9000 | 25.1998 | 26.0052 | 24.7057
160029 | 1.5649 | 0.9649 | 22.2106 | 23.7268 | 24.9493 | 23.6562
160030 | 1.2511 | 0.9480 | 21.6899 | 23.3687 | 24.9920 | 23.3788
160031 | 0.9937 | 0.8515 | 16.8957 | 17.8994 | 18.5281 | 17.7876
160032 | 1.0477 | 0.8787 | 19.2464 | 20.5024 | 22.3837 | 20.7033
160033 | 1.7622 | 0.8758 | 20.1916 | 22.2660 | 23.4148 | 21.9600
160034 | 0.9396 | 0.8515 | 17.3644 | 19.0684 | 19.4837 | 18.6062
160035 | *** | * | 17.0165 | * | * | 17.0165
160036 | *** | * | 20.2598 | * | * | 20.2598
160037 | 0.9941 | * | 19.5067 | * | * | 19.5067
160039 | 0.9716 | 0.8515 | 19.1998 | 19.8851 | 20.9623 | 20.0272
160040 | 1.2616 | 0.8963 | 19.6339 | 20.0567 | 21.8187 | 20.4960
160041 | *** | * | 18.7943 | * | * | 18.7943
160043 | 0.9238 | * | 16.7840 | 15.5765 | * | 16.1621
160044 | 1.1446 | 0.8515 | 19.5552 | 19.0956 | 19.5635 | 19.3956
160045 | 1.7267 | 0.8963 | 21.4757 | 22.1285 | 24.4957 | 22.7180
160046 | *** | * | 16.8665 | * | * | 16.8665
160047 | 1.3794 | 0.9740 | 20.4259 | 22.1550 | 24.5000 | 22.4520
160048 | 1.0870 | 0.8515 | 17.2709 | 18.1174 | 19.5701 | 18.3315
160049 | 0.9487 | * | 15.3233 | * | * | 15.3233
160050 | 1.0257 | 0.8515 | 21.1184 | 21.6247 | 23.8830 | 22.1800
160051 | *** | * | 15.8213 | * | * | 15.8213
160052 | *** | * | 22.1933 | * | * | 22.1933
160054 | *** | * | 16.5258 | * | * | 16.5258
160055 | *** | * | 17.6177 | * | * | 17.6177
160056 | *** | * | 17.9534 | * | * | 17.9534
160057 | 1.3030 | 0.9486 | 19.6802 | 20.8345 | 22.0472 | 20.8573
160058 | 1.8989 | 0.9649 | 22.2812 | 23.5663 | 25.5244 | 23.8102
160060 | *** | * | 17.7489 | * | * | 17.7489
160061 | *** | * | 17.2064 | * | * | 17.2064
160062 | *** | * | 18.8162 | * | * | 18.8162
160063 | *** | * | 17.3770 | * | * | 17.3770
160064 | 1.6399 | 1.0481 | 25.2962 | 23.8367 | 27.6301 | 25.5547
160065 | *** | * | 17.0609 | * | * | 17.0609
160066 | 1.1154 | 0.8515 | 19.3203 | 20.4609 | 21.4631 | 20.4247
160067 | 1.3343 | 0.8963 | 17.6602 | 19.9422 | 21.9418 | 19.6020
160068 | *** | * | 20.5994 | * | * | 20.5994
160069 | 1.4997 | 0.8730 | 20.5989 | 21.7197 | 22.7514 | 21.6807
160070 | *** | * | 17.7856 | * | * | 17.7856
160072 | 1.0176 | * | 15.3384 | 15.8236 | * | 15.5805
160073 | *** | * | 15.5946 | * | * | 15.5946
160074 | 1.0071 | 0.8515 | 18.4624 | 22.2988 | 20.2418 | 20.2627
160075 | *** | * | 20.7843 | * | * | 20.7843
160076 | 0.9967 | 0.8515 | 19.1590 | 20.1603 | 20.9749 | 20.1266
160077 | *** | * | 15.0468 | * | * | 15.0468
160079 | 1.5216 | 0.8963 | 20.5010 | 21.6562 | 22.5299 | 21.5681
160080 | 1.1984 | 0.9484 | 19.6680 | 21.1713 | 23.5721 | 21.3830
160081 | 1.1714 | 0.8515 | 19.1442 | 20.4415 | 21.3614 | 20.2899
160082 | 1.7886 | 0.9266 | 20.7306 | 21.6230 | 23.8181 | 22.0419
160083 | 1.6282 | 0.9266 | 21.3221 | 23.4670 | 25.0617 | 23.2724
160085 | *** | * | 19.1929 | * | * | 19.1929
160086 | *** | * | 19.0477 | * | * | 19.0477
160088 | *** | * | 23.8098 | * | * | 23.8098
160089 | 1.2688 | 0.9101 | 18.3526 | 19.9688 | 21.5693 | 19.9669
160090 | 1.0243 | 0.8515 | 18.4210 | 19.6767 | 21.2753 | 19.8215
160091 | 0.9671 | 0.8515 | 14.8904 | 16.1660 | 18.0630 | 16.3560
160092 | 1.0679 | 0.8515 | 17.9251 | 20.4731 | 22.0841 | 20.1247
160093 | 0.9714 | * | 19.5732 | 22.8553 | * | 20.9212
160094 | *** | * | 18.7835 | * | * | 18.7835
160095 | *** | * | 16.4927 | * | * | 16.4927
160097 | *** | * | 17.7860 | * | * | 17.7860
160098 | *** | * | 16.8997 | * | * | 16.8997
160099 | *** | * | 16.0710 | * | * | 16.0710
160101 | 1.0847 | 0.9266 | 19.6314 | 22.1741 | 24.2309 | 21.9996
160102 | *** | * | 14.4837 | * | * | 14.4837
160103 | *** | * | 19.6169 | * | * | 19.6169
160104 | 1.2844 | 0.8758 | 21.0059 | 23.2832 | 24.0075 | 22.7783
160106 | 1.0578 | * | 19.4385 | 19.8905 | 21.4912 | 20.2695
160107 | 1.0418 | 0.8515 | 18.8937 | 19.5111 | 21.3754 | 19.9069
160108 | *** | * | 17.7577 | * | * | 17.7577
160109 | 0.9390 | * | 18.2938 | * | * | 18.2938
160110 | 1.6822 | 0.8963 | 20.9959 | 21.9299 | 24.1762 | 22.4246
160111 | *** | * | 15.1104 | * | * | 15.1104
160112 | 1.2590 | 0.8515 | 19.6950 | 20.4038 | 21.8901 | 20.6784
160113 | 0.9564 | 0.8515 | 14.9448 | 16.7574 | 18.6599 | 16.7958
160114 | 0.9716 | * | 18.0532 | 19.1743 | * | 18.6182
160115 | 1.0355 | 0.8515 | 16.9992 | 17.6815 | 19.5764 | 18.0168
160116 | 1.0368 | 0.8515 | 18.4261 | 19.6923 | 22.2019 | 20.1223
160117 | 1.2931 | 0.8730 | 20.1682 | 22.3228 | 23.4250 | 21.9540
160118 | 1.0128 | 0.8515 | 17.1480 | 16.9466 | 18.3322 | 17.5246
160120 | *** | * | 15.0576 | * | * | 15.0576
160122 | 1.0449 | 0.8515 | 18.8470 | 21.2843 | 22.9565 | 21.0855
160124 | 1.1732 | 0.8515 | 19.9144 | 21.2279 | 22.7223 | 21.3019
160126 | 0.9909 | 0.8515 | 17.8643 | 20.0149 | 20.3748 | 19.3989
160129 | *** | * | 18.0113 | * | * | 18.0113
160130 | 0.9344 | * | 16.2628 | * | * | 16.2628
160131 | 0.9568 | * | 16.5397 | 18.0486 | * | 17.2959
160134 | *** | * | 14.6396 | * | * | 14.6396
160135 | *** | * | 18.3973 | * | * | 18.3973
160138 | *** | * | 18.3956 | * | * | 18.3956
160140 | 0.9931 | 0.8879 | 19.6154 | 22.1666 | 22.5230 | 21.4658
160142 | *** | * | 17.2792 | * | * | 17.2792
160143 | 1.0650 | * | 18.1287 | 19.0623 | * | 18.5983
160145 | *** | * | 17.8887 | * | * | 17.8887
160146 | 1.4019 | 0.9067 | 19.0576 | 20.6638 | 20.9583 | 20.2206
160147 | 1.2381 | 0.9101 | 21.6062 | 22.7993 | 26.6577 | 23.7398
160151 | *** | * | 18.3398 | * | * | 18.3398
160152 | *** | * | 17.0751 | * | * | 17.0751
160153 | 1.6556 | 0.9067 | 22.7004 | 23.5212 | 26.3671 | 24.2226
170001 | 1.1801 | 0.8126 | 18.5120 | 19.8149 | 20.9837 | 19.7996
170004 | *** | * | 17.2262 | * | * | 17.2262
170006 | 1.2065 | 0.8573 | 19.1982 | 19.4488 | 20.6460 | 19.7801
170008 | 0.9258 | * | 17.7062 | 18.2352 | * | 17.9761
170009 | 1.0753 | 0.9623 | 25.0508 | 25.8246 | 29.1979 | 26.7866
170010 | 1.2057 | 0.8737 | 19.5990 | 20.6294 | 21.2131 | 20.4787
170012 | 1.6314 | 0.9187 | 20.2412 | 21.8587 | 22.6869 | 21.5846
170013 | 1.6058 | 0.9187 | 20.1852 | 21.4954 | 23.1159 | 21.5977
170014 | 1.0121 | 0.9623 | 19.6044 | 21.3416 | 22.9772 | 21.2385
170015 | 0.9529 | 0.8126 | 17.2443 | 18.0485 | 19.1902 | 18.1581
170016 | 1.6872 | 0.8896 | 22.1023 | 22.9479 | 24.2336 | 23.1145
170017 | 1.1342 | 0.9486 | 19.7908 | 21.6323 | 23.3030 | 21.6195
170018 | 0.9045 | 0.8126 | 14.8793 | 16.9169 | 17.9497 | 16.6476
170019 | 1.2158 | 0.8126 | 17.4699 | 18.7916 | 20.3243 | 18.8417
170020 | 1.5359 | 0.9187 | 19.1418 | 20.6658 | 22.2571 | 20.7442
170022 | 1.1962 | 0.9623 | 20.3269 | 21.1947 | 22.9313 | 21.4834
170023 | 1.4379 | 0.9187 | 19.6533 | 21.6273 | 23.2690 | 21.5239
170024 | 0.9817 | * | 15.0081 | 16.1196 | * | 15.5632
170025 | 1.1417 | * | 19.1721 | 19.2123 | * | 19.1915
170026 | 0.9204 | * | 16.9094 | 17.0836 | * | 16.9949
170027 | 1.3807 | 0.8126 | 18.4466 | 20.7776 | 21.4678 | 20.2821
170030 | 0.9888 | * | 12.9413 | * | * | 12.9413
170031 | *** | * | 16.4661 | * | * | 16.4661
170032 | *** | * | 15.2207 | * | * | 15.2207
170033 | 1.3966 | 0.9187 | 20.4533 | 20.0627 | 20.0801 | 20.2001
170034 | 0.8419 | * | 17.8240 | 18.1074 | * | 17.9629
170035 | *** | * | 19.8334 | * | * | 19.8334
170038 | *** | * | 15.2505 | * | * | 15.2505
170039 | 0.9628 | 0.9472 | 18.5780 | 18.4473 | 20.1983 | 19.0814
170040 | 1.9259 | 0.9623 | 23.1014 | 24.5234 | 27.1771 | 25.0772
170041 | 0.9614 | * | 9.9263 | 13.9709 | * | 11.6651
170045 | 0.9920 | * | 20.5454 | * | * | 20.5454
170049 | 1.4655 | 0.9623 | 21.2917 | 22.9404 | 24.1208 | 22.8637
170051 | *** | * | 16.9003 | * | * | 16.9003
170052 | 1.1623 | 0.8126 | 16.0948 | 15.8809 | 17.3794 | 16.4626
170053 | *** | * | 14.3629 | * | * | 14.3629
170054 | 1.0156 | * | 15.2814 | 18.5239 | 17.5500 | 17.1080
170055 | *** | * | 18.1782 | * | * | 18.1782
170056 | 0.8477 | * | 19.7369 | 17.1872 | * | 18.6155
170058 | 1.0958 | 0.8573 | 20.1090 | 23.0648 | 22.0398 | 21.7489
170060 | 0.9073 | * | 17.5289 | * | * | 17.5289
170061 | 1.0019 | * | 15.6413 | * | * | 15.6413
170063 | *** | * | 13.7611 | * | * | 13.7611
170066 | *** | * | 16.8010 | * | * | 16.8010
170067 | *** | * | 20.7945 | * | * | 20.7945
170068 | 1.1997 | 0.8126 | 19.2629 | 20.5512 | 20.8771 | 20.2365
170070 | 1.0667 | 0.8126 | 14.8349 | 15.0539 | 16.4767 | 15.4454
170073 | *** | * | 17.7586 | * | * | 17.7586
170074 | 1.1339 | 0.8126 | 17.6543 | 18.5446 | 20.4936 | 18.9467
170075 | 0.8625 | 0.8126 | 14.4939 | 15.6809 | 16.2047 | 15.4970
170076 | 0.9108 | * | 14.9393 | * | * | 14.9393
170077 | 0.8861 | * | 14.1376 | 14.6377 | * | 14.3947
170079 | *** | * | 16.7227 | * | * | 16.7227
170080 | 0.9403 | * | 13.6793 | 15.0079 | * | 14.3578
170081 | *** | * | 15.0840 | * | * | 15.0840
170082 | 0.8969 | * | 14.8154 | 15.9973 | * | 15.4029
170084 | *** | * | 13.6517 | * | * | 13.6517
170085 | 0.8840 | 0.8126 | 21.8907 | 17.2585 | 18.4867 | 19.3032
170086 | 1.5612 | 0.8896 | 20.7298 | 22.1067 | 22.7737 | 21.8864
170089 | *** | * | 20.2263 | * | * | 20.2263
170090 | 0.9576 | * | 23.6839 | 16.3550 | 15.9807 | 17.8436
170093 | 0.8263 | 0.8126 | 14.7803 | 15.0307 | 16.8710 | 15.5787
170094 | 0.9972 | 0.8896 | 21.2484 | 20.1253 | 20.3678 | 20.6300
170095 | 0.9779 | * | 16.1078 | * | * | 16.1078
170097 | 0.9058 | * | 18.6023 | 18.9865 | 20.3391 | 19.3146
170098 | 1.1165 | 0.8126 | 17.3479 | 18.6676 | 20.0078 | 18.6191
170099 | 1.1247 | * | 16.5248 | 15.8117 | * | 16.1638
170101 | 0.8750 | * | 17.3382 | 17.9291 | * | 17.6471
170102 | *** | * | 14.4499 | * | * | 14.4499
170103 | 1.2105 | 0.9486 | 18.6172 | 20.1263 | 21.4985 | 20.1233
170104 | 1.4993 | 0.9623 | 22.0671 | 23.6589 | 26.1866 | 23.9928
170105 | 1.0860 | 0.8126 | 18.2788 | 18.3824 | 19.6687 | 18.7982
170109 | 0.9735 | 0.9623 | 18.3483 | 20.7580 | 22.7166 | 20.6908
170110 | 1.0074 | 0.8126 | 21.0637 | 16.5883 | 21.8904 | 19.8917
170112 | *** | * | 15.8097 | * | * | 15.8097
170113 | 1.0161 | * | 16.4939 | 19.9957 | * | 17.9133
170114 | 0.8679 | 0.8126 | 13.9726 | 17.4688 | 18.1610 | 16.3775
170115 | *** | * | 13.0254 | * | * | 13.0254
170116 | 1.0235 | 0.8126 | 19.4278 | 20.8800 | 23.1127 | 21.1385
170117 | *** | * | 16.8301 | * | * | 16.8301
170119 | *** | * | 15.1981 | * | * | 15.1981
170120 | 1.2174 | 0.8573 | 18.2832 | 18.5895 | 19.8723 | 18.9135
170122 | 1.6151 | 0.9486 | 21.4588 | 22.2681 | 24.6532 | 22.7610
170123 | 1.6521 | 0.9486 | 25.2122 | 25.0073 | 26.4676 | 25.5847
170124 | *** | * | 16.3925 | * | * | 16.3925
170126 | *** | * | 14.5527 | * | * | 14.5527
170128 | *** | * | 17.6258 | * | * | 17.6258
170133 | 1.0633 | 0.9623 | 19.9778 | 20.0593 | 21.7748 | 20.5957
170134 | *** | * | 15.1932 | * | * | 15.1932
170137 | 1.2717 | 0.8126 | 19.3344 | 21.4394 | 22.7676 | 21.1717
170139 | *** | * | 14.8156 | * | * | 14.8156
170142 | 1.3103 | 0.8126 | 19.0547 | 19.8269 | 22.4095 | 20.4139
170143 | 1.1361 | 0.8126 | 16.3258 | 18.0308 | 19.7643 | 18.0791
170144 | *** | * | 20.8488 | 23.9180 | 24.4259 | 22.7916
170145 | 1.0833 | 0.8737 | 20.1494 | 20.5143 | 21.4472 | 20.7120
170146 | 1.4820 | 0.9623 | 25.2520 | 27.0312 | 28.1965 | 26.9350
170147 | 1.2527 | 0.9486 | 18.4634 | 18.2480 | 23.1610 | 19.8742
170148 | *** | * | 24.4828 | 26.3491 | * | 25.3383
170150 | 1.1232 | 0.8126 | 14.9718 | 16.3724 | 17.4916 | 16.2770
170151 | 0.9404 | * | 14.5001 | 15.7242 | * | 15.1193
170152 | *** | * | 16.0930 | * | * | 16.0930
170160 | *** | * | 17.0628 | * | * | 17.0628
170164 | *** | * | 17.0792 | * | * | 17.0792
170166 | 0.9239 | 0.8126 | 16.5113 | 17.8131 | 18.5978 | 17.6133
170171 | *** | * | 14.7050 | 14.7251 | * | 14.7158
170175 | 1.3386 | 0.9187 | 20.8671 | 22.5605 | 23.6262 | 22.2664
170176 | 1.3057 | 0.9623 | 23.5743 | 25.5404 | 24.2283 | 24.4336
170180 | *** | * | * | 25.0935 | * | 25.0935
170182 | 1.4803 | 0.9623 | 21.9797 | 23.2115 | 24.3820 | 23.2221
170183 | 1.9494 | 0.9486 | 16.6577 | 19.6919 | 22.8633 | 19.7661
170185 | 1.1226 | 0.9623 | 26.8136 | 26.8307 | 24.8478 | 26.0707
170186 | 2.9515 | 0.9486 | 33.2457 | 28.5602 | 30.5157 | 30.5405
170187 | 1.2282 | 0.8126 | * | 20.8289 | 21.0780 | 20.9654
170188 | 2.1282 | 0.9623 | * | 25.2504 | 27.2225 | 26.3122
170189 | *** | * | * | 28.1996 | * | 28.1996
170190 | 0.9116 | 0.8126 | * | * | 22.4865 | 22.4865
170191 | 1.0067 | 0.8126 | * | * | 24.9599 | 24.9599
180001 | 1.1948 | 0.9536 | 20.8169 | 22.2674 | 24.7647 | 22.5886
180002 | 1.0229 | 0.7813 | 19.8195 | 20.5135 | 21.6843 | 20.6864
180004 | 1.1189 | 0.7813 | 18.0494 | 19.8552 | 19.0834 | 18.9860
180005 | 1.1922 | 0.9009 | 23.4941 | 22.6704 | 22.8871 | 23.0158
180006 | 0.9801 | 0.7813 | 11.2872 | 14.4066 | 15.7136 | 13.5723
180007 | 1.4053 | 0.9336 | 18.6823 | 21.3545 | 21.8724 | 20.6451
180009 | 1.5859 | 0.9560 | 21.7746 | 22.4450 | 24.0971 | 22.8155
180010 | 1.9059 | 0.9336 | 19.4210 | 22.6846 | 26.4116 | 22.7610
180011 | 1.4295 | 0.8931 | 22.6798 | 18.8056 | 22.3183 | 21.2452
180012 | 1.4965 | 0.9146 | 19.6614 | 20.2758 | 22.9096 | 20.9578
180013 | 1.4558 | 0.9758 | 20.0950 | 21.0512 | 21.4728 | 20.9081
180014 | *** | * | 23.0067 | * | * | 23.0067
180016 | 1.2944 | 0.9146 | 19.7242 | 20.5203 | 22.2148 | 20.8553
180017 | 1.2860 | 0.7813 | 16.7649 | 18.0329 | 19.0694 | 17.9749
180018 | 1.3805 | 0.8931 | 18.1529 | 17.5670 | 18.3314 | 18.0200
180019 | 1.1208 | 0.7813 | 19.5953 | 20.8416 | 22.0379 | 20.8096
180020 | 1.0654 | 0.7813 | 19.4391 | 20.9964 | 22.3477 | 20.9038
180021 | 1.1248 | 0.7813 | 16.5377 | 17.6331 | 17.9346 | 17.3741
180023 | *** | * | 19.0574 | * | * | 19.0574
180024 | 1.1511 | 0.7813 | 19.6313 | 22.3922 | 23.6826 | 22.0438
180025 | 1.0657 | 0.9126 | 17.1875 | 18.3306 | 17.4781 | 17.6757
180026 | 1.0938 | 0.7813 | 13.9960 | 15.5354 | 15.8431 | 15.1128
180027 | 1.2625 | 0.8109 | 19.6928 | 20.5017 | 22.1072 | 20.7790
180028 | 0.8925 | 0.9009 | 26.2221 | 20.6324 | 21.4766 | 22.4249
180029 | 1.2496 | 0.8235 | 20.0841 | 20.4262 | 21.2110 | 20.6029
180030 | *** | * | 17.5043 | * | * | 17.5043
180031 | *** | * | 17.1003 | * | * | 17.1003
180032 | *** | * | 17.2362 | * | * | 17.2362
180033 | *** | * | 17.0499 | * | * | 17.0499
180034 | *** | * | 17.0349 | * | * | 17.0349
180035 | 1.5545 | 0.9536 | 22.4651 | 24.3874 | 26.7702 | 24.5908
180036 | 1.1980 | 0.9560 | 20.6951 | 22.2389 | 23.1636 | 22.0893
180037 | 1.2812 | 0.9146 | 21.0177 | 22.7893 | 24.4451 | 23.0162
180038 | 1.3972 | 0.8450 | 19.3837 | 20.6888 | 22.2750 | 20.8090
180040 | 2.0734 | 0.9146 | 22.2270 | 23.2341 | 24.5590 | 23.3814
180041 | 1.1072 | 0.7813 | 17.5950 | 19.1325 | 18.5483 | 18.3898
180042 | *** | * | 15.5660 | * | * | 15.5660
180043 | 1.1978 | 0.7813 | 17.2414 | 20.6498 | 18.8436 | 18.9201
180044 | 1.4334 | 0.9009 | 21.1057 | 21.8163 | 21.6837 | 21.5313
180045 | 1.2190 | 0.9536 | 20.7498 | 22.1027 | 24.5856 | 22.4422
180046 | 1.0405 | 0.9336 | 21.6955 | 23.1139 | 24.7562 | 23.2153
180047 | 0.9015 | 0.7813 | 17.8625 | 17.8574 | 20.4768 | 18.7740
180048 | 1.2892 | 0.7813 | 18.3151 | 20.0114 | 22.3601 | 20.1998
180049 ʰ | 1.3587 | 0.9336 | 17.8418 | 18.5188 | 19.4488 | 18.5953
180050 | 1.1065 | 0.7813 | 19.4992 | 19.9082 | 21.7150 | 20.3768
180051 | 1.3746 | 0.8109 | 18.3028 | 18.8186 | 19.2100 | 18.7757
180053 | 1.0094 | 0.7813 | 17.3167 | 17.6239 | 18.6610 | 17.8760
180054 | 1.0219 | 0.7813 | 17.4354 | 19.1340 | 19.0657 | 18.6210
180055 ʰ | 1.1441 | 0.9336 | 16.6072 | 17.8704 | 21.1989 | 18.5032
180056 | 1.0604 | 0.8398 | 18.7038 | 19.4072 | 21.4695 | 19.8919
180058 | *** | * | 14.8840 | * | * | 14.8840
180059 | *** | * | 17.2541 | * | * | 17.2541
180063 | 1.1769 | 0.7813 | 14.7338 | 15.5078 | 15.9185 | 15.4288
180064 | 1.1474 | 0.7813 | 16.3894 | 21.1067 | 15.3819 | 17.4786
180065 | *** | * | 11.0966 | * | * | 11.0966
180066 | 1.0624 | 0.9758 | 20.7907 | 21.1884 | 24.6359 | 22.2657
180067 | 1.9904 | 0.9336 | 20.2762 | 22.0056 | 24.0551 | 22.0151
180069 | 1.0699 | 0.9009 | 19.0836 | 20.3982 | 20.8797 | 20.1274
180070 | 1.0982 | 0.7813 | 15.4643 | 16.9892 | 17.4266 | 16.6474
180072 | *** | * | 17.0576 | 17.5411 | * | 17.2676
180078 | 1.0991 | 0.9009 | 23.7765 | 23.4616 | 25.4196 | 24.2197
180079 | 1.1188 | 0.7813 | 18.1683 | 18.0472 | 19.5783 | 18.5997
180080 | 1.3468 | 0.8931 | 17.6735 | 18.9582 | 20.1651 | 18.9486
180087 | 1.1901 | 0.7813 | 16.2378 | 16.4726 | 17.7758 | 16.8511
180088 | 1.5808 | 0.9146 | 22.8908 | 23.7217 | 24.6053 | 23.9260
180092 | 1.1283 | 0.9336 | 18.8964 | 19.6790 | 22.4864 | 20.3849
180093 | 1.4395 | 0.8218 | 17.7592 | 18.8469 | 19.2748 | 18.6312
180094 | 0.9147 | * | 14.3306 | 15.7640 | * | 15.0182
180095 | 1.1201 | 0.7813 | 15.4477 | 15.9881 | 17.1354 | 16.1990
180099 | 0.9400 | * | 14.0464 | 14.0115 | * | 14.0297
180101 | 1.1847 | 0.9336 | 21.0704 | 22.4094 | 24.2242 | 22.6117
180102 | 1.5442 | 0.8109 | 18.8169 | 20.1885 | 19.1136 | 19.3390
180103 | 2.1712 | 0.9336 | 20.9598 | 21.3867 | 25.1577 | 22.5176
180104 | 1.6086 | 0.8109 | 20.2731 | 21.3866 | 22.8911 | 21.5448
180105 | 0.8522 | 0.7813 | 18.2975 | 18.3521 | 19.5364 | 18.7463
180106 | 0.9463 | 0.7813 | 15.5278 | 15.4937 | 15.7851 | 15.6114
180108 | 0.9046 | * | 14.8720 | 16.7327 | * | 15.7981
180115 | 0.9655 | 0.7813 | 18.0951 | 19.2396 | 19.9316 | 19.1066
180116 | 1.2010 | 0.8109 | 19.2389 | 20.5453 | 21.8698 | 20.5636
180117 | 0.9905 | 0.7813 | 20.7961 | 17.7885 | 20.5952 | 19.6297
180118 | *** | * | 17.9018 | * | * | 17.9018
180120 | 0.8434 | * | 16.4226 | 20.4507 | * | 18.2085
180121 | 1.0665 | * | 16.9571 | 16.9881 | * | 16.9732
180122 | *** | * | 18.7549 | * | * | 18.7549
180123 | *** | * | 21.5962 | * | * | 21.5962
180124 | 1.3186 | 0.9758 | 19.7138 | 20.5369 | 21.4270 | 20.5273
180125 | *** | * | 22.6610 | * | * | 22.6610
180126 | 1.1798 | 0.7813 | 14.8501 | 14.5644 | 15.1776 | 14.8734
180127 | 1.2280 | 0.9146 | 18.0498 | 20.0059 | 21.4633 | 19.8860
180128 | 0.9591 | 0.8095 | 18.7194 | 19.8502 | 20.5575 | 19.7385
180129 | 0.8653 | * | 15.6637 | 14.1861 | * | 14.9304
180130 | 1.6472 | 0.9146 | 21.9413 | 23.4982 | 24.8441 | 23.4721
180132 | 1.3564 | 0.8931 | 19.8393 | 19.9358 | 22.2101 | 20.6457
180133 | *** | * | 23.2679 | * | * | 23.2679
180134 | 1.0677 | 0.7813 | 16.5901 | * | 17.3449 | 17.0266
180138 | 1.2244 | 0.9146 | 19.8524 | 23.0996 | 25.1789 | 22.6748
180139 | 1.0388 | 0.8931 | 20.3816 | 20.6287 | 21.3797 | 20.8113
180140 | *** | * | 14.6466 | * | * | 14.6466
180141 | 1.9007 | 0.9146 | 20.3404 | 22.6722 | 24.3140 | 22.3929
180143 | 1.3435 | 0.9336 | 21.3196 | 20.1309 | 23.9125 | 21.8391
190001 | 1.0837 | 0.9100 | 18.8583 | 20.4946 | 19.5680 | 19.6565
190002 | 1.7356 | 0.8299 | 20.6057 | 20.7172 | 21.7000 | 21.0149
190003 | 1.4002 | 0.8299 | 19.5115 | 20.7505 | 21.8156 | 20.6841
190004 | 1.3529 | 0.7761 | 19.6755 | 20.5272 | 22.1835 | 20.7630
190005 | 1.4917 | 0.9100 | 19.0994 | 20.0551 | 20.7987 | 19.9608
190006 | 1.6017 | 0.8299 | 17.7333 | 18.8115 | 22.1499 | 20.7786
190007 | 1.1729 | 0.7370 | 16.3633 | 17.9392 | 18.7854 | 17.7774
190008 | 1.7041 | 0.7761 | 22.4797 | 20.3278 | 21.4137 | 21.3696
190009 | 1.1798 | 0.8178 | 16.0395 | 17.5144 | 18.8295 | 17.3661
190010 | 1.1100 | 0.7771 | 17.7616 | 18.1797 | 19.9788 | 18.6286
190011 | 1.0098 | 0.7913 | 15.7319 | 15.4699 | 18.1525 | 16.3890
190013 | 1.3662 | 0.7959 | 16.7770 | 18.7538 | 19.6346 | 18.3899
190014 | 1.1101 | 0.7370 | 18.6929 | 17.0630 | 17.4740 | 17.7511
190015 | 1.3321 | 0.9100 | 19.7673 | 20.6167 | 22.1046 | 20.8722
190017 ʰ | 1.3411 | 0.8534 | 19.8449 | 18.3528 | 18.6962 | 18.8914
190018 | 1.1525 | * | 13.1355 | 19.2055 | * | 15.6672
190019 | 1.6767 | 0.8178 | 18.7344 | 20.8193 | 23.0704 | 20.9006
190020 | 1.0852 | 0.8339 | 18.7252 | 18.5659 | 19.8505 | 19.0370
190025 | 1.2406 | 0.7370 | 18.1892 | 19.9969 | 20.4651 | 19.5545
190026 | 1.5025 | 0.8178 | 19.0130 | 19.9229 | 21.3386 | 20.1124
190027 | 1.5961 | 0.7959 | 18.4070 | 19.4057 | 21.2449 | 19.6765
190029 | *** | * | 18.7344 | * | * | 18.7344
190034 | 1.2112 | 0.7370 | 19.2007 | 16.8439 | 17.5002 | 17.8306
190036 | 1.6228 | 0.9100 | 21.2960 | 23.3903 | 23.7356 | 22.8512
190037 | 0.9402 | 0.7940 | 14.1323 | 15.6062 | 16.7629 | 15.4000
190039 | 1.5062 | 0.9100 | 18.7625 | 20.4900 | 23.3105 | 20.8378
190040 | 1.3668 | 0.9100 | 23.1819 | 22.9262 | 23.8076 | 23.2916
190041 | 1.5226 | 0.9130 | 19.5511 | 21.9983 | 23.9082 | 21.6315
190043 | 1.0035 | 0.7370 | 15.5644 | 15.7333 | 16.8944 | 16.0947
190044 ʰ | 1.1765 | 0.8299 | 17.6788 | 17.7460 | 19.5304 | 18.3544
190045 | 1.6489 | 0.9100 | 22.0065 | 22.8709 | 24.0490 | 23.0241
190046 | 1.4113 | 0.9100 | 20.2414 | 21.1019 | 22.2884 | 21.1918
190048 | 1.0464 | 0.7370 | 16.6848 | 18.1698 | 18.6148 | 17.8403
190049 | 1.0036 | 0.8015 | 18.5902 | 19.3768 | 20.1229 | 19.3736
190050 | 1.1095 | 0.7370 | 16.9053 | 18.6663 | 18.5287 | 18.0350
190053 | 1.1184 | 0.7370 | 13.4768 | 13.8037 | 15.7258 | 14.3833
190054 | 1.2686 | 0.8299 | 17.7269 | 19.9370 | 20.3525 | 19.3624
190059 | 0.8492 | 0.8322 | 17.8651 | 18.3334 | 19.2396 | 18.4817
190060 | 1.4286 | 0.7959 | 19.9121 | 20.2207 | 22.2517 | 20.8132
190064 | 1.5662 | 0.8339 | 19.7215 | 21.1262 | 21.5514 | 20.8022
190065 | 1.4752 | 0.8339 | 18.3280 | 20.3583 | 23.0523 | 20.5321
190071 | *** | * | 16.3822 | * | * | 16.3822
190077 | 0.8604 | 0.7908 | 16.8829 | 17.0480 | 18.4043 | 17.4434
190078 ʰ | 1.0714 | 0.8534 | 19.5879 | 19.8607 | 21.5782 | 20.3859
190079 | 1.0868 | 0.9100 | 18.8187 | 20.5000 | 21.8158 | 20.3442
190081 | 0.8947 | 0.7370 | 14.7919 | 11.4756 | 14.9141 | 13.7432
190083 | 0.9080 | 0.7370 | 16.2970 | 18.4954 | 19.2683 | 18.1242
190086 | 1.3158 | 0.8955 | 17.6237 | 18.2005 | 18.8306 | 18.2132
190088 ʰ | 1.1237 | 0.9835 | 20.4726 | 18.6738 | 22.5045 | 20.4262
190089 | 1.0069 | 0.7370 | 15.2055 | 15.5151 | 16.2961 | 15.6910
190090 | 1.0957 | 0.7370 | 19.8201 | 19.0519 | 20.0745 | 19.6592
190095 | *** | * | 17.3637 | 16.9519 | 18.7302 | 17.6733
190098 | 1.5598 | 0.9130 | 21.4328 | 20.7537 | 23.0802 | 21.7299
190099 | 1.0728 | 0.8299 | 19.0545 | 23.1606 | 21.1657 | 21.1146
190102 | 1.6803 | 0.8299 | 21.1614 | 22.0190 | 23.4618 | 22.2709
190103 | *** | * | 15.6415 | * | * | 15.6415
190106 | 1.1184 | 0.8299 | 19.9117 | 20.3114 | 21.5643 | 20.6057
190109 | 1.1295 | 0.7761 | 16.3641 | 16.6515 | 17.4842 | 16.8446
190110 | 0.9482 | 0.7370 | 15.2652 | 16.5007 | 19.0611 | 16.9388
190111 | 1.5904 | 0.9130 | 21.3622 | 24.4380 | 25.2370 | 23.7300
190112 | *** | * | 24.2806 | * | * | 24.2806
190113 | *** | * | 19.0411 | * | * | 19.0411
190114 | 1.0488 | 0.7370 | 13.5044 | 13.6101 | 14.6258 | 13.9058
190115 | 1.2378 | 0.9130 | 24.0098 | 25.4984 | 26.0272 | 25.1031
190116 | 1.3343 | 0.7370 | 18.3223 | 17.8297 | 18.6074 | 18.2486
190118 | 0.9462 | 0.9130 | 17.8543 | 17.5060 | 19.0200 | 18.1434
190120 | *** | * | 17.6709 | * | * | 17.6709
190122 | 1.2677 | 0.8339 | 16.7189 | 17.7811 | 19.3131 | 17.8794
190124 | 1.6313 | 0.9100 | 22.8245 | 23.3859 | 23.4862 | 23.2316
190125 | 1.6626 | 0.7913 | 20.1401 | 21.5692 | 22.3976 | 21.3596
190128 | 1.1949 | 0.8339 | 21.5869 | 23.8786 | 24.7842 | 23.4711
190130 | 0.9497 | 0.7370 | 14.5586 | 15.2678 | 16.6910 | 15.5600
190131 | 1.1827 | 0.9100 | 19.7483 | 21.3154 | 22.5032 | 21.1774
190133 | 0.8596 | 0.7608 | 15.7835 | 13.4062 | 14.3089 | 14.4683
190135 | 1.4411 | 0.9100 | 23.0214 | 24.4908 | 26.9920 | 24.8491
190136 | *** | * | 15.6286 | * | * | 15.6286
190140 | 1.0128 | 0.7370 | 14.8738 | 15.4030 | 17.0371 | 15.7699
190142 | *** | * | 19.0464 | * | * | 19.0464
190144 ʰ | 1.1576 | 0.9835 | 18.3513 | 21.3838 | 21.1658 | 20.3047
190145 | 0.9295 | 0.7370 | 16.4403 | 17.4407 | 17.3361 | 17.0873
190146 | 1.5866 | 0.9100 | 20.9312 | 22.1502 | 23.7721 | 22.2954
190147 | 0.8887 | * | 15.2732 | 16.3596 | * | 15.8026
190148 | 0.9618 | * | 19.4518 | 19.3245 | 20.8321 | 19.8487
190149 | 0.9132 | 0.7370 | 16.5153 | 18.4197 | 17.1671 | 17.3348
190151 | 1.0023 | 0.7370 | 16.2783 | 17.3402 | 17.8741 | 17.1665
190152 | 1.3510 | 0.9100 | 22.7142 | 25.1136 | 27.4708 | 25.2158
190156 | 0.8585 | 0.7370 | 17.6573 | 18.0528 | 18.3702 | 18.0268
190158 | 1.1777 | 0.9100 | 21.6307 | 23.2361 | 26.2352 | 23.8697
190160 | 1.4913 | 0.7913 | 19.3139 | 19.8428 | 20.0025 | 19.7550
190161 | 1.0866 | 0.7959 | 15.7807 | 16.5322 | 17.8794 | 16.7092
190162 | 1.0184 | 0.9100 | 20.9645 | 20.7350 | 22.1781 | 21.2897
190164 | 1.1297 | 0.8178 | 19.0474 | 20.2791 | 21.4247 | 20.3677
190167 | 1.1932 | 0.7370 | 15.5795 | 17.2643 | 17.8604 | 16.8909
190170 | *** | * | 16.2045 | * | * | 16.2045
190175 | 1.3584 | 0.9100 | 23.0144 | 22.7574 | 24.6790 | 23.4224
190176 | 1.7052 | 0.9100 | 21.7051 | 25.2536 | 25.8482 | 24.3236
190177 | 1.6497 | 0.9100 | 20.3679 | 22.3318 | 25.4769 | 22.7987
190182 | 1.2830 | 0.9100 | 23.1997 | 23.6016 | 25.0837 | 23.9887
190183 | 1.1676 | 0.7761 | 16.7402 | 17.1805 | 18.3151 | 17.3985
190184 | 0.9556 | 0.7370 | 18.6583 | 20.6096 | 21.3191 | 20.0986
190185 | 1.3053 | 0.9100 | 20.7351 | 29.7870 | 24.4176 | 24.5671
190186 | *** | * | 16.7272 | * | * | 16.7272
190190 | 0.8717 | 0.7370 | 13.7951 | 16.2819 | 14.0052 | 14.3932
190191 ʰ | 1.2761 | 0.8534 | 19.7218 | 21.9141 | 22.3755 | 21.3660
190196 | 0.8709 | 0.8299 | 19.1961 | 20.7601 | 21.9355 | 20.7026
190197 | 1.3174 | 0.7913 | 20.9871 | 21.6908 | 22.9631 | 21.9483
190199 | 1.2118 | 0.8322 | 17.8288 | 19.7776 | 18.5317 | 18.6450
190200 | 1.4105 | 0.9100 | 22.3510 | 24.1667 | 26.4258 | 24.3389
190201 | 1.2789 | 0.7959 | 21.7185 | 21.4335 | 22.5588 | 21.9213
190202 | 1.4005 | 0.8339 | 22.4701 | 22.4062 | 21.8900 | 22.2701
190203 | 1.4208 | 0.9100 | 23.0636 | 24.9518 | 26.9099 | 25.0997
190204 | 1.5258 | 0.9100 | 22.9134 | 26.1231 | 28.8777 | 26.2119
190205 | 1.8060 | 0.8299 | 18.8750 | 20.2374 | 21.7696 | 20.3569
190206 | 1.6181 | 0.9100 | 21.7867 | 24.2892 | 26.9117 | 24.4993
190207 | *** | * | 20.7024 | 21.5325 | * | 21.1317
190208 | 0.7696 | 0.7370 | 17.6834 | 23.0838 | 24.8409 | 20.9597
190218 | 1.0364 | 0.8955 | 20.7290 | 21.6206 | 23.9182 | 22.1717
190236 | 1.4445 | 0.9130 | 22.5796 | 24.4661 | 23.8233 | 23.6496
190240 | 0.9388 | 0.7370 | 16.0658 | 15.4026 | 13.9888 | 15.1564
190241 | 1.2981 | 0.7761 | * | 24.2462 | 28.9620 | 26.7568
190242 | 1.1891 | 0.8339 | * | 18.6672 | 20.5937 | 19.5839
190243 | *** | * | * | * | 30.6060 | 30.6060
200001 | 1.3018 | 0.9937 | 19.7904 | 21.6050 | 23.2210 | 21.5711
200002 | 1.1048 | 0.9807 | 22.3145 | 22.0700 | 24.1446 | 22.8997
200003 | 1.2180 | * | 18.5780 | * | * | 18.5780
200006 | *** | * | 18.9818 | * | * | 18.9818
200007 | 1.0715 | 1.0102 | 19.0388 | 21.0603 | 22.3920 | 20.8293
200008 | 1.2425 | 1.0102 | 23.2883 | 25.1115 | 25.1741 | 24.5695
200009 | 1.8773 | 1.0102 | 23.3090 | 24.9041 | 28.1409 | 25.4643
200012 | 1.1788 | 0.9027 | 20.5141 | 21.8529 | 24.1243 | 22.1883
200013 | 1.0985 | 0.9213 | 20.3793 | 22.8909 | 23.9048 | 22.4199
200016 | *** | * | 16.2939 | * | * | 16.2939
200018 | 1.2082 | 0.9027 | 19.8848 | 21.1330 | 24.3294 | 21.8510
200019 | 1.2980 | 1.0102 | 21.1893 | 23.1114 | 24.0926 | 22.8178
200020 | 1.2594 | 1.0793 | 24.7433 | 27.0798 | 28.7351 | 26.9781
200021 | 1.1904 | 1.0102 | 22.0144 | 24.9925 | 25.1027 | 24.0972
200024 | 1.4400 | 0.9807 | 21.0633 | 22.9698 | 24.6484 | 22.9176
200025 | 1.1788 | 1.0102 | 21.4247 | 22.9023 | 24.3646 | 22.8925
200026 | 1.0236 | 0.9027 | 18.1459 | 19.7172 | 21.9997 | 19.9757
200027 | 1.3228 | 0.9027 | 20.2100 | 21.0156 | 23.2912 | 21.4967
200028 | 1.0246 | 0.9027 | 19.8886 | 21.2180 | 24.3061 | 21.8004
200031 | 1.2806 | 0.9027 | 17.7875 | 18.8262 | 20.6202 | 19.0739
200032 | 1.1911 | 0.9027 | 20.9148 | 23.0487 | 24.2221 | 22.7787
200033 | 1.9114 | 0.9937 | 23.6298 | 25.1723 | 26.8727 | 25.2865
200034 | 1.3252 | 0.9807 | 21.8266 | 23.5415 | 26.1150 | 23.9339
200037 | 1.1455 | 0.9027 | 19.5004 | 22.6534 | 23.3490 | 21.7266
200038 | *** | * | 22.9220 | * | * | 22.9220
200039 | 1.2741 | 0.9807 | 21.5695 | 22.1333 | 24.0474 | 22.6198
200040 | 1.2806 | 1.0102 | 20.7744 | 21.8528 | 23.6791 | 22.1249
200041 | 1.1455 | 0.9027 | 20.2986 | 21.3816 | 23.6797 | 21.9048
200043 | *** | * | 20.0281 | * | * | 20.0281
200050 | 1.2933 | 0.9937 | 23.0314 | 23.4391 | 25.5233 | 24.0774
200052 | 1.1286 | 0.9027 | 18.9290 | 19.0535 | 22.7763 | 20.3075
200055 | *** | * | 19.4998 | * | * | 19.4998
200062 | *** | * | 18.0949 | * | * | 18.0949
200063 | 1.2056 | 0.9807 | 22.5265 | 23.0135 | 24.7235 | 23.4375
200066 | 1.2028 | 0.9027 | 18.4281 | 19.5890 | 21.6354 | 19.8615
210001 | 1.4599 | 0.9992 | 21.5280 | 22.6614 | 26.3144 | 23.5483
210002 | 2.1065 | 0.9892 | 26.5907 | 25.6975 | 25.2859 | 25.8015
210003 | 1.6774 | 1.1026 | 22.3090 | 23.0790 | 32.3042 | 25.5703
210004 | 1.4289 | 1.0992 | 27.2278 | 29.4841 | 29.4300 | 28.7764
210005 | 1.3054 | 1.0952 | 22.5304 | 24.7185 | 27.1276 | 24.8458
210006 | 1.1033 | 0.9892 | 20.8607 | 24.7327 | 25.6396 | 23.6960
210007 | 1.9394 | 0.9892 | 23.4582 | 27.5104 | 28.4496 | 26.5095
210008 | 1.3317 | 0.9892 | 21.0767 | 24.6569 | 26.3008 | 24.1785
210009 | 1.8331 | 0.9892 | 20.8476 | 23.4889 | 24.6332 | 23.0529
210010 | 1.0816 | 0.9225 | 20.4097 | 23.7761 | 24.5071 | 22.9040
210011 | 1.4004 | 0.9892 | 20.4017 | 22.3262 | 24.8373 | 22.5098
210012 | 1.6215 | 0.9892 | 24.8430 | 25.2892 | 25.7934 | 25.3087
210013 | 1.3848 | 0.9892 | 23.1649 | 23.0151 | 23.9875 | 23.3984
210015 | 1.3236 | 0.9892 | 23.9651 | 23.8419 | 25.8532 | 24.5701
210016 | 1.8330 | 1.0992 | 24.7441 | 27.2632 | 28.6992 | 26.9578
210017 | 1.1871 | 0.9225 | 18.2963 | 19.0248 | 21.3983 | 19.5783
210018 | 1.2623 | 1.0992 | 23.6442 | 25.3112 | 27.5431 | 25.4917
210019 | 1.7254 | 0.9225 | 21.5429 | 23.5259 | 24.9252 | 23.3921
210022 | 1.4268 | 1.0992 | 25.6728 | 27.6680 | 30.1470 | 27.8874
210023 | 1.4898 | 1.0101 | 24.4815 | 26.7837 | 29.0844 | 26.8138
210024 | 1.7328 | 0.9892 | 24.7858 | 24.8939 | 27.1756 | 25.6947
210025 | 1.2065 | 0.9225 | 21.4910 | 22.8882 | 23.8943 | 22.7518
210026 | *** | * | 20.7985 | * | * | 20.7985
210027 | 1.5012 | 0.9225 | 16.2219 | 19.3517 | 23.9255 | 19.4953
210028 | 1.1125 | 0.9225 | 20.4027 | 22.4054 | 24.1265 | 22.3643
210029 | 1.3027 | 0.9892 | 24.7605 | 26.2082 | 31.2888 | 27.3677
210030 | 1.2878 | 0.9225 | 21.9547 | 20.7802 | 27.5507 | 23.2800
210032 | 1.1630 | 1.1134 | 20.0825 | 20.3407 | 25.7138 | 22.0621
210033 | 1.2020 | 0.9892 | 22.8303 | 25.0301 | 26.6113 | 24.9179
210034 | 1.3018 | 0.9892 | 22.6812 | 22.8827 | 26.3896 | 23.9088
210035 | 1.3075 | 1.1026 | 21.6662 | 21.6973 | 24.5198 | 22.6676
210037 | 1.2058 | 0.9225 | 21.1659 | 23.5536 | 24.1913 | 22.9905
210038 | 1.3179 | 0.9892 | 25.9701 | 26.5696 | 28.3414 | 26.9834
210039 | 1.1606 | 1.1026 | 23.3583 | 24.0987 | 25.8415 | 24.4755
210040 | 1.2800 | 0.9892 | 23.7067 | 25.4729 | 28.3723 | 25.9321
210043 | 1.3245 | 1.0101 | 22.9504 | 22.2177 | 24.3070 | 23.2006
210044 | 1.3783 | 0.9892 | 22.9540 | 23.8101 | 24.8083 | 23.8495
210045 | 1.1023 | 0.9225 | 13.5654 | 11.8350 | 15.0867 | 13.6815
210048 | 1.2964 | 1.0179 | 24.9381 | 24.4328 | 25.0617 | 24.8082
210049 | 1.1961 | 0.9892 | 21.1056 | 24.7148 | 25.9342 | 24.1727
210051 | 1.3574 | 1.1026 | 24.8949 | 25.7103 | 27.3692 | 26.0431
210054 | 1.3191 | 1.1026 | 25.1694 | 27.3551 | 24.6658 | 25.7175
210055 | 1.2599 | 1.1026 | 23.8025 | 27.4218 | 28.0014 | 26.3750
210056 | 1.3916 | 0.9892 | 22.6958 | 23.5881 | 26.6884 | 24.4432
210057 | 1.4083 | 1.0992 | 25.6142 | 27.3520 | 29.2233 | 27.4597
210058 | 1.3028 | 0.9892 | 17.4250 | 22.0351 | 24.8576 | 21.2951
210060 | 1.1848 | 1.1026 | 26.4566 | 25.8377 | 28.7531 | 27.1384
210061 | 1.2420 | 0.9225 | 20.8975 | 22.5455 | 24.1369 | 22.7021
220001 | 1.2336 | 1.1199 | 23.4091 | 25.8030 | 27.3238 | 25.5166
220002 | 1.3411 | 1.1484 | 25.4158 | 26.3348 | 28.9722 | 26.9220
220003 | 1.0241 | 1.1199 | 17.6069 | 18.8150 | 20.5790 | 18.9368
220006 | 1.4081 | 1.1276 | 23.8920 | 27.1576 | 29.5946 | 26.9448
220008 | 1.2540 | 1.1101 | 24.2393 | 25.6647 | 27.1675 | 25.7561
220010 | 1.3242 | 1.1276 | 23.4009 | 24.5020 | 27.4161 | 25.1525
220011 | 1.1618 | 1.1484 | 20.6390 | 32.2266 | 32.6624 | 28.3003
220012 | 1.4279 | 1.2327 | 31.1041 | 32.0521 | 32.9791 | 32.1013
220015 | 1.2064 | 1.0438 | 24.1348 | 25.0272 | 25.5449 | 24.9568
220016 | 1.1800 | 1.0438 | 24.6149 | 25.7740 | 26.8798 | 25.7262
220017 | 1.3284 | 1.1766 | 25.9000 | 28.9024 | 28.8264 | 27.8471
220019 | 1.1767 | 1.1199 | 19.9268 | 21.6620 | 22.2294 | 21.2756
220020 | 1.1940 | 1.1101 | 22.5375 | 23.5737 | 24.2279 | 23.4787
220024 | 1.2575 | 1.0438 | 23.8620 | 24.1071 | 25.5837 | 24.5165
220025 | 1.0032 | 1.1199 | 22.0003 | 23.2374 | 24.5186 | 23.2414
220028 | 1.4375 | 1.1199 | 24.1251 | 31.4858 | 31.3592 | 28.7775
220029 | 1.1358 | 1.1276 | 25.7660 | 27.4792 | 28.1432 | 27.1307
220030 | 1.0906 | 1.0438 | 18.9012 | 20.0816 | 23.6257 | 20.9187
220031 | 1.5785 | 1.1766 | 28.3832 | 30.8324 | 32.2660 | 30.4929
220033 | 1.1663 | 1.1276 | 21.8156 | 25.4500 | 26.8049 | 24.7741
220035 | 1.2372 | 1.1276 | 25.7456 | 26.8486 | 27.5533 | 26.7074
220036 | 1.5389 | 1.1766 | 25.5771 | 28.2182 | 29.6296 | 27.7573
220038 | 1.0474 | * | 22.9821 | * | * | 22.9821
220041 | *** | * | 28.6790 | 28.8184 | 29.7464 | 29.0350
220042 | *** | * | 28.4675 | * | * | 28.4675
220046 | 1.3284 | 1.1574 | 24.1931 | 26.1955 | 27.7726 | 26.0634
220049 | 1.1826 | 1.1484 | 25.4358 | 26.7688 | 27.0464 | 26.4221
220050 | 1.0900 | 1.0438 | 23.3330 | 23.7326 | 24.9945 | 24.0446
220051 | 1.2251 | 1.0438 | 22.4827 | 22.2965 | 26.5575 | 23.9237
220052 | 1.1926 | 1.1766 | 25.4091 | 26.3043 | 28.0925 | 26.7839
220057 | *** | * | 26.2944 | * | * | 26.2944
220058 | 0.9241 | 1.1199 | 21.6814 | 22.4885 | 25.0598 | 23.0989
220060 | 1.2146 | 1.2158 | 28.3950 | 29.6960 | 30.8242 | 29.7039
220062 | 0.6022 | 1.1199 | 22.5567 | 22.6598 | 21.9489 | 22.3621
220063 | 1.1816 | 1.1484 | 21.8365 | 23.3704 | 25.5840 | 23.5996
220064 | *** | * | 24.0982 | * | * | 24.0982
220065 | 1.1986 | 1.0438 | 21.5657 | 22.4143 | 24.8737 | 22.9452
220066 | 1.3398 | 1.0438 | 24.5463 | 27.5575 | 26.2561 | 26.1630
220067 | 1.1990 | 1.1766 | 28.2685 | 22.4968 | 28.5220 | 26.1159
220070 | 1.1940 | 1.1484 | 23.9850 | 26.2697 | 28.9100 | 26.9930
220071 | 1.8301 | 1.1766 | 27.7679 | 27.7773 | 31.8322 | 29.1764
220073 | 1.2122 | 1.1101 | 27.4778 | 27.9309 | 29.2399 | 28.2247
220074 | 1.2989 | 1.1766 | 25.3331 | 25.7840 | 27.5763 | 26.2579
220075 | 1.3955 | 1.1766 | 24.6982 | 26.0527 | 27.9503 | 26.2554
220076 | 1.1248 | 1.1484 | 24.1224 | 24.8040 | 27.2534 | 25.4198
220077 | 1.6997 | 1.1070 | 27.1503 | 27.0946 | 28.0935 | 27.4578
220079 | *** | * | 25.7305 | * | * | 25.7305
220080 | 1.2031 | 1.1276 | 22.9911 | 24.7399 | 27.1578 | 25.0258
220081 | *** | * | 31.1325 | * | * | 31.1325
220082 | 1.2772 | 1.1484 | 23.2818 | 23.9542 | 24.8060 | 24.0108
220083 | 1.1633 | 1.1766 | 27.2605 | 28.3533 | 29.9001 | 28.5130
220084 | 1.2586 | 1.1484 | 26.0395 | 26.8596 | 29.0505 | 27.3737
220086 | 1.6871 | 1.1766 | 28.7324 | 29.4911 | 31.7482 | 29.9498
220088 | 1.8332 | 1.1766 | 25.0671 | 26.5849 | 28.5711 | 26.7593
220089 | 1.1819 | 1.1484 | 25.3521 | 28.9252 | 32.4409 | 29.0233
220090 | 1.1791 | 1.1199 | 26.0265 | 26.5552 | 29.7945 | 27.5298
220092 | *** | * | 29.4173 | * | * | 29.4173
220095 | 1.1192 | 1.1199 | 22.6828 | 23.7629 | 24.9871 | 23.8295
220098 | 1.1925 | 1.1484 | 24.7180 | 26.2287 | 26.8538 | 25.9294
220100 | 1.2790 | 1.1766 | 26.8001 | 27.0265 | 28.4848 | 27.4932
220101 | 1.2720 | 1.1484 | 28.0856 | 26.9992 | 31.0834 | 28.6783
220105 | 1.2064 | 1.1484 | 25.5692 | 26.7570 | 30.0892 | 27.5654
220106 | *** | * | 27.6811 | * | * | 27.6811
220108 | 1.2214 | 1.1766 | 24.5939 | 26.0166 | 29.0804 | 26.5232
220110 | 2.0833 | 1.1766 | 30.6173 | 33.0445 | 35.4242 | 33.0914
220111 | 1.2429 | 1.1766 | 26.7573 | 27.7395 | 28.9092 | 27.7674
220116 | 1.9252 | 1.1766 | 28.5716 | 30.9871 | 32.2337 | 30.6846
220119 | 1.1861 | 1.1766 | 24.6344 | 25.9789 | 27.8372 | 26.2021
220123 | *** | * | 29.6084 | * | * | 29.6084
220126 | 1.1657 | 1.1766 | 23.8123 | 26.9853 | 26.7660 | 25.9304
220133 | *** | * | 29.8367 | 33.0819 | 31.2981 | 31.4484
220135 | 1.3188 | 1.2327 | 29.6837 | 31.9159 | 31.3246 | 31.0032
220153 | 0.9189 | 1.0438 | * | * | 18.9267 | 18.9267
220154 | 0.9207 | 1.1766 | 23.3590 | 25.6069 | 30.9009 | 26.3094
220163 | 1.6201 | 1.1199 | 29.3552 | 29.9312 | 30.5056 | 30.0383
220171 | 1.7061 | 1.1484 | 27.3487 | 27.2647 | 28.9733 | 27.8501
220174 | 1.1783 | 1.1276 | * | * | 30.3356 | 30.3356
230001 | 1.1496 | 0.8783 | 23.3051 | 22.0875 | 24.3660 | 23.2388
230002 | 1.3060 | 1.0362 | 24.3116 | 23.7972 | 27.0305 | 25.0820
230003 | 1.2293 | 1.0689 | 21.6493 | 22.4322 | 25.2596 | 23.1458
230004 | 1.7517 | 1.0689 | 22.4538 | 23.0827 | 25.5573 | 23.7400
230005 ʰ | 1.2465 | 1.1037 | 20.5596 | 20.3750 | 22.1018 | 21.1201
230006 | 1.1082 | 0.9653 | 20.6985 | 22.0733 | 22.7656 | 21.8763
230013 | 1.3430 | 1.1165 | 20.0954 | 20.4633 | 22.7014 | 21.0682
230015 | 1.0765 | 0.9142 | 21.9499 | 21.7640 | 23.4512 | 22.3932
230017 | 1.6625 | 1.0689 | 25.7900 | 26.1609 | 27.3259 | 26.4713
230019 | 1.5589 | 1.1165 | 23.8779 | 24.7472 | 27.6563 | 25.4765
230020 | 1.7237 | 1.0756 | 28.8869 | 25.8267 | 26.8516 | 27.1422
230021 | 1.5166 | 0.9037 | 20.9145 | 22.0757 | 23.4663 | 22.1537
230022 | 1.1887 | 1.0756 | 21.8808 | 22.2179 | 22.2528 | 22.1184
230024 | 1.5986 | 1.0756 | 26.2155 | 24.7364 | 27.6555 | 26.1270
230027 | 1.0407 | 0.9471 | 22.5115 | 21.2223 | 22.5736 | 22.1078
230029 | 1.6633 | 1.1165 | 24.9754 | 26.7646 | 27.9012 | 26.5372
230030 | 1.2755 | 0.9418 | 19.2441 | 19.9853 | 20.9867 | 20.1046
230031 | 1.3863 | 1.0171 | 19.4675 | 22.1874 | 23.2910 | 21.7662
230032 | *** | * | 22.8436 | 23.8366 | * | 23.3430
230034 | 1.1848 | 0.8783 | 17.9276 | 18.5768 | 20.9195 | 19.0909
230035 | 1.2489 | 0.9418 | 20.5906 | 18.0735 | 20.9197 | 19.7752
230036 | 1.3258 | 1.1165 | 25.1507 | 25.9801 | 26.5854 | 25.9210
230037 | 1.2629 | 1.0756 | 22.7382 | 24.4115 | 24.7875 | 23.9864
230038 | 1.7472 | 1.0689 | 20.9389 | 23.4685 | 25.2499 | 23.4809
230040 | 1.1581 | 0.9830 | 20.2451 | 21.8062 | 21.9813 | 21.3574
230041 | 1.4882 | 0.9751 | 23.2870 | 24.2297 | 25.2518 | 24.2327
230042 | 1.2368 | 0.9474 | 20.7745 | 21.8241 | 24.3640 | 22.3344
230046 | 1.8575 | 1.1037 | 26.1787 | 28.2320 | 29.2683 | 27.8848
230047 | 1.3609 | 1.0253 | 23.7178 | 24.3622 | 26.2447 | 24.8027
230053 | 1.6321 | 1.0756 | 23.5702 | 26.1415 | 28.3030 | 25.9637
230054 | 2.0168 | 0.9578 | 22.2105 | 23.0818 | 24.0137 | 23.1226
230055 | 1.1673 | 0.8783 | 20.8930 | 20.9350 | 23.7671 | 21.9275
230056 | *** | * | 17.3516 | * | * | 17.3516
230058 | 1.1761 | 0.8783 | 21.6619 | 22.4516 | 21.9308 | 22.0224
230059 | 1.4748 | 1.0689 | 20.6540 | 21.2743 | 23.1451 | 21.6942
230060 | 1.4037 | 0.8783 | 20.5120 | 22.3512 | 24.5073 | 22.5104
230062 | *** | * | 18.2283 | * | * | 18.2283
230065 | 1.4044 | 1.0362 | 23.3413 | 26.3217 | 27.9179 | 25.8395
230066 | 1.2958 | 1.0689 | 23.2790 | 23.9696 | 25.8517 | 24.3500
230069 | 1.2332 | 1.0956 | 25.0212 | 26.0438 | 27.6815 | 26.3138
230070 | 1.5570 | 0.9868 | 21.2476 | 22.8588 | 25.1587 | 23.0392
230071 | 1.1075 | 1.1165 | 23.6398 | 23.6674 | 24.7707 | 24.0188
230072 | 1.3000 | 1.0689 | 22.6533 | 22.9626 | 24.1560 | 23.2832
230075 | 1.3952 | 0.9995 | 22.3632 | 22.6799 | 24.1482 | 23.1037
230076 | *** | * | 26.9662 | * | * | 26.9662
230077 | 1.9644 | 0.9868 | 22.6781 | 29.2041 | 27.3117 | 26.2749
230078 | 0.9974 | 0.8783 | 19.1638 | 20.5427 | 21.9200 | 20.5211
230080 | 1.2567 | 0.9418 | 19.1810 | 20.2405 | 21.2840 | 20.2442
230081 | 1.2054 | 0.8783 | 20.0464 | 20.4289 | 20.6777 | 20.3869
230082 | 1.0365 | 0.8783 | 18.2165 | 21.3100 | 23.1240 | 20.5945
230085 | 1.1640 | 1.0689 | 24.5765 | 24.2802 | 22.2569 | 23.8243
230086 | 1.1843 | 0.8783 | 20.1461 | 27.8923 | 20.8759 | 22.7158
230087 | *** | * | 20.6619 | 22.2688 | * | 21.4725
230089 | 1.2966 | 1.0756 | 23.1023 | 23.3847 | 23.9486 | 23.4962
230092 | 1.3092 | 0.9522 | 22.3437 | 22.3122 | 24.3768 | 23.0025
230093 | 1.0804 | 0.9471 | 21.0274 | 25.1213 | 24.5055 | 23.6184
230095 | 1.3796 | 0.8783 | 18.0582 | 19.1810 | 19.2244 | 18.8313
230096 | 1.2128 | 1.0689 | 24.3004 | 26.7156 | 26.7578 | 25.9257
230097 | 1.7844 | 1.0689 | 22.5006 | 22.9902 | 25.2104 | 23.5897
230099 | 1.2181 | 1.0204 | 22.3422 | 23.5490 | 25.0390 | 23.6331
230100 | 1.0924 | 0.8783 | 18.2477 | 19.8016 | 20.4565 | 19.4563
230101 | 1.1301 | 0.8783 | 22.5159 | 22.3310 | 23.1349 | 22.6681
230103 | 0.9854 | 0.9653 | 18.5254 | 19.4434 | 18.4304 | 18.8026
230104 | 1.5642 | 1.0756 | 25.5606 | 27.4119 | 27.8864 | 26.9371
230105 | 1.8513 | 0.9579 | 23.0086 | 23.9851 | 24.6853 | 23.8845
230106 | 1.1180 | 1.0689 | 22.9909 | 23.1962 | 24.1128 | 23.4616
230107 | *** | * | 18.9985 | * | * | 18.9985
230108 | 1.1852 | 0.8783 | 21.4593 | 19.9842 | 22.4966 | 21.3245
230110 | 1.2003 | 0.8783 | 21.0925 | 21.5523 | 22.7621 | 21.8215
230115 | *** | * | 21.0360 | * | * | 21.0360
230116 | *** | * | 15.6064 | * | * | 15.6064
230117 | 1.8266 | 1.0689 | 25.5154 | 28.1220 | 29.6361 | 27.8196
230118 | 1.1318 | 0.8783 | 20.2769 | 22.2208 | 21.4886 | 21.2999
230119 | 1.3560 | 1.0756 | 23.9898 | 25.3562 | 29.2509 | 26.0773
230120 ʰ | 1.1024 | 1.1037 | 20.6105 | 22.7243 | 21.7894 | 21.6905
230121 | 1.2512 | 1.0313 | 21.4616 | 22.3708 | 23.4394 | 22.3826
230124 | 1.2484 | 0.8783 | 20.9641 | 22.0097 | 23.0508 | 22.0233
230128 | *** | * | 24.4952 | * | * | 24.4952
230130 | 1.7164 | 1.1165 | 23.5123 | 23.7854 | 26.9907 | 24.7832
230132 | 1.4095 | 1.1165 | 27.3637 | 29.0292 | 29.9106 | 28.7452
230133 | 1.4250 | 0.8783 | 19.0770 | 20.4801 | 21.2273 | 20.3343
230135 | 0.7730 | 1.0756 | 18.4193 | 19.8290 | 23.9000 | 20.7751
230141 | 1.6732 | 1.1165 | 24.4560 | 23.9885 | 30.4643 | 26.1847
230142 | 1.3168 | 1.0362 | 25.0282 | 22.9036 | 25.6044 | 24.5033
230143 | 1.2304 | 0.8783 | 18.2700 | 19.5446 | 19.5387 | 19.0814
230144 | 2.0675 | 1.1037 | 23.3294 | 23.6959 | * | 23.4682
230145 | 1.1389 | 0.8783 | 17.9811 | 15.8192 | 17.2181 | 17.0037
230146 | 1.2731 | 1.0756 | 22.3838 | 21.3539 | 24.3891 | 22.7325
230147 | *** | * | 26.5260 | * | * | 26.5260
230149 | 0.9663 | 0.8783 | 19.9577 | 20.8933 | 21.4753 | 20.6964
230151 | 1.3464 | 1.1165 | 24.3705 | 23.8527 | 26.4669 | 24.9134
230153 | 1.1199 | 0.9653 | 20.0098 | 22.8584 | 22.3404 | 21.7585
230154 | *** | * | 16.7152 | * | * | 16.7152
230155 | 1.0101 | * | 20.7546 | 18.0743 | 24.0404 | 20.6807
230156 | 1.6277 | 1.1037 | 27.2254 | 27.7164 | 29.4855 | 28.1771
230162 | *** | * | 22.7983 | * | * | 22.7983
230165 | 1.7558 | 1.0756 | 24.7959 | 25.9534 | 27.3164 | 26.0332
230167 | 1.5888 | 0.9653 | 24.1344 | 24.7935 | 26.6828 | 25.1753
230169 | 0.8789 | 1.0362 | 28.1039 | 24.9265 | 27.1172 | 26.6659
230171 | 1.0578 | 0.9743 | 16.1129 | 19.9097 | 22.0635 | 19.2941
230172 | 1.3494 | 1.0689 | 22.1709 | 23.0023 | 24.0236 | 23.0917
230174 | 1.4022 | 1.0689 | 23.5025 | 24.4671 | 26.2770 | 24.7878
230175 | *** | * | 14.4932 | 22.5964 | * | 17.8784
230176 | 1.2886 | 1.0756 | 24.9032 | 24.6675 | 25.6777 | 25.0799
230178 | *** | * | 17.3428 | * | * | 17.3428
230180 | 1.1089 | 0.8783 | 19.6062 | 20.9832 | 22.5454 | 21.1065
230184 | 1.1427 | 0.9522 | 20.6406 | 21.4031 | 21.9346 | 21.3289
230186 | *** | * | 19.1289 | 21.6147 | 27.1126 | 21.8760
230188 | 0.9144 | * | 16.8687 | 18.8076 | * | 17.7537
230189 | 0.9955 | 0.8783 | 19.1989 | 22.7783 | 20.8605 | 20.9106
230190 | 0.8672 | 1.0689 | 24.4643 | 27.3430 | 28.7365 | 26.8514
230191 | *** | * | 20.6633 | * | * | 20.6633
230193 | 1.2613 | 1.0171 | 21.5358 | 22.8916 | 24.3181 | 22.8751
230195 | 1.4232 | 1.0253 | 23.4647 | 25.3285 | 27.1266 | 25.3452
230197 | 1.5604 | 1.1165 | 25.5311 | 26.9840 | 28.3439 | 26.9390
230199 | 1.4403 | * | 22.4592 | * | * | 22.4592
230201 | *** | * | 18.2486 | * | * | 18.2486
230204 | 1.2846 | 1.0253 | 24.5127 | 24.4095 | 25.9871 | 24.9363
230205 | *** | * | 18.1552 | * | * | 18.1552
230207 | 1.3830 | 1.1165 | 20.9059 | 22.2848 | 22.2854 | 21.8187
230208 | 1.1439 | 0.9418 | 17.8118 | 20.3171 | 20.9420 | 19.5928
230211 | *** | * | 21.1245 | * | * | 21.1245
230212 | 0.9976 | 1.1037 | 24.6420 | 26.0656 | 27.3686 | 26.0098
230213 | *** | * | 17.1061 | * | * | 17.1061
230216 | 1.6133 | 1.0171 | 22.2137 | 23.4262 | 26.1468 | 23.9896
230217 | 1.2812 | 0.9995 | 24.1455 | 24.3650 | 26.7929 | 25.1576
230219 | *** | * | 18.1278 | * | * | 18.1278
230222 ʰ | 1.3431 | 1.0096 | 23.2545 | 24.6101 | 24.8925 | 24.2397
230223 | 1.3247 | 1.1165 | 25.2666 | 28.5549 | 27.1503 | 26.9929
230227 | 1.4769 | 1.0253 | 25.8826 | 27.7510 | 28.1105 | 27.3168
230230 | 1.5005 | 0.9653 | 22.1703 | 23.9568 | 25.4471 | 23.8560
230235 | 1.0327 | 0.9418 | 17.5940 | 19.9118 | 19.6046 | 19.0101
230236 | 1.3741 | 1.0689 | 25.3251 | 25.7463 | 26.3988 | 25.8422
230239 | 1.1770 | 0.8783 | 18.9790 | 19.8370 | 21.1643 | 20.0287
230241 | 1.1876 | 1.0171 | 21.8472 | 24.2063 | 25.8671 | 24.0176
230244 | 1.3542 | 1.0362 | 23.1175 | 23.9004 | 25.3817 | 24.1026
230253 | *** | * | 22.7706 | * | * | 22.7706
230254 | 1.2919 | 1.1165 | 23.3714 | 24.2594 | 26.4431 | 24.6731
230257 | 1.0090 | 1.0253 | 23.1794 | 24.8069 | 25.4086 | 24.4123
230259 | 1.1927 | 1.1037 | 23.1768 | 24.8598 | 24.3067 | 24.1364
230264 | 1.7309 | 1.0253 | 18.6598 | 17.4847 | 19.9992 | 18.8239
230269 | 1.3097 | 1.1165 | 24.3772 | 25.3367 | 27.4732 | 25.8057
230270 | 1.2468 | 1.0756 | 25.2665 | 22.8842 | 26.1113 | 24.7620
230273 | 1.4601 | 1.0756 | 24.1279 | 25.8466 | 30.2209 | 26.7182
230275 | 0.4945 | 0.9868 | 32.0039 | 29.4180 | 30.2244 | 30.4949
230276 | *** | * | 22.3312 | 23.4928 | * | 22.8019
230277 | 1.3467 | 1.1165 | 24.3351 | 25.3378 | 26.9231 | 25.5299
230279 | 0.5682 | 1.0956 | 18.3256 | 21.2467 | 23.1636 | 20.9394
230283 | 1.5162 | 1.0362 | * | 25.0038 | 24.9272 | 24.9608
230286 | *** | * | 47.5929 | * | * | 47.5929
230287 | *** | * | 22.5420 | * | * | 22.5420
230288 | *** | * | * | 30.3422 | * | 30.3422
230290 | *** | * | * | * | 29.4792 | 29.4792
240001 | 1.5289 | 1.1044 | 26.6372 | 28.2239 | 29.9123 | 28.3421
240002 | 1.8224 | 1.0337 | 24.2214 | 24.7674 | 26.9608 | 25.3565
240004 | 1.5584 | 1.1044 | 25.6238 | 26.8197 | 27.8796 | 26.8110
240005 | *** | * | 20.2390 | * | * | 20.2390
240006 | 1.0815 | 1.1490 | 25.7288 | 29.5789 | 30.2330 | 28.5587
240007 | 1.2479 | 0.9335 | 20.7188 | 21.4367 | 23.7588 | 21.9952
240008 | *** | * | 22.7436 | * | * | 22.7436
240009 | *** | * | 17.4517 | * | * | 17.4517
240010 | 1.9486 | 1.1490 | 28.3796 | 29.0955 | 30.4139 | 29.3172
240011 | 1.0681 | 1.1044 | 22.5188 | 24.0364 | 22.9561 | 23.1473
240013 | 1.2858 | 1.1044 | 25.1560 | 27.3855 | 28.7202 | 27.0932
240014 | 0.9836 | 0.9789 | 25.2306 | 26.5144 | 28.3788 | 26.7740
240016 | 1.2982 | 0.9335 | 23.3773 | 25.2629 | 24.9211 | 24.5328
240017 | 1.2374 | 0.9335 | 19.3431 | 21.6243 | 23.3314 | 21.4335
240018 | 1.1976 | 1.1044 | 23.6092 | 27.3634 | 27.9218 | 26.3276
240019 | 1.1479 | 1.0337 | 24.0613 | 25.1331 | 27.5441 | 25.5142
240020 | 1.0790 | 1.1044 | 20.6819 | 24.7516 | 28.1568 | 24.2026
240021 | 0.8789 | 0.9335 | 19.0470 | 23.9568 | 23.7096 | 22.1009
240022 | 1.1030 | 0.9335 | 23.0394 | 23.4702 | 23.7368 | 23.4177
240023 | *** | * | 22.3002 | * | * | 22.3002
240025 | 1.1243 | 0.9335 | 20.7672 | 21.2597 | 27.8656 | 23.1173
240027 | 0.9378 | 0.9335 | 18.3837 | 18.3340 | 20.2531 | 19.0019
240029 | 1.0575 | 0.9335 | 23.0440 | 21.2342 | 24.3017 | 22.7230
240030 | 1.2776 | 1.0095 | 20.9799 | 22.0200 | 23.3753 | 22.1631
240031 | 0.9625 | 1.0271 | 21.7621 | 23.4389 | 26.7242 | 23.9687
240036 | 1.6283 | 1.0271 | 22.5436 | 23.4857 | 27.0821 | 24.4899
240037 | 1.0061 | 1.1044 | 21.4275 | 21.8392 | 24.3986 | 22.5980
240038 | 1.5304 | 1.1044 | 26.4513 | 28.9676 | 29.8465 | 28.4070
240040 | 1.1092 | 1.0337 | 22.8191 | 21.3870 | 26.3177 | 23.3958
240041 | *** | * | 21.9055 | * | * | 21.9055
240043 | 1.1960 | 0.9335 | 18.0186 | 19.5532 | 20.7155 | 19.4893
240044 | 1.1103 | 1.0203 | 22.5751 | 22.7482 | 24.3009 | 23.2474
240045 | 1.1206 | 1.0337 | 24.2936 | 25.9223 | 26.1743 | 25.4770
240047 | 1.5703 | 1.0337 | 25.3233 | 29.6184 | 29.1211 | 27.9364
240050 | 1.0713 | 1.1044 | 23.1109 | 24.7589 | 26.6687 | 24.8796
240051 | *** | * | 23.2612 | * | * | 23.2612
240052 | 1.2656 | 0.9335 | 22.3485 | 23.5898 | 24.9870 | 23.6640
240053 | 1.5103 | 1.1044 | 24.4191 | 26.7122 | 28.4733 | 26.5849
240056 | 1.2330 | 1.1044 | 24.8549 | 28.5169 | 30.8619 | 28.2766
240057 | 1.8434 | 1.1044 | 25.3984 | 27.7600 | 29.4870 | 27.5534
240058 | *** | * | 19.0505 | * | * | 19.0505
240059 | 1.0831 | 1.1044 | 25.3847 | 27.0517 | 28.6340 | 27.0658
240061 | 1.7788 | 1.1490 | 27.9151 | 28.7372 | 30.0031 | 28.9358
240063 | 1.5283 | 1.1044 | 25.8594 | 26.7960 | 29.9603 | 27.5204
240064 | 1.2109 | 1.0337 | 24.6785 | 24.9928 | 26.6996 | 25.4635
240065 | *** | * | 14.4624 | * | * | 14.4624
240066 | 1.3543 | 1.1044 | 25.5163 | 27.4066 | 30.2716 | 27.7718
240069 | 1.1677 | 1.1490 | 23.3373 | 25.6943 | 27.4990 | 25.5949
240071 | 1.1348 | 1.1044 | 22.6332 | 24.8036 | 26.4780 | 24.6454
240072 | *** | * | 21.5455 | * | * | 21.5455
240073 | *** | * | 17.9013 | * | * | 17.9013
240075 | 1.2091 | 1.0095 | 21.9159 | 24.4084 | 26.6607 | 24.3331
240076 | 1.0010 | 1.1044 | 23.6159 | 26.7112 | 28.4519 | 26.3651
240077 | 0.9793 | * | 22.1508 | 18.9735 | * | 20.4876
240078 | 1.5748 | 1.1044 | 26.2576 | 27.5066 | 30.5339 | 28.0679
240079 | 0.9619 | 0.9335 | 18.2929 | 20.6644 | 20.9220 | 19.9304
240080 | 1.7302 | 1.1044 | 26.3071 | 27.8807 | 29.6274 | 27.9923
240082 | *** | * | 20.2018 | * | * | 20.2018
240083 | 1.3026 | 0.9335 | 22.3484 | 24.4352 | 25.0214 | 23.9450
240084 | 1.1202 | 1.0337 | 23.1951 | 23.9942 | 24.7856 | 24.0011
240085 | *** | * | 20.7535 | * | * | 20.7535
240086 | *** | * | 18.1497 | * | * | 18.1497
240087 | 0.9825 | 0.9335 | 21.2116 | 20.1002 | 24.8479 | 21.9890
240088 | 1.2719 | 1.0095 | 24.6260 | 25.5587 | 27.6323 | 25.9708
240089 | 0.9631 | * | 21.3950 | 23.4028 | * | 22.3786
240090 | *** | * | 21.0856 | * | * | 21.0856
240093 | 1.3136 | 1.1044 | 20.7138 | 22.3968 | 23.7785 | 22.3760
240094 | 1.0559 | 1.1044 | 22.5923 | 24.4166 | 27.3974 | 24.9803
240096 | *** | * | 20.2993 | * | * | 20.2993
240097 | *** | * | 29.7596 | 34.2810 | * | 32.1316
240098 | *** | * | 23.9626 | * | * | 23.9626
240099 | *** | * | 18.8140 | * | * | 18.8140
240100 | 1.2473 | 0.9335 | 24.1875 | 24.7500 | 25.3269 | 24.7716
240101 | 1.1422 | 0.9335 | 22.1328 | 24.3455 | 26.6078 | 24.4827
240102 | *** | * | 15.5114 | * | * | 15.5114
240103 | 1.0784 | 0.9335 | 21.0182 | 20.2324 | 22.5416 | 21.3014
240104 | 1.1789 | 1.1044 | 25.1139 | 27.4946 | 30.1392 | 27.7883
240106 | 1.4218 | 1.1044 | 23.9677 | 25.5890 | 27.5171 | 25.6898
240107 | 0.9092 | 0.9335 | 21.2164 | 24.5583 | 25.5199 | 23.6935
240108 | *** | * | 17.6501 | * | * | 17.6501
240109 | 1.0016 | 0.9335 | 15.1369 | 14.5892 | 15.2076 | 14.9741
240110 | *** | * | 21.7341 | * | * | 21.7341
240111 | 0.7418 | * | 19.9711 | * | * | 19.9711
240112 | *** | * | 17.2437 | * | * | 17.2437
240114 | *** | * | 18.3415 | * | * | 18.3415
240115 | 1.6037 | 1.1044 | 24.6529 | 27.0312 | 29.0261 | 26.9116
240116 | *** | * | 17.3461 | * | * | 17.3461
240117 | 1.1381 | 0.9335 | 18.6677 | 20.1436 | 22.0463 | 20.2868
240119 | *** | * | 23.0231 | * | * | 23.0231
240121 | 0.9252 | * | 22.4857 | 24.5455 | * | 23.5692
240122 | 0.9816 | * | 20.7795 | 23.5331 | * | 22.1431
240123 | 0.9980 | 0.9335 | 18.9494 | 20.0721 | 20.5755 | 19.8674
240124 | 0.9707 | * | 21.2023 | 23.5139 | 23.9297 | 22.9159
240125 | *** | * | 17.3846 | * | * | 17.3846
240127 | *** | * | 16.4293 | 19.3857 | 24.4824 | 19.3629
240128 | 1.0764 | 0.9335 | 17.5611 | 20.1960 | 21.2638 | 19.6259
240129 | *** | * | 17.7243 | * | * | 17.7243
240130 | *** | * | 17.7634 | * | * | 17.7634
240132 | 1.2700 | 1.1044 | 24.5633 | 26.7063 | 29.5310 | 26.9732
240133 | 1.1813 | 0.9654 | 20.8958 | 23.6068 | 26.1836 | 23.5528
240135 | *** | * | 15.6297 | 17.8573 | 16.1837 | 16.4756
240137 | 1.1472 | 0.9335 | 21.6644 | 23.1752 | 23.8666 | 22.9619
240138 | *** | * | 19.1677 | * | * | 19.1677
240139 | 1.0721 | 0.9335 | 21.0164 | 22.4473 | 23.7898 | 22.3964
240141 | 1.0577 | 1.1044 | 23.6498 | 25.1597 | 26.7173 | 25.2942
240142 | *** | * | 24.0719 | * | * | 24.0719
240143 | 0.8466 | 0.9335 | 20.7306 | 18.9442 | 21.1180 | 20.2640
240144 | *** | * | 23.1661 | * | * | 23.1661
240145 | 0.8909 | * | 17.6748 | 22.6063 | * | 19.6707
240146 | 0.9301 | * | 17.3275 | * | * | 17.3275
240148 | *** | * | 19.5373 | * | * | 19.5373
240150 | *** | * | 23.3860 | * | * | 23.3860
240152 | 0.9065 | 1.1044 | 24.1819 | 25.4031 | 27.3445 | 25.8008
240153 | 1.0152 | * | 18.6556 | * | * | 18.6556
240154 | 0.9989 | 0.9473 | 21.5860 | 21.3809 | 23.9643 | 22.3156
240155 | *** | * | 23.6945 | * | * | 23.6945
240157 | *** | * | 20.0572 | * | * | 20.0572
240160 | *** | * | 16.4991 | * | * | 16.4991
240161 | *** | * | 18.0542 | * | * | 18.0542
240162 | 1.1168 | 0.9335 | 19.3296 | 20.4807 | 22.3136 | 20.7370
240163 | *** | * | 22.2008 | * | * | 22.2008
240166 | 1.1737 | 0.9335 | 19.4496 | 21.5002 | 23.4265 | 21.5102
240170 | 1.1160 | * | 21.5993 | * | * | 21.5993
240171 | *** | * | 19.6732 | * | * | 19.6732
240172 | *** | * | 20.3700 | * | * | 20.3700
240173 | *** | * | 18.3184 | * | * | 18.3184
240179 | 0.9075 | * | 17.7558 | 19.8249 | 20.8449 | 19.5680
240184 | *** | * | 17.6979 | * | * | 17.6979
240187 | 1.1815 | 1.1044 | 23.2471 | 24.8879 | 26.5129 | 24.9025
240193 | *** | * | 26.6383 | * | * | 26.6383
240196 | 0.8034 | 1.1044 | 26.2793 | 27.2901 | 28.9380 | 27.4933
240200 | *** | * | 18.7518 | * | * | 18.7518
240207 | 1.1673 | 1.1044 | 26.0927 | 27.4330 | 29.2395 | 27.6775
240210 | 1.2434 | 1.1044 | 25.6060 | 26.6545 | 29.7227 | 27.3569
240211 | 0.9471 | 1.1044 | 34.7852 | 32.8801 | 44.4214 | 36.8131
240213 | 1.2626 | 1.1044 | * | 27.5104 | 31.3974 | 29.6909
250001 | 1.8210 | 0.8341 | 20.2019 | 20.9338 | 21.9176 | 21.0357
250002 | 0.8982 | 0.8764 | 19.6081 | 21.6643 | 20.1310 | 20.4867
250003 | 1.1025 | * | 18.7332 | * | * | 18.7332
250004 | 1.7624 | 0.8887 | 19.2913 | 20.9295 | 20.6828 | 20.3135
250005 | *** | * | 13.7341 | * | * | 13.7341
250006 | 1.0487 | 0.7649 | 19.4531 | 20.3061 | 21.4038 | 20.4281
250007 | 1.2469 | 0.8934 | 20.9757 | 21.2226 | 23.6933 | 21.9450
250008 | *** | * | 15.8096 | * | * | 15.8096
250009 | 1.2599 | 0.8707 | 18.0463 | 19.7610 | 20.4329 | 19.4066
250010 | 0.9608 | 0.7649 | 16.0234 | 17.6204 | 19.4130 | 17.6683
250012 | 0.9276 | 0.9223 | 17.4032 | 15.6117 | 20.0493 | 17.5650
250015 | 1.0121 | 0.7649 | 16.6522 | 19.3794 | 20.6931 | 18.8218
250017 | 1.1211 | 0.7649 | 18.8850 | 19.0436 | 18.1013 | 18.7097
250018 | 0.8029 | 0.7649 | 14.7291 | 16.8783 | 17.0689 | 16.1969
250019 | 1.5375 | 0.8934 | 19.9070 | 22.9085 | 22.8358 | 21.8655
250020 | 0.9883 | 0.7649 | 19.6575 | 19.1877 | 19.3390 | 19.3843
250021 | *** | * | 12.7242 | 15.8485 | 15.1242 | 14.6970
250023 | 0.8244 | 0.8764 | 13.8210 | 14.7355 | 16.1820 | 14.8564
250024 | *** | * | 14.8395 | * | * | 14.8395
250025 | 1.0750 | 0.7649 | 21.9075 | 21.2651 | 20.6892 | 21.3410
250027 | 0.9798 | 0.7649 | 15.1789 | 17.5937 | 17.3313 | 16.6017
250029 | *** | * | 14.8216 | * | * | 14.8216
250030 | 0.9455 | 0.8285 | 25.5090 | 27.2140 | * | 26.3295
250031 | 1.2022 | 0.8285 | 19.8778 | 21.0894 | 22.0850 | 21.0390
250033 | *** | * | 16.9131 | * | * | 16.9131
250034 | 1.5734 | 0.8887 | 18.8231 | 20.3681 | 20.6752 | 19.9903
250035 | 0.8870 | 0.7649 | 18.3861 | 17.1071 | 14.6149 | 16.8695
250036 | 0.9915 | 0.7974 | 17.6247 | 17.0469 | 17.8313 | 17.5077
250037 | 0.9173 | 0.7649 | 14.3993 | 16.6347 | 17.4463 | 16.0667
250038 | 0.9197 | 0.8341 | 18.8434 | 16.8610 | 18.0209 | 17.8977
250039 | 0.9190 | 0.8285 | 16.4502 | 16.8729 | 15.2939 | 16.1717
250040 | 1.4283 | 0.8600 | 19.6513 | 20.8178 | 21.3451 | 20.5892
250042 | 1.1976 | 0.8887 | 18.3858 | 19.4367 | 21.4117 | 19.6933
250043 | 0.9709 | 0.7649 | 18.4025 | 17.7554 | 18.3322 | 18.1745
250044 | 1.0248 | 0.7649 | 19.0321 | 20.3711 | 21.1198 | 20.1830
250045 | 1.1083 | 0.8976 | 22.7225 | 25.3236 | 25.0863 | 24.3774
250047 | *** | * | 16.0108 | * | * | 16.0108
250048 | 1.5210 | 0.8341 | 19.4976 | 19.3635 | 21.6547 | 20.2109
250049 | 0.8821 | 0.7649 | 12.8275 | 13.4396 | 17.8154 | 14.4831
250050 | 1.2465 | 0.7649 | 16.0234 | 16.6723 | 18.3170 | 16.9581
250051 | 0.8651 | 0.7649 | 10.1213 | 10.5027 | 10.6908 | 10.4296
250057 | 1.1812 | 0.7649 | 16.6316 | 19.0571 | 19.6789 | 18.3965
250058 | 1.2585 | 0.7649 | 16.2623 | 16.5565 | 17.5160 | 16.7878
250059 | 1.0262 | 0.7649 | 17.9507 | 19.0733 | 17.7270 | 18.2189
250060 | 0.8054 | 0.7649 | 12.6893 | 14.0155 | 20.8115 | 15.6620
250061 | 0.8749 | 0.7649 | 12.0186 | 11.4573 | 15.2515 | 12.6156
250063 | *** | * | 15.0894 | * | * | 15.0894
250065 | 0.8425 | 0.8285 | 15.0507 | 16.2010 | 16.1984 | 15.7944
250066 | 0.8715 | * | 17.2712 | 16.1044 | * | 16.6790
250067 | 1.0608 | 0.7649 | 18.3773 | 20.0430 | 20.1261 | 19.5253
250068 | 0.7989 | 0.7649 | 13.2644 | 16.3759 | 16.9585 | 15.3561
250069 | 1.4732 | 0.8285 | 18.5782 | 21.2224 | 21.6617 | 20.4340
250071 | 0.8644 | 0.7649 | 13.1934 | 13.7056 | 17.7149 | 14.5872
250072 | 1.4474 | 0.8341 | 21.0601 | 20.7827 | 22.9316 | 21.5386
250077 | 0.9182 | 0.7649 | 13.9478 | 14.0318 | 14.2271 | 14.0673
250078 ² | 1.5887 | 0.8764 | 17.4118 | 17.5186 | 18.6563 | 17.8895
250079 | 0.8752 | 0.7649 | 16.1482 | 21.3506 | 27.2549 | 21.7941
250081 | 1.2428 | 0.8285 | 18.1848 | 20.4513 | 21.3830 | 19.9239
250082 | 1.3414 | 0.8381 | 17.3096 | 19.5962 | 20.5212 | 19.1730
250083 | 0.9279 | 0.7649 | 16.3054 | 19.5217 | 19.9484 | 18.7790
250084 | 1.2236 | 0.7649 | 21.0870 | 22.4632 | 21.8001 | 21.7655
250085 | 0.8976 | 0.7649 | 16.7377 | 18.0473 | 18.7367 | 17.8011
250088 | 1.1295 | * | 19.3976 | * | * | 19.3976
250089 | 1.0852 | * | 15.0238 | 16.0203 | * | 15.4939
250093 | 1.0880 | 0.7649 | 16.8646 | 17.4413 | 18.8001 | 17.6889
250094 | 1.5257 | 0.8764 | 18.9681 | 19.9619 | 22.3312 | 20.3838
250095 | 1.0066 | 0.7649 | 18.4943 | 18.6616 | 19.9553 | 19.0359
250096 | 1.0958 | 0.8341 | 19.3631 | 20.7246 | 22.7458 | 20.9856
250097 | 1.2403 | 0.8339 | 16.3328 | 18.8399 | 19.4534 | 18.1764
250098 | 0.9024 | * | 18.8163 | 17.9561 | * | 18.4603
250099 | 1.2190 | 0.8285 | 15.9867 | 18.2504 | 19.0333 | 17.7927
250100 | 1.3641 | 0.8390 | 19.7559 | 18.8877 | 22.0328 | 20.2437
250101 | *** | * | 17.6704 | * | 21.2234 | 18.8444
250102 | 1.5316 | 0.8341 | 19.8487 | 21.3213 | 22.5518 | 21.2770
250104 | 1.4176 | 0.8285 | 19.0165 | 20.5035 | 21.4431 | 20.3503
250105 | 0.9275 | 0.7649 | 16.1480 | 17.0136 | 17.9468 | 17.0611
250107 | 0.8754 | 0.7649 | 16.5635 | 16.7104 | 16.5369 | 16.6028
250109 | 1.0420 | * | 24.5759 | * | * | 24.5759
250112 | 0.9317 | 0.7649 | 16.6447 | 16.8696 | 19.6172 | 17.7475
250117 | 1.0637 | 0.8764 | 15.9335 | 18.8863 | 19.9774 | 18.1808
250119 | 1.0052 | * | 16.5700 | 17.1373 | * | 16.8232
250120 | 1.0264 | 0.7649 | 18.1428 | 22.9071 | 22.7607 | 21.1120
250122 | 1.0493 | 0.8764 | 19.8033 | 19.7966 | 23.7230 | 21.1196
250123 | 1.2451 | 0.8934 | 22.1376 | 22.2184 | 22.0486 | 22.1300
250124 | 0.8835 | 0.8285 | 14.4008 | 15.6866 | 15.4343 | 15.1817
250125 | 1.2993 | 0.8934 | 21.9366 | 25.3415 | 26.8379 | 24.7515
250126 | 0.9195 | 0.9223 | 19.0168 | 20.1118 | 20.4085 | 19.8874
250128 | 0.9107 | 0.7649 | 15.9957 | 15.8352 | 15.9344 | 15.9238
250131 | 0.9074 | * | 11.2470 | 11.5396 | * | 11.3947
250134 | 0.6990 | 0.8341 | 21.4489 | 22.0310 | 23.5608 | 22.2594
250136 | 0.9183 | 0.8341 | 20.0333 | 21.9977 | 22.5832 | 21.5555
250138 | 1.2824 | 0.8341 | 19.3446 | 21.2490 | 22.7902 | 21.2040
250141 | 1.5248 | 0.9231 | 21.6835 | 22.5187 | 24.5772 | 23.0806
250145 | *** | * | 11.2021 | * | * | 11.2021
250146 | 0.8731 | 0.7649 | 15.4061 | 16.9341 | 17.2328 | 16.4757
250148 | *** | * | 23.1460 | * | * | 23.1460
250149 | 0.8932 | 0.7649 | 15.7537 | 16.4228 | 15.0367 | 15.7586
250151 | 0.8378 | 0.7649 | * | 20.4581 | 21.8697 | 21.2291
260001 | 1.6822 | 0.8725 | 20.9620 | 22.6646 | 25.3084 | 22.9817
260002 | 2.0064 | 0.9083 | 23.4259 | 24.6812 | 27.2329 | 25.2692
260003 | 1.0086 | * | 16.2023 | 16.5931 | 17.6339 | 16.8056
260004 | 0.9702 | 0.8026 | 15.2735 | 16.4423 | 16.7742 | 16.1582
260005 | 1.4680 | 0.9083 | 22.5860 | 25.5927 | 24.6142 | 24.3121
260006 | 1.4983 | 0.8026 | 22.1692 | 24.1078 | 26.4948 | 24.2935
260008 | *** | * | 18.2114 | 21.6256 | 17.6040 | 19.0121
260009 | 1.2070 | 0.9623 | 19.0655 | 20.1679 | 21.2729 | 20.1559
260011 | 1.3639 | 0.8388 | 20.3279 | 21.1625 | 21.4409 | 21.0002
260012 | 1.0620 | 0.8026 | 17.3810 | 17.7854 | 19.3389 | 18.1986
260013 | 1.0770 | 0.8725 | 17.3772 | 18.4857 | 19.2065 | 18.3369
260015 | 1.0373 | 0.8229 | 18.3849 | 21.7581 | 22.4450 | 20.7897
260017 | 1.2115 | 0.8973 | 17.9796 | 20.7837 | 21.1359 | 19.9994
260018 | 1.0432 | 0.8026 | 13.6120 | 14.3278 | 14.8425 | 14.3197
260019 | *** | * | 18.3629 | * | * | 18.3629
260020 | 1.7570 | 0.9083 | 21.0314 | 22.4709 | 25.7898 | 23.1903
260021 | 1.3631 | 0.9083 | 23.3527 | 27.2478 | 27.8332 | 26.1600
260022 | 1.2535 | 0.8388 | 18.7707 | 20.5417 | 21.7707 | 20.2789
260023 | 1.2561 | 0.9083 | 18.5665 | 19.6324 | 21.2519 | 19.8065
260024 | 1.1354 | 0.8026 | 15.6095 | 16.9968 | 17.5351 | 16.7699
260025 | 1.3052 | 0.8973 | 18.2804 | 19.3535 | 20.0901 | 19.2450
260027 | 1.6128 | 0.9623 | 23.1505 | 22.9973 | 24.7605 | 23.6610
260029 | 1.0856 | 0.9623 | 20.1832 | 22.0390 | 22.2892 | 21.4941
260030 | *** | * | 12.8349 | * | * | 12.8349
260031 | *** | * | 22.5379 | 24.3626 | 24.2877 | 23.7143
260032 | 1.8668 | 0.9083 | 20.3847 | 21.8830 | 23.1125 | 21.7951
260034 | 0.9466 | 0.9623 | 20.5440 | 21.6108 | 23.3034 | 21.8987
260035 | 0.9300 | 0.8026 | 15.1611 | 15.0468 | 16.8502 | 15.6305
260036 | 1.0016 | 0.9623 | 20.1242 | 19.4559 | 20.1324 | 19.8959
260039 | *** | * | 15.9689 | * | * | 15.9689
260040 | 1.5697 | 0.8581 | 18.5132 | 20.0422 | 21.9452 | 20.2866
260042 | *** | * | 20.8821 | * | * | 20.8821
260044 | 0.9492 | 0.8026 | 16.7879 | 18.2413 | 20.0686 | 18.3982
260047 | 1.4615 | 0.8388 | 20.2724 | 22.4585 | 22.6169 | 21.7792
260048 | 1.3195 | 0.9623 | 22.4800 | 26.6363 | 25.8089 | 25.0130
260050 | 1.1796 | 0.8026 | 17.8143 | 20.8510 | 20.6364 | 19.7728
260052 | 1.3316 | 0.9083 | 19.1044 | 21.1297 | 22.5809 | 20.9707
260053 | 1.1469 | 0.8725 | 17.4111 | 18.9606 | 20.0051 | 18.8348
260054 | *** | * | 23.0188 | * | * | 23.0188
260055 | *** | * | 17.9547 | * | * | 17.9547
260057 | 1.0589 | 0.9623 | 16.5704 | 15.8404 | 16.4875 | 16.2994
260059 | 1.1772 | 0.8026 | 16.2074 | 17.2807 | 18.6379 | 17.4832
260061 | 1.0978 | 0.8026 | 17.1343 | 18.7280 | 19.6674 | 18.5409
260062 | 1.1998 | 0.9623 | 22.0091 | 25.2958 | 26.0439 | 24.4854
260063 | 1.0465 | 0.9623 | 19.7231 | 21.1284 | 22.0826 | 20.9933
260064 | 1.4186 | 0.8388 | 18.3749 | 17.5188 | 19.1587 | 18.3587
260065 | 1.7428 | 0.8581 | 20.6671 | 22.0058 | 23.6969 | 22.1561
260066 | *** | * | 15.3139 | * | * | 15.3139
260067 | 0.8961 | 0.8026 | 14.5499 | 14.9792 | 16.5364 | 15.4234
260068 | 1.7328 | 0.8388 | 20.7947 | 22.0951 | 23.9340 | 22.3208
260070 | 0.9429 | 0.8026 | 18.7384 | 11.2251 | 14.3881 | 14.6273
260073 | 1.0174 | 0.8026 | 16.9496 | 17.8185 | 19.2744 | 18.1009
260074 | 1.1971 | 0.8184 | 20.4033 | 18.7639 | 23.9301 | 20.9378
260077 | 1.6321 | 0.9083 | 20.5831 | 21.9947 | 23.5466 | 22.0549
260078 | 1.2338 | 0.8267 | 16.0586 | 16.9217 | 18.4017 | 17.1590
260079 | *** | * | 16.4817 | * | * | 16.4817
260080 | 0.9040 | 0.8026 | 13.1618 | 13.6815 | 11.2817 | 12.6066
260081 | 1.5131 | 0.9083 | 20.2471 | 22.6627 | 23.7447 | 22.3053
260082 | *** | * | 18.2853 | * | * | 18.2853
260085 | 1.5948 | 0.9623 | 21.5137 | 22.7394 | 24.6046 | 22.9726
260086 | 0.9145 | 0.8026 | 16.7579 | 17.2048 | 17.1202 | 17.0209
260091 | 1.5506 | 0.9083 | 22.0772 | 23.9975 | 26.1149 | 24.1619
260094 | 1.5294 | 0.8267 | 19.7308 | 20.1043 | 20.6805 | 20.1924
260095 | 1.3768 | 0.9623 | 21.6999 | 22.8156 | 23.8671 | 22.7898
260096 | 1.4865 | 0.9623 | 22.8259 | 23.5009 | 25.9932 | 24.2365
260097 | 1.1867 | 0.8451 | 18.6965 | 19.6203 | 21.5077 | 20.0518
260100 | *** | * | 16.5439 | * | * | 16.5439
260102 | 0.8573 | 0.9623 | 21.2133 | 24.1041 | 22.9283 | 22.8396
260103 | *** | * | 19.9144 | 21.6192 | 23.3175 | 21.6496
260104 | 1.5307 | 0.9083 | 21.6625 | 22.4769 | 24.0038 | 22.8609
260105 | 1.7058 | 0.9083 | 22.8005 | 24.6572 | 28.4652 | 25.2799
260107 | 1.3550 | 0.9623 | 22.5214 | 23.1564 | 24.2001 | 23.2709
260108 | 1.8711 | 0.9083 | 20.9029 | 22.7975 | 24.0936 | 22.6668
260109 | *** | * | 15.9723 | * | * | 15.9723
260110 | 1.7028 | 0.8973 | 19.5633 | 22.0026 | 22.2730 | 21.2780
260113 | 1.1135 | 0.8347 | 16.1346 | 16.3440 | 19.2467 | 17.1861
260115 | 1.1758 | 0.9083 | 19.3873 | 20.4880 | 21.7450 | 20.5275
260116 | 1.0963 | 0.8347 | 16.0187 | 16.9807 | 17.2698 | 16.7695
260119 | 1.2782 | 0.8026 | 18.0725 | 18.7959 | 22.1588 | 20.4457
260120 | *** | * | 17.6811 | 18.7651 | * | 18.2293
260122 | 1.1431 | 0.9623 | 16.3700 | 16.1637 | 17.3270 | 16.6586
260123 | 1.0091 | * | 15.2927 | 17.7996 | 16.1169 | 16.4004
260127 | 0.9439 | 0.8184 | 18.1343 | 19.7946 | 22.5328 | 20.0604
260128 | *** | * | 13.2941 | * | * | 13.2941
260131 | *** | * | 18.0395 | * | * | 18.0395
260134 | 1.0849 | 0.9083 | 17.1341 | 18.4511 | 18.1531 | 17.8579
260137 | 1.6246 | 0.8725 | 19.5976 | 20.7638 | 21.3426 | 20.6063
260138 | 1.8855 | 0.9623 | 23.6502 | 25.6579 | 27.8229 | 25.7137
260141 | 1.8743 | 0.8388 | 19.0444 | 21.0771 | 21.1511 | 20.3643
260142 | 1.1131 | 0.8026 | 18.2023 | 18.6412 | 19.6582 | 18.8679
260143 | *** | * | 15.4688 | * | * | 15.4688
260147 | 0.8671 | 0.8026 | 15.8522 | 16.1171 | 17.2291 | 16.3854
260148 | *** | * | 12.6651 | * | * | 12.6651
260158 | 0.8897 | * | 13.9789 | * | * | 13.9789
260159 | 0.5650 | 0.9083 | 20.9636 | 23.1093 | 26.8924 | 23.1564
260160 | 1.0235 | 0.8026 | 18.4007 | 18.8723 | 19.4997 | 18.8893
260162 | 1.4730 | 0.9083 | 20.7331 | 22.5705 | 24.1246 | 22.5642
260163 | 1.2042 | 0.8026 | 16.8300 | 18.1310 | 19.2885 | 18.1088
260164 | 1.0826 | 0.8026 | 16.3874 | 16.9403 | 19.5539 | 17.5103
260166 | 1.2396 | 0.9623 | 22.4070 | 22.8409 | 25.5151 | 23.6547
260172 | 0.9078 | 0.8026 | 16.4854 | 17.1504 | 18.1438 | 17.2714
260173 | *** | * | 15.5733 | * | * | 15.5733
260175 | 1.1023 | 0.8026 | 18.3632 | 19.7939 | 21.1257 | 19.7861
260176 | 1.5770 | 0.9083 | 23.2414 | 25.7802 | 29.2184 | 26.2801
260177 | 1.1986 | 0.9623 | 22.9112 | 24.0550 | 25.0724 | 24.0729
260178 | 1.6838 | 0.8388 | 20.8189 | 21.7704 | 21.4781 | 21.3851
260179 | 1.5570 | 0.9083 | 21.4470 | 23.2824 | 24.8541 | 23.2090
260180 | 1.6199 | 0.9083 | 19.5983 | 21.8585 | 21.9679 | 21.1229
260183 | 1.6593 | 0.8973 | 23.7057 | 24.2330 | 23.3924 | 23.7504
260186 | 1.5726 | 0.8388 | 21.0675 | 21.6620 | 23.4317 | 22.1454
260188 | *** | * | 23.7476 | * | * | 23.7476
260190 | 1.2091 | 0.9623 | 21.6995 | 24.5014 | 25.1653 | 23.8711
260191 | 1.2966 | 0.9083 | 19.6784 | 21.1331 | 22.4369 | 21.1555
260193 | 1.1754 | 0.9623 | 22.2030 | 22.9556 | 24.4705 | 23.3155
260195 | 1.2688 | 0.8562 | * | 20.0889 | 20.1327 | 20.1097
260198 | 1.1607 | 0.9083 | 21.7925 | 25.3390 | 27.6116 | 24.9011
260200 | 1.2343 | 0.9083 | 21.7031 | 22.3913 | 25.1134 | 23.2876
260207 | 1.1052 | 0.8581 | * | 18.5247 | 19.2467 | 18.9047
260208 | *** | * | * | 28.3158 | * | 28.3158
260209 | 1.1184 | 0.8332 | * | * | 21.8396 | 21.8396
270002 ² | 1.1959 | 0.9630 | 19.0221 | 19.7588 | 20.7620 | 19.8570
270003 | 1.2367 | 0.8831 | 20.7277 | 23.0396 | 24.2823 | 22.5792
270004 | 1.6922 | 0.8973 | 20.1821 | 21.5577 | 22.9081 | 21.5975
270006 | 0.8901 | * | 15.1006 | * | * | 15.1006
270007 | 1.0065 | * | 15.5781 | * | * | 15.5781
270009 | 0.9560 | * | 20.7031 | 21.5655 | * | 21.1389
270011 | 1.0272 | 0.8831 | 21.8086 | 21.4031 | 22.0710 | 21.7607
2700122 | 1.5176 | 0.9630 | 20.7913 | 21.7634 | 23.1697 | 21.8940
270014 | 1.8935 | 0.9630 | 20.4321 | 20.3456 | 25.0650 | 21.8404
270016 | *** | * | 17.9985 | * | * | 17.9985
270017 | 1.2848 | 0.9630 | 22.1046 | 23.2320 | 24.6186 | 23.3312
270019 | *** | * | 18.5112 | * | * | 18.5112
270021 | 0.9946 | 0.8973 | 18.0515 | 21.1624 | 21.6758 | 20.2193
270023 | 1.5284 | 0.9630 | 22.7162 | 23.7486 | 25.5525 | 24.0410
270026 | 0.7927 | * | 20.1673 | * | * | 20.1673
270027 | 0.9441 | * | 17.2005 | * | * | 17.2005
270028 | *** | * | 19.6212 | * | * | 19.6212
270029 | *** | * | 18.2097 | * | * | 18.2097
270032 | 1.0683 | 0.8973 | 19.3937 | 20.1801 | 18.2377 | 19.2851
270033 | *** | * | 20.7060 | * | * | 20.7060
270035 | *** | * | 17.9822 | * | * | 17.9822
270036 | 0.8762 | 0.8693 | 16.1030 | 18.8785 | 21.8255 | 19.0132
270039 | *** | * | 20.3801 | * | * | 20.3801
270040 | 1.1579 | * | 20.1887 | 20.7240 | * | 20.4544
270044 | *** | * | 19.2939 | * | * | 19.2939
270048 | 1.0311 | * | 17.4506 | * | * | 17.4506
270049 | 1.6932 | 0.8973 | 22.0263 | 22.9524 | 24.6556 | 23.2731
270050 | 1.0504 | 0.8973 | 19.6317 | 21.0901 | 22.4195 | 21.0251
270051 | 1.5449 | 0.9630 | 20.0386 | 22.2580 | 26.4457 | 22.8948
270052 | *** | * | 17.1933 | * | * | 17.1933
270057 | 1.2904 | 0.8973 | 20.1507 | 21.9997 | 22.6251 | 21.6504
270058 | *** | * | 18.4781 | * | * | 18.4781
270059 | *** | * | 16.9302 | * | * | 16.9302
270060 | 0.9381 | * | 21.3776 | * | 16.6592 | 18.6801
270063 | 1.0420 | * | 16.4554 | * | * | 16.4554
270073 | 1.1432 | * | 16.6082 | * | * | 16.6082
270079 | 0.9251 | * | 19.5493 | * | 21.6382 | 20.5609
270080 | *** | * | 16.6010 | * | * | 16.6010
270081 | 0.9461 | 0.8693 | 18.0544 | 15.6833 | 17.3174 | 17.0500
270082 | 0.9988 | * | 23.3209 | 21.0150 | 19.6173 | 21.5392
270083 | *** | * | 16.8421 | * | * | 16.8421
270084 ² | 1.0520 | 0.9630 | 15.7062 | 19.6104 | 22.2340 | 19.1167
280001 | *** | * | 18.7137 | * | * | 18.7137
280003 | 1.9103 | 1.0180 | 23.6058 | 26.0937 | 27.2844 | 25.9539
280005 | *** | * | 22.8981 | 23.9753 | * | 23.4559
280009 | 1.8748 | 0.9720 | 23.2300 | 23.8046 | 25.3162 | 24.1158
280010 | *** | * | 22.0137 | 23.8325 | 22.6516 | 22.8505
280011 | *** | * | 16.2281 | * | * | 16.2281
280013 | 1.7801 | 0.9740 | 24.0852 | 23.4920 | 24.5214 | 24.0427
280014 | *** | * | 16.7109 | * | * | 16.7109
280015 | 1.1211 | * | 18.0207 | * | * | 18.0207
280017 | *** | * | 16.9884 | * | * | 16.9884
280018 | *** | * | 16.6439 | * | * | 16.6439
280020 | 2.0285 | 1.0180 | 21.9587 | 23.4577 | 25.7522 | 23.8363
280021 | 1.0629 | 0.9040 | 19.1263 | 21.5215 | 22.2864 | 20.9839
280022 | *** | * | 15.3785 | * | * | 15.3785
280023 | 1.4175 | 0.9720 | 21.5761 | 19.6265 | 22.7207 | 21.3403
280024 | *** | * | 15.8747 | * | * | 15.8747
280025 | *** | * | 22.2213 | * | * | 22.2213
280026 | *** | * | 18.7258 | * | * | 18.7258
280028 | *** | * | 19.1080 | * | * | 19.1080
280029 | *** | * | 17.1350 | * | * | 17.1350
280030 | 1.8367 | 0.9740 | 26.3542 | 29.2221 | 32.5601 | 29.4404
280031 | *** | * | 9.6951 | * | * | 9.6951
280032 | 1.3374 | 0.9720 | 20.5246 | 21.5150 | 22.6510 | 21.6070
280033 | *** | * | 17.9841 | * | * | 17.9841
280035 | *** | * | 18.6088 | * | * | 18.6088
280037 | *** | * | 14.8049 | * | * | 14.8049
280038 | *** | * | 18.9305 | * | * | 18.9305
280039 | *** | * | 17.0153 | * | * | 17.0153
280040 | 1.6045 | 0.9740 | 21.5426 | 23.6597 | 25.2965 | 23.5484
280041 | *** | * | 16.6890 | * | * | 16.6890
280042 | *** | * | 16.4684 | * | * | 16.4684
280043 | *** | * | 16.8186 | * | * | 16.8186
280045 | *** | * | 17.7407 | * | * | 17.7407
280046 | *** | * | 17.9751 | * | * | 17.9751
280047 | 1.1550 | * | 21.3143 | 19.5815 | * | 20.3583
280048 | *** | * | 17.9319 | * | * | 17.9319
280049 | *** | * | 19.4589 | * | * | 19.4589
280051 | *** | * | 19.6206 | * | * | 19.6206
280052 | *** | * | 14.9903 | * | * | 14.9903
280054 | 1.0888 | 0.9720 | 19.4049 | 23.1191 | 22.4241 | 21.7488
280055 | *** | * | 14.2046 | * | * | 14.2046
280056 | *** | * | 15.6441 | * | * | 15.6441
280057 | 0.8171 | 0.9720 | 21.4754 | 22.5481 | 23.6793 | 22.5948
280058 | *** | * | 22.8105 | * | * | 22.8105
280060 | 1.6127 | 0.9740 | 22.4677 | 23.1128 | 25.2288 | 23.6231
280061 | 1.4140 | 0.9172 | 20.2066 | 21.2901 | 23.9110 | 21.8390
280062 | *** | * | 16.1708 | * | * | 16.1708
280064 | *** | * | 18.2196 | * | * | 18.2196
280065 | 1.2759 | 0.9732 | 21.6999 | 23.8128 | 27.9937 | 24.5319
280066 | *** | * | 12.2224 | * | * | 12.2224
280068 | *** | * | 10.5104 | * | * | 10.5104
280070 | *** | * | 18.7211 | * | * | 18.7211
280073 | *** | * | 18.3495 | * | * | 18.3495
280074 | *** | * | 13.6025 | * | * | 13.6025
280075 | 0.9362 | * | 13.3154 | * | * | 13.3154
280076 | *** | * | 16.1940 | * | * | 16.1940
280077 | 1.3611 | 0.9740 | 21.1883 | 22.7244 | 24.0516 | 22.6707
280079 | *** | * | 17.1518 | * | * | 17.1518
280080 | *** | * | 16.1902 | * | * | 16.1902
280081 | 1.7302 | 0.9740 | 23.3805 | 24.3199 | 25.1973 | 24.3116
280082 | *** | * | 15.4420 | * | * | 15.4420
280083 | *** | * | 20.8995 | * | * | 20.8995
280084 | *** | * | 13.2158 | * | * | 13.2158
280085 | *** | * | 20.8532 | 21.8473 | * | 21.3832
280089 | *** | * | 19.9004 | * | * | 19.9004
280091 | *** | * | 16.3456 | * | * | 16.3456
280092 | *** | * | 13.3032 | * | * | 13.3032
280094 | *** | * | 16.9179 | * | * | 16.9179
280097 | *** | * | 14.1870 | * | * | 14.1870
280098 | *** | * | 12.4995 | * | * | 12.4995
280101 | *** | * | 10.5153 | * | * | 10.5153
280104 | *** | * | 15.5949 | * | * | 15.5949
280105 | 1.3267 | 0.9740 | 23.7103 | 25.1401 | 25.0445 | 24.6739
280106 | *** | * | 16.3564 | * | * | 16.3564
280108 | 1.0504 | 0.9040 | 18.5135 | 20.9016 | 22.5584 | 20.6213
280110 | *** | * | 13.0279 | * | * | 13.0279
280111 | 1.2125 | 0.9040 | 19.7688 | 20.7398 | 22.1424 | 20.9228
280114 | *** | * | 17.1155 | * | * | 17.1155
280115 | *** | * | 18.3465 | * | * | 18.3465
280117 | 1.0472 | 0.9040 | 20.3820 | 20.5464 | 22.0611 | 21.0176
280118 | 0.9405 | * | 17.8892 | 19.3466 | * | 18.6609
280123 | 0.9634 | 0.9177 | 23.6682 | 24.3539 | 27.5207 | 25.1734
280125 | 1.4651 | 0.9040 | 17.2718 | 20.0643 | 21.8385 | 19.6628
280126 | *** | * | * | 33.8918 | * | 33.8918
290001 | 1.7081 | 1.0446 | 24.3681 | 25.9590 | 27.3105 | 25.9828
290002 | 0.9005 | 0.9899 | 16.7948 | 16.8363 | 16.8433 | 16.8264
290003 | 1.7343 | 1.1345 | 25.4303 | 27.4732 | 27.1099 | 26.7040
290005 | 1.3692 | 1.1345 | 22.7804 | 24.6877 | 27.1531 | 24.9521
290006 | 1.2050 | 0.9558 | 22.4832 | 24.2211 | 26.3617 | 24.4733
290007 | 1.5431 | 1.1345 | 34.9911 | 35.1020 | 35.4193 | 35.1815
290008 | 1.0962 | 1.1193 | 26.9216 | 27.0115 | 26.4086 | 26.7837
290009 | 1.8842 | 1.0446 | 24.8816 | 26.9020 | 27.6011 | 26.5276
290010 | 1.1051 | 1.1345 | 20.8387 | 25.4598 | 23.8733 | 23.4339
290011 | *** | * | 19.7409 | * | * | 19.7409
290012 | 1.3155 | 1.1345 | 25.5647 | 25.8036 | 27.2675 | 26.1745
290013 | *** | * | 20.2915 | * | * | 20.2915
290014 | *** | * | 20.2762 | * | * | 20.2762
290015 | *** | * | 20.2335 | * | * | 20.2335
290016 | 1.0105 | 0.9558 | 21.8030 | 22.5111 | 25.1726 | 23.2081
290019 | 1.4023 | 1.0446 | 22.5584 | 25.1684 | 27.2484 | 25.0270
290020 ʰ | 0.9391 | 1.1345 | 19.5038 | 24.2373 | 21.3094 | 21.5238
290021 | 1.7729 | 1.1345 | 24.1396 | 26.2510 | 28.3837 | 26.2448
290022 | 1.5996 | 1.1345 | 25.3914 | 27.5364 | 29.8144 | 27.5392
290027 | 0.9706 | 0.9558 | 13.1462 | 13.5031 | 17.8850 | 14.5858
290032 | 1.3916 | 1.0446 | 26.9846 | 27.5425 | 29.4164 | 28.0295
290038 | *** | * | 26.0836 | * | * | 26.0836
290039 | 1.5148 | 1.1345 | 26.6283 | 28.7599 | 29.6801 | 28.5389
290041 | 1.3280 | 1.1345 | 27.7740 | 28.6294 | 30.1346 | 28.9832
290042 | 0.8932 | 1.1345 | 18.7669 | * | * | 18.7669
290045 | 1.5329 | 1.1345 | * | 26.5644 | 26.9319 | 26.7596
300001 | 1.5568 | 1.0959 | 25.7142 | 27.1312 | 29.4130 | 27.4975
300003 | 2.0799 | 1.0907 | 25.3252 | 26.7859 | 27.8059 | 26.6925
300005 | 1.4072 | 1.0907 | 22.3258 | 22.8163 | 25.1869 | 23.4713
300006 | 1.1125 | 0.9931 | 22.2642 | 22.0187 | 20.6787 | 21.6236
300007 | 1.2716 | 1.0959 | 21.3633 | 23.6919 | 25.3125 | 23.5198
300008 | *** | * | 20.9207 | * | * | 20.9207
300009 | 1.1516 | * | 0.1486 | * | * | 20.1486
300010 | 1.1387 | 0.9931 | 21.0316 | 24.6295 | 26.9346 | 24.1897
300011 | 1.3292 | 1.0959 | 23.8390 | 25.0979 | 27.3325 | 25.4685
300012 | 1.4085 | 1.0959 | 25.8581 | 26.3914 | 28.4234 | 27.0366
300013 | 1.0725 | 1.0959 | 20.0269 | 21.3397 | 23.1529 | 21.3864
300014 | 1.2061 | 1.0793 | 21.6705 | 23.7144 | 25.5059 | 23.7417
300015 | 1.1614 | 0.9931 | 22.8966 | 24.4869 | 24.0620 | 23.8264
300016 | 1.3103 | * | 15.1310 | 18.9756 | 24.5498 | 19.6714
300017 | 1.3730 | 1.1154 | 23.9651 | 26.1104 | 28.3959 | 26.2982
300018 | 1.3891 | 1.0793 | 22.8379 | 25.7851 | 28.0308 | 25.7129
300019 | 1.2523 | 0.9931 | 20.5801 | 23.8076 | 25.3845 | 23.2890
300020 | 1.2070 | 1.0959 | 23.0806 | 24.8189 | 26.8402 | 25.0029
300021 | *** | * | 20.2585 | * | * | 20.2585
300022 | 1.1227 | 0.9931 | 20.1209 | 22.3918 | 23.5948 | 22.1272
300023 | 1.3997 | 1.1154 | 22.1896 | 24.9992 | 25.4873 | 24.2775
300024 | 1.2263 | 0.9931 | 22.2235 | 22.4883 | 23.9205 | 22.8688
300028 | *** | * | 21.4207 | * | * | 21.4207
300029 | 1.8572 | 1.1154 | 23.8415 | 24.5772 | 26.9484 | 25.2559
300033 | *** | * | 17.4836 | * | * | 17.4836
300034 | 2.1231 | 1.0959 | 25.2355 | 26.9093 | 28.5375 | 26.9064
310001 | 1.7406 | 1.3318 | 31.1568 | 30.1786 | 33.9360 | 31.7932
310002 | 1.8593 | 1.3457 | 28.7786 | 33.9058 | 35.4567 | 32.8160
310003 | 1.2278 | 1.3457 | 29.3522 | 30.4234 | 31.1040 | 30.3282
310005 | 1.3402 | 1.1734 | 23.9477 | 26.0227 | 27.5690 | 25.8791
310006 | 1.2089 | 1.3318 | 24.1538 | 25.9000 | 27.0436 | 25.6806
310008 | 1.2966 | 1.3318 | 26.4989 | 28.0970 | 29.5857 | 28.0438
310009 | 1.2728 | 1.2085 | 23.2420 | 24.6353 | 29.7760 | 25.9692
310010 | 1.2591 | 1.1533 | 24.5471 | 26.7889 | 25.3139 | 25.5666
310011 | 1.2457 | 1.1533 | 25.4900 | 26.1586 | 28.5241 | 26.7393
310012 | 1.7065 | 1.3318 | 28.1367 | 31.1705 | 33.1622 | 30.8495
310013 | 1.3047 | 1.2085 | 23.2424 | 25.0951 | 28.5016 | 25.6662
310014 | 1.7096 | 1.1533 | 31.0834 | 29.1931 | 32.7222 | 31.0153
310015 | 1.9124 | 1.3318 | 29.1340 | 30.1767 | 32.4980 | 30.6162
310016 | 1.2750 | 1.3318 | 26.0738 | 25.7368 | 28.9788 | 26.9614
310017 | 1.2836 | 1.1734 | 25.1634 | 25.2636 | 28.0930 | 26.1920
310018 | 1.1937 | 1.2085 | 24.1428 | 25.9108 | 26.9399 | 25.6851
310019 | 1.5685 | 1.3318 | 28.5952 | 26.8663 | 31.0524 | 28.8078
310020 | 1.4172 | 1.3318 | 25.0803 | 25.0147 | 29.3392 | 26.4027
310021 | 1.6807 | 1.3318 | 27.8958 | 29.4003 | 29.6308 | 28.9597
310022 | 1.2264 | 1.1533 | 23.3412 | 26.7487 | 26.1914 | 25.4453
310024 | 1.3840 | 1.1734 | 27.0459 | 26.9499 | 27.5278 | 27.1558
310025 | 1.1936 | 1.3318 | 25.5227 | 26.8719 | 27.7960 | 26.7093
310026 | 1.2473 | 1.3318 | 23.2895 | 24.6697 | 25.3970 | 24.4038
310027 | 1.3248 | 1.1734 | 24.4437 | 22.1935 | 27.0982 | 24.4083
310028 | 1.2098 | 1.3457 | 26.1931 | 25.7246 | 29.1101 | 27.0306
310029 | 1.9148 | 1.1533 | 24.4290 | 25.9606 | 29.1439 | 26.5104
310031 | 2.9737 | 1.1533 | 26.7174 | 29.5581 | 30.2345 | 28.8302
310032 | 1.2921 | 1.1533 | 24.9133 | 25.7088 | 27.8754 | 26.3271
310034 | 1.3284 | 1.1533 | 24.8567 | 26.5224 | 27.8517 | 26.3613
310036 | *** | * | 23.0320 | * | * | 23.0320
310037 | 1.3772 | 1.3318 | 28.7738 | 30.1264 | 32.1471 | 30.3789
310038 | 2.0208 | 1.3457 | 28.1756 | 32.3865 | 32.1977 | 30.9538
310039 | 1.2564 | 1.1883 | 23.6604 | 24.6045 | 27.1054 | 25.2002
310040 | 1.2784 | 1.3318 | 26.5769 | 27.4041 | 28.0068 | 27.3674
310041 | 1.2705 | 1.1533 | 23.8857 | 26.8145 | 29.7335 | 26.9343
310042 | 1.1856 | 1.3318 | 24.9702 | 26.9695 | 29.0207 | 26.9949
310043 | *** | * | 24.0238 | * | * | 24.0238
310044 | 1.3145 | 1.1533 | 23.1489 | 25.1618 | 27.7752 | 25.4042
310045 | 1.5707 | 1.3457 | 29.4877 | 31.7376 | 32.6359 | 31.3391
310047 | 1.3362 | 1.1533 | 25.9777 | 26.1353 | 28.3415 | 26.8511
310048 | 1.2859 | 1.1679 | 23.4189 | 27.4050 | 28.4715 | 26.4187
310049 | *** | * | 25.6733 | 26.5332 | 32.7666 | 26.4914
310050 | 1.3124 | 1.3457 | 23.7735 | 25.3772 | 27.2276 | 25.4612
310051 | 1.3746 | 1.3457 | 28.6248 | 29.2386 | 32.0113 | 29.9783
310052 | 1.3070 | 1.1533 | 24.9773 | 27.0324 | 28.1498 | 26.6609
310054 | 1.3086 | 1.2085 | 27.6290 | 28.1880 | 30.6905 | 28.8624
310057 | 1.3233 | 1.1533 | 22.2630 | 26.3903 | 26.4606 | 25.1234
310058 | 1.1022 | 1.3318 | 25.3983 | 28.1753 | 26.4816 | 26.7012
310060 | 1.3046 | 1.3457 | 21.4455 | 22.1914 | 23.2146 | 22.2638
310061 | 1.2201 | 1.1533 | 23.4283 | 24.9678 | 27.5400 | 25.2492
310063 | 1.4393 | 1.1734 | 21.2618 | 25.9868 | 28.3457 | 24.9266
310064 | 1.5198 | 1.1533 | 25.9350 | 27.8388 | 29.5979 | 27.8612
310067 | 0.8041 | 1.1734 | 24.1943 | 26.3624 | 26.8068 | 25.5496
310069 | 1.2972 | 1.1533 | 25.3464 | 25.7690 | 27.9656 | 26.3324
310070 | 1.3998 | 1.3457 | 29.5101 | 30.1917 | 32.1806 | 30.6644
310072 | *** | * | 24.4480 | 25.3145 | 26.3520 | 25.4066
310073 | 1.8302 | 1.1533 | 26.7954 | 28.8791 | 29.6611 | 28.4561
310074 | 1.3914 | 1.3318 | 24.2009 | 27.6789 | 28.4361 | 26.8022
310075 | 1.2820 | 1.1533 | 23.9771 | 25.7726 | 26.2479 | 25.3255
310076 | 1.6301 | 1.3457 | 29.6667 | 32.4533 | 34.9428 | 32.3614
310077 | 1.6813 | 1.3318 | 26.7092 | 28.7352 | 30.7465 | 28.7735
310078 | 1.3141 | 1.2085 | 24.5862 | 24.7753 | 26.9589 | 25.4404
310081 | 1.2584 | 1.1533 | 23.3310 | 24.6083 | 26.4259 | 24.8147
310083 | 1.2747 | 1.2085 | 25.0191 | 25.2465 | 24.6563 | 24.9766
310084 | 1.2146 | 1.1533 | 25.4946 | 27.3680 | 29.9437 | 27.6722
310086 | 1.2484 | 1.1533 | 23.4966 | 25.2751 | 27.3601 | 25.4003
310087 | *** | * | 20.6847 | * | * | 20.6847
310088 | 1.1932 | 1.1533 | 23.0610 | 23.7846 | 25.5274 | 24.1094
310090 | 1.2913 | 1.1734 | 23.6661 | 25.3640 | 27.1661 | 25.4163
310091 | 1.2468 | 1.1533 | 24.5357 | 25.6405 | 27.1115 | 25.7617
310092 | 1.4317 | 1.1533 | 22.9721 | 23.2226 | 25.7071 | 23.9323
310093 | 1.1882 | 1.2085 | 23.9404 | 24.6942 | 25.8727 | 24.8091
310096 | 2.1797 | 1.2085 | 26.6588 | 28.4705 | 30.3675 | 28.4801
310105 | 1.1887 | 1.3318 | 28.1317 | 28.7333 | 30.9968 | 29.2991
310108 | 1.3882 | 1.1883 | 25.1368 | 24.9090 | 29.1548 | 26.3880
310110 | 1.3098 | 1.1533 | 23.3461 | 26.4175 | 27.8707 | 26.0751
310111 | 1.2084 | 1.1533 | 23.3646 | 26.2496 | 28.8692 | 26.2009
310112 | 1.2407 | 1.1533 | 24.2999 | 27.8796 | 28.9928 | 27.1351
310113 | 1.2455 | 1.1533 | 24.2708 | 25.9143 | 27.5203 | 25.9693
310115 | 1.1808 | 1.3457 | 23.5148 | 24.5413 | 26.2803 | 24.8233
310116 | 1.2402 | 1.3318 | 24.2696 | 25.1189 | 26.6287 | 25.2849
310118 | 1.3742 | 1.3318 | 26.8760 | 28.0517 | 28.1238 | 27.6760
310119 | 1.8296 | 1.3457 | 29.1045 | 34.7468 | 35.6786 | 33.0142
310120 | 1.1107 | 1.3457 | 22.6526 | 24.7078 | 27.2010 | 24.6839
320001 | 1.5356 | 1.0486 | 21.5564 | 23.0290 | 26.1962 | 23.6128
320002 | 1.4328 | 1.0885 | 25.5144 | 26.7332 | 28.6963 | 27.0266
320003 | 1.1539 | 0.8684 | 16.4961 | 20.7939 | 22.3911 | 19.8184
320004 | 1.3957 | 0.8684 | 21.3681 | 19.4799 | 24.0362 | 21.7826
320005 | 1.3891 | 1.0211 | 22.4178 | 22.1677 | 21.2164 | 21.8840
320006 | 1.3441 | 1.0066 | 19.8672 | 21.1222 | 22.5615 | 21.1735
320009 | 1.5217 | 1.0486 | 20.3783 | 21.5870 | 24.4237 | 22.0786
320011 | 1.1657 | 0.8684 | 19.1476 | 20.7714 | 23.1539 | 21.0040
320012 | *** | * | 17.1317 | * | * | 17.1317
320013 | 1.2063 | 1.0066 | 25.5403 | 19.4487 | 27.8671 | 23.6493
320014 | 1.0852 | 0.8684 | 22.9026 | 19.7656 | 26.7112 | 22.9160
320016 | 1.1185 | 0.8684 | 18.8763 | 19.9326 | 21.7001 | 20.2256
320017 | 1.2764 | 1.0486 | 20.4390 | 22.5460 | 23.6861 | 22.2615
320018 | 1.5555 | 0.8822 | 20.3141 | 21.4650 | 23.0915 | 21.6545
320019 | 1.4216 | 1.0486 | 25.1210 | 26.6900 | 31.2250 | 27.8202
320021 | 1.6532 | 1.0486 | 20.0089 | 21.0913 | 28.5620 | 22.6646
320022 | 1.1402 | 0.8684 | 20.9797 | 20.7919 | 22.1492 | 21.3155
320030 | 1.0381 | 0.8684 | 18.1556 | 16.8696 | 18.0990 | 17.7109
320031 | *** | * | 18.2244 | * | * | 18.2244
320032 | *** | * | 21.4815 | * | * | 21.4815
320033 | 1.1738 | 1.0316 | 21.9804 | 24.2703 | 24.1185 | 23.5050
320035 | *** | * | 17.8059 | * | * | 17.8059
320037 | 1.2146 | 1.0486 | 17.6724 | 19.6466 | 21.6080 | 19.6916
320038 | 1.2325 | 0.8684 | 23.1987 | 19.2962 | 21.2181 | 21.2842
320046 | 1.1266 | 0.8684 | 19.4732 | 21.5915 | 22.9114 | 21.3161
320063 | 1.2932 | 0.9495 | 18.5600 | 20.7804 | 24.9141 | 21.2497
320065 | 1.1524 | 0.9495 | 22.5428 | 19.9012 | 21.6189 | 21.2280
320067 | 0.8954 | 0.8684 | 16.8015 | 13.9459 | 20.4431 | 17.1123
320068 | *** | * | 15.6864 | * | * | 15.6864
320069 | 1.0993 | 0.8684 | 15.7349 | 18.5375 | 19.7296 | 18.0124
320074 | 0.9863 | 1.0486 | 22.3403 | 28.3086 | 35.5980 | 28.6515
320079 | 1.0490 | 1.0486 | 20.2473 | 21.9090 | 23.8092 | 22.0034
320083 | 2.4598 | 1.0486 | * | 20.6771 | * | 20.6771
330001 | 1.2203 | 1.1924 | 28.6213 | 30.8509 | 31.3735 | 30.3151
330002 | 1.5638 | 1.3457 | 27.1811 | 28.0882 | 29.3459 | 28.1842
330003 | 1.2782 | 0.8668 | 19.3972 | 20.2744 | 21.6506 | 20.4229
330004 | 1.1905 | 1.1034 | 22.5082 | 24.3703 | 23.9959 | 23.6278
330005 | 1.5895 | 0.9332 | 22.6137 | 24.3578 | 25.9287 | 24.2561
330006 | 1.3539 | 1.3457 | 26.2970 | 28.3904 | 29.7509 | 28.0795
330008 | 1.1413 | 0.9332 | 19.6770 | 20.6816 | 21.3269 | 20.5700
330009 | 1.2673 | 1.3457 | 30.9087 | 33.3605 | 35.8367 | 33.3091
330010 | *** | * | 17.8935 | 19.8211 | 17.9178 | 18.5214
330011 | 1.3317 | 0.8464 | 18.7995 | 19.8035 | 20.3641 | 19.6558
330013 | 2.1558 | 0.8668 | 19.0995 | 21.2063 | 23.9070 | 21.3625
330014 | 1.2950 | 1.3457 | 32.4496 | 32.0824 | 35.4053 | 33.3269
330016 | 0.9883 | 0.8292 | 18.7194 | 18.1603 | 18.9388 | 18.6085
330019 | 1.3429 | 1.3457 | 31.5927 | 31.9042 | 32.3413 | 31.9607
330020 | *** | * | 16.6952 | * | * | 16.6952
330023 | 1.5352 | 1.3318 | 26.6997 | 29.4538 | 29.2669 | 28.5413
330024 | 1.6830 | 1.3457 | 35.7485 | 35.3598 | 36.5648 | 35.8841
330025 | 1.0685 | 0.9332 | 17.6169 | 18.7663 | 19.7561 | 18.7397
330027 | 1.4016 | 1.3457 | 35.1046 | 34.1281 | 35.1325 | 34.7868
330028 | 1.3860 | 1.3457 | 31.7699 | 31.8452 | 33.5312 | 32.3867
330029 | 0.6848 | 0.9332 | 19.4377 | 18.4354 | 18.6623 | 18.8626
330030 | 1.4117 | 0.9283 | 18.0866 | 22.0574 | 22.4368 | 21.1341
330033 | 1.1685 | 0.8292 | 19.5836 | 18.6316 | 21.3762 | 19.8548
330034 | *** | * | 38.2451 | * | * | 38.2451
330036 | 1.1574 | 1.3457 | 25.5888 | 27.0970 | 27.6813 | 26.7707
330037 | 1.0861 | 0.9283 | 18.3260 | 18.3557 | 19.6385 | 18.7781
330038 | *** | * | 16.2997 | * | * | 16.2997
330041 | 1.1980 | 1.3457 | 29.5305 | 34.5461 | 36.2481 | 33.2332
330043 | 1.3371 | 1.2928 | 28.9622 | 31.7873 | 34.1039 | 31.6023
330044 | 1.2563 | 0.8367 | 19.9807 | 22.0465 | 23.1450 | 21.9885
330045 | 1.3277 | 1.2928 | 28.5267 | 30.9046 | 34.4956 | 31.3516
330046 | 1.4334 | 1.3457 | 38.1184 | 41.6759 | 42.0900 | 40.5965
330047 ʰ | 1.2461 | 0.8668 | 19.5561 | 20.1646 | 21.1244 | 20.2913
330048 | *** | * | 19.6129 | * | * | 19.6129
330049 | 1.2924 | 1.3457 | 22.1523 | 24.7766 | 25.7022 | 24.1410
330053 | 1.1222 | 0.9283 | 17.9161 | 18.1728 | 19.6807 | 18.5861
330055 | 1.5986 | 1.3457 | 34.2159 | 34.9709 | 35.1393 | 34.7960
330056 | 1.5122 | 1.3457 | 29.8377 | 32.0982 | 32.9295 | 31.5709
330057 | 1.6943 | 0.8668 | 20.0995 | 20.9282 | 22.6519 | 21.2763
330058 | 1.2804 | 0.9283 | 18.1008 | 19.2916 | 19.5520 | 18.9822
330059 | 1.5740 | 1.3457 | 35.0121 | 36.4176 | 38.1019 | 36.5176
330061 | 1.2288 | 1.3457 | 26.8580 | 28.6725 | 32.7427 | 29.4511
330062 | 1.0996 | 0.9291 | 18.4662 | 20.0222 | 21.4270 | 19.8293
330064 | 1.1757 | 1.3457 | 35.1422 | 36.0976 | 38.5719 | 36.6222
330065 | 1.2153 | 0.9332 | 20.1615 | 20.5958 | 21.9192 | 20.8930
330066 | 1.3222 | 0.8668 | 19.3644 | 20.9990 | 23.0916 | 21.1815
330067 ² | 1.3671 | 1.3318 | 23.6836 | 24.8927 | 34.8416 | 26.8995
330072 | 1.4219 | 1.3457 | 30.3737 | 32.9665 | 32.7905 | 32.0147
330073 | 1.1433 | 0.9283 | 16.5166 | 18.4162 | 19.0781 | 18.2217
330074 | 1.2724 | 0.9283 | 18.9326 | 21.7299 | 20.2874 | 20.2926
330075 | 1.1621 | 0.9482 | 19.2938 | 19.9781 | 22.0240 | 20.4396
330078 | 1.4763 | 0.9332 | 18.0362 | 20.8379 | 22.7762 | 20.5288
330079 | 1.2922 | 0.8292 | 18.9398 | 21.1153 | 22.1064 | 20.7085
330080 | 1.2128 | 1.3457 | 34.6880 | 33.5537 | 36.1171 | 34.7934
330084 | 1.1181 | 0.9104 | 19.0262 | 19.2135 | 22.6365 | 20.2736
330085 | 1.1656 | 0.9246 | 20.9332 | 21.8271 | 23.2927 | 22.0314
330086 | 1.2502 | 1.3457 | 26.2979 | 27.1585 | 28.8424 | 27.4015
330088 | 1.0160 | 1.2928 | 26.7583 | 29.5181 | 31.2631 | 29.1966
330090 | 1.3957 | 0.8464 | 20.1344 | 20.9327 | 22.7721 | 21.3033
330091 | 1.3861 | 0.9332 | 21.6004 | 22.9396 | 22.5796 | 22.3583
330092 | *** | * | 17.2083 | * | * | 17.2083
330094 | 1.3404 | 0.9070 | 18.8941 | 21.3659 | 22.1495 | 20.7647
330095 | *** | * | 21.1809 | 28.9794 | 28.9914 | 24.2022
330096 | 1.0999 | 0.8292 | 20.0370 | 21.1648 | 22.4895 | 21.2735
330097 | 1.1459 | 0.8292 | 16.1946 | 18.6291 | 19.2233 | 17.9357
330100 | 1.0376 | 1.3457 | 28.9956 | 31.5775 | 32.8406 | 31.1270
330101 | 1.8432 | 1.3457 | 35.3618 | 38.4810 | 39.2601 | 37.6430
330102 | 1.3750 | 0.9332 | 21.0057 | 23.5254 | 23.6141 | 22.6543
330103 | 1.1077 | 0.8292 | 17.3511 | 17.9017 | 18.8763 | 18.0443
330104 | 1.3473 | 1.3457 | 31.9746 | 36.8451 | 33.7556 | 34.2521
330106 | 1.7360 | 1.5118 | 36.2526 | 38.7822 | 39.8554 | 38.3049
330107 | 1.2276 | 1.2928 | 28.9225 | 29.1958 | 31.8528 | 29.9600
330108 | 1.1632 | 0.8464 | 18.5849 | 20.2536 | 21.4680 | 20.0799
330111 | 1.0200 | 0.9332 | 13.3352 | 17.7020 | 17.6185 | 16.0043
330114 | *** | * | 19.1163 | 19.2566 | * | 19.1861
330115 | 1.1678 | 0.9482 | 18.5911 | 18.5544 | 20.5101 | 19.2463
330116 | *** | * | 16.8567 | * | * | 16.8567
330119 | 1.7722 | 1.3457 | 33.5653 | 34.6591 | 36.5873 | 34.9464
330121 | 0.8869 | 0.8292 | 17.1869 | 17.9757 | 19.7388 | 18.2903
330122 | *** | * | 23.0384 | 25.6500 | 26.3849 | 25.0295
330125 | 1.7759 | 0.9283 | 20.5922 | 22.8078 | 24.6945 | 22.6738
330126 | 1.3100 | 1.3457 | 25.1175 | 27.7155 | 28.8299 | 27.2669
330127 | 1.3072 | 1.3457 | 40.0112 | 42.2836 | 43.7479 | 42.0426
330128 | 1.2876 | 1.3457 | 34.3468 | 32.7050 | 34.5289 | 33.8578
330132 | 1.0685 | 0.8292 | 14.8704 | 16.0311 | 16.3088 | 15.7538
330133 | 1.3445 | 1.3457 | 37.5191 | 35.3136 | 44.0704 | 38.5796
330135 | 1.2456 | 1.3457 | 23.5662 | 25.6504 | 26.9969 | 25.3890
330136 | 1.4708 | 0.9246 | 20.4124 | 21.4225 | 22.5447 | 21.4723
330140 | 1.8401 | 0.9482 | 21.1841 | 21.1787 | 23.5774 | 21.9755
330141 | 1.3453 | 1.2928 | 27.5960 | 29.3283 | 30.6616 | 29.2342
330144 | 0.9884 | 0.8292 | 17.1513 | 17.3920 | 20.1805 | 18.1420
330148 | 1.0131 | 0.8367 | 16.7251 | 17.6560 | 18.5443 | 17.5842
330151 | 1.1156 | 0.8292 | 15.2233 | 16.4028 | 17.6782 | 16.4170
330152 | 1.3469 | 1.3457 | 33.5587 | 32.3332 | 32.0616 | 32.6475
330153 | 1.7810 | 0.8668 | 19.4417 | 21.2843 | 21.9935 | 20.8626
330157 | 1.3710 | 0.9246 | 23.1743 | 23.5522 | 23.6939 | 23.4682
330158 | 1.5754 | 1.3457 | 29.3163 | 32.7159 | 33.0067 | 31.6476
330159 | 1.3367 | 0.9482 | 20.2753 | 22.5580 | 24.1916 | 22.2881
330160 | 1.5698 | 1.3457 | 30.7893 | 32.1266 | 34.0373 | 32.2900
330162 | 1.3036 | 1.3457 | 27.9705 | 29.6042 | 31.3812 | 29.6808
330163 | 1.2260 | 0.9332 | 21.4143 | 21.1517 | 22.4644 | 21.6514
330164 | 1.3623 | 0.9283 | 22.0699 | 23.5427 | 24.4306 | 23.4206
330166 ʰ | 1.1010 | 0.8292 | 17.0637 | 18.4262 | 18.8777 | 18.1243
330167 | 1.7640 | 1.3065 | 32.0541 | 30.9667 | 33.7365 | 32.3049
330169 | 1.4318 | 1.3457 | 36.3690 | 36.2725 | 38.3498 | 36.9765
330171 | 1.1125 | 1.3457 | 25.1567 | 25.9946 | 27.7810 | 26.2476
330175 | 1.1609 | 0.8292 | 18.8701 | 20.4628 | 21.1944 | 20.1626
330177 | 0.9285 | 0.8292 | 16.6059 | 19.0005 | 20.1850 | 18.5998
330179 | *** | * | 16.0113 | * | * | 16.0113
330180 | 1.2778 | 0.8668 | 19.2670 | 19.8951 | 21.9641 | 20.3522
330181 | 1.4007 | 1.3457 | 34.6065 | 37.1218 | 35.9334 | 35.8908
330182 | 2.3673 | 1.3457 | 33.3363 | 35.2416 | 36.3831 | 35.0376
330183 | *** | * | 20.3520 | * | * | 20.3520
330184 | 1.4150 | 1.3457 | 28.4726 | 30.7479 | 33.2843 | 30.7469
330185 | 1.2876 | 1.2928 | 27.8894 | 28.9787 | 31.0179 | 29.3910
330188 | 1.2264 | 0.9332 | 20.2849 | 21.1196 | 22.6803 | 21.4090
330189 | 1.0849 | 0.8668 | 23.5589 | 19.0726 | 19.2538 | 20.4146
330191 | 1.3016 | 0.8512 | 19.5623 | 20.9392 | 22.3719 | 20.9783
330193 | 1.2751 | 1.3457 | 32.5496 | 36.2427 | 36.9866 | 35.2805
330194 | 1.8416 | 1.3457 | 35.6486 | 38.5372 | 39.9177 | 38.0927
330195 | 1.6674 | 1.3457 | 34.4689 | 36.4249 | 38.6867 | 36.4221
330196 | 1.3233 | 1.3457 | 28.9488 | 31.1915 | 32.5883 | 30.9084
330197 | 1.0751 | 0.8292 | 19.2237 | 20.8386 | 22.3117 | 20.8064
330198 | 1.3746 | 1.3065 | 25.6668 | 25.3622 | 29.5359 | 26.8751
330199 | 1.1023 | 1.3457 | 28.0374 | 34.1354 | 32.7870 | 31.5385
330201 | 1.7608 | 1.3457 | 30.0524 | 29.3745 | 33.3215 | 30.8636
330202 | 1.2840 | 1.3457 | 35.4943 | 30.7990 | 34.3545 | 33.6766
330203 | 1.4563 | 0.9482 | 25.9211 | 24.7422 | 26.2459 | 25.6084
330204 | 1.3233 | 1.3457 | 31.1366 | 30.3699 | 30.3273 | 30.6070
330205 | 1.2519 | 1.3457 | 24.9040 | 29.0622 | 30.0101 | 27.9917
330208 | 1.2096 | 1.3457 | 27.3170 | 30.6158 | 28.2667 | 28.6888
330209 | 1.1635 | 1.1924 | 27.0257 | 27.7071 | 28.7213 | 27.8300
330211 | 1.0955 | 0.8292 | 20.0006 | 20.8224 | 21.1094 | 20.6576
330212 | 1.3741 | 1.3457 | 24.8554 | 24.9434 | 27.0585 | 25.3302
330213 | 1.0760 | 0.8292 | 20.1166 | 20.7967 | 21.7208 | 20.8889
330214 | 1.8983 | 1.3457 | 32.3130 | 32.7647 | 33.7670 | 32.9626
330215 | 1.2834 | 0.8367 | 19.0726 | 19.9226 | 20.6343 | 19.8739
330218 | 1.1052 | 0.9482 | 21.4747 | 20.6012 | 21.4095 | 21.1631
330219 | 1.5946 | 0.9332 | 25.1792 | 28.7448 | 27.7400 | 27.1911
330221 | 1.3163 | 1.3457 | 32.5044 | 34.9345 | 34.7033 | 34.0507
330222 | 1.2774 | 0.8668 | 19.3148 | 23.5491 | 25.9825 | 22.9166
330223 | 1.0447 | 0.8292 | 19.1604 | 18.8253 | 18.4291 | 18.7955
330224 | 1.2892 | 1.1070 | 20.5881 | 22.7847 | 23.9379 | 22.4034
330225 | 1.2012 | 1.3065 | 28.0523 | 29.1744 | 28.9952 | 28.7284
330226 | 1.3629 | 0.9283 | 21.6368 | 23.5405 | 23.4783 | 23.0374
330229 ʰ | 1.1747 | 0.8292 | 18.2554 | 18.5590 | 19.5670 | 18.7993
330230 | 0.9625 | 1.3457 | 30.6937 | 32.5997 | 32.1101 | 31.7923
330231 | 1.0904 | 1.3457 | 32.4164 | 30.2184 | 33.9324 | 32.2300
330232 | 1.2465 | 0.8668 | 20.0924 | 21.1277 | 21.4765 | 20.9246
330233 | 1.4624 | 1.3457 | 43.1186 | 39.5133 | 41.9968 | 41.5604
330234 | 2.3207 | 1.3457 | 35.8327 | 37.7135 | 36.8500 | 36.7850
330235 | 1.1463 | 0.9329 | 20.1255 | 21.4643 | 22.1217 | 21.2329
330236 | 1.3841 | 1.3457 | 32.1246 | 31.8491 | 32.9391 | 32.3105
330238 | 1.1779 | 0.9283 | 17.8867 | 18.3846 | 19.2407 | 18.5495
330239 | 1.2248 | 0.8502 | 18.9953 | 19.7561 | 20.4936 | 19.7492
330240 | 1.2423 | 1.3457 | 35.6576 | 37.3866 | 40.7478 | 37.8704
330241 | 1.9229 | 0.9482 | 24.7545 | 26.7598 | 27.7213 | 26.4610
330242 | 1.3027 | 1.3457 | 28.3561 | 30.5172 | 32.2178 | 30.3520
330245 | 1.8532 | 0.8367 | 20.7605 | 20.2037 | 21.6857 | 20.9062
330246 | 1.3688 | 1.2928 | 29.8777 | 31.8857 | 31.6763 | 31.1525
330247 | 1.1246 | 1.3457 | 32.5858 | 25.6063 | 32.1733 | 30.2124
330249 | 1.1959 | 0.9482 | 17.6846 | 19.1469 | 21.4345 | 19.4505
330250 | 1.2821 | 0.9104 | 20.8742 | 22.1272 | 23.0641 | 22.0678
330254 | *** | * | 15.7864 | * | * | 15.7864
330258 | *** | * | 32.6745 | * | * | 32.6745
330259 | 1.4785 | 1.3065 | 26.3620 | 27.4131 | 30.0488 | 27.9503
330261 | 1.2615 | 1.3457 | 30.0489 | 30.4771 | 30.9356 | 30.5044
330263 | 1.0079 | 0.8292 | 19.5057 | 20.0831 | 20.8456 | 20.1541
330264 | 1.1449 | 1.2928 | 24.9713 | 26.3652 | 28.1501 | 26.4763
330265 | 1.2730 | 0.9283 | 21.1215 | 18.2547 | 19.9414 | 19.7494
330267 | 1.4073 | 1.3457 | 27.8255 | 29.0499 | 30.3709 | 29.1173
330268 | 0.9588 | 0.8668 | 16.8358 | 18.7991 | 18.9142 | 18.2286
330270 | 2.0661 | 1.3457 | 33.0375 | 36.5976 | 38.2605 | 36.0496
330273 | 1.2979 | 1.3457 | 27.0454 | 28.8548 | 29.5106 | 28.4612
330276 | 1.1251 | 0.8355 | 19.6572 | 20.7973 | 21.7826 | 20.7570
330277 | 1.1274 | 0.8292 | 20.7851 | 21.8866 | 25.1438 | 22.6221
330279 | 1.4029 | 0.9332 | 21.7827 | 23.8793 | 23.4816 | 23.0796
330285 | 1.9079 | 0.9283 | 24.5388 | 26.0446 | 27.1260 | 25.9586
330286 | 1.3874 | 1.2928 | 28.0995 | 31.1344 | 32.3244 | 30.5728
330290 | 1.6856 | 1.3457 | 34.3439 | 35.5617 | 36.3764 | 35.4278
330293 | *** | * | 17.3180 | 17.6506 | 19.0290 | 18.0111
330304 | 1.2941 | 1.3457 | 29.2207 | 31.1146 | 33.4431 | 31.2960
330306 | 1.4680 | 1.3457 | 29.6641 | 30.4426 | 30.7551 | 30.2963
330307 | 1.2573 | 0.9640 | 23.2838 | 23.8583 | 25.4128 | 24.2157
330314 | 1.1741 | 1.2928 | 25.5405 | 26.2954 | 26.0150 | 25.9486
330316 | 1.2851 | 1.3457 | 27.9277 | 33.7857 | 33.1512 | 31.5975
330327 | *** | * | 20.1705 | 19.3465 | * | 19.7556
330331 | 1.2433 | 1.3065 | 32.3249 | 34.6302 | 34.7052 | 33.8757
330332 | 1.1981 | 1.3065 | 27.6954 | 30.5104 | 31.8389 | 30.2518
330333 | 0.9893 | 1.3065 | 28.8819 | 29.7725 | 33.7637 | 30.4380
330336 | *** | * | 27.9163 | 32.9548 | * | 30.4243
330338 | 1.2902 | 1.3457 | 23.6142 | 25.4319 | 27.3859 | 25.4439
330339 | 0.9776 | 0.8668 | 20.2382 | 20.8424 | 22.2812 | 21.1384
330340 | 1.2005 | 1.2928 | 28.2732 | 29.8140 | 31.4322 | 29.8422
330350 | 1.4881 | 1.3457 | 33.5493 | 35.5656 | 39.3541 | 36.2620
330353 | 1.2151 | 1.3457 | 34.2260 | 35.6821 | 38.6962 | 36.2694
330357 | 1.3544 | 1.3457 | 36.8598 | 36.5461 | 34.3965 | 35.8599
330372 | 1.3002 | 1.3065 | 23.5381 | 28.2490 | 30.1505 | 27.2489
330385 | 1.0942 | 1.3457 | 37.5523 | 44.3387 | 42.6671 | 41.4753
330386 | 1.1954 | 1.1034 | 21.4363 | 25.2064 | 25.9228 | 24.2190
330389 | 1.9261 | 1.3457 | 33.1192 | 32.2112 | 34.7552 | 33.3831
330390 | 1.1602 | 1.3457 | 31.7344 | 32.7450 | 33.2628 | 32.5510
330393 | 1.6669 | 1.2928 | 31.9272 | 33.0953 | 34.8213 | 33.3446
330394 | 1.6139 | 0.8464 | 19.6892 | 21.3678 | 23.3505 | 21.4848
330395 | 1.3676 | 1.3457 | 33.2318 | 32.1089 | 35.4619 | 33.4108
330396 | 1.3164 | 1.3457 | 32.8517 | 31.2429 | 32.5345 | 32.2160
330397 | 1.3745 | 1.3457 | 34.6435 | 40.0884 | 34.5110 | 36.2414
330399 | 1.1543 | 1.3457 | 32.7149 | 32.1248 | 33.6753 | 32.8679
330400 | *** | * | 16.8168 | * | * | 16.8168
330401 | 1.2287 | 1.2928 | * | 33.8633 | 35.7435 | 34.8514
330402 | 0.8039 | 0.9961 | * | * | 21.3302 | 21.3302
340001 | 1.5014 | 0.9698 | 22.0257 | 21.6113 | 23.2436 | 22.3143
340002 | 1.6838 | 0.9628 | 22.9425 | 24.0145 | 25.1099 | 24.0577
340003 | 1.1241 | 0.8570 | 19.6545 | 20.8205 | 21.5562 | 20.7086
340004 | 1.4378 | 0.9267 | 23.0890 | 23.3756 | 24.2055 | 23.5853
340005 | 1.0405 | 0.8570 | 16.6909 | 20.8150 | 22.9830 | 19.8775
340006 | *** | * | 16.1378 | * | * | 16.1378
340007 | 0.5551 | 0.9209 | 18.3760 | 19.5208 | 21.1519 | 19.6545
340008 | 1.1018 | 0.9003 | 22.6570 | 22.7338 | 24.2089 | 23.2028
340009 | *** | * | 20.6154 | * | * | 20.6154
340010 | 1.3403 | 0.9780 | 20.6547 | 21.3024 | 23.1349 | 21.7023
340011 | 1.0537 | 0.8570 | 17.4534 | 18.1926 | 18.1843 | 17.9572
340012 | 1.2396 | 0.8570 | 19.3651 | 19.6350 | 22.0583 | 20.3718
340013 | 1.2346 | 0.9628 | 21.5130 | 21.0066 | 22.4787 | 21.6596
340014 | 1.5852 | 0.9410 | 21.9804 | 22.6757 | 24.4831 | 23.0786
340015 ʰ | 1.3541 | 0.9965 | 20.3493 | 24.3410 | 24.3870 | 22.9723
340016 | 1.1855 | 0.8570 | 19.4160 | 20.2859 | 22.7574 | 20.8332
340017 | 1.2637 | 0.9250 | 20.6263 | 21.7083 | 22.8879 | 21.7832
340018 | 1.1200 | 0.9378 | 16.4611 | 17.3480 | 20.3840 | 18.0737
340019 | 0.9998 | 0.9410 | 15.9037 | 16.7901 | 17.8768 | 16.8598
340020 | 1.1563 | 0.8777 | 19.2392 | 21.3385 | 24.1955 | 21.6666
340021 | 1.2701 | 0.9628 | 22.0220 | 22.9208 | 23.6884 | 22.9128
340022 | 1.0255 | * | 20.6484 | 19.9078 | * | 20.2858
340023 | 1.3641 | 0.9250 | 19.9023 | 22.3590 | 23.2844 | 21.8867
340024 | 1.1577 | 0.8570 | 19.1430 | 20.4906 | 21.2671 | 20.3132
340025 | 1.2658 | 0.9208 | 19.1770 | 20.2864 | 20.9915 | 20.1604
340027 | 1.1579 | 0.9179 | 19.4907 | 21.0975 | 22.6107 | 21.0093
340028 | 1.5564 | 0.9363 | 20.6496 | 22.2028 | 24.6836 | 22.5102
340030 | 2.0448 | 1.0322 | 23.9505 | 26.7753 | 27.4664 | 26.0871
340031 | *** | * | 15.4935 | * | * | 15.4935
340032 | 1.4538 | 0.9698 | 22.0245 | 23.2204 | 24.8031 | 23.4106
340035 | 1.0010 | 0.8570 | 18.5883 | 16.4821 | 21.2407 | 18.5593
340036 | 1.1519 | 1.0129 | 18.4203 | 20.8313 | 22.2089 | 20.6350
340037 | 1.0461 | 0.8786 | 18.3655 | 21.9524 | 22.5089 | 21.0772
340038 | 1.2057 | 0.8570 | 20.3091 | 13.9936 | 14.0203 | 15.4496
340039 | 1.2275 | 0.9628 | 22.4020 | 24.8246 | 25.6605 | 24.3326
340040 | 1.8857 | 0.9179 | 21.1397 | 22.4777 | 24.1523 | 22.5957
340041 | 1.1977 | 0.9510 | 16.3200 | 17.6319 | 23.0497 | 18.8452
340042 | 1.1151 | 0.8570 | 19.1386 | 21.1107 | 22.1107 | 20.7523
340044 | 0.9412 | 0.8570 | 18.9562 | 18.2154 | 21.7089 | 19.4477
340045 | 1.0180 | 0.8570 | 20.2642 | 17.4066 | 14.5004 | 16.7029
340047 | 1.9521 | 0.9410 | 21.5178 | 22.5199 | 25.3727 | 23.1966
340049 | 1.9631 | 1.0322 | 17.2986 | 21.2734 | 22.3082 | 20.5126
340050 | 1.0499 | 0.9003 | 20.6831 | 20.3262 | 21.4511 | 20.8336
340051 | 1.2252 | 0.9344 | 19.0282 | 20.3057 | 21.9069 | 20.4742
340052 | *** | * | 26.2243 | * | * | 26.2243
340053 | 1.5631 | 0.9698 | 23.2410 | 24.9768 | 26.9361 | 25.0126
340054 | *** | * | 16.6208 | * | * | 16.6208
340055 | 1.1554 | 0.9510 | 20.8254 | 23.2990 | 24.3728 | 22.8810
340060 | 1.0457 | 0.9209 | 20.8570 | 20.8077 | 22.4303 | 21.3720
340061 | 1.8361 | 1.0322 | 23.7173 | 25.1081 | 26.6657 | 25.1862
340063 | *** | * | 26.4131 | * | * | 26.4131
340064 | 1.0979 | 0.8570 | 17.6106 | 19.4523 | 22.3631 | 19.7545
340065 | 1.2496 | 0.8570 | 23.2605 | 20.3296 | 20.8413 | 21.2925
340067 | *** | * | 22.4054 | 22.2565 | * | 22.3296
340068 | 1.1676 | 0.9225 | 18.8758 | 19.4487 | 20.8600 | 19.7382
340069 | 1.8629 | 1.0182 | 22.5995 | 24.4650 | 27.5045 | 24.9498
340070 | 1.2792 | 0.9587 | 21.3511 | 22.2605 | 23.6045 | 22.4345
340071 | 1.1113 | 0.9780 | 19.3679 | 19.9561 | 22.1854 | 20.5344
340072 | 1.1430 | 0.8570 | 18.7920 | 19.2773 | 21.3320 | 19.7735
340073 | 1.3598 | 1.0182 | 24.0794 | 26.6829 | 29.4189 | 26.8823
340075 | 1.2293 | 0.9510 | 19.7450 | 23.2904 | 24.1297 | 22.4060
340084 | 1.1121 | 0.9698 | 19.6087 | 20.8175 | 21.3227 | 20.5838
340085 ʰ | 1.1633 | 0.9644 | 20.3684 | 21.7112 | 23.0890 | 21.7447
340087 | 1.1837 | 0.8570 | 20.2445 | 17.8215 | 18.4202 | 18.8428
340088 | 1.3263 | 0.9250 | 22.6462 | 22.8687 | 24.3299 | 23.2665
340089 | *** | * | 16.1321 | * | * | 16.1321
340090 | 1.1651 | 1.0129 | 18.7701 | 20.3261 | 21.7173 | 20.3119
340091 | 1.5160 | 0.9267 | 21.2665 | 23.1430 | 24.9411 | 23.1446
340093 | *** | * | 16.5452 | * | * | 16.5452
340094 | *** | * | 21.0091 | * | * | 21.0091
340096 ʰ | 1.2582 | 0.9644 | 20.9686 | 22.1174 | 23.6345 | 22.2303
340097 | 1.1352 | 0.8570 | 20.0302 | 20.8690 | 22.5775 | 21.2019
340098 | 1.5191 | 0.9698 | 23.4949 | 24.2262 | 25.4823 | 24.4428
340099 | 1.2267 | 0.8570 | 16.9979 | 17.5114 | 20.0178 | 18.2218
340101 | *** | * | 20.7841 | * | * | 20.7841
340104 | 0.9366 | 0.8786 | 12.1845 | 12.9949 | 14.3252 | 13.2123
340106 | 1.0942 | 0.8570 | 19.1147 | 20.1076 | 22.6979 | 20.7362
340107 | 1.2610 | 0.8997 | 20.7601 | 21.0960 | 22.5583 | 21.4887
340109 | 1.2500 | 0.8928 | 19.3357 | 20.4341 | 22.3826 | 20.7535
340111 | *** | * | 17.2127 | * | * | 17.2127
340112 | 1.1575 | * | 16.9592 | * | * | 16.9592
340113 | 1.8741 | 0.9698 | 24.4222 | 25.0729 | 26.0776 | 25.2153
340114 | 1.5464 | 1.0182 | 21.7750 | 19.9142 | 25.4533 | 22.2560
340115 | 1.5434 | 1.0213 | 24.7924 | 23.8284 | 25.1907 | 24.6005
340116 | 1.6503 | 0.9510 | 21.6744 | 23.9643 | 26.1641 | 23.9942
340119 | 1.1663 | 0.9698 | 20.5394 | 21.2239 | 22.4821 | 21.4447
340120 | 1.0821 | 0.8570 | 16.9847 | 19.9860 | 21.8548 | 19.6503
340121 | 1.0306 | 0.9225 | 19.0420 | 19.9409 | 20.3701 | 19.8086
340123 | 1.1735 | 0.9267 | 21.5041 | 22.3711 | 23.1879 | 22.4178
340124 | 1.0790 | 0.9780 | 17.5411 | 17.5691 | 18.3866 | 17.8294
340126 | 1.2412 | 0.9780 | 21.2045 | 21.4271 | 23.5405 | 22.0691
340127 | 1.1328 | 1.0213 | 21.4797 | 22.9672 | 24.6096 | 23.1058
340129 | 1.2708 | 0.9628 | 21.0773 | 22.3260 | 24.1356 | 22.7251
340130 | 1.3665 | 0.9698 | 20.5851 | 22.7687 | 23.0937 | 22.1960
340131 | 1.4555 | 0.9179 | 23.2478 | 24.1370 | 25.2989 | 24.2606
340132 | 1.2057 | 0.8570 | 17.7110 | 17.8771 | 20.4222 | 18.6810
340133 | 1.0005 | 0.8570 | 17.5170 | 23.1444 | 22.1588 | 20.7607
340137 | 1.0508 | 0.9510 | 39.9826 | 33.1751 | 29.9903 | 33.7889
340138 | 0.8802 | 1.0182 | * | 29.5286 | 27.4767 | 28.5643
340141 | 1.5965 | 0.9225 | 23.2961 | 24.2033 | 24.8132 | 24.1655
340142 | 1.1900 | 0.8570 | 18.1824 | 20.4320 | 22.1298 | 20.3003
340143 | 1.4520 | 0.9510 | 21.9304 | 23.0416 | 24.8904 | 23.2152
340144 | 1.2472 | 0.9628 | 22.8634 | 25.4598 | 25.6538 | 24.6620
340145 | 1.3442 | 0.9628 | 21.5958 | 21.8120 | 23.7028 | 22.3475
340146 | 1.0590 | * | 19.1306 | 20.7252 | 18.8354 | 19.5242
340147 | 1.2291 | 0.9780 | 21.5912 | 22.6057 | 23.9998 | 22.7397
340148 | 1.3415 | 0.9410 | 20.6790 | 20.8156 | 22.4205 | 21.3545
340151 | 1.1846 | 0.8570 | 19.0779 | 19.2593 | 22.2613 | 20.1580
340153 | 1.8698 | 0.9698 | 21.7375 | 23.7426 | 25.7078 | 23.6658
340155 | 1.4158 | 1.0322 | 25.0965 | 26.3663 | 28.8758 | 26.7492
340158 | 1.0776 | 0.9225 | 20.0921 | 21.7489 | 23.4724 | 21.9061
340159 | 1.1192 | 1.0322 | 19.4992 | 21.2983 | 22.1872 | 21.0139
340160 | 1.2688 | 0.8570 | 17.1963 | 18.7569 | 19.1330 | 18.4042
340166 | 1.3427 | 0.9698 | 22.0519 | 22.8349 | 25.7398 | 23.6431
340168 | 0.5159 | 0.9225 | 15.4249 | 16.8278 | 16.8076 | 16.3574
340171 | 1.1592 | 0.9698 | 22.7304 | 25.9603 | 27.2074 | 25.4029
340173 | 1.1944 | 1.0182 | 23.3690 | 23.7037 | 26.6128 | 24.7042
340176 | *** | * | * | 26.5277 | * | 26.5277
350001 | *** | * | 15.6193 | * | * | 15.6193
350002 | 1.7340 | 0.9189 | 19.1931 | 20.4398 | 20.6474 | 20.1088
350003 | 1.1656 | 0.9189 | 20.0664 | 21.0585 | 25.3076 | 21.9679
350004 | *** | * | 25.1976 | 28.3773 | 27.5891 | 26.8643
350005 | *** | * | 20.7468 | * | * | 20.7468
350006 | 1.6242 | 0.9189 | 19.1257 | 19.7577 | 19.5870 | 19.5034
350007 | *** | * | 13.9966 | * | * | 13.9966
350008 | *** | * | 23.4052 | * | * | 23.4052
350009 | 1.0938 | 0.9189 | 19.3668 | 20.2558 | 20.7014 | 20.1101
350010 | 1.0984 | 0.9189 | 16.7774 | 17.2489 | 18.5682 | 17.5061
350011 | 1.9597 | 0.9189 | 20.6809 | 21.9111 | 22.3896 | 21.6745
350012 | *** | * | 16.0990 | * | * | 16.0990
350013 | *** | * | 17.8145 | * | * | 17.8145
350014 | 1.0054 | 0.9189 | 18.6787 | 16.1718 | 18.5360 | 17.8143
350015 | 1.7563 | 0.9189 | 17.5658 | 18.5437 | 18.6381 | 18.2634
350017 | 1.4094 | 0.9189 | 18.0840 | 19.1952 | 20.1943 | 19.1643
350018 | *** | * | 16.3211 | * | * | 16.3211
350019 ² | 1.6877 | 0.9189 | 20.6743 | 21.3589 | 24.2382 | 22.0663
350021 | *** | * | 16.3394 | * | * | 16.3394
350023 | *** | * | 18.3252 | * | * | 18.3252
350024 | *** | * | 15.7510 | * | * | 15.7510
350025 | *** | * | 14.6098 | * | * | 14.6098
350027 | 1.0440 | 0.7750 | 17.5881 | 17.6731 | 14.2262 | 16.1496
350030 | 0.9876 | 0.9189 | 18.7993 | 18.8822 | 19.2282 | 18.9737
350033 | *** | * | 16.0903 | * | * | 16.0903
350035 | *** | * | 12.6495 | * | * | 12.6495
350038 | *** | * | 19.5497 | * | * | 19.5497
350039 | *** | * | 14.8599 | * | * | 14.8599
350041 | *** | * | 23.1151 | * | * | 23.1151
350042 | *** | * | 19.3370 | * | * | 19.3370
350043 | *** | * | 17.6722 | 18.8378 | 20.9732 | 19.2355
350044 | *** | * | 10.9690 | * | * | 10.9690
350047 | *** | * | 19.9749 | * | * | 19.9749
350049 | *** | * | 16.8321 | * | * | 16.8321
350050 | *** | * | 25.2746 | * | * | 25.2746
350051 | *** | * | 16.9202 | * | * | 16.9202
350053 | *** | * | 16.7455 | * | * | 16.7455
350055 | *** | * | 16.1690 | * | * | 16.1690
350056 | *** | * | 15.7752 | * | * | 15.7752
350058 | 0.9729 | * | 16.1013 | 15.0196 | * | 15.5930
350060 | *** | * | 10.5325 | * | * | 10.5325
350061 | 1.0064 | 0.9189 | 19.6460 | 18.8494 | 18.6546 | 19.0761
350070 | 1.9966 | 0.9189 | * | * | 24.4464 | 24.4464
360001 | 1.2736 | 0.9536 | 20.3515 | 22.2387 | 23.7750 | 22.1149
360002 | 1.1570 | 0.8726 | 19.6145 | 20.7586 | 22.6923 | 21.0349
360003 | 1.8330 | 0.9536 | 23.2905 | 24.4144 | 26.3180 | 24.6795
360006 | 2.0806 | 0.9743 | 22.6333 | 24.0814 | 25.7041 | 24.2279
360007 | *** | * | 15.3656 | 19.1315 | * | 16.9837
360008 | 1.2665 | 0.9009 | 19.8034 | 21.3795 | 23.2545 | 21.5453
360009 | 1.6061 | 0.9324 | 19.6277 | 22.4076 | 23.2659 | 21.7253
360010 | 1.2628 | 0.9042 | 20.5934 | 20.6290 | 22.0262 | 21.1184
360011 | 1.2851 | 0.9610 | 19.5383 | 21.4293 | 22.4482 | 21.0624
360012 | 1.4081 | 0.9743 | 23.0125 | 24.3618 | 25.5913 | 24.3980
360013 | 1.1568 | 0.8892 | 22.3407 | 24.4232 | 25.1588 | 24.0203
360014 | 1.1880 | 0.9610 | 22.9930 | 22.9372 | 23.8305 | 23.2633
360016 | 1.4531 | 0.9536 | 21.3967 | 22.8430 | 24.6587 | 22.9717
360017 | 1.8165 | 0.9743 | 22.7446 | 23.6181 | 25.4969 | 24.0980
360018 | *** | * | 24.6694 | 29.9085 | * | 26.7695
360019 | 1.2342 | 0.9042 | 21.4708 | 23.3006 | 24.1105 | 22.9686
360020 | 1.6248 | 0.9042 | 21.6607 | 21.5085 | 22.3795 | 21.8568
360024 | *** | * | 20.9408 | 22.5356 | 24.0612 | 22.4920
360025 | 1.4124 | 0.9644 | 20.9266 | 21.6676 | 23.6574 | 22.1153
360026 | 1.2550 | 0.9299 | 18.6739 | 20.8825 | 22.3303 | 20.6482
360027 | 1.5275 | 0.9042 | 22.8098 | 23.5907 | 24.7093 | 23.7205
360029 | 1.1258 | 0.9514 | 19.7466 | 20.4924 | 20.8778 | 20.3858
360030 | 1.3437 | * | 19.0551 | * | * | 19.0551
360031 | *** | * | 21.0481 | 24.3482 | 24.4324 | 23.1415
360032 ʰ | 1.1070 | 0.9324 | 19.8366 | 21.1743 | 22.9759 | 21.3486
360034 | 1.0605 | 0.8989 | 19.4981 | 21.5621 | 25.1366 | 22.0889
360035 | 1.7101 | 0.9743 | 22.6982 | 24.2433 | 25.6895 | 24.2489
360036 | 1.1871 | 0.9644 | 21.4486 | 22.3567 | 25.0910 | 22.9963
360037 | 1.4119 | 0.9644 | 23.7504 | 32.6245 | 25.1615 | 26.4392
360038 | 1.4399 | 0.9536 | 21.4804 | 23.4855 | 24.8294 | 23.3535
360039 | 1.4598 | 0.9610 | 19.3703 | 23.4642 | 22.5921 | 21.7380
360040 | 1.1722 | 0.8726 | 19.9750 | 21.3307 | 22.8729 | 21.3907
360041 | 1.4621 | 0.9644 | 21.9093 | 22.1352 | 23.2625 | 22.4537
360042 | *** | * | 19.3774 | * | * | 19.3774
360044 | 1.1444 | 0.8726 | 17.8417 | 19.7212 | 20.4724 | 19.3262
360045 | *** | * | 22.8112 | * | * | 22.8112
360046 | 1.1984 | 0.9536 | 21.4291 | 22.8425 | 23.8918 | 22.7344
360047 | 1.0200 | 0.8726 | 15.8279 | 17.5885 | 17.1973 | 16.8947
360048 | 1.7893 | 0.9514 | 25.6259 | 24.7150 | 27.2274 | 25.8563
360049 | 1.1497 | 0.9644 | * | 22.4939 | 24.2605 | 23.4456
360050 | *** | * | 15.6847 | * | * | 15.6847
360051 | 1.5895 | 0.9299 | 21.2225 | 23.0658 | 25.1785 | 23.2129
360052 | 1.4469 | 0.9299 | 19.8037 | 22.5005 | 23.3285 | 21.9559
360054 | 1.2291 | 0.8726 | 17.5714 | 19.2884 | 20.3176 | 19.0797
360055 | 1.4135 | 0.9375 | 22.8755 | 23.5586 | 25.1475 | 23.8579
360056 | 1.5302 | 0.9536 | 23.4405 | 22.4475 | 23.4638 | 23.0837
360057 | *** | * | 16.0395 | * | * | 16.0395
360058 | 1.1185 | 0.8726 | 19.0439 | 21.0768 | 22.7943 | 20.9248
360059 | 1.5032 | 0.9644 | 23.2129 | 23.0775 | 25.5222 | 23.9103
360062 | 1.4660 | 0.9743 | 24.4898 | 24.5746 | 26.8091 | 25.3833
360063 | *** | * | 20.2671 | * | * | 20.2671
360064 | 1.5924 | 0.9375 | 20.7659 | 21.3424 | 22.8729 | 21.7149
360065 | 1.1301 | 0.9644 | 22.3443 | 22.9727 | 24.0868 | 23.1688
360066 | 1.5487 | 0.9324 | 24.1295 | 24.6806 | 25.2316 | 24.7073
360067 | *** | * | 17.3734 | * | * | 17.3734
360068 | 1.8446 | 0.9514 | 22.6027 | 22.1110 | 23.7895 | 22.8545
360069 | 1.1486 | 0.9514 | 18.5382 | 20.5349 | 25.7032 | 21.5261
360070 | 1.6719 | 0.8936 | 19.4700 | 21.8228 | 23.1687 | 21.4701
360071 ʰ | 1.1921 | 0.9324 | 19.6873 | 21.4478 | 21.6176 | 20.8985
360072 | 1.3906 | 0.9743 | 20.8819 | 21.3736 | 23.0464 | 21.8052
360074 | 1.3426 | 0.9514 | 19.9947 | 22.2368 | 23.6172 | 22.0110
360075 | 1.2394 | 0.9644 | 27.6991 | 23.8492 | 24.7610 | 26.5971
360076 | 1.3894 | 0.9536 | 21.0402 | 22.5863 | 22.5943 | 22.0934
360077 | 1.5055 | 0.9644 | 22.2964 | 23.3686 | 24.7086 | 23.4752
360078 | 1.2278 | 0.9644 | 22.7743 | 23.3799 | 24.6821 | 23.6285
360079 | 1.8003 | 0.9299 | 23.9491 | 25.9623 | 25.8762 | 25.3121
360080 | 1.0870 | 0.8726 | 18.0392 | 18.7213 | 19.5436 | 18.7880
360081 | 1.3183 | 0.9514 | 20.7477 | 22.1973 | 25.1439 | 22.6318
360082 | 1.3535 | 0.9644 | 22.9390 | 25.2254 | 27.4264 | 25.3363
360084 | 1.6099 | 0.8936 | 22.1699 | 23.3257 | 25.2059 | 23.6474
360085 | 2.0102 | 0.9743 | 24.8010 | 24.6618 | 27.5792 | 25.7394
360086 | 1.4981 | 0.9152 | 20.5858 | 21.5983 | 22.3005 | 21.4743
360087 | 1.4253 | 0.9644 | 21.1621 | 23.9638 | 25.9131 | 23.6955
360088 | *** | * | 20.5703 | * | * | 20.5703
360089 | 1.1447 | 0.8726 | 19.5261 | 21.0229 | 21.0253 | 20.5486
360090 | 1.5173 | 0.9514 | 21.2072 | 22.6236 | 24.4291 | 22.7782
360091 | 1.2673 | 0.9644 | 22.6510 | 23.5759 | 26.0541 | 24.1194
360092 | 1.1988 | 0.9734 | 20.9588 | 21.9732 | 23.5100 | 22.2071
360093 | 1.0906 | 0.8846 | 21.0134 | 21.4623 | 24.1238 | 22.2032
360094 | *** | * | 21.1952 | 22.6440 | 27.1864 | 23.2312
360095 | 1.3057 | 0.9324 | 21.3505 | 23.6518 | 24.6984 | 23.2479
360096 | 1.1030 | 0.9292 | 20.9838 | 22.0673 | 22.2333 | 21.7682
360098 | 1.4675 | 0.9644 | 20.8049 | 22.7644 | 23.6413 | 22.4024
360099 | 0.9935 | * | 20.8801 | 20.8524 | * | 20.8660
360100 | 1.2083 | 0.8936 | 19.9768 | 21.5911 | 19.0616 | 20.0911
360101 | 1.3676 | 0.9644 | 24.1551 | 26.2875 | 27.7584 | 26.2742
360106 | 1.0821 | 0.8726 | 18.9779 | 19.8658 | 21.6450 | 20.1693
360107 | 1.0517 | 0.9514 | 21.9938 | 23.6880 | 24.5365 | 23.4443
360108 | *** | * | 19.0649 | * | * | 19.0649
360109 | 1.0849 | 0.8726 | 17.3565 | 23.0178 | 24.3236 | 21.3953
360112 | 1.8968 | 1.0756 | 25.7920 | 25.5910 | 26.7880 | 26.0555
360113 | 1.2167 | 0.9536 | 22.8088 | 22.3348 | 23.5138 | 22.8738
360114 | 1.0799 | * | 19.4212 | * | * | 19.4212
360115 | 1.3556 | 0.9644 | 21.0104 | 22.3926 | 24.0232 | 22.5083
360116 | 1.1454 | 0.9536 | 20.1408 | 21.3809 | 23.4049 | 21.6591
360118 | 1.5235 | 0.9200 | 21.0235 | 23.0070 | 24.2526 | 22.8104
360121 | 1.2626 | 1.0756 | 21.9111 | 23.2515 | 25.2037 | 23.4630
360123 | 1.3538 | 0.9644 | 21.9985 | 23.1310 | 24.1761 | 23.2095
360125 | 1.2091 | 0.9644 | 21.6675 | 21.1408 | 22.6871 | 21.8339
360126 | *** | * | * | 22.2409 | * | 22.2409
360127 | *** | * | 18.2150 | * | * | 18.2150
360128 | 1.0295 | 0.8726 | 17.5556 | 18.0356 | 18.5954 | 18.0896
360129 | 0.9209 | 0.8726 | 17.2309 | 17.9151 | 19.5336 | 18.2748
360130 | 1.4417 | 0.9644 | 19.8906 | 20.1257 | 21.7015 | 20.5164
360131 | 1.2853 | 0.8936 | 20.4123 | 21.7838 | 23.1730 | 21.8056
360132 | 1.2634 | 0.9536 | 21.0162 | 23.4179 | 25.7991 | 23.4733
360133 | 1.6759 | 0.9299 | 22.1957 | 22.0958 | 23.9457 | 22.7800
360134 | 1.6455 | 0.9536 | 21.6081 | 23.6817 | 25.3013 | 23.5609
360136 | *** | * | 18.5687 | * | * | 18.5687
360137 | 1.7473 | 0.9644 | 23.1867 | 23.8947 | 25.7647 | 24.2713
360140 | *** | * | 18.3463 | * | * | 18.3463
360141 | 1.6710 | 0.9375 | 23.5979 | 25.1442 | 31.0127 | 26.6136
360142 | 0.9526 | 0.8726 | 19.6189 | 20.6728 | 21.2084 | 20.5522
360143 | 1.2767 | 0.9644 | 20.9158 | 22.2275 | 23.8938 | 22.3918
360144 | 1.3167 | 0.9644 | 20.9386 | 24.7973 | 26.7160 | 24.2347
360145 | 1.8405 | 0.9644 | 21.2931 | 22.4813 | 23.4743 | 22.4343
360147 | 1.3298 | 0.8726 | 18.7258 | 20.0409 | 22.7172 | 20.6003
360148 | 1.0954 | 0.8726 | 20.3120 | 21.3211 | 24.4873 | 22.0112
360150 | 1.2507 | 0.9042 | 23.1859 | 24.8485 | 25.8703 | 24.6077
360151 | 1.4367 | 0.8936 | 20.5594 | 21.7215 | 22.2179 | 21.4897
360152 | 1.4352 | 0.9743 | 20.9704 | 22.9352 | 24.9894 | 22.8599
360153 | 1.0290 | 0.8726 | 16.1021 | 17.3367 | 19.0844 | 17.4210
360154 | 0.9907 | * | 14.9605 | 16.2416 | 17.1274 | 16.0897
360155 | 1.4551 | 0.9644 | 22.3347 | 23.0020 | 23.9466 | 23.1289
360156 | 1.1456 | 0.8939 | 19.9382 | 21.2853 | 22.6709 | 21.3292
360159 | 1.2760 | 0.9610 | 22.7992 | 23.3359 | 25.7108 | 23.9547
360161 | 1.3332 | 0.9375 | 19.6266 | 21.5114 | 22.6005 | 21.2840
360163 | 1.8699 | 0.9536 | 22.1012 | 23.1500 | 25.7966 | 23.6640
360165 | *** | * | 19.6205 | * | * | 19.6205
360170 | 1.1018 | 0.9743 | 19.7980 | 22.2815 | 22.9359 | 21.6975
360172 | 1.3805 | 0.9644 | 22.3294 | 22.7104 | 23.4727 | 22.8461
360174 | 1.2312 | 0.9299 | 20.5874 | 21.7129 | 22.8167 | 21.7487
360175 | 1.1817 | 0.9610 | 22.0274 | 22.7887 | 24.6152 | 23.1831
360176 | 0.9906 | * | 17.6743 | * | * | 17.6743
360177 | 1.1901 | 0.8726 | 19.6992 | 20.8194 | 23.4256 | 21.3525
360178 | 1.1917 | * | 18.0773 | 18.2393 | * | 18.1595
360179 | 1.5283 | 0.9536 | 21.3520 | 23.0678 | 25.9429 | 23.4000
360180 | 2.3386 | 0.9644 | 22.9260 | 25.1499 | 26.8720 | 25.0696
360185 | 1.1585 | 0.9292 | 20.0848 | 21.1245 | 21.8641 | 21.0491
360186 | *** | * | 18.1254 | * | * | 18.1254
360187 | 1.5751 | 0.9152 | 20.8423 | 21.9499 | 23.8362 | 22.2169
360188 | *** | * | 16.4330 | * | * | 16.4330
360189 | 1.1223 | 0.9743 | 19.0481 | 20.0275 | 24.2512 | 21.0645
360192 | 1.3028 | 0.9644 | 23.9969 | 24.9995 | 26.2976 | 25.1276
360194 ʰ | 1.1460 | 0.9200 | 19.3901 | 20.3677 | 22.3297 | 20.7198
360195 | 1.0473 | 0.9644 | 21.2801 | 23.1897 | 25.8043 | 23.5294
360197 | 1.1044 | 0.9610 | 21.6110 | 23.1378 | 24.7539 | 23.1866
360200 | *** | * | 19.5866 | * | * | 19.5866
360203 | 1.1062 | 0.8726 | 17.9698 | 19.3642 | 21.5564 | 19.6801
360210 | 1.2267 | 0.9743 | 21.5961 | 25.0811 | 26.5665 | 24.3949
360211 | 1.5079 | 0.8726 | 22.0011 | 22.4529 | 23.0884 | 22.5358
360212 | 1.3547 | 0.9644 | 21.0632 | 22.8041 | 24.5310 | 22.7981
360213 | *** | * | 20.5448 | * | * | 20.5448
360218 | 1.1962 | 0.9743 | 20.7709 | 22.8060 | 24.4720 | 22.7107
360230 | 1.5573 | 0.9644 | 21.2417 | 24.7681 | 26.6444 | 24.2478
360231 | *** | * | 12.7388 | * | * | 12.7388
360234 | 1.2357 | 0.9536 | 21.0472 | 22.1787 | 23.3325 | 22.1974
360236 | 1.1633 | 0.9536 | 20.5683 | 22.8821 | 21.3795 | 21.6061
360239 | 1.2556 | 0.9299 | 20.9440 | 23.5802 | 24.4398 | 23.1383
360241 | 0.4470 | 0.9042 | 23.7678 | 23.4061 | 24.8089 | 23.8245
360245 | 0.6142 | 0.9644 | 16.7956 | 18.1015 | 18.7966 | 17.9691
360247 | 0.3999 | 0.9743 | * | * | 25.1083 | 25.1083
360250 | *** | * | 50.5105 | * | * | 50.5105
360253 | 2.1828 | 0.9299 | * | 31.3006 | 28.2555 | 29.5019
360254 | *** | * | * | 30.0792 | * | 30.0792
360255 | *** | * | * | 15.0963 | * | 15.0963
360257 | 1.1157 | * | * | * | 17.9652 | 17.9652
370001 | 1.6954 | 0.8737 | 22.0586 | 25.5838 | 26.2391 | 24.5772
370002 | 1.2309 | 0.7711 | 16.1854 | 18.9544 | 19.7718 | 18.3382
370004 | 1.0763 | 0.8573 | 22.5027 | 21.5041 | 24.7694 | 22.8865
370006 | 1.1187 | 0.7711 | 15.7367 | 15.6333 | 16.9469 | 16.0911
370007 | 1.1420 | 0.7711 | 14.4961 | 16.7598 | 17.2084 | 16.1203
370008 | 1.4296 | 0.8985 | 18.5253 | 22.1596 | 22.7419 | 21.1312
370011 | 1.0500 | 0.8985 | 16.1757 | 17.1458 | 19.2266 | 17.5769
370012 | *** | * | 13.3824 | * | * | 13.3824
370013 | 1.5187 | 0.8985 | 19.3237 | 21.1512 | 22.6451 | 21.1093
370014 | 1.0679 | 0.9106 | 22.7976 | 21.8473 | 24.8138 | 23.1705
370015 | 0.9755 | 0.8737 | 18.9169 | 20.3966 | 21.1833 | 20.1480
370016 ʰ | 1.5395 | 0.9008 | 20.0888 | 20.4407 | 24.2737 | 21.4955
370018 | 1.4003 | 0.8737 | 18.7928 | 20.8357 | 23.4286 | 20.9864
370019 | 1.2871 | 0.7711 | 16.1367 | 18.1260 | 19.6761 | 17.9639
370020 | 1.2279 | 0.7711 | 15.6057 | 16.8631 | 17.4835 | 16.6385
370022 | 1.2059 | 0.7711 | 18.2109 | 20.2432 | 18.4217 | 18.9710
370023 | 1.2613 | 0.7795 | 18.1255 | 19.3386 | 20.6002 | 19.3777
370025 | 1.3201 | 0.8737 | 19.1013 | 20.2845 | 22.0287 | 20.4896
370026 ʰ | 1.4813 | 0.9008 | 18.6982 | 21.9140 | 22.5734 | 21.1360
370028 | 1.8620 | 0.8985 | 22.1766 | 24.1009 | 24.8661 | 23.7388
370029 | 1.0880 | 0.7711 | 19.3285 | 19.5811 | 22.1163 | 20.3535
370030 | 1.0382 | 0.7711 | 18.4568 | 18.6541 | 20.3315 | 19.1241
370032 | 1.5094 | 0.8985 | 18.9050 | 20.0827 | 21.6029 | 20.2653
370033 | *** | * | 15.3857 | * | * | 15.3857
370034 | 1.1721 | 0.8069 | 16.2204 | 16.1540 | 17.6247 | 16.6662
370036 | 0.9989 | 0.7711 | 11.7668 | 16.5844 | 16.9222 | 14.7407
370037 | 1.6554 | 0.8985 | 20.6493 | 21.0719 | 23.1256 | 21.6938
370038 | *** | * | 15.4551 | * | * | 15.4551
370039 | 1.0958 | 0.8737 | 22.7015 | 20.3137 | 21.0793 | 21.3263
370040 | 0.9928 | 0.8300 | 16.8127 | 18.9981 | 21.1061 | 18.9865
370041 | 0.8160 | 0.8737 | 14.7346 | 19.0144 | 22.0082 | 18.4514
370042 | 0.9123 | 0.7711 | 15.9006 | 14.0899 | 15.3613 | 15.1518
370043 | 0.9218 | * | 20.0992 | 20.2929 | 21.5588 | 20.6699
370045 | 0.9724 | 0.7711 | 11.6163 | 12.6613 | 14.6370 | 13.0002
370047 | 1.3905 | 0.9106 | 18.4743 | 19.4856 | 19.7112 | 19.2324
370048 | 1.0571 | 0.7711 | 17.0785 | 15.4768 | 17.7273 | 16.7427
370049 | 1.2966 | 0.8985 | 20.3405 | 20.4826 | 21.6878 | 20.8339
370051 | 1.0694 | 0.7711 | 11.4943 | 12.0397 | 14.6254 | 12.6833
370054 | 1.3428 | 0.8985 | 19.2294 | 20.3788 | 21.5521 | 20.4057
370056 | 1.6562 | 0.8249 | 19.2867 | 20.4872 | 21.7647 | 20.4979
370057 | 0.9702 | 0.8717 | 16.0301 | 17.3020 | 18.0426 | 17.1260
370059 | *** | * | 21.3104 | * | * | 21.3104
370060 | 0.9088 | 0.8737 | 17.9469 | 23.1897 | 23.8007 | 21.6796
370064 | 0.9214 | 0.7711 | 11.6347 | 11.9044 | 14.1879 | 12.5621
370065 | 1.0298 | 0.7832 | 18.2405 | 18.3966 | 20.6537 | 19.0797
370072 | 0.8005 | 0.7711 | 12.5765 | 12.5765 | 14.6387 | 13.1913
370076 | *** | * | 15.4067 | 19.0230 | 21.5461 | 18.6317
370078 | 1.5751 | 0.8737 | 15.2513 | 22.2318 | 23.9507 | 19.9554
370079 | *** | * | 17.5915 | * | * | 17.5915
370080 | 0.8985 | 0.7711 | 14.3546 | 16.1444 | 17.4857 | 15.9989
370082 | 0.8901 | * | 16.9716 | 12.6060 | * | 14.6866
370083 | 0.9133 | 0.7711 | 15.6824 | 18.5669 | 15.3447 | 16.4561
370084 | 0.9818 | 0.7711 | 15.6184 | 16.1278 | 17.2735 | 16.4207
370085 | *** | * | 13.7216 | * | * | 13.7216
370089 | 1.0950 | 0.7711 | 17.9243 | 18.0505 | 19.9021 | 18.6220
370091 | 1.7254 | 0.8737 | 20.8536 | 24.2117 | 22.9893 | 22.6115
370092 | 1.0042 | * | 16.8432 | * | * | 16.8432
370093 | 1.6738 | 0.8985 | 22.1966 | 23.5685 | 25.7296 | 23.9073
370094 | 1.3687 | 0.8985 | 19.5565 | 20.6507 | 22.0591 | 20.8273
370095 | 0.8682 | 0.7711 | 14.5909 | 14.3563 | 16.5310 | 15.1591
370097 | 1.3135 | 0.8249 | 19.3793 | 20.3218 | 21.7150 | 20.5580
370099 | 1.0724 | 0.8737 | 18.1468 | 20.2001 | 20.5217 | 19.6505
370100 | 0.9245 | 0.7711 | 12.9784 | 13.0681 | 14.1883 | 13.4294
370103 | 0.9190 | 0.7997 | 23.1347 | 15.6110 | 16.1408 | 18.5649
370105 | 1.8775 | 0.8985 | 25.1252 | 22.4493 | 22.1584 | 23.1230
370106 | 1.4050 | 0.8985 | 21.8937 | 24.1115 | 24.2393 | 23.4303
370108 | 0.9232 | * | 14.0191 | 13.8170 | * | 13.9197
370112 | 0.9216 | 0.8310 | 14.3385 | 16.5965 | 15.4941 | 15.4208
370113 | 1.1237 | 0.8670 | 20.3439 | 21.4267 | 23.3011 | 21.7070
370114 | 1.5699 | 0.8737 | 17.9757 | 19.4933 | 21.0603 | 19.5551
370121 | *** | * | 20.5488 | * | * | 20.5488
370123 | 1.2398 | 0.8985 | 19.7958 | 20.5180 | 22.8174 | 20.9622
370125 | 0.8961 | 0.7711 | 14.4664 | 17.9240 | 17.2013 | 16.4581
370133 | *** | * | 16.1855 | * | * | 16.1855
370138 | 1.0106 | 0.7711 | 17.4574 | 19.0403 | 19.8308 | 18.8087
370139 | 0.9557 | 0.7711 | 16.0897 | 16.3224 | 17.8900 | 16.7539
370140 | *** | * | 17.4950 | * | * | 17.4950
370141 | *** | * | 19.8607 | 24.7859 | * | 22.3186
370146 | *** | * | 13.9900 | * | * | 13.9900
370148 | 1.5111 | 0.8985 | 22.6237 | 22.8526 | 24.6194 | 23.4089
370149 ʰ | 1.2141 | 0.9341 | 18.0699 | 18.2260 | 21.0608 | 19.1566
370153 | 1.0745 | 0.7711 | 16.5267 | 17.9692 | 18.5417 | 17.6547
370154 | 0.9940 | * | 16.6687 | 17.4760 | * | 17.0679
370156 | 1.0239 | 0.7711 | 15.4303 | 15.9647 | 16.6572 | 16.0354
370158 | 1.0245 | 0.8985 | 16.3637 | 17.3412 | 17.3161 | 17.0080
370159 | *** | * | 25.5592 | * | * | 25.5592
370165 | *** | * | 12.9569 | * | * | 12.9569
370166 | 1.0132 | 0.8737 | 19.4219 | 21.3628 | 21.9070 | 20.8888
370169 | 0.9497 | 0.7711 | 14.8385 | 16.5607 | 15.7686 | 15.6596
370176 | 1.2029 | 0.8737 | 19.6537 | 22.1456 | 23.0324 | 21.6545
370177 | 1.0313 | 0.7711 | 14.1303 | 14.0279 | 15.6723 | 14.6097
370178 | 0.9194 | 0.7711 | 9.8655 | 12.9635 | 14.9767 | 12.3473
370179 | 0.8932 | 0.8025 | 23.8404 | 21.9673 | 22.8322 | 22.7553
370183 | 1.0559 | 0.8717 | 16.6061 | 17.9270 | 20.5025 | 18.2704
370186 | 0.9334 | * | 16.3671 | 16.3879 | * | 16.3778
370190 | 1.5008 | 0.8737 | 20.6399 | 22.3326 | 24.9455 | 22.7536
370192 | 1.8186 | 0.8985 | 21.8343 | 24.3832 | 26.1338 | 24.1955
370196 | 0.8685 | 0.8985 | * | 23.6334 | 29.4383 | 26.7910
370199 | 0.8349 | 0.8985 | * | 20.7075 | 23.7340 | 22.1631
370200 | 1.2117 | 0.8985 | 18.3941 | 16.7164 | 18.1008 | 17.7363
370201 | 1.7545 | 0.8985 | 18.2548 | 18.9906 | 23.1240 | 20.2434
370202 | 1.6128 | 0.8737 | 16.5384 | 24.0239 | 24.4920 | 21.7342
370203 | 1.3803 | 0.8985 | 23.5454 | 19.8772 | 21.2426 | 21.3889
370206 | 1.4950 | 0.8985 | * | 22.3471 | 27.4495 | 25.1813
370207 | *** | * | * | 26.3746 | * | 26.3746
370209 | *** | * | * | * | 32.8278 | 32.8278
370210 | 2.1978 | 0.8737 | * | * | 20.0360 | 20.0360
380001 | 1.2209 | 1.1371 | 25.1542 | 20.9585 | 27.8554 | 24.5459
380002 | 1.2023 | 1.0313 | 23.2479 | 25.2629 | 26.3348 | 24.9837
380003 | 1.0667 | * | 23.8074 | 24.6377 | * | 24.2467
380004 | 1.7469 | 1.1371 | 24.5418 | 27.5184 | 28.2466 | 26.9046
380005 | 1.3208 | 1.0533 | 24.7476 | 26.3472 | 28.0682 | 26.4708
380006 | 1.2163 | * | 20.5914 | 24.7492 | 26.0475 | 23.9121
380007 | 1.7717 | 1.1371 | 25.9239 | 30.0497 | 31.5207 | 29.2603
380008 | 1.0438 | 1.0333 | 21.6134 | 24.6149 | 25.4494 | 23.9225
380009 | 1.9599 | 1.1371 | 25.1040 | 26.0012 | 30.4198 | 27.2701
380010 | 0.9982 | 1.1371 | 24.1931 | 25.5234 | 27.5291 | 25.7081
380011 | 1.2142 | * | 20.6759 | 21.9382 | * | 21.3065
380013 | 1.1653 | * | 19.9607 | 24.1491 | * | 22.0350
380014 | 1.7917 | 1.0526 | 26.6038 | 28.4536 | 27.7255 | 27.6280
380017 | 1.7814 | 1.1371 | 21.9236 | 29.2543 | 31.7440 | 27.8002
380018 | 1.7234 | 1.0533 | 24.8661 | 27.5171 | 27.8952 | 26.7548
380019 | 1.0564 | * | 21.1743 | * | * | 21.1743
380020 | 1.3584 | 1.0921 | 23.9978 | 23.7066 | 25.8320 | 24.5420
380021 | 1.4229 | 1.1371 | 24.4365 | 28.0334 | 29.3001 | 27.3785
380022 | 1.1775 | 1.0434 | 25.6255 | 26.4794 | 27.8683 | 26.7236
380023 | 1.1087 | 1.0183 | 23.4328 | 23.0079 | 23.7073 | 23.3913
380025 | 1.3689 | 1.1371 | 26.9398 | 28.8525 | 30.2628 | 28.7925
380026 | 1.1238 | 1.0183 | 22.7561 | 23.8666 | 26.5217 | 24.4150
380027 | 1.2749 | 1.0528 | 22.2573 | 21.5822 | 23.8758 | 22.6072
380029 | 1.1354 | 1.0549 | 22.0371 | 24.2939 | 26.2070 | 24.3253
380031 | *** | * | 23.7634 | * | * | 23.7634
380033 | 1.6503 | 1.0921 | 26.6899 | 30.4783 | 29.7995 | 29.0661
380035 | 1.0772 | 1.0183 | 25.6016 | 26.2434 | 26.4784 | 26.1363
380037 | 1.1737 | 1.1371 | 23.4798 | 25.0200 | 27.1884 | 25.4038
380038 | 1.2137 | 1.1371 | 28.1436 | 29.1804 | 30.5903 | 29.3667
380039 | 1.1084 | 1.1371 | 25.7614 | 27.5115 | 30.1544 | 27.7918
380040 | 1.1651 | 1.0230 | 22.6412 | 21.5958 | 28.4373 | 23.9593
380042 | *** | * | 21.6793 | * | * | 21.6793
380047 | 1.7478 | 1.0560 | 25.2591 | 26.5017 | 27.8385 | 26.6198
380048 | *** | * | 18.2774 | * | * | 18.2774
380050 | 1.3828 | 1.0248 | 22.1089 | 23.1332 | 24.2416 | 23.1844
380051 | 1.6179 | 1.0549 | 24.4081 | 26.2384 | 28.1305 | 26.2423
380052 | 1.1548 | 1.0183 | 20.7431 | 21.2567 | 22.6799 | 21.5642
380056 | 0.9898 | 1.0549 | 20.7895 | 22.3571 | 25.0068 | 22.7858
380060 | 1.4106 | 1.1371 | 23.0107 | 27.8551 | 30.2507 | 27.1740
380061 | 1.5940 | 1.1371 | 24.1121 | 27.3827 | 29.5145 | 27.3048
380062 | *** | * | 26.1368 | * | * | 26.1368
380064 | *** | * | 27.0628 | * | * | 27.0628
380065 | *** | * | 23.3147 | * | * | 23.3147
380066 | 1.2297 | * | 23.1175 | 23.3581 | 27.5412 | 24.6926
380069 | *** | * | 21.2057 | * | * | 21.2057
380070 | 1.0908 | * | 29.9706 | 34.1039 | * | 31.8503
380071 | 1.3173 | 1.1371 | 25.9113 | 27.9055 | 29.5740 | 27.8172
380072 | 0.8885 | 1.0183 | 20.6569 | 21.9516 | 22.5275 | 21.7458
380075 | 1.3286 | 1.0533 | 23.1910 | 25.1930 | 27.4795 | 25.5348
380078 | *** | * | 22.6995 | * | * | 22.6995
380081 | 1.1161 | 1.0183 | 22.9805 | 22.1822 | 21.0708 | 22.0536
380082 | 1.1927 | 1.1371 | 23.7927 | 28.0668 | 30.2721 | 27.4694
380083 | *** | * | 22.4058 | * | * | 22.4058
380084 | *** | * | 31.0111 | * | * | 31.0111
380087 | 1.0549 | * | 21.3119 | * | * | 21.3119
380088 | *** | * | 24.8158 | * | * | 24.8158
380089 | 1.3120 | 1.1371 | 26.1967 | 29.6989 | 30.8396 | 28.9774
380090 | 1.2651 | 1.2777 | 30.4223 | 31.8702 | 33.6822 | 32.0289
380091 | 1.3732 | 1.1371 | 28.7846 | 31.2807 | 35.7002 | 31.8737
390001 | 1.7219 | 0.9519 | 20.3350 | 21.5154 | 22.4407 | 21.4391
390002 | 1.2315 | 0.8733 | 20.8831 | 22.0646 | 23.0113 | 22.0050
390003 ʰ | 1.2141 | 0.9519 | 18.0436 | 19.1857 | 21.3182 | 19.4990
390004 | 1.4405 | 0.9354 | 20.0557 | 21.3475 | 23.4063 | 21.6582
390005 | 0.9970 | 0.8700 | 19.0218 | 19.0727 | 19.0318 | 19.0406
390006 | 1.8572 | 0.9201 | 21.7867 | 23.0378 | 23.3960 | 22.7699
390008 ʰ | 1.1019 | 0.8723 | 19.5439 | 19.9417 | 21.0021 | 20.1821
390009 | 1.7989 | 0.8700 | 22.5580 | 21.9459 | 24.2789 | 22.9311
390010 | 1.2118 | 0.8733 | 18.1275 | 19.4377 | 21.6273 | 19.7671
390011 | 1.3750 | 0.8377 | 18.2751 | 18.6548 | 19.8602 | 18.9263
390012 | 1.2667 | 1.0855 | 22.2060 | 28.5114 | * | 25.1714
390013 | 1.2090 | 0.9201 | 20.2186 | 22.1679 | 23.3180 | 21.9609
390015 | *** | * | 14.3138 | * | * | 14.3138
390016 ʰ | 1.2230 | 0.8723 | 17.4931 | 18.1536 | 19.9899 | 18.5387
390017 ʰ | 0.9847 | 0.8723 | 18.5869 | 19.1962 | 20.6575 | 19.3772
390018 | *** | * | 20.0672 | 19.9117 | * | 19.9884
390019 | 1.1507 | 0.9538 | 18.7609 | 21.2806 | 21.5137 | 20.5386
390022 | 1.2743 | 1.0855 | 25.2980 | 27.5504 | 31.0971 | 27.8825
390023 | 1.2550 | 1.0855 | 23.9246 | 25.3767 | 27.1600 | 25.5087
390024 | 0.9263 | 1.0855 | 27.7643 | 25.9806 | 37.4330 | 27.8095
390025 | 0.5044 | 1.0855 | 14.0077 | 14.8690 | 15.0282 | 14.6252
390026 | 1.2177 | 1.0855 | 23.6317 | 24.0326 | 27.0802 | 24.9026
390027 | 1.5049 | 1.0855 | 29.4334 | 33.2139 | 28.9159 | 30.4025
390028 | 1.7231 | 0.8733 | 22.7820 | 24.6796 | 23.6616 | 23.7171
390029 | *** | * | 24.4753 | * | 24.4276 | 24.4542
390030 | 1.2190 | 0.9519 | 18.9122 | 20.0598 | 20.9859 | 20.0085
390031 | 1.1869 | 0.9074 | 19.2040 | 20.3568 | 21.2949 | 20.2727
390032 | 1.1917 | 0.8733 | 18.5545 | 20.8450 | 20.9971 | 20.2277
390035 | 1.2372 | 1.0855 | 21.9325 | 23.2173 | 24.7281 | 23.2819
390036 | 1.4612 | 0.8733 | 20.2103 | 20.5751 | 23.3858 | 21.3729
390037 | 1.3459 | 0.8733 | 19.9175 | 20.1665 | 22.9008 | 20.9883
390039 ʰ | 1.1127 | 0.8365 | 17.6181 | 18.4580 | 17.8461 | 17.9758
390040 | *** | * | 17.4450 | 20.5371 | 23.1807 | 20.2698
390041 | 1.2789 | 0.8733 | 19.6159 | 21.0074 | 20.6789 | 20.4540
390042 | 1.4485 | 0.8733 | 22.0668 | 22.2351 | 23.9632 | 22.7692
390043 | 1.1829 | 0.8328 | 17.6739 | 19.8641 | 20.9835 | 19.5455
390044 | 1.6896 | 0.9418 | 21.3382 | 22.4235 | 24.2586 | 22.7073
390045 | 1.5545 | 0.8476 | 20.2107 | 20.2082 | 22.2582 | 20.9227
390046 | 1.5538 | 0.9250 | 21.3960 | 23.1271 | 25.0825 | 23.2769
390048 | 1.0813 | 0.9201 | 18.9776 | 20.3523 | 23.6622 | 20.8911
390049 | 1.5964 | 0.9538 | 22.8196 | 24.0933 | 25.4056 | 24.1179
390050 | 2.1274 | 0.8733 | 24.9156 | 22.6951 | 24.5424 | 24.0190
390052 | 1.1965 | 0.8452 | 21.2729 | 22.1380 | 21.6736 | 21.6933
390054 | 1.1754 | 0.9896 | 19.4686 | 19.8602 | 21.4983 | 20.2491
390055 | 1.8647 | 0.8733 | 25.7327 | 23.5292 | 25.5675 | 24.9295
390056 | 1.0844 | 0.8370 | 21.4121 | 21.4239 | * | 21.4180
390057 | 1.2614 | 1.0855 | 21.6693 | 24.8235 | 25.1901 | 23.9478
390058 | 1.2497 | 0.9354 | 20.7930 | 22.0113 | 25.3415 | 22.6800
390061 | 1.5755 | 0.9896 | 22.8728 | 24.4550 | 25.5012 | 24.2558
390062 | 1.1169 | 0.8452 | 17.4710 | 17.6303 | 19.0692 | 18.1151
390063 | 1.8159 | 0.8700 | 20.1696 | 21.7120 | 23.5469 | 21.8619
390065 | 1.2660 | 1.0895 | 20.2930 | 23.1384 | 23.4021 | 22.3979
390066 | 1.2722 | 0.9288 | 19.0132 | 21.7717 | 23.0891 | 21.2658
390067 | 1.8797 | 0.9354 | 21.9885 | 23.5136 | 25.4576 | 23.6219
390068 | 1.3214 | 0.9896 | 21.6408 | 21.1177 | 25.9890 | 22.9757
390070 | 1.3640 | 1.0855 | 22.7909 | 24.4403 | 26.9235 | 24.7175
390071 | 1.0587 | 0.8476 | 18.9416 | 17.8117 | 20.9443 | 19.1807
390072 ʰ | 1.0246 | 0.9519 | 16.9445 | 20.0561 | 22.0155 | 19.6409
390073 | 1.6546 | 0.8452 | 22.2703 | 22.7073 | 24.8013 | 23.2334
390074 | 1.1655 | 0.8733 | 19.7446 | 21.8456 | 21.0941 | 20.9138
390075 | *** | * | 19.5840 | 19.9775 | 22.6530 | 20.6849
390076 | 1.3003 | 1.0855 | 19.7719 | 21.2039 | 18.1276 | 19.5539
390078 | *** | * | 20.6483 | * | * | 20.6483
390079 | 1.9359 | 0.8328 | 19.5982 | 19.9169 | 21.4323 | 20.3290
390080 | 1.2560 | 1.0855 | 22.2449 | 23.3742 | 25.0921 | 23.5729
390081 | 1.2411 | 1.0855 | 25.6575 | 28.1056 | 28.7974 | 27.6375
390083 | *** | * | 26.1660 | * | * | 26.1660
390084 | 1.2472 | 0.8328 | 17.0197 | 18.3551 | 20.7799 | 18.7270
390086 | 1.5559 | 0.8328 | 19.7645 | 19.6488 | 20.7383 | 20.0554
390090 | 1.9289 | 0.8733 | 20.5433 | 22.4688 | 20.7474 | 21.2532
390091 | 1.1508 | 0.8733 | 19.0355 | 19.7361 | 20.8243 | 19.8629
390093 | 1.1844 | 0.8733 | 20.0135 | 19.9209 | 21.0427 | 20.3418
390095 | 1.1684 | 0.9519 | 17.9697 | 18.3939 | 21.0754 | 19.1551
390096 | 1.5018 | 0.9418 | 22.2974 | 22.9502 | 24.4145 | 23.2510
390097 | 1.1739 | 1.0855 | 24.7853 | 24.5304 | 25.3012 | 24.8948
390100 | 1.8100 | 0.9896 | 21.1186 | 23.4155 | 26.7267 | 23.8493
390101 | 1.2878 | 0.9250 | 19.0180 | 20.1271 | 20.1694 | 19.7929
390102 | 1.3419 | 0.8733 | 19.3111 | 20.9807 | 21.6629 | 20.7249
390103 | 1.0523 | 0.8733 | 20.4422 | 21.0637 | 18.6703 | 20.1263
390104 | 1.0295 | 0.8328 | 16.2440 | 16.5081 | 19.1803 | 17.3735
390106 | *** | * | 17.4747 | * | * | 17.4747
390107 | 1.3507 | 0.8733 | 20.6024 | 21.5852 | 23.1023 | 21.8035
390108 | 1.2699 | 1.0855 | 22.0444 | 23.7842 | 24.7486 | 23.4864
390109 | 1.1616 | 0.9519 | 17.4539 | 17.2667 | 18.7558 | 17.8372
390110 | 1.5508 | 0.8733 | 21.6005 | 22.3968 | 23.3355 | 22.4480
390111 | 2.0532 | 1.0855 | 27.1429 | 30.5814 | 30.6809 | 29.4124
390112 ʰ | 1.1710 | 0.8365 | 14.8634 | 15.6710 | 16.6113 | 15.7094
390113 | 1.2892 | 0.9237 | 19.9496 | 20.1160 | 21.7729 | 20.6233
390114 | 1.3063 | 0.8733 | 19.8004 | 23.6162 | 22.6630 | 22.0271
390115 | 1.4581 | 1.0855 | 22.3545 | 24.1951 | 26.4751 | 24.3612
390116 | 1.2859 | 1.0855 | 22.6783 | 24.9581 | 28.5563 | 25.3858
390117 | 1.1874 | 0.8328 | 18.9764 | 19.0983 | 20.0040 | 19.3648
390118 | 1.1494 | 0.8328 | 17.2669 | 17.8460 | 19.3332 | 18.1499
390119 | 1.3113 | 0.9519 | 19.3946 | 20.3034 | 21.2761 | 20.3765
390121 | 1.6433 | 0.8452 | 20.6253 | 20.8017 | 22.0556 | 21.1770
390122 | 1.1742 | 0.8328 | 15.5438 | 18.5130 | 21.6981 | 18.4209
390123 | 1.2515 | 1.0855 | 21.8897 | 23.2232 | 25.2209 | 23.4588
390125 | 1.2261 | 0.8328 | 17.0975 | 18.2411 | 19.4406 | 18.2772
390127 | 1.2068 | 1.0855 | 22.8787 | 25.0836 | 28.9238 | 25.7842
390128 | 1.1667 | 0.8733 | 19.9764 | 21.3668 | 21.8837 | 21.0753
390130 | 1.1705 | 0.8377 | 18.5519 | 19.4835 | 21.0694 | 19.6285
390131 | 1.2706 | 0.8733 | 19.1931 | 19.5296 | 21.2164 | 20.0445
390132 | 1.4834 | 1.0855 | 24.1878 | 24.6889 | 26.8153 | 25.2651
390133 | 1.6879 | 0.9538 | 24.1590 | 25.2110 | 26.1458 | 25.1883
390135 | 1.2206 | 1.0855 | 22.2501 | 24.0445 | * | 23.1441
390136 | 1.0536 | 0.8733 | 16.8505 | 21.9531 | 24.8042 | 20.8277
390137 | 1.4595 | 0.9519 | 19.4769 | 19.5457 | 21.8830 | 20.2627
390138 | 1.1853 | 1.0895 | 20.7726 | 21.4705 | 22.7210 | 21.7019
390139 | 1.3717 | 1.0855 | 24.8347 | 26.3622 | 28.2089 | 26.5057
390142 | 1.5692 | 1.0855 | 28.4680 | 29.8874 | 32.0827 | 30.1680
390145 | 1.4517 | 0.8733 | 20.4964 | 20.6580 | 22.4255 | 21.2144
390146 | 1.2459 | 0.8381 | 20.1788 | 21.4580 | 22.3260 | 21.2951
390147 | 1.2232 | 0.8733 | 21.7600 | 22.3135 | 23.6380 | 22.5753
390150 | 1.1083 | 0.8723 | 20.8970 | 20.0261 | 24.5256 | 21.8864
390151 | 1.2565 | 1.0895 | 23.6072 | 24.7843 | 25.1422 | 24.5408
390152 | 0.9953 | 0.8452 | 20.2581 | 21.5474 | 11.7774 | 16.4240
390153 | 1.3868 | 1.0855 | 23.9039 | 25.3391 | 27.5167 | 25.6598
390154 | 1.3180 | 0.8328 | 17.8774 | 19.1300 | 20.4408 | 19.1543
390156 | 1.3356 | 1.0855 | 24.0034 | 25.0801 | 27.8096 | 25.6221
390157 | 1.2866 | 0.8733 | 20.2647 | 20.6933 | 22.0222 | 21.0052
390160 | 1.2544 | 0.8733 | 19.4793 | 19.3598 | 19.5942 | 19.4793
390162 | 1.5384 | 0.9538 | 21.3379 | 24.0291 | * | 22.6994
390163 | 1.2584 | 0.8733 | 18.1831 | 18.8585 | 19.8863 | 18.9837
390164 | 2.1093 | 0.8733 | 26.1698 | 24.2334 | 25.1277 | 25.1322
390166 | 1.2143 | 0.8733 | 19.8899 | 19.8531 | 20.9510 | 20.2267
390168 | 1.4802 | 0.8733 | 19.6875 | 20.6777 | 21.9344 | 20.8088
390169 | 1.4028 | 0.9519 | 22.7920 | 22.7695 | 24.1682 | 23.2427
390173 | 1.1721 | 0.8328 | 18.8265 | 20.6958 | 21.6562 | 20.4167
390174 | 1.7411 | 1.0855 | 26.3891 | 28.4490 | 30.3725 | 28.4625
390176 | 1.1752 | 0.8733 | 21.7650 | 18.0752 | 17.1387 | 19.0248
390178 | 1.3257 | 0.9234 | 17.1142 | 17.2384 | 19.2731 | 17.9067
390179 | 1.3843 | 1.0855 | 21.5792 | 24.0501 | 24.8350 | 23.5283
390180 | 1.4143 | 1.0855 | 26.7743 | 28.4842 | 30.4264 | 28.6343
390181 | 1.0383 | 0.8328 | 18.8681 | * | 25.7357 | 21.6826
390183 | 1.0864 | 0.8328 | 17.4535 | 21.6811 | 22.0117 | 20.3045
390184 | 1.0618 | 0.8733 | 21.1941 | 21.1962 | 21.3407 | 21.2460
390185 | 1.2471 | 0.9896 | 20.3301 | 20.4476 | 21.8871 | 20.8622
390189 | 1.1215 | 0.8328 | 19.6186 | 20.1365 | 21.2711 | 20.3629
390191 | 1.1520 | 0.8328 | 17.1919 | 18.5972 | 19.2308 | 18.2816
390192 | 1.0722 | 0.9519 | 16.6469 | 19.1883 | 20.0395 | 18.6928
390193 | 0.9732 | 0.8700 | 17.3804 | 18.9764 | 18.5516 | 18.2455
390194 | 1.2048 | 0.9538 | 21.0549 | 21.5850 | 23.1814 | 21.9829
390195 | 1.6262 | 1.0855 | 24.2891 | 26.2024 | 28.3480 | 26.3145
390197 | 1.4715 | 0.9538 | 22.1974 | 22.8349 | 24.9234 | 23.2844
390198 | 1.1659 | 0.8700 | 16.6803 | 17.3937 | 16.8529 | 16.9777
390199 | 1.2082 | 0.8328 | 17.7782 | 18.9787 | 19.9653 | 18.9342
390200 | 0.9555 | 0.9896 | 18.2456 | 19.4471 | 23.1486 | 20.2397
390201 | 1.2207 | 1.1569 | 21.3291 | 22.7849 | 24.8222 | 22.9843
390203 | 1.5721 | 1.0855 | 22.4685 | 26.9436 | 28.2741 | 26.1234
390204 | 1.2498 | 1.0855 | 22.7282 | 23.9673 | 25.6342 | 24.1116
390209 | *** | * | 16.8200 | * | * | 16.8200
390211 | 1.3118 | 0.9234 | 19.4552 | 21.0450 | 22.4472 | 21.0292
390213 | *** | * | 20.1152 | * | * | 20.1152
390215 | *** | * | 23.5953 | 25.2617 | 26.4180 | 25.0589
390217 | 1.1770 | 0.8733 | 19.7578 | 21.4058 | 21.3281 | 20.8248
390219 | 1.2700 | 0.8733 | 20.1311 | 20.0594 | 22.8559 | 21.0258
390220 | 1.1191 | 1.0855 | 22.7618 | 23.4385 | 24.7553 | 23.6001
390222 | 1.2538 | 1.0855 | 22.7491 | 24.9345 | 27.0954 | 24.9578
390223 | 1.8952 | 1.0855 | 18.9493 | 22.8725 | 28.2538 | 23.2409
390224 | 0.8620 | 0.8464 | 17.2173 | 16.1289 | 18.1226 | 17.1793
390225 | 1.2148 | 0.9896 | 19.0364 | 20.9232 | 23.4945 | 21.2611
390226 | 1.7511 | 1.0855 | 22.8588 | 25.6917 | 27.0061 | 25.2172
390228 | 1.3377 | 0.8733 | 19.6212 | 21.0164 | 22.5999 | 21.1220
390231 | 1.4529 | 1.0855 | 21.0757 | 24.7757 | 27.0576 | 24.3277
390233 | 1.3285 | 0.9250 | 20.5801 | 21.8043 | 22.8667 | 21.7653
390235 | *** | * | 19.9925 | 23.7068 | * | 21.4674
390236 | 1.1860 | 0.8328 | 19.1427 | 19.8687 | 21.9199 | 20.3483
390237 | 1.5418 | 0.9519 | 21.7847 | 23.2054 | 24.6316 | 23.2303
390238 | *** | * | 18.1956 | 19.2171 | 26.4748 | 21.1243
390244 | *** | * | 14.2137 | * | * | 14.2137
390246 | 1.1561 | 0.8328 | 22.3892 | 22.0687 | 23.3275 | 22.6010
390249 | 0.8542 | * | 14.1062 | 14.7215 | * | 14.4157
390256 | 1.8497 | 0.9354 | 22.3540 | 22.6146 | 24.2331 | 23.1349
390258 | 1.6157 | 1.0855 | 23.8318 | 25.0634 | 27.2038 | 25.4263
390262 | *** | * | 18.8943 | 21.3264 | * | 20.1664
390263 | 1.4810 | 0.9538 | 20.6348 | 22.0008 | 23.4202 | 22.0938
390265 | 1.4471 | 0.8733 | 20.4760 | 20.5948 | 21.6751 | 20.9436
390266 | 1.2788 | 0.9234 | 17.6223 | 18.2424 | 19.2836 | 18.3942
390267 | 1.2116 | 0.8733 | 20.2424 | 21.4801 | 22.5464 | 21.3891
390268 | 1.2936 | 0.8465 | 22.2046 | 23.1124 | 24.2050 | 23.1957
390270 | 1.5401 | 0.9896 | 20.7957 | 22.5258 | 24.0837 | 22.5608
390278 | 0.5694 | 1.0855 | 18.5776 | 21.1387 | 21.6893 | 20.4268
390279 | 1.0750 | 0.8465 | 15.8080 | 16.0510 | 15.3569 | 15.7368
390285 | 1.7276 | 1.0855 | 29.1270 | 30.6300 | 33.5347 | 31.0662
390286 | 1.1635 | 1.0855 | 22.9746 | 25.4499 | 27.4090 | 25.2567
390287 | 1.4961 | 1.0855 | 30.3252 | 32.9709 | 35.7147 | 33.0283
390288 | 1.1476 | 1.0855 | 26.9662 | 28.0957 | 28.5267 | 27.6344
390289 | 1.3089 | 1.0855 | 22.8963 | 25.1658 | 28.4577 | 25.4209
390290 | 1.9543 | 1.0855 | 30.5037 | 31.0967 | 36.4991 | 32.6843
390291 | 0.9597 | 0.8733 | 20.0272 | 21.0057 | 21.3015 | 20.7433
390293 | *** | * | 23.5284 | * | * | 23.5284
390294 | *** | * | * | 33.3537 | * | 33.3537
390295 | *** | * | * | 26.8862 | * | 26.8862
390296 | *** | * | * | 25.6981 | * | 25.6981
390297 | *** | * | * | 25.7318 | * | 25.7318
390298 | *** | * | * | * | 26.8290 | 26.8290
390299 | *** | * | * | * | 31.9423 | 31.9423
390300 | *** | * | * | * | 40.4697 | 40.4697
400001 | 1.2760 | 0.4723 | 10.7531 | 11.7572 | 16.1114 | 12.6374
400002 | 1.6567 | 0.5006 | 13.3684 | 11.6804 | 14.8607 | 13.2481
400003 | 1.3922 | 0.5006 | 11.2726 | 10.5963 | 13.0776 | 11.6305
400004 | 1.1633 | 0.4723 | 9.0781 | 11.4041 | 10.4716 | 10.2554
400005 | 1.0738 | 0.4723 | 9.7802 | 10.5356 | 10.2878 | 10.1683
400006 | 1.1473 | 0.4723 | 10.4988 | 9.2852 | 8.9919 | 9.5595
400007 | 1.1920 | 0.4723 | 8.1974 | 8.6022 | 8.7152 | 8.4943
400009 | 1.0542 | 0.4029 | 8.7341 | 9.4413 | 9.2007 | 9.1221
400010 | 0.9114 | 0.4274 | 9.1359 | 9.2799 | 10.9354 | 9.7131
400011 | 1.0976 | 0.4723 | 8.6253 | 8.9111 | 8.5868 | 8.7030
400012 | 1.5139 | 0.4723 | 8.6538 | 9.0740 | 8.3580 | 8.6862
400013 | 1.3895 | 0.4644 | 9.8197 | 9.9905 | 9.5584 | 9.7808
400014 | 1.4319 | 0.4628 | 10.2712 | 11.4580 | 11.7023 | 11.0983
400015 | 1.2170 | 0.4723 | 15.5827 | * | 15.6066 | 15.5949
400016 | 1.3378 | 0.4723 | 13.7001 | 14.6491 | 15.3497 | 14.5879
400017 | 1.1908 | 0.4723 | 9.9167 | 10.7475 | 10.1238 | 10.2629
400018 | 1.1912 | 0.4644 | 10.5583 | 10.8254 | 10.7948 | 10.7210
400019 | 1.3565 | 0.4723 | 12.1251 | 13.7007 | 14.9892 | 13.5048
400021 | 1.3754 | 0.5230 | 12.7462 | 13.5224 | 13.8643 | 13.3877
400022 | 1.3187 | 0.5006 | 13.0915 | 15.2904 | 16.0539 | 14.7599
400024 | 0.8680 | 0.4628 | 9.0826 | 9.8650 | 9.1316 | 9.3569
400026 | 1.0267 | 0.4029 | 7.4280 | 5.9206 | 5.2085 | 6.0594
400028 | 1.2396 | 0.5006 | 8.9567 | 9.5266 | 10.3354 | 9.5963
400032 | 1.1882 | 0.4723 | 10.1898 | 10.7100 | 10.7195 | 10.5472
400044 | 1.2936 | 0.5006 | 12.8671 | 9.0275 | 10.7890 | 11.1534
400048 | 1.1418 | 0.4029 | 11.5104 | 10.8618 | 14.0887 | 12.1974
400061 | 1.8543 | 0.4723 | 10.3664 | 16.5895 | 15.1639 | 13.5869
400079 | 1.1704 | 0.4281 | 8.7218 | 8.7218 | 9.4218 | 8.9758
400087 | 1.2148 | 0.4644 | 8.6480 | 10.7118 | 9.5860 | 9.7657
400094 | *** | * | 9.4600 | 9.2871 | 8.8646 | 9.2684
400098 | 1.3321 | 0.4723 | 10.4312 | 13.8036 | 13.7938 | 12.4239
400102 | 1.1639 | 0.4723 | 8.5289 | 10.9973 | 10.1795 | 9.9095
400103 | 1.7285 | 0.4628 | 11.8454 | 11.5797 | 12.8288 | 11.9672
400104 | 1.2151 | 0.4644 | 7.9552 | 7.1781 | 8.2758 | 7.7122
400105 | 1.3446 | 0.4723 | 10.6028 | 11.5608 | 12.7725 | 11.5397
400106 | 1.2175 | 0.4723 | 9.8694 | 10.1241 | 9.6902 | 9.8878
400109 | 1.5284 | 0.4723 | 12.2080 | 12.8921 | 14.2169 | 13.0754
400110 | 1.1675 | 0.4724 | 10.7228 | 12.0159 | 11.8458 | 11.5366
400111 | 1.1086 | 0.4281 | 12.3311 | 12.7701 | 13.4777 | 12.8573
400112 | 1.1368 | 0.4723 | 11.0634 | 12.2859 | 8.9469 | 10.5739
400113 | 1.2555 | 0.5006 | 9.3000 | 10.4416 | 10.0830 | 10.0531
400114 | 1.0875 | 0.4723 | 9.9477 | 9.7444 | 12.1920 | 10.5611
400115 | 1.1199 | 0.4723 | 7.2203 | 7.0411 | 9.1132 | 7.7507
400117 | 1.0915 | 0.4644 | 11.3351 | 9.7314 | 10.2911 | 10.4382
400118 | 1.1965 | 0.4723 | 11.4317 | 12.4590 | 11.9324 | 11.9508
400120 | 1.3580 | 0.4723 | 10.9315 | 11.8837 | 11.9714 | 11.5878
400121 | 0.9198 | 0.4723 | 8.7584 | 8.3575 | 8.6665 | 8.5907
400122 | 1.2393 | 0.4723 | 9.1638 | 9.6644 | 9.6463 | 9.4879
400123 | 1.2755 | 0.4628 | 10.9047 | 10.5643 | 11.8135 | 11.0940
400124 | 2.8781 | 0.4723 | 12.7323 | 14.3496 | 17.2258 | 14.7157
400125 | 1.2216 | 0.4372 | 10.5997 | 10.6642 | 10.7425 | 10.6781
400126 | 1.3107 | 0.5230 | * | * | 13.3932 | 13.3932
410001 | 1.3046 | 1.1574 | 22.4972 | 24.0033 | 27.0309 | 24.5144
410004 | 1.2680 | 1.1574 | 23.5408 | 23.6409 | 25.4578 | 24.2461
410005 | 1.3095 | 1.1574 | 24.0086 | 24.6522 | 27.1171 | 25.2309
410006 | 1.2900 | 1.1574 | 22.8959 | 26.1372 | 27.1842 | 25.4515
410007 | 1.6959 | 1.1574 | 24.9846 | 27.7171 | 30.1360 | 27.6083
410008 | 1.2274 | 1.1574 | 24.4792 | 25.4183 | 28.4245 | 26.1072
410009 | 1.3583 | 1.1574 | 24.3760 | 26.9135 | 27.7337 | 26.3703
410010 | 1.1614 | 1.1677 | 29.7315 | 30.3860 | 30.7826 | 30.3110
410011 | 1.3412 | 1.1574 | 27.4880 | 29.7664 | 28.5875 | 28.6114
410012 | 1.7780 | 1.1574 | 26.4570 | 28.1791 | 32.1679 | 29.0178
410013 | 1.1918 | 1.1574 | 25.3688 | 28.9386 | 31.7482 | 28.6887
420002 | 1.5711 | 0.9698 | 22.6182 | 25.1067 | 27.9312 | 25.2809
420004 | 1.9036 | 0.9415 | 22.4680 | 23.4579 | 26.0279 | 23.9918
420005 | 1.0202 | 0.8705 | 17.8202 | 19.5521 | 19.8167 | 19.0868
420006 | 0.9839 | 0.9415 | 18.7153 | 22.7896 | 22.8920 | 20.8925
420007 | 1.6167 | 0.9522 | 19.0199 | 22.0228 | 25.0395 | 22.1268
420009 | 1.3495 | 0.9532 | 21.2566 | 18.6866 | 23.8668 | 21.1617
420010 | 1.1302 | 0.8857 | 19.3267 | 19.1746 | 21.6478 | 20.1082
420011 | 1.1179 | 0.9532 | 16.7523 | 17.7300 | 20.8895 | 18.4244
420014 | 1.0459 | 0.9402 | 19.0455 | 21.2045 | 21.5658 | 20.5983
420015 | 1.3017 | 0.9532 | 20.8736 | 23.1274 | 24.7383 | 23.0190
420016 | 0.9864 | 0.8705 | 16.6448 | 17.0051 | 17.3837 | 17.0282
420018 | 1.7425 | 0.9431 | 20.7779 | 20.4649 | 23.6356 | 21.5401
420019 | 1.0964 | 0.8705 | 19.0199 | 19.6836 | 20.5472 | 19.7562
420020 | 1.2403 | 0.9415 | 20.5801 | 22.1616 | 24.6592 | 22.6091
420023 | 1.6333 | 0.9532 | 20.8600 | 23.2568 | 25.1035 | 23.1328
420026 | 1.8482 | 0.9431 | 23.3073 | 23.7406 | 29.2961 | 25.4193
420027 | 1.5131 | 0.9254 | 19.7322 | 21.0637 | 22.8322 | 21.2332
420030 | 1.2258 | 0.9415 | 22.5159 | 22.6766 | 24.2847 | 23.2152
420031 | *** | * | 15.3604 | * | * | 15.3604
420033 | 1.1130 | 0.9532 | 23.7974 | 26.2711 | 27.5740 | 25.9481
420036 | 1.2183 | 0.9628 | 19.8285 | 20.6649 | 21.9641 | 20.8131
420037 | 1.1890 | 0.9532 | 23.5244 | 25.5492 | 26.8750 | 25.3942
420038 | 1.2511 | 0.9532 | 19.9829 | 21.6133 | 22.6741 | 21.4329
420039 | 0.9956 | 0.9378 | 18.0055 | 21.9737 | 24.0637 | 21.0824
420043 ʰ | 1.1088 | 0.9698 | 19.6835 | 21.8816 | 22.9764 | 21.4992
420048 | 1.2678 | 0.9402 | 20.5531 | 21.9517 | 23.1515 | 21.9592
420049 | 1.2153 | 0.9017 | 20.1765 | 21.2604 | 23.2156 | 21.6075
420051 | 1.4807 | 0.8920 | 19.8549 | 20.6629 | 23.9455 | 21.5002
420053 | 1.1983 | 0.8705 | 19.0780 | 19.9013 | 21.1177 | 20.0816
420054 | 1.0646 | 0.8705 | 20.2275 | 20.8471 | 24.0653 | 21.6973
420055 | 1.0609 | 0.8705 | 18.6782 | 19.6817 | 20.3599 | 19.5840
420056 | 1.3085 | 0.8705 | 16.5491 | 20.0527 | 21.1640 | 19.3255
420057 | 1.0690 | 0.8857 | 22.1312 | 17.6727 | 19.7653 | 19.9387
420059 | 1.0988 | 0.8705 | 18.2093 | 20.2917 | 21.4260 | 19.8682
420061 | 1.0705 | 0.8705 | 17.7048 | 19.9789 | 20.8684 | 19.5679
420062 | 1.0499 | 0.8705 | 20.9032 | 17.4764 | 25.6683 | 20.9147
420064 | 1.1734 | 0.9017 | 19.7067 | 20.9057 | 22.1290 | 21.0653
420065 | 1.3750 | 0.9415 | 19.2150 | 22.0784 | 22.8674 | 21.4485
420066 | 0.9870 | 0.8920 | 19.5366 | 20.7782 | 20.5893 | 20.2967
420067 | 1.2723 | 0.8705 | 20.8524 | 22.8104 | 24.6038 | 22.8556
420068 | 1.3919 | 0.9055 | 20.2580 | 21.7257 | 22.2638 | 21.4213
420069 | 1.0148 | 0.8705 | 18.9017 | 17.6291 | 19.6959 | 18.7426
420070 | 1.2804 | 0.9320 | 19.2186 | 20.3664 | 22.4370 | 20.6984
420071 | 1.3653 | 0.9055 | 20.1897 | 21.8579 | 23.1727 | 21.7981
420072 | 1.0540 | 0.8705 | 18.2531 | 16.2578 | 17.5899 | 17.3137
420073 | 1.3435 | 0.9431 | 20.2697 | 21.4718 | 24.0274 | 21.8516
420074 | *** | * | 18.1839 | 18.7010 | * | 18.4327
420075 | 0.8785 | 0.9183 | 15.0133 | 15.9889 | 16.4816 | 15.8351
420078 | 1.7660 | 0.9532 | 22.7157 | 24.3273 | 25.3032 | 24.1113
420079 | 1.4719 | 0.9415 | 21.3177 | 23.3992 | 25.2939 | 23.4159
420080 | 1.4227 | 0.9464 | 23.2871 | 26.7489 | 28.4569 | 26.2852
420082 | 1.4859 | 0.9183 | 22.8516 | 23.6936 | 26.1221 | 24.1956
420083 | 1.4335 | 0.9522 | 24.4499 | 24.8508 | 25.3043 | 24.8899
420085 | 1.6004 | 0.9225 | 22.0071 | 24.4040 | 25.3180 | 23.9946
420086 | 1.4402 | 0.9431 | 23.5303 | 24.5760 | 25.1372 | 24.4026
420087 | 1.8047 | 0.9415 | 20.8217 | 22.4526 | 23.2230 | 22.1596
420088 | *** | * | 21.8979 | 23.5174 | 23.1273 | 22.7509
420089 | 1.2804 | 0.9415 | 21.3954 | 23.3240 | 25.2729 | 23.4187
420091 | 1.3688 | 0.8920 | 21.8367 | 23.7936 | 23.4710 | 23.0379
420093 | 1.0612 | 0.9522 | 19.1299 | 21.4678 | 25.1457 | 21.8615
420095 | *** | * | 33.4634 | * | * | 33.4634
420096 | *** | * | 26.4864 | * | * | 26.4864
420097 | *** | * | * | * | 24.7809 | 24.7809
430004 | *** | * | 19.2737 | * | * | 19.2737
430005 | 1.2129 | 0.8919 | 17.3401 | 18.2647 | 19.9454 | 18.5045
430007 | 1.1935 | * | 15.1494 | * | * | 15.1494
430008 ² | 1.0759 | 0.9414 | 18.5234 | 20.0124 | 20.9442 | 19.8486
430010 | *** | * | 16.5751 | * | * | 16.5751
430011 | 1.2776 | 0.8390 | 18.3648 | 19.9835 | 20.6597 | 19.6267
430012 | 1.3116 | 0.9414 | 19.2921 | 21.2588 | 22.7530 | 21.0857
430013 ² | 1.1666 | 0.9414 | 18.8978 | 21.3389 | 22.9675 | 21.0284
430014 | 1.2556 | 0.9189 | 20.9118 | 22.0285 | 25.5387 | 22.8018
430015 | 1.0867 | 0.9414 | 18.8998 | 20.5849 | 23.2035 | 20.8489
430016 | 1.5956 | 0.9414 | 22.7585 | 24.2450 | 26.1495 | 24.3994
430018 | 0.9210 | * | 15.9423 | 17.9850 | * | 16.8625
430022 | *** | * | 14.0661 | * | * | 14.0661
430023 | 0.9540 | * | 16.7850 | 18.8816 | * | 17.7231
430024 | 0.9794 | * | 17.4815 | 18.8357 | * | 18.1274
430027 | 1.6975 | 0.9414 | 20.8666 | 22.1807 | 23.8477 | 22.3051
430028 | *** | * | 18.2829 | * | * | 18.2829
430029 | 0.9451 | 0.8390 | 17.4931 | 18.9464 | 20.2708 | 18.9533
430031 ² | 0.9271 | 0.9414 | 13.2104 | 15.2321 | 15.6112 | 14.6711
430033 | 0.9016 | * | 18.3978 | 21.6254 | * | 20.1419
430034 | *** | * | 13.8535 | * | * | 13.8535
430036 | *** | * | 16.7826 | * | * | 16.7826
430037 | *** | * | 18.7008 | * | * | 18.7008
430040 | *** | * | 14.7860 | * | * | 14.7860
430043 | 1.1446 | * | 17.0193 | 17.9672 | 17.2722 | 17.3947
430047 | 0.9878 | 0.8390 | 17.5377 | 18.2774 | 21.9116 | 19.2363
430048 | 1.2405 | 0.9414 | 19.0261 | 20.0607 | 21.1718 | 20.1127
430049 | *** | * | 14.9025 | * | * | 14.9025
430051 | *** | * | 18.8696 | * | * | 18.8696
430054 | 0.8992 | * | 15.0100 | 17.8871 | * | 16.4122
430056 | *** | * | 14.1913 | * | * | 14.1913
430057 | *** | * | 18.8777 | * | * | 18.8777
430060 | 0.9402 | 0.9414 | 9.7677 | 10.6492 | 10.2704 | 10.2206
430064 | 0.9792 | 0.9414 | 13.8666 | 14.3407 | 16.4314 | 14.8874
430066 | *** | * | 14.5958 | * | * | 14.5958
430073 | *** | * | 16.5112 | * | * | 16.5112
430076 | *** | * | 15.2453 | * | * | 15.2453
430077 | 1.6571 | 0.9414 | 20.4361 | 21.6786 | 23.4835 | 21.9080
430079 | *** | * | 14.4155 | * | * | 14.4155
430089 | 1.3704 | 0.9054 | 17.5100 | 19.8572 | 21.1109 | 19.5864
430090 | 1.4069 | 0.9414 | 23.5180 | 25.6873 | 26.0851 | 25.1793
430091 | 2.6128 | 0.9414 | 21.6239 | 22.2824 | 23.8897 | 22.8409
430092 | 1.8963 | 0.8390 | 19.7645 | 19.7354 | 20.2570 | 19.9313
430093 | 1.2310 | 0.8919 | 23.3009 | 23.8820 | 23.1526 | 23.4368
430094 | 1.3886 | 0.9172 | * | 20.8743 | 18.5429 | 19.6576
430095 | 2.4142 | 0.9414 | * | * | 24.7074 | 24.7074
440001 | 1.1510 | 0.8184 | 17.2283 | 18.9833 | 17.4802 | 17.8507
440002 | 1.6645 | 0.8891 | 21.4299 | 22.0178 | 23.2177 | 22.2412
440003 | 1.1702 | 1.0085 | 20.3756 | 21.6336 | 24.5168 | 22.2321
440006 | 1.3645 | 1.0085 | 23.1483 | 24.3173 | 26.7983 | 24.8025
440007 | 0.9738 | 0.7899 | 14.0611 | 14.8015 | 13.7042 | 14.1639
440008 | 0.9583 | 0.8707 | 20.3303 | 20.9237 | 22.1405 | 21.0927
440009 | 1.1294 | 0.7899 | 18.4068 | 19.6564 | 21.1274 | 19.7792
440010 | 0.9465 | 0.7899 | 13.3692 | 16.7270 | 16.9060 | 15.5468
440011 | 1.3667 | 0.8564 | 19.3165 | 20.5036 | 21.6861 | 20.5719
440012 | 1.4653 | 0.8235 | 19.8949 | 21.1213 | 21.4769 | 20.8338
440014 | *** | * | 15.0657 | * | * | 15.0657
440015 | 1.8816 | 0.8564 | 21.6106 | 23.4485 | 22.5583 | 22.4945
440016 | 0.9832 | 0.7899 | 14.6142 | 20.1504 | 20.0982 | 17.9834
440017 | 1.7976 | 0.8235 | 20.4705 | 21.8033 | 22.5313 | 21.6064
440018 | 1.1878 | 0.8184 | 18.1620 | 21.2242 | 21.7239 | 20.4131
440019 | 1.7782 | 0.8564 | 22.8463 | 21.8854 | 23.8802 | 22.8779
440020 | 1.0820 | 0.8838 | 20.2188 | 21.1075 | 23.1718 | 21.5541
440023 | 0.9449 | 0.7899 | 15.6603 | 15.5410 | 17.0335 | 16.1069
440024 | 1.2253 | 0.8286 | 18.4276 | 19.9751 | 20.3658 | 19.4829
440025 | 1.1705 | 0.7899 | 17.0996 | 19.1478 | 19.5995 | 18.6582
440026 | *** | * | 25.6489 | 25.1655 | 26.9149 | 25.8839
440029 | 1.3262 | 1.0085 | 22.2889 | 24.1379 | 25.8538 | 24.1320
440030 | 1.2273 | 0.7899 | 17.6297 | 19.9056 | 20.0586 | 19.2409
440031 | 1.0373 | 0.7899 | 17.2555 | 17.0289 | 18.0944 | 17.4732
440032 | 0.9799 | 0.8235 | 13.9785 | 14.7683 | 16.0734 | 14.9379
440033 | 1.0687 | 0.7899 | 16.4679 | 17.2637 | 18.7749 | 17.5539
440034 | 1.5309 | 0.8564 | 21.1672 | 22.2478 | 23.1121 | 22.1453
440035 | 1.3525 | 0.8550 | 20.4168 | 21.4990 | 22.3230 | 21.4456
440039 | 1.9419 | 1.0085 | 22.4158 | 25.0874 | 26.4647 | 24.7983
440040 | 0.9438 | 0.7899 | 17.6781 | 16.9886 | 17.7647 | 17.4777
440041 | 0.9622 | 0.7899 | 14.6684 | 15.5784 | 17.4074 | 15.9463
440046 | 1.1662 | 1.0085 | 20.5562 | 22.3380 | 25.5329 | 22.6880
440047 | 0.9132 | 0.8398 | 18.7469 | 18.7962 | 20.4812 | 19.3502
440048 | 1.8360 | 0.9231 | 21.6132 | 23.1553 | 24.3283 | 22.8907
440049 | 1.5491 | 0.9231 | 19.6920 | 21.1930 | 22.9755 | 21.3330
440050 | 1.2838 | 0.9250 | 19.7915 | 21.1397 | 21.8972 | 20.9864
440051 | 0.9770 | 0.7899 | 17.7067 | 19.0165 | 20.7948 | 19.1302
440052 | 0.9884 | 0.7899 | 18.6589 | 18.1935 | 20.1875 | 19.0406
440053 | 1.2491 | 1.0085 | 21.5253 | 22.0345 | 23.9083 | 22.5642
440054 | 1.1210 | 0.7899 | 15.2154 | 15.4208 | 20.5992 | 16.7281
440056 | 1.0934 | 0.8220 | 20.4902 | 19.3108 | 20.4088 | 20.0592
440057 | 1.0134 | 0.7899 | 14.4363 | 14.1477 | 14.6242 | 14.4056
440058 | 1.1416 | 0.9208 | 20.7722 | 21.7512 | 22.6014 | 21.7216
440059 | 1.4872 | 0.9758 | 20.8882 | 22.4248 | 23.9301 | 22.5028
440060 | 1.1056 | 0.8707 | 20.7627 | 20.2189 | 22.7133 | 21.2566
440061 | 1.1241 | 0.7899 | 16.9234 | 19.5458 | 21.2085 | 19.1926
440063 | 1.6792 | 0.8195 | 18.8072 | 19.7468 | 21.8578 | 20.1214
440064 | 1.0113 | 0.9208 | 18.2678 | 19.4020 | 20.9742 | 19.5551
440065 | 1.2195 | 1.0085 | 19.2282 | 19.9099 | 21.4794 | 20.2516
440067 | 1.1050 | 0.8564 | 18.2973 | 19.5643 | 22.1410 | 20.0664
440068 | 1.1387 | 0.9208 | 19.5428 | 20.9188 | 23.1705 | 21.2887
440070 | 0.9982 | 0.7899 | 18.0065 | 18.3717 | 19.0240 | 18.4723
440072 | 1.2626 | 0.8887 | 20.0692 | 19.6579 | 20.9294 | 20.2371
440073 | 1.2627 | 0.9758 | 19.6290 | 20.7181 | 22.2959 | 20.9196
440078 | *** | * | 17.1646 | * | * | 17.1646
440081 ʰ | 1.1252 | 0.8564 | 17.2905 | 18.3141 | 19.0328 | 18.2536
440082 | 2.1528 | 1.0085 | 22.5590 | 26.1497 | 28.7828 | 25.7853
440083 | 0.8872 | 0.7899 | 13.7630 | 15.7015 | 16.0956 | 15.2202
440084 | 1.1957 | 0.7899 | 13.8085 | 15.0510 | 15.2825 | 14.7396
440091 | 1.6703 | 0.9208 | 20.1359 | 23.0296 | 26.1122 | 23.0433
440100 | *** | * | 15.9969 | * | * | 15.9969
440102 | 1.1187 | 0.7899 | 16.0783 | 16.6548 | 17.5140 | 16.7703
440104 | 1.7660 | 0.9208 | 21.7135 | 21.9870 | 23.3731 | 22.4046
440105 | 0.9786 | 0.8195 | 18.1375 | 19.2902 | 20.7821 | 19.4185
440109 | 0.9976 | 0.7899 | 17.6398 | 17.3578 | 18.2508 | 17.7611
440110 | 1.0384 | 0.8564 | 18.4998 | 19.9715 | 20.9039 | 19.8794
440111 | 1.2877 | 1.0085 | 23.2111 | 24.9883 | 25.8821 | 24.7444
440114 | 0.9957 | 0.8422 | 18.5327 | 20.1152 | 21.4271 | 20.0395
440115 | 0.9634 | 0.8398 | 18.7054 | 18.5389 | 20.0642 | 19.1240
440120 | 1.6053 | 0.8564 | 19.8997 | 22.4031 | 23.9003 | 22.1539
440125 | 1.5806 | 0.8564 | 20.0599 | 21.1018 | 21.9337 | 21.0514
440130 | 1.1599 | 0.7899 | 19.0905 | 20.6363 | 21.6480 | 20.4269
440131 | 1.1976 | 0.9231 | 19.9883 | 21.0640 | 22.4119 | 21.1882
440132 | 1.1909 | 0.7899 | 17.9186 | 18.9580 | 20.5716 | 19.2225
440133 | 1.5991 | 1.0085 | 22.2257 | 23.3600 | 27.5019 | 24.3449
440135 | 1.1136 | 1.0085 | 22.5452 | 23.9749 | 25.3928 | 24.0426
440137 | 1.0382 | 0.7899 | 15.3530 | 16.5529 | 18.2073 | 16.7614
440141 | 0.9502 | 0.7899 | 17.6818 | 19.2607 | 19.4528 | 18.8615
440142 | 0.9890 | * | 17.1483 | 17.7587 | * | 17.4315
440143 | 1.0380 | 0.8347 | 18.6844 | 19.2978 | 21.0374 | 19.6715
440144 | 1.2279 | 0.7899 | 18.8127 | 19.7938 | 22.3671 | 20.3348
440145 | 0.9567 | 0.7899 | 18.3850 | 18.2019 | 20.9863 | 19.1762
440147 | *** | * | 25.3766 | 25.0780 | 28.9038 | 26.3164
440148 | 1.0872 | 0.9758 | 19.3769 | 20.7693 | 23.0697 | 21.1482
440149 | 1.0174 | 0.7899 | 19.8304 | 18.1316 | 19.8020 | 19.2476
440150 | 1.3336 | 1.0085 | 21.2942 | 22.8733 | 25.4952 | 23.2526
440151 | 1.1207 | 0.9758 | 19.8977 | 21.1576 | 23.3037 | 21.4131
440152 | 1.9622 | 0.9231 | 21.7382 | 22.7498 | 25.9495 | 23.4904
440153 | 1.0786 | 0.7899 | 18.1781 | 19.9486 | 22.7744 | 20.3362
440156 | 1.4514 | 0.9208 | 21.9374 | 23.7799 | 25.6333 | 23.8575
440157 | *** | * | 15.5316 | * | * | 15.5316
440159 | 1.4839 | 0.9231 | 21.4914 | 20.5719 | 21.1073 | 21.0376
440161 | 1.7809 | 1.0085 | 23.6805 | 26.1354 | 28.6774 | 26.2391
440162 | *** | * | 19.8075 | 20.3909 | 16.5305 | 18.7606
440166 | 1.5383 | 0.9231 | 19.6632 | 23.1692 | 27.1355 | 23.2638
440168 | 0.9458 | 0.9231 | 21.1946 | 21.2113 | 22.1764 | 21.5046
440173 | 1.6321 | 0.8564 | 21.0284 | 20.8442 | 20.8723 | 20.9103
440174 | 0.9083 | 0.8271 | 19.3966 | 19.2201 | 20.7960 | 19.8084
440175 | 1.0406 | 0.8838 | 19.9022 | 22.3331 | 24.0005 | 22.1386
440176 | 1.3118 | 0.8235 | 19.8448 | 20.4861 | 22.0079 | 20.8356
440180 | 1.1374 | 0.8564 | 20.2057 | 21.2398 | 21.9781 | 21.1205
440181 | 0.9359 | 0.8306 | 19.0915 | 19.6133 | 21.1406 | 19.9832
440182 | 0.9034 | 0.7899 | 18.1953 | 19.3928 | 20.2630 | 19.3055
440183 | 1.5311 | 0.9231 | 22.2401 | 24.9282 | 27.7769 | 25.1513
440184 | 0.9961 | 0.8195 | 18.6891 | 21.4484 | 20.8219 | 20.2526
440185 | 1.2166 | 0.9208 | 21.1227 | 22.1845 | 23.4172 | 22.3432
440186 | 1.0406 | 1.0074 | 20.8601 | 23.0193 | 24.6773 | 22.8366
440187 | 1.0886 | 0.7899 | 18.3730 | 19.9478 | 21.7637 | 20.0131
440189 | 1.5080 | 0.8891 | 22.2555 | 23.2866 | 24.7851 | 23.4729
440192 | 1.0136 | 0.9758 | 19.1977 | 21.3228 | 25.1119 | 21.9712
440193 | 1.2721 | 1.0085 | 19.9078 | 22.0345 | 24.3911 | 22.1757
440194 | 1.3030 | 1.0085 | 21.9609 | 24.4508 | 26.2498 | 24.3097
440197 | 1.2935 | 1.0085 | 22.5282 | 24.2660 | 26.4999 | 24.4607
440200 | 0.9334 | 1.0074 | 18.7301 | 16.7752 | 17.0633 | 17.5400
440203 | 0.9687 | 0.7899 | 16.9819 | * | 17.7639 | 17.4648
440210 | *** | * | 12.7622 | * | * | 12.7622
440217 | 1.2869 | 0.9231 | 19.2834 | 23.3544 | 25.9667 | 22.9440
440218 | 0.8932 | 1.0085 | * | 20.1377 | 26.3741 | 23.1475
440220 | *** | * | * | 21.9117 | * | 21.9117
440222 | 0.9402 | 0.9231 | * | * | 28.3879 | 28.3879
450002 | 1.4398 | 0.9213 | 21.5141 | 24.0411 | 25.4975 | 23.7614
450004 | *** | * | 15.9452 | * | * | 15.9452
450005 | 1.1747 | 0.8617 | 16.6354 | 21.7110 | 23.4049 | 20.4575
450007 | 1.2518 | 0.9010 | 18.0269 | 18.3738 | 19.2875 | 18.5831
450008 | 1.3678 | 0.9276 | 19.3745 | 0.1816 | 22.0934 | 20.5757
450010 | 1.5227 | 0.8603 | 19.8998 | 20.3023 | 22.4133 | 20.8466
450011 | 1.6058 | 0.9246 | 20.2963 | 22.1472 | 24.1576 | 22.1560
450014 | 1.0619 | 0.8456 | 19.8845 | 20.6936 | 22.5001 | 21.0077
450015 | 1.4798 | 1.0068 | 22.9820 | 23.9526 | 24.0730 | 23.7009
450016 | *** | * | 19.1522 | 20.1232 | 22.1368 | 20.5103
450018 | 1.4076 | 0.9975 | 21.9921 | 22.9019 | 24.6443 | 23.1862
450020 | 0.9666 | 0.9597 | 18.4643 | 19.1087 | 17.7148 | 18.3747
450021 | 1.8177 | 1.0068 | 23.7663 | 25.0769 | 28.5578 | 25.8179
450023 | 1.4495 | 0.8456 | 19.2808 | 19.1645 | 20.9278 | 19.8132
450024 | 1.3744 | 0.9213 | 19.5584 | 20.7727 | 22.4178 | 20.8622
450028 | 1.5530 | 1.0158 | 19.5905 | 22.7775 | 25.6030 | 22.6061
450029 | 1.5563 | 0.8775 | 19.9505 | 19.9198 | 23.9709 | 21.2865
450031 | 1.4370 | 1.0068 | 29.6772 | 21.7621 | 27.0328 | 25.7450
450032 | 1.1934 | 0.8657 | 20.8525 | 20.5217 | 20.8306 | 20.7391
450033 | 1.5852 | 1.0158 | 21.3765 | 26.5990 | 29.0541 | 25.5917
450034 | 1.6129 | 0.8617 | 19.5233 | 21.6097 | 23.4615 | 21.5599
450035 | 1.5063 | 1.0049 | 20.3146 | 24.1860 | 25.4580 | 23.2683
450037 | 1.5536 | 0.8802 | 19.6532 | 23.1179 | 23.1176 | 21.9845
450039 | 1.3882 | 0.9596 | 20.4660 | 22.0058 | 23.3034 | 21.9244
450040 | 1.7877 | 0.8774 | 24.8621 | 21.2990 | 23.8047 | 23.2129
450042 | 1.6485 | 0.8162 | 20.6041 | 21.8886 | 22.6936 | 21.7552
450044 | 1.6335 | 1.0068 | 23.4476 | 24.1127 | 25.8403 | 24.4770
450046 | 1.5552 | 0.8645 | 20.2917 | 20.9239 | 22.0695 | 21.1294
450047 | 0.8525 | 1.0158 | 15.9525 | 21.8840 | 22.7242 | 19.8728
450050 | 0.9347 | 0.8747 | 19.1390 | 19.5171 | 21.6933 | 20.0180
450051 | 1.7020 | 1.0068 | 23.0010 | 24.5533 | 27.2523 | 25.0048
450052 | 0.9680 | 0.8151 | 20.3702 | 17.6543 | 19.7185 | 19.3316
450053 | 0.9360 | 0.7997 | 19.3347 | 18.6556 | 19.4978 | 19.1905
450054 | 1.6789 | 0.9276 | 25.3285 | 23.2915 | 25.1229 | 24.5396
450055 | 1.1830 | 0.7997 | 16.4789 | 18.2235 | 20.5235 | 18.3296
450056 | 1.6581 | 0.9597 | 22.5341 | 24.4197 | 25.6685 | 24.2958
450058 | 1.5100 | 0.9010 | 20.0424 | 22.0158 | 24.7442 | 22.0807
450059 | 1.3102 | 0.9083 | 21.4873 | 22.8792 | 26.8209 | 23.7097
450063 | *** | * | 15.1780 | * | * | 15.1780
450064 | 1.4062 | 0.9596 | 21.3929 | 19.1271 | 24.2920 | 21.5383
450065 | *** | * | 23.8471 | * | * | 23.8471
450068 | 2.0540 | 1.0049 | 22.5626 | 24.0925 | 26.2864 | 24.3345
450072 | 1.1647 | 1.0049 | 20.0134 | 20.3683 | 22.5010 | 20.9458
450073 | 0.9803 | 0.8012 | 23.7700 | 19.2398 | 20.0464 | 21.0839
450078 | 0.9165 | 0.7997 | 13.9324 | 14.8285 | 17.2196 | 15.2045
450079 | 1.4873 | 1.0068 | 22.0609 | 24.0085 | 27.0443 | 24.3554
450080 | 1.1279 | 0.8595 | 19.8414 | 21.0353 | 21.2482 | 20.7306
450081 | 1.0145 | * | 19.0276 | 19.2632 | * | 19.1505
450082 | 1.1098 | 0.7997 | 18.0688 | 16.6566 | 20.9113 | 18.5395
450083 | 1.7442 | 0.9516 | 20.7446 | 22.5063 | 24.9182 | 22.7494
450085 | 1.0022 | 0.7997 | 17.5001 | 18.1922 | 19.4524 | 18.3451
450087 | 1.3785 | 0.9596 | 23.4141 | 24.5976 | 26.4203 | 24.9041
450090 | 1.2557 | 0.7997 | 15.6090 | 17.1073 | 17.6506 | 16.7782
450092 | 1.1491 | 0.7997 | 17.2058 | 16.0199 | 20.4921 | 17.8070
450094 | 1.1345 | 1.0068 | 25.2158 | 25.8313 | 25.3618 | 25.4717
450096 | 1.4254 | 0.8617 | 19.4430 | 19.8012 | 22.8722 | 20.7423
450097 | 1.4792 | 1.0049 | 20.7653 | 22.2467 | 24.9380 | 22.7911
450098 | 0.9530 | 0.8595 | 19.8469 | 20.4795 | 22.9005 | 21.0374
450099 | 1.1798 | 0.9177 | 19.3493 | 21.4482 | 24.0293 | 21.5855
450101 | 1.5706 | 0.8162 | 17.6368 | 20.1473 | 20.6575 | 19.4579
450102 | 1.6797 | 0.9516 | 21.4361 | 20.9900 | 23.1773 | 21.9125
450104 | 1.1372 | 0.9010 | 17.8219 | 19.7126 | 22.5165 | 19.9656
450107 | 1.4708 | 0.9213 | 24.5035 | 23.2209 | 23.8770 | 23.8423
450108 | 1.1113 | 0.9010 | 17.9596 | 18.8084 | 19.3561 | 18.7257
450109 | 0.9128 | * | 18.1084 | 15.1459 | * | 16.6203
450112 | *** | * | 17.9624 | 20.2627 | 22.5552 | 20.0426
450113 | 0.9213 | 0.8192 | 20.7782 | 37.8944 | * | 21.5318
450119 | 1.3038 | 0.8603 | 20.1436 | 20.8840 | 24.1392 | 21.7232
450121 | 1.5433 | 0.9596 | 22.0485 | 24.6090 | 25.8826 | 24.1019
450123 | 1.1673 | 0.8617 | 17.5051 | 17.8629 | 19.5872 | 18.3311
450124 | 1.7073 | 0.9597 | 22.9853 | 24.2788 | 26.0280 | 24.5318
450126 | 1.2764 | 1.0049 | 22.9423 | 24.1961 | 27.3021 | 24.7548
450128 | 1.2445 | 0.8603 | 18.7067 | * | 21.4190 | 20.0474
450130 | 1.2823 | 0.9010 | 20.2613 | 19.6199 | 20.2777 | 20.0577
450131 | 1.1970 | 0.8645 | 18.1401 | 20.0434 | 23.2317 | 20.4988
450132 | 1.5727 | 0.9797 | 20.8908 | 22.4680 | 26.8476 | 23.3010
450133 | 1.5759 | 0.9507 | 24.5319 | 25.3928 | 25.0972 | 25.0119
450135 | 1.6225 | 0.9596 | 21.7038 | 22.5673 | 24.3858 | 22.9013
450137 | 1.5203 | 0.9596 | 22.8653 | 24.9732 | 27.0081 | 24.8468
450140 | 0.8446 | * | 19.6205 | 18.3835 | 22.4695 | 20.0510
450143 | 0.9959 | 0.9597 | 17.8206 | 18.4204 | 19.7487 | 18.6730
450144 | 1.0974 | 0.9495 | 21.9135 | 21.3896 | 20.9599 | 21.4342
450145 | *** | * | 18.0437 | * | * | 18.0437
450146 | 0.9970 | * | 17.4391 | 16.6808 | * | 17.0573
450147 | 1.3326 | 0.8456 | 20.3019 | 21.7248 | 24.6203 | 22.3284
450148 | 1.1467 | 0.9499 | 21.4982 | 22.1351 | 23.5037 | 22.3848
450149 | *** | * | 22.6138 | * | * | 22.6138
450150 | *** | * | 17.8804 | * | * | 17.8804
450151 | 1.1300 | 0.7997 | 16.3279 | 17.9127 | 20.1356 | 18.0008
450152 | 1.1752 | 0.9276 | 19.6105 | 20.0146 | 21.6351 | 20.4933
450153 | *** | * | 20.9651 | * | * | 20.9651
450154 | 1.3278 | 0.7997 | 16.8748 | 16.5204 | 18.6058 | 17.3243
450155 | 0.9510 | 0.7997 | 20.2582 | 18.4021 | 17.9306 | 18.7994
450157 | 1.0482 | * | 16.8569 | 17.8764 | 17.8812 | 17.5479
450160 | 0.9270 | 0.7997 | 18.7780 | 20.7736 | 21.9118 | 20.5083
450162 | 1.2607 | 0.8774 | 20.5032 | 26.0570 | 31.0645 | 25.3250
450163 | 0.9664 | 0.8131 | 19.7675 | 19.8194 | 20.3280 | 19.9738
450164 | *** | * | 18.7104 | * | * | 18.7104
450165 | 1.0507 | 0.9000 | 16.1010 | 16.1632 | 20.2414 | 17.6336
450166 | *** | * | 12.6626 | * | * | 12.6626
450170 | *** | * | 15.8526 | * | * | 15.8526
450176 | 1.2753 | 0.8603 | 19.2397 | 19.1823 | 20.9392 | 19.8386
450177 | 1.1518 | 0.7997 | 16.4504 | 17.2637 | 19.7657 | 17.8436
450178 | 0.9722 | 0.7997 | 15.8597 | 19.1186 | 20.2992 | 18.3516
450181 | *** | * | 18.3601 | * | * | 18.3601
450184 | 1.4895 | 1.0049 | 22.7744 | 24.0596 | 25.3935 | 24.1435
450185 | 0.9044 | * | 13.2016 | 14.3594 | 15.5838 | 14.3683
450187 | 1.1659 | 1.0049 | 20.8105 | 22.6275 | 24.2400 | 22.5476
450188 | 0.9459 | 0.7997 | 16.9800 | 17.6158 | 18.9586 | 17.8483
450191 | 1.1319 | 0.9597 | 20.5883 | 23.2261 | 25.9078 | 23.4298
450192 | 1.0650 | 1.0068 | 20.8315 | 20.1718 | 22.5118 | 21.1968
450193 | 2.0519 | 1.0049 | 25.1215 | 26.6580 | 29.2751 | 27.0516
450194 | 1.3307 | 1.0068 | 20.7152 | 22.7310 | 22.3348 | 21.9624
450196 | 1.4049 | 1.0068 | 21.1226 | 20.1938 | 23.6170 | 21.9785
450200 | 1.4023 | 0.8440 | 19.6496 | 20.4656 | 22.0923 | 20.7838
450201 | 0.9458 | 0.7997 | 18.0646 | 19.5907 | 20.3350 | 19.3230
450203 | 1.1966 | 0.9499 | 19.7978 | 22.9226 | 23.3953 | 22.0468
450209 | 1.8804 | 0.9177 | 21.3218 | 23.4794 | 24.4977 | 23.1149
450210 | 1.0249 | 0.7997 | 16.8532 | 16.7851 | 19.6340 | 17.7677
450211 | 1.3959 | 1.0049 | 18.7305 | 20.0280 | 20.7982 | 19.8738
450213 | 1.7480 | 0.9010 | 19.3440 | 21.1280 | 21.7930 | 20.7593
450214 | 1.1932 | 1.0049 | 21.3448 | 22.4543 | 23.9112 | 22.5593
450217 | *** | * | 13.1840 | * | * | 13.1840
450219 | 0.9768 | 0.7997 | 18.5534 | 21.0691 | 20.8255 | 19.8662
450221 | 1.2212 | 0.7997 | 16.2308 | 19.6778 | 20.6887 | 18.8514
450222 | 1.4712 | 1.0049 | 23.2778 | 23.5033 | 26.2975 | 24.4619
450224 | 1.5284 | 0.9335 | 20.1723 | 20.4453 | 22.2250 | 20.9972
450229 | 1.5939 | 0.8012 | 17.0346 | 17.9811 | 19.8279 | 18.2473
450231 | 1.5330 | 0.9177 | 20.7709 | 21.3086 | 23.9532 | 21.9604
450234 | 1.0254 | 0.7997 | 17.9478 | 22.3954 | 23.6695 | 20.9373
450235 | 0.9371 | 0.7997 | 17.0143 | 18.7028 | 19.1453 | 18.1955
450236 | 1.1034 | 0.7997 | 18.4551 | 17.7373 | 19.2987 | 18.4425
450237 | 1.6870 | 0.9010 | 21.6497 | 22.4477 | 25.1504 | 23.0545
450239 | 0.9376 | 0.9276 | 18.8416 | 19.3655 | 21.8595 | 19.9604
450241 | 0.9592 | 0.7997 | 16.6047 | 17.4151 | 18.1155 | 17.3548
450243 | 0.9491 | 0.7997 | 11.2034 | 13.0790 | 14.0589 | 12.7339
450246 | *** | * | 22.7940 | * | * | 22.7940
450249 | 0.9828 | * | 10.6467 | 13.1222 | 16.5616 | 13.2706
450250 | 0.8234 | * | 18.3361 | 13.3731 | * | 15.7019
450253 | 1.0239 | 0.9975 | 14.5493 | 16.6523 | 19.6379 | 16.7624
450258 | 1.0230 | * | 17.0724 | * | * | 17.0724
450264 | 0.9227 | * | 17.2826 | 13.5345 | 15.4111 | 15.1916
450269 | 1.1027 | * | 12.2970 | 12.6907 | 14.8204 | 13.1634
450270 | 0.9028 | 0.7997 | 13.8881 | 13.9053 | 15.0879 | 14.2216
450271 | 1.1475 | 0.9476 | 17.9570 | 18.3659 | 19.4299 | 18.6204
450272 | 1.2350 | 0.9597 | 20.5888 | 21.4520 | 23.7933 | 21.9875
450276 | 0.9026 | 0.8365 | 14.0779 | 12.8895 | 16.0264 | 14.3627
450278 | *** | * | 14.3933 | * | * | 14.3933
450280 | 1.6007 | 1.0068 | 22.2648 | 23.1664 | 27.4523 | 24.3279
450283 | 1.0896 | 1.0068 | 15.8223 | 17.1013 | 20.0069 | 17.8906
450288 | 0.9655 | * | 17.4817 | * | * | 17.4817
450289 | 1.3090 | 1.0049 | 22.4656 | 23.7108 | 27.3864 | 24.5132
450292 | 1.2543 | 1.0068 | 21.1511 | 23.4257 | 23.5330 | 22.6387
450293 | 0.8968 | 0.7997 | 16.4077 | 17.7673 | 20.0898 | 18.1304
450296 | 1.0956 | 1.0049 | 21.5998 | 20.4483 | 29.2006 | 23.4414
450299 | 1.4996 | 0.9246 | 21.2754 | 22.9849 | 25.8183 | 23.3391
450303 | 0.8093 | * | 14.3353 | 16.1330 | * | 15.1611
450306 | 0.9725 | 0.7997 | 13.6333 | 17.6821 | 14.6699 | 14.8595
450307 | *** | * | 17.6758 | * | * | 17.6758
450309 | *** | * | 16.0363 | * | * | 16.0363
450315 | 0.7527 | 1.0068 | 23.8151 | 26.4677 | 27.9780 | 26.0395
450320 | *** | * | 24.8601 | 26.8089 | * | 25.9698
450321 | *** | * | 17.2290 | * | * | 17.2290
450322 | *** | * | 28.9837 | * | * | 28.9837
450324 | 1.5052 | 0.9619 | 20.9081 | 23.8523 | 23.6362 | 22.8230
450327 | 0.9476 | * | 11.0984 | 14.3848 | * | 12.5388
450330 | 1.2447 | 1.0049 | 21.0921 | 22.9947 | 24.4310 | 22.8955
450334 | *** | * | 13.9812 | * | * | 13.9812
450340 | 1.3890 | 0.8174 | 19.2611 | 20.0621 | 22.7826 | 20.7373
450341 | *** | * | 20.8814 | * | * | 20.8814
450346 | 1.4005 | 0.8617 | 19.2769 | 20.1921 | 21.9717 | 20.5501
450347 | 1.1293 | 1.0049 | 20.1899 | 21.7142 | 22.8133 | 21.6287
450348 | 1.0155 | 0.8151 | 15.0069 | 15.6324 | 17.0198 | 15.8269
450351 | 1.2311 | 0.9499 | 21.2842 | 22.2597 | 23.5895 | 22.4158
450352 | 1.1032 | 1.0068 | 21.2035 | 21.8138 | 23.4297 | 22.1886
450353 | 1.2431 | 0.7997 | 17.3274 | 19.5263 | 20.9271 | 19.2854
450355 | *** | * | 12.8876 | * | * | 12.8876
450358 | 2.0251 | 1.0049 | 25.5767 | 25.9105 | 29.3408 | 26.8796
450362 | 0.9872 | 0.8483 | 18.7687 | 20.6340 | 22.0223 | 20.5410
450369 | 0.9642 | 0.7997 | 16.0667 | 16.5636 | 17.5360 | 16.6961
450370 | 1.2664 | 0.8255 | 18.7540 | 19.0340 | 22.6815 | 20.0753
450371 | *** | * | 17.7591 | 17.3415 | * | 17.5551
450372 | 1.3414 | 1.0068 | 21.4051 | 22.9079 | 26.8019 | 23.5016
450373 | 0.9150 | 0.7997 | 18.5716 | 17.7955 | 20.5789 | 18.8742
450374 | 0.9476 | 0.7997 | 15.0145 | 15.0670 | 17.4509 | 15.9358
450378 | 1.4945 | 1.0049 | 24.4143 | 25.8048 | 29.5108 | 26.7423
450379 | 1.3263 | 1.0068 | 25.1931 | 29.0865 | 31.1573 | 28.5998
450381 | 0.8997 | 0.9597 | 16.7237 | 19.0584 | 20.9200 | 19.1262
450388 | 1.6812 | 0.9010 | 20.7989 | 22.4441 | 24.1598 | 22.5213
450389 | 1.2486 | 1.0068 | 19.3156 | 20.7160 | 22.3803 | 20.8835
450393 | 0.7394 | 0.9619 | 21.4405 | 23.8237 | 24.6872 | 23.0294
450395 | 1.0289 | 0.8481 | 17.5236 | 19.1938 | 23.9689 | 20.2490
450399 | 0.9406 | 0.7997 | 16.3333 | 19.1571 | 19.5928 | 18.3623
450400 | 1.2207 | 0.8162 | 19.1345 | 20.1376 | 22.0103 | 20.4970
450403 | 1.2468 | 1.0068 | 24.7656 | 24.6215 | 27.8138 | 25.7251
450411 | 0.9448 | 0.7997 | 15.9165 | 16.9558 | 17.6570 | 16.8391
450417 | 0.8685 | 1.0049 | 15.2713 | 16.1957 | 17.8078 | 16.4591
450418 | 1.2981 | 1.0049 | 22.2511 | 25.1306 | 27.0283 | 24.8277
450419 | 1.1547 | 0.9596 | 22.9522 | 26.7662 | 28.4122 | 25.8839
450422 | 1.2683 | 1.0068 | 28.0395 | 29.0032 | 29.5592 | 28.8846
450424 | 1.2704 | 1.0049 | 20.7634 | 22.0682 | 23.1253 | 22.0479
450431 | 1.5734 | 0.9597 | 22.6766 | 22.9545 | 24.7346 | 23.4876
450438 | 1.1362 | 0.8255 | 21.0474 | 19.2165 | 22.0476 | 20.7899
450446 | 0.6617 | 1.0049 | 13.8011 | 14.1684 | 14.9983 | 14.3810
450447 | 1.2380 | 1.0068 | 19.7532 | 21.0247 | 22.5602 | 21.1150
450451 | 1.0841 | 0.9499 | 18.9518 | 21.1046 | 22.3834 | 20.8182
450460 | 0.9408 | 0.7997 | 15.9446 | 17.9487 | 19.5709 | 17.8777
450462 | 1.6891 | 1.0068 | 22.5413 | 24.0081 | 25.6952 | 24.1223
450464 | 0.8991 | * | 15.8120 | 16.1987 | * | 16.0151
450465 | 1.1324 | 0.8432 | 19.3927 | 19.4486 | 23.0130 | 20.6020
450467 | *** | * | 18.9388 | * | * | 18.9388
450469 | 1.4320 | 0.9619 | 22.0389 | 24.0794 | 26.6781 | 24.4855
450473 | *** | * | 18.3814 | 18.6002 | * | 18.4883
450475 | 0.9821 | 0.8802 | 19.0010 | 20.9443 | 20.7983 | 20.2431
450484 | 1.4166 | 1.0049 | 19.5505 | 23.2881 | 23.0604 | 21.9994
450488 | 1.2114 | 0.8802 | 22.0927 | 22.5650 | 22.3949 | 22.3502
450489 | 1.0238 | 0.7997 | 17.8778 | 18.5941 | 19.6884 | 18.6822
450497 | 1.0660 | 0.7997 | 15.9654 | 17.1327 | 17.6614 | 16.9069
450498 | 0.8943 | 0.7997 | 15.9479 | 19.2984 | 16.4358 | 17.1305
450508 | 1.3852 | 0.9335 | 19.3274 | 20.8183 | 23.5066 | 21.2786
450514 | 1.1104 | 0.8617 | 20.7064 | 21.0116 | 21.4034 | 21.0848
450517 | 0.9481 | 0.7997 | 17.6011 | 14.4246 | 15.2707 | 15.8340
450518 | 1.6579 | 0.8617 | 20.7355 | 21.1015 | 22.2587 | 21.3748
450523 | *** | * | 23.8270 | 22.3034 | 28.6387 | 24.7751
450530 | 1.1345 | 0.9975 | 21.8988 | 23.3005 | 26.1998 | 23.9178
450534 | 0.8868 | 0.9177 | 19.7411 | 22.5156 | 20.4715 | 20.8041
450535 | *** | * | 21.5449 | 23.7255 | 29.4427 | 24.8048
450537 | 1.2990 | 1.0068 | 20.8849 | 22.5972 | 23.9256 | 22.5688
450539 | 1.1750 | 0.7997 | 19.3681 | 18.4299 | 20.0343 | 19.2836
450544 | *** | * | 22.7282 | * | * | 22.7282
450545 | *** | * | 21.0792 | 21.7762 | 22.8130 | 21.8739
450547 | 0.9874 | 1.0068 | 20.5049 | 22.6557 | 21.8106 | 21.5951
450551 | *** | * | 16.1437 | * | * | 16.1437
450558 | 1.8300 | 0.8012 | 21.3116 | 21.4201 | 25.0837 | 22.5736
450563 | 1.2944 | 1.0068 | 21.9935 | 27.5671 | 27.9427 | 25.9404
450565 | 1.2400 | 0.7997 | 17.8058 | 17.2171 | 22.1971 | 18.9318
450571 | 1.5807 | 0.8174 | 19.5325 | 21.5688 | 20.9651 | 20.6563
450573 | 1.0640 | 0.7997 | 17.6157 | 18.6233 | 21.6974 | 19.2261
450574 | *** | * | 14.8549 | * | * | 14.8549
450575 | *** | * | 24.0386 | * | * | 24.0386
450578 | 0.8831 | 0.7997 | 17.2864 | 17.3010 | 20.0454 | 18.1424
450580 | 1.1749 | 0.7997 | 17.8225 | 18.5225 | 20.4293 | 18.9338
450583 | *** | * | 15.9429 | * | * | 15.9429
450584 | 1.0431 | 0.7997 | 14.9237 | 16.9021 | 19.0373 | 16.8758
450586 | 0.9744 | 0.7997 | 14.7433 | 14.9061 | 14.6574 | 14.7690
450587 | 1.1796 | 0.7997 | 18.0014 | 19.0648 | 19.9712 | 19.0147
450591 | 1.2399 | 1.0049 | 18.6714 | 19.6229 | 22.4991 | 20.2798
450596 ʰ | 1.1136 | 1.0307 | 21.9445 | 24.3714 | 24.7477 | 23.6852
450597 | 0.9409 | 0.8074 | 19.0641 | 19.9596 | 22.9337 | 20.7276
450603 | 0.6645 | * | 23.4923 | 20.6138 | * | 22.1102
450604 | 1.2989 | 0.7997 | 18.7465 | 19.5288 | 20.5273 | 19.6575
450605 | 1.0608 | 0.8645 | 19.7400 | 22.0210 | 23.8820 | 21.8483
450609 | 0.9630 | * | 14.1776 | 16.6870 | 18.3856 | 16.4088
450610 | 1.6657 | 1.0049 | 23.5626 | 24.7706 | 22.5451 | 23.6806
450614 | *** | * | * | 18.5895 | * | 18.5895
450615 | 0.9780 | 0.7997 | 15.0622 | 17.2717 | 18.2166 | 16.8506
450617 | 1.4062 | 1.0049 | 21.5004 | 22.7514 | 25.2211 | 23.3012
450620 | 0.9737 | 0.7997 | 16.4330 | 17.1333 | 18.1819 | 17.2486
450623 | 1.0938 | 1.0068 | 25.1122 | 25.1400 | 28.3354 | 26.1673
450626 | 1.0397 | 0.8291 | 20.5225 | 17.7454 | 21.4445 | 19.7342
450628 | *** | * | 20.0411 | * | * | 20.0411
450630 | 1.4345 | 1.0049 | 23.1839 | 24.8096 | 27.8856 | 25.4113
450631 | *** | * | 21.8940 | 22.8637 | 24.5409 | 23.2078
450632 | 0.9340 | * | 15.1416 | * | * | 15.1416
450634 | 1.5660 | 1.0068 | 23.0470 | 24.8258 | 27.0412 | 25.1506
450638 | 1.5151 | 1.0049 | 23.8335 | 26.3653 | 29.5385 | 26.7076
450639 | 1.4713 | 0.9596 | 23.0496 | 24.2919 | 27.3593 | 24.9656
450641 | 1.0082 | 0.7997 | 15.3652 | 17.4072 | 17.0805 | 16.6319
450643 | 1.4045 | 0.8775 | 18.9087 | 20.2000 | 20.9674 | 20.0693
450644 | 1.3943 | 1.0049 | 24.5834 | 24.4574 | 27.2047 | 25.5189
450646 | 1.4203 | 0.9213 | 23.1240 | 21.8500 | 22.6541 | 22.5274
450647 | 1.8226 | 1.0068 | 25.0549 | 26.8276 | 28.8881 | 26.9827
450648 | 0.9385 | 0.9597 | 14.4884 | 17.3678 | 18.2826 | 16.5630
450649 | 0.9182 | * | 16.8505 | 17.5761 | 18.1118 | 17.5193
450651 | 1.5824 | 1.0068 | 25.4679 | 26.9215 | 28.9829 | 27.2344
450653 | 1.0603 | 0.9294 | 20.2436 | 22.7236 | 21.8654 | 21.6446
450654 | 0.8767 | 0.7997 | 15.5858 | 16.3057 | 19.6054 | 17.1762
450656 | 1.3781 | 0.9335 | 18.5874 | 20.7824 | 22.7284 | 20.7254
450658 | 0.8919 | 0.7997 | 19.4139 | 19.6855 | 19.9597 | 19.6879
450659 | 1.4392 | 1.0049 | 22.9344 | 26.0224 | 28.8671 | 26.1618
450661 | 1.8419 | 0.9797 | 19.5504 | 20.0716 | 21.5537 | 20.4105
450662 | 1.5205 | 1.0158 | 20.7973 | 26.3794 | 24.5815 | 23.8635
450665 | 0.8494 | 0.7997 | 14.5158 | 15.8571 | 17.2566 | 15.8982
450668 | 1.4817 | 0.9213 | 21.2002 | 24.0081 | 26.4508 | 23.8861
450669 | 1.2416 | 1.0068 | 22.5150 | 25.0200 | 25.6411 | 24.4545
450670 | 1.3039 | 1.0049 | 19.7696 | 19.9621 | 22.0495 | 20.6739
450672 | 1.6848 | 0.9596 | 23.2623 | 25.3106 | 26.7785 | 25.1345
450673 | 0.9333 | 0.8397 | 14.9115 | 16.3319 | 19.4030 | 16.8314
450674 | 0.9907 | * | 21.9624 | 24.8137 | 26.8081 | 24.6823
450675 | 1.3593 | 0.9596 | 23.3954 | 24.8661 | 26.1555 | 24.9243
450677 | 1.3669 | 0.9596 | 21.7366 | 22.9529 | 24.0218 | 22.9672
450678 | 1.4635 | 1.0068 | 25.1841 | 28.1917 | 30.1134 | 27.9547
450683 | 1.1567 | 1.0068 | 22.1965 | 24.5013 | 24.0080 | 23.5689
450684 | 1.2177 | 1.0049 | 22.2380 | 23.8945 | 26.2906 | 24.1786
450686 | 1.5877 | 0.8774 | 17.4746 | 17.9181 | 21.0565 | 18.8784
450688 | 1.2664 | 1.0068 | 21.7691 | 21.7922 | 23.7796 | 22.5071
450690 | 1.4216 | 0.9516 | 27.2400 | 33.1576 | 28.7529 | 29.4196
450694 | 1.0988 | 1.0049 | 18.5520 | 21.4784 | 22.3081 | 20.6353
450697 | 1.3527 | 0.9010 | 19.4424 | 20.8951 | 21.2662 | 20.5334
450698 | 0.8866 | 0.7997 | 16.5111 | 18.1764 | 18.5436 | 17.7240
450700 | 0.9303 | 0.7997 | 14.2055 | 17.3458 | 18.6373 | 16.7946
450702 | 1.5185 | 0.8802 | 19.8094 | 22.2953 | 24.8628 | 22.2909
450704 | *** | * | 18.1835 | * | * | 18.1835
450705 | *** | * | 18.7139 | * | * | 18.7139
450706 | *** | * | 22.4329 | * | * | 22.4329
450709 | 1.3104 | 1.0049 | 22.0123 | 23.4246 | 25.0932 | 23.6034
450711 | 1.6279 | 0.8603 | 20.8047 | 22.1489 | 24.8277 | 22.7192
450712 | *** | * | 11.1086 | 18.4547 | * | 14.0322
450713 | 1.5106 | 0.9597 | 23.6189 | 24.4002 | 26.7190 | 25.0030
450715 | 1.2928 | 1.0068 | 24.8068 | * | 16.1897 | 19.3291
450716 | 1.2347 | 1.0049 | 20.8913 | 24.8614 | 28.8043 | 24.9291
450717 | *** | * | 22.0243 | * | * | 22.0243
450718 | 1.1684 | 0.9597 | 23.0051 | 24.9162 | 27.6672 | 25.3843
450723 | 1.3991 | 1.0068 | 22.0633 | 24.1618 | 27.0055 | 24.6219
450724 | *** | * | 23.3800 | 21.9630 | * | 22.9078
450727 | 0.9854 | * | 24.6125 | 16.0843 | * | 20.1195
450728 | *** | * | 14.9265 | * | * | 14.9265
450730 | 1.2151 | 1.0068 | 24.5952 | 27.8476 | 30.7567 | 27.8690
450733 | *** | * | 21.9921 | 23.8143 | 25.5624 | 23.9940
450742 | 1.1797 | 1.0068 | 22.8135 | 25.1295 | 26.3414 | 24.8619
450743 | 1.4562 | 1.0068 | 20.5017 | 23.7424 | 24.7397 | 23.1028
450746 | 0.9339 | 0.7997 | 14.6684 | 11.1672 | 16.9209 | 13.8671
450747 | 1.2274 | 1.0068 | 20.3871 | 21.5883 | 24.2674 | 22.2731
450749 | 0.9840 | 0.7997 | 18.7138 | 17.8696 | 18.4095 | 18.3352
450751 | 1.2619 | 0.8440 | 19.8170 | 23.3154 | 22.9070 | 21.7213
450754 | 0.9249 | 0.7997 | 17.8496 | 19.2827 | 21.3043 | 19.3844
450755 | 0.9588 | 0.8774 | 20.0667 | 19.2768 | 19.5168 | 19.6579
450757 | *** | * | 15.6425 | * | * | 15.6425
450758 | 1.4970 | 1.0068 | 22.6196 | 22.8713 | 24.0226 | 23.2343
450760 | 1.2721 | 0.9213 | 20.4209 | 23.2959 | 25.7453 | 22.5615
450761 | 0.8391 | 0.7997 | 14.6511 | 15.5151 | 16.2605 | 15.5097
450763 | 1.0952 | 0.8233 | 18.9713 | 19.8939 | 21.4171 | 20.1109
450766 | 2.0221 | 1.0068 | 25.4057 | 27.2499 | 28.8576 | 27.1616
450769 | *** | * | 17.9878 | * | * | 17.9878
450770 | 1.1438 | 0.9597 | 20.0632 | 19.9412 | 20.1763 | 20.0588
450771 | 1.7106 | 1.0068 | 21.6946 | 25.0490 | 26.0618 | 24.4491
450774 | 1.7649 | 1.0049 | * | 21.7906 | 24.8562 | 23.1807
450775 | 1.2350 | 1.0049 | 22.6526 | 23.6621 | 25.3924 | 23.9677
450776 | 0.9317 | * | 13.4263 | 14.6695 | * | 14.0544
450777 | *** | * | 18.3118 | * | * | 18.3118
450779 | 1.2072 | 0.9596 | 22.6216 | 23.8882 | 22.5857 | 23.0128
450780 | 1.9387 | 0.9010 | 20.0825 | 21.9046 | 22.8688 | 21.6527
450788 | 1.5610 | 0.8645 | 19.9817 | 21.4467 | 24.2643 | 21.8383
450795 | 0.9709 | 1.0049 | 27.0250 | 19.1371 | 28.1448 | 24.2717
450796 | 1.3957 | 0.9177 | 26.8540 | 22.4973 | 24.7564 | 24.6166
450797 | 0.6550 | 1.0049 | 20.2356 | 18.6839 | 23.8708 | 20.8801
450801 | 1.5175 | 0.8440 | 18.0598 | 19.7790 | 22.2426 | 20.0150
450802 | *** | * | 18.2461 | * | * | 18.2461
450803 | 1.2415 | 1.0049 | 37.0925 | 23.8343 | 26.3054 | 26.9644
450804 | 1.7569 | 1.0049 | 20.5225 | 22.8275 | 26.0003 | 23.2192
450806 | *** | * | 20.7906 | * | * | 20.7906
450807 | *** | * | 18.4410 | * | * | 18.4410
450808 | 1.6675 | 0.9597 | 18.1728 | 18.6555 | 22.8247 | 19.8162
450809 | 1.5722 | 0.9597 | 21.9845 | 23.8758 | 24.7763 | 23.5889
450811 | 1.8538 | 0.8603 | 21.6115 | 22.7583 | 23.1022 | 22.8702
450813 | 1.1168 | 0.8192 | 15.3780 | 21.7208 | 22.1326 | 19.2421
450817 | *** | * | * | 28.4441 | * | 28.4441
450820 | 1.2534 | 1.0049 | 24.6543 | 26.9121 | 27.9187 | 26.6816
450822 | 1.1644 | 1.0068 | 24.8702 | 26.7821 | 29.7067 | 27.2626
450823 | *** | * | 17.9757 | * | * | 17.9757
450824 | 2.1439 | 0.9597 | 25.7488 | 24.5885 | * | 25.1472
450825 | 1.6965 | 0.8603 | 16.0793 | 18.8510 | 18.7069 | 18.0461
450827 | 1.4851 | 0.8397 | 20.1309 | 29.5838 | 21.1788 | 23.2490
450828 | 1.2210 | 0.7997 | 19.2902 | 20.9509 | 21.4128 | 20.5895
450829 | 1.5522 | 0.9010 | 14.7122 | 14.4463 | 18.2860 | 15.8810
450830 | 0.9906 | 0.9495 | * | 24.7834 | 26.9917 | 25.9027
450831 | 1.3559 | 1.0049 | * | * | 20.0581 | 20.0581
450832 | 1.1592 | 1.0049 | * | 24.8572 | 26.4725 | 25.7594
450833 | 1.1502 | 1.0068 | * | 18.3196 | 26.1256 | 22.1880
450834 | 1.3748 | 0.9246 | * | 21.7217 | 22.7691 | 22.2578
450835 | *** | * | * | 24.8374 | * | 24.8374
450837 | *** | * | * | 24.2964 | * | 24.2964
450838 | 1.0158 | 0.7997 | * | * | 15.0454 | 15.0454
450839 | 0.9396 | 0.7997 | * | * | 21.1905 | 21.1905
450840 | 0.9864 | 1.0068 | * | * | 29.5215 | 29.5215
450841 | 1.5484 | 1.0158 | * | * | 17.6635 | 17.6635
450842 | *** | * | * | * | 23.0945 | 23.0945
450844 | 1.2806 | 1.0049 | * | * | 34.4235 | 34.4235
450845 | 1.8945 | 0.9213 | * | * | 26.5040 | 26.5040
450846 | *** | * | * | * | 24.0791 | 24.0791
450847 | 1.2042 | 1.0049 | * | * | 26.8892 | 26.8892
450848 | 1.1906 | 1.0049 | * | * | 26.5609 | 26.5609
460001 | 1.8660 | 0.9584 | 23.5485 | 24.8844 | 25.6932 | 24.7231
460003 | 1.5954 | 0.9564 | 22.9549 | 26.5141 | 24.3527 | 24.5631
460004 | 1.5985 | 0.9360 | 23.1289 | 24.3409 | 25.2191 | 24.2476
460005 | 1.4699 | 0.9360 | 23.0188 | 25.0063 | 22.6809 | 23.5124
460006 | 1.3067 | 0.9564 | 22.1648 | 23.4200 | 24.4350 | 23.3445
460007 | 1.3436 | 0.8576 | 22.0409 | 23.3603 | 24.2875 | 23.2582
460008 | 1.2756 | 0.9564 | 22.6808 | 24.8233 | 24.4453 | 24.0703
460009 | 1.8803 | 0.9564 | 23.1933 | 24.5865 | 25.0984 | 24.3386
460010 | 2.0773 | 0.9564 | 24.0907 | 25.1240 | 26.2331 | 25.1718
460011 | 1.2751 | 0.8576 | 25.3817 | 21.2634 | 22.3601 | 22.7359
460013 | 1.4494 | 0.9584 | 21.2360 | 23.1467 | 23.4765 | 22.6085
460014 | 1.0525 | 0.9564 | * | 22.6125 | 23.9400 | 23.3280
460015 | 1.2621 | 0.9105 | 22.4872 | 23.1068 | 24.0939 | 23.2464
460016 | 1.0550 | * | 19.0911 | 18.7453 | * | 18.9162
460017 | 1.3177 | 0.8968 | 19.0724 | 20.7789 | 21.7082 | 20.4673
460018 ʰ | 0.8685 | 1.0777 | 17.0384 | 16.7143 | 18.8942 | 17.5469
460019 | 1.1002 | 0.8576 | 19.3442 | 18.1995 | 20.3625 | 19.3088
460020 | 1.0095 | 0.8576 | 18.1541 | 15.2162 | 19.4960 | 17.3822
460021 | 1.4605 | 1.1193 | 23.1368 | 23.8565 | 24.9725 | 24.0284
460022 | *** | * | 20.7539 | * | * | 20.7539
460023 | 1.2307 | 0.9584 | 24.1825 | 25.0874 | 25.0376 | 24.7787
460025 | 0.7371 | * | 17.4069 | 22.3098 | 18.7978 | 19.3343
460026 | 0.9785 | 0.8576 | 21.1759 | 21.9316 | 22.7589 | 21.9614
460027 | *** | * | 21.4834 | * | * | 21.4834
460029 | 0.9575 | * | 23.7147 | 24.4379 | * | 24.0897
460030 | 1.2008 | 0.8576 | 18.7655 | 21.2546 | 22.6129 | 20.8722
460032 | 1.0308 | * | 21.0286 | 21.2715 | 22.8987 | 21.8139
460033 | 0.9414 | 0.8576 | 20.2389 | 21.7216 | 22.7816 | 21.6013
460035 | 1.0141 | 0.8576 | 15.6979 | 16.9657 | 16.9019 | 16.5037
460036 | 1.1592 | 0.9584 | 24.2650 | 23.9910 | 25.2647 | 24.5560
460037 | 0.9595 | 0.8576 | 19.0115 | 20.0323 | 19.8478 | 19.6325
460039 | 1.0511 | 0.9360 | 24.5133 | 26.3795 | 27.5912 | 26.1517
460041 | 1.3111 | 0.9360 | 21.6676 | 23.5132 | 24.0431 | 23.1679
460042 | 1.3229 | 0.9360 | 19.7531 | 22.0844 | 23.5819 | 21.8396
460043 | 1.3596 | 0.9584 | 25.1366 | 26.0277 | 26.6870 | 25.9656
460044 | 1.1627 | 0.9564 | 23.6604 | 24.7138 | 25.7342 | 24.7272
460047 | 1.6566 | 0.9564 | 23.5447 | 24.9214 | 25.1721 | 24.5805
460049 | 1.9714 | 0.9564 | 21.5241 | 21.9357 | 23.0683 | 22.1699
460051 | 1.1293 | 0.9564 | 21.8950 | 22.7540 | 23.4970 | 22.7470
460052 | 1.4351 | 0.9584 | 20.1989 | 23.1717 | 24.0797 | 22.5844
460053 | *** | * | * | 23.2274 | * | 23.2274
460054 | 1.8236 | 0.9105 | * | * | 23.5227 | 23.5227
470001 | 1.2955 | 0.9931 | 21.7774 | 23.5882 | 24.5499 | 23.3386
470003 | 1.8836 | 1.1574 | 23.3612 | 24.1739 | 24.6660 | 24.1004
470004 | *** | * | 17.3576 | * | * | 17.3576
470005 | 1.3107 | 0.9487 | 22.6589 | 24.9625 | 25.7288 | 24.4991
470006 | 1.1581 | 0.9487 | 21.0835 | 21.6036 | 26.0884 | 22.9868
470008 | 1.2162 | 0.9487 | 20.3833 | 20.7659 | 21.8951 | 21.0036
470010 | 1.1241 | 0.9487 | 22.3913 | 23.2072 | 22.9777 | 22.8664
470011 | 1.2233 | 1.1235 | 24.1306 | 24.6034 | 25.9246 | 24.8995
470012 | 1.2157 | 0.9998 | 19.8831 | 20.5072 | 22.9159 | 21.1606
470015 | *** | * | 21.8204 | * | * | 21.8204
470018 | 1.1898 | 0.9774 | 24.8493 | 21.2904 | 25.9300 | 23.9018
470020 | *** | * | 21.9910 | * | * | 21.9910
470023 | 1.2984 | 0.9605 | 22.5334 | 24.1395 | 26.7486 | 24.4681
470024 | 1.1819 | 0.9487 | 23.2738 | 22.4659 | 23.7745 | 23.1766
490001 | 1.0876 | 0.8883 | 21.4952 | 22.3622 | 21.7111 | 21.8554
490002 | 0.9977 | 0.8276 | 16.5198 | 17.5098 | 18.5220 | 17.5132
490003 | *** | * | 20.7688 | 20.9783 | 23.8112 | 21.7944
490004 | 1.2692 | 0.9931 | 20.7616 | 22.7154 | 24.4580 | 22.6368
490005 | 1.6634 | 1.0895 | 23.1708 | 25.2213 | 27.6425 | 25.3820
490006 | 1.1973 | 1.0008 | 19.8978 | 13.4277 | 16.7679 | 16.7044
490007 | 2.1677 | 0.8928 | 20.7896 | 22.2526 | 24.9533 | 22.6733
490009 | 1.9220 | 1.0292 | 24.7602 | 25.2181 | 27.5905 | 25.9257
490011 | 1.4778 | 0.8928 | 19.8179 | 20.0136 | 22.4410 | 20.8027
490012 | 1.0594 | 0.8276 | 16.0994 | 15.8346 | 18.3697 | 16.7390
490013 | 1.2471 | 0.8883 | 18.3901 | 19.5094 | 21.4838 | 19.8088
490014 | *** | * | 27.8907 | * | * | 27.8907
490015 | *** | * | 21.4500 | 21.2557 | 22.5641 | 21.8030
490017 | 1.4370 | 0.8928 | 19.6594 | 20.7691 | 22.9632 | 21.1556
490018 | 1.2450 | 0.9931 | 19.8955 | 22.0810 | 23.2215 | 21.7561
490019 ʰ | 1.1195 | 1.2266 | 21.6789 | 23.3077 | 24.4524 | 23.1884
490020 | 1.2642 | 0.9379 | 20.9212 | 21.2094 | 23.6611 | 21.9411
490021 | 1.4496 | 0.9026 | 21.2263 | 22.2537 | 23.5930 | 22.3427
490022 | 1.4578 | 1.1026 | 24.3008 | 24.4682 | 25.0277 | 24.6098
490023 | 1.2351 | 1.1026 | 22.8400 | 24.9734 | 28.8354 | 25.6975
490024 | 1.7038 | 0.8660 | 19.7491 | 21.2619 | 21.7268 | 20.9489
490027 | 1.0380 | 0.8276 | 17.5178 | 20.3644 | 19.8345 | 19.2346
490031 | 1.0643 | 0.8276 | 17.4262 | 18.4826 | 22.4300 | 19.4616
490032 | 1.8396 | 0.9379 | 22.2041 | 23.6489 | 22.8942 | 22.9119
490033 | 1.0684 | 1.1026 | 23.2088 | 24.4370 | 27.6355 | 25.2732
490037 | 1.1906 | 0.8276 | 17.2117 | 17.5104 | 19.0583 | 17.9072
490038 | 1.1767 | 0.8298 | 18.6012 | 18.1405 | 19.6427 | 18.8091
490040 | 1.4675 | 1.1026 | 25.5461 | 27.0513 | 30.1820 | 27.6998
490041 | 1.3607 | 0.8928 | 17.9942 | 19.9314 | 22.2955 | 20.1369
490042 | 1.2743 | 0.8276 | 18.1864 | 19.5127 | 20.5845 | 19.4782
490043 | 1.1725 | 1.1026 | 23.5367 | 25.4354 | 28.2969 | 25.8840
490044 | 1.4048 | 0.8928 | 18.4845 | 20.8739 | 22.1324 | 20.5289
490045 | 1.2683 | 1.1026 | 22.5238 | 24.7131 | 27.2132 | 25.0560
490046 | 1.5811 | 0.8928 | 19.8518 | 22.0040 | 24.6391 | 22.2200
490047 | 1.0638 | 1.0895 | 20.1660 | 19.8220 | 21.9156 | 20.5714
490048 | 1.4818 | 0.8472 | 20.9110 | 22.3138 | 24.1639 | 22.4975
490050 | 1.4521 | 1.1026 | 23.8519 | 26.1521 | 29.4660 | 26.5941
490052 | 1.6514 | 0.8928 | 18.5693 | 19.2480 | 21.4035 | 19.7955
490053 | 1.2635 | 0.8362 | 17.7363 | 18.6541 | 20.9367 | 19.1048
490054 | *** | * | 22.5137 | * | * | 22.5137
490057 | 1.5757 | 0.8928 | 21.1871 | 22.1612 | 25.1898 | 22.8972
490059 | 1.5796 | 0.9379 | 24.1516 | 23.3895 | 26.1518 | 24.6049
490060 | 1.0416 | 0.8276 | 19.3525 | 20.6028 | 21.0828 | 20.3614
490063 | 1.8606 | 1.1026 | 28.0906 | 31.0162 | 29.4216 | 29.5081
490066 | 1.3386 | 0.8928 | 21.5920 | 22.1034 | 23.3835 | 22.4139
490067 | 1.2244 | 0.9379 | 18.6469 | 20.4058 | 21.8730 | 20.3061
490069 | 1.5074 | 0.9379 | 18.8335 | 20.6957 | 24.4542 | 21.4769
490071 | 1.3285 | 0.9379 | 24.1882 | 25.4678 | 27.0374 | 25.7270
490073 | 1.5549 | 1.1026 | * | 27.6711 | 25.2859 | 26.3942
490075 | 1.4146 | 0.8660 | 20.5801 | 22.3230 | 22.8303 | 21.9455
490077 | 1.2620 | 1.0292 | 21.9175 | 22.2643 | 24.8309 | 23.0671
490079 | 1.3205 | 0.9288 | 17.5839 | 19.2196 | 19.8100 | 18.8750
490084 | 1.2111 | 0.8443 | 18.9679 | 19.8598 | 22.7945 | 20.5990
490085 | 1.1119 | * | 19.4261 | * | * | 19.4261
490088 | 1.0821 | 0.9026 | 19.1924 | 19.7549 | 21.4818 | 20.1811
490089 | 1.0404 | 0.8472 | 19.7936 | 21.1522 | 21.2123 | 20.7332
490090 | 1.1484 | 0.8276 | 19.2094 | 20.3015 | 21.3410 | 20.2879
490091 | *** | * | 23.7493 | * | * | 23.7493
490092 | 1.1192 | 0.8928 | 27.1805 | 23.8364 | 21.6466 | 23.7947
490093 | 1.3985 | 0.8928 | 19.1131 | 20.7388 | 23.6779 | 21.1919
490094 | 1.0138 | 0.9379 | 20.2020 | 21.9886 | 26.0755 | 22.9864
490097 | 1.0614 | 0.8276 | 16.6563 | 18.1022 | 23.5366 | 19.1790
490098 | 1.2149 | 0.8276 | 18.5133 | 19.7116 | 20.9805 | 19.7219
490099 | *** | * | 19.2604 | * | * | 19.2604
490101 | 1.2436 | 1.1026 | 25.7804 | 28.5200 | 30.1800 | 28.2701
490104 | 0.8197 | 0.9379 | 17.1683 | 28.0286 | 33.1215 | 23.5098
490105 | 0.6547 | 0.8298 | 28.7831 | 40.6821 | 38.2813 | 34.2636
490106 | 0.8754 | 0.8276 | 31.8566 | 31.6541 | 30.1492 | 31.1715
490107 | 1.2814 | 1.1026 | 23.9962 | 26.5312 | 28.7296 | 26.4969
490108 | 0.9833 | 0.9026 | 24.8596 | 28.7277 | 27.9090 | 27.0862
490109 | 0.9700 | 0.8928 | 23.0609 | 28.0978 | 28.0548 | 26.1389
490110 | 1.2746 | 0.8358 | 18.8042 | 23.6080 | 21.3126 | 21.1209
490111 | 1.2973 | 0.8276 | 19.9552 | 19.4041 | 20.6373 | 19.9970
490112 | 1.6877 | 0.9379 | 23.2843 | 23.6028 | 25.8312 | 24.2910
490113 | 1.3172 | 1.1026 | 26.1839 | 28.0893 | 29.1786 | 27.8347
490114 | 0.9832 | 0.8276 | 18.8920 | 19.9725 | 20.0555 | 19.6640
490115 | 1.1753 | 0.8276 | 18.4499 | 19.9151 | 20.3615 | 19.5843
490116 | 1.1302 | 0.8276 | 18.2935 | 19.7007 | 21.3083 | 19.7208
490117 | 1.1312 | 0.8276 | 17.1723 | 15.6078 | 17.4111 | 16.7391
490118 | 1.6691 | 0.9379 | 24.2668 | 25.2230 | 26.8810 | 25.5499
490119 | 1.3222 | 0.8928 | 18.9535 | 21.3883 | 23.7813 | 21.3499
490120 | 1.4139 | 0.8928 | 20.6828 | 22.2389 | 23.1535 | 22.0430
490122 | 1.4081 | 1.1026 | 26.6681 | 27.3509 | 28.7020 | 27.6120
490123 | 1.0995 | 0.8276 | 20.0920 | 20.9506 | 22.9511 | 21.3238
490124 | *** | * | 23.6526 | 21.3713 | 29.7939 | 25.0114
490126 | 1.2896 | 0.8472 | 19.0782 | 20.4660 | 23.1423 | 20.8236
490127 | 1.1285 | 0.8276 | 17.6437 | 17.8070 | 19.4005 | 18.3215
490130 | 1.2545 | 0.8928 | 18.6406 | 18.6038 | 22.0769 | 19.7787
490132 | 0.9895 | * | 19.1742 | 19.5849 | * | 19.3732
500001 | 1.5796 | 1.1476 | 25.3478 | 26.6420 | 26.7502 | 26.2513
500002 | 1.4138 | 1.0280 | 22.9942 | 24.0374 | 25.0665 | 24.0399
500003 | 1.2861 | 1.1476 | 25.1200 | 27.3435 | 28.4174 | 27.0189
500005 | 1.8278 | 1.1476 | 26.2066 | 28.9512 | 31.4415 | 28.8241
500007 | 1.3562 | 1.0762 | 24.7889 | 23.5774 | 26.1318 | 24.8346
500008 | 1.9577 | 1.1476 | 27.2852 | 28.9380 | 31.0128 | 29.1404
500011 | 1.2910 | 1.1476 | 25.7263 | 27.6762 | 28.3391 | 27.2631
500012 | 1.6692 | 1.0317 | 24.5450 | 26.2263 | 29.2045 | 26.7750
500014 | 1.6639 | 1.1476 | 25.0490 | 27.4248 | 30.1061 | 27.6453
500015 | 1.3430 | 1.1476 | 25.9465 | 27.3397 | 30.1596 | 27.8164
500016 | 1.6894 | 1.1476 | 25.1227 | 27.7863 | 29.3634 | 27.4840
500019 | 1.2341 | 1.0163 | 23.5730 | 25.7691 | 26.9702 | 25.5143
500021 | 1.3271 | 1.1129 | 25.9403 | 26.4648 | 28.5926 | 27.0872
500023 | 1.1391 | 1.0508 | 32.3079 | 23.9513 | 27.3823 | 27.4282
500024 | 1.6774 | 1.1028 | 26.2112 | 27.2967 | 29.3946 | 27.6313
500025 | 1.6616 | 1.1476 | 27.3697 | 29.0400 | 31.7335 | 29.3183
500026 | 1.4508 | 1.1476 | 26.6107 | 28.7532 | 31.4152 | 28.8819
500027 | 1.5638 | 1.1476 | 27.7429 | 30.6901 | 29.5939 | 29.3679
500028 | 0.9873 | * | 19.0262 | * | * | 19.0262
500029 | *** | * | 19.3130 | * | * | 19.3130
500030 | 1.5062 | 1.1605 | 28.5297 | 29.0487 | 30.5926 | 29.4402
500031 | 1.2102 | 1.1005 | 25.8542 | 26.0740 | 28.5398 | 26.8226
500033 | 1.3141 | 0.9950 | 23.8994 | 25.4345 | 26.6704 | 25.3752
500036 | 1.3890 | 1.0317 | 25.1255 | 25.4753 | 26.0223 | 25.5683
500037 | 1.0673 | 1.0317 | 22.1773 | 23.5414 | 24.6548 | 23.4783
500039 | 1.3809 | 1.1476 | 25.4225 | 26.1409 | 27.9651 | 26.5977
500041 | 1.2860 | 1.1371 | 24.7070 | 24.9004 | 26.9101 | 25.5610
500043 | *** | * | 24.1746 | * | * | 24.1746
500044 | 1.9499 | 1.0643 | 24.7816 | 27.0880 | 26.9323 | 26.3085
500045 | *** | * | 24.6265 | * | * | 24.6265
500048 | *** | * | 20.6332 | * | * | 20.6332
500049 | 1.3569 | 0.9950 | 26.5857 | 26.6407 | 25.6104 | 26.2339
500050 | 1.4327 | 1.1371 | 23.0804 | 25.0907 | 26.8971 | 25.0817
500051 | 1.7605 | 1.1476 | 26.7628 | 26.9538 | 29.0100 | 27.6121
500053 | 1.2915 | 1.0508 | 24.2492 | 26.0112 | 26.8074 | 25.7709
500054 | 2.0600 | 1.0643 | 25.7815 | 27.1965 | 28.8062 | 27.2788
500055 | 1.2108 | * | 23.7988 | 25.3095 | * | 24.5719
500057 | 1.3154 | 0.9950 | 20.5812 | 21.0357 | 21.4393 | 21.0436
500058 | 1.6345 | 1.0508 | 26.5679 | 27.3411 | 28.4247 | 27.4800
500059 | 1.0800 | * | 25.3528 | * | * | 25.3528
500060 | 1.3409 | 1.1476 | 29.6030 | 31.7480 | 33.5169 | 31.6877
500061 | *** | * | 24.5910 | * | * | 24.5910
500062 | 0.9638 | * | 19.1685 | * | * | 19.1685
500064 | 1.7368 | 1.1476 | 27.5791 | 29.2539 | 31.1459 | 29.3398
500065 | 1.2243 | * | 24.0966 | 26.5880 | 26.0960 | 25.5962
500068 | *** | * | 20.9277 | * | * | 20.9277
500069 | *** | * | 22.4158 | * | * | 22.4158
500071 | 1.2536 | * | 22.3252 | 23.2071 | * | 22.7789
500072 | 1.1624 | 1.1476 | 25.7734 | 27.5706 | 29.3087 | 27.5911
500073 | *** | * | 22.5221 | * | * | 22.5221
500074 | 1.1522 | * | 20.6120 | 21.9019 | * | 21.2901
500077 | 1.4682 | 1.0643 | 24.5695 | 26.5692 | 27.8819 | 26.4080
500079 | 1.3471 | 1.1129 | 24.7946 | 27.1775 | 28.4934 | 26.8607
500080 | *** | * | 18.8186 | * | * | 18.8186
500084 | 1.1869 | 1.1476 | 25.0556 | 26.5864 | 27.6306 | 26.5011
500085 | *** | * | 20.7422 | * | * | 20.7422
500086 | 1.2794 | * | 24.2556 | 25.9705 | * | 25.1196
500088 | 1.3552 | 1.1476 | 26.4212 | 30.1689 | 31.2757 | 29.2831
500089 | *** | * | 20.3478 | * | * | 20.3478
500090 | *** | * | 21.7715 | * | * | 21.7715
500092 | 1.0307 | 1.0949 | 20.3057 | 20.8601 | 23.2466 | 21.5343
500094 | *** | * | 17.6624 | * | * | 17.6624
500096 | *** | * | 25.1135 | * | * | 25.1135
500097 | *** | * | 21.4424 | * | * | 21.4424
500098 | 0.9576 | * | 17.8453 | * | * | 17.8453
500101 | *** | * | 19.8615 | * | * | 19.8615
500102 | *** | * | 23.1306 | * | * | 23.1306
500104 | 1.2157 | 1.1476 | 24.7875 | 26.8007 | 27.0034 | 26.2068
500106 | *** | * | 17.1066 | * | * | 17.1066
500107 | 1.3063 | * | 17.4641 | * | * | 17.4641
500108 | 1.6685 | 1.1129 | 26.1609 | 27.4156 | 28.7206 | 27.5253
500110 | 1.2268 | 0.9950 | 23.5940 | 24.8448 | 25.4785 | 24.6519
500118 | 1.1280 | 1.1005 | 24.7875 | 26.1971 | 28.1074 | 26.3776
500119 | 1.3727 | 1.0643 | 23.9939 | 25.1576 | 27.2335 | 25.4960
500122 | 1.1724 | 1.1476 | 24.4462 | 26.9006 | 27.4405 | 26.3044
500123 | *** | * | 21.7133 | * | * | 21.7133
500124 | 1.3939 | 1.1476 | 24.6591 | 24.8357 | 28.6598 | 26.0871
500125 | *** | * | 15.6304 | * | * | 15.6304
500129 | 1.5830 | 1.1129 | 25.2082 | 27.8351 | 30.0223 | 27.7387
500132 | *** | * | 21.9915 | * | * | 21.9915
500134 | 0.4723 | 1.1476 | 15.9791 | 21.3921 | 24.2990 | 19.3507
500139 | 1.5359 | 1.1028 | 23.7993 | 27.7281 | 29.2357 | 26.9617
500141 | 1.3017 | 1.1476 | 28.1014 | 28.2968 | 30.7478 | 29.0880
500143 | 0.4877 | 1.1028 | 18.7523 | 19.0982 | 20.7093 | 19.5721
500147 | 1.0420 | 1.1476 | * | * | 16.3669 | 16.3669
500148 | 1.0826 | 0.9950 | * | * | 18.2168 | 18.2168
510001 | 1.9197 | 0.8742 | 20.2514 | 21.4247 | 22.9351 | 21.5933
510002 | 1.1382 | 0.8462 | 19.1516 | 20.9822 | 22.4751 | 20.8575
510005 | 0.9090 | * | 13.8641 | * | * | 13.8641
510006 | 1.2069 | 0.8733 | 19.9760 | 21.0214 | 22.2947 | 21.1209
510007 | 1.5868 | 0.9560 | 22.9326 | 23.4411 | 24.3499 | 23.5775
510008 | 1.1699 | 1.0357 | 19.9176 | 22.7595 | 24.5293 | 22.4939
510012 | 1.0105 | 0.7991 | 15.8596 | 16.7710 | 18.5816 | 17.0389
510013 | 1.0987 | 0.7991 | 18.3486 | 19.7937 | 19.9710 | 19.3746
510015 | 0.8453 | 0.8877 | 17.1595 | 17.9040 | * | 17.5225
510018 | 1.0369 | 0.8572 | 18.3023 | 19.9490 | 21.8475 | 19.9638
510020 | *** | * | 15.7513 | * | * | 15.7513
510022 | 1.8850 | 0.8877 | 21.4336 | 22.7534 | 24.1481 | 22.8162
510023 | 1.2539 | 0.8274 | 17.6516 | 17.9267 | 19.4321 | 18.3486
510024 | 1.6416 | 0.8742 | 19.6521 | 21.3662 | 23.3115 | 21.4774
510026 | 1.0323 | 0.7991 | 14.8785 | 16.5389 | 18.0855 | 16.3991
510027 | *** | * | 20.5222 | * | * | 20.5222
510028 | 0.9931 | 0.8576 | 22.4826 | 24.6544 | 23.0518 | 23.3477
510029 | 1.2795 | 0.8877 | 18.9000 | 19.8202 | 21.7527 | 20.1940
510030 | 1.1158 | 0.7991 | 19.2558 | 19.8220 | 22.3658 | 20.5065
510031 | 1.3472 | 0.8877 | 19.3049 | 20.5743 | 21.6294 | 20.5646
510033 | 1.2451 | 0.8315 | 19.6900 | 19.6921 | 21.0707 | 20.1607
510035 | *** | * | 21.8290 | * | * | 21.8290
510036 | *** | * | 15.0266 | * | * | 15.0266
510038 | 1.0298 | 0.7991 | 15.9821 | 16.1016 | 16.8744 | 16.3342
510039 | 1.2298 | 0.8103 | 17.4002 | 17.6173 | 19.1280 | 18.0494
510043 | 0.9017 | 0.7991 | 14.4202 | 15.5857 | 16.0586 | 15.3708
510046 | 1.2894 | 0.8576 | 18.7424 | 19.2802 | 21.2792 | 19.7476
510047 | 1.1347 | 0.8733 | 21.2885 | 22.1953 | 23.2093 | 22.2288
510048 | 1.1264 | 0.9009 | 15.2886 | 16.3761 | 17.6785 | 16.3570
510050 | 1.5451 | 0.8103 | 18.3964 | 18.9990 | 20.1943 | 19.1823
510053 | 1.1785 | 0.7991 | 18.1046 | 18.1054 | 20.7538 | 19.0352
510055 | 1.3773 | 0.9560 | 25.6333 | 27.7422 | 29.3962 | 27.5818
510058 | 1.2521 | 0.8315 | 18.6025 | 20.1104 | 21.9352 | 20.2417
510059 | 0.8951 | 0.8877 | 17.3845 | 18.1543 | 18.8712 | 18.1655
510061 | 1.0406 | 0.8652 | 14.6773 | 14.8848 | 15.3355 | 14.9619
510062 | 1.1744 | 0.7991 | 19.7202 | 21.3405 | 21.1568 | 20.7558
510067 | 1.1341 | 0.7991 | 17.8816 | 18.0113 | 22.1582 | 19.3232
510068 | 1.1305 | 1.1026 | 19.4299 | 19.9056 | 20.0007 | 19.7893
510070 | 1.1877 | 0.8576 | 18.6226 | 20.0974 | 21.1895 | 19.9485
510071 | 1.2636 | 0.8576 | 18.8766 | 19.4029 | 21.5439 | 19.9719
510072 | 1.0994 | 0.7991 | 16.5279 | 18.4566 | 19.7990 | 18.3003
510077 | 1.1010 | 0.7991 | 20.4521 | 20.9153 | 22.8104 | 21.4077
510080 | *** | * | 19.7132 | * | * | 19.7132
510081 | *** | * | 10.4972 | * | * | 10.4972
510082 | 1.0868 | 0.7991 | 16.0014 | 17.2891 | 16.4742 | 16.5925
510084 | *** | * | 14.9683 | * | * | 14.9683
510085 | 1.1958 | 0.8877 | 19.0175 | 20.6364 | 22.6563 | 20.7858
510086 | 1.1407 | 0.7991 | 16.3413 | 16.3051 | 17.8234 | 16.8059
510088 | 1.0417 | 0.8132 | 16.2850 | 16.4373 | 18.3401 | 16.9647
520002 | 1.2611 | 1.0101 | 20.2691 | 22.0838 | 23.7316 | 22.0951
520003 | 1.2258 | 0.9507 | 18.7507 | 20.4234 | 21.8662 | 20.4106
520004 | 1.3392 | 0.9507 | 21.1549 | 22.8530 | 24.4711 | 22.8120
520006 | *** | * | 22.4098 | * | * | 22.4098
520007 | *** | * | 18.3959 | * | * | 18.3959
520008 | 1.6245 | 1.0081 | 24.4927 | 26.0931 | 27.8127 | 26.2114
520009 | 1.7112 | 0.9507 | 19.8142 | 21.5169 | 23.4265 | 21.4895
520010 | 1.1054 | 1.1044 | 25.5623 | 26.3965 | 28.5569 | 26.8692
520011 | 1.1731 | 0.9507 | 21.6945 | 22.7880 | 23.7785 | 22.7758
520013 | 1.3685 | 0.9507 | 22.1009 | 23.1173 | 24.4766 | 23.2975
520014 | 1.0842 | 1.0346 | 19.2760 | 20.4281 | 22.1064 | 20.5989
520015 | 1.1489 | 0.9507 | 21.0428 | 22.8094 | 23.0403 | 22.3080
520016 | *** | * | 19.5656 | * | * | 19.5656
520017 | 1.1165 | 0.9507 | 21.1409 | 21.7542 | 23.4044 | 22.1313
520018 | *** | * | 22.1929 | * | * | 22.1929
520019 | 1.3172 | 0.9507 | 21.8870 | 22.6895 | 24.9871 | 23.2496
520021 | 1.4634 | 1.0709 | 22.8484 | 24.1284 | 25.4872 | 24.1735
520024 | 1.0681 | 0.9507 | 16.4879 | 17.5368 | 18.5072 | 17.5412
520025 | 1.1649 | * | 21.9529 | * | * | 21.9529
520026 | 1.0437 | 1.1044 | 22.4778 | 25.0504 | 26.1056 | 24.6797
520027 | 1.3028 | 1.0081 | 22.1450 | 22.2089 | 26.2516 | 23.6649
520028 | 1.2451 | 1.0216 | 22.0333 | 24.3592 | 25.7778 | 24.0839
520029 | *** | * | 21.5561 | * | * | 21.5561
520030 | 1.7463 | 1.0101 | 22.7239 | 23.9474 | 25.3807 | 24.1138
520031 | *** | * | 21.2809 | * | * | 21.2809
520032 | 1.1802 | 1.0301 | 24.1093 | 22.7220 | 25.3059 | 24.0543
520033 | 1.2742 | 0.9507 | 21.0088 | 22.2650 | 23.9791 | 22.4469
520034 | 1.1667 | 0.9507 | 21.5275 | 22.6160 | 23.6563 | 22.7412
520035 | 1.2897 | 0.9584 | 19.8917 | 20.8563 | 23.2625 | 21.3855
520037 | 1.7735 | 1.0101 | 23.0801 | 25.0587 | 28.6984 | 25.6949
520038 | 1.2513 | 1.0081 | 21.4207 | 23.1036 | 24.6650 | 23.0878
520039 | 1.0367 | * | 21.1719 | * | * | 21.1719
520040 | 1.4877 | 1.0081 | 23.0710 | 21.5671 | 23.8501 | 22.8325
520041 | 1.1123 | 1.0301 | 18.2997 | 22.6216 | 22.8236 | 21.1921
520042 | 1.0456 | 0.9625 | 20.6354 | 21.9935 | 24.0788 | 22.2801
520044 | 1.3433 | 0.9584 | 21.4913 | 22.7627 | 24.9387 | 23.0821
520045 | 1.4929 | 0.9507 | 21.9812 | 24.1624 | 24.5844 | 23.5679
520047 | 0.9221 | * | 21.0370 | 22.5686 | 25.5346 | 22.9761
520048 | 1.5881 | 0.9507 | 20.3488 | 20.5069 | 23.1653 | 21.3231
520049 | 2.1332 | 0.9578 | 21.8271 | 22.7424 | 24.1083 | 22.9284
520051 | 1.7119 | 1.0081 | 23.4366 | 27.6695 | 28.8249 | 26.6240
520053 | 1.0741 | * | 18.9512 | * | * | 18.9512
520054 | *** | * | 16.6278 | * | * | 16.6278
520057 | 1.1637 | 0.9625 | 20.6959 | 21.2729 | 23.3205 | 21.7619
520058 | 0.9858 | * | 23.6795 | 23.2907 | * | 23.4859
520059 | 1.2281 | 0.9954 | 22.1618 | 24.1863 | 26.5596 | 24.3566
520060 | 1.2750 | 0.9507 | 20.3357 | 21.1271 | 22.0132 | 21.1555
520062 | 1.2805 | 1.0081 | 21.2865 | 23.7166 | 24.9988 | 23.4303
520063 | 1.1750 | 1.0081 | 21.2774 | 23.3037 | 25.3674 | 23.3828
520064 | 1.5740 | 1.0081 | 23.8181 | 24.3043 | 27.1120 | 25.0681
520066 | 1.5823 | 1.0216 | 25.4528 | 23.9212 | 25.8812 | 25.0523
520068 | 0.8844 | 0.9507 | 20.6112 | 21.4413 | 23.4746 | 21.8694
520069 | *** | * | 21.7234 | 32.6484 | * | 23.3764
520070 | 1.7448 | 0.9507 | 20.0096 | 22.0590 | 23.9908 | 22.0417
520071 | 1.2141 | 0.9954 | 22.0066 | 23.4832 | 26.3154 | 23.9774
520074 | *** | * | 21.6636 | * | * | 21.6636
520075 | 1.5289 | 0.9578 | 22.1894 | 23.7322 | 26.0600 | 24.0635
520076 | 1.2198 | 1.0216 | 20.6155 | 22.2993 | 24.0879 | 22.3450
520077 | *** | * | 18.1078 | * | * | 18.1078
520078 | 1.4920 | 1.0081 | 21.7414 | 23.4414 | 25.7662 | 23.6608
520083 | 1.7213 | 1.0346 | 24.2401 | 25.7108 | 27.0012 | 25.6711
520084 | 1.0956 | 1.0301 | 21.8102 | 24.7909 | 25.5777 | 24.0737
520087 | 1.6511 | 0.9507 | 22.2579 | 22.8974 | 24.5280 | 23.2906
520088 | 1.2383 | 0.9954 | 22.3921 | 23.8938 | 26.0882 | 24.1811
520089 | 1.4841 | 1.0346 | 23.2335 | 24.4435 | 26.6013 | 24.7981
520090 | *** | * | 20.9070 | * | * | 20.9070
520091 | 1.2775 | 0.9507 | 22.2218 | 22.8914 | 24.8269 | 23.2617
520092 | 1.0770 | 0.9507 | 19.7181 | 21.8662 | 23.4043 | 21.6961
520094 | 0.7086 | 0.9954 | 21.3082 | 22.3925 | 25.3166 | 23.0681
520095 | 1.2460 | 0.9625 | 21.9177 | 25.1402 | 28.6376 | 25.2206
520096 | 1.3954 | 0.9954 | 21.6803 | 21.1759 | 22.9929 | 21.9962
520097 | 1.3744 | 0.9578 | 22.2375 | 23.6512 | 25.1135 | 23.7343
520098 | 2.0588 | 1.0346 | 25.0055 | 25.8184 | 28.0730 | 26.3435
520100 | 1.2846 | 0.9597 | 20.5366 | 21.7072 | 24.5914 | 22.3070
520101 | *** | * | 20.0164 | * | * | 20.0164
520102 | 1.0935 | 1.0709 | 22.3640 | 23.7739 | 25.6146 | 23.9640
520103 | 1.4569 | 1.0081 | 22.2765 | 23.5984 | 25.5361 | 23.8393
520107 | 1.2042 | 0.9578 | 23.8421 | 25.7379 | 27.7413 | 25.7022
520109 | 1.0887 | 0.9507 | 20.3208 | 20.6357 | 22.4048 | 21.1687
520110 | *** | * | 22.3923 | * | * | 22.3923
520111 | *** | * | 18.2745 | 26.9666 | 26.3095 | 23.4810
520112 | 1.1223 | * | 17.6226 | 19.1409 | 20.4034 | 19.0701
520113 | 1.3241 | 0.9578 | 23.1852 | 24.0822 | 26.7926 | 24.7178
520114 | 1.1317 | 0.9507 | 18.5767 | 21.9847 | 22.0536 | 20.8110
520115 | *** | * | 21.4279 | * | * | 21.4279
520116 | 1.1277 | 0.9954 | 22.2741 | 23.9066 | 26.3057 | 24.2317
520117 | 1.0221 | 0.9507 | 19.3653 | 21.9915 | 22.0023 | 21.1630
520118 | *** | * | 13.9919 | * | * | 13.9919
520121 | *** | * | 20.9423 | * | * | 20.9423
520122 | *** | * | 16.9906 | * | * | 16.9906
520123 | 0.9823 | 1.1044 | 19.8134 | 21.2360 | 22.2430 | 21.0893
520124 | *** | * | 19.2621 | * | * | 19.2621
520130 | 1.0399 | * | 18.8845 | 20.0277 | * | 19.4750
520131 | *** | * | 21.0400 | * | * | 21.0400
520132 | 1.0670 | 0.9584 | 18.2634 | 19.5140 | 21.6025 | 19.7126
520134 | 1.0387 | * | 19.6881 | 20.8502 | * | 20.2719
520135 | 0.9254 | 0.9507 | 18.1027 | 18.8254 | 18.5618 | 18.4970
520136 | 1.6033 | 1.0081 | 21.3966 | 23.2573 | 25.5145 | 23.3630
520138 | 1.8924 | 1.0081 | 23.1498 | 25.1434 | 26.9047 | 25.1023
520139 | 1.2475 | 1.0081 | 22.8070 | 23.7727 | 25.4424 | 24.0456
520140 | 1.7057 | 1.0081 | 22.5459 | 23.9176 | 26.1616 | 24.1382
520142 | *** | * | 21.4119 | * | * | 21.4119
520144 | *** | * | 20.5863 | * | * | 20.5863
520145 | *** | * | 20.3461 | 25.0770 | * | 22.1616
520146 | *** | * | 18.6337 | * | * | 18.6337
520148 | 1.1618 | 0.9507 | 20.5075 | 22.4299 | 26.2258 | 23.1750
520149 | *** | * | 13.8615 | * | * | 13.8615
520151 | 0.9872 | * | 19.3362 | 20.1995 | 22.9592 | 20.8447
520152 | 1.1196 | 0.9578 | 26.2403 | 22.5440 | 23.2493 | 23.6507
520153 | *** | * | 18.5986 | * | * | 18.5986
520154 | 1.2433 | * | 21.0486 | 23.2635 | 23.7160 | 22.6643
520156 | 1.0496 | 1.1044 | 20.7808 | 23.7157 | 24.9258 | 23.1775
520157 | *** | * | 21.6822 | * | * | 21.6822
520159 | *** | * | 21.8784 | * | * | 21.8784
520160 | 1.7496 | 0.9507 | 21.5871 | 22.9475 | 24.3528 | 23.0151
520161 | 0.9823 | * | 21.4038 | 22.1857 | 24.0673 | 22.5684
520170 | 1.2952 | 1.0081 | 23.0867 | 25.5470 | 25.6124 | 24.7828
520171 | *** | * | 18.1843 | * | * | 18.1843
520173 | 1.0997 | 1.0337 | 23.2955 | 24.4723 | 26.2224 | 24.6910
520177 | 1.7587 | 1.0081 | 25.0908 | 27.5560 | 28.4663 | 27.1450
520178 | 0.9998 | 0.9507 | 23.1510 | 22.3193 | 23.0419 | 22.8408
520189 | 1.2190 | 1.0709 | 22.0889 | 23.1658 | 26.3172 | 23.9818
520192 | *** | * | * | 22.5641 | * | 22.5641
530002 | 1.1371 | 0.9327 | 23.0582 | 23.8852 | 25.2983 | 24.1608
530003 | *** | * | 17.1646 | * | * | 17.1646
530004 | *** | * | 17.4672 | 19.7857 | * | 18.6222
530005 | *** | * | 18.4391 | * | * | 18.4391
530006 | 1.1205 | 0.9172 | 20.7660 | 21.3429 | 22.8344 | 21.7092
530007 | 1.1220 | 0.9172 | 18.5286 | 22.3309 | 19.3476 | 20.0667
530008 ² | 1.1989 | 0.9327 | 19.5386 | 21.8714 | 23.8271 | 21.6879
530009 | 0.9343 | 0.9327 | 23.5840 | 22.0450 | 24.2426 | 23.1873
530010 ² | 1.1996 | 0.9327 | 17.8687 | 21.4890 | 23.9255 | 21.1225
530011 | 1.0775 | 0.9172 | 19.9212 | 22.5720 | 24.1396 | 22.2280
530012 | 1.6312 | 0.9327 | 22.5084 | 22.4716 | 24.3454 | 23.1035
530014 | 1.5379 | 0.9172 | 20.0422 | 21.7314 | 23.6907 | 21.9153
530015 | 1.3519 | 0.9980 | 24.6527 | 25.3915 | 26.3107 | 25.4597
530016 | 1.2753 | * | 20.3647 | 21.0666 | 21.6575 | 21.0210
530017 | 0.8948 | 0.9172 | 20.9407 | 19.5630 | 23.5415 | 21.2874
530018 | 1.0564 | * | 20.1225 | * | * | 20.1225
530019 | 0.8190 | * | 18.1492 | * | * | 18.1492
530022 | 1.0845 | * | 19.7903 | * | * | 19.7903
530023 | 1.2331 | 0.9172 | 21.6352 | 22.5535 | 24.1493 | 22.9629
530025 | 1.3127 | 1.0230 | 22.4816 | 25.4693 | 27.7988 | 25.3095
530026 | 1.0519 | * | 20.9918 | 21.0732 | * | 21.0346
530029 | 1.0001 | * | 20.3045 | 19.9691 | * | 20.1402
530031 | 0.8719 | * | 23.2766 | 16.8825 | 16.3472 | 18.9622
530032 | *** | * | 20.9856 | 19.4449 | 22.6584 | 21.0115
¹ Based on salaries adjusted for Occupational Mix, according to the calculation in section III F.
² These hospitals are assigned a wage index value according to sections IV.N.2, IV.N.3, IV.N.4 of the Preamble.
ʰ These hospitals are assigned a wage index value according to section III.B.3.d of the Preamble.
* Denotes wage data not available for the provider for that year.
** Based on the sum of the salaries and hours computed for Federal FYs 2003, 2004, and 2005.
*** Denotes MedPAR data not available for the provider for FY 2003.

@@

13. On page 49424, top of the page, the heading and parenthetical statement “Table 3A1—FY 2005 and 3-Year Average Hourly Wage for Urban Areas by MSA [*Based on the sum of the salaries and hours computed for Federal Fiscal Years 2003, 2004, and 2005]” are corrected by moving these items to the top of page 49425.

14. On pages 49425 through 49433, in Table 3A1—FY 2005 and 3-Year Average Hourly Wage for Urban Areas by MSA, the table is corrected to read as follows:

Table 3A1.—FY 2005 and 3-Year* Average Hourly Wage for Urban Areas by MSA
[*Based on the sum of the salaries and hours computed for Federal Fiscal Years 2003, 2004, and 2005]
MSA code | Urban area | FY 2005 average hourly wage | 3-Year average hourly wage
0040 | Abilene, TX | 21.1577 | 19.3334
0060 | Aguadilla, PR | 11.3020 | 10.8733
0080 | Akron, O.H | 23.8369 | 22.9977
0120 | Albany, GA | 29.7283 | 27.0834
0160 | Albany-Schenectady-Troy, NY | 22.6387 | 21.0359
0200 | Albuquerque, NM | 27.6443 | 24.0113
0220 | Alexandria, LA | 21.5591 | 19.8744
0240 | Allentown-Bethlehem-Easton, PA | 25.1946 | 23.8968
0280 | Altoona, PA | 22.2816 | 21.8301
0320 | Amarillo, TX | 24.1938 | 22.4289
0380 | Anchorage, AK | 31.9163 | 30.3728
0440 | Ann Arbor, MI | 28.5487 | 27.2400
0450 | Anniston, AL | 20.8219 | 19.8381
0460 | Appleton-Oshkosh-Neenah, WI | 23.9441 | 22.3556
0470 | Arecibo, PR | 9.9028 | 10.0856
0480 | Asheville, NC | 25.1099 | 24.0577
0500 | Athens, GA | 26.8182 | 24.9377
0520 | Atlanta, GA | 26.2565 | 24.8531
0560 | Atlantic-Cape May, NJ | 28.7277 | 27.0377
0580 | Auburn-Opelika, AL | 21.6724 | 20.7210
0600 | Augusta-Aiken, GA-SC | 24.2777 | 23.9694
0640 | Austin-San Marcos, TX | 25.3002 | 23.8713
0680 | Bakersfield, CA | 26.4960 | 24.5074
0720 | Baltimore, MD | 26.0788 | 24.5965
0733 | Bangor, ME | 26.1955 | 24.3676
0743 | Barnstable-Yarmouth, MA | 32.4977 | 31.7748
0760 | Baton Rouge, LA | 22.0284 | 20.6767
0840 | Beaumont-Port Arthur, TX | 22.7175 | 21.0039
0860 | Bellingham, WA | 30.5926 | 29.4402
0870 | Benton Harbor, MI | 23.4663 | 22.1611
0875 | Bergen-Passaic, NJ | 31.5245 | 29.5626
0880 | Billings, MT | 23.6549 | 22.3049
0920 | Biloxi-Gulfport-Pascagoula, MS | 22.7701 | 21.8025
0960 | Binghamton, NY | 22.3129 | 20.8466
1000 | Birmingham, AL | 24.2491 | 22.8025
1010 | Bismarck, ND | 19.7863 | 19.3434
1020 | Bloomington,IN | 22.6866 | 21.6323
1040 | Bloomington-Normal, IL | 24.0155 | 22.3819
1080 | Boise City, ID | 24.6185 | 23.0658
1123 | Boston-Worcester-Lawrence-Lowell-Brockton, MA-NH | 29.7504 | 27.9023
1125 | Boulder-Longmont, CO | 26.4797 | 24.7278
1145 | Brazoria, TX | 22.5003 | 20.7798
1150 | Bremerton, WA | 27.9651 | 26.5977
1240 | Brownsville-Harlingen-San Benito, TX | 26.7783 | 24.2568
1260 | Bryan-College Station, TX | 24.3736 | 22.3929
1280 | Buffalo-Niagara Falls, NY | 24.6007 | 23.3311
1303 | Burlington, VT | 24.5679 | 23.9933
1310 | Caguas, PR | 10.7080 | 10.3764
1320 | Canton-Massillon, OH | 23.4839 | 22.2554
1350 | Casper, WY | 24.3454 | 23.1035
1360 | Cedar Rapids, IA | 23.6287 | 22.2110
1400 | Champaign-Urbana, IL | 25.0840 | 24.7646
1440 | Charleston-North Charleston, SC | 24.8209 | 23.1060
1480 | Charleston, WV | 23.4018 | 22.0431
1520 | Charlotte-Gastonia-Rock Hill, NC-SC | 25.4946 | 24.1708
1540 | Charlottesville, VA | 27.1314 | 25.4529
1560 | Chattanooga, TN-GA | 24.2734 | 22.5686
1580 | Cheyenne, WY | 23.6907 | 21.9153
1600 | Chicago, IL | 28.5999 | 27.0745
1620 | Chico-Paradise, CA | 27.8007 | 25.2115
1640 | Cincinnati, OH-KY-IN | 25.2390 | 23.4336
1660 | Clarksville-Hopkinsville, TN-KY | 21.0993 | 20.3461
1680 | Cleveland-Lorain-Elyria, OH | 25.3602 | 23.9107
1720 | Colorado Springs, CO | 25.7592 | 24.4078
1740 | Columbia, MO | 22.1116 | 21.0936
1760 | Columbia, SC | 24.9367 | 22.7846
1800 | Columbus, GA-AL | 22.9123 | 21.3158
1840 | Columbus, OH | 25.7052 | 24.1235
1880 | Corpus Christi, TX | 22.7911 | 21.2677
1890 | Corvallis, OR | 27.7255 | 27.6280
1900 | Cumberland, MD-WV | 22.8097 | 20.3393
1920 | Dallas, TX | 26.4890 | 24.8477
1950 | Danville, VA | 22.8303 | 21.9455
1960 | Davenport-Moline-Rock Island, IA-IL | 23.0884 | 21.8862
2000 | Dayton-Springfield, OH | 24.3246 | 23.1419
2020 | Daytona Beach, FL | 23.4652 | 22.3396
2030 | Decatur, AL | 23.4431 | 21.9912
2040 | Decatur, IL | 21.4057 | 20.1127
2080 | Denver, CO | 28.6809 | 26.7542
2120 | Des Moines, IA | 24.4271 | 22.3772
2160 | Detroit, MI | 26.9749 | 25.3863
2180 | Dothan, AL | 20.1197 | 19.3968
2190 | Dover, DE | 26.0092 | 24.0021
2200 | Dubuque, IA | 23.0146 | 21.7876
2240 | Duluth-Superior, MN-WI | 27.2709 | 25.4677
2281 | Dutchess County, NY | 30.7365 | 27.3957
2290 | Eau Claire, WI | 24.0833 | 22.4349
2320 | El Paso, TX | 24.2877 | 22.8733
2330 | Elkhart-Goshen, IN | 24.4045 | 23.7551
2335 | Elmira, NY | 22.3121 | 20.8644
2340 | Enid, OK | 23.7484 | 21.4662
2360 | Erie, PA | 22.9348 | 21.6611
2400 | Eugene-Springfield, OR | 28.7913 | 27.5434
2440 | Evansville, Henderson, IN-KY | 22.1670 | 20.6668
2520 | Fargo-Moorhead, ND-MN | 24.0059 | 23.5687
2560 | Fayetteville, NC | 24.6836 | 22.5102
2580 | Fayetteville-Springdale-Rogers, AR | 22.8204 | 20.8376
2620 | Flagstaff, AZ-UT | 27.9534 | 26.9850
2640 | Flint, MI | 29.4342 | 27.3473
2650 | Florence, AL | 20.8432 | 19.3533
2655 | Florence, SC | 23.6803 | 21.8918
2670 | Fort Collins-Loveland, CO | 26.8550 | 25.1003
2680 | Fort Lauderdale, FL | 26.7655 | 25.3394
2700 | Fort Myers-Cape Coral, FL | 24.6180 | 23.8009
2710 | Fort Pierce-Port St. Lucie, FL | 26.5014 | 24.6970
2720 | Fort Smith, AR-OK | 21.9328 | 20.3484
2750 | Fort Walton Beach, FL | 23.1499 | 22.6357
2760 | Fort Wayne, IN | 25.6542 | 23.8045
2800 | Fort Worth-Arlington, TX | 25.1026 | 23.4015
2840 | Fresno, CA | 27.7035 | 25.5968
2880 | Gadsden, AL | 21.2931 | 20.4831
2900 | Gainesville, FL | 24.9007 | 23.9505
2920 | Galveston-Texas City, TX | 24.7476 | 23.2315
2960 | Gary, IN | 24.6159 | 23.3816
2975 | Glens Falls, NY | 22.3719 | 20.8059
2980 | Goldsboro, NC | 23.1349 | 21.7023
2985 | Grand Forks, ND-MN | 24.1141 | 21.9652
2995 | Grand Junction, CO | 26.1825 | 24.0316
3000 | Grand Rapids-Muskegon-Holland, MI | 25.1053 | 23.5491
3040 | Great Falls, MT | 23.1697 | 21.8940
3060 | Greeley, CO | 24.9410 | 23.3105
3080 | Green Bay, WI | 25.2368 | 23.6194
3120 | Greensboro-Winston-Salem-High Point, NC | 24.5813 | 22.9687
3150 | Greenville, NC | 24.1523 | 22.5957
3160 | Greenville-Spartanburg-Anderson, SC | 24.7370 | 23.0274
3180 | Hagerstown, MD | 26.3144 | 23.5483
3200 | Hamilton-Middletown, OH | 23.8712 | 22.8398
3240 | Harrisburg-Lebanon-Carlisle, PA | 24.5148 | 22.8968
3283 | Hartford, CT | 29.1831 | 28.2110
3285 | Hattiesburg, MS | 19.4268 | 18.4484
3290 | Hickory-Morganton-Lenoir, NC | 25.0709 | 22.9415
3320 | Honolulu, HI | 29.0314 | 27.6725
3350 | Houma, LA | 20.4599 | 19.7165
3360 | Houston, TX | 26.6849 | 24.7044
3400 | Huntington-Ashland, WV-KY-OH | 25.2028 | 23.7565
3440 | Huntsville, AL | 23.2686 | 22.2984
3480 | Indianapolis, IN | 26.4492 | 24.5303
3500 | Iowa City, IA | 25.4379 | 23.7870
3520 | Jackson, MI | 24.0762 | 22.8010
3560 | Jackson, MS | 22.1330 | 20.9460
3580 | Jackson, TN | 23.4395 | 22.4155
3600 | Jacksonville, FL | 25.1835 | 23.5707
3605 | Jacksonville, NC | 22.1107 | 20.7523
3610 | Jamestown, NY | 20.0214 | 19.2447
3620 | Janesville-Beloit, WI | 25.2993 | 23.7265
3640 | Jersey City, NJ | 28.8029 | 27.4044
3660 | Johnson City-Kingsport-Bristol, TN-VA | 21.6324 | 20.4165
3680 | Johnstown, PA | 21.0171 | 20.1659
3700 | Jonesboro, AR | 21.6029 | 19.6779
3710 | Joplin, MO | 23.0000 | 21.5147
3720 | Kalamazoo-Battlecreek, MI | 27.2974 | 25.9867
3740 | Kankakee, IL | 27.9907 | 26.2821
3760 | Kansas City, KS-MO | 25.3849 | 24.0397
3800 | Kenosha, WI | 25.7422 | 24.0731
3810 | Killeen-Temple, TX | 24.4535 | 23.7218
3840 | Knoxville, TN | 22.4720 | 21.7145
3850 | Kokomo, IN | 23.7864 | 22.3286
3870 | La Crosse, WI-MN | 24.4482 | 23.0908
3880 | Lafayette, LA | 21.3950 | 20.4768
3920 | Lafayette, IN | 23.8615 | 22.5782
3960 | Lake Charles, LA | 21.0302 | 19.6387
3980 | Lakeland-Winter Haven, FL | 23.5755 | 22.3634
4000 | Lancaster, PA | 26.0887 | 23.4449
4040 | Lansing-East Lansing, MI | 25.4480 | 24.0082
4080 | Laredo, TX | 23.1326 | 20.9638
4100 | Las Cruces, NM | 23.0915 | 21.6545
4120 | Las Vegas, NV-AZ | 29.2425 | 28.2177
4150 | Lawrence, KS ¹ |  |
4200 | Lawton, OK | 21.7459 | 20.5192
4243 | Lewiston-Auburn, ME | 25.1817 | 23.2820
4280 | Lexington, KY | 24.2477 | 21.8301
4320 | Lima, OH | 24.3556 | 23.3287
4360 | Lincoln, NE | 26.8365 | 24.9396
4400 | Little Rock-North Little Rock, AR | 23.3045 | 22.1511
4420 | Longview-Marshall, TX | 23.0485 | 21.8788
4480 | Los Angeles-Long Beach, CA | 30.9555 | 29.3504
4520 | Louisville, KY-IN | 24.1628 | 22.9068
4600 | Lubbock, TX | 23.1298 | 21.9601
4640 | Lynchburg, VA | 23.7939 | 22.5802
4680 | Macon, GA | 25.3731 | 22.9224
4720 | Madison, WI | 27.3895 | 25.7237
4800 | Mansfield, OH | 24.0266 | 22.4554
4840 | Mayaguez, PR | 12.5604 | 11.9266
4880 | McAllen-Edinburg-Mission, TX | 22.6802 | 21.2147
4890 | Medford-Ashland, OR | 27.7676 | 26.3312
4900 | Melbourne-Titusville-Palm Bay, FL | 25.3742 | 24.4755
4920 | Memphis, TN-AR-MS | 24.3569 | 22.4580
4940 | Merced, CA | 27.7502 | 24.8641
5000 | Miami, FL | 26.0142 | 24.4497
5015 | Middlesex-Somerset-Hunterdon, NJ | 29.9549 | 28.0450
5080 | Milwaukee-Waukesha, WI | 26.5760 | 24.7743
5120 | Minneapolis-St. Paul, MN-WI | 29.1150 | 27.2497
5140 | Missoula, MT | 25.2548 | 22.6510
5160 | Mobile, AL | 20.9166 | 19.8422
5170 | Modesto, CA | 31.6157 | 28.1277
5190 | Monmouth-Ocean, NJ | 28.7059 | 26.8760
5200 | Monroe, LA | 20.8701 | 19.8091
5240 | Montgomery, AL | 21.9110 | 19.7100
5280 | Muncie, IN | 22.6545 | 21.9840
5330 | Myrtle Beach, SC | 23.7717 | 22.4723
5345 | Naples, FL | 27.7634 | 25.0778
5360 | Nashville, TN | 26.6158 | 24.4724
5380 | Nassau-Suffolk, NY | 34.0823 | 32.5255
5483 | New Haven-Bridgeport-Stamford-Waterbury-Danbury, CT | 32.3508 | 30.6041
5523 | New London-Norwich, CT | 30.6511 | 28.9405
5560 | New Orleans, LA | 23.9896 | 22.5670
5600 | New York, NY | 35.8391 | 34.6399
5640 | Newark, NJ | 30.6275 | 28.4864
5660 | Newburgh, NY-PA | 29.4487 | 28.1329
5720 | Norfolk-Virginia Beach-Newport News, VA-NC | 23.5357 | 21.6164
5775 | Oakland, CA | 40.0833 | 37.4042
5790 | Ocala, FL | 24.1861 | 23.3591
5800 | Odessa-Midland, TX | 25.3896 | 23.4185
5880 | Oklahoma City, OK | 23.6423 | 22.2226
5910 | Olympia, WA | 29.0127 | 27.1964
5920 | Omaha, NE-IA | 25.6762 | 24.3327
5945 | Orange County, CA | 30.5827 | 28.5075
5960 | Orlando, FL | 25.6522 | 24.0297
5990 | Owensboro, KY | 22.2750 | 20.8090
6015 | Panama City, FL | 21.4111 | 20.7660
6020 | Parkersburg-Marietta, WV-OH | 21.9198 | 20.2268
6080 | Pensacola, FL | 21.9439 | 21.2526
6120 | Peoria-Pekin, IL | 23.3618 | 21.7673
6160 | Philadelphia, PA-NJ | 28.5060 | 26.7567
6200 | Phoenix-Mesa, AZ | 26.3231 | 24.7449
6240 | Pine Bluff, AR | 22.9350 | 20.2395
6280 | Pittsburgh, PA | 23.0498 | 22.2789
6323 | Pittsfield, MA | 27.4980 | 25.5304
6340 | Pocatello, ID | 25.2803 | 23.0886
6360 | Ponce, PR | 13.0621 | 12.2264
6403 | Portland, ME | 26.6320 | 24.6820
6440 | Portland-Vancouver, OR-WA | 29.9778 | 27.6154
6483 | Providence-Warwick, RI | 29.1212 | 27.1720
6520 | Provo-Orem, UT | 25.2964 | 24.3959
6560 | Pueblo, CO | 23.0664 | 21.7742
6580 | Punta Gorda, FL | 24.9155 | 23.3140
6600 | Racine, WI | 23.8665 | 22.5320
6640 | Raleigh-Durham-Chapel Hill, NC | 26.9527 | 24.9768
6660 | Rapid City, SD | 23.5131 | 21.9999
6680 | Reading, PA | 24.3005 | 22.8524
6690 | Redding, CA | 31.1869 | 28.4468
6720 | Reno, NV | 27.5394 | 26.3029
6740 | Richland-Kennewick-Pasco, WA | 27.7016 | 26.9438
6760 | Richmond-Petersburg, VA | 24.7263 | 23.3140
6780 | Riverside-San Bernardino, CA | 28.9444 | 27.8436
6800 | Roanoke, VA | 22.2568 | 21.2913
6820 | Rochester, MN | 30.2905 | 29.1941
6840 | Rochester, NY | 24.2491 | 22.9441
6880 | Rockford, IL | 25.3273 | 23.8481
6895 | Rocky Mount, NC | 23.7190 | 22.5353
6920 | Sacramento, CA | 31.1842 | 29.0605
6960 | Saginaw-Bay City-Midland, MI | 25.6369 | 24.2492
6980 | St. Cloud, MN | 27.0759 | 24.4151
7000 | St. Joseph, MO ¹ |  |
7040 | St. Louis, MO-IL | 23.9496 | 22.3011
7080 | Salem, OR | 27.8099 | 26.0075
7120 | Salinas, CA | 36.4327 | 35.3276
7160 | Salt Lake City-Ogden, UT | 25.0150 | 24.2344
7200 | San Angelo, TX | 21.5498 | 20.6816
7240 | San Antonio, TX | 23.7781 | 22.0040
7320 | San Diego, CA | 29.6834 | 27.7274
7360 | San Francisco, CA | 38.7358 | 35.8090
7400 | San Jose, CA | 38.8426 | 35.9923
7440 | San Juan-Bayamon, PR | 12.6559 | 11.9159
7460 | San Luis Obispo-Atascadero-Paso Robles, CA | 29.3008 | 27.9344
7480 | Santa Barbara-Santa Maria-Lompoc, CA | 28.3575 | 26.1997
7485 | Santa Cruz-Watsonville, CA | 38.9076 | 34.1932
7490 | Santa Fe, NM | 27.8508 | 26.4038
7500 | Santa Rosa, CA | 34.1075 | 32.1396
7510 | Sarasota-Bradenton, FL | 25.3343 | 23.9849
7520 | Savannah, GA | 24.9492 | 23.4106
7560 | Scranton-Wilkes Barre-Hazleton, PA | 22.4206 | 21.0640
7600 | Seattle-Bellevue-Everett, WA | 30.2189 | 28.5125
7610 | Sharon, PA | 20.7690 | 19.4352
7620 | Sheboygan, WI | 23.6253 | 21.7349
7640 | Sherman-Denison, TX | 25.3572 | 23.6883
7680 | Shreveport-Bossier City, LA | 24.0112 | 22.3569
7720 | Sioux City, IA-NE | 23.9347 | 22.3968
7760 | Sioux Falls, SD | 24.8177 | 23.1430
7800 | South Bend, IN | 24.8698 | 23.9976
7840 | Spokane, WA | 28.0569 | 26.7659
7880 | Springfield, IL | 23.0210 | 21.7501
7920 | Springfield, MO | 22.6730 | 21.1271
8003 | Springfield, MA | 26.8260 | 26.1078
8050 | State College, PA | 22.3162 | 21.5732
8080 | Steubenville-Weirton, OH-WV | 21.8130 | 21.0260
8120 | Stockton-Lodi, CA | 27.8990 | 26.0691
8140 | Sumter, SC | 22.4370 | 20.6984
8160 | Syracuse, NY | 24.8091 | 23.5510
8200 | Tacoma, WA | 29.1935 | 27.4023
8240 | Tallahassee, FL | 22.8581 | 21.2074
8280 | Tampa-St. Petersburg-Clearwater, FL | 23.9223 | 22.4911
8320 | Terre Haute, IN | 22.6233 | 21.0317
8360 | Texarkana, AR-Texarkana, TX | 22.1839 | 20.3901
8400 | Toledo, OH | 25.0819 | 23.6884
8440 | Topeka, KS | 23.4531 | 22.4604
8480 | Trenton, NJ | 27.0688 | 25.7907
8520 | Tucson, AZ | 23.5817 | 22.1299
8560 | Tulsa, OK | 23.0826 | 21.6558
8600 | Tuscaloosa, AL | 22.2518 | 20.4815
8640 | Tyler, TX | 25.0872 | 23.5788
8680 | Utica-Rome, NY | 21.9221 | 20.7967
8720 | Vallejo-Fairfield-Napa, CA | 35.6028 | 33.2856
8735 | Ventura, CA | 29.2591 | 27.4874
8750 | Victoria, TX | 22.2685 | 20.9146
8760 | Vineland-Millville-Bridgeton, NJ | 27.8754 | 25.5794
8780 | Visalia-Tulare-Porterville, CA | 26.3758 | 24.1781
8800 | Waco, TX | 21.4872 | 20.3295
8840 | Washington, DC-MD-VA-WV | 28.9176 | 27.0886
8920 | Waterloo-Cedar Falls, IA | 22.7478 | 20.6139
8940 | Wausau, WI | 25.3807 | 24.1138
8960 | West Palm Beach-Boca Raton, FL | 27.2800 | 25.0185
9000 | Wheeling, OH-WV | 19.6365 | 18.6490
9040 | Wichita, KS | 25.0430 | 23.3312
9080 | Wichita Falls, TX | 22.2189 | 20.8432
9140 | Williamsport, PA | 22.3438 | 20.7407
9160 | Wilmington-Newark, DE-MD | 29.4516 | 27.4534
9200 | Wilmington, NC | 24.3196 | 23.4749
9260 | Yakima, WA | 27.1993 | 25.8591
9270 | Yolo, CA | 24.7035 | 23.1020
9280 | York, PA | 24.1275 | 22.5965
9320 | Youngstown-Warren, OH | 25.0869 | 23.2293
9340 | Yuba City, CA | 27.3673 | 25.5360
9360 | Yuma, AZ | 23.5229 | 21.8802

15. On pages 49434 through 49444, in Table 3A2—FY 2005 and 3-Year Average Hourly Wage for Urban Areas by CBSA, the table is corrected to read as follows:

Table 3A2.—FY 2005 and 3-Year* Average Hourly Wage for Urban Areas by CBSA
[*Based on the sum of the salaries and hours computed for Federal Fiscal Years 2003, 2004, and 2005]
CBSA code | Urban area | FY 2005 average hourly wage | 3-Year average hourly wage
10180 | Abilene, TX | 20.7515 | 18.9928
10380 | Aguadilla-Isabela-San Sebastián, PR | 11.2674 | 10.7459
10420 | Akron, OH | 23.8369 | 22.9977
10500 | Albany, GA | 29.7283 | 26.9191
10580 | Albany-Schenectady-Troy, NY | 22.8516 | 21.1392
10740 | Albuquerque, NM | 27.6443 | 24.0113
10780 | Alexandria, LA | 21.5591 | 19.8744
10900 | Allentown-Bethlehem-Easton, PA-NJ | 25.0931 | 23.8171
11020 | Altoona, PA | 22.2816 | 21.8301
11100 | Amarillo, TX | 24.1938 | 22.4289
11180 | Ames, IA | 24.9920 | 23.3897
11260 | Anchorage, AK | 32.0676 | 30.6035
11300 | Anderson, IN | 23.0760 | 22.0316
11340 | Anderson, SC | 22.8322 | 21.2332
11460 | Ann Arbor, MI | 29.0959 | 27.7221
11500 | Anniston-Oxford, AL | 20.8219 | 19.8381
11540 | Appleton, WI | 23.9805 | 22.2548
11700 | Asheville, NC | 24.2749 | 23.2076
12020 | Athens-Clarke County, GA | 26.8182 | 24.9377
12060 | Atlanta-Sandy Springs-Marietta, GA | 26.2565 | 24.8379
12100 | Atlantic City, NJ | 28.7791 | 27.1158
12220 | Auburn-Opelika, AL | 21.6724 | 20.7210
12260 | Augusta-Richmond County, GA-SC | 24.1375 | 23.8386
12420 | Austin-Round Rock, TX | 25.3002 | 23.8713
12540 | Bakersfield, CA | 26.4960 | 24.5074
12580 | Baltimore-Towson, MD | 26.0788 | 24.5965
12620 | Bangor, ME | 26.1955 | 24.3676
12700 | Barnstable Town, MA | 32.4977 | 31.7748
12940 | Baton Rouge, LA | 21.9396 | 20.6087
12980 | Battle Creek, MI | 24.6356 | 23.3675
13020 | Bay City, MI | 25.2518 | 24.2327
13140 | Beaumont-Port Arthur, TX | 22.7175 | 21.0039
13380 | Bellingham, WA | 30.5926 | 29.4402
13460 | Bend, OR | 27.8385 | 26.6198
13644 | Bethesda-Frederick-Gaithersburg, MD | 28.8277 | 27.1263
13740 | Billings, MT | 23.6549 | 22.2825
13780 | Binghamton, NY | 22.3129 | 20.8466
13820 | Birmingham-Hoover, AL | 24.1402 | 22.6809
13900 | Bismarck, ND | 19.7863 | 19.3434
13980 | Blacksburg-Christiansburg-Radford, VA | 20.9989 | 20.0257
14020 | Bloomington, IN | 22.6866 | 21.5657
14060 | Bloomington-Normal, IL | 24.0155 | 22.3819
14260 | Boise City-Nampa, ID | 24.6185 | 23.0570
14484 | Boston-Quincy, MA | 31.0169 | 29.1519
14500 | Boulder, CO | 26.4797 | 24.7278
14540 | Bowling Green, KY | 21.4624 | 20.8111
14740 | Bremerton-Silverdale, WA | 27.9651 | 26.5977
14860 | Bridgeport-Stamford-Norwalk, CT | 33.8641 | 32.2932
15180 | Brownsville-Harlingen, TX | 26.7783 | 24.2568
15260 | Brunswick, GA | 31.5253 | 25.9559
15380 | Buffalo-Niagara Falls, NY | 24.6007 | 23.3311
15500 | Burlington, NC | 23.6045 | 22.4345
15540 | Burlington-South Burlington, VT | 24.5679 | 23.9933
15764 | Cambridge-Newton-Framingham, MA | 29.4829 | 27.2387
15804 | Camden, NJ | 28.1040 | 26.6719
15940 | Canton-Massillon, OH | 23.4839 | 22.2554
15980 | Cape Coral-Fort Myers, FL | 24.6180 | 23.8009
16180 | Carson City, NV | 27.2484 | 25.0270
16220 | Casper, WY | 24.3454 | 23.1035
16300 | Cedar Rapids, IA | 23.6287 | 22.1690
16580 | Champaign-Urbana, IL | 25.0840 | 24.4109
16620 | Charleston, WV | 23.4018 | 21.9919
16700 | Charleston-North Charleston, SC | 24.8209 | 23.1060
16740 | Charlotte-Gastonia-Concord, NC-SC | 25.5672 | 24.2580
16820 | Charlottesville, VA | 27.1314 | 25.4529
16860 | Chattanooga, TN-GA | 24.2734 | 22.5686
16940 | Cheyenne, WY | 23.6907 | 21.9153
16974 | Chicago-Naperville-Joliet, IL | 28.6412 | 27.1125
17020 | Chico, CA | 27.8007 | 25.2115
17140 | Cincinnati-Middletown, OH-KY-IN | 25.0363 | 23.3451
17300 | Clarksville, TN-KY | 21.0993 | 20.3004
17420 | Cleveland, TN | 20.7246 | 19.6917
17460 | Cleveland-Elyria-Mentor, OH | 25.4231 | 23.9810
17660 | Coeur d'Alene, ID | 24.5841 | 23.4851
17780 | College Station-Bryan, TX | 24.3736 | 22.3394
17820 | Colorado Springs, CO | 25.7592 | 24.4078
17860 | Columbia, MO | 22.1116 | 21.0936
17900 | Columbia, SC | 24.7855 | 22.7140
17980 | Columbus, GA-AL | 22.9123 | 21.3158
18020 | Columbus, IN | 24.7455 | 23.4673
18140 | Columbus, OH | 25.6619 | 24.0749
18580 | Corpus Christi, TX | 22.7911 | 21.2677
18700 | Corvallis, OR | 27.7255 | 27.6280
19060 | Cumberland, MD-WV | 22.8097 | 20.3393
19124 | Dallas-Plano-Irving, TX | 26.5409 | 24.8971
19140 | Dalton, GA | 25.1657 | 23.8067
19180 | Danville, IL | 22.1540 | 21.4792
19260 | Danville, VA | 22.8303 | 21.9455
19340 | Davenport-Moline-Rock Island, IA-IL | 23.0884 | 21.8581
19380 | Dayton, OH | 24.5133 | 23.3405
19460 | Decatur, AL | 23.4431 | 21.9912
19500 | Decatur, IL | 21.4057 | 20.1127
19660 | Deltona-Daytona Beach-Ormond Beach, FL | 23.4589 | 22.3163
19740 | Denver-Aurora, CO | 28.6809 | 26.7542
19780 | Des Moines, IA | 24.4271 | 22.3592
19804 | Detroit-Livonia-Dearborn, MI | 27.3167 | 25.8059
20020 | Dothan, AL | 19.9600 | 19.1962
20100 | Dover, DE | 26.0092 | 24.0021
20220 | Dubuque, IA | 23.0146 | 21.7876
20260 | Duluth, MN-WI | 27.2299 | 25.4414
20500 | Durham, NC | 27.2113 | 25.6815
20740 | Eau Claire, WI | 24.0833 | 22.4349
20764 | Edison, NJ | 29.3631 | 27.4877
20940 | El Centro, CA | 23.5103 | 22.5130
21060 | Elizabethtown, KY | 22.9096 | 20.9578
21140 | Elkhart-Goshen, IN | 24.4045 | 23.7551
21300 | Elmira, NY | 22.3121 | 20.8644
21340 | El Paso, TX | 24.2877 | 22.8733
21500 | Erie, PA | 22.9348 | 21.6611
21604 | Essex County, MA | 28.0863 | 26.1325
21660 | Eugene-Springfield, OR | 28.7913 | 27.5434
21780 | Evansville, IN-KY | 22.1063 | 20.5433
21820 | Fairbanks, AK | 29.3419 | 28.1074
21940 | Fajardo, PR | 10.3919 | 10.2699
22020 | Fargo, ND-MN | 24.0059 | 23.5687
22140 | Farmington, NM | 21.2164 | 21.8840
22180 | Fayetteville, NC | 24.6836 | 22.5102
22220 | Fayetteville-Springdale-Rogers, AR-MO | 22.8204 | 20.8376
22380 | Flagstaff, AZ | 28.4112 | 27.5032
22420 | Flint, MI | 29.4342 | 27.3473
22500 | Florence, SC | 23.3485 | 21.6413
22520 | Florence-Muscle Shoals, AL | 20.8432 | 19.3533
22540 | Fond du Lac, WI | 26.0882 | 23.9005
22660 | Fort Collins-Loveland, CO | 26.8550 | 25.1003
22744 | Fort Lauderdale-Pompano Beach-Deerfield Beach, FL | 26.7655 | 25.3394
22900 | Fort Smith, AR-OK | 21.8812 | 20.2565
23020 | Fort Walton Beach-Crestview-Destin, FL | 23.1499 | 22.6357
23060 | Fort Wayne, IN | 25.8397 | 23.9144
23104 | Fort Worth-Arlington, TX | 24.9812 | 23.2966
23420 | Fresno, CA | 28.0694 | 25.8965
23460 | Gadsden, AL | 21.2931 | 20.4831
23540 | Gainesville, FL | 24.9007 | 23.9505
23580 | Gainesville, GA | 25.2335 | 23.2102
23844 | Gary, IN | 24.5332 | 23.3187
24020 | Glens Falls, NY | 22.3719 | 20.8059
24140 | Goldsboro, NC | 23.1349 | 21.7023
24220 | Grand Forks, ND-MN | 24.1141 | 21.9652
24300 | Grand Junction, CO | 26.1825 | 24.0316
24340 | Grand Rapids-Wyoming, MI | 24.8287 | 23.3299
24500 | Great Falls, MT | 23.1697 | 21.8940
24540 | Greeley, CO | 24.9410 | 23.3105
24580 | Green Bay, WI | 25.2501 | 23.5467
24660 | Greensboro-High Point, NC | 24.2763 | 22.8820
24780 | Greenville, NC | 24.1523 | 22.5957
24860 | Greenville, SC | 25.1285 | 23.6850
25020 | Guayama, PR | 10.5663 | 9.9161
25060 | Gulfport-Biloxi, MS | 23.5513 | 22.4957
25180 | Hagerstown-Martinsburg, MD-WV | 25.6882 | 23.1481
25260 | Hanford-Corcoran, CA | 24.5799 | 21.7472
25420 | Harrisburg-Carlisle, PA | 24.6595 | 23.0671
25500 | Harrisonburg, VA | 24.4580 | 22.6368
25540 | Hartford-West Hartford-East Hartford, CT | 29.1831 | 28.2110
25620 | Hattiesburg, MS | 19.4268 | 18.4175
25860 | Hickory-Lenoir-Morganton, NC | 25.0709 | 22.9415
25980 | Hinesville-Fort Stewart, GA | 20.3760 | 19.3446
26100 | Holland-Grand Haven, MI | 24.8437 | 23.6232
26180 | Honolulu, HI | 29.0314 | 27.6725
26300 | Hot Springs, AR | 24.4318 | 22.4802
26380 | Houma-Bayou Cane-Thibodaux, LA | 20.4599 | 19.7165
26420 | Houston-Baytown-Sugar Land, TX | 26.2968 | 24.3837
26580 | Huntington-Ashland, WV-KY-OH | 25.2028 | 23.7565
26620 | Huntsville, AL | 23.2686 | 22.2984
26820 | Idaho Falls, ID | 16.7951 | 20.0540
26900 | Indianapolis, IN | 26.6370 | 24.6710
26980 | Iowa City, IA | 25.4379 | 23.7408
27060 | Ithaca, NY | 25.4128 | 24.2157
27100 | Jackson, MI | 24.0762 | 22.8010
27140 | Jackson, MS | 21.8425 | 20.7103
27180 | Jackson, TN | 23.4395 | 22.4155
27260 | Jacksonville, FL | 25.1835 | 23.5707
27340 | Jacksonville, NC | 22.1107 | 20.7523
27500 | Janesville, WI | 25.2993 | 23.7265
27620 | Jefferson City, MO | 21.9644 | 21.2903
27740 | Johnson City, TN | 21.5178 | 20.0167
27780 | Johnstown, PA | 22.0530 | 21.0775
27860 | Jonesboro, AR | 21.6029 | 19.6779
27900 | Joplin, MO | 23.0000 | 21.5147
28020 | Kalamazoo-Portage, MI | 28.1795 | 26.8885
28100 | Kankakee-Bradley, IL | 27.9907 | 26.2821
28140 | Kansas City, MO-KS | 25.3519 | 24.0016
28420 | Kennewick-Richland-Pasco, WA | 27.7016 | 26.9438
28660 | Killeen-Temple-Fort Hood, TX | 24.4535 | 23.7218
28700 | Kingsport-Bristol-Bristol, TN-VA | 21.7086 | 20.6905
28740 | Kingston, NY | 23.7314 | 22.8254
28940 | Knoxville, TN | 22.5777 | 21.8173
29020 | Kokomo, IN | 23.7864 | 22.3286
29100 | La Crosse, WI-MN | 24.4482 | 23.0908
29140 | Lafayette, IN | 23.8615 | 22.6327
29180 | Lafayette, LA | 21.8776 | 20.8073
29340 | Lake Charles, LA | 20.9330 | 19.5433
29404 | Lake County-Kenosha County, IL-WI | 27.2795 | 25.7802
29460 | Lakeland, FL | 23.5755 | 22.3634
29540 | Lancaster, PA | 26.0887 | 23.4449
29620 | Lansing-East Lansing, MI | 25.4480 | 24.0082
29700 | Laredo, TX | 23.1326 | 20.9638
29740 | Las Cruces, NM | 23.0915 | 21.6545
29820 | Las Vegas-Paradise, NV | 29.9079 | 28.9339
29940 | Lawrence, KS ¹ |  |
30020 | Lawton, OK | 21.7459 | 20.5192
30140 | Lebanon, PA | 23.0891 | 21.2658
30300 | Lewiston, ID-WA | 24.5162 | 23.4736
30340 | Lewiston-Auburn, ME | 25.1817 | 23.2820
30460 | Lexington-Fayette, KY | 24.6113 | 22.1104
30620 | Lima, OH | 24.5429 | 23.6021
30700 | Lincoln, NE | 26.8365 | 24.9150
30780 | Little Rock-North Little Rock, AR | 23.3045 | 22.1511
30860 | Logan, UT-ID | 24.0017 | 22.9972
30980 | Longview, TX | 23.2037 | 21.8928
31020 | Longview, WA | 26.9101 | 25.5610
31084 | Los Angeles-Long Beach-Glendale, CA | 30.9555 | 29.3504
31140 | Louisville, KY-IN | 24.0574 | 22.7968
31180 | Lubbock, TX | 23.1298 | 21.9081
31340 | Lynchburg, VA | 23.7939 | 22.5802
31420 | Macon, GA | 26.1577 | 23.2785
31460 | Madera, CA | 22.4713 | 21.5487
31540 | Madison, WI | 27.1566 | 25.5029
31700 | Manchester-Nashua, NH | 28.0313 | 26.2826
31900 | Mansfield, OH | 24.2526 | 22.8104
32420 | Mayagüez, PR | 11.8420 | 11.2714
32580 | McAllen-Edinburg-Pharr, TX | 22.6802 | 21.2147
32780 | Medford, OR | 27.7676 | 26.3312
32820 | Memphis, TN-MS-AR | 24.3141 | 22.4194
32900 | Merced, CA | 27.7502 | 24.8641
33124 | Miami-Miami Beach-Kendall, FL | 26.0142 | 24.4497
33140 | Michigan City-La Porte, IN | 24.6001 | 23.6121
33260 | Midland, TX | 24.7346 | 24.4654
33340 | Milwaukee-Waukesha-West Allis, WI | 26.5760 | 24.7743
33460 | Minneapolis-St. Paul-Bloomington, MN-WI | 29.1150 | 27.2497
33540 | Missoula, MT | 25.2548 | 22.6510
33660 | Mobile, AL | 21.0813 | 19.9442
33700 | Modesto, CA | 31.6157 | 28.1277
33740 | Monroe, LA | 20.8477 | 19.7670
33780 | Monroe, MI | 25.0390 | 23.6331
33860 | Montgomery, AL | 21.9110 | 19.7100
34060 | Morgantown, WV | 23.0442 | 21.4291
34100 | Morristown, TN | 20.5505 | 19.5797
34580 | Mount Vernon-Anacortes, WA | 27.8223 | 26.4352
34620 | Muncie, IN | 22.6545 | 21.9840
34740 | Muskegon-Norton Shores, MI | 25.6860 | 24.0867
34820 | Myrtle Beach-Conway-North Myrtle Beach, SC | 23.7717 | 22.4723
34900 | Napa, CA | 32.9983 | 30.3959
34940 | Naples-Marco Island, FL | 27.7634 | 25.0778
34980 | Nashville-Davidson—Murfreesboro, TN | 26.5587 | 24.3795
35004 | Nassau-Suffolk, NY | 34.0823 | 32.5255
35084 | Newark-Union, NJ-PA | 30.7905 | 28.6229
35300 | New Haven-Milford, CT | 31.1880 | 29.3581
35380 | New Orleans-Metairie-Kenner, LA | 23.9896 | 22.5708
35644 | New York-Wayne-White Plains, NY-NJ | 35.1091 | 33.8258
35660 | Niles-Benton Harbor, MI | 23.4663 | 22.1611
35980 | Norwich-New London, CT | 30.6511 | 28.9405
36084 | Oakland-Fremont-Hayward, CA | 40.0833 | 37.4042
36100 | Ocala, FL | 24.1861 | 23.3591
36140 | Ocean City, NJ | 28.5241 | 26.7393
36220 | Odessa, TX | 25.8284 | 22.7857
36260 | Ogden-Clearfield, UT | 24.2908 | 23.6381
36420 | Oklahoma City, OK | 23.6865 | 22.3037
36500 | Olympia, WA | 29.0127 | 27.1964
36540 | Omaha-Council Bluffs, NE-IA | 25.6762 | 24.2824
36740 | Orlando, FL | 25.6522 | 24.0297
36780 | Oshkosh-Neenah, WI | 23.9064 | 22.4648
36980 | Owensboro, KY | 22.2750 | 20.8090
37100 | Oxnard-Thousand Oaks-Ventura, CA | 29.2591 | 27.4874
37340 | Palm Bay-Melbourne-Titusville, FL | 25.3742 | 24.4755
37460 | Panama City-Lynn Haven, FL | 21.4111 | 20.7660
37620 | Parkersburg-Marietta, WV-OH | 21.9198 | 20.2268
37700 | Pascagoula, MS | 21.0222 | 20.2797
37860 | Pensacola-Ferry Pass-Brent, FL | 21.9439 | 21.2526
37900 | Peoria, IL | 23.3618 | 21.7673
37964 | Philadelphia, PA | 28.6169 | 26.7879
38060 | Phoenix-Mesa-Scottsdale, AZ | 26.3231 | 24.7449
38220 | Pine Bluff, AR | 22.9350 | 20.2395
38300 | Pittsburgh, PA | 22.9969 | 22.2222
38340 | Pittsfield, MA | 27.4980 | 25.5304
38540 | Pocatello, ID | 25.2803 | 23.0385
38660 | Ponce, PR | 13.1981 | 12.3009
38860 | Portland-South Portland-Biddeford, ME | 26.6320 | 24.6820
38900 | Portland-Vancouver-Beaverton, OR-WA | 29.9778 | 27.6154
38940 | Port St. Lucie-Fort Pierce, FL | 26.5014 | 24.6970
39100 | Poughkeepsie-Newburgh-Middletown, NY | 29.9576 | 27.8202
39140 | Prescott, AZ | 25.5205 | 23.8026
39300 | Providence-New Bedford-Fall River, RI-MA | 28.7766 | 26.9672
39340 | Provo-Orem, UT | 25.2345 | 24.3349
39380 | Pueblo, CO | 23.0664 | 21.7742
39460 | Punta Gorda, FL | 24.9155 | 23.3140
39540 | Racine, WI | 23.8665 | 22.5320
39580 | Raleigh-Cary, NC | 26.4514 | 23.8622
39660 | Rapid City, SD | 23.5131 | 21.9434
39740 | Reading, PA | 24.3005 | 22.8524
39820 | Redding, CA | 31.1869 | 28.4468
39900 | Reno-Sparks, NV | 27.5394 | 26.3029
40060 | Richmond, VA | 24.7263 | 23.3140
40140 | Riverside-San Bernardino-Ontario, CA | 28.9444 | 27.8436
40220 | Roanoke, VA | 22.2210 | 21.2719
40340 | Rochester, MN | 30.2905 | 29.1539
40380 | Rochester, NY | 24.4734 | 23.1796
40420 | Rockford, IL | 25.3273 | 23.8898
40484 | Rockingham County-Strafford County, NH | 26.9025 | 25.0930
40580 | Rocky Mount, NC | 23.7190 | 22.5353
40660 | Rome, GA | 23.3830 | 22.2060
40900 | Sacramento—Arden-Arcade—Roseville, CA | 30.7939 | 28.6869
40980 | Saginaw-Saginaw Township North, MI | 26.0142 | 24.2581
41060 | St. Cloud, MN | 27.0759 | 24.4151
41100 | St. George, UT | 24.9725 | 24.0284
41140 | St. Joseph, MO-KS ¹ |  |
41180 | St. Louis, MO-IL | 23.9366 | 22.2848
41420 | Salem, OR | 27.8099 | 25.9297
41500 | Salinas, CA | 36.4327 | 35.3276
41540 | Salisbury, MD | 24.0196 | 22.6069
41620 | Salt Lake City, UT | 25.2133 | 24.4014
41660 | San Angelo, TX | 21.5498 | 20.6816
41700 | San Antonio, TX | 23.7269 | 21.9214
41740 | San Diego-Carlsbad-San Marcos, CA | 29.6834 | 27.7274
41780 | Sandusky, OH | 23.7856 | 22.2413
41884 | San Francisco-San Mateo-Redwood City, CA | 38.7358 | 35.8090
41900 | San Germán-Cabo Rojo, PR | 13.7887 | 13.3880
41940 | San Jose-Sunnyvale-Santa Clara, CA | 38.7847 | 35.9472
41980 | San Juan-Caguas-Guaynabo, PR | 12.2440 | 11.6133
42020 | San Luis Obispo-Paso Robles, CA | 29.3008 | 27.9344
42044 | Santa Ana-Anaheim-Irvine, CA | 30.5827 | 28.5075
42060 | Santa Barbara-Santa Maria-Goleta, CA | 28.3575 | 26.1997
42100 | Santa Cruz-Watsonville, CA | 38.9076 | 34.1932
42140 | Santa Fe, NM | 28.6963 | 27.0266
42220 | Santa Rosa-Petaluma, CA | 34.1075 | 32.1396
42260 | Sarasota-Bradenton-Venice, FL | 25.3343 | 23.9849
42340 | Savannah, GA | 24.9492 | 23.4106
42540 | Scranton--Wilkes-Barre, PA | 22.4737 | 21.1694
42644 | Seattle-Bellevue-Everett, WA | 30.2542 | 28.5401
43100 | Sheboygan, WI | 23.6253 | 21.7349
43300 | Sherman-Denison, TX | 25.3572 | 23.6883
43340 | Shreveport-Bossier City, LA | 24.0680 | 22.4055
43580 | Sioux City, IA-NE-SD | 23.8692 | 22.3369
43620 | Sioux Falls, SD | 24.8177 | 23.1241
43780 | South Bend-Mishawaka, IN-MI | 24.8698 | 23.9698
43900 | Spartanburg, SC | 25.0993 | 22.7045
44060 | Spokane, WA | 28.0569 | 26.7659
44100 | Springfield, IL | 23.0210 | 21.7501
44140 | Springfield, MA | 26.8296 | 26.0807
44180 | Springfield, MO | 22.5708 | 21.0960
44220 | Springfield, OH | 23.0445 | 21.8275
44300 | State College, PA | 22.3162 | 21.5732
44700 | Stockton, CA | 27.8990 | 26.0691
44940 | Sumter, SC | 22.4370 | 20.6984
45060 | Syracuse, NY | 24.9975 | 23.7141
45104 | Tacoma, WA | 29.1935 | 27.4023
45220 | Tallahassee, FL | 22.8581 | 21.2074
45300 | Tampa-St. Petersburg-Clearwater, FL | 23.9223 | 22.4911
45460 | Terre Haute, IN | 22.4530 | 20.9222
45500 | Texarkana, TX-Texarkana, AR | 22.1839 | 20.3901
45780 | Toledo, OH | 25.0819 | 23.6623
45820 | Topeka, KS | 23.4531 | 22.4202
45940 | Trenton-Ewing, NJ | 27.0688 | 25.7907
46060 | Tucson, AZ | 23.5817 | 22.1299
46140 | Tulsa, OK | 22.9793 | 21.5440
46220 | Tuscaloosa, AL | 21.9842 | 20.2474
46340 | Tyler, TX | 25.0872 | 23.5788
46540 | Utica-Rome, NY | 21.9221 | 20.7967
46660 | Valdosta, GA | 21.9706 | 20.7415
46700 | Vallejo-Fairfield, CA | 37.6173 | 35.5959
46940 | Vero Beach, FL | 25.0220 | 24.0746
47020 | Victoria, TX | 22.2922 | 20.9240
47220 | Vineland-Millville-Bridgeton, NJ | 27.8754 | 25.5794
47260 | Virginia Beach-Norfolk-Newport News, VA-NC | 23.5357 | 21.6164
47300 | Visalia-Porterville, CA | 26.3758 | 24.1781
47380 | Waco, TX | 21.4872 | 20.3295
47580 | Warner Robins, GA | 22.3972 | 21.5398
47644 | Warren-Farmington Hills-Troy, MI | 26.6502 | 24.9390
47894 | Washington-Arlington-Alexandria, DC-VA-MD-WV | 29.0679 | 27.2078
47940 | Waterloo-Cedar Falls, IA | 22.7478 | 20.5447
48140 | Wausau, WI | 25.3807 | 24.1138
48260 | Weirton-Steubenville, WV-OH | 21.8130 | 21.0260
48300 | Wenatchee, WA | 28.8637 | 26.6935
48424 | West Palm Beach-Boca Raton-Boynton Beach, FL | 27.2800 | 25.0185
48540 | Wheeling, WV-OH | 19.6365 | 18.6490
48620 | Wichita, KS | 24.9692 | 23.2564
48660 | Wichita Falls, TX | 22.0520 | 20.6849
48700 | Williamsport, PA | 22.3438 | 20.7407
48864 | Wilmington, DE-MD-NJ | 29.2489 | 27.3031
48900 | Wilmington, NC | 24.3196 | 23.3958
49020 | Winchester, VA-WV | 27.6425 | 25.2798
49180 | Winston-Salem, NC | 24.8079 | 22.9742
49340 | Worcester, MA | 29.0017 | 27.5814
49420 | Yakima, WA | 27.1993 | 25.8591
49500 | Yauco, PR | 11.8458 | 11.5366
49620 | York-Hanover, PA | 24.1275 | 22.5965
49660 | Youngstown-Warren-Boardman, OH-PA | 24.3420 | 22.4728
49700 | Yuba City, CA | 27.3673 | 25.5360
49740 | Yuma, AZ | 23.5229 | 21.8802

16. On pages 49445 through 49446, in Table 3B1—FY 2005 and 3-Year Average Hourly Wage for Rural Areas by MSA, the table is corrected to read as follows:

Table 3B1.—FY 2005 and 3-Year* Average Hourly Wage for Rural Areas by MSA
[*Based on the sum of the salaries and hours computed for Federal Fiscal Years 2003, 2004, and 2005]
MSA code | Nonurban area | FY 2005 average hourly wage | 3-Year average hourly wage
01 | Alabama | 20.1828 | 18.8297
02 | Alaska | 30.6504 | 29.5048
03 | Arizona | 24.1175 | 22.2145
04 | Arkansas | 20.3743 | 19.0511
05 | California | 27.0539 | 24.8593
06 | Colorado | 24.6657 | 22.7921
07 | Connecticut | 30.5346 | 29.2218
08 | Delaware | 25.0556 | 23.2847
10 | Florida | 22.9534 | 21.7186
11 | Georgia | 21.7759 | 20.4853
12 | Hawaii | 27.8337 | 25.3986
13 | Idaho | 23.2509 | 21.8066
14 | Illinois | 22.0071 | 20.4092
15 | Indiana | 23.0411 | 21.6547
16 | Iowa | 22.5463 | 20.6904
17 | Kansas | 21.4307 | 19.7998
18 | Kentucky | 20.7111 | 19.7115
19 | Louisiana | 19.2908 | 18.4210
20 | Maine | 23.7968 | 22.0513
21 | Maryland | 24.1906 | 22.5573
22 | Massachusetts | 26.8798 | 26.2772
23 | Michigan | 23.0411 | 21.9302
24 | Minnesota | 24.6192 | 22.8783
25 | Mississippi | 20.0355 | 19.0001
26 | Missouri | 21.1963 | 19.9057
27 | Montana | 22.9175 | 21.2189
28 | Nebraska | 23.8325 | 21.1358
29 | Nevada | 25.9120 | 24.0635
30 | New Hampshire | 26.1804 | 24.5240
31 | New Jersey ¹ |  |
32 | New Mexico | 22.4969 | 21.1857
33 | New York | 22.1922 | 21.0285
34 | North Carolina | 22.4236 | 21.1612
35 | North Dakota | 20.4303 | 19.1062
36 | Ohio | 23.0905 | 21.5944
37 | Oklahoma | 19.9435 | 18.7148
38 | Oregon | 26.4640 | 24.9475
39 | Pennsylvania | 22.0021 | 20.7865
40 | Puerto Rico | 10.6730 | 10.2369
41 | Rhode Island ¹ |  |
42 | South Carolina | 22.8364 | 21.3054
43 | South Dakota | 22.1024 | 19.9511
44 | Tennessee | 20.8301 | 19.5557
45 | Texas | 20.9376 | 19.4034
46 | Utah | 23.3426 | 22.4148
47 | Vermont | 24.6639 | 23.0968
49 | Virginia | 22.3781 | 21.0389
50 | Washington | 26.5290 | 25.1835
51 | West Virginia | 21.3518 | 19.8653
52 | Wisconsin | 25.0336 | 23.0266
53 | Wyoming | 24.1793 | 22.4538

17. On pages 49446 through 49447, in Table 3B2—FY 2005 and 3-Year Average Hourly Wage for Rural Areas by CBSA, the table is corrected to read as follows:

Table 3B2.—FY 2005 and 3-Year* Average Hourly wage for Rural Areas by CBSA
[*Based on the sum of the salaries and hours computed for Federal Fiscal Years 2003, 2004, and 2005]
CBSA code | Nonurban area | FY 2005 average hourly wage | 3-Year average hourly wage
01 | Alabama | 20.1577 | 18.9066
02 | Alaska | 30.9321 | 29.6809
03 | Arizona | 23.9955 | 22.3189
04 | Arkansas | 19.5944 | 18.4393
05 | California | 27.5494 | 25.2862
06 | Colorado | 24.6657 | 22.7921
07 | Connecticut | 30.5346 | 29.2218
08 | Delaware | 25.0556 | 23.2847
10 | Florida | 22.5266 | 21.2538
11 | Georgia | 20.4374 | 19.3617
12 | Hawaii | 27.8337 | 25.3986
13 | Idaho | 22.4747 | 21.0307
14 | Illinois | 22.0034 | 20.3684
15 | Indiana | 22.8209 | 21.4486
16 | Iowa | 22.3507 | 20.5462
17 | Kansas | 21.4151 | 19.7892
18 | Kentucky | 20.4810 | 19.4910
19 | Louisiana | 19.4279 | 18.5986
20 | Maine | 23.7968 | 22.0513
21 | Maryland | 24.3189 | 22.5211
22 | Massachusetts ¹ |  |
23 | Michigan | 23.1554 | 22.0537
24 | Minnesota | 24.5953 | 22.8418
25 | Mississippi | 20.1658 | 19.0953
26 | Missouri | 21.1133 | 19.7570
27 | Montana | 22.9175 | 21.2310
28 | Nebraska | 23.8325 | 21.1480
29 | Nevada | 24.4792 | 23.1846
30 | New Hampshire | 26.1804 | 24.5240
31 | New Jersey ¹ |  |
32 | New Mexico | 22.8943 | 21.1454
33 | New York | 21.5274 | 20.4389
34 | North Carolina | 22.5935 | 21.3130
35 | North Dakota | 20.4303 | 19.1062
36 | Ohio | 22.9154 | 21.4872
37 | Oklahoma | 20.3290 | 18.9642
38 | Oregon | 26.1815 | 24.6963
39 | Pennsylvania | 21.9033 | 20.6829
40 | Puerto Rico ¹ |  |
41 | Rhode Island ¹ |  |
42 | South Carolina | 22.9476 | 21.3634
43 | South Dakota | 22.1186 | 19.9772
44 | Tennessee | 20.8158 | 19.5266
45 | Texas | 21.0808 | 19.5790
46 | Utah | 21.8721 | 20.9987
47 | Vermont | 24.6639 | 23.0968
49 | Virginia | 21.2530 | 20.1368
50 | Washington | 25.9340 | 24.7995
51 | West Virginia | 20.7798 | 19.3952
52 | Wisconsin | 25.0166 | 23.0125
53 | Wyoming | 24.1793 | 22.4538

18. On pages 49448 through 49480, in Table 4A1—Wage Index and Capital Geographic Adjustment Factor (GAF) for Urban Areas by MSA, the table is corrected to read as follows:

Table 4A1.—Wage Index and Capital Geographic Adjustment Factor (GAF) for Urban Areas by MSA
MSA code | Urban area (constituent counties) | Wage index | GAF
0040 | Abilene, TX | 0.8026 | 0.8602
| Taylor, TX
0060 | Aguadilla, PR | 0.4287 | 0.5599
| Aguada, PR
| Aguadilla, PR
| Moca, PR
0080 | Akron, OH | 0.9042 | 0.9334
| Portage, OH
| Summit, OH
0120 | Albany, GA | 1.1277 | 1.0858
| Dougherty, GA
| Lee, GA
0160 | Albany-Schenectady-Troy, NY | 0.8587 | 0.9009
| Albany, NY
| Montgomery, NY
| Rensselaer, NY
| Saratoga, NY
| Schenectady, NY
| Schoharie, NY
0200 | Albuquerque, NM | 1.0486 | 1.0330
| Bernalillo, NM
| Sandoval, NM
| Valencia, NM
0220 | Alexandria, LA | 0.8178 | 0.8713
| Rapides, LA
0240 | Allentown-Bethlehem-Easton, PA | 0.9557 | 0.9694
| Carbon, PA
| Lehigh, PA
| Northampton, PA
0280 | Altoona, PA | 0.8452 | 0.8912
| Blair, PA
0320 | Amarillo, TX, Potter, TX | 0.9177 | 0.9429
| Randall, TX
0380 | Anchorage, AK | 1.2164 | 1.1436
| Anchorage, AK
0440 | Ann Arbor, MI | 1.0829 | 1.0561
| Lenawee, MI
| Livingston, MI
| Washtenaw, MI
0450 | Anniston, AL | 0.7949 | 0.8545
| Calhoun, AL
0460 | Appleton-Oshkosh-Neenah, WI ² | 0.9496 | 0.9652
| Calumet, WI
| Outagamie, WI
| Winnebago, WI
0470 | Arecibo, PR ² | 0.4049 | 0.5384
| Arecibo, PR
| Camuy, PR
| Hatillo, PR
0480 | Asheville, NC | 0.9525 | 0.9672
| Buncombe, NC
| Madison, NC
0500 | Athens, GA | 1.0173 | 1.0118
| Clarke, GA
| Madison, GA
| Oconee, GA
0520 | Atlanta, GA ¹ | 0.9960 | 0.9973
| Barrow, GA
| Bartow, GA
| Carroll, GA
| Cherokee, GA
| Clayton, GA
| Cobb, GA
| Coweta, GA
| DeKalb, GA
| Douglas, GA
| Fayette, GA
| Forsyth, GA
| Fulton, GA
| Gwinnett, GA
| Henry, GA
| Newton, GA
| Paulding, GA
| Pickens, GA
| Rockdale, GA
| Spalding, GA
| Walton, GA
0560 | Atlantic-Cape May, NJ ² | 1.1788 | 1.1192
| Atlantic, NJ
| Cape May, NJ
0580 | Auburn-Opelika, AL | 0.8221 | 0.8745
| Lee, AL
0600 | Augusta-Aiken, GA-SC | 0.9209 | 0.9451
| Columbia, GA
| McDuffie, GA
| Richmond, GA
| Aiken, SC
| Edgefield, SC
0640 | Austin-San Marcos, TX ¹ | 0.9597 | 0.9722
| Bastrop, TX
| Caldwell, TX
| Hays, TX
| Travis, TX
| Williamson, TX
0680 | Bakersfield, CA ² | 1.0262 | 1.0179
| Kern, CA
0720 | Baltimore, MD ¹ | 0.9892 | 0.9926
| Anne Arundel, MD
| Baltimore, MD
| Baltimore City, MD
| Carroll, MD
| Harford, MD
| Howard, MD
| Queen Anne's, MD
0733 | Bangor, ME | 0.9937 | 0.9957
| Penobscot, ME
0743 | Barnstable-Yarmouth, MA | 1.2327 | 1.1540
| Barnstable, MA
0760 | Baton Rouge, LA | 0.8356 | 0.8843
| Ascension, LA
| East Baton Rouge, LA
| Livingston, LA
| West Baton Rouge, LA
0840 | Beaumont-Port Arthur, TX | 0.8617 | 0.9031
| Hardin, TX
| Jefferson, TX
| Orange, TX
0860 | Bellingham, WA | 1.1605 | 1.1073
| Whatcom, WA
0870 | Benton Harbor, MI | 0.8901 | 0.9234
| Berrien, MI
0875 | Bergen-Passaic, NJ ¹ | 1.2011 | 1.1337
| Bergen, NJ
| Passaic, NJ
0880 | Billings, MT | 0.8973 | 0.9285
| Yellowstone, MT
0920 | Biloxi-Gulfport-Pascagoula, MS | 0.8637 | 0.9045
| Hancock, MS
| Harrison, MS
| Jackson, MS
0960 | Binghamton, NY | 0.8464 | 0.8921
| Broome, NY
| Tioga, NY
1000 | Birmingham, AL | 0.9198 | 0.9444
| Blount, AL
| Jefferson, AL
| St. Clair, AL
| Shelby, AL
1010 | Bismarck, ND ² | 0.7750 | 0.8398
| Burleigh, ND
| Morton, ND
1020 | Bloomington, IN ² | 0.8740 | 0.9119
| Monroe, IN
1040 | Bloomington-Normal, IL | 0.9110 | 0.9382
| McLean, IL
1080 | Boise City, ID | 0.9338 | 0.9542
| Ada, ID
| Canyon, ID
1123 | Boston-Worcester-Lawrence-Lowell-Brockton, MA-NH ¹ | 1.1285 | 1.0863
| Bristol, MA
| Essex, MA
| Middlesex, MA
| Norfolk, MA
| Plymouth, MA
| Suffolk, MA
| Worcester, MA
| Hillsborough, NH
| Merrimack, NH
| Rockingham, NH
| Strafford, NH
1125 | Boulder-Longmont, CO | 1.0044 | 1.0030
| Boulder, CO
1145 | Brazoria, TX | 0.8535 | 0.8972
| Brazoria, TX
1150 | Bremerton, WA | 1.0608 | 1.0412
| Kitsap, WA
1240 | Brownsville-Harlingen-San Benito, TX | 1.0158 | 1.0108
| Cameron, TX
1260 | Bryan-College Station, TX | 0.9246 | 0.9477
| Brazos, TX
1280 | Buffalo-Niagara Falls, NY ¹ | 0.9332 | 0.9538
| Erie, NY
| Niagara, NY
1303 | Burlington, VT ² | 0.9487 | 0.9646
| Chittenden, VT
| Franklin, VT
| Grand Isle, VT
1310 | Caguas, PR | 0.4062 | 0.5396
| Caguas, PR
| Cayey, PR
| Cidra, PR
| Gurabo, PR
| San Lorenzo, PR
1320 | Canton-Massillon, OH | 0.8908 | 0.9239
| Carroll, OH
| Stark, OH
1350 | Casper, WY | 0.9327 | 0.9534
| Natrona, WY
1360 | Cedar Rapids, IA | 0.8963 | 0.9278
| Linn, IA
1400 | Champaign-Urbana, IL | 0.9515 | 0.9665
| Champaign, IL
1440 | Charleston-North Charleston, SC | 0.9415 | 0.9596
| Berkeley, SC
| Charleston, SC
| Dorchester, SC
1480 | Charleston, WV | 0.8877 | 0.9217
| Kanawha, WV
| Putnam, WV
1520 | Charlotte-Gastonia-Rock Hill, NC-SC ¹ | 0.9671 | 0.9774
| Cabarrus, NC
| Gaston, NC
| Lincoln, NC
| Mecklenburg, NC
| Rowan, NC
| Stanly, NC
| Union, NC
| York, SC
1540 | Charlottesville, VA | 1.0292 | 1.0199
| Albemarle, VA
| Charlottesville City, VA
| Fluvanna, VA
| Greene, VA
1560 | Chattanooga, TN-GA | 0.9208 | 0.9451
| Catoosa, GA
| Dade, GA
| Walker, GA
| Hamilton, TN
| Marion, TN
1580 | Cheyenne, WY ² | 0.9172 | 0.9425
| Laramie, WY
1600 | Chicago, IL ¹ | 1.0849 | 1.0574
| Cook, IL
| DeKalb, IL
| DuPage, IL
| Grundy, IL
| Kane, IL
| Kendall, IL
| Lake, IL
| McHenry, IL
| Will, IL
1620 | Chico-Paradise, CA | 1.0546 | 1.0371
| Butte, CA
1640 | Cincinnati, OH-KY-IN ¹ | 0.9574 | 0.9706
| Dearborn, IN
| Ohio, IN
| Boone, KY
| Campbell, KY
| Gallatin, KY
| Grant, KY
| Kenton, KY
| Pendleton, KY
| Brown, OH
| Clermont, OH
| Hamilton, OH
| Warren, OH
1660 | Clarksville-Hopkinsville, TN-KY | 0.8109 | 0.8663
| Christian, KY
| Montgomery, TN
1680 | Cleveland-Lorain-Elyria, OH ¹ | 0.9620 | 0.9738
| Ashtabula, OH
| Cuyahoga, OH
| Geauga, OH
| Lake, OH
| Lorain, OH
| Medina, OH
1720 | Colorado Springs, CO | 0.9771 | 0.9843
| El Paso, CO
1740 | Columbia, MO | 0.8388 | 0.8866
| Boone, MO
1760 | Columbia, SC | 0.9459 | 0.9626
| Lexington, SC
| Richland, SC
1800 | Columbus, GA-AL | 0.8691 | 0.9084
| Russell, AL
| Chattahoochee, GA
| Harris, GA
| Muscogee, GA
1840 | Columbus, OH ¹ | 0.9751 | 0.9829
| Delaware, OH
| Fairfield, OH
| Franklin, OH
| Licking, OH
| Madison, OH
| Pickaway, OH
1880 | Corpus Christi, TX | 0.8645 | 0.9051
| Nueces, TX
| San Patricio, TX
1890 | Corvallis, OR | 1.0534 | 1.0363
| Benton, OR
1900 | Cumberland, MD-WV (MD Hospitals) ² | 0.9176 | 0.9428
| Allegany, MD
| Mineral, WV
1900 | Cumberland, MD-WV (WV Hospitals) | 0.8652 | 0.9056
| Allegany, MD
| Mineral, WV
1920 | Dallas, TX ¹ | 1.0048 | 1.0033
| Collin, TX
| Dallas, TX
| Denton, TX
| Ellis, TX
| Henderson, TX
| Hunt, TX
| Kaufman, TX
| Rockwall, TX
1950 | Danville, VA | 0.8660 | 0.9062
| Danville City, VA
| Pittsylvania, VA
1960 | Davenport-Moline-Rock Island, IA-IL | 0.8758 | 0.9132
| Scott, IA
| Henry, IL
| Rock Island, IL
2000 | Dayton-Springfield, OH | 0.9227 | 0.9464
| Clark, OH
| Greene, OH
| Miami, OH
| Montgomery, OH
2020 | Daytona Beach, FL | 0.8901 | 0.9234
| Flagler, FL
| Volusia, FL
2030 | Decatur, AL | 0.8893 | 0.9228
| Lawrence, AL
| Morgan, AL
2040 | Decatur, IL ² | 0.8348 | 0.8837
| Macon, IL
2080 | Denver, CO | 1.0879 | 1.0594
| Adams, CO
| Arapahoe, CO
| Broomfield, CO
| Denver, CO
| Douglas, CO
| Jefferson, CO
2120 | Des Moines, IA | 0.9266 | 0.9491
| Dallas, IA
| Polk, IA
| Warren, IA
2160 | Detroit, MI ¹ | 1.0232 | 1.0158
| Lapeer, MI
| Macomb, MI
| Monroe, MI
| Oakland, MI
| St. Clair, MI
| Wayne, MI
2180 | Dothan, AL ² | 0.7656 | 0.8328
| Dale, AL
| Houston, AL
2190 | Dover, DE | 0.9866 | 0.9908
| Kent, DE
2200 | Dubuque, IA | 0.8730 | 0.9112
| Dubuque, IA
2240 | Duluth-Superior, MN-WI | 1.0345 | 1.0235
| St. Louis, MN
| Douglas, WI
2281 | Dutchess County, NY | 1.1659 | 1.1108
| Dutchess, NY
2290 | Eau Claire, WI ² | 0.9496 | 0.9652
| Chippewa, WI
| Eau Claire, WI
2320 | El Paso, TX | 0.9213 | 0.9454
| El Paso, TX
2330 | Elkhart-Goshen, IN | 0.9257 | 0.9485
| Elkhart, IN
2335 | Elmira, NY | 0.8464 | 0.8921
| Chemung, NY
2340 | Enid, OK | 0.9008 | 0.9310
| Garfield, OK
2360 | Erie, PA | 0.8700 | 0.9090
| Erie, PA
2400 | Eugene-Springfield, OR | 1.0921 | 1.0622
| Lane, OR
2440 | Evansville-Henderson, IN-KY (IN Hospitals) ² | 0.8740 | 0.9119
| Posey, IN
| Vanderburgh, IN
| Warrick, IN
| Henderson, KY
2440 | Evansville-Henderson, IN-KY (KY Hospitals) | 0.8409 | 0.8881
| Posey, IN
| Vanderburgh, IN
| Warrick, IN
| Henderson, KY
2520 | Fargo-Moorhead, ND-MN (ND Hospitals) | 0.9189 | 0.9437
| Clay, MN
| Cass, ND
2520 | Fargo-Moorhead, ND-MN (MN Hospitals) ² | 0.9339 | 0.9542
| Clay, MN
| Cass, ND
2560 | Fayetteville, NC | 0.9363 | 0.9559
| Cumberland, NC
2580 | Fayetteville-Springdale-Rogers, AR | 0.8670 | 0.9069
| Benton, AR
| Washington, AR
2620 | Flagstaff, AZ-UT | 1.0603 | 1.0409
| Coconino, AZ
| Kane, UT
2640 | Flint, MI | 1.1165 | 1.0784
| Genesee, MI
2650 | Florence, AL | 0.7906 | 0.8514
| Colbert, AL
| Lauderdale, AL
2655 | Florence, SC | 0.8983 | 0.9292
| Florence, SC
2670 | Fort Collins-Loveland, CO | 1.0230 | 1.0157
| Larimer, CO
2680 | Ft. Lauderdale, FL ¹ | 1.0382 | 1.0260
| Broward, FL
2700 | Fort Myers-Cape Coral, FL | 0.9338 | 0.9542
| Lee, FL
2710 | Fort Pierce-Port St. Lucie, FL | 1.0093 | 1.0064
| Martin, FL
| St. Lucie, FL
2720 | Fort Smith, AR-OK | 0.8320 | 0.8817
| Crawford, AR
| Sebastian, AR
| Sequoyah, OK
2750 | Fort Walton Beach, FL | 0.8781 | 0.9148
| Okaloosa, FL
2760 | Fort Wayne, IN | 0.9731 | 0.9815
| Adams, IN
| Allen, IN
| De Kalb, IN
| Huntington, IN
| Wells, IN
| Whitley, IN
2800 | Forth Worth-Arlington, TX ¹ | 0.9522 | 0.9670
| Hood, TX
| Johnson, TX
| Parker, TX
| Tarrant, TX
2840 | Fresno, CA | 1.0509 | 1.0346
| Fresno, CA
| Madera, CA
2880 | Gadsden, AL | 0.8077 | 0.8639
| Etowah, AL
2900 | Gainesville, FL | 0.9446 | 0.9617
| Alachua, FL
2920 | Galveston-Texas City, TX | 0.9387 | 0.9576
| Galveston, TX
2960 | Gary, IN | 0.9337 | 0.9541
| Lake, IN
| Porter, IN
2975 | Glens Falls, NY | 0.8486 | 0.8937
| Warren, NY
| Washington, NY
2980 | Goldsboro, NC | 0.8776 | 0.9145
| Wayne, NC
2985 | Grand Forks, ND-MN (ND Hospitals) | 0.9147 | 0.9408
| Polk, MN
| Grand Forks, ND
2985 | Grand Forks, ND-MN (MN Hospitals) ² | 0.9339 | 0.9542
| Polk, MN
| Grand Forks, ND
2995 | Grand Junction, CO | 0.9932 | 0.9953
| Mesa, CO
3000 | Grand Rapids-Muskegon-Holland, MI ¹ | 0.9523 | 0.9671
| Allegan, MI
| Kent, MI
| Muskegon, MI
| Ottawa, MI
3040 | Great Falls, MT | 0.8831 | 0.9184
| Cascade, MT
3060 | Greeley, CO | 0.9732 | 0.9816
| Weld, CO
3080 | Green Bay, WI | 0.9573 | 0.9706
| Brown, WI
3120 | Greensboro-Winston-Salem-High Point, NC ¹ | 0.9324 | 0.9532
| Alamance, NC
| Davidson, NC
| Davie, NC
| Forsyth, NC
| Guilford, NC
| Randolph, NC
| Stokes, NC
| Yadkin, NC
3150 | Greenville, NC | 0.9179 | 0.9430
| Pitt, NC
3160 | Greenville-Spartanburg-Anderson, SC | 0.9383 | 0.9573
| Anderson, SC
| Cherokee, SC
| Greenville, SC
| Pickens, SC
| Spartanburg, SC
3180 | Hagerstown, MD | 0.9982 | 0.9988
| Washington, MD
3200 | Hamilton-Middletown, OH | 0.9126 | 0.9393
| Butler, OH
3240 | Harrisburg-Lebanon-Carlisle, PA | 0.9299 | 0.9514
| Cumberland, PA
| Dauphin, PA
| Lebanon, PA
| Perry, PA
3283 | Hartford, CT1 2 | 1.1583 | 1.1059
| Hartford, CT
| Litchfield, CT
| Middlesex, CT
| Tolland, CT
3285 | Hattiesburg, MS ² | 0.7600 | 0.8287
| Forrest, MS
| Lamar, MS
3290 | Hickory-Morganton-Lenoir, NC | 0.9510 | 0.9662
| Alexander, NC
| Burke, NC
| Caldwell, NC
| Catawba, NC
3320 | Honolulu, HI | 1.1033 | 1.0696
| Honolulu, HI
3350 | Houma, LA | 0.7761 | 0.8407
| Lafourche, LA
| Terrebonne, LA
3360 | Houston, TX ¹ | 1.0122 | 1.0083
| Chambers, TX
| Fort Bend, TX
| Harris, TX
| Liberty, TX
| Montgomery, TX
| Waller, TX
3400 | Huntington-Ashland, WV-KY-OH | 0.9560 | 0.9697
| Boyd, KY
| Carter, KY
| Greenup, KY
| Lawrence, OH
| Cabell, WV
| Wayne, WV
3440 | Huntsville, AL | 0.8826 | 0.9180
| Limestone, AL
| Madison, AL
3480 | Indianapolis, IN ¹ | 1.0033 | 1.0023
| Boone, IN
| Hamilton, IN
| Hancock, IN
| Hendricks, IN
| Johnson, IN
| Madison, IN
| Marion, IN
| Morgan, IN
| Shelby, IN
3500 | Iowa City, IA | 0.9649 | 0.9758
| Johnson, IA
3520 | Jackson, MI | 0.9133 | 0.9398
| Jackson, MI
3560 | Jackson, MS | 0.8396 | 0.8872
| Hinds, MS
| Madison, MS
| Rankin, MS
3580 | Jackson, TN | 0.8891 | 0.9227
| Madison, TN
| Chester, TN
3600 | Jacksonville, FL ¹ | 0.9553 | 0.9692
| Clay, FL
| Duval, FL
| Nassau, FL
| St. Johns, FL
3605 | Jacksonville, NC ² | 0.8506 | 0.8951
| Onslow, NC
3610 | Jamestown, NY ² | 0.8418 | 0.8888
| Chautauqua, NY
3620 | Janesville-Beloit, WI | 0.9597 | 0.9722
| Rock, WI
3640 | Jersey City, NJ ² | 1.1788 | 1.1192
| Hudson, NJ
3660 | Johnson City-Kingsport-Bristol, TN-VA (TN Hospitals) | 0.8206 | 0.8734
| Carter, TN
| Hawkins, TN
| Sullivan, TN
| Unicoi, TN
| Washington, TN
| Bristol City, VA
| Scott, VA
| Washington, VA
3660 | Johnson City-Kingsport-Bristol, TN-VA (VA Hospitals) ² | 0.8489 | 0.8939
| Carter, TN
| Hawkins, TN
| Sullivan, TN
| Unicoi, TN
| Washington, TN
| Bristol City, VA
| Scott, VA
| Washington, VA
3680 | Johnstown, PA ² | 0.8346 | 0.8835
| Cambria, PA
| Somerset, PA
3700 | Jonesboro, AR | 0.8229 | 0.8750
| Craighead, AR
3710 | Joplin, MO | 0.8725 | 0.9108
| Jasper, MO
| Newton, MO
3720 | Kalamazoo-Battlecreek, MI | 1.0355 | 1.0242
| Calhoun, MI
| Kalamazoo, MI
| Van Buren, MI
3740 | Kankakee, IL | 1.0618 | 1.0419
| Kankakee, IL
3760 | Kansas City, KS-MO ¹ | 0.9629 | 0.9744
| Johnson, KS
| Leavenworth, KS
| Miami, KS
| Wyandotte, KS
| Cass, MO
| Clay, MO
| Clinton, MO
| Jackson, MO
| Lafayette, MO
| Platte, MO
| Ray, MO
3800 | Kenosha, WI | 0.9765 | 0.9838
| Kenosha, WI
3810 | Killeen-Temple, TX | 0.9276 | 0.9498
| Bell, TX
| Coryell, TX
3840 | Knoxville, TN | 0.8524 | 0.8964
| Anderson, TN
| Blount, TN
| Knox, TN
| Loudon, TN
| Sevier, TN
| Union, TN
3850 | Kokomo, IN | 0.9023 | 0.9320
| Howard, IN
| Tipton, IN
3870 | La Crosse, WI-MN ² | 0.9496 | 0.9652
| Houston, MN
| La Crosse, WI
3880 | Lafayette, LA | 0.8116 | 0.8668
| Acadia, LA
| Lafayette, LA
| St. Landry, LA
| St. Martin, LA
3920 | Lafayette, IN | 0.9051 | 0.9340
| Clinton, IN
| Tippecanoe, IN
3960 | Lake Charles, LA | 0.7977 | 0.8566
| Calcasieu, LA
3980 | Lakeland-Winter Haven, FL | 0.8943 | 0.8264
| Polk, FL
4000 | Lancaster, PA | 0.9896 | 0.9929
| Lancaster, PA
4040 | Lansing-East Lansing, MI | 0.9653 | 0.9761
| Clinton, MI
| Eaton, MI
| Ingham, MI
4080 | Laredo, TX | 0.8775 | 0.9144
| Webb, TX
4100 | Las Cruces, NM | 0.8759 | 0.9133
| Dona Ana, NM
4120 | Las Vegas, NV-AZ ¹ | 1.1092 | 1.0736
| Mohave, AZ
| Clark, NV
| Nye, NV
4150 | Lawrence, KS ² | 0.8129 | 0.8677
| Douglas, KS
4200 | Lawton, OK | 0.8249 | 0.8765
| Comanche, OK
4243 | Lewiston-Auburn, ME | 0.9552 | 0.9691
| Androscoggin, ME
4280 | Lexington, KY | 0.9198 | 0.9444
| Bourbon, KY
| Clark, KY
| Fayette, KY
| Jessamine, KY
| Madison, KY
| Scott, KY
| Woodford, KY
4320 | Lima, OH | 0.9239 | 0.9472
| Allen, OH
| Auglaize, OH
4360 | Lincoln, NE | 1.0180 | 1.0123
| Lancaster, NE
4400 | Little Rock-North Little Rock, AR | 0.8840 | 0.9190
| Faulkner, AR
| Lonoke, AR
| Pulaski, AR
| Saline, AR
4420 | Longview-Marshall, TX | 0.8743 | 0.9121
| Gregg, TX
| Harrison, TX
| Upshur, TX
4480 | Los Angeles-Long Beach, CA ¹ | 1.1742 | 1.1162
| Los Angeles, CA
4520 | Louisville, KY-IN ¹ | 0.9166 | 0.9421
| Clark, IN
| Floyd, IN
| Harrison, IN
| Scott, IN
| Bullitt, KY
| Jefferson, KY
| Oldham, KY
4600 | Lubbock, TX | 0.8774 | 0.9143
| Lubbock, TX
4640 | Lynchburg, VA | 0.9026 | 0.9322
| Amherst, VA
| Bedford, VA
| Bedford City, VA
| Campbell, VA
| Lynchburg City, VA
4680 | Macon, GA | 0.9625 | 0.9742
| Bibb, GA
| Houston, GA
| Jones, GA
| Peach, GA
| Twiggs, GA
4720 | Madison, WI | 1.0390 | 1.0265
| Dane, WI
4800 | Mansfield, OH | 0.9114 | 0.9384
| Crawford, OH
| Richland, OH
4840 | Mayaguez, PR | 0.4764 | 0.6018
| Anasco, PR
| Cabo Rojo, PR
| Hormigueros, PR
| Mayaguez, PR
| Sabana Grande, PR
| San German, PR
4880 | McAllen-Edinburg-Mission, TX | 0.8603 | 0.9021
| Hidalgo, TX
4890 | Medford-Ashland, OR | 1.0533 | 1.0362
| Jackson, OR
4900 | Melbourne-Titusville-Palm Bay, FL | 0.9625 | 0.9742
| Brevard, Fl
4920 | Memphis, TN-AR-MS ¹ | 0.9239 | 0.9472
| Crittenden, AR
| DeSoto, MS
| Fayette, TN
| Shelby, TN
| Tipton, TN
4940 | Merced, CA | 1.0526 | 1.0357
| Merced, CA
5000 | Miami, FL ¹ | 0.9870 | 0.9911
| Dade, FL
5015 | Middlesex-Somerset-Hunterdon, NJ 1 2 | 1.1788 | 1.1192
| Hunterdon, NJ
| Middlesex, NJ
| Somerset, NJ
5080 | Milwaukee-Waukesha, WI ¹ | 1.0081 | 1.0055
| Milwaukee, WI
| Ozaukee, WI
| Washington, WI
| Waukesha, WI
5120 | Minneapolis-St. Paul, MN-WI ¹ | 1.1044 | 1.0704
| Anoka, MN
| Carver, MN
| Chisago, MN
| Dakota, MN
| Hennepin, MN
| Isanti, MN
| Ramsey, MN
| Scott, MN
| Sherburne, MN
| Washington, MN
| Wright, MN
| Pierce, WI
| St. Croix, WI
5140 | Missoula, MT | 0.9630 | 0.9745
| Missoula, MT
5160 | Mobile, AL | 0.7934 | 0.8534
| Baldwin, AL
| Mobile, AL
5170 | Modesto, CA | 1.1993 | 1.1325
| Stanislaus, CA
5190 | Monmouth-Ocean, NJ 1 2 | 1.1788 | 1.1192
| Monmouth, NJ
| Ocean, NJ
5200 | Monroe, LA | 0.7917 | 0.8522
| Ouachita, LA
5240 | Montgomery, AL | 0.8311 | 0.8810
| Autauga, AL
| Elmore, AL
| Montgomery, AL
5280 | Muncie, IN ² | 0.8740 | 0.9119
| Delaware, IN
5330 | Myrtle Beach, SC | 0.9017 | 0.9316
| Horry, SC
5345 | Naples, FL | 1.0531 | 1.0361
| Collier, FL
5360 | Nashville, TN ¹ | 1.0096 | 1.0066
| Cheatham, TN
| Davidson, TN
| Dickson, TN
| Robertson, TN
| Rutherford TN
| Sumner, TN
| Williamson, TN
| Wilson, TN
5380 | Nassau-Suffolk, NY ¹ | 1.2928 | 1.1923
| Nassau, NY
| Suffolk, NY
5483 | New Haven-Bridgeport-Stamford-Waterbury-Danbury, CT ¹ | 1.2272 | 1.1505
| Fairfield, CT
| New Haven, CT
5523 | New London-Norwich, CT | 1.1627 | 1.1087
| New London, CT
5560 | New Orleans, LA ¹ | 0.9100 | 0.9375
| Jefferson, LA
| Orleans, LA
| Plaquemines, LA
| St. Bernard, LA
| St. Charles, LA
| St. James, LA
| St. John The Baptist, LA
| St. Tammany, LA
5600 | New York, NY ¹ | 1.3595 | 1.2341
| Bronx, NY
| Kings, NY
| New York, NY
| Putnam, NY
| Queens, NY
| Richmond, NY
| Rockland, NY
| Westchester, NY
5640 | Newark, NJ 1 2 | 1.1788 | 1.1192
| Essex, NJ
| Morris, NJ
| Sussex, NJ
| Union, NJ
| Warren, NJ
5660 | Newburgh, NY-PA | 1.1171 | 1.0788
| Orange, NY
| Pike, PA
5720 | Norfolk-Virginia Beach-Newport News, VA-NC ¹ | 0.8928 | 0.9253
| Currituck, NC
| Chesapeake City, VA
| Gloucester, VA
| Hampton City, VA
| Isle of Wight, VA
| James City, VA
| Mathews, VA
| Newport News City, VA
| Norfolk City, VA
| Poquoson City, VA
| Portsmouth City, VA
| Suffolk City, VA
| Virginia Beach City VA
| Williamsburg City, VA
| York, VA
5775 | Oakland, CA ¹ | 1.5338 | 1.3403
| Alameda, CA
| Contra Costa, CA
5790 | Ocala, FL | 0.9174 | 0.9427
| Marion, FL
5800 | Odessa-Midland, TX | 0.9631 | 0.9746
| Ector, TX
| Midland, TX
5880 | Oklahoma City, OK ¹ | 0.8968 | 0.9281
| Canadian, OK
| Cleveland, OK
| Logan, OK
| McClain, OK
| Oklahoma, OK
| Pottawatomie, OK
5910 | Olympia, WA | 1.1005 | 1.0678
| Thurston, WA
5920 | Omaha, NE-IA | 0.9740 | 0.9821
| Pottawattamie, IA
| Cass, NE
| Douglas, NE
| Sarpy, NE
| Washington, NE
5945 | Orange County, CA ¹ | 1.1701 | 1.1136
| Orange, CA
5960 | Orlando, FL ¹ | 0.9731 | 0.9815
| Lake, FL
| Orange, FL
| Osceola, FL
| Seminole, FL
5990 | Owensboro, KY | 0.8450 | 0.8911
| Daviess, KY
6015 | Panama City, FL ² | 0.8707 | 0.9095
| Bay, FL
6020 | Parkersburg-Marietta, WV-OH (WV Hospitals) | 0.8315 | 0.8813
| Washington, OH
| Wood, WV
6020 | Parkersburg-Marietta, WV-OH (OH Hospitals) ² | 0.8759 | 0.9133
| Washington, OH
| Wood, WV
6080 | Pensacola, FL ² | 0.8707 | 0.9095
| Escambia, FL
| Santa Rosa, FL
6120 | Peoria-Pekin, IL | 0.8913 | 0.9242
| Peoria, IL
| Tazewell, IL
| Woodford, IL
6160 | Philadelphia, PA-NJ (PA Hospitals) ¹ | 1.0813 | 1.0550
| Burlington, NJ
| Camden, NJ
| Gloucester, NJ
| Salem, NJ
| Bucks, PA
| Chester, PA
| Delaware, PA
| Montgomery, PA
| Philadelphia, PA
6160 | Philadelphia, PA-NJ (NJ Hospitals)1 2 | 1.1788 | 1.1192
| Burlington, NJ
| Camden, NJ
| Gloucester, NJ
| Salem, NJ
| Bucks, PA
| Chester, PA
| Delaware, PA
| Montgomery, PA
| Philadelphia, PA
6200 | Phoenix-Mesa, AZ ¹ | 0.9985 | 0.9990
| Maricopa, AZ
| Pinal, AZ
6240 | Pine Bluff, AR | 0.8700 | 0.9090
| Jefferson, AR
6280 | Pittsburgh, PA ¹ | 0.8743 | 0.9121
| Allegheny, PA
| Beaver, PA
| Butler, PA
| Fayette, PA
| Washington, PA
| Westmoreland, PA
6323 | Pittsfield, MA | 1.0431 | 1.0293
| Berkshire, MA
6340 | Pocatello, ID | 0.9589 | 0.9717
| Bannock, ID
6360 | Ponce, PR | 0.4955 | 0.6183
| Guayanilla, PR
| Juana Diaz, PR
| Penuelas, PR
| Ponce, PR
| Villalba, PR
| Yauco, PR
6403 | Portland, ME | 1.0102 | 1.0070
| Cumberland, ME
| Sagadahoc, ME
| York, ME
6440 | Portland-Vancouver, OR-WA ¹ | 1.1371 | 1.0920
| Clackamas, OR
| Columbia, OR
| Multnomah, OR
| Washington, OR
| Yamhill, OR
| Clark, WA
6483 | Providence-Warwick-Pawtucket, RI ¹ | 1.1046 | 1.0705
| Bristol, RI
| Kent, RI
| Newport, RI
| Providence, RI
| Washington, RI
6520 | Provo-Orem, UT | 0.9596 | 0.9722
| Utah, UT
6560 | Pueblo, CO ² | 0.9356 | 0.9554
| Pueblo, CO
6580 | Punta Gorda, FL | 0.9451 | 0.9621
| Charlotte, FL
6600 | Racine, WI ² | 0.9496 | 0.9652
| Racine, WI
6640 | Raleigh-Durham-Chapel Hill, NC ¹ | 1.0224 | 1.0153
| Chatham, NC
| Durham, NC
| Franklin, NC
| Johnston, NC
| Orange, NC
| Wake, NC
6660 | Rapid City, SD | 0.8919 | 0.9246
| Pennington, SD
6680 | Reading, PA | 0.9218 | 0.9458
| Berks, PA
6690 | Redding, CA | 1.1830 | 1.1220
| Shasta, CA
6720 | Reno, NV | 1.0446 | 1.0303
| Washoe, NV
6740 | Richland-Kennewick-Pasco, WA | 1.0508 | 1.0345
| Benton, WA
| Franklin, WA
6760 | Richmond-Petersburg, VA | 0.9379 | 0.9570
| Charles City County, VA
| Chesterfield, VA
| Colonial Heights City, VA
| Dinwiddie, VA
| Goochland, VA
| Hanover, VA
| Henrico, VA
| Hopewell City, VA
| New Kent, VA
| Petersburg City, VA
| Powhatan, VA
| Prince George, VA
| Richmond City, VA
6780 | Riverside-San Bernardino, CA ¹ | 1.0979 | 1.0660
| Riverside, CA
| San Bernardino, CA
6800 | Roanoke, VA ² | 0.8489 | 0.8939
| Botetourt, VA
| Roanoke, VA
| Roanoke City, VA
| Salem City, VA
6820 | Rochester, MN | 1.1490 | 1.0998
| Olmsted, MN
6840 | Rochester, NY ¹ | 0.9198 | 0.9444
| Genesee, NY
| Livingston, NY
| Monroe, NY
| Ontario, NY
| Orleans, NY
| Wayne, NY
6880 | Rockford, IL | 0.9607 | 0.9729
| Boone, IL
| Ogle, IL
| Winnebago, IL
6895 | Rocky Mount, NC | 0.8997 | 0.9302
| Edgecombe, NC
| Nash, NC
6920 | Sacramento, CA ¹ | 1.1829 | 1.1219
| El Dorado, CA
| Placer, CA
| Sacramento, CA
6960 | Saginaw-Bay City-Midland, MI | 0.9725 | 0.9811
| Bay, MI
| Midland, MI
| Saginaw, MI
6980 | St. Cloud, MN | 1.0271 | 1.0185
| Benton, MN
| Stearns, MN
7000 | St. Joseph, MO ² | 0.8041 | 0.8613
| Andrew, MO
| Buchanan, MO
7040 | St. Louis, MO-IL ¹ | 0.9085 | 0.9364
| Clinton, IL
| Jersey, IL
| Madison, IL
| Monroe, IL
| St. Clair, IL
| Franklin, MO
| Jefferson, MO
| Lincoln, MO
| St. Charles, MO
| St. Louis, MO
| St. Louis City, MO
| Warren, MO
7080 | Salem, OR | 1.0549 | 1.0373
| Marion, OR
| Polk, OR
7120 | Salinas, CA | 1.3820 | 1.2480
| Monterey, CA
7160 | Salt Lake City-Ogden, UT ¹ | 0.9491 | 0.9649
| Davis, UT
| Salt Lake, UT
| Weber, UT
7200 | San Angelo, TX | 0.8174 | 0.8710
| Tom Green, TX
7240 | San Antonio, TX ¹ | 0.9020 | 0.9318
| Bexar, TX
| Comal, TX
| Guadalupe, TX
| Wilson, TX
7320 | San Diego, CA ¹ | 1.1260 | 1.0847
| San Diego, CA
7360 | San Francisco, CA ¹ | 1.4694 | 1.3015
| Marin, CA
| San Francisco, CA
| San Mateo, CA
7400 | San Jose, CA ¹ | 1.4734 | 1.3040
| Santa Clara, CA
7440 | San Juan-Bayamon, PR ¹ | 0.4801 | 0.6050
| Aguas Buenas, PR
| Barceloneta, PR
| Bayamon, PR
| Canovanas, PR
| Carolina, PR
| Catano, PR
| Ceiba, PR
| Comerio, PR
| Corozal, PR
| Dorado, PR
| Fajardo, PR
| Florida, PR
| Guaynabo, PR
| Humacao, PR
| Juncos, PR
| Los Piedras, PR
| Loiza, PR
| Luguillo, PR
| Manati, PR
| Morovis, PR
| Naguabo, PR
| Naranjito, PR
| Rio Grande, PR
| San Juan, PR
| Toa Alta, PR
| Toa Baja, PR
| Trujillo Alto, PR
| Vega Alta, PR
| Vega Baja, PR
| Yabucoa, PR
7460 | San Luis Obispo-Atascadero-Paso Robles, CA | 1.1115 | 1.0751
| San Luis Obispo, CA
7480 | Santa Barbara-Santa Maria-Lompoc, CA | 1.0757 | 1.0512
| Santa Barbara, CA
7485 | Santa Cruz-Watsonville, CA | 1.4759 | 1.3055
| Santa Cruz, CA
7490 | Santa Fe, NM | 1.0565 | 1.0384
| Los Alamos, NM
| Santa Fe, NM
7500 | Santa Rosa, CA | 1.2938 | 1.1929
| Sonoma, CA
7510 | Sarasota-Bradenton, FL | 0.9610 | 0.9731
| Manatee, FL
| Sarasota, FL
7520 | Savannah, GA | 0.9464 | 0.9630
| Bryan, GA
| Chatham, GA
| Effingham, GA
7560 | Scranton--Wilkes-Barre--Hazleton, PA | 0.8505 | 0.8950
| Columbia, PA
| Lackawanna, PA
| Luzerne, PA
| Wyoming, PA
7600 | Seattle-Bellevue-Everett, WA ¹ | 1.1463 | 1.0980
| Island, WA
| King, WA
| Snohomish, WA
7610 | Sharon, PA ² | 0.8346 | 0.8835
| Mercer, PA
7620 | Sheboygan, WI ² | 0.9496 | 0.9652
| Sheboygan, WI
7640 | Sherman-Denison, TX | 0.9619 | 0.9737
| Grayson, TX
7680 | Shreveport-Bossier City, LA | 0.9108 | 0.9380
| Bossier, LA
| Caddo, LA
| Webster, LA
7720 | Sioux City, IA-NE | 0.9079 | 0.9360
| Woodbury, IA
| Dakota, NE
7760 | Sioux Falls, SD | 0.9414 | 0.9595
| Lincoln, SD
| Minnehaha, SD
7800 | South Bend, IN | 0.9434 | 0.9609
| St. Joseph, IN
7840 | Spokane, WA | 1.0643 | 1.0436
| Spokane, WA
7880 | Springfield, IL | 0.8732 | 0.9113
| Menard, IL
| Sangamon, IL
7920 | Springfield, MO | 0.8600 | 0.9019
| Christian, MO
| Greene, MO
| Webster, MO
8003 | Springfield, MA ² | 1.0196 | 1.0134
| Hampden, MA
| Hampshire, MA
8050 | State College, PA | 0.8465 | 0.8922
| Centre, PA
8080 | Steubenville-Weirton, OH-WV (OH Hospitals) ² | 0.8759 | 0.9133
| Jefferson, OH
| Brooke, WV
| Hancock, WV
8080 | Steubenville-Weirton, OH-WV (WV Hospitals) | 0.8274 | 0.8783
| Jefferson, OH
| Brooke, WV
| Hancock, WV
8120 | Stockton-Lodi, CA | 1.0583 | 1.0396
| San Joaquin, CA
8140 | Sumter, SC ² | 0.8662 | 0.9063
| Sumter, SC
8160 | Syracuse, NY | 0.9411 | 0.9593
| Cayuga, NY
| Madison, NY
| Onondaga, NY
| Oswego, NY
8200 | Tacoma, WA | 1.1074 | 1.0724
| Pierce, WA
8240 | Tallahassee, FL ² | 0.8707 | 0.9095
| Gadsden, FL
| Leon, FL
8280 | Tampa-St. Petersburg-Clearwater, FL ¹ | 0.9074 | 0.9356
| Hernando, FL
| Hillsborough, FL
| Pasco, FL
| Pinellas, FL
8320 | Terre Haute, IN ² | 0.8740 | 0.9119
| Clay, IN
| Vermillion, IN
| Vigo, IN
8360 | Texarkana, AR-Texarkana, TX | 0.8440 | 0.8903
| Miller, AR
| Bowie, TX
8400 | Toledo, OH | 0.9514 | 0.9665
| Fulton, OH
| Lucas, OH
| Wood, OH
8440 | Topeka, KS | 0.8896 | 0.9230
| Shawnee, KS
8480 | Trenton, NJ ² | 1.1788 | 1.1192
| Mercer, NJ
8520 | Tucson, AZ ² | 0.9148 | 0.9408
| Pima, AZ
8560 | Tulsa, OK | 0.8756 | 0.9130
| Creek, OK
| Osage, OK
| Rogers, OK
| Tulsa, OK
| Wagoner, OK
8600 | Tuscaloosa, AL | 0.8441 | 0.8904
| Tuscaloosa, AL
8640 | Tyler, TX | 0.9516 | 0.9666
| Smith, TX
8680 | Utica-Rome, NY ² | 0.8418 | 0.8888
| Herkimer, NY
| Oneida, NY
8720 | Vallejo-Fairfield-Napa, CA | 1.3802 | 1.2469
| Napa, CA
| Solano, CA
8735 | Ventura, CA | 1.1099 | 1.0740
| Ventura, CA
8750 | Victoria, TX | 0.8456 | 0.8915
| Victoria, TX
8760 | Vineland-Millville-Bridgeton, NJ | 1.1788 | 1.1192
| Cumberland, NJ
8780 | Visalia-Tulare-Porterville, CA ² | 1.0262 | 1.0179
| Tulare, CA
8800 | Waco, TX | 0.8172 | 0.8709
| McLennan, TX
8840 | Washington, DC-MD-VA-WV ¹ | 1.0969 | 1.0654
| District of Columbia, DC
| Calvert, MD
| Charles, MD
| Frederick, MD
| Montgomery, MD
| Prince Georges, MD
| Alexandria City, VA
| Arlington, VA
| Clarke, VA
| Culpeper, VA
| Fairfax, VA
| Fairfax City, VA
| Falls Church City, VA
| Fauquier, VA
| Fredericksburg City, VA
| King George, VA
| Loudoun, VA
| Manassas City, VA
| Manassas Park City, VA
| Prince William, VA
| Spotsylvania, VA
| Stafford, VA
| Warren, VA
| Berkeley, WV
| Jefferson, WV
8920 | Waterloo-Cedar Falls, IA | 0.8629 | 0.9040
| Black Hawk, IA
8940 | Wausau, WI | 1.0101 | 1.0069
| Marathon, WI
8960 | West Palm Beach-Boca Raton, FL ¹ | 1.0348 | 1.0237
| Palm Beach, FL
9000 | Wheeling, WV-OH (WV Hospitals) ² | 0.8099 | 0.8656
| Belmont, OH
| Marshall, WV
| Ohio, WV
9000 | Wheeling, WV-OH (OH Hospitals) ² | 0.8759 | 0.9133
| Belmont, OH
| Marshall, WV
| Ohio, WV
9040 | Wichita, KS | 0.9499 | 0.9654
| Butler, KS
| Harvey, KS
| Sedgwick, KS
9080 | Wichita Falls, TX | 0.8428 | 0.8895
| Archer, TX
| Wichita, TX
9140 | Williamsport, PA | 0.8476 | 0.8929
| Lycoming, PA
9160 | Wilmington-Newark, DE-MD | 1.1172 | 1.0788
| New Castle, DE
| Cecil, MD
9200 | Wilmington, NC | 0.9225 | 0.9463
| New Hanover, NC
| Brunswick, NC
9260 | Yakima, WA | 1.0317 | 1.0216
| Yakima, WA
9270 | Yolo, CA ² | 1.0262 | 1.0179
| Yolo, CA
9280 | York, PA | 0.9152 | 0.9411
| York, PA
9320 | Youngstown-Warren, OH | 0.9516 | 0.9666
| Columbiana, OH
| Mahoning, OH
| Trumbull, OH
9340 | Yuba City, CA | 1.0381 | 1.0259
| Sutter, CA
| Yuba, CA
9360 | Yuma, AZ ² | 0.9148 | 0.9408
| Yuma, AZ

19. On pages 49481 through 49521, in Table 4A2—Wage Index and Capital Geographic Adjustment Factor (GAF) for Urban Areas by CBSA, the table is corrected to read as follows:

Table 4A2.—Wage Index and Capital Geographic Adjustment Factor (GAF) for Urban Areas by CBSA
CBSA code | Urban area (constituent counties) | Wage index | GAF
10180 | Abilene, TX ² | 0.7997 | 0.8581
| Callahan County, TX
| Jones County, TX
| Taylor County, TX
10380 | Aguadilla-Isabela-San Sebastián, PR | 0.4274 | 0.5587
| Aguada Municipio, PR
| Aguadilla Municipio, PR
| Anasco Municipio, PR
| Isabela Municipio, PR
| Lares Municipio, PR
| Moca Municipio, PR
| Rincón Municipio, PR
| San Sebastián Municipio, PR
10420 | Akron, OH | 0.9042 | 0.9334
| Portage County, OH
| Summit County, OH
10500 | Albany, GA | 1.1277 | 1.0858
| Baker County, GA
| Dougherty County, GA
| Lee County, GA
| Terrell County, GA
| Worth County, GA
10580 | Albany-Schenectady-Troy, NY | 0.8668 | 0.9067
| Albany County, NY
| Rensselaer County, NY
| Saratoga County, NY
| Schenectady County, NY
| Schoharie County, NY
10740 | Albuquerque, NM | 1.0486 | 1.0330
| Bernalillo County, NM
| Sandoval County, NM
| Torrance County, NM
| Valencia County, NM
10780 | Alexandria, LA | 0.8178 | 0.8713
| Grant Parish, LA
| Rapides Parish, LA
10900 | Allentown-Bethlehem-Easton, PA-NJ (PA Hospitals) | 0.9519 | 0.9668
| Warren County, NJ
| Carbon County, PA
| Lehigh County, PA
| Northampton County, PA
10900 | Allentown-Bethlehem-Easton, PA-NJ (NJ Hospitals) ² | 1.1277 | 1.0858
| Warren County, NJ
| Carbon County, PA
| Lehigh County, PA
| Northampton County, PA
11020 | Altoona, PA | 0.8452 | 0.8912
| Blair County, PA
11100 | Amarillo, TX | 0.9177 | 0.9429
| Armstrong County, TX
| Carson County, TX
| Potter County, TX
| Randall County, TX
11180 | Ames, IA | 0.9480 | 0.9641
| Story County, IA
11260 | Anchorage, AK | 1.2164 | 1.1436
| Anchorage Municipality, AK
| Matanuska-Susitna Borough, AK
11300 | Anderson, IN | 0.8753 | 0.9128
| Madison County, IN
11340 | Anderson, SC ² | 0.8705 | 0.9094
| Anderson County, SC
11460 | Ann Arbor, MI | 1.1037 | 1.0699
| Washtenaw County, MI
11500 | Anniston-Oxford, AL | 0.7949 | 0.8545
| Calhoun County, AL
11540 | Appleton, WI ² | 0.9507 | 0.9660
| Calumet County, WI
| Outagamie County, WI
11700 | Asheville, NC | 0.9208 | 0.9451
| Buncombe County, NC
| Haywood County, NC
| Henderson County, NC
| Madison County, NC
12020 | Athens-Clarke County, GA | 1.0173 | 1.0118
| Clarke County, GA
| Madison County, GA
| Oconee County, GA
| Oglethorpe County, GA
12060 | Atlanta-Sandy Springs-Marietta, GA ¹ | 0.9960 | 0.9973
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ ² | 1.1277 | 1.0858
| Atlantic County, NJ
12220 | Auburn-Opelika, AL | 0.8221 | 0.8745
| Lee County, AL
12260 | Augusta-Richmond County, GA-SC | 0.9156 | 0.9414
| Burke County, GA
| Columbia County, GA
| McDuffie County, GA
| Richmond County, GA
| Aiken County, SC
| Edgefield County, SC
12420 | Austin-Round Rock, TX ¹ | 0.9597 | 0.9722
| Bastrop County, TX
| Caldwell County, TX
| Hays County, TX
| Travis County, TX
| Williamson County, TX
12540 | Bakersfield, CA ² | 1.0450 | 1.0306
| Kern County, CA
12580 | Baltimore-Towson, MD ¹ | 0.9892 | 0.9926
| Anne Arundel County, MD
| Baltimore County, MD
| Carroll County, MD
| Harford County, MD
| Howard County, MD
| Queen Anne's County, MD
| Baltimore City, MD
12620 | Bangor, ME | 0.9937 | 0.9957
| Penobscot County, ME
12700 | Barnstable Town, MA | 1.2327 | 1.1540
| Barnstable County, MA
12940 | Baton Rouge, LA | 0.8322 | 0.8818
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9345 | 0.9547
| Calhoun County, MI
13020 | Bay City, MI | 0.9579 | 0.9710
| Bay County, MI
13140 | Beaumont-Port Arthur, TX | 0.8617 | 0.9031
| Hardin County, TX
| Jefferson County, TX
| Orange County, TX
13380 | Bellingham, WA | 1.1605 | 1.1073
| Whatcom County, WA
13460 | Bend, OR | 1.0560 | 1.0380
| Deschutes County, OR
13644 | Bethesda-Frederick-Gaithersburg, MD ¹ | 1.0935 | 1.0631
| Frederick County, MD
| Montgomery County, MD
13740 | Billings, MT | 0.8973 | 0.9285
| Carbon County, MT
| Yellowstone County, MT
13780 | Binghamton, NY | 0.8464 | 0.8921
| Broome County, NY
| Tioga County, NY
13820 | Birmingham-Hoover, AL ¹ | 0.9157 | 0.9415
| Bibb County, AL
| Blount County, AL
| Chilton County, AL
| Jefferson County, AL
| St. Clair County, AL
| Shelby County, AL
| Walker County, AL
13900 | Bismarck, ND ² | 0.7750 | 0.8398
| Burleigh County, ND
| Morton County, ND
13980 | Blacksburg-Christiansburg-Radford, VA ² | 0.8062 | 0.8628
| Giles County, VA
| Montgomery County, VA
| Pulaski County, VA
| Radford City, VA
14020 | Bloomington, IN ² | 0.8657 | 0.9060
| Greene County, IN
| Monroe County, IN
| Owen County, IN
14060 | Bloomington-Normal, IL | 0.9110 | 0.9382
| McLean County, IL
14260 | Boise City-Nampa, ID | 0.9338 | 0.9542
| Ada County, ID
| Boise County, ID
| Canyon County, ID
| Gem County, ID
| Owyhee County, ID
14484 | Boston-Quincy, MA ¹ | 1.1766 | 1.1178
| Norfolk County, MA
| Plymouth County, MA
| Suffolk County, MA
14500 | Boulder, CO | 1.0044 | 1.0030
| Boulder County, CO
14540 | Bowling Green, KY | 0.8141 | 0.8686
| Edmonson County, KY
| Warren County, KY
14740 | Bremerton-Silverdale, WA | 1.0608 | 1.0412
| Kitsap County, WA
14860 | Bridgeport-Stamford-Norwalk, CT | 1.2846 | 1.1871
| Fairfield County, CT
15180 | Brownsville-Harlingen, TX | 1.0158 | 1.0108
| Cameron County, TX
15260 | Brunswick, GA | 1.1958 | 1.1303
| Brantley County, GA
| Glynn County, GA
| McIntosh County, GA
15380 | Buffalo-Niagara Falls, NY | 0.9332 | 0.9538
| Erie County, NY
| Niagara County, NY
15500 | Burlington, NC | 0.8954 | 0.9271
| Alamance County, NC
15540 | Burlington-South Burlington, VT ² | 0.9487 | 0.9646
| Chittenden County, VT
| Franklin County, VT
| Grand Isle County, VT
15764 | Cambridge-Newton-Framingham, MA ¹ | 1.1184 | 1.0796
| Middlesex County, MA
15804 | Camden, NJ 1 2 | 1.1277 | 1.0858
| Burlington County, NJ
| Camden County, NJ
| Gloucester County, NJ
15940 | Canton-Massillon, OH | 0.8908 | 0.9239
| Carroll County, OH
| Stark County, OH
15980 | Cape Coral-Fort Myers, FL | 0.9338 | 0.9542
| Lee County, FL
16180 | Carson City, NV | 1.0336 | 1.0229
| Carson City, NV
16220 | Casper, WY | 0.9327 | 0.9534
| Natrona County, WY
16300 | Cedar Rapids, IA | 0.8963 | 0.9278
| Benton County, IA
| Jones County, IA
| Linn County, IA
16580 | Champaign-Urbana, IL | 0.9515 | 0.9665
| Champaign County, IL
| Ford County, IL
| Piatt County, IL
16620 | Charleston, WV | 0.8877 | 0.9217
| Boone County, WV
| Clay County, WV
| Kanawha County, WV
| Lincoln County, WV
| Putnam County, WV
16700 | Charleston-North Charleston, SC | 0.9415 | 0.9596
| Berkeley County, SC
| Charleston County, SC
| Dorchester County, SC
16740 | Charlotte-Gastonia-Concord, NC-SC ¹ | 0.9698 | 0.9792
| Anson County, NC
| Cabarrus County, NC
| Gaston County, NC
| Mecklenburg County, NC
| Union County, NC
| York County, SC
16820 | Charlottesville, VA | 1.0292 | 1.0199
| Albemarle County, VA
| Fluvanna County, VA
| Greene County, VA
| Nelson County, VA
| Charlottesville City, VA
16860 | Chattanooga, TN-GA | 0.9208 | 0.9451
| Catoosa County, GA
| Dade County, GA
| Walker County, GA
| Hamilton County, TN
| Marion County, TN
| Sequatchie County, TN
16940 | Cheyenne, WY ² | 0.9172 | 0.9425
| Laramie County, WY
16974 | Chicago-Naperville-Joliet, IL ¹ | 1.0864 | 1.0584
| Cook County, IL
| DeKalb County, IL
| DuPage County, IL
| Grundy County, IL
| Kane County, IL
| Kendall County, IL
| McHenry County, IL
| Will County, IL
17020 | Chico, CA | 1.0546 | 1.0371
| Butte County, CA
17140 | Cincinnati-Middletown, OH-KY-IN ¹ | 0.9497 | 0.9653
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8109 | 0.8663
| Christian County, KY
| Trigg County, KY
| Montgomery County, TN
| Stewart County, TN
17420 | Cleveland, TN ² | 0.7896 | 0.8506
| Bradley County, TN
| Polk County, TN
17460 | Cleveland-Elyria-Mentor, OH ¹ | 0.9644 | 0.9755
| Cuyahoga County, OH
| Geauga County, OH
| Lake County, OH
| Lorain County, OH
| Medina County, OH
17660 | Coeur d'Alene, ID | 0.9325 | 0.9533
| Kootenai County, ID
17780 | College Station-Bryan, TX | 0.9246 | 0.9477
| Brazos County, TX
| Burleson County, TX
| Robertson County, TX
17820 | Colorado Springs, CO | 0.9771 | 0.9843
| El Paso County, CO
| Teller County, CO
17860 | Columbia, MO | 0.8388 | 0.8866
| Boone County, MO
| Howard County, MO
17900 | Columbia, SC | 0.9402 | 0.9587
| Calhoun County, SC
| Fairfield County, SC
| Kershaw County, SC
| Lexington County, SC
| Richland County, SC
| Saluda County, SC
17980 | Columbus, GA-AL | 0.8691 | 0.9084
| Russell County, AL
| Chattahoochee County, GA
| Harris County, GA
| Marion County, GA
| Muscogee County, GA
18020 | Columbus, IN | 0.9387 | 0.9576
| Bartholomew County, IN
18140 | Columbus, OH ¹ | 0.9734 | 0.9817
| Delaware County, OH
| Fairfield County, OH
| Franklin County, OH
| Licking County, OH
| Madison County, OH
| Morrow County, OH
| Pickaway County, OH
| Union County, OH
18580 | Corpus Christi, TX | 0.8645 | 0.9051
| Aransas County, TX
| Nueces County, TX
| San Patricio County, TX
18700 | Corvallis, OR | 1.0517 | 1.0351
| Benton County, OR
19060 | Cumberland, MD-WV (MD Hospitals) ² | 0.9225 | 0.9463
| Allegany County, MD
| Mineral County, WV
19060 | Cumberland, MD-WV (WV Hospitals) | 0.8652 | 0.9056
| Allegany County, MD
| Mineral County, WV
19124 | Dallas-Plano-Irving, TX ¹ | 1.0068 | 1.0047
| Collin County, TX
| Dallas County, TX
| Delta County, TX
| Denton County, TX
| Ellis County, TX
| Hunt County, TX
| Kaufman County, TX
| Rockwall County, TX
19140 | Dalton, GA | 0.9546 | 0.9687
| Murray County, GA
| Whitfield County, GA
19180 | Danville, IL | 0.8404 | 0.8877
| Vermilion County, IL
19260 | Danville, VA | 0.8660 | 0.9062
| Pittsylvania County, VA
| Danville City, VA
19340 | Davenport-Moline-Rock Island, IA-IL | 0.8758 | 0.9132
| Henry County, IL
| Mercer County, IL
| Rock Island County, IL
| Scott County, IA
19380 | Dayton, OH | 0.9299 | 0.9514
| Greene County, OH
| Miami County, OH
| Montgomery County, OH
| Preble County, OH
19460 | Decatur, AL | 0.8893 | 0.9228
| Lawrence County, AL
| Morgan County, AL
19500 | Decatur, IL ² | 0.8346 | 0.8835
| Macon County, IL
19660 | Deltona-Daytona Beach-Ormond Beach, FL | 0.8899 | 0.9232
| Volusia County, FL
19740 | Denver-Aurora, CO ¹ | 1.0879 | 1.0594
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9266 | 0.9491
| Dallas County, IA
| Guthrie County, IA
| Madison County, IA
| Polk County, IA
| Warren County, IA
19804 | Detroit-Livonia-Dearborn, MI ¹ | 1.0362 | 1.0247
| Wayne County, MI
20020 | Dothan, AL ² | 0.7646 | 0.8321
| Geneva County, AL
| Henry County, AL
| Houston County, AL
20100 | Dover, DE | 0.9866 | 0.9908
| Kent County, DE
20220 | Dubuque, IA | 0.8730 | 0.9112
| Dubuque County, IA
20260 | Duluth, MN-WI | 1.0329 | 1.0224
| Carlton County, MN
| St. Louis County, MN
| Douglas County, WI
20500 | Durham, NC | 1.0322 | 1.0219
| Chatham County, NC
| Durham County, NC
| Orange County, NC
| Person County, NC
20740 | Eau Claire, WI ² | 0.9507 | 0.9660
| Chippewa County, WI
| Eau Claire County, WI
20764 | Edison, NJ 1 2 | 1.1277 | 1.0858
| Middlesex County, NJ
| Monmouth County, NJ
| Ocean County, NJ
| Somerset County, NJ
20940 | El Centro, CA ¹ | 1.0450 | 1.0306
| Imperial County, CA
21060 | Elizabethtown, KY | 0.8690 | 0.9083
| Hardin County, KY
| Larue County, KY
21140 | Elkhart-Goshen, IN | 0.9257 | 0.9485
| Elkhart County, IN
21300 | Elmira, NY | 0.8464 | 0.8921
| Chemung County, NY
21340 | El Paso, TX | 0.9213 | 0.9454
| El Paso County, TX
21500 | Erie, PA | 0.8700 | 0.9090
| Erie County, PA
21604 | Essex County, MA | 1.0654 | 1.0443
| Essex County, MA
21660 | Eugene-Springfield, OR | 1.0921 | 1.0622
| Lane County, OR
21780 | Evansville, IN-KY (IN Hospitals) ² | 0.8657 | 0.9060
| Gibson County, IN
| Posey County, IN
| Vanderburgh County, IN
| Warrick County, IN
| Henderson County, KY
| Webster County, KY
21780 | Evansville, IN-KY (KY Hospitals) | 0.8386 | 0.8864
| Gibson County, IN
| Posey County, IN
| Vanderburgh County, IN
| Warrick County, IN
| Henderson County, KY
| Webster County, KY
21820 | Fairbanks, AK ² | 1.1733 | 1.1157
| Fairbanks North Star Borough, AK
21940 | Fajardo, PR | 0.3942 | 0.5286
| Ceiba Municipio, PR
| Fajardo Municipio, PR
| Luquillo Municipio, PR
22020 | Fargo, ND-MN | 0.9330 | 0.9536
| Clay County, MN
| Cass County, ND
22140 | Farmington, NM ² | 0.8684 | 0.9079
| San Juan County, NM
22180 | Fayetteville, NC | 0.9363 | 0.9559
| Cumberland County, NC
| Hoke County, NC
22220 | Fayetteville-Springdale-Rogers, AR-MO | 0.8670 | 0.9069
| Benton County, AR
| Madison County, AR
| Washington County, AR
| McDonald County, MO
22380 | Flagstaff, AZ | 1.0777 | 1.0526
| Coconino County, AZ
22420 | Flint, MI | 1.1165 | 1.0784
| Genesee County, MI
22500 | Florence, SC | 0.8857 | 0.9202
| Darlington County, SC
| Florence County, SC
22520 | Florence-Muscle Shoals, AL | 0.7906 | 0.8514
| Colbert County, AL
| Lauderdale County, AL
22540 | Fond du Lac, WI | 0.9896 | 0.9929
| Fond du Lac County, WI
22660 | Fort Collins-Loveland, CO | 1.0230 | 1.0157
| Larimer County, CO
22744 | Fort Lauderdale-Pompano Beach-Deerfield Beach, FL ¹ | 1.0382 | 1.0260
| Broward County, FL
22900 | Fort Smith, AR-OK | 0.8300 | 0.8802
| Crawford County, AR
| Franklin County, AR
| Sebastian County, AR
| Le Flore County, OK
| Sequoyah County, OK
23020 | Fort Walton Beach-Crestview-Destin, FL | 0.8781 | 0.9148
| Okaloosa County, FL
23060 | Fort Wayne, IN | 0.9802 | 0.9864
| Allen County, IN
| Wells County, IN
| Whitley County, IN
23104 | Fort Worth-Arlington, TX ¹ | 0.9476 | 0.9638
| Johnson County, TX
| Parker County, TX
| Tarrant County, TX
| Wise County, TX
23420 | Fresno, CA | 1.0648 | 1.0439
| Fresno County, CA
23460 | Gadsden, AL | 0.8077 | 0.8639
| Etowah County, AL
23540 | Gainesville, FL | 0.9446 | 0.9617
| Alachua County, FL
| Gilchrist County, FL
23580 | Gainesville, GA | 0.9572 | 0.9705
| Hall County, GA
23844 | Gary, IN | 0.9306 | 0.9519
| Jasper County, IN
| Lake County, IN
| Newton County, IN
| Porter County, IN
24020 | Glens Falls, NY | 0.8486 | 0.8937
| Warren County, NY
| Washington County, NY
24140 | Goldsboro, NC | 0.8776 | 0.9145
| Wayne County, NC
24220 | Grand Forks, ND-MN (ND Hospitals) | 0.9147 | 0.9408
| Polk County, MN
| Grand Forks County, ND
24220 | Grand Forks, ND-MN (MN Hospitals) ² | 0.9330 | 0.9536
| Polk County, MN
| Grand Forks County, ND
24300 | Grand Junction, CO | 0.9932 | 0.9953
| Mesa County, CO
24340 | Grand Rapids-Wyoming, MI | 0.9418 | 0.9598
| Barry County, MI
| Ionia County, MI
| Kent County, MI
| Newaygo County, MI
24500 | Great Falls, MT | 0.8831 | 0.9184
| Cascade County, MT
24540 | Greeley, CO | 0.9732 | 0.9816
| Weld County, CO
24580 | Green Bay, WI | 0.9578 | 0.9709
| Brown County, WI
| Kewaunee County, WI
| Oconto County, WI
24660 | Greensboro-High Point, NC | 0.9209 | 0.9451
| Guilford County, NC
| Randolph County, NC
| Rockingham County, NC
24780 | Greenville, NC | 0.9179 | 0.9430
| Greene County, NC
| Pitt County, NC
24860 | Greenville, SC | 0.9532 | 0.9677
| Greenville County, SC
| Laurens County, SC
| Pickens County, SC
25020 | Guayama, PR | 0.4008 | 0.5347
| Arroyo Municipio, PR
| Guayama Municipio, PR
| Patillas Municipio, PR
25060 | Gulfport-Biloxi, MS | 0.8934 | 0.9257
| Hancock County, MS
| Harrison County, MS
| Stone County, MS
25180 | Hagerstown-Martinsburg, MD-WV | 0.9744 | 0.9824
| Washington County, MD
| Berkeley County, WV
| Morgan County, WV
25260 | Hanford-Corcoran, CA ² | 1.0450 | 1.0306
| Kings County, CA
25420 | Harrisburg-Carlisle, PA | 0.9354 | 0.9553
| Cumberland County, PA
| Dauphin County, PA
| Perry County, PA
25500 | Harrisonburg, VA | 0.9278 | 0.9500
| Rockingham County, VA
| Harrisonburg City, VA
25540 | Hartford-West Hartford-East Hartford, CT 1 2 | 1.1583 | 1.1059
| Hartford County, CT
| Litchfield County, CT
| Middlesex County, CT
| Tolland County, CT
25620 | Hattiesburg, MS ² | 0.7649 | 0.8323
| Forrest County, MS
| Lamar County, MS
| Perry County, MS
25860 | Hickory-Lenoir-Morganton, NC | 0.9510 | 0.9662
| Alexander County, NC
| Burke County, NC
| Caldwell County, NC
| Catawba County, NC
25980 | Hinesville-Fort Stewart, GA ² | 0.7752 | 0.8400
| Liberty County, GA
| Long County, GA
26100 | Holland-Grand Haven, MI | 0.9424 | 0.9602
| Ottawa County, MI
26180 | Honolulu, HI | 1.1033 | 1.0696
| Honolulu County, HI
26300 | Hot Springs, AR | 0.9268 | 0.9493
| Garland County, AR
26380 | Houma-Bayou Cane-Thibodaux, LA | 0.7761 | 0.8407
| Lafourche Parish, LA
| Terrebonne Parish, LA
26420 | Houston-Baytown-Sugar Land, TX ¹ | 0.9975 | 0.9983
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9560 | 0.9697
| Boyd County, KY
| Greenup County, KY
| Lawrence County, OH
| Cabell County, WV
| Wayne County, WV
26620 | Huntsville, AL | 0.8838 | 0.9189
| Limestone County, AL
| Madison County, AL
26820 | Idaho Falls, ID ² | 0.8525 | 0.8965
| Bonneville County, ID
| Jefferson County, ID
26900 | Indianapolis, IN ¹ | 1.0104 | 1.0071
| Boone County, IN
| Brown County, IN
| Hamilton County, IN
| Hancock County, IN
| Hendricks County, IN
| Johnson County, IN
| Marion County, IN
| Morgan County, IN
| Putnam County, IN
| Shelby County, IN
26980 | Iowa City, IA | 0.9649 | 0.9758
| Johnson County, IA
| Washington County, IA
27060 | Ithaca, NY | 0.9640 | 0.9752
| Tompkins County, NY
27100 | Jackson, MI | 0.9133 | 0.9398
| Jackson County, MI
27140 | Jackson, MS | 0.8285 | 0.8791
| Copiah County, MS
| Hinds County, MS
| Madison County, MS
| Rankin County, MS
| Simpson County, MS
27180 | Jackson, TN | 0.8891 | 0.9227
| Chester County, TN
| Madison County, TN
27260 | Jacksonville, FL ¹ | 0.9565 | 0.9700
| Baker County, FL
| Clay County, FL
| Duval County, FL
| Nassau County, FL
| St. Johns County, FL
27340 | Jacksonville, NC ² | 0.8570 | 0.8997
| Onslow County, NC
27500 | Janesville, WI | 0.9597 | 0.9722
| Rock County, WI
27620 | Jefferson City, MO | 0.8332 | 0.8825
| Callaway County, MO
| Cole County, MO
| Moniteau County, MO
| Osage County, MO
27740 | Johnson City, TN | 0.8162 | 0.8702
| Carter County, TN
| Unicoi County, TN
| Washington County, TN
27780 | Johnstown, PA | 0.8365 | 0.8849
| Cambria County, PA
27860 | Jonesboro, AR | 0.8229 | 0.8750
| Craighead County, AR
| Poinsett County, AR
27900 | Joplin, MO | 0.8725 | 0.9108
| Jasper County, MO
| Newton County, MO
28020 | Kalamazoo-Portage, MI | 1.0689 | 1.0467
| Kalamazoo County, MI
| Van Buren County, MI
28100 | Kankakee-Bradley, IL | 1.0618 | 1.0419
| Kankakee County, IL
28140 | Kansas City, MO-KS ¹ | 0.9617 | 0.9736
| Franklin County, KS
| Johnson County, KS
| Leavenworth County, KS
| County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0508 | 1.0345
| Benton County, WA
| Franklin County, WA
28660 | Killeen-Temple-Fort Hood, TX | 0.9276 | 0.9498
| Bell County, TX
| Coryell County, TX
| Lampasas County, TX
28700 | Kingsport-Bristol-Bristol, TN-VA | 0.8235 | 0.8755
| Hawkins County, TN
| Sullivan County, TN
| Bristol City, VA
| Scott County, VA
| Washington County, VA
28740 | Kingston, NY | 0.9002 | 0.9305
| Ulster County, NY
28940 | Knoxville, TN | 0.8564 | 0.8993
| Anderson County, TN
| Blount County, TN
| Knox County, TN
| Loudon County, TN
| Union County, TN
29020 | Kokomo, IN | 0.9023 | 0.9320
| Howard County, IN
| Tipton County, IN
29100 | La Crosse, WI-MN (WI Hospitals) ² | 0.9507 | 0.9660
| Houston County, MN
| La Crosse County, WI
29100 | La Crosse, WI-MN (MN Hospitals) ² | 0.9330 | 0.9536
| Houston County, MN
| La Crosse County, WI
29140 | Lafayette, IN | 0.9051 | 0.9340
| Benton County, IN
| Carroll County, IN
| Tippecanoe County, IN
29180 | Lafayette, LA | 0.8299 | 0.8801
| Lafayette Parish, LA
| St. Martin Parish, LA
29340 | Lake Charles, LA | 0.7940 | 0.8539
| Calcasieu Parish, LA
| Cameron Parish, LA
29404 | Lake County-Kenosha County, IL-WI | 1.0375 | 1.0255
| Lake County, IL
| Kenosha County, WI
29460 | Lakeland, FL | 0.8943 | 0.9264
| Polk County, FL
29540 | Lancaster, PA | 0.9896 | 0.9929
| Lancaster County, PA
29620 | Lansing-East Lansing, MI | 0.9653 | 0.9761
| Clinton County, MI
| Eaton County, MI
| Ingham County, MI
29700 | Laredo, TX | 0.8775 | 0.9144
| Webb County, TX
29740 | Las Cruces, NM | 0.8759 | 0.9133
| Dona Ana County, NM
29820 | Las Vegas-Paradise, NV ¹ | 1.1345 | 1.0903
| Clark County, NV
29940 | Lawrence, KS ² | 0.8123 | 0.8673
| Douglas County, KS
30020 | Lawton, OK | 0.8249 | 0.8765
| Comanche County, OK
30140 | Lebanon, PA | 0.8758 | 0.9132
| Lebanon County, PA
30300 | Lewiston, ID-WA (ID Hospitals) | 0.9300 | 0.9515
| Nez Perce County, ID
| Asotin County, WA
30300 | Lewiston, ID-WA (WA Hospitals) ² | 0.9837 | 0.9888
| Nez Perce County, ID
| Asotin County, WA
30340 | Lewiston-Auburn, ME | 0.9552 | 0.9691
| Androscoggin County, ME
30460 | Lexington-Fayette, KY | 0.9336 | 0.9540
| Bourbon County, KY
| Clark County, KY
| Fayette County, KY
| Jessamine County, KY
| Scott County, KY
| Woodford County, KY
30620 | Lima, OH | 0.9324 | 0.9532
| Allen County, OH
30700 | Lincoln, NE | 1.0180 | 1.0123
| Lancaster County, NE
| Seward County, NE
30780 | Little Rock-North Little Rock, AR | 0.8840 | 0.9190
| Faulkner County, AR
| Grant County, AR
| Lonoke County, AR
| Perry County, AR
| Pulaski County, AR
| Saline County, AR
30860 | Logan, UT-ID | 0.9105 | 0.9378
| Franklin County, ID
| Cache County, UT
30980 | Longview, TX | 0.8802 | 0.9163
| Gregg County, TX
| Rusk County, TX
| Upshur County, TX
31020 | Longview, WA | 1.0208 | 1.0142
| Cowlitz County, WA
31084 | Los Angeles-Long Beach-Glendale, CA ¹ | 1.1742 | 1.1162
| Los Angeles County, CA
31140 | Louisville, KY-IN ¹ | 0.9126 | 0.9393
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8774 | 0.9143
| Crosby County, TX
| Lubbock County, TX
31340 | Lynchburg, VA | 0.9026 | 0.9322
| Amherst County, VA
| Appomattox County, VA
| Bedford County, VA
| Campbell County, VA
| Bedford City, VA
| Lynchburg City, VA
31420 | Macon, GA | 0.9922 | 0.9947
| Bibb County, GA
| Crawford County, GA
| Jones County, GA
| Monroe County, GA
| Twiggs County, GA
31460 | Madera, CA ² | 1.0450 | 1.0306
| Madera County, CA
31540 | Madison, WI | 1.0301 | 1.0205
| Columbia County, WI
| Dane County, WI
| Iowa County, WI
31700 | Manchester-Nashua, NH | 1.0633 | 1.0429
| Hillsborough County, NH
| Merrimack County, NH
31900 | Mansfield, OH | 0.9200 | 0.9445
| Richland County, OH
32420 | Mayagüez, PR | 0.4492 | 0.5781
| Hormigueros Municipio, PR
| Mayagüez Municipio, PR
32580 | McAllen-Edinburg-Pharr, TX | 0.8603 | 0.9021
| Hidalgo County, TX
32780 | Medford, OR
| Jackson County, OR | 1.0533 | 1.0362
32820 | Memphis, TN-MS-AR ¹ | 0.9223 | 0.9461
| Crittenden County, AR
| DeSoto County, MS
| Marshall County, MS
| Tate County, MS
| Tunica County, MS
| Fayette County, TN
| Shelby County, TN
| Tipton County, TN
32900 | Merced, CA | 1.0526 | 1.0357
| Merced County, CA
33124 | Miami-Miami Beach-Kendall, FL ¹ | 0.9870 | 0.9911
| Miami-Dade County, FL
33140 | Michigan City-La Porte, IN | 0.9332 | 0.9538
| LaPorte County, IN
33260 | Midland, TX | 0.9383 | 0.9573
| Midland County, TX
33340 | Milwaukee-Waukesha-West Allis, WI ¹ | 1.0081 | 1.0055
| Milwaukee County, WI
| Ozaukee County, WI
| Washington County, WI
| Waukesha County, WI
33460 | Minneapolis-St. Paul-Bloomington, MN-WI ¹ | 1.1044 | 1.0704
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9630 | 0.9745
| Missoula County, MT
33660 | Mobile, AL | 0.7997 | 0.8581
| Mobile County, AL
33700 | Modesto, CA | 1.1993 | 1.1325
| Stanislaus County, CA
33740 | Monroe, LA | 0.7908 | 0.8515
| Ouachita Parish, LA
| Union Parish, LA
33780 | Monroe, MI | 0.9498 | 0.9653
| Monroe County, MI
33860 | Montgomery, AL | 0.8311 | 0.8810
| Autauga County, AL
| Elmore County, AL
| Lowndes County, AL
| Montgomery County, AL
34060 | Morgantown, WV | 0.8741 | 0.9120
| Monongalia County, WV
| Preston County, WV
34100 | Morristown, TN ² | 0.7896 | 0.8506
| Grainger County, TN
| Hamblen County, TN
| Jefferson County, TN
34580 | Mount Vernon-Anacortes, WA | 1.0554 | 1.0376
| Skagit County, WA
34620 | Muncie, IN ² | 0.8657 | 0.9060
| Delaware County, IN
34740 | Muskegon-Norton Shores, MI | 0.9743 | 0.9823
| Muskegon County, MI
34820 | Myrtle Beach-Conway-North Myrtle Beach, SC | 0.9017 | 0.9316
| Horry County, SC
34900 | Napa, CA | 1.3508 | 1.2287
| Napa County, CA
34940 | Naples-Marco Island, FL | 1.0531 | 1.0361
| Collier County, FL
34980 | Nashville-Davidson—Murfreesboro, TN ¹ | 1.0074 | 1.0051
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY ¹ | 1.2928 | 1.1923
| Nassau County, NY
| Suffolk County, NY
35084 | Newark-Union, NJ-PA ¹ | 1.1680 | 1.1122
| Essex County, NJ
| Hunterdon County, NJ
| Morris County, NJ
| Sussex County, NJ
| Union County, NJ
| Pike County, PA
35300 | New Haven-Milford, CT | 1.1830 | 1.1220
| New Haven County, CT
35380 | New Orleans-Metairie-Kenner, LA ¹ | 0.9100 | 0.9375
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ ¹ | 1.3318 | 1.2168
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8901 | 0.9234
| Berrien County, MI
35980 | Norwich-New London, CT | 1.1627 | 1.1087
| New London County, CT
36084 | Oakland-Fremont-Hayward, CA ¹ | 1.5338 | 1.3403
| Alameda County, CA
| Contra Costa County, CA
36100 | Ocala, FL | 0.9174 | 0.9427
| Marion County, FL
36140 | Ocean City, NJ ² | 1.1277 | 1.0858
| Cape May County, NJ
36220 | Odessa, TX | 0.9797 | 0.9861
| Ector County, TX
36260 | Ogden-Clearfield, UT | 0.9228 | 0.9465
| Davis County, UT
| Morgan County, UT
| Weber County, UT
36420 | Oklahoma City, OK ¹ | 0.8985 | 0.9293
| Canadian County, OK
| Cleveland County, OK
| Grady County, OK
| Lincoln County, OK
| Logan County, OK
| McClain County, OK
| Oklahoma County, OK
36500 | Olympia, WA | 1.1005 | 1.0678
| Thurston County, WA
36540 | Omaha-Council Bluffs, NE-IA | 0.9740 | 0.9821
| Harrison County, IA
| Mills County, IA
| Pottawattamie County, IA
| Cass County, NE
| Douglas County, NE
| Sarpy County, NE
| Saunders County, NE
| Washington County, NE
36740 | Orlando, FL ¹ | 0.9731 | 0.9815
| Lake County, FL
| Orange County, FL
| Osceola County, FL
| Seminole County, FL
36780 | Oshkosh-Neenah, WI ² | 0.9507 | 0.9660
| Winnebago County, WI
36980 | Owensboro, KY | 0.8450 | 0.8911
| Daviess County, KY
| Hancock County, KY
| McLean County, KY
37100 | Oxnard-Thousand Oaks-Ventura, CA | 1.1099 | 1.0740
| Ventura County, CA
37340 | Palm Bay-Melbourne-Titusville, FL | 0.9625 | 0.9742
| Brevard County, FL
37460 | Panama City-Lynn Haven, FL ² | 0.8545 | 0.8979
| Bay County, FL
37620 | Parkersburg-Marietta, WV-OH (WV Hospitals) | 0.8315 | 0.8813
| Washington County, OH
| Pleasants County, WV
| Wirt County, WV
| Wood County, WV
37620 | Parkersburg-Marietta, WV-OH (OH Hospitals) ² | 0.8692 | 0.9085
| Washington County, OH
| Pleasants County, WV
| Wirt County, WV
| Wood County, WV
37700 | Pascagoula, MS | 0.7974 | 0.8564
| George County, MS
| Jackson County, MS
37860 | Pensacola-Ferry Pass-Brent, FL ² | 0.8545 | 0.8979
| Escambia County, FL
| Santa Rosa County, FL
37900 | Peoria, IL | 0.8862 | 0.9206
| Marshall County, IL
| Peoria County, IL
| Stark County, IL
| Tazewell County, IL
| Woodford County, IL
37964 | Philadelphia, PA ¹ | 1.0855 | 1.0578
| Bucks County, PA
| Chester County, PA
| Delaware County, PA
| Montgomery County, PA
| Philadelphia County, PA
38060 | Phoenix-Mesa-Scottsdale, AZ ¹ | 0.9985 | 0.9990
| Maricopa County, AZ
| Pinal County, AZ
38220 | Pine Bluff, AR | 0.8700 | 0.9090
| Cleveland County, AR
| Jefferson County, AR
| Lincoln County, AR
38300 | Pittsburgh, PA ¹ | 0.8723 | 0.9107
| Allegheny County, PA
| Armstrong County, PA
| Beaver County, PA
| Butler County, PA
| Fayette County, PA
| Washington County, PA
| Westmoreland County, PA
38340 | Pittsfield, MA ² | 1.0438 | 1.0298
| Berkshire County, MA
38540 | Pocatello, ID | 0.9589 | 0.9717
| Bannock County, ID
| Power County, ID
38660 | Ponce, PR | 0.5006 | 0.6226
| Juana Díaz Municipio, PR
| Ponce Municipio, PR
| Villalba Municipio, PR
38860 | Portland-South Portland-Biddeford, ME | 1.0102 | 1.0070
| Cumberland County, ME
| Sagadahoc County, ME
| York County, ME
38900 | Portland-Vancouver-Beaverton, OR-WA ¹ | 1.1371 | 1.0920
| Clackamas County, OR
| Columbia County, OR
| Multnomah County, OR
| Washington County, OR
| Yamhill County, OR
| Clark County, WA
| Skamania County, WA
38940 | Port St. Lucie-Fort Pierce, FL | 1.0093 | 1.0064
| Martin County, FL
| St. Lucie County, FL
39100 | Poughkeepsie-Newburgh-Middletown, NY | 1.1364 | 1.0915
| Dutchess County, NY
| Orange County, NY
39140 | Prescott, AZ | 0.9681 | 0.9780
| Yavapai County, AZ
39300 | Providence-New Bedford-Fall River, RI-MA ¹ | 1.0916 | 1.0619
| Bristol County, MA
| Bristol County, RI
| Kent County, RI
| Newport County, RI
| Providence County, RI
| Washington County, RI
39340 | Provo-Orem, UT | 0.9572 | 0.9705
| Juab County, UT
| Utah County, UT
39380 | Pueblo, CO ² | 0.9356 | 0.9554
| Pueblo County, CO
39460 | Punta Gorda, FL | 0.9451 | 0.9621
| Charlotte County, FL
39540 | Racine, WI ² | 0.9507 | 0.9660
| Racine County, WI
39580 | Raleigh-Cary, NC | 1.0034 | 1.0023
| Franklin County, NC
| Johnston County, NC
| Wake County, NC
39660 | Rapid City, SD | 0.8919 | 0.9246
| Meade County, SD
| Pennington County, SD
39740 | Reading, PA | 0.9218 | 0.9458
| Berks County, PA
39820 | Redding, CA | 1.1830 | 1.1220
| Shasta County, CA
39900 | Reno-Sparks, NV | 1.0446 | 1.0303
| Storey County, NV
| Washoe County, NV
40060 | Richmond, VA ¹ | 0.9379 | 0.9570
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA ¹ | 1.0979 | 1.0660
| Riverside County, CA
| San Bernardino County, CA
40220 | Roanoke, VA | 0.8455 | 0.8914
| Botetourt County, VA
| Craig County, VA
| Franklin County, VA
| Roanoke County, VA
| Roanoke City, VA
| Salem City, VA
40340 | Rochester, MN | 1.1490 | 1.0998
| Dodge County, MN
| Olmsted County, MN
| Wabasha County, MN
40380 | Rochester, NY ¹ | 0.9283 | 0.9503
| Livingston County, NY
| Monroe County, NY
| Ontario County, NY
| Orleans County, NY
| Wayne County, NY
40420 | Rockford, IL | 0.9607 | 0.9729
| Boone County, IL
| Winnebago County, IL
40484 | Rockingham County-Strafford County, NH | 1.0300 | 1.0204
| Rockingham County, NH
| Strafford County, NH
40580 | Rocky Mount, NC | 0.8997 | 0.9302
| Edgecombe County, NC
| Nash County, NC
40660 | Rome, GA | 0.8909 | 0.9239
| Floyd County, GA
40900 | Sacramento—Arden-Arcade—Roseville, CA ¹ | 1.1683 | 1.1124
| El Dorado County, CA
| Placer County, CA
| Sacramento County, CA
| Yolo County, CA
40980 | Saginaw-Saginaw Township North, MI | 0.9868 | 0.9909
| Saginaw County, MI
41060 | St. Cloud, MN | 1.0271 | 1.0185
| Benton County, MN
| Stearns County, MN
41100 | St. George, UT | 0.9473 | 0.9636
| Washington County, UT
41140 | St. Joseph, MO-KS (MO Hospitals) ² | 0.8011 | 0.8591
| Doniphan County, KS
| Andrew County, MO
| Buchanan County, MO
| DeKalb County, MO
41140 | St. Joseph, MO-KS (KS Hospitals) ² | 0.8123 | 0.8673
| Doniphan County, KS
| Andrew County, MO
| Buchanan County, MO
| DeKalb County, MO
41180 | St. Louis, MO-IL | 0.9080 | 0.9360
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0549 | 1.0373
| Marion County, OR
| Polk County, OR
41500 | Salinas, CA | 1.3820 | 1.2480
| Monterey County, CA
41540 | Salisbury, MD ² | 0.9225 | 0.9463
| Somerset County, MD
| Wicomico County, MD
41620 | Salt Lake City, UT | 0.9564 | 0.9699
| Salt Lake County, UT
| Summit County, UT
| Tooele County, UT
41660 | San Angelo, TX | 0.8174 | 0.8710
| Irion County, TX
| Tom Green County, TX
41700 | San Antonio, TX ¹ | 0.9000 | 0.9304
| Atascosa County, TX
| Bandera County, TX
| Bexar County, TX
| Comal County, TX
| Guadalupe County, TX
| Kendall County, TX
| Medina County, TX
| Wilson County, TX
41740 | San Diego-Carlsbad-San Marcos, CA ¹ | 1.1260 | 1.0847
| San Diego County, CA
41780 | Sandusky, OH | 0.9023 | 0.9320
| Erie County, OH
41884 | San Francisco-San Mateo-Redwood City, CA ¹ | 1.4694 | 1.3015
| Marin County, CA
| San Francisco County, CA
| San Mateo County, CA
41900 | San Germán-Cabo Rojo, PR | 0.5230 | 0.6415
| Cabo Rojo Municipio, PR
| Lajas Municipio, PR
| Sabana Grande Municipio, PR
| San Germán Municipio, PR
41940 | San Jose-Sunnyvale-Santa Clara, CA ¹ | 1.4712 | 1.3026
| San Benito County, CA
| Santa Clara County, CA
41980 | San Juan-Caguas-Guaynabo, PR ¹ | 0.4644 | 0.5914
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1115 | 1.0751
| San Luis Obispo County, CA
42044 | Santa Ana-Anaheim-Irvine, CA ¹ | 1.1701 | 1.1136
| Orange County, CA
42060 | Santa Barbara-Santa Maria-Goleta, CA | 1.0757 | 1.0512
| Santa Barbara County, CA
42100 | Santa Cruz-Watsonville, CA | 1.4759 | 1.3055
| Santa Cruz County, CA
42140 | Santa Fe, NM | 1.0885 | 1.0598
| Santa Fe County, NM
42220 | Santa Rosa-Petaluma, CA | 1.2938 | 1.1929
| Sonoma County, CA
42260 | Sarasota-Bradenton-Venice, FL | 0.9610 | 0.9731
| Manatee County, FL
| Sarasota County, FL
42340 | Savannah, GA | 0.9464 | 0.9630
| Bryan County, GA
| Chatham County, GA
| Effingham County, GA
42540 | Scranton—Wilkes-Barre, PA | 0.8525 | 0.8965
| Lackawanna County, PA
| Luzerne County, PA
| Wyoming County, PA
42644 | Seattle-Bellevue-Everett, WA ¹ | 1.1476 | 1.0989
| King County, WA
| Snohomish County, WA
43100 | Sheboygan, WI ² | 0.9507 | 0.9660
| Sheboygan County, WI
43300 | Sherman-Denison, TX | 0.9619 | 0.9737
| Grayson County, TX
43340 | Shreveport-Bossier City, LA | 0.9130 | 0.9396
| Bossier Parish, LA
| Caddo Parish, LA
| De Soto Parish, LA
43580 | Sioux City, IA-NE-SD | 0.9054 | 0.9342
| Woodbury County, IA
| Dakota County, NE
| Dixon County, NE
| Union County, SD
43620 | Sioux Falls, SD | 0.9414 | 0.9595
| Lincoln County, SD
| McCook County, SD
| Minnehaha County, SD
| Turner County, SD
43780 | South Bend-Mishawaka, IN-MI | 0.9434 | 0.9609
| St. Joseph County, IN
| Cass County, MI
43900 | Spartanburg, SC | 0.9521 | 0.9669
| Spartanburg County, SC
44060 | Spokane, WA | 1.0643 | 1.0436
| Spokane County, WA
44100 | Springfield, IL | 0.8732 | 0.9113
| Menard County, IL
| Sangamon County, IL
44140 | Springfield, MA ¹ | 1.0438 | 1.0298
| Franklin County, MA
| Hampden County, MA
| Hampshire County, MA
44180 | Springfield, MO | 0.8562 | 0.8991
| Christian County, MO
| Dallas County, MO
| Greene County, MO
| Polk County, MO
| Webster County, MO
44220 | Springfield, OH | 0.8741 | 0.9120
| Clark County, OH
44300 | State College, PA | 0.8465 | 0.8922
| Centre County, PA
44700 | Stockton, CA | 1.0583 | 1.0396
| San Joaquin County, CA
44940 | Sumter, SC ² | 0.8705 | 0.9094
| Sumter County, SC
45060 | Syracuse, NY | 0.9482 | 0.9642
| Madison County, NY
| Onondaga County, NY
| Oswego County, NY
45104 | Tacoma, WA | 1.1074 | 1.0724
| Pierce County, WA
45220 | Tallahassee, FL | 0.8671 | 0.9070
| Gadsden County, FL
| Jefferson County, FL
| Leon County, FL
| Wakulla County, FL
45300 | Tampa-St. Petersburg-Clearwater, FL ¹ | 0.9074 | 0.9356
| Hernando County, FL
| Hillsborough County, FL
| Pasco County, FL
| Pinellas County, FL
45460 | Terre Haute, IN ² | 0.8657 | 0.9060
| Clay County, IN
| Sullivan County, IN
| Vermillion County, IN
| Vigo County, IN
45500 | Texarkana, TX-Texarkana, AR | 0.8440 | 0.8903
| Miller County, AR
| Bowie County, TX
45780 | Toledo, OH | 0.9514 | 0.9665
| Fulton County, OH
| Lucas County, OH
| Ottawa County, OH
| Wood County, OH
45820 | Topeka, KS | 0.8896 | 0.9230
| Jackson County, KS
| Jefferson County, KS
| Osage County, KS
| Shawnee County, KS
| Wabaunsee County, KS
45940 | Trenton-Ewing, NJ ² | 1.1277 | 1.0858
| Mercer County, NJ
46060 | Tucson, AZ ² | 0.9102 | 0.9376
| Pima County, AZ
46140 | Tulsa, OK | 0.8717 | 0.9103
| Creek County, OK
| Okmulgee County, OK
| Osage County, OK
| Pawnee County, OK
| Rogers County, OK
| Tulsa County, OK
| Wagoner County, OK
46220 | Tuscaloosa, AL | 0.8339 | 0.8830
| Greene County, AL
| Hale County, AL
| Tuscaloosa County, AL
46340 | Tyler, TX | 0.9516 | 0.9666
| Smith County, TX
46540 | Utica-Rome, NY | 0.8316 | 0.8814
| Herkimer County, NY
| Oneida County, NY
46660 | Valdosta, GA | 0.8334 | 0.8827
| Brooks County, GA
| Echols County, GA
| Lanier County, GA
| Lowndes County, GA
46700 | Vallejo-Fairfield, CA | 1.4269 | 1.2756
| Solano County, CA
46940 | Vero Beach, FL | 0.9492 | 0.9649
| Indian River County, FL
47020 | Victoria, TX | 0.8456 | 0.8915
| Calhoun County, TX
| Goliad County, TX
| Victoria County, TX
47220 | Vineland-Millville-Bridgeton, NJ ² | 1.1277 | 1.0858
| Cumberland County, NJ
47260 | Virginia Beach-Norfolk-Newport News, VA-NC ¹ | 0.8928 | 0.9253
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA ¹ | 1.0450 | 1.0306
| Tulare County, CA
47380 | Waco, TX | 0.8151 | 0.8694
| McLennan County, TX
47580 | Warner Robins, GA | 0.8496 | 0.8944
| Houston County, GA
47644 | Warren-Farmington Hills-Troy, MI ¹ | 1.0109 | 1.0075
| Lapeer County, MI
| Livingston County, MI
| Macomb County, MI
| Oakland County, MI
| St. Clair County, MI
47894 | Washington-Arlington-Alexandria, DC-VA-MD-WV ¹ | 1.1026 | 1.0692
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8629 | 0.9040
| Black Hawk County, IA
| Bremer County, IA
| Grundy County, IA
48140 | Wausau, WI | 1.0101 | 1.0069
| Marathon County, WI
48260 | Weirton-Steubenville, WV-OH (WV Hospitals) | 0.8274 | 0.8783
| Jefferson County, OH
| Brooke County, WV
| Hancock County, WV
48260 | Weirton-Steubenville, WV-OH (OH Hospitals) ² | 0.8692 | 0.9085
| Jefferson County, OH
| Brooke County, WV
| Hancock County, WV
48300 | Wenatchee, WA | 1.0949 | 1.0641
| Chelan County, WA
| Douglas County, WA
48424 | West Palm Beach-Boca Raton-Boynton Beach, FL ¹ | 1.0348 | 1.0237
| Palm Beach County, FL
48540 | Wheeling, WV-OH (WV Hospitals) ² | 0.7882 | 0.8496
| Belmont County, OH
| Marshall County, WV
| Ohio County, WV
48540 | Wheeling, WV-OH (OH Hospitals) ² | 0.8692 | 0.9085
| Belmont County, OH
| Marshall County, WV
| Ohio County, WV
48620 | Wichita, KS | 0.9472 | 0.9635
| Butler County, KS
| Harvey County, KS
| Sedgwick County, KS
| Sumner County, KS
48660 | Wichita Falls, TX | 0.8365 | 0.8849
| Archer County, TX
| Clay County, TX
| Wichita County, TX
48700 | Williamsport, PA | 0.8476 | 0.8929
| Lycoming County, PA
48864 | Wilmington, DE-MD-NJ (DE, MD Hospitals) | 1.1095 | 1.0738
| New Castle County, DE
| Cecil County, MD
| Salem County, NJ
48864 | Wilmington, DE-MD-NJ (NJ Hospitals) ² | 1.1277 | 1.0858
| New Castle County, DE
| Cecil County, MD
| Salem County, NJ
48900 | Wilmington, NC | 0.9225 | 0.9463
| Brunswick County, NC
| New Hanover County, NC
| Pender County, NC
49020 | Winchester, VA-WV | 1.0486 | 1.0330
| Frederick County, VA
| Winchester City, VA
| Hampshire County, WV
49180 | Winston-Salem, NC | 0.9410 | 0.9592
| Davie County, NC
| Forsyth County, NC
| Stokes County, NC
| Yadkin County, NC
49340 | Worcester, MA | 1.1001 | 1.0675
| Worcester County, MA
49420 | Yakima, WA | 1.0317 | 1.0216
| Yakima County, WA
49500 | Yauco, PR | 0.4493 | 0.5782
| Guánica Municipio, PR
| Guayanilla Municipio, PR
| Peñuelas Municipio, PR
| Yauco Municipio, PR
49620 | York-Hanover, PA | 0.9152 | 0.9411
| York County, PA
49660 | Youngstown-Warren-Boardman, OH-PA | 0.9234 | 0.9469
| Mahoning County, OH
| Trumbull County, OH
| Mercer County, PA
49700 | Yuba City, CA ² | 1.0450 | 1.0306
| Sutter County, CA
| Yuba County, CA
49740 | Yuma, AZ ² | 0.9102 | 0.9376
| Yuma County, AZ

20. On pages 49522 through 49523 in Table 4B1—Wage Index and Capital Geographic Adjustment Factor (GAF) for Rural Areas by MSA, the table is corrected to read as follows:

Table 4B1.—Wage Index and Capital Geographic Adjustment Factor (GAF) for Rural Areas by MSA
MSA code | Nonurban area | Wage index | GAF
01 | Alabama | 0.7656 | 0.8328
02 | Alaska | 1.1627 | 1.1087
03 | Arizona | 0.9148 | 0.9408
04 | Arkansas | 0.7729 | 0.8383
05 | California | 1.0262 | 1.0179
06 | Colorado | 0.9356 | 0.9554
07 | Connecticut | 1.1583 | 1.1059
08 | Delaware | 0.9631 | 0.9746
10 | Florida | 0.8707 | 0.9095
11 | Georgia | 0.8260 | 0.8773
12 | Hawaii | 1.0558 | 1.0379
13 | Idaho | 0.8820 | 0.9176
14 | Illinois | 0.8348 | 0.8837
15 | Indiana | 0.8740 | 0.9119
16 | Iowa | 0.8552 | 0.8984
17 | Kansas | 0.8129 | 0.8677
18 | Kentucky | 0.7856 | 0.8477
19 | Louisiana | 0.7318 | 0.8075
20 | Maine | 0.9027 | 0.9323
21 | Maryland | 0.9176 | 0.9428
22 | Massachusetts | 1.0196 | 1.0134
23 | Michigan | 0.8740 | 0.9119
24 | Minnesota | 0.9339 | 0.9542
25 | Mississippi | 0.7600 | 0.8287
26 | Missouri | 0.8041 | 0.8613
27 | Montana | 0.8693 | 0.9085
28 | Nebraska | 0.9040 | 0.9332
29 | Nevada | 0.9829 | 0.9883
30 | New Hampshire | 0.9931 | 0.9953
31 | New Jersey ¹ | 1.1788 | 1.1192
32 | New Mexico | 0.8534 | 0.8971
33 | New York | 0.8418 | 0.8888
34 | North Carolina | 0.8506 | 0.8951
35 | North Dakota | 0.7750 | 0.8398
36 | Ohio | 0.8759 | 0.9133
37 | Oklahoma | 0.7565 | 0.8261
38 | Oregon | 1.0215 | 1.0147
39 | Pennsylvania | 0.8346 | 0.8835
40 | Puerto Rico | 0.4049 | 0.5384
41 | Rhode Island ¹ | 0.9784 | 0.9852
42 | South Carolina | 0.8662 | 0.9063
43 | South Dakota | 0.8384 | 0.8863
44 | Tennessee | 0.7901 | 0.8510
45 | Texas | 0.7942 | 0.8540
46 | Utah | 0.8854 | 0.9200
47 | Vermont | 0.9487 | 0.9646
49 | Virginia | 0.8489 | 0.8939
50 | Washington | 1.0063 | 1.0043
51 | West Virginia | 0.8099 | 0.8656
52 | Wisconsin | 0.9496 | 0.9652
53 | Wyoming | 0.9172 | 0.9425

21. On pages 49524 through 49525, in Table 4B2—Wage Index and Capital Geographic Adjustment Factor (GAF) for Rural Areas by CBSA, the table is corrected to read as follows:

Table 4B2.—Wage Index and Capital Geographic Adjustment Factor (GAF) for Rural Areas by CBSA
CBSA code | Nonurban area | Wage index | GAF
01 | Alabama | 0.7646 | 0.8321
02 | Alaska | 1.1733 | 1.1157
03 | Arizona | 0.9102 | 0.9376
04 | Arkansas | 0.7433 | 0.8162
05 | California | 1.0450 | 1.0306
06 | Colorado | 0.9356 | 0.9554
07 | Connecticut | 1.1583 | 1.1059
08 | Delaware | 0.9631 | 0.9746
10 | Florida | 0.8545 | 0.8979
11 | Georgia | 0.7752 | 0.8400
12 | Hawaii | 1.0558 | 1.0379
13 | Idaho | 0.8525 | 0.8965
14 | Illinois | 0.8346 | 0.8835
15 | Indiana | 0.8657 | 0.9060
16 | Iowa | 0.8478 | 0.8931
17 | Kansas | 0.8123 | 0.8673
18 | Kentucky | 0.7769 | 0.8412
19 | Louisiana | 0.7370 | 0.8114
20 | Maine | 0.9027 | 0.9323
21 | Maryland | 0.9225 | 0.9463
22 | Massachusetts ¹ | 1.0438 | 1.0298
23 | Michigan | 0.8783 | 0.9150
24 | Minnesota | 0.9330 | 0.9536
25 | Mississippi | 0.7649 | 0.8323
26 | Missouri | 0.8011 | 0.8591
27 | Montana | 0.8693 | 0.9085
28 | Nebraska | 0.9040 | 0.9332
29 | Nevada | 0.9286 | 0.9505
30 | New Hampshire | 0.9931 | 0.9953
31 | New Jersey ¹ | 1.1277 | 1.0858
32 | New Mexico | 0.8684 | 0.9079
33 | New York | 0.8166 | 0.8705
34 | North Carolina | 0.8570 | 0.8997
35 | North Dakota | 0.7750 | 0.8398
36 | Ohio | 0.8692 | 0.9085
37 | Oklahoma | 0.7711 | 0.8369
38 | Oregon | 1.0151 | 1.0103
39 | Pennsylvania | 0.8309 | 0.8809
40 | Puerto Rico ¹ |  |
41 | Rhode Island ¹ | 0.9244 | 0.9476
42 | South Carolina | 0.8705 | 0.9094
43 | South Dakota | 0.8390 | 0.8867
44 | Tennessee | 0.7896 | 0.8506
45 | Texas | 0.7997 | 0.8581
46 | Utah | 0.8297 | 0.8800
47 | Vermont | 0.9487 | 0.9646
49 | Virginia | 0.8062 | 0.8628
50 | Washington | 0.9837 | 0.9888
51 | West Virginia | 0.7882 | 0.8496
52 | Wisconsin | 0.9507 | 0.9660
53 | Wyoming | 0.9172 | 0.9425

22. On pages 49526 through 49530, in Table 4C1—Wage Index and Capital Geographic Adjustment Factor (GAF) for Hospitals that are Reclassified by MSA, the table is corrected to read as follows:

Table 4C1.—Wage Index and Capital Geographic Adjustment Factor (GAF) for Hospitals That Are Reclassified by MSA
MSA code | Area | Wage index | GAF
0040 | Abilene, TX | 0.8026 | 0.8602
0080 | Akron, OH | 0.9042 | 0.9334
0200 | Albuquerque, NM | 1.0211 | 1.0144
0220 | Alexandria, LA | 0.8178 | 0.8713
0240 | Allentown-Bethlehem-Easton, PA | 0.9455 | 0.9623
0280 | Altoona, PA | 0.8452 | 0.8912
0320 | Amarillo, TX | 0.9177 | 0.9429
0380 | Anchorage, AK | 1.2164 | 1.1436
0440 | Ann Arbor, MI | 1.0618 | 1.0419
0450 | Anniston, AL | 0.7949 | 0.8545
0480 | Asheville, NC | 0.9292 | 0.9510
0500 | Athens, GA | 0.9831 | 0.9884
0520 | Atlanta, GA | 0.9855 | 0.9900
0560 | Atlantic-Cape May, NJ | 1.0603 | 1.0409
0580 | Auburn-Opelika, AL | 0.8070 | 0.8634
0600 | Augusta-Aiken, GA-SC | 0.9074 | 0.9356
0640 | Austin-San Marcos, TX | 0.9597 | 0.9722
0733 | Bangor, ME | 0.9937 | 0.9957
0743 | Barnstable-Yarmouth, MA | 1.2158 | 1.1432
0760 | Baton Rouge, LA | 0.8356 | 0.8843
0870 | Benton Harbor, MI | 0.8901 | 0.9234
0875 | Bergen-Passaic, NJ | 1.2011 | 1.1337
0920 | Biloxi-Gulfport-Pascagoula, MS | 0.8637 | 0.9045
1000 | Birmingham, AL | 0.9198 | 0.9444
1123 | Boston-Worcester-Lawrence-Lowell-Brockton, MA-NH | 1.1285 | 1.0863
1303 | Burlington, VT | 0.9104 | 0.9377
1350 | Casper, WY | 0.9327 | 0.9534
1400 | Champaign-Urbana, Il | 0.9301 | 0.9516
1440 | Charleston-North Charleston, SC | 0.9415 | 0.9596
1480 | Charleston, WV (OH Hospitals) | 0.8759 | 0.9133
1480 | Charleston, WV (WV Hospitals) | 0.8579 | 0.9004
1520 | Charlotte-Gastonia-Rock Hill, NC-SC | 0.9671 | 0.9774
1540 | Charlottesville, VA | 0.9931 | 0.9953
1560 | Chattanooga, TN-GA | 0.9208 | 0.9451
1600 | Chicago, IL | 1.0703 | 1.0476
1640 | Cincinnati, OH-KY-IN | 0.9574 | 0.9706
1660 | Clarksville-Hopkinsville, TN-KY | 0.8109 | 0.8663
1680 | Cleveland-Lorain-Elyria, OH | 0.9620 | 0.9738
1740 | Columbia, MO | 0.8388 | 0.8866
1760 | Columbia, SC | 0.9341 | 0.9544
1800 | Columbus, GA-AL | 0.8357 | 0.8843
1840 | Columbus, OH | 0.9615 | 0.9735
1890 | Corvallis, OR | 1.0534 | 1.0363
1920 | Dallas, TX | 1.0048 | 1.0033
1960 | Davenport-Rock Island-Moline, LA-IL | 0.8605 | 0.9022
2030 | Decatur, AL | 0.8893 | 0.9228
2080 | Denver, CO | 1.0679 | 1.0460
2120 | Des Moines, LA | 0.9101 | 0.9375
2160 | Detroit, MI | 1.0232 | 1.0158
2240 | Duluth-Superior, MN-WI | 1.0345 | 1.0235
2330 | Elkhart-Goshen, IN | 0.9134 | 0.9399
2360 | Erie, PA | 0.8502 | 0.8948
2400 | Eugene-Springfield, OR | 1.0528 | 1.0359
2440 | Evansville-Henderson, IN-KY | 0.8227 | 0.8749
2520 | Fargo-Moorhead, ND-MN (MN Hospitals) | 0.9339 | 0.9542
2520 | Fargo-Moorhead, ND-MN (ND, SD Hospitals) | 0.9189 | 0.9437
2560 | Fayetteville, NC | 0.9003 | 0.9306
2580 | Fayetteville-Springdale-Rogers, AR | 0.8670 | 0.9069
2620 | Flagstaff, AZ-UT | 1.0458 | 1.0311
2640 | Flint, MI | 1.0973 | 1.0657
2670 | Fort Collins-Loveland, CO | 1.0230 | 1.0157
2680 | Fort Lauderdale, FL | 1.0382 | 1.0260
2710 | Fort Pierce-Port St. Lucie, FL | 1.0093 | 1.0064
2720 | Fort Smith, AR-OK | 0.8071 | 0.8635
2800 | Fort Worth-Arlington, TX | 0.9522 | 0.9670
3000 | Grand Rapids-Muskegon-Holland, MI | 0.9523 | 0.9671
3040 | Great Falls, MT | 0.8831 | 0.9184
3060 | Greeley, CO | 0.9732 | 0.9816
3080 | Green Bay, WI | 0.9573 | 0.9706
3120 | Greensboro—Winston-Salem—High Point, NC | 0.9324 | 0.9532
3150 | Greenville, NC | 0.9179 | 0.9430
3200 | Hamilton-Middletown, OH | 0.9126 | 0.9393
3240 | Harrisburg-Lebanon-Carlisle, PA | 0.9172 | 0.9425
3283 | Hartford, CT | 1.0927 | 1.0626
3290 | Hickory-Morganton-Lenoir, NC | 0.9344 | 0.9546
3320 | Honolulu, HI | 1.1033 | 1.0696
3360 | Houston, TX | 1.0122 | 1.0083
3400 | Huntington-Ashland, WY-KY-OH | 0.9009 | 0.9310
3440 | Huntsville, AL | 0.8826 | 0.9180
3480 | Indianapolis, IN | 1.0033 | 1.0023
3500 | Iowa City, LA | 0.9486 | 0.9645
3560 | Jackson, MS | 0.8269 | 0.8780
3580 | Jackson, TN | 0.8707 | 0.9095
3600 | Jacksonville, FL | 0.9553 | 0.9692
3660 | Johnson City-Kingsport-Bristol, TN-VA | 0.8206 | 0.8734
3700 | Jonesboro, AR | 0.8229 | 0.8750
3710 | Joplin, MO | 0.8573 | 0.8999
3720 | Kalamazoo-Battle Creek, MI | 1.0241 | 1.0164
3760 | Kansas City, MO-KS | 0.9629 | 0.9744
3840 | Knoxville, TN | 0.8524 | 0.8964
3880 | Lafayette, LA | 0.8116 | 0.8668
3980 | Lakeland-Winter Haven, FL | 0.8943 | 0.9264
4120 | Las Vegas, NV-AZ | 1.0977 | 1.0659
4280 | Lexington, KY | 0.8853 | 0.9200
4320 | Lima, OH | 0.9239 | 0.9472
4360 | Lincoln, NE | 0.9720 | 0.9807
4400 | Little Rock-North Little Rock, AR | 0.8840 | 0.9190
4420 | Longview-Marshall, TX | 0.8620 | 0.9033
4480 | Los Angeles-Long Beach, CA | 1.1742 | 1.1162
4520 | Louisville, KY-IN | 0.9166 | 0.9421
4600 | Lubbock, TX | 0.8774 | 0.9143
4640 | Lynchburg, VA | 0.8883 | 0.9221
4680 | Macon, GA | 0.9625 | 0.9742
4720 | Madison, WI | 1.0237 | 1.0162
4890 | Medford-Ashland, OR | 1.0248 | 1.0169
4920 | Memphis, TN-AR-MS | 0.8889 | 0.9225
5000 | Miami, FL | 0.9870 | 0.9911
5015 | Middlesex-Somerset-Hunterdon, NJ | 1.1788 | 1.1192
5080 | Milwaukee-Waukesha, WI | 0.9954 | 0.9968
5120 | Minneapolis-St. Paul, MN-WI | 1.1044 | 1.0704
5140 | Missoula, MT | 0.9630 | 0.9745
5160 | Mobile, AL | 0.7934 | 0.8534
5170 | Modesto, CA | 1.1993 | 1.1325
5240 | Montgomery, AL | 0.8311 | 0.8810
5360 | Nashville, TN | 0.9758 | 0.9834
5560 | New Orleans, LA | 0.9100 | 0.9375
5600 | New York-Newark, NY-NJ-PA | 1.3595 | 1.2341
5640 | Newark, NJ | 1.1788 | 1.1192
5660 | Newburgh, NY-PA | 1.0609 | 1.0413
5720 | Norfolk-Virginia Beach-Newport News, VA-NC | 0.8928 | 0.9253
5775 | Oakland, CA | 1.5338 | 1.3403
5790 | Ocala, FL | 0.9174 | 0.9427
5800 | Odessa-Midland, TX | 0.9389 | 0.9577
5880 | Oklahoma City, OK | 0.8968 | 0.9281
5910 | Olympia, WA | 1.1005 | 1.0678
5920 | Omaha, NE-IA | 0.9740 | 0.9821
5945 | Orange County, CA | 1.1701 | 1.1136
5960 | Orlando, FL | 0.9731 | 0.9815
6120 | Peoria-Pekin, IL | 0.8913 | 0.9242
6160 | Philadelphia, PA-NJ | 1.1788 | 1.1192
6200 | Phoenix-Mesa, AZ | 0.9985 | 0.9990
6240 | Pine Bluff, AR | 0.8381 | 0.8861
6280 | Pittsburgh, PA | 0.8743 | 0.9121
6323 | Pittsfield, MA | 0.9998 | 0.9999
6340 | Pocatello, ID | 0.9229 | 0.9465
6403 | Portland, ME | 0.9807 | 0.9867
6440 | Portland-Vancouver, OR-WA | 1.1371 | 1.0920
6520 | Provo-Orem, UT | 0.9596 | 0.9722
6640 | Raleigh-Durham-Chapel Hill, NC | 0.9943 | 0.9961
6690 | Redding, CA | 1.1709 | 1.1141
6720 | Reno, NV | 1.0446 | 1.0303
6740 | Richland-Kennewick-Pasco, WA | 1.0280 | 1.0191
6800 | Roanoke, VA (VA Hospitals) | 0.8489 | 0.8939
6800 | Roanoke, VA (WV Hospitals) | 0.8468 | 0.8924
6820 | Rochester, MN | 1.1490 | 1.0998
6880 | Rockford, IL | 0.9484 | 0.9644
6920 | Sacramento, CA | 1.1829 | 1.1219
6960 | Saginaw-Bay City-Midland, MI | 0.9431 | 0.9607
6980 | St. Cloud, MN | 1.0095 | 1.0065
7040 | St. Louis, Mo-IL | 0.8973 | 0.9285
7160 | Salt Lake City-Ogden, UT | 0.9491 | 0.9649
7240 | San Antonio, TX | 0.9020 | 0.9318
7400 | San Jose, CA | 1.4734 | 1.3040
7440 | San Juan-Bayamon, PR | 0.4801 | 0.6050
7490 | Santa Fe, NM | 1.0066 | 1.0045
7500 | Santa Rosa, CA | 1.2938 | 1.1929
7520 | Savannah, GA | 0.9464 | 0.9630
7600 | Seattle-Bellevue-Everett, WA | 1.1463 | 1.0980
7640 | Sherman-Denison, TX | 0.9106 | 0.9379
7680 | Shreveport-Bossier City, LA | 0.8941 | 0.9262
7720 | Sioux City, IA-NE | 0.9040 | 0.9332
7760 | Sioux Falls, SD | 0.9414 | 0.9595
7800 | South Bend, IN | 0.9434 | 0.9609
7840 | Spokane, WA | 1.0458 | 1.0311
7880 | Springfield, IL | 0.8732 | 0.9113
7920 | Springfield, MO | 0.8267 | 0.8778
8050 | State College, PA | 0.8346 | 0.8835
8160 | Syracuse, NY | 0.9246 | 0.9477
8360 | Texarkana, TX-Texarkana, AR | 0.8440 | 0.8903
8400 | Toledo, OH | 0.9514 | 0.9665
8440 | Topeka, KS | 0.8896 | 0.9230
8560 | Tulsa, OK | 0.8756 | 0.9130
8600 | Tuscaloosa, AL | 0.8441 | 0.8904
8640 | Tyler, TX | 0.9335 | 0.9540
8720 | Vallejo-Farifield-Napa, CA | 1.3802 | 1.2469
8750 | Victoria, TX | 0.8456 | 0.8915
8800 | Waco, TX | 0.8172 | 0.8709
8840 | Washington, DC-MD-VA-WV | 1.0866 | 1.0585
8940 | Wausau, WI | 1.0101 | 1.0069
8960 | West Palm Beach-Boca Raton, FL | 1.0348 | 1.0237
9040 | Wichita, KS | 0.9195 | 0.9441
9160 | Wilmington-Newark, DE-MD | 1.0955 | 1.0645
9200 | Wilmington, NC | 0.9225 | 0.9463
9320 | Youngstown-Warren, OH | 0.9406 | 0.9589
10 | Rural Florida | 0.8553 | 0.8985
14 | Rural Illinois | 0.8348 | 0.8837
24 | Rural Minnesota | 0.9339 | 0.9542
26 | Rural Missouri | 0.8041 | 0.8613
28 | Rural Nebraska | 0.9040 | 0.9332
29 | Rural Nevada | 0.9286 | 0.9505
30 | Rural New Hampshire | 0.9931 | 0.9953
45 | Rural Texas | 0.7942 | 0.8540
50 | Rural Washington | 1.0063 | 1.0043
53 | Rural Wyoming | 0.9172 | 0.9425

23. On pages 49531 through 49536, in Table 4C2—Wage Index and Capital Geographic Adjustment Factor (GAF) for Hospitals that are Reclassified by CBSA, the table is corrected to read as follows:

Table 4C2.—Wage Index and Capital Geographic Adjustment Factor (GAF) for Hospitals That Are Reclassified by CBSA
CBSA code | Area | Wage index | GAF
10180 | Abilene, TX | 0.7997 | 0.8581
10420 | Akron, OH | 0.9042 | 0.9334
10740 | Albuquerque, NM | 1.0211 | 1.0144
10780 | Alexandria, LA | 0.8178 | 0.8713
10900 | Allentown-Bethlehem-Easton, PA-NJ | 0.9519 | 0.9668
11020 | Altoona, PA | 0.8452 | 0.8912
11100 | Amarillo, TX | 0.9177 | 0.9429
11180 | Ames, IA | 0.9480 | 0.9641
11260 | Anchorage, AK | 1.2164 | 1.1436
11460 | Ann Arbor, MI | 1.0756 | 1.0512
11500 | Anniston-Oxford, AL | 0.7949 | 0.8545
11700 | Asheville, NC | 0.9208 | 0.9451
12020 | Athens-Clarke County, GA | 0.9974 | 0.9982
12060 | Atlanta-Sandy Springs-Marietta, GA | 0.9846 | 0.9894
12220 | Auburn-Opelika, AL | 0.8070 | 0.8634
12260 | Augusta-Richmond County, GA-SC | 0.9035 | 0.9329
12420 | Austin-Round Rock, TX | 0.9597 | 0.9722
12620 | Bangor, ME | 0.9937 | 0.9957
12700 | Barnstable Town, MA | 1.2158 | 1.1432
12940 | Baton Rouge, LA | 0.8322 | 0.8818
13020 | Bay City, MI | 0.9579 | 0.9710
13780 | Binghamton, NY | 0.8464 | 0.8921
13820 | Birmingham-Hoover, AL | 0.9157 | 0.9415
14060 | Bloomington-Normal, IL | 0.9110 | 0.9382
14484 | Boston-Quincy, MA | 1.1574 | 1.1053
14540 | Bowling Green, KY | 0.8141 | 0.8686
15380 | Buffalo-Niagara Falls, NY | 0.9332 | 0.9538
15540 | Burlington-South Burlington, VT | 0.9104 | 0.9377
15764 | Cambridge-Newton-Framingham, MA | 1.1184 | 1.0796
16180 | Carson City, NV | 0.9899 | 0.9931
16220 | Casper, WY | 0.9327 | 0.9534
16580 | Champaign-Urbana, IL | 0.9301 | 0.9516
16620 | Charleston, WV (OH Hospitals) | 0.8692 | 0.9085
16620 | Charleston, WV (WV Hospitals) | 0.8572 | 0.8999
16700 | Charleston-North Charleston, SC | 0.9415 | 0.9596
16740 | Charlotte-Gastonia-Concord, NC-SC | 0.9585 | 0.9714
16820 | Charlottesville, VA | 0.9931 | 0.9953
16860 | Chattanooga, TN-GA | 0.9208 | 0.9451
16974 | Chicago-Naperville-Joliet, IL | 1.0709 | 1.0480
17140 | Cincinnati-Middletown, OH-KY-IN | 0.9497 | 0.9653
17300 | Clarksville, TN-KY | 0.8109 | 0.8663
17460 | Cleveland-Elyria-Mentor, OH | 0.9644 | 0.9755
17780 | College Station-Bryan, TX | 0.9246 | 0.9477
17860 | Columbia, MO | 0.8388 | 0.8866
17900 | Columbia, SC | 0.9298 | 0.9514
17980 | Columbus, GA-AL | 0.8357 | 0.8843
18140 | Columbus, OH | 0.9604 | 0.9727
18700 | Corvallis, OR | 1.0333 | 1.0227
19124 | Dallas-Plano-Irving, TX | 1.0068 | 1.0047
19340 | Davenport-Moline-Rock Island, IA-IL | 0.8758 | 0.9132
19460 | Decatur, AL | 0.8893 | 0.9228
19740 | Denver-Aurora, CO | 1.0679 | 1.0460
19780 | Des Moines, IA | 0.9101 | 0.9375
20260 | Duluth, MN-WI | 1.0329 | 1.0224
20500 | Durham, NC | 1.0213 | 1.0145
21140 | Elkhart-Goshen, IN | 0.9134 | 0.9399
21500 | Erie, PA | 0.8502 | 0.8948
21660 | Eugene-Springfield, OR | 1.0528 | 1.0359
21780 | Evansville, IN-KY | 0.8209 | 0.8736
22020 | Fargo, ND-MN (MN Hospitals) | 0.9330 | 0.9536
22020 | Fargo, ND-MN (ND Hospitals) | 0.9189 | 0.9437
22180 | Fayetteville, NC | 0.9003 | 0.9306
22220 | Fayetteville-Springdale-Rogers, AR-MO | 0.8670 | 0.9069
22380 | Flagstaff, AZ | 1.0564 | 1.0383
22540 | Fond du Lac, WI | 0.9507 | 0.9660
22660 | Fort Collins-Loveland, CO | 1.0230 | 1.0157
22744 | Ft Lauderdale-Pompano Beach-Deerfield | 1.0382 | 1.0260
22900 | Fort Smith, AR-OK | 0.8067 | 0.8632
23020 | Fort Walton Beach-Crestview-Destin, FL | 0.8598 | 0.9017
23104 | Fort Worth-Arlington, TX | 0.9476 | 0.9638
23540 | Gainesville, FL | 0.9446 | 0.9617
24340 | Grand Rapids-Wyoming, MI | 0.9418 | 0.9598
24500 | Great Falls, MT | 0.8831 | 0.9184
24540 | Greeley, CO | 0.9732 | 0.9816
24580 | Green Bay, WI | 0.9578 | 0.9709
24780 | Greenville, NC | 0.9179 | 0.9430
24860 | Greenville, SC | 0.9532 | 0.9677
25060 | Gulfport-Biloxi, MS | 0.8764 | 0.9136
25420 | Harrisburg-Carlisle, PA | 0.9201 | 0.9446
25540 | Hartford-West Hartford-East Hartford, CT (CT Hospitals) | 1.1583 | 1.1059
25540 | Hartford-West Hartford-East Hartford, CT (MA, NY Hospitals) | 1.1070 | 1.0721
25860 | Hickory-Lenoir-Morganton, NC | 0.9344 | 0.9546
26100 | Holland-Grand Haven, MI | 0.9424 | 0.9602
26180 | Honolulu, HI | 1.1033 | 1.0696
26420 | Houston-Baytown-Sugar Land, TX | 0.9975 | 0.9983
26580 | Huntington-Ashland, WV-KY-OH | 0.9009 | 0.9310
26620 | Huntsville, AL | 0.8838 | 0.9189
26820 | Idaho Falls, ID | 0.8525 | 0.8965
26900 | Indianapolis, IN | 1.0104 | 1.0071
26980 | Iowa City, IA | 0.9486 | 0.9645
27060 | Ithaca, NY | 0.9291 | 0.9509
27140 | Jackson, MS | 0.8285 | 0.8791
27180 | Jackson, TN | 0.8707 | 0.9095
27260 | Jacksonville, FL | 0.9565 | 0.9700
27860 | Jonesboro, AR | 0.8229 | 0.8750
27900 | Joplin, MO | 0.8573 | 0.8999
28020 | Kalamazoo-Portage, MI | 1.0689 | 1.0467
28100 | Kankakee-Bradley, IL | 1.0618 | 1.0419
28140 | Kansas City, MO-KS | 0.9617 | 0.9736
28420 | Kennewick-Richland-Pasco, WA | 1.0280 | 1.0191
28700 | Kingsport-Bristol-Bristol, TN-VA | 0.8235 | 0.8755
28940 | Knoxville, TN | 0.8564 | 0.8993
29140 | Lafayette, IN | 0.9051 | 0.9340
29180 | Lafayette, LA | 0.8299 | 0.8801
29460 | Lakeland, FL | 0.8943 | 0.9264
29620 | Lansing-East Lansing, MI | 0.9653 | 0.9761
29820 | Las Vegas-Paradise, NV | 1.1193 | 1.0802
30460 | Lexington-Fayette, KY | 0.8931 | 0.9255
30620 | Lima, OH | 0.9324 | 0.9532
30700 | Lincoln, NE | 0.9720 | 0.9807
30780 | Little Rock-North Little Rock, AR | 0.8840 | 0.9190
30980 | Longview, TX | 0.8570 | 0.8997
31084 | Los Angeles-Long Beach-Santa Ana, CA | 1.1742 | 1.1162
31140 | Louisville, KY-IN | 0.9126 | 0.9393
31180 | Lubbock, TX | 0.8774 | 0.9143
31340 | Lynchburg, VA | 0.8883 | 0.9221
31420 | Macon, GA | 0.9814 | 0.9872
31540 | Madison, WI | 1.0194 | 1.0132
31700 | Manchester-Nashua, NH | 1.0528 | 1.0359
32780 | Medford, OR | 1.0248 | 1.0169
32820 | Memphis, TN-MS-AR | 0.8884 | 0.9222
33124 | Miami-Miami Beach-Kendall, FL | 0.9870 | 0.9911
33260 | Midland, TX | 0.9199 | 0.9444
33340 | Milwaukee-Waukesha-West Allis, WI | 0.9954 | 0.9968
33460 | Minneapolis-St. Paul-Bloomington, MN-WI | 1.1044 | 1.0704
33540 | Missoula, MT | 0.9630 | 0.9745
33660 | Mobile, AL | 0.7997 | 0.8581
33700 | Modesto, CA | 1.1993 | 1.1325
33860 | Montgomery, AL | 0.8311 | 0.8810
34740 | Muskegon-Norton Shores, MI a | 0.9743 | 0.9823
34900 | Napa, CA | 1.3508 | 1.2287
34980 | Nashville-Davidson--Murfreesboro, TN | 0.9758 | 0.9834
35084 | Newark-Union, NJ-PA | 1.1569 | 1.1050
35380 | New Orleans-Metairie-Kenner, LA | 0.9100 | 0.9375
35644 | New York-Wayne-White Plains, NY-NJ | 1.3318 | 1.2168
36084 | Oakland-Fremont-Hayward, CA | 1.5338 | 1.3403
36100 | Ocala, FL | 0.9174 | 0.9427
36140 | Ocean City, NJ | 1.0028 | 1.0019
36220 | Odessa, TX | 0.9495 | 0.9651
36260 | Ogden-Clearfield, UT | 0.9228 | 0.9465
36420 | Oklahoma City, OK | 0.8985 | 0.9293
36500 | Olympia, WA | 1.1005 | 1.0678
36540 | Omaha-Council Bluffs, NE-IA | 0.9740 | 0.9821
36740 | Orlando, FL | 0.9731 | 0.9815
37900 | Peoria, IL | 0.8862 | 0.9206
38060 | Phoenix-Mesa-Scottsdale, AZ | 0.9985 | 0.9990
38220 | Pine Bluff, AR | 0.8381 | 0.8861
38300 | Pittsburgh, PA | 0.8723 | 0.9107
38340 | Pittsfield, MA | 0.9998 | 0.9999
38540 | Pocatello, ID | 0.9337 | 0.9541
38860 | Portland-South Portland-Biddeford, ME | 0.9807 | 0.9867
38900 | Portland-Vancouver-Beaverton, OR-WA | 1.1371 | 1.0920
38940 | Port St. Lucie-Fort Pierce, FL | 1.0093 | 1.0064
39100 | Poughkeepsie-Newburgh-Middletown, NY | 1.1034 | 1.0697
39340 | Provo-Orem, UT | 0.9572 | 0.9705
39580 | Raleigh-Cary, NC | 0.9616 | 0.9735
39740 | Reading, PA | 0.9074 | 0.9356
39820 | Redding, CA | 1.1709 | 1.1141
39900 | Reno-Sparks, NV | 1.0450 | 1.0306
40220 | Roanoke, VA | 0.8455 | 0.8914
40340 | Rochester, MN | 1.1490 | 1.0998
40380 | Rochester, NY | 0.9283 | 0.9503
40420 | Rockford, IL | 0.9484 | 0.9644
40484 | Rockingham County, NH | 1.0300 | 1.0204
40660 | Rome, GA | 0.8909 | 0.9239
40900 | Sacramento—Arden-Arcade—Roseville, CA | 1.1683 | 1.1124
40980 | Saginaw-Saginaw Township North, MI | 0.9405 | 0.9589
41060 | St. Cloud, MN | 1.0095 | 1.0065
41180 | St. Louis, MO-IL | 0.8973 | 0.9285
41700 | San Antonio, TX | 0.9000 | 0.9304
42044 | Santa Ana-Anaheim-Irvine, CA | 1.1701 | 1.1136
42140 | Santa Fe, NM | 1.0066 | 1.0045
42220 | Santa Rosa-Petaluma, CA | 1.2938 | 1.1929
42340 | Savannah, GA | 0.9464 | 0.9630
42644 | Seattle-Bellevue-Everett, WA | 1.1476 | 1.0989
43300 | Sherman-Denison, TX | 0.9106 | 0.9379
43340 | Shreveport-Bossier City, LA | 0.8955 | 0.9272
43580 | Sioux City, IA-NE-SD | 0.9040 | 0.9332
43620 | Sioux Falls, SD | 0.9414 | 0.9595
43780 | South Bend-Mishawaka, IN-MI | 0.9434 | 0.9609
43900 | Spartanburg, SC | 0.9378 | 0.9570
44060 | Spokane, WA | 1.0458 | 1.0311
44100 | Springfield, IL | 0.8732 | 0.9113
44180 | Springfield, MO | 0.8267 | 0.8778
44220 | Springfield, OH | 0.8741 | 0.9120
44300 | State College, PA | 0.8309 | 0.8809
44940 | Sumter, SC | 0.8705 | 0.9094
45060 | Syracuse, NY | 0.9246 | 0.9477
45500 | Texarkana, TX-Texarkana, AR | 0.8440 | 0.8903
45780 | Toledo, OH | 0.9514 | 0.9665
45820 | Topeka, KS | 0.8896 | 0.9230
46140 | Tulsa, OK | 0.8717 | 0.9103
46220 | Tuscaloosa, AL | 0.8339 | 0.8830
46340 | Tyler, TX | 0.9335 | 0.9540
47260 | Virginia Beach-Norfolk-Newport News, VA | 0.8928 | 0.9253
47380 | Waco, TX | 0.8151 | 0.8694
47644 | Warren-Farmington-Hills-Troy, MI | 1.0109 | 1.0075
47894 | Washington-Arlington-Alexandria DC-VA | 1.0895 | 1.0605
47940 | Waterloo-Cedar Falls, IA | 0.8629 | 0.9040
48140 | Wausau, WI | 1.0101 | 1.0069
48424 | West Palm Beach-Boca Raton-Boynton FL | 1.0348 | 1.0237
48620 | Wichita, KS | 0.9179 | 0.9430
48700 | Williamsport, PA | 0.8476 | 0.8929
48864 | Wilmington, DE-MD-NJ (DE, MD Hospitals) | 1.0853 | 1.0577
48864 | Wilmington, DE-MD-NJ (NJ Hospitals) | 1.1277 | 1.0858
48900 | Wilmington, NC | 0.9225 | 0.9463
49020 | Winchester, VA-WV | 1.0008 | 1.0005
49180 | Winston-Salem, NC | 0.9252 | 0.9482
49660 | Youngstown-Warren-Boardman, OH-PA | 0.9067 | 0.9351
10 | Rural Florida | 0.8418 | 0.8888
14 | Rural Illinois | 0.8346 | 0.8835
24 | Rural Minnesota | 0.9330 | 0.9536
26 | Rural Missouri | 0.8011 | 0.8591
28 | Rural Nebraska | 0.9040 | 0.9332
29 | Rural Nevada | 0.8778 | 0.9146
30 | Rural New Hampshire | 0.9931 | 0.9953
45 | Rural Texas | 0.7997 | 0.8581
50 | Rural Washington | 0.9837 | 0.9888
53 | Rural Wyoming | 0.9172 | 0.9425

24. On pages 49538 through 49578, in Table 4G—Pre-Reclassified Wage Index for Urban Areas, the table is corrected to read as follows:

Table 4G.—Pre-Reclassified Wage Index for Urban Areas
CBSA code | Urban area (constituent counties) | Wage index
10180 | *Abilene, TX | 0.7997
| Callahan County, TX
| Jones County, TX
| Taylor County, TX
10380 | Aguadilla-Isabela-San Sebastián, PR | 0.4274
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.9042
| Portage County, OH
| Summit County, OH
10500 | Albany, GA | 1.1277
| Baker County, GA
| Dougherty County, GA
| Lee County, GA
| Terrell County, GA
| Worth County, GA
10580 | Albany-Schenectady-Troy, NY | 0.8668
| Albany County, NY
| Rensselaer County, NY
| Saratoga County, NY
| Schenectady County, NY
| Schoharie County, NY
10740 | Albuquerque, NM | 1.0486
| Bernalillo County, NM
| Sandoval County, NM
| Torrance County, NM
| Valencia County, NM
10780 | Alexandria, LA | 0.8178
| Grant Parish, LA
| Rapides Parish, LA
10900 | Allentown-Bethlehem-Easton, PA-NJ | 1.1277
| Warren County, NJ
| Carbon County, PA
| Lehigh County, PA
| Northampton County, PA
11020 | Altoona, PA | 0.8452
| Blair County, PA
11100 | Amarillo, TX | 0.9177
| Armstrong County, TX
| Carson County, TX
| Potter County, TX
| Randall County, TX
11180 | Ames, IA | 0.9480
| Story County, IA
11260 | Anchorage, AK | 1.2164
| Anchorage Municipality, AK
| Matanuska-Susitna Borough, AK
11300 | Anderson, IN | 0.8753
| Madison County, IN
11340 | Anderson, SC | 0.8705
| Anderson County, SC
11460 | Ann Arbor, MI | 1.1037
| Washtenaw County, MI
11500 | *Anniston-Oxford, AL | 0.7898
| Calhoun County, AL
11540 | *Appleton, WI | 0.9489
| Calumet County, WI
| Outagamie County, WI
11700 | Asheville, NC | 0.9208
| Buncombe County, NC
| Haywood County, NC
| Henderson County, NC
| Madison County, NC
12020 | Athens-Clarke County, GA | 1.0173
| Clarke County, GA
| Madison County, GA
| Oconee County, GA
| Oglethorpe County, GA
12060 | Atlanta-Sandy Springs-Marietta, GA | 0.9960
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1277
| Atlantic County, NJ
12220 | Auburn-Opelika, AL | 0.8221
| Lee County, AL
12260 | Augusta-Richmond County, GA-SC | 0.9156
| Burke County, GA
| Columbia County, GA
| McDuffie County, GA
| Richmond County, GA
| Aiken County, SC
| Edgefield County, SC
12420 | Austin-Round Rock, TX | 0.9597
| Bastrop County, TX
| Caldwell County, TX
| Hays County, TX
| Travis County, TX
| Williamson County, TX
12540 | *Bakersfield, CA | 1.0450
| Kern County, CA
12580 | Baltimore-Towson, MD | 0.9892
| Anne Arundel County, MD
| Baltimore County, MD
| Carroll County, MD
| Harford County, MD
| Howard County, MD
| Queen Anne's County, MD
| Baltimore City, MD
12620 | Bangor, ME | 0.9937
| Penobscot County, ME
12700 | Barnstable Town, MA | 1.2327
| Barnstable County, MA
12940 | Baton Rouge, LA | 0.8322
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9345
| Calhoun County, MI
13020 | Bay City, MI | 0.9579
| Bay County, MI
13140 | Beaumont-Port Arthur, TX | 0.8617
| Hardin County, TX
| Jefferson County, TX
| Orange County, TX
13380 | Bellingham, WA | 1.1605
| Whatcom County, WA
13460 | Bend, OR | 1.0560
| Deschutes County, OR
13644 | Bethesda-Frederick-Gaithersburg, MD | 1.0935
| Frederick County, MD
| Montgomery County, MD
13740 | Billings, MT | 0.8973
| Carbon County, MT
| Yellowstone County, MT
13780 | Binghamton, NY | 0.8464
| Broome County, NY
| Tioga County, NY
13820 | Birmingham-Hoover, AL | 0.9157
| Bibb County, AL
| Blount County, AL
| Chilton County, AL
| Jefferson County, AL
| St. Clair County, AL
| Shelby County, AL
| Walker County, AL
13900 | *Bismarck, ND | 0.7750
| Burleigh County, ND
| Morton County, ND
13980 | *Blacksburg-Christiansburg-Radford, VA | 0.8062
| Giles County, VA
| Montgomery County, VA
| Pulaski County, VA
| Radford City, VA
14020 | *Bloomington, IN | 0.8657
| Greene County, IN
| Monroe County, IN
| Owen County, IN
14060 | Bloomington-Normal, IL | 0.9110
| McLean County, IL
14260 | Boise City-Nampa, ID | 0.9338
| Ada County, ID
| Boise County, ID
| Canyon County, ID
| Gem County, ID
| Owyhee County, ID
14484 | Boston-Quincy, MA | 1.1766
| Norfolk County, MA
| Plymouth County, MA
| Suffolk County, MA
14500 | Boulder, CO | 1.0044
| Boulder County, CO
14540 | Bowling Green, KY | 0.8141
| Edmonson County, KY
| Warren County, KY
14740 | Bremerton-Silverdale, WA | 1.0608
| Kitsap County, WA
14860 | Bridgeport-Stamford-Norwalk, CT | 1.2846
| Fairfield County, CT
15180 | Brownsville-Harlingen, TX | 1.0158
| Cameron County, TX
15260 | Brunswick, GA | 1.1958
| Brantley County, GA
| Glynn County, GA
| McIntosh County, GA
15380 | Buffalo-Niagara Falls, NY | 0.9332
| Erie County, NY
| Niagara County, NY
15500 | Burlington, NC | 0.8954
| Alamance County, NC
15540 | *Burlington-South Burlington, VT | 0.9356
| Chittenden County, VT
| Franklin County, VT
| Grand Isle County, VT
15764 | Cambridge-Newton-Framingham, MA | 1.1184
| Middlesex County, MA
15804 | Camden, NJ | 1.1277
| Burlington County, NJ
| Camden County, NJ
| Gloucester County, NJ
15940 | Canton-Massillon, OH | 0.8908
| Carroll County, OH
| Stark County, OH
15980 | Cape Coral-Fort Myers, FL | 0.9338
| Lee County, FL
16180 | Carson City, NV | 1.0336
| Carson City, NV
16220 | Casper, WY | 0.9235
| Natrona County, WY
16300 | Cedar Rapids, IA | 0.8963
| Benton County, IA
| Jones County, IA
| Linn County, IA
16580 | Champaign-Urbana, IL | 0.9515
| Champaign County, IL
| Ford County, IL
| Piatt County, IL
16620 | Charleston, WV | 0.8877
| Boone County, WV
| Clay County, WV
| Kanawha County, WV
| Lincoln County, WV
| Putnam County, WV
16700 | Charleston-North Charleston, SC | 0.9415
| Berkeley County, SC
| Charleston County, SC
| Dorchester County, SC
16740 | Charlotte-Gastonia-Concord, NC-SC | 0.9698
| Anson County, NC
| Cabarrus County, NC
| Gaston County, NC
| Mecklenburg County, NC
| Stanly, NC
| Union County, NC
| York County, SC
16820 | Charlottesville, VA | 1.0292
| Albemarle County, VA
| Fluvanna County, VA
| Greene County, VA
| Nelson County, VA
| Charlottesville City, VA
16860 | Chattanooga, TN-GA | 0.9208
| Catoosa County, GA
| Dade County, GA
| Walker County, GA
| Hamilton County, TN
| Marion County, TN
| Sequatchie County, TN
16940 | *Cheyenne, WY | 0.9172
| Laramie County, WY
16974 | Chicago-Naperville-Joliet, IL | 1.0864
| Cook County, IL
| DeKalb County, IL
| DuPage County, IL
| Grundy County, IL
| Kane County, IL
| Kendall County, IL
| McHenry County, IL
| Will County, IL
17020 | Chico, CA | 1.0546
| Butte County, CA
17140 | Cincinnati-Middletown, OH-KY-IN | 0.9497
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8004
| Christian County, KY
| Trigg County, KY
| Montgomery County, TN
| Stewart County, TN
17420 | *Cleveland, TN | 0.7896
| Bradley County, TN
| Polk County, TN
17460 | Cleveland-Elyria-Mentor, OH | 0.9644
| Cuyahoga County, OH
| Geauga County, OH
| Lake County, OH
| Lorain County, OH
| Medina County, OH
17660 | Coeur d'Alene, ID | 0.9325
| Kootenai County, ID
17780 | College Station-Bryan, TX | 0.9246
| Brazos County, TX
| Burleson County, TX
| Robertson County, TX
17820 | Colorado Springs, CO | 0.9771
| El Paso County, CO
| Teller County, CO
17860 | Columbia, MO | 0.8388
| Boone County, MO
| Howard County, MO
17900 | Columbia, SC | 0.9402
| Calhoun County, SC
| Fairfield County, SC
| Kershaw County, SC
| Lexington County, SC
| Richland County, SC
| Saluda County, SC
17980 | Columbus, GA-AL | 0.8691
| Russell County, AL
| Chattahoochee County, GA
| Harris County, GA
| Marion County, GA
| Muscogee County, GA
18020 | Columbus, IN | 0.9387
| Bartholomew County, IN
18140 | Columbus, OH | 0.9734
| Delaware County, OH
| Fairfield County, OH
| Franklin County, OH
| Licking County, OH
| Madison County, OH
| Morrow County, OH
| Pickaway County, OH
| Union County, OH
18580 | Corpus Christi, TX | 0.8645
| Aransas County, TX
| Nueces County, TX
| San Patricio County, TX
18700 | Corvallis, OR | 1.0517
| Benton County, OR
19060 | *Cumberland, MD-WV (MD Hospitals) | 0.9225
| Allegany County, MD
| Mineral County, WV
19060 | Cumberland, MD-WV (WV Hospitals) | 0.8652
| Allegany County, MD
| Mineral County, WV
19124 | Dallas-Plano-Irving, TX | 1.0068
| Collin County, TX
| Dallas County, TX
| Delta County, TX
| Denton County, TX
| Ellis County, TX
| Hunt County, TX
| Kaufman County, TX
| Rockwall County, TX
19140 | Dalton, GA | 0.9546
| Murray County, GA
| Whitfield County, GA
19180 | Danville, IL | 0.8404
| Vermilion County, IL
19260 | Danville, VA | 0.8660
| Pittsylvania County, VA
| Danville City, VA
19340 | Davenport-Moline-Rock Island, IA-IL | 0.8758
| Henry County, IL
| Mercer County, IL
| Rock Island County, IL
| Scott County, IA
19380 | Dayton, OH | 0.9299
| Greene County, OH
| Miami County, OH
| Montgomery County, OH
| Preble County, OH
19460 | Decatur, AL | 0.8893
| Lawrence County, AL
| Morgan County, AL
19500 | *Decatur, IL | 0.8346
| Macon County, IL
19660 | Deltona-Daytona Beach-Ormond Beach, FL | 0.8899
| Volusia County, FL
19740 | Denver-Aurora, CO | 1.0879
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9266
| Dallas County, IA
| Guthrie County, IA
| Madison County, IA
| Polk County, IA
| Warren County, IA
19804 | Detroit-Livonia-Dearborn, MI | 1.0362
| Wayne County, MI
20020 | *Dothan, AL | 0.7646
| Geneva County, AL
| Henry County, AL
| Houston County, AL
20100 | *Dover, DE | 0.9866
| Kent County, DE
20220 | Dubuque, IA | 0.8730
| Dubuque County, IA
20260 | Duluth, MN-WI | 1.0329
| Carlton County, MN
| St. Louis County, MN
| Douglas County, WI
20500 | Durham, NC | 1.0322
| Chatham County, NC
| Durham County, NC
| Orange County, NC
| Person County, NC
20740 | *Eau Claire, WI | 0.9489
| Chippewa County, WI
| Eau Claire County, WI
20764 | Edison, NJ | 1.1277
| Middlesex County, NJ
| Monmouth County, NJ
| Ocean County, NJ
| Somerset County, NJ
20940 | *El Centro, CA | 1.0450
| Imperial County, CA
21060 | Elizabethtown, KY | 0.8690
| Hardin County, KY
| Larue County, KY
21140 | Elkhart-Goshen, IN | 0.9257
| Elkhart County, IN
21300 | Elmira, NY | 0.8464
| Chemung County, NY
21340 | El Paso, TX | 0.9213
| El Paso County, TX
21500 | Erie, PA | 0.8700
| Erie County, PA
21604 | Essex County, MA | 1.0654
| Essex County, MA
21660 | Eugene-Springfield, OR | 1.0921
| Lane County, OR
21780 | *Evansville, IN-KY (IN Hospitals) | 0.8657
| Gibson County, IN
| Posey County, IN
| Vanderburgh County, IN
| Warrick County, IN
| Henderson County, KY
| Webster County, KY
21780 | Evansville, IN-KY (KY Hospitals) | 0.8386
| Gibson County, IN
| Posey County, IN
| Vanderburgh County, IN
| Warrick County, IN
| Henderson County, KY
| Webster County, KY
21820 | *Fairbanks, AK | 1.1733
| Fairbanks North Star Borough, AK
21940 | Fajardo, PR | 0.3942
| Ceiba Municipio, PR
| Fajardo Municipio, PR
| Luquillo Municipio, PR
22020 | *Fargo, ND-MN (MN Hospitals) | 0.9330
| Cass County, ND
| Clay County, MN
22020 | *Fargo, ND-MN (ND Hospitals) | 0.9106
| Cass County, ND
| Clay County, MN
22140 | *Farmington, NM | 0.8684
| San Juan County, NM
22180 | Fayetteville, NC | 0.9363
| Cumberland County, NC
| Hoke County, NC
22220 | Fayetteville-Springdale-Rogers, AR-MO | 0.8656
| Benton County, AR
| Madison County, AR
| Washington County, AR
| McDonald County, MO
22380 | Flagstaff, AZ | 1.0777
| Coconino County, AZ
22420 | Flint, MI | 1.1165
| Genesee County, MI
22500 | Florence, SC | 0.8857
| Darlington County, SC
| Florence County, SC
22520 | Florence-Muscle Shoals, AL | 0.7906
| Colbert County, AL
| Lauderdale County, AL
22540 | Fond du Lac, WI | 0.9896
| Fond du Lac County, WI
22660 | Fort Collins-Loveland, CO | 1.0187
| Larimer County, CO
22744 | Fort Lauderdale-Pompano Beach-Deerfield Beach, FL | 1.0153
| Broward County, FL
22900 | Fort Smith, AR-OK | 0.8300
| Crawford County, AR
| Franklin County, AR
| Sebastian County, AR
| Le Flore County, OK
| Sequoyah County, OK
23020 | Fort Walton Beach-Crestview-Destin, FL | 0.8781
| Okaloosa County, FL
23060 | Fort Wayne, IN | 0.9802
| Allen County, IN
| Wells County, IN
| Whitley County, IN
23104 | Fort Worth-Arlington, TX | 0.9476
| Johnson County, TX
| Parker County, TX
| Tarrant County, TX
| Wise County, TX
23420 | Fresno, CA | 1.0648
| Fresno County, CA
23460 | Gadsden, AL | 0.8077
| Etowah County, AL
23540 | *Gainesville, FL | 0.9446
| Alachua County, FL
| Gilchrist County, FL
23580 | Gainesville, GA | 0.9572
| Hall County, GA
23844 | Gary, IN | 0.9306
| Jasper County, IN
| Lake County, IN
| Newton County, IN
| Porter County, IN
24020 | Glens Falls, NY | 0.8486
| Warren County, NY
| Washington County, NY
24140 | Goldsboro, NC | 0.8776
| Wayne County, NC
24220 | *Grand Forks, ND-MN (MN Hospitals) | 0.9330
| Polk County, MN
| Grand Forks County, ND
24220 | Grand Forks, ND-MN (ND Hospitals) | 0.9147
| Polk County, MN
| Grand Forks County, ND
24300 | Grand Junction, CO | 0.9932
| Mesa County, CO
24340 | Grand Rapids-Wyoming, MI | 0.9418
| Barry County, MI
| Ionia County, MI
| Kent County, MI
| Newaygo County, MI
24500 | Great Falls, MT | 0.8789
| Cascade County, MT
24540 | Greeley, CO | 0.9461
| Weld County, CO
24580 | Green Bay, WI | 0.9578
| Brown County, WI
| Kewaunee County, WI
| Oconto County, WI
24660 | Greensboro-High Point, NC | 0.9209
| Guilford County, NC
| Randolph County, NC
| Rockingham County, NC
24780 | Greenville, NC | 0.9162
| Greene County, NC
| Pitt County, NC
24860 | Greenville, SC | 0.9532
| Greenville County, SC
| Laurens County, SC
| Pickens County, SC
25020 | Guayama, PR | 0.4008
| Arroyo Municipio, PR
| Guayama Municipio, PR
| Patillas Municipio, PR
25060 | Gulfport-Biloxi, MS | 0.8934
| Hancock County, MS
| Harrison County, MS
| Stone County, MS
25180 | Hagerstown-Martinsburg, MD-WV | 0.9744
| Washington County, MD
| Berkeley County, WV
| Morgan County, WV
25260 | *Hanford-Corcoran, CA | 1.0450
| Kings County, CA
25420 | Harrisburg-Carlisle, PA | 0.9354
| Cumberland County, PA
| Dauphin County, PA
| Perry County, PA
25500 | Harrisonburg, VA | 0.9278
| Rockingham County, VA
| Harrisonburg City, VA
25540 | *Hartford-West Hartford-East Hartford, CT | 1.1583
| Hartford County, CT
| Litchfield County, CT
| Middlesex County, CT
| Tolland County, CT
25620 | *Hattiesburg, MS | 0.7649
| Forrest County, MS
| Lamar County, MS
| Perry County, MS
25860 | Hickory-Lenoir-Morganton, NC | 0.9510
| Alexander County, NC
| Burke County, NC
| Caldwell County, NC
| Catawba County, NC
25980 | *Hinesville-Fort Stewart, GA | 0.7752
| Liberty County, GA
| Long County, GA
26100 | Holland-Grand Haven, MI | 0.9424
| Ottawa County, MI
26180 | Honolulu, HI | 1.1012
| Honolulu County, HI
26300 | Hot Springs, AR | 0.9268
| Garland County, AR
26380 | Houma-Bayou Cane-Thibodaux, LA | 0.7761
| Lafourche Parish, LA
| Terrebonne Parish, LA
26420 | Houston-Baytown-Sugar Land, TX | 0.9975
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9560
| Boyd County, KY
| Greenup County, KY
| Lawrence County, OH
| Cabell County, WV
| Wayne County, WV
26620 | Huntsville, AL | 0.8826
| Limestone County, AL
| Madison County, AL
26820 | Idaho Falls, ID | 0.8525
| Bonneville County, ID
| Jefferson County, ID
26900 | Indianapolis, IN | 1.0104
| Boone County, IN
| Brown County, IN
| Hamilton County, IN
| Hancock County, IN
| Hendricks County, IN
| Johnson County, IN
| Marion County, IN
| Morgan County, IN
| Putnam County, IN
| Shelby County, IN
26980 | Iowa City, IA | 0.9649
| Johnson County, IA
| Washington County, IA
27060 | Ithaca, NY | 0.9640
| Tompkins County, NY
27100 | Jackson, MI | 0.9133
| Jackson County, MI
27140 | Jackson, MS | 0.8285
| Copiah County, MS
| Hinds County, MS
| Madison County, MS
| Rankin County, MS
| Simpson County, MS
27180 | Jackson, TN | 0.8891
| Chester County, TN
| Madison County, TN
27260 | Jacksonville, FL | 0.9553
| Baker County, FL
| Clay County, FL
| Duval County, FL
| Nassau County, FL
| St. Johns County, FL
27340 | *Jacksonville, NC | 0.8570
| Onslow County, NC
27500 | Janesville, WI | 0.9597
| Rock County, WI
27620 | Jefferson City, MO | 0.8332
| Callaway County, MO
| Cole County, MO
| Moniteau County, MO
| Osage County, MO
27740 | Johnson City, TN | 0.8162
| Carter County, TN
| Unicoi County, TN
| Washington County, TN
27780 | Johnstown, PA | 0.8365
| Cambria County, PA
27860 | Jonesboro, AR | 0.8195
| Craighead County, AR
| Poinsett County, AR
27900 | Joplin, MO | 0.8725
| Jasper County, MO
| Newton County, MO
28020 | Kalamazoo-Portage, MI | 1.0689
| Kalamazoo County, MI
| Van Buren County, MI
28100 | Kankakee-Bradley, IL | 1.0618
| Kankakee County, IL
28140 | Kansas City, MO-KS | 0.9617
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0508
| Benton County, WA
| Franklin County, WA
28660 | Killeen-Temple-Fort Hood, TX | 0.9276
| Bell County, TX
| Coryell County, TX
| Lampasas County, TX
28700 | Kingsport-Bristol-Bristol, TN-VA | 0.8235
| Hawkins County, TN
| Sullivan County, TN
| Bristol City, VA
| Scott County, VA
| Washington County, VA
28740 | Kingston, NY | 0.9002
| Ulster County, NY
28940 | Knoxville, TN | 0.8564
| Anderson County, TN
| Blount County, TN
| Knox County, TN
| Loudon County, TN
| Union County, TN
29020 | Kokomo, IN | 0.9023
| Howard County, IN
| Tipton County, IN
29100 | *La Crosse, WI-MN (MN Hospitals) | 0.9330
| Houston County, MN
| La Crosse County, WI
29100 | *La Crosse, WI-MN (WI Hospitals) | 0.9489
| Houston County, MN
| La Crosse County, WI
29140 | Lafayette, IN | 0.9051
| Benton County, IN
| Carroll County, IN
| Tippecanoe County, IN
29180 | Lafayette, LA | 0.8299
| Lafayette Parish, LA
| St. Martin Parish, LA
29340 | Lake Charles, LA | 0.7940
| Calcasieu Parish, LA
| Cameron Parish, LA
29404 | Lake County-Kenosha County, IL-WI | 1.0348
| Lake County, IL
| Kenosha County, WI
29460 | Lakeland, FL | 0.8943
| Polk County, FL
29540 | Lancaster, PA | 0.9896
| Lancaster County, PA
29620 | Lansing-East Lansing, MI | 0.9653
| Clinton County, MI
| Eaton County, MI
| Ingham County, MI
29700 | Laredo, TX | 0.8775
| Webb County, TX
29740 | Las Cruces, NM | 0.8759
| Dona Ana County, NM
29820 | Las Vegas-Paradise, NV | 1.1345
| Clark County, NV
29940 | *Lawrence, KS | 0.8123
| Douglas County, KS
30020 | Lawton, OK | 0.8249
| Comanche County, OK
30140 | Lebanon, PA | 0.8758
| Lebanon County, PA
30300 | *Lewiston, ID-WA (ID Hospitals) | 0.9300
| Nez Perce County, ID
| Asotin County, WA
30300 | Lewiston, ID-WA (WA Hospitals) | 0.9837
| Nez Perce County, ID
| Asotin County, WA
30340 | Lewiston-Auburn, ME | 0.9552
| Androscoggin County, ME
30460 | Lexington-Fayette, KY | 0.9336
| Bourbon County, KY
| Clark County, KY
| Fayette County, KY
| Jessamine County, KY
| Scott County, KY
| Woodford County, KY
30620 | Lima, OH | 0.9310
| Allen County, OH
30700 | Lincoln, NE | 1.0180
| Lancaster County, NE
| Seward County, NE
30780 | Little Rock-North Little Rock, AR | 0.8840
| Faulkner County, AR
| Grant County, AR
| Lonoke County, AR
| Perry County, AR
| Pulaski County, AR
| Saline County, AR
30860 | Logan, UT-ID | 0.9105
| Franklin County, ID
| Cache County, UT
30980 | Longview, TX | 0.8802
| Gregg County, TX
| Rusk County, TX
| Upshur County, TX
31020 | *Longview, WA | 1.0208
| Cowlitz County, WA
31084 | Los Angeles-Long Beach-Glendale, CA | 1.1742
| Los Angeles County, CA
31140 | Louisville, KY-IN | 0.9126
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8774
| Crosby County, TX
| Lubbock County, TX
31340 | Lynchburg, VA | 0.9026
| Amherst County, VA
| Appomattox County, VA
| Bedford County, VA
| Campbell County, VA
| Bedford City, VA
| Lynchburg City, VA
31420 | Macon, GA | 0.9922
| Bibb County, GA
| Crawford County, GA
| Jones County, GA
| Monroe County, GA
| Twiggs County, GA
31460 | *Madera, CA | 1.0450
| Madera County, CA
31540 | Madison, WI | 1.0301
| Columbia County, WI
| Dane County, WI
| Iowa County, WI
31700 | Manchester-Nashua, NH | 1.0633
| Hillsborough County, NH
| Merrimack County, NH
31900 | Mansfield, OH | 0.9200
| Richland County, OH
32420 | Mayagüez, PR | 0.4492
| Hormigueros Municipio, PR
| Mayagüez Municipio, PR
32580 | McAllen-Edinburg-Pharr, TX | 0.8603
| Hidalgo County, TX
32780 | Medford, OR | 1.0533
| Jackson County, OR
32820 | Memphis, TN-MS-AR | 0.9223
| Crittenden County, AR
| DeSoto County, MS
| Marshall County, MS
| Tate County, MS
| Tunica County, MS
| Fayette County, TN
| Shelby County, TN
| Tipton County, TN
32900 | *Merced, CA | 1.0526
| Merced County, CA
33124 | Miami-Miami Beach-Kendall, FL | 0.9868
| Miami-Dade County, FL
33140 | Michigan City-La Porte, IN | 0.9332
| LaPorte County, IN
33260 | Midland, TX | 0.9383
| Midland County, TX
33340 | Milwaukee-Waukesha-West Allis, WI | 1.0081
| Milwaukee County, WI
| Ozaukee County, WI
| Washington County, WI
| Waukesha County, WI
33460 | Minneapolis-St. Paul-Bloomington, MN-WI | 1.1044
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9580
| Missoula County, MT
33660 | Mobile, AL | 0.7997
| Mobile County, AL
33700 | Modesto, CA | 1.1993
| Stanislaus County, CA
33740 | Monroe, LA | 0.7908
| Ouachita Parish, LA
| Union Parish, LA
33780 | Monroe, MI | 0.9498
| Monroe County, MI
33860 | Montgomery, AL | 0.8311
| Autauga County, AL
| Elmore County, AL
| Lowndes County, AL
| Montgomery County, AL
34060 | Morgantown, WV | 0.8741
| Monongalia County, WV
| Preston County, WV
34100 | *Morristown, TN | 0.7896
| Grainger County, TN
| Hamblen County, TN
| Jefferson County, TN
34580 | Mount Vernon-Anacortes, WA | 1.0554
| Skagit County, WA
34620 | *Muncie, IN | 0.8657
| Delaware County, IN
34740 | Muskegon-Norton Shores, MI | 0.9743
| Muskegon County, MI
34820 | Myrtle Beach-Conway-North Myrtle Beach, SC | 0.9017
| Horry County, SC
34900 | Napa, CA | 1.2517
| Napa County, CA
34940 | Naples-Marco Island, FL | 1.0531
| Collier County, FL
34980 | Nashville-Davidson--Murfreesboro, TN | 1.0074
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2928
| Nassau County, NY
| Suffolk County, NY
35084 | Newark-Union, NJ-PA | 1.1680
| Essex County, NJ
| Hunterdon County, NJ
| Morris County, NJ
| Sussex County, NJ
| Union County, NJ
| Pike County, PA
35300 | New Haven-Milford, CT | 1.1830
| New Haven County, CT
35380 | New Orleans-Metairie-Kenner, LA | 0.9100
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3318
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8901
| Berrien County, MI
35980 | Norwich-New London, CT | 1.1627
| New London County, CT
36084 | Oakland-Fremont-Hayward, CA | 1.5205
| Alameda County, CA
| Contra Costa County, CA
36100 | Ocala, FL | 0.9174
| Marion County, FL
36140 | Ocean City, NJ | 1.1277
| Cape May County, NJ
36220 | Odessa, TX | 0.9797
| Ector County, TX
36260 | Ogden-Clearfield, UT | 0.9214
| Davis County, UT
| Morgan County, UT
| Weber County, UT
36420 | Oklahoma City, OK | 0.8985
| Canadian County, OK
| Cleveland County, OK
| Grady County, OK
| Lincoln County, OK
| Logan County, OK
| McClain County, OK
| Oklahoma County, OK
36500 | Olympia, WA | 1.1005
| Thurston County, WA
36540 | Omaha-Council Bluffs, NE-IA | 0.9740
| Harrison County, IA
| Mills County, IA
| Pottawattamie County, IA
| Cass County, NE
| Douglas County, NE
| Sarpy County, NE
| Saunders County, NE
| Washington County, NE
36740 | Orlando, FL | 0.9731
| Lake County, FL
| Orange County, FL
| Osceola County, FL
| Seminole County, FL
36780 | *Oshkosh-Neenah, WI | 0.9489
| Winnebago County, WI
36980 | Owensboro, KY | 0.8450
| Daviess County, KY
| Hancock County, KY
| McLean County, KY
37100 | Oxnard-Thousand Oaks-Ventura, CA | 1.1099
| Ventura County, CA
37340 | Palm Bay-Melbourne-Titusville, FL | 0.9625
| Brevard County, FL
37460 | *Panama City-Lynn Haven, FL | 0.8545
| Bay County, FL
37620 | *Parkersburg-Marietta, WV-OH (OH Hospitals) | 0.8692
| Washington County, OH
| Pleasants County, WV
| Wirt County, WV
| Wood County, WV
37620 | Parkersburg-Marietta, WV-OH (WV Hospitals) | 0.8315
| Washington County, OH
| Pleasants County, WV
| Wirt County, WV
| Wood County, WV
37700 | Pascagoula, MS | 0.7974
| George County, MS
| Jackson County, MS
37860 | *Pensacola-Ferry Pass-Brent, FL | 0.8545
| Escambia County, FL
| Santa Rosa County, FL
37900 | Peoria, IL | 0.8862
| Marshall County, IL
| Peoria County, IL
| Stark County, IL
| Tazewell County, IL
| Woodford County, IL
37964 | Philadelphia, PA | 1.0855
| Bucks County, PA
| Chester County, PA
| Delaware County, PA
| Montgomery County, PA
| Philadelphia County, PA
38060 | Phoenix-Mesa-Scottsdale, AZ | 0.9985
| Maricopa County, AZ
| Pinal County, AZ
38220 | Pine Bluff, AR | 0.8700
| Cleveland County, AR
| Jefferson County, AR
| Lincoln County, AR
38300 | Pittsburgh, PA | 0.8723
| Allegheny County, PA
| Armstrong County, PA
| Beaver County, PA
| Butler County, PA
| Fayette County, PA
| Washington County, PA
| Westmoreland County, PA
38340 | Pittsfield, MA | 1.0439
| Berkshire County, MA
38540 | Pocatello, ID | 0.9589
| Bannock County, ID
| Power County, ID
38660 | Ponce, PR | 0.5006
| Juana Díaz Municipio, PR
| Ponce Municipio, PR
| Villalba Municipio, PR
38860 | Portland-South Portland-Biddeford, ME | 1.0102
| Cumberland County, ME
| Sagadahoc County, ME
| York County, ME
38900 | Portland-Vancouver-Beaverton, OR-WA | 1.1371
| Clackamas County, OR
| Columbia County, OR
| Multnomah County, OR
| Washington County, OR
| Yamhill County, OR
| Clark County, WA
| Skamania County, WA
38940 | Port St. Lucie-Fort Pierce, FL | 1.0053
| Martin County, FL
| St. Lucie County, FL
39100 | Poughkeepsie-Newburgh-Middletown, NY | 1.1364
| Dutchess County, NY
| Orange County, NY
39140 | Prescott, AZ | 0.9681
| Yavapai County, AZ
39300 | Providence-New Bedford-Fall River, RI-MA | 1.0916
| Bristol County, MA
| Bristol County, RI
| Kent County, RI
| Newport County, RI
| Providence County, RI
| Washington County, RI
39340 | Provo-Orem, UT | 0.9572
| Juab County, UT
| Utah County, UT
39380 | *Pueblo, CO | 0.9356
| Pueblo County, CO
39460 | Punta Gorda, FL | 0.9451
| Charlotte County, FL
39540 | *Racine, WI | 0.9489
| Racine County, WI
39580 | Raleigh-Cary, NC | 1.0034
| Franklin County, NC
| Johnston County, NC
| Wake County, NC
39660 | Rapid City, SD | 0.8919
| Meade County, SD
| Pennington County, SD
39740 | Reading, PA | 0.9218
| Berks County, PA
39820 | Redding, CA | 1.1830
| Shasta County, CA
39900 | Reno-Sparks, NV | 1.0446
| Storey County, NV
| Washoe County, NV
40060 | Richmond, VA | 0.9379
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.0979
| Riverside County, CA
| San Bernardino County, CA
40220 | Roanoke, VA | 0.8429
| Botetourt County, VA
| Craig County, VA
| Franklin County, VA
| Roanoke County, VA
| Roanoke City, VA
| Salem City, VA
40340 | Rochester, MN | 1.1490
| Dodge County, MN
| Olmsted County, MN
| Wabasha County, MN
40380 | Rochester, NY | 0.9283
| Livingston County, NY
| Monroe County, NY
| Ontario County, NY
| Orleans County, NY
| Wayne County, NY
40420 | Rockford, IL | 0.9607
| Boone County, IL
| Winnebago County, IL
40484 | Rockingham County-Strafford County, NH | 1.0205
| Rockingham County, NH
| Strafford County, NH
40580 | Rocky Mount, NC | 0.8997
| Edgecombe County, NC
| Nash County, NC
40660 | Rome, GA | 0.8870
| Floyd County, GA
40900 | Sacramento—Arden-Arcade—Roseville, CA | 1.1681
| El Dorado County, CA
| Placer County, CA
| Sacramento County, CA
| Yolo County, CA
40980 | Saginaw-Saginaw Township North, MI | 0.9868
| Saginaw County, MI
41060 | St. Cloud, MN | 1.0271
| Benton County, MN
| Stearns County, MN
41100 | St. George, UT | 0.9473
| Washington County, UT
41140 | *St. Joseph, MO-KS (KS Hospitals) | 0.8123
| Doniphan County, KS
| Andrew County, MO
| Buchanan County, MO
| DeKalb County, MO
41140 | *St. Joseph, MO-KS (MO Hospitals) | 0.8009
| Doniphan County, KS
| Andrew County, MO
| Buchanan County, MO
| DeKalb County, MO
41180 | St. Louis, MO-IL | 0.9080
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0549
| Marion County, OR
| Polk County, OR
41500 | Salinas, CA | 1.3820
| Monterey County, CA
41540 | *Salisbury, MD | 0.9225
| Somerset County, MD
| Wicomico County, MD
41620 | Salt Lake City, UT | 0.9564
| Salt Lake County, UT
| Summit County, UT
| Tooele County, UT
41660 | San Angelo, TX | 0.8174
| Irion County, TX
| Tom Green County, TX
41700 | San Antonio, TX | 0.9000
| Atascosa County, TX
| Bandera County, TX
| Bexar County, TX
| Comal County, TX
| Guadalupe County, TX
| Kendall County, TX
| Medina County, TX
| Wilson County, TX
41740 | San Diego-Carlsbad-San Marcos, CA | 1.1260
| San Diego County, CA
41780 | Sandusky, OH | 0.9023
| Erie County, OH
41884 | San Francisco-San Mateo-Redwood City, CA | 1.4694
| Marin County, CA
| San Francisco County, CA
| San Mateo County, CA
41900 | San Germán-Cabo Rojo, PR | 0.5230
| Cabo Rojo Municipio, PR
| Lajas Municipio, PR
| Sabana Grande Municipio, PR
| San Germán Municipio, PR
41940 | San Jose-Sunnyvale-Santa Clara, CA | 1.4712
| San Benito County, CA
| Santa Clara County, CA
41980 | San Juan-Caguas-Guaynabo, PR | 0.4644
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1115
| San Luis Obispo County, CA
42044 | Santa Ana-Anaheim-Irvine, CA | 1.1601
| Orange County, CA
42060 | Santa Barbara-Santa Maria-Goleta, CA | 1.0757
| Santa Barbara County, CA
42100 | Santa Cruz-Watsonville, CA | 1.4759
| Santa Cruz County, CA
42140 | Santa Fe, NM | 1.0885
| Santa Fe County, NM
42220 | Santa Rosa-Petaluma, CA | 1.2938
| Sonoma County, CA
42260 | Sarasota-Bradenton-Venice, FL | 0.9610
| Manatee County, FL
| Sarasota County, FL
42340 | Savannah, GA | 0.9464
| Bryan County, GA
| Chatham County, GA
| Effingham County, GA
42540 | Scranton--Wilkes-Barre, PA | 0.8525
| Lackawanna County, PA
| Luzerne County, PA
| Wyoming County, PA
42644 | Seattle-Bellevue-Everett, WA | 1.1476
| King County, WA
| Snohomish County, WA
43100 | *Sheboygan, WI | 0.9489
| Sheboygan County, WI
43300 | Sherman-Denison, TX | 0.9619
| Grayson County, TX
43340 | Shreveport-Bossier City, LA | 0.9130
| Bossier Parish, LA
| Caddo Parish, LA
| De Soto Parish, LA
43580 | Sioux City, IA-NE-SD | 0.9054
| Woodbury County, IA
| Dakota County, NE
| Dixon County, NE
| Union County, SD
43620 | Sioux Falls, SD | 0.9414
| Lincoln County, SD
| McCook County, SD
| Minnehaha County, SD
| Turner County, SD
43780 | South Bend-Mishawaka, IN-MI | 0.9434
| St. Joseph County, IN
| Cass County, MI
43900 | Spartanburg, SC | 0.9521
| Spartanburg County, SC
44060 | Spokane, WA | 1.0643
| Spokane County, WA
44100 | Springfield, IL | 0.8732
| Menard County, IL
| Sangamon County, IL
44140 | *Springfield, MA | 1.0439
| Franklin County, MA
| Hampden County, MA
| Hampshire County, MA
44180 | Springfield, MO | 0.8562
| Christian County, MO
| Dallas County, MO
| Greene County, MO
| Polk County, MO
| Webster County, MO
44220 | Springfield, OH | 0.8741
| Clark County, OH
44300 | State College, PA | 0.8465
| Centre County, PA
44700 | Stockton, CA | 1.0583
| San Joaquin County, CA
44940 | *Sumter, SC | 0.8705
| Sumter County, SC
45060 | Syracuse, NY | 0.9482
| Madison County, NY
| Onondaga County, NY
| Oswego County, NY
45104 | Tacoma, WA | 1.1074
| Pierce County, WA
45220 | Tallahassee, FL | 0.8671
| Gadsden County, FL
| Jefferson County, FL
| Leon County, FL
| Wakulla County, FL
45300 | Tampa-St. Petersburg-Clearwater, FL | 0.9074
| Hernando County, FL
| Hillsborough County, FL
| Pasco County, FL
| Pinellas County, FL
45460 | *Terre Haute, IN | 0.8657
| Clay County, IN
| Sullivan County, IN
| Vermillion County, IN
| Vigo County, IN
45500 | Texarkana, TX-Texarkana, AR | 0.8415
| Miller County, AR
| Bowie County, TX
45780 | Toledo, OH | 0.9514
| Fulton County, OH
| Lucas County, OH
| Ottawa County, OH
| Wood County, OH
45820 | Topeka, KS | 0.8896
| Jackson County, KS
| Jefferson County, KS
| Osage County, KS
| Shawnee County, KS
| Wabaunsee County, KS
45940 | Trenton-Ewing, NJ | 1.1277
| Mercer County, NJ
46060 | Tucson, AZ | 0.9102
| Pima County, AZ
46140 | Tulsa, OK | 0.8717
| Creek County, OK
| Okmulgee County, OK
| Osage County, OK
| Pawnee County, OK
| Rogers County, OK
| Tulsa County, OK
| Wagoner County, OK
46220 | Tuscaloosa, AL | 0.8339
| Greene County, AL
| Hale County, AL
| Tuscaloosa County, AL
46340 | Tyler, TX | 0.9516
| Smith County, TX
46540 | Utica-Rome, NY | 0.8316
| Herkimer County, NY
| Oneida County, NY
46660 | Valdosta, GA | 0.8334
| Brooks County, GA
| Echols County, GA
| Lanier County, GA
| Lowndes County, GA
46700 | Vallejo-Fairfield, CA | 1.4269
| Solano County, CA
46940 | Vero Beach, FL | 0.9492
| Indian River County, FL
47020 | Victoria, TX | 0.8456
| Calhoun County, TX
| Goliad County, TX
| Victoria County, TX
47220 | Vineland-Millville-Bridgeton, NJ | 1.1277
| Cumberland County, NJ
47260 | Virginia Beach-Norfolk-Newport News, VA-NC | 0.8928
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | *Visalia-Porterville, CA | 1.0450
| Tulare County, CA
47380 | Waco, TX | 0.8151
| McLennan County, TX
47580 | Warner Robins, GA | 0.8496
| Houston County, GA
47644 | Warren-Farmington Hills-Troy, MI | 1.0109
| Lapeer County, MI
| Livingston County, MI
| Macomb County, MI
| Oakland County, MI
| St. Clair County, MI
47894 | Washington-Arlington-Alexandria, DC-VA-MD-WV | 1.1026
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8629
| Black Hawk County, IA
| Bremer County, IA
| Grundy County, IA
48140 | Wausau, WI | 0.9628
| Marathon County, WI
48260 | *Weirton-Steubenville, WV-OH (OH Hospitals) | 0.8692
| Jefferson County, OH
| Brooke County, WV
| Hancock County, WV
48260 | Weirton-Steubenville, WV-OH (WV Hospitals) | 0.8274
| Jefferson County, OH
| Brooke County, WV
| Hancock County, WV
48300 | *Wenatchee, WA | 1.0949
| Chelan County, WA
| Douglas County, WA
48424 | West Palm Beach-Boca Raton-Boynton Beach, FL | 1.0348
| Palm Beach County, FL
48540 | *Wheeling, WV-OH (OH Hospitals) | 0.8692
| Belmont County, OH
| Marshall County, WV
| Ohio County, WV
48540 | *Wheeling, WV-OH (WV Hospitals) | 0.7882
| Belmont County, OH
| Marshall County, WV
| Ohio County, WV
48620 | Wichita, KS | 0.9472
| Butler County, KS
| Harvey County, KS
| Sedgwick County, KS
| Sumner County, KS
48660 | Wichita Falls, TX | 0.8365
| Archer County, TX
| Clay County, TX
| Wichita County, TX
48700 | Williamsport, PA | 0.8476
| Lycoming County, PA
48864 | Wilmington, DE-MD-NJ (DE and MD Hospitals) | 1.1095
| New Castle County, DE
| Cecil County, MD
| Salem County, NJ
48864 | *Wilmington, DE-MD-NJ (NJ Hospitals) | 1.1277
| New Castle County, DE
| Cecil County, MD
| Salem County, NJ
48900 | Wilmington, NC | 0.9225
| Brunswick County, NC
| New Hanover County, NC
| Pender County, NC
49020 | Winchester, VA-WV | 1.0486
| Frederick County, VA
| Winchester City, VA
| Hampshire County, WV
49180 | Winston-Salem, NC | 0.9410
| Davie County, NC
| Forsyth County, NC
| Stokes County, NC
| Yadkin County, NC
49340 | Worcester, MA | 1.1001
| Worcester County, MA
49420 | Yakima, WA | 1.0317
| Yakima County, WA
49500 | Yauco, PR | 0.4493
| Guánica Municipio, PR
| Guayanilla Municipio, PR
| Peñuelas Municipio, PR
| Yauco Municipio, PR
49620 | York-Hanover, PA | 0.9152
| York County, PA
49660 | Youngstown-Warren-Boardman, OH-PA | 0.9234
| Mahoning County, OH
| Trumbull County, OH
| Mercer County, PA
49700 | *Yuba City, CA | 1.0450
| Sutter County, CA
| Yuba County, CA
49740 | *Yuma, AZ | 0.9102
| Yuma County, AZ
*Hospitals geographically located in the area are assigned the statewide rural wage index for FY 2005.

25. On pages 49579 through 49580, in Table 4H—Pre-Reclassified Wage Index for Rural Areas, the table is corrected to read as follows:

Table 4H.—Pre-Reclassified Wage Index for Rural Areas
CBSA code | Nonurban area | Wage index
01 | Alabama | 0.7646
02 | Alaska | 1.1733
03 | Arizona | 0.9102
04 | Arkansas | 0.7433
05 | California | 1.0450
06 | Colorado | 0.9356
07 | Connecticut | 1.1583
08 | Delaware | 0.9504
10 | Florida | 0.8545
11 | Georgia | 0.7752
12 | Hawaii | 1.0558
13 | Idaho | 0.8525
14 | Illinois | 0.8346
15 | Indiana | 0.8657
16 | Iowa | 0.8478
17 | Kansas | 0.8123
18 | Kentucky | 0.7769
19 | Louisiana | 0.7370
20 | Maine | 0.9027
21 | Maryland | 0.9225
22 | Massachusetts ¹ | 1.0439
23 | Michigan | 0.8783
24 | Minnesota | 0.9330
25 | Mississippi | 0.7649
26 | Missouri | 0.8009
27 | Montana | 0.8693
28 | Nebraska | 0.9040
29 | Nevada | 0.9286
30 | New Hampshire | 0.9931
31 | New Jersey ¹ | 1.1277
32 | New Mexico | 0.8684
33 | New York | 0.8166
34 | North Carolina | 0.8570
35 | North Dakota | 0.7750
36 | Ohio | 0.8692
37 | Oklahoma | 0.7711
38 | Oregon | 0.9931
39 | Pennsylvania | 0.8309
40 | Puerto Rico ¹ |
41 | Rhode Island ¹ | 0.9244
42 | South Carolina | 0.8705
43 | South Dakota | 0.8390
44 | Tennessee | 0.7896
45 | Texas | 0.7997
46 | Utah | 0.8297
47 | Vermont | 0.9356
49 | Virginia | 0.8062
50 | Washington | 0.9837
51 | West Virginia | 0.7882
52 | Wisconsin | 0.9489
53 | Wyoming | 0.9172
¹ All counties within the State are classified as urban.

26. On pages 49580 through 49591, in Table 4J—Out Migration Adjustment, the table is corrected to read as follows:

The following list represents all hospitals that are eligible to have their wage index increased by the out-migration adjustment listed in this table. Hospitals cannot receive the out-migration adjustment if they are reclassified under section 1886(d)(10) of the Act or redesignated under section 1886(d)(8)(B) of the Act. Hospitals that have already been reclassified under section 1886(d)(10) of the Act or redesignated under section 1886(d)(8)(B) of the Act are designated with an asterisk. Hospitals have the opportunity to use the new additional 30-day period to review their individual situation to determine whether to submit a request to withdraw their reclassification/redesignation and receive the out-migration adjustment instead. We will automatically assume that hospitals that have already been reclassified under section 1886(d)(10) of the Act or redesignated under section 1886(d)(8)(B) of the Act wish to retain their reclassification/redesignation status and waive the application of the out-migration adjustment. Hospitals are not required to provide CMS with any type of formal notification that they wish to remain reclassified/redesignated.

Table 4J.—Out-Migration Adjustment
Provider No. | Out- migration adjustment | Qualifying county name
010005* | 0.0259 | Marshall
010008* | 0.0212 | Crenshaw
010010 | 0.0259 | Marshall
010012 | 0.0205 | De Kalb
010022* | 0.0714 | Cherokee
010029* | 0.0107 | Lee
010035* | 0.0375 | Cullman
010038 | 0.0062 | Calhoun
010045* | 0.0160 | Fayette
010047 | 0.0155 | Butler
010061 | 0.0506 | Jackson
010072* | 0.0310 | Talladega
010078 | 0.0062 | Calhoun
010083 | 0.0121 | Baldwin
010100 | 0.0121 | Baldwin
010101* | 0.0310 | Talladega
010115 | 0.0093 | Franklin
010129 | 0.0121 | Baldwin
010143* | 0.0375 | Cullman
010146 | 0.0062 | Calhoun
010150* | 0.0155 | Butler
010158* | 0.0093 | Franklin
040014* | 0.0159 | White
040019* | 0.0697 | St. Francis
040047* | 0.0090 | Randolph
040066* | 0.0382 | Clark
040069* | 0.0140 | Mississippi
040070* | 0.0140 | Mississippi
040071 | 0.0026 | Jefferson
040076 | 0.1075 | Hot Spring
040100 | 0.0159 | White
040143 | 0.0026 | Jefferson
050009 | 0.0478 | Napa
050013 | 0.0478 | Napa
050014* | 0.0131 | Amador
050042* | 0.0219 | Tehama
050046* | 0.0156 | Ventura
050065 | 0.0029 | Orange
050069 | 0.0029 | Orange
050073* | 0.0269 | Solano
050082* | 0.0156 | Ventura
050084 | 0.0555 | San Joaquin
050089 | 0.0152 | San Bernardino
050090 | 0.0308 | Sonoma
050099 | 0.0152 | San Bernardino
050101 | 0.0269 | Solano
050117 | 0.0463 | Merced
050118 | 0.0555 | San Joaquin
050122 | 0.0555 | San Joaquin
050129 | 0.0152 | San Bernardino
050133 | 0.0170 | Yuba
050136 | 0.0308 | Sonoma
050140 | 0.0152 | San Bernardino
050150* | 0.0316 | Nevada
050159* | 0.0156 | Ventura
050167 | 0.0555 | San Joaquin
050168 | 0.0029 | Orange
050173 | 0.0029 | Orange
050174* | 0.0308 | Sonoma
050177* | 0.0156 | Ventura
050193 | 0.0029 | Orange
050224 | 0.0029 | Orange
050226 | 0.0029 | Orange
050230 | 0.0029 | Orange
050236* | 0.0156 | Ventura
050245 | 0.0152 | San Bernardino
050253 | 0.0029 | Orange
050272 | 0.0152 | San Bernardino
050279 | 0.0152 | San Bernardino
050291 | 0.0308 | Sonoma
050298 | 0.0152 | San Bernardino
050300 | 0.0152 | San Bernardino
050313 | 0.0555 | San Joaquin
050325* | 0.0176 | Tuolumne
050327 | 0.0152 | San Bernardino
050331 | 0.0308 | Sonoma
050335 | 0.0176 | Tuolumne
050336 | 0.0555 | San Joaquin
050348 | 0.0029 | Orange
050367 | 0.0269 | Solano
050385 | 0.0308 | Sonoma
050394* | 0.0156 | Ventura
050426 | 0.0029 | Orange
050444 | 0.0463 | Merced
050469* | 0.0152 | San Bernardino
050476 | 0.0257 | Lake
050491 | 0.0029 | Orange
050494* | 0.0316 | Nevada
050517 | 0.0152 | San Bernardino
050526 | 0.0029 | Orange
050528* | 0.0463 | Merced
050535 | 0.0029 | Orange
050539 | 0.0257 | Lake
050543 | 0.0029 | Orange
050547 | 0.0308 | Sonoma
050548 | 0.0029 | Orange
050549* | 0.0156 | Ventura
050550 | 0.0029 | Orange
050551 | 0.0029 | Orange
050567 | 0.0029 | Orange
050568 | 0.0062 | Madera
050570 | 0.0029 | Orange
050580 | 0.0029 | Orange
050584 | 0.0152 | San Bernardino
050585 | 0.0029 | Orange
050586 | 0.0152 | San Bernardino
050589 | 0.0029 | Orange
050592 | 0.0029 | Orange
050594 | 0.0029 | Orange
050603 | 0.0029 | Orange
050609* | 0.0029 | Orange
050616* | 0.0156 | Ventura
050618* | 0.0152 | San Bernardino
050667 | 0.0478 | Napa
050678 | 0.0029 | Orange
050680 | 0.0269 | Solano
050690* | 0.0308 | Sonoma
050693 | 0.0029 | Orange
050695 | 0.0555 | San Joaquin
050720 | 0.0029 | Orange
050728 | 0.0308 | Sonoma
060001* | 0.0294 | Weld
060003* | 0.0203 | Boulder
060027* | 0.0203 | Boulder
060103* | 0.0203 | Boulder
070003* | 0.0009 | Windham
070006* | 0.0047 | Fairfield
070010* | 0.0047 | Fairfield
070018* | 0.0047 | Fairfield
070020 | 0.0073 | Middlesex
070021* | 0.0009 | Windham
070028* | 0.0047 | Fairfield
070033* | 0.0047 | Fairfield
070034* | 0.0047 | Fairfield
100014 | 0.0118 | Volusia
100017 | 0.0118 | Volusia
100045* | 0.0118 | Volusia
100047 | 0.0021 | Charlotte
100062 | 0.0060 | Marion
100068 | 0.0118 | Volusia
100072 | 0.0118 | Volusia
100077 | 0.0021 | Charlotte
100118 | 0.0398 | Flagler
100175 | 0.0231 | De Soto
100212 | 0.0060 | Marion
100232 | 0.0347 | Putnam
100236 | 0.0021 | Charlotte
100252 | 0.0233 | Okeechobee
110023* | 0.0500 | Gordon
110027 | 0.0387 | Franklin
110029* | 0.0063 | Hall
110041* | 0.0777 | Habersham
110063 | 0.0290 | Liberty
110069 | 0.0474 | Houston
110120* | 0.0873 | Polk
110124 | 0.0428 | Wayne
110136 | 0.0261 | Baldwin
110150* | 0.0261 | Baldwin
110153 | 0.0474 | Houston
110187* | 0.1172 | Lumpkin
110189* | 0.0031 | Fannin
110190 | 0.0182 | Macon
110205* | 0.0779 | Gilmer
130003* | 0.0095 | Nez Perce
130011 | 0.0218 | Latah
130024 | 0.0275 | Bonner
130049* | 0.0349 | Kootenai
140012* | 0.0220 | Lee
140026 | 0.0346 | La Salle
140033 | 0.0147 | Lake
140043* | 0.0046 | Whiteside
140058* | 0.0081 | Morgan
140084 | 0.0147 | Lake
140100 | 0.0147 | Lake
140110* | 0.0346 | La Salle
140129* | 0.0096 | Wabash
140130 | 0.0147 | Lake
140155* | 0.0027 | Kankakee
140160* | 0.0286 | Stephenson
140161* | 0.0138 | Livingston
140173* | 0.0046 | Whiteside
140186* | 0.0027 | Kankakee
140202 | 0.0147 | Lake
140205 | 0.0163 | Boone
140234* | 0.0346 | La Salle
140291 | 0.0147 | Lake
150022 | 0.0249 | Montgomery
150030* | 0.0201 | Henry
150035 | 0.0083 | Porter
150045 | 0.0416 | De Kalb
150062 | 0.0153 | Decatur
150065* | 0.0139 | Jackson
150076* | 0.0189 | Marshall
150088 | 0.0196 | Madison
150091 | 0.0573 | Huntington
150102* | 0.0160 | Starke
150113 | 0.0196 | Madison
150122 | 0.0199 | Ripley
160013 | 0.0218 | Muscatine
160026* | 0.0496 | Boone
160032 | 0.0272 | Jasper
160080* | 0.0049 | Clinton
160140 | 0.0364 | Plymouth
180012* | 0.0083 | Hardin
180066* | 0.0567 | Logan
180127* | 0.0352 | Franklin
180128 | 0.0282 | Lawrence
190001* | 0.0645 | Washington
190003* | 0.0107 | Iberia
190010 | 0.0401 | Tangipahoa
190015* | 0.0401 | Tangipahoa
190017 | 0.0235 | St. Landry
190049 | 0.0645 | Washington
190054* | 0.0107 | Iberia
190078 | 0.0235 | St. Landry
190088 | 0.0705 | Webster
190099* | 0.0390 | Avoyelles
190106* | 0.0238 | Allen
190133 | 0.0238 | Allen
190144 | 0.0705 | Webster
190147* | 0.0401 | Tangipahoa
190148* | 0.0390 | Avoyelles
190191 | 0.0235 | St. Landry
200002* | 0.0129 | Lincoln
200013 | 0.0186 | Waldo
200024* | 0.0071 | Androscoggin
200034* | 0.0071 | Androscoggin
200050* | 0.0140 | Hancock
210001 | 0.0129 | Washington
210004 | 0.0040 | Montgomery
210016 | 0.0040 | Montgomery
210018 | 0.0040 | Montgomery
210022 | 0.0040 | Montgomery
210023 | 0.0209 | Anne Arundel
210043 | 0.0209 | Anne Arundel
210048 | 0.0287 | Howard
210057 | 0.0040 | Montgomery
220001 | 0.0056 | Worcester
220002 | 0.0249 | Middlesex
220003 | 0.0056 | Worcester
220006 | 0.0306 | Essex
220010 | 0.0306 | Essex
220011 | 0.0249 | Middlesex
220019 | 0.0056 | Worcester
220025 | 0.0056 | Worcester
220028 | 0.0056 | Worcester
220029 | 0.0306 | Essex
220033 | 0.0306 | Essex
220035 | 0.0306 | Essex
220049 | 0.0249 | Middlesex
220058 | 0.0056 | Worcester
220062 | 0.0056 | Worcester
220063 | 0.0249 | Middlesex
220070 | 0.0249 | Middlesex
220076 | 0.0249 | Middlesex
220080 | 0.0306 | Essex
220082 | 0.0249 | Middlesex
220084 | 0.0249 | Middlesex
220089 | 0.0249 | Middlesex
220090 | 0.0056 | Worcester
220095 | 0.0056 | Worcester
220098 | 0.0249 | Middlesex
220101 | 0.0249 | Middlesex
220105 | 0.0249 | Middlesex
220163 | 0.0056 | Worcester
220171 | 0.0249 | Middlesex
220174 | 0.0306 | Essex
230003* | 0.0035 | Ottawa
230013* | 0.0091 | Oakland
230015 | 0.0359 | St. Joseph
230019* | 0.0091 | Oakland
230021 | 0.0136 | Berrien
230022* | 0.0113 | Branch
230029* | 0.0091 | Oakland
230037* | 0.0178 | Hillsdale
230041 | 0.0099 | Bay
230042* | 0.0685 | Allegan
230047 | 0.0082 | Macomb
230069 | 0.0487 | Livingston
230071* | 0.0091 | Oakland
230072* | 0.0035 | Ottawa
230075 | 0.0145 | Calhoun
230078* | 0.0136 | Berrien
230092 | 0.0389 | Jackson
230093* | 0.0079 | Mecosta
230096* | 0.0359 | St. Joseph
230099 | 0.0339 | Monroe
230106* | 0.0030 | Newaygo
230121* | 0.0691 | Shiawassee
230130* | 0.0091 | Oakland
230151* | 0.0091 | Oakland
230174* | 0.0035 | Ottawa
230184 | 0.0389 | Jackson
230195 | 0.0082 | Macomb
230204 | 0.0082 | Macomb
230207* | 0.0091 | Oakland
230217 | 0.0145 | Calhoun
230222 | 0.0228 | Midland
230223* | 0.0091 | Oakland
230227 | 0.0082 | Macomb
230254* | 0.0091 | Oakland
230257 | 0.0082 | Macomb
230264 | 0.0082 | Macomb
230269* | 0.0091 | Oakland
230277* | 0.0091 | Oakland
230279 | 0.0487 | Livingston
230295 | 0.0685 | Allegan
240011* | 0.0506 | Mc Leod
240013* | 0.0226 | Morrison
240014 | 0.0454 | Rice
240018* | 0.1196 | Goodhue
240044 | 0.0868 | Winona
240064* | 0.0138 | Itasca
240069* | 0.0419 | Steele
240071* | 0.0454 | Rice
240089* | 0.1196 | Goodhue
240133 | 0.0319 | Meeker
240152* | 0.0735 | Kanabec
240154 | 0.0138 | Itasca
240187* | 0.0506 | Mc Leod
240205 | 0.0138 | Itasca
240211* | 0.0705 | Pine
250030* | 0.0318 | Leake
250040 | 0.0294 | Jackson
250045 | 0.0042 | Hancock
250088* | 0.0122 | Wilkinson
250154* | 0.0318 | Leake
260011* | 0.0007 | Cole
260047* | 0.0007 | Cole
260074 | 0.0158 | Randolph
260097 | 0.0425 | Johnson
260127 | 0.0158 | Pike
280054* | 0.0137 | Gage
280077* | 0.0089 | Dodge
280123 | 0.0137 | Gage
290019* | 0.0026 | Carson City
300017 | 0.0361 | Rockingham
300023 | 0.0361 | Rockingham
300029 | 0.0361 | Rockingham
310002* | 0.0351 | Essex
310009 | 0.0351 | Essex
310013 | 0.0351 | Essex
310018 | 0.0351 | Essex
310038* | 0.0350 | Middlesex
310039 | 0.0350 | Middlesex
310054 | 0.0351 | Essex
310070* | 0.0350 | Middlesex
310076* | 0.0351 | Essex
310078 | 0.0351 | Essex
310083 | 0.0351 | Essex
310093 | 0.0351 | Essex
310096 | 0.0351 | Essex
310108 | 0.0350 | Middlesex
310119* | 0.0351 | Essex
320018 | 0.0063 | Dona Ana
320085 | 0.0063 | Dona Ana
330001 | 0.0560 | Orange
330004* | 0.0959 | Ulster
330008* | 0.0470 | Wyoming
330027* | 0.0137 | Nassau
330094** | 0.0778 | Columbia
330106* | 0.0137 | Nassau
330126* | 0.0560 | Orange
330135* | 0.0560 | Orange
330167 | 0.0137 | Nassau
330181* | 0.0137 | Nassau
330182* | 0.0137 | Nassau
330191 | 0.0026 | Warren
330198 | 0.0137 | Nassau
330205* | 0.0560 | Orange
330209 | 0.0560 | Orange
330224* | 0.0959 | Ulster
330225 | 0.0137 | Nassau
330235* | 0.0270 | Cayuga
330259 | 0.0137 | Nassau
330264* | 0.0560 | Orange
330276 | 0.0063 | Fulton
330331 | 0.0137 | Nassau
330332 | 0.0137 | Nassau
330333 | 0.0137 | Nassau
330372 | 0.0137 | Nassau
330386* | 0.1139 | Sullivan
330402 | 0.0959 | Ulster
340015 | 0.0267 | Rowan
340020 | 0.0207 | Lee
340021* | 0.0216 | Cleveland
340037 | 0.0216 | Cleveland
340039* | 0.0144 | Iredell
340069 | 0.0053 | Wake
340070 | 0.0448 | Alamance
340073 | 0.0053 | Wake
340085 | 0.0377 | Davidson
340088* | 0.0115 | Transylvania
340096 | 0.0377 | Davidson
340104 | 0.0216 | Cleveland
340114 | 0.0053 | Wake
340126* | 0.0161 | Wilson
340127* | 0.0961 | Granville
340129* | 0.0144 | Iredell
340138 | 0.0053 | Wake
340144* | 0.0144 | Iredell
340145* | 0.0563 | Lincoln
340173 | 0.0053 | Wake
360013 | 0.0166 | Shelby
360025* | 0.0087 | Erie
360034 | 0.0263 | Wayne
360036* | 0.0263 | Wayne
360065* | 0.0141 | Huron
360070 | 0.0028 | Stark
360078* | 0.0159 | Portage
360084 | 0.0028 | Stark
360086 | 0.0168 | Clark
360093 | 0.0120 | Defiance
360095* | 0.0087 | Hancock
360099* | 0.0087 | Hancock
360100 | 0.0028 | Stark
360107* | 0.0213 | Sandusky
360131 | 0.0028 | Stark
360151 | 0.0028 | Stark
360156 | 0.0213 | Sandusky
360175* | 0.0159 | Clinton
360187 | 0.0168 | Clark
360197* | 0.0092 | Logan
370004* | 0.0193 | Ottawa
370014* | 0.0831 | Bryan
370015* | 0.0463 | Mayes
370023 | 0.0084 | Stephens
370043* | 0.0294 | Marshall
370065 | 0.0121 | Craig
370113* | 0.0205 | Delaware
370149 | 0.0356 | Pottawatomie
370179 | 0.0314 | Okfuskee
380002 | 0.0130 | Josephine
380008* | 0.0201 | Linn
380022* | 0.0201 | Linn
390011 | 0.0012 | Cambria
390044 | 0.0200 | Berks
390046 | 0.0098 | York
390056 | 0.0042 | Huntingdon
390065* | 0.0501 | Adams
390066 | 0.0259 | Lebanon
390096 | 0.0200 | Berks
390101 | 0.0098 | York
390110* | 0.0012 | Cambria
390130 | 0.0012 | Cambria
390138* | 0.0325 | Franklin
390146 | 0.0053 | Warren
390150* | 0.0206 | Greene
390151* | 0.0325 | Franklin
390201* | 0.1127 | Monroe
390233 | 0.0098 | York
420007 | 0.0001 | Spartanburg
420020* | 0.0035 | Georgetown
420027 | 0.0210 | Anderson
420030* | 0.0103 | Colleton
420043 | 0.0177 | Cherokee
420068* | 0.0097 | Orangeburg
420070* | 0.0101 | Sumter
420083 | 0.0001 | Spartanburg
420093 | 0.0001 | Spartanburg
420098 | 0.0035 | Georgetown
440008* | 0.0663 | Henderson
440024 | 0.0387 | Bradley
440035 | 0.0441 | Montgomery
440047 | 0.0499 | Gibson
440056 | 0.0321 | Jefferson
440060* | 0.0499 | Gibson
440063 | 0.0011 | Washington
440073* | 0.0513 | Maury
440105 | 0.0011 | Washington
440114 | 0.0523 | Lauderdale
440115 | 0.0499 | Gibson
440143 | 0.0448 | Marshall
440148* | 0.0568 | De Kalb
440174 | 0.0372 | Haywood
440181 | 0.0407 | Hardeman
440184 | 0.0011 | Washington
440185* | 0.0387 | Bradley
450032* | 0.0416 | Harrison
450039 | 0.0097 | Tarrant
450050 | 0.0750 | Ward
450059 | 0.0073 | Comal
450064 | 0.0097 | Tarrant
450087 | 0.0097 | Tarrant
450099* | 0.0180 | Gray
450113 | 0.0195 | Anderson
450121 | 0.0097 | Tarrant
450135 | 0.0097 | Tarrant
450137 | 0.0097 | Tarrant
450144* | 0.0573 | Andrews
450163 | 0.0134 | Kleberg
450187* | 0.0264 | Washington
450194* | 0.0328 | Cherokee
450214* | 0.0368 | Wharton
450224* | 0.0411 | Wood
450347* | 0.0427 | Walker
450362 | 0.0486 | Burnet
450370 | 0.0258 | Colorado
450389* | 0.0881 | Henderson
450395 | 0.0484 | Polk
450419 | 0.0097 | Tarrant
450438 | 0.0258 | Colorado
450447* | 0.0358 | Navarro
450451* | 0.0551 | Somervell
450465 | 0.0435 | Matagorda
450547* | 0.0411 | Wood
450563* | 0.0097 | Tarrant
450596 | 0.0808 | Hood
450597 | 0.0077 | De Witt
450623* | 0.0492 | Fannin
450626 | 0.0294 | Jackson
450639 | 0.0097 | Tarrant
450672 | 0.0097 | Tarrant
450675 | 0.0097 | Tarrant
450677 | 0.0097 | Tarrant
450694* | 0.0368 | Wharton
450747* | 0.0195 | Anderson
450755* | 0.0484 | Hockley
450763 | 0.0236 | Hutchinson
450779 | 0.0097 | Tarrant
450813 | 0.0195 | Anderson
450858 | 0.0097 | Tarrant
460017 | 0.0392 | Box Elder
460036* | 0.0700 | Wasatch
460039* | 0.0392 | Box Elder
470018 | 0.0287 | Windsor
470023 | 0.0118 | Caledonia
490019 | 0.1240 | Culpeper
490038 | 0.0022 | Smyth
490047* | 0.0198 | Page
490084 | 0.0167 | Essex
490105 | 0.0022 | Smyth
490110 | 0.0082 | Montgomery
500003* | 0.0208 | Skagit
500007 | 0.0208 | Skagit
500019 | 0.0213 | Lewis
500021 | 0.0055 | Pierce
500024 | 0.0023 | Thurston
500039* | 0.0174 | Kitsap
500041* | 0.0118 | Cowlitz
500079 | 0.0055 | Pierce
500108 | 0.0055 | Pierce
500118* | 0.0548 | Mason
500122* | 0.0459 | Island
500129 | 0.0055 | Pierce
500139 | 0.0023 | Thurston
500143 | 0.0023 | Thurston
510018* | 0.0209 | Jackson
510028* | 0.0141 | Fayette
510039 | 0.0112 | Ohio
510047* | 0.0275 | Marion
510050 | 0.0112 | Ohio
510088 | 0.0141 | Fayette
520028* | 0.0157 | Green
520035 | 0.0077 | Sheboygan
520042 | 0.0118 | Sauk
520044 | 0.0077 | Sheboygan
520057 | 0.0118 | Sauk
520059* | 0.0200 | Racine
520071* | 0.0239 | Jefferson
520094* | 0.0200 | Racine
520095 | 0.0118 | Sauk
520096* | 0.0200 | Racine
520102* | 0.0298 | Walworth
520116* | 0.0239 | Jefferson
520132 | 0.0077 | Sheboygan
* Hospitals that have already been reclassified under section 1886(d)(10) of the Act or redesignated under section 1886(d)(8) of the Act. These hospitals will retain their reclassification/redesignation status, and will not receive this out-migration adjustment unless they inform CMS that they would like to waive their reclassification/redesignation status.
** This hospital was redesignated under section 1886(d)(8) of the Act, however, the hospital informed CMS that it wished to withdraw redesignation, and receive the out-migration adjustment instead. This hospital will thus receive the out-migration adjustment listed in the table.

27. On pages 49690 through 49704, in Table 9A1—Hospital Reclassifications and Resdesignations by Individual Hospital and by MSA, the table is corrected to read as follows:

Table 9A1.—Hospital Reclassifications and Resdesignations by Individual Hospital and by MSA
Provider No. | Actual MSA or rural area | Wage index MSA reclassification | Lugar
010005 | 01 | 1000
010008 | 01 | 5240
010010 | 01 | 3440 | Lugar
010029 | 0580 | 1800
010035 | 01 | 1000
010043 | 01 | 1000 | Lugar
010045 | 01 | 8600
010065 | 01 | 0580
010072 | 01 | 0450 | Lugar
010101 | 01 | 0450 | Lugar
010118 | 01 | 5240
010120 | 01 | 5160
010126 | 01 | 5240
010143 | 01 | 1000
010158 | 01 | 2030
020005 | 02 | 0380
020006 | 02 | 0380
030007 | 03 | 2620
030012 | 03 | 6200
030033 | 03 | 2620
040014 | 04 | 4400
040017 | 04 | 7920
040019 | 04 | 4920
040020 | 3700 | 4920
040027 | 04 | 7920
040041 | 04 | 4400
040047 | 04 | 26
040066 | 04 | 4400
040069 | 04 | 4920
040072 | 04 | 4400
040080 | 04 | 3700
040088 | 04 | 7680
040091 | 04 | 8360
040119 | 04 | 4400
050014 | 05 | 6920
050042 | 05 | 6690
050046 | 8735 | 4480
050071 | 7400 | 5775
050073 | 8720 | 5775
050076 | 7360 | 5775
050082 | 8735 | 4480
050150 | 05 | 6920
050159 | 8735 | 4480
050174 | 7500 | 8720
050177 | 8735 | 4480
050228 | 7360 | 5775
050236 | 8735 | 4480
050251 | 05 | 6720
050296 | 05 | 7400
050325 | 05 | 5170
050394 | 8735 | 4480
050419 | 05 | 6690
050430 | 05 | 6720
050510 | 7360 | 5775
050541 | 7360 | 5775
050569 | 05 | 7500
050609 | 5945 | 4480
050616 | 8735 | 4480
050668 | 7360 | 5775
050686 | 6780 | 5945
050690 | 7500 | 8720
060001 | 3060 | 2080
060003 | 1125 | 2080
060027 | 1125 | 2080
060044 | 06 | 2080
060049 | 06 | 2670
060096 | 06 | 2080
060103 | 1125 | 2080
070015 | 3283 | 5600
070033 | 5483 | 5600
080004 | 2190 | 9160
080007 | 08 | 0560
100022 | 5000 | 2680
100023 | 10 | 5960
100024 | 10 | 5000
100045 | 2020 | 5960
100049 | 10 | 3980
100098 | 10 | 8960 | Lugar
100103 | 10 | 3600 | Lugar
100105 | 10 | 2710
100109 | 10 | 5960
100150 | 10 | 5000
100176 | 8960 | 2710
100217 | 10 | 2710
100249 | 10 | 5790
110001 | 11 | 0520
110002 | 11 | 0520
110003 | 11 | 3600
110016 | 11 | 1800
110023 | 11 | 0520
110025 | 11 | 3600
110029 | 11 | 0520
110038 | 11 | 10
110040 | 11 | 0500 | Lugar
110041 | 11 | 0500
110054 | 11 | 0520
110075 | 11 | 7520
110122 | 11 | 10
110128 | 11 | 7520
110150 | 11 | 4680
110168 | 11 | 0520
110187 | 11 | 0520
110189 | 11 | 0520
110205 | 11 | 0520
120028 | 12 | 3320
130002 | 13 | 29
130003 | 13 | 50
130018 | 13 | 6340
130026 | 13 | 6340
130049 | 13 | 7840
140012 | 14 | 1600
140015 | 14 | 7040
140027 | 14 | 1960
140032 | 14 | 7040
140034 | 14 | 7040
140040 | 14 | 1960
140043 | 14 | 6880
140046 | 14 | 7040
140058 | 14 | 7880
140064 | 14 | 1960
140086 | 14 | 7040 | Lugar
140093 | 14 | 1400
140102 | 14 | 7880 | Lugar
140110 | 14 | 6120
140137 | 14 | 7040
140141 | 14 | 7040 | Lugar
140143 | 14 | 6120
140160 | 14 | 6880
140161 | 14 | 1600
140164 | 14 | 7040
140189 | 14 | 1400
140230 | 14 | 1400 | Lugar
140234 | 14 | 6120
140271 | 14 | 7880 | Lugar
150002 | 2960 | 1600
150004 | 2960 | 1600
150006 | 15 | 7800
150008 | 2960 | 1600
150011 | 15 | 3480
150015 | 15 | 1600
150030 | 15 | 3480 | Lugar
150048 | 15 | 3200
150065 | 15 | 3480
150069 | 15 | 1640
150076 | 15 | 7800
150090 | 2960 | 1600
150112 | 15 | 3480
150125 | 2960 | 1600
150126 | 2960 | 1600
150132 | 2960 | 1600
150133 | 15 | 2330
150146 | 15 | 2330
150147 | 2960 | 1600
160001 | 16 | 2120
160016 | 16 | 2120
160037 | 16 | 24
160057 | 16 | 3500
160080 | 16 | 6880
160089 | 16 | 2120
160147 | 16 | 2120
170006 | 17 | 3710
170010 | 17 | 8560
170012 | 17 | 9040
170013 | 17 | 9040
170014 | 17 | 3760
170020 | 17 | 9040
170022 | 17 | 3760
170023 | 17 | 9040
170033 | 17 | 9040
170045 | 17 | 8440
170058 | 17 | 3710
170060 | 17 | 28
170094 | 17 | 8440
170120 | 17 | 3710
170131 | 17 | 8440 | Lugar
170145 | 17 | 8560
170175 | 17 | 9040
180005 | 18 | 3400
180011 | 18 | 4280
180012 | 18 | 4520
180013 | 18 | 5360
180016 | 18 | 4520
180018 | 18 | 4280
180027 | 18 | 1660
180028 | 18 | 3400
180029 | 18 | 3660
180044 | 18 | 3400
180066 | 18 | 5360
180069 | 18 | 3400
180078 | 18 | 3400
180080 | 18 | 4280
180093 | 18 | 2440
180102 | 18 | 1660
180104 | 18 | 1660
180116 | 18 | 1660
180124 | 18 | 5360
180127 | 18 | 4520
180132 | 18 | 4280
180139 | 18 | 4280
190001 | 19 | 5560
190003 | 19 | 3880
190015 | 19 | 5560
190054 | 19 | 3880
190086 | 19 | 7680
190099 | 19 | 3880
190106 | 19 | 3880
190131 | 19 | 5560
190164 | 19 | 0220
200002 | 20 | 6403
200020 | 6403 | 1123
200024 | 4243 | 6403
200034 | 4243 | 6403
200039 | 20 | 6403
200050 | 20 | 0733
200063 | 20 | 6403
220060 | 1123 | 0743
220077 | 8003 | 3283
230022 | 23 | 0440
230027 | 23 | 3000 | Lugar
230030 | 23 | 6960
230037 | 23 | 0440
230040 | 23 | 3720 | Lugar
230054 | 23 | 3080
230080 | 23 | 6960
230093 | 23 | 3000
230096 | 23 | 3720
230105 | 23 | 6960
230121 | 23 | 2640 | Lugar
230188 | 23 | 6960 | Lugar
230199 | 23 | 0870 | Lugar
230235 | 23 | 6960 | Lugar
230253 | 23 | 2160
240011 | 24 | 5120
240013 | 24 | 5120
240016 | 24 | 2520
240018 | 24 | 5120
240030 | 24 | 6980
240045 | 24 | 2240
240052 | 24 | 2520
240064 | 24 | 2240
240069 | 24 | 6820
240071 | 24 | 5120
240075 | 24 | 6980
240088 | 24 | 6980
240093 | 24 | 5120
240121 | 24 | 2240
240152 | 24 | 5120
240187 | 24 | 5120
240211 | 24 | 5120
250004 | 25 | 4920
250009 | 25 | 3580
250030 | 25 | 3560
250031 | 25 | 3560
250034 | 25 | 4920
250042 | 25 | 4920
250069 | 25 | 3560
250081 | 25 | 3560
250082 | 25 | 6240
250094 | 3285 | 0920
250097 | 25 | 0760
250099 | 25 | 3560
250100 | 25 | 8600
250104 | 25 | 3560
250126 | 25 | 4920
260009 | 26 | 3760
260011 | 26 | 1740
260015 | 26 | 3700
260017 | 26 | 7040
260022 | 26 | 1740
260025 | 26 | 7040
260034 | 26 | 3760
260047 | 26 | 1740
260064 | 26 | 1740
260078 | 26 | 7920
260094 | 26 | 7920
260110 | 26 | 7040
260113 | 26 | 14
260116 | 26 | 14
260183 | 26 | 7040
260186 | 26 | 1740
260195 | 26 | 7920
270003 | 27 | 3040
270011 | 27 | 3040
270017 | 27 | 5140
270051 | 27 | 5140
270082 | 27 | 3040
280009 | 28 | 4360
280023 | 28 | 4360
280032 | 28 | 4360
280054 | 28 | 4360
280057 | 28 | 4360
280061 | 28 | 53
280065 | 28 | 3060
280077 | 28 | 5920
280125 | 28 | 7720
290008 | 29 | 4120
290019 | 29 | 6720
300003 | 30 | 1123
300005 | 30 | 1123
310002 | 5640 | 5600
310003 | 3640 | 5600
310005 | 5015 | 5640
310015 | 5640 | 0875
310032 | 8760 | 6160
310034 | 5190 | 5015
310038 | 5015 | 5600
310045 | 0875 | 5600
310048 | 5015 | 5640
310070 | 5015 | 5600
310073 | 5190 | 5015
310075 | 5190 | 5015
310076 | 5640 | 5600
310111 | 5190 | 5015
310112 | 5190 | 5015
310119 | 5640 | 5600
320005 | 32 | 0200
320006 | 32 | 7490
320013 | 32 | 7490
320063 | 32 | 5800
320065 | 32 | 5800
330004 | 33 | 5660
330023 | 2281 | 5660
330027 | 5380 | 5600
330084 | 33 | 1303
330085 | 33 | 8160
330136 | 33 | 8160
330157 | 33 | 8160
330181 | 5380 | 5600
330182 | 5380 | 5600
330224 | 33 | 3283
330239 | 3610 | 2360
330250 | 33 | 1303
330386 | 33 | 5660
340008 | 34 | 2560
340010 | 2980 | 6640
340013 | 34 | 1520
340017 | 34 | 0480
340021 | 34 | 1520
340023 | 34 | 0480
340027 | 34 | 3150
340039 | 34 | 1520
340050 | 34 | 2560
340051 | 34 | 3290
340068 | 34 | 9200
340071 | 34 | 6640 | Lugar
340088 | 34 | 0480
340109 | 34 | 5720
340115 | 34 | 6640
340124 | 34 | 6640 | Lugar
340126 | 34 | 6640 | Lugar
340127 | 34 | 6640
340129 | 34 | 1520
340131 | 34 | 3150
340144 | 34 | 1520
340147 | 6895 | 6640
350009 | 35 | 2520
360008 | 36 | 3400
360010 | 36 | 0080
360011 | 36 | 1840
360014 | 36 | 1840
360025 | 36 | 1680
360036 | 36 | 1680
360039 | 36 | 1840
360046 | 3200 | 1640
360054 | 36 | 1480
360056 | 3200 | 1640
360065 | 36 | 1680
360071 | 36 | 4320 | Lugar
360076 | 3200 | 1640
360078 | 0080 | 1680
360095 | 36 | 4320
360107 | 36 | 8400
360112 | 8400 | 0440
360121 | 36 | 0440
360132 | 3200 | 1640
360159 | 36 | 1840
360175 | 36 | 1840
360197 | 36 | 1840
370004 | 37 | 3710
370014 | 37 | 7640
370015 | 37 | 8560
370018 | 37 | 8560
370025 | 37 | 8560
370034 | 37 | 2720
370043 | 37 | 7640
370047 | 37 | 7640
370049 | 37 | 5880
370054 | 37 | 5880
370060 | 37 | 8560
370099 | 37 | 8560
370103 | 37 | 45
370113 | 37 | 2580
370200 | 37 | 5880
380001 | 38 | 6440
380022 | 38 | 1890
380027 | 38 | 2400
380040 | 38 | 2400
380050 | 38 | 4890
380070 | 38 | 6440
390006 | 39 | 3240
390013 | 39 | 3240
390030 | 39 | 0240
390048 | 39 | 3240
390052 | 39 | 0280
390065 | 39 | 8840
390086 | 39 | 8050
390091 | 39 | 6280
390093 | 39 | 6280
390110 | 3680 | 6280
390113 | 39 | 9320
390138 | 39 | 8840
390151 | 39 | 8840
390163 | 39 | 6280
390201 | 39 | 5660
400120 | 1310 | 7440
410001 | 6483 | 1123
410004 | 6483 | 1123
410005 | 6483 | 1123
410006 | 6483 | 1123
410007 | 6483 | 1123
410008 | 6483 | 1123
410009 | 6483 | 1123
410011 | 6483 | 1123
410012 | 6483 | 1123
410013 | 6483 | 1123
420020 | 42 | 1440
420030 | 42 | 1440
420036 | 42 | 1520
420068 | 42 | 0600
420070 | 8140 | 1760
420071 | 42 | 0600
420080 | 42 | 7520
420085 | 5330 | 9200
430012 | 43 | 7760
430014 | 43 | 2520
430094 | 43 | 53
440008 | 44 | 3580
440020 | 44 | 3440
440050 | 44 | 0480
440058 | 44 | 1560
440059 | 44 | 5360
440060 | 44 | 3580
440067 | 44 | 3840
440068 | 44 | 1560
440072 | 44 | 4920
440073 | 44 | 5360
440148 | 44 | 5360
440151 | 44 | 5360
440175 | 44 | 3440
440180 | 44 | 3840
440185 | 44 | 1560
440186 | 44 | 5360
440192 | 44 | 5360
440200 | 44 | 5360
450007 | 45 | 7240
450014 | 45 | 8750
450073 | 45 | 0040
450080 | 45 | 4420
450098 | 45 | 4420
450099 | 45 | 0320
450144 | 45 | 5800
450187 | 45 | 3360
450192 | 45 | 1920
450194 | 45 | 1920
450196 | 45 | 1920
450211 | 45 | 3360
450214 | 45 | 3360
450224 | 45 | 8640
450347 | 45 | 3360
450351 | 45 | 2800
450400 | 45 | 8800
450447 | 45 | 1920
450451 | 45 | 2800
450484 | 45 | 3360
450508 | 45 | 8640
450534 | 45 | 0320
450547 | 45 | 1920
450563 | 2800 | 1920
450623 | 45 | 1920
450653 | 45 | 5800
450656 | 45 | 8640
450694 | 45 | 3360
450747 | 45 | 1920
450755 | 45 | 4600
450770 | 45 | 0640
450830 | 45 | 5800
460021 | 46 | 4120
460029 | 46 | 6520
460036 | 46 | 6520
460039 | 46 | 7160
470001 | 47 | 30
470011 | 47 | 1123
470012 | 47 | 6323
490004 | 49 | 1540
490005 | 49 | 8840
490013 | 49 | 4640
490018 | 49 | 1540
490047 | 49 | 8840
490079 | 49 | 3120
490092 | 49 | 5720
490126 | 49 | 6800
500002 | 50 | 6740
500003 | 50 | 7600
500016 | 50 | 7600
500031 | 50 | 5910
500039 | 1150 | 7600
500041 | 50 | 6440
500059 | 50 | 7600
500072 | 50 | 7600
510001 | 51 | 6280
510002 | 51 | 6800
510006 | 51 | 6280
510024 | 51 | 6280
510028 | 51 | 1480
510046 | 51 | 1480
510047 | 51 | 6280
510048 | 51 | 3400
510070 | 51 | 1480
510071 | 51 | 1480
520002 | 52 | 8940
520021 | 3800 | 1600
520028 | 52 | 4720
520032 | 52 | 4720
520037 | 52 | 8940
520059 | 6600 | 5080
520066 | 3620 | 4720
520071 | 52 | 5080 | Lugar
520076 | 52 | 4720
520084 | 52 | 4720
520088 | 52 | 5080
520094 | 6600 | 5080
520096 | 6600 | 5080
520102 | 52 | 1600 | Lugar
520107 | 52 | 3080
520113 | 52 | 3080
520116 | 52 | 5080 | Lugar
520152 | 52 | 3080
520173 | 52 | 2240
520189 | 3800 | 1600
530002 | 53 | 1350
530009 | 53 | 1350
530016 | 53 | 6340
530025 | 53 | 2670

28. On pages 49704 through 49720, in Table 9A2—Hospital Reclassifications and Redesignations by Individual Hospital and by CBSA, is corrected to read as follows:

Table 9A2.—Hospital Reclassifications and Redesignations by Individual Hospital and by CBSA
Provider No. | Actual CBSA or rural area | Wage index CBSA reclassification | Lugar | Nearest county
010005 | 01 | 13820
010008 | 01 | 33860
010022 | 01 | 40660 | Lugar
010029 | 12220 | 17980
010035 | 01 | 13820
010045 | 01 | 46220
010065 | 01 | 12220
010072 | 01 | 11500 | Lugar
010101 | 01 | 11500 | Lugar
010118 | 01 | 33860
010120 | 01 | 33660 |  | Baldwin
010126 | 01 | 33860
010143 | 01 | 13820
010158 | 01 | 19460
020005 | 02 | 11260
030007 | 03 | 22380
030012 | 39140 | 38060
030033 | 03 | 22380
040014 | 04 | 30780
040017 | 04 | 44180
040019 | 04 | 32820
040020 | 27860 | 32820
040027 | 04 | 44180
040041 | 04 | 30780
040047 | 04 | 26
040066 | 04 | 30780
040069 | 04 | 32820
040072 | 04 | 30780
040080 | 04 | 27860
040088 | 04 | 43340 |  | Bossier
040091 | 04 | 45500
040119 | 04 | 30780
050014 | 05 | 40900
050042 | 05 | 39820
050046 | 37100 | 31084
050071 | 41940 | 36084
050073 | 46700 | 36084
050076 | 41884 | 36084
050082 | 37100 | 31084
050150 | 05 | 40900
050159 | 37100 | 31084
050174 | 42220 | 34900 |  | Napa
050177 | 37100 | 31084
050228 | 41884 | 36084
050236 | 37100 | 31084
050251 | 05 | 39900
050325 | 05 | 33700
050394 | 37100 | 31084
050419 | 05 | 39820
050430 | 05 | 39900
050510 | 41884 | 36084
050541 | 41884 | 36084
050569 | 05 | 42220
050609 | 42044 | 31084
050616 | 37100 | 31084
050668 | 41884 | 36084
050686 | 40140 | 42044
050690 | 42220 | 34900 |  | Napa
060001 | 24540 | 19740
060003 | 14500 | 19740
060027 | 14500 | 19740
060044 | 06 | 19740
060049 | 06 | 22660
060096 | 06 | 19740
060103 | 14500 | 19740
070003 | 07 | 25540 | Lugar
070015 | 25540 | 35644
070021 | 07 | 25540 | Lugar
070033 | 14860 | 35644
080004 | 20100 | 48864
080007 | 08 | 36140 |  | Cape May
100022 | 33124 | 22744
100023 | 10 | 36740
100024 | 10 | 33124
100045 | 19660 | 36740
100049 | 10 | 29460
100081 | 10 | 23020 | Lugar
100098 | 10 | 48424 | Lugar
100103 | 10 | 23540 | Lugar
100105 | 46940 | 38940
100109 | 10 | 36740
100139 | 10 | 23540 | Lugar
100150 | 10 | 33124
100176 | 48424 | 38940
100217 | 46940 | 38940
100249 | 10 | 36100
110001 | 19140 | 12060
110002 | 11 | 12060
110003 | 11 | 27260
110009 | 11 | 31420 | Lugar
110016 | 11 | 17980
110023 | 11 | 12060
110025 | 15260 | 27260
110029 | 23580 | 12060
110038 | 11 | 10
110040 | 11 | 12060 | Lugar
110041 | 11 | 12020
110052 | 11 | 16860 | Lugar
110054 | 40660 | 12060
110075 | 11 | 42340
110088 | 11 | 12060 | Lugar
110117 | 11 | 12060 | Lugar
110120 | 11 | 12060 | Lugar
110122 | 46660 | 10
110128 | 11 | 42340
110150 | 11 | 31420 |  | Jones
110168 | 40660 | 12060
110187 | 11 | 12060
110189 | 11 | 12060
110205 | 11 | 12060
120028 | 12 | 26180
130002 | 13 | 29
130003 | 30300 | 50
130018 | 13 | 38540
130022 | 13 | 26820 | Lugar
130026 | 13 | 38540
130049 | 17660 | 44060
140004 | 14 | 44100 | Lugar
140012 | 14 | 16974 |  | Dekalb
140015 | 14 | 41180
140027 | 14 | 19340
140032 | 14 | 41180
140034 | 14 | 41180
140038 | 14 | 40420 | Lugar
140040 | 14 | 37900
140043 | 14 | 40420 |  | Winnebago
140046 | 14 | 41180
140058 | 14 | 44100
140064 | 14 | 19340
140093 | 19180 | 16580
140102 | 14 | 44100 | Lugar
140110 | 14 | 37900
140112 | 14 | 37900 | Lugar
140143 | 14 | 37900
140146 | 14 | 14060 | Lugar
140160 | 14 | 40420 |  | Winnebago
140161 | 14 | 16974 |  | Grundy
140164 | 14 | 41180
140189 | 14 | 16580
140234 | 14 | 37900
140236 | 14 | 28100 | Lugar
140271 | 14 | 44100 | Lugar
150002 | 23844 | 16974 |  | Cook
150004 | 23844 | 16974 |  | Cook
150006 | 33140 | 43780
150008 | 23844 | 16974 |  | Cook
150011 | 15 | 26900
150015 | 33140 | 16974
150030 | 15 | 26900 | Lugar
150043 | 15 | 29140 | Lugar
150048 | 15 | 17140
150065 | 15 | 26900
150069 | 15 | 17140
150076 | 15 | 43780
150090 | 23844 | 16974 |  | Cook
150102 | 15 | 16974 | Lugar
150103 | 15 | 29140 | Lugar
150112 | 18020 | 26900 |  | Brown
150125 | 23844 | 16974 |  | Cook
150126 | 23844 | 16974 |  | Will
150132 | 23844 | 16974 |  | Cook
150133 | 15 | 21140
150146 | 15 | 21140
150147 | 23844 | 16974 |  | Cook
160001 | 16 | 19780
160016 | 16 | 19780
160026 | 16 | 11180 | Lugar
160037 | 16 | 24
160057 | 16 | 26980
160080 | 16 | 40420 |  | Winnebago
160086 | 16 | 47940 | Lugar
160089 | 16 | 19780
160147 | 16 | 19780
170006 | 17 | 27900
170010 | 17 | 46140
170012 | 17 | 48620
170013 | 17 | 48620
170020 | 17 | 48620
170022 | 17 | 28140
170023 | 17 | 48620
170033 | 17 | 48620
170045 | 17 | 45820
170058 | 17 | 27900
170060 | 17 | 28
170094 | 17 | 45820
170120 | 17 | 27900
170145 | 17 | 46140
170175 | 17 | 48620
180005 | 18 | 26580 |  | Wayne
180011 | 18 | 30460 |  | Clark
180012 | 21060 | 31140
180013 | 14540 | 34980
180018 | 18 | 30460 |  | Bourbon
180027 | 18 | 17300
180028 | 18 | 26580 |  | Wayne
180029 | 18 | 28700 |  | Scott
180044 | 18 | 26580 |  | Wayne
180066 | 18 | 34980
180069 | 18 | 26580 |  | Wayne
180075 | 18 | 14540 | Lugar
180078 | 18 | 26580 |  | Wayne
180080 | 18 | 30460 |  | Clark
180093 | 18 | 21780
180102 | 18 | 17300
180104 | 18 | 17300
180116 | 18 | 17300
180124 | 14540 | 34980
180127 | 18 | 31140 |  | Jefferson
180132 | 18 | 30460 |  | Jessamine
180139 | 18 | 30460 |  | Clark
190001 | 19 | 35380 |  | St. Tammany
190003 | 19 | 29180 |  | St. Martin
190015 | 19 | 35380 |  | St. John the Baptist
190029 | 19 | 12940 | Lugar
190054 | 19 | 29180 |  | St. Martin
190086 | 19 | 43340 |  | Bossier
190099 | 19 | 29180 |  | St. Landry
190106 | 19 | 29180 |  | Acadia
190131 | 12940 | 35380 |  | St. John the Baptist
190155 | 19 | 12940 | Lugar
190164 | 19 | 10780
190223 | 19 | 12940 | Lugar
200002 | 20 | 38860
200020 | 38860 | 40484 |  | Strafford
200024 | 30340 | 38860
200034 | 30340 | 38860
200039 | 20 | 38860
200050 | 20 | 12620
200063 | 20 | 38860
220060 | 14484 | 12700
220077 | 44140 | 25540 |  | Hartford
230022 | 23 | 11460
230030 | 23 | 40980 |  | Saginaw
230035 | 23 | 24340 | Lugar
230037 | 23 | 11460 |  | Washtenaw
230042 | 23 | 26100 | Lugar
230054 | 23 | 24580
230080 | 23 | 40980 |  | Saginaw
230093 | 23 | 24340
230096 | 23 | 28020 |  | Kalamazoo
230105 | 23 | 13020 |  | Bay
230121 | 23 | 29620 | Lugar
230134 | 23 | 26100 | Lugar
230155 | 23 | 24340 | Lugar
230171 | 23 | 34740 | Lugar
230178 | 23 | 24340 | Lugar
230188 | 23 | 40980 | Lugar
230208 | 23 | 24340 | Lugar
230235 | 23 | 40980 | Lugar
230253 | 23 | 47644 |  | Lapeer
240011 | 24 | 33460
240013 | 24 | 33460
240016 | 24 | 22020
240018 | 24 | 33460
240030 | 24 | 41060
240052 | 24 | 22020
240064 | 24 | 20260
240069 | 24 | 40340
240071 | 24 | 33460
240075 | 24 | 41060
240088 | 24 | 41060
240093 | 24 | 33460
240105 | 24 | 40340 | Lugar
240150 | 24 | 40340 | Lugar
240152 | 24 | 33460
240187 | 24 | 33460
240211 | 24 | 33460
250004 | 25 | 32820
250009 | 25 | 27180
250023 | 25 | 25060 | Lugar
250030 | 25 | 27140
250031 | 25 | 27140
250034 | 25 | 32820
250042 | 25 | 32820
250069 | 25 | 27140
250081 | 25 | 27140
250082 | 25 | 38220
250094 | 25620 | 25060 |  | Hancock
250097 | 25 | 12940
250099 | 25 | 27140
250100 | 25 | 46220
250104 | 25 | 27140
250117 | 25 | 25060 | Lugar
260009 | 26 | 28140
260011 | 27620 | 17860
260015 | 26 | 27860
260017 | 26 | 41180
260022 | 26 | 17860
260025 | 26 | 41180
260047 | 27620 | 17860
260049 | 26 | 44180 | Lugar
260064 | 26 | 17860
260078 | 26 | 44180
260094 | 26 | 44180
260110 | 26 | 41180
260113 | 26 | 14
260116 | 26 | 14
260183 | 26 | 41180
260186 | 26 | 17860
270003 | 27 | 24500
270011 | 27 | 24500
270017 | 27 | 33540
270051 | 27 | 33540
270082 | 27 | 24500
280009 | 28 | 30700
280023 | 28 | 30700
280032 | 28 | 30700
280054 | 28 | 30700
280057 | 28 | 30700
280061 | 28 | 53
280065 | 28 | 24540
280077 | 28 | 36540
280125 | 28 | 43580
290002 | 29 | 16180 | Lugar
290008 | 29 | 29820 |  | Nye
290019 | 16180 | 39900
300003 | 30 | 31700 |  | Hillsborough
300005 | 30 | 31700
310002 | 35084 | 35644
310015 | 35084 | 35644
310032 | 47220 | 48864 |  | Salem, NJ
310038 | 20764 | 35644
310048 | 20764 | 35084 |  | Hunterdon
310070 | 20764 | 35644
310076 | 35084 | 35644
310119 | 35084 | 35644
320005 | 22140 | 10740
320006 | 32 | 42140 |  | Santa Fe
320013 | 32 | 42140 |  | Santa Fe
320033 | 32 | 42140 | Lugar
320063 | 32 | 36220 |  | Ector
320065 | 32 | 36220 |  | Ector
330004 | 28740 | 39100 |  | Orange
330008 | 33 | 15380 | Lugar
330027 | 35004 | 35644
330038 | 33 | 40380 | Lugar
330062 | 33 | 27060 | Lugar
330073 | 33 | 40380 | Lugar
330084 | 33 | 15540
330085 | 33 | 45060 |  | Madison
330136 | 33 | 45060 |  | Madison
330157 | 33 | 45060 |  | Oswego
330181 | 35004 | 35644
330182 | 35004 | 35644
330224 | 28740 | 25540 |  | Hartford
330235 | 33 | 45060 | Lugar
330239 | 33 | 21500
330250 | 33 | 15540
330359 | 33 | 39100 | Lugar
330386 | 33 | 39100 |  | Orange
340008 | 34 | 22180
340010 | 24140 | 39580 |  | Johnston
340013 | 34 | 16740
340018 | 34 | 43900 | Lugar
340021 | 34 | 16740
340027 | 34 | 24780
340039 | 34 | 16740
340050 | 34 | 22180
340051 | 34 | 25860
340068 | 34 | 48900
340071 | 34 | 39580 | Lugar
340088 | 34 | 11700
340109 | 34 | 47260
340115 | 34 | 20500 |  | Chatham
340124 | 34 | 39580 | Lugar
340126 | 34 | 39580 |  | Johnston
340127 | 34 | 20500 |  | Person
340129 | 34 | 16740
340131 | 34 | 24780
340136 | 34 | 20500 | Lugar
340144 | 34 | 16740
340145 | 34 | 16740 | Lugar
340147 | 40580 | 39580 |  | Franklin
350009 | 35 | 22020
360008 | 36 | 26580 |  | Greenup
360010 | 36 | 10420
360011 | 36 | 18140
360014 | 36 | 18140
360025 | 41780 | 17460
360036 | 36 | 17460
360039 | 36 | 18140
360042 | 36 | 17460 | Lugar
360054 | 36 | 16620
360056 | 17140 | 17140
360065 | 36 | 17460
360078 | 10420 | 17460
360088 | 36 | 44220 | Lugar
360095 | 36 | 30620 |  | Allen
360096 | 36 | 49660 | Lugar
360107 | 36 | 45780
360112 | 45780 | 11460 |  | Washtenaw
360121 | 36 | 11460 |  | Washtenaw
360125 | 36 | 17460 | Lugar
360127 | 36 | 17460 | Lugar
360159 | 36 | 18140
360175 | 36 | 18140
360185 | 36 | 49660 | Lugar
360197 | 36 | 18140
360238 | 36 | 49660 | Lugar
360245 | 36 | 17460 | Lugar
370004 | 37 | 27900
370014 | 37 | 43300
370015 | 37 | 46140
370018 | 37 | 46140
370025 | 37 | 46140
370034 | 37 | 22900
370043 | 37 | 43300
370047 | 37 | 43300
370049 | 37 | 36420 |  | Lincoln
370099 | 37 | 46140
370103 | 37 | 45
370113 | 37 | 22220
370200 | 37 | 36420 |  | Lincoln
380001 | 38 | 38900
380008 | 38 | 18700 | Lugar
380022 | 38 | 18700
380027 | 38 | 21660
380040 | 38 | 21660
380050 | 38 | 32780
380070 | 38 | 38900
390006 | 39 | 25420 |  | Dauphin
390013 | 39 | 25420 |  | Dauphin
390030 | 39 | 10900
390031 | 39 | 39740 | Lugar
390048 | 39 | 25420 |  | Perry
390052 | 39 | 11020
390065 | 39 | 47894 | Lugar | Frederick
390071 | 39 | 48700 | Lugar
390086 | 39 | 44300
390091 | 39 | 38300
390093 | 39 | 38300
390110 | 27780 | 38300
390113 | 39 | 49660 |  | Mercer
390138 | 39 | 47894
390150 | 39 | 38300 | Lugar
390151 | 39 | 47894 |  | Frederick
390201 | 39 | 35084 |  | Pike
390224 | 39 | 13780 | Lugar
390244 | 39 | 48700 | Lugar
390249 | 39 | 13780 | Lugar
410001 | 39300 | 14484 |  | Bristol, MA
410004 | 39300 | 14484 |  | Bristol, MA
410005 | 39300 | 14484 |  | Bristol, MA
410006 | 39300 | 14484 |  | Bristol, MA
410007 | 39300 | 14484 |  | Bristol, MA
410008 | 39300 | 14484 |  | Bristol, MA
410009 | 39300 | 14484 |  | Bristol, MA
410011 | 39300 | 14484 |  | Bristol, MA
410012 | 39300 | 14484 |  | Bristol, MA
410013 | 39300 | 14484 |  | Bristol, MA
420009 | 42 | 24860 | Lugar
420020 | 42 | 16700
420028 | 42 | 44940 | Lugar
420030 | 42 | 16700
420036 | 42 | 16740
420039 | 42 | 43900 | Lugar
420068 | 42 | 12260
420069 | 42 | 44940 | Lugar
420070 | 44940 | 17900
420071 | 42 | 12260
420080 | 42 | 42340
420085 | 34820 | 48900
430012 | 43 | 43620
430014 | 43 | 22020
430094 | 43 | 53
440008 | 44 | 27180
440020 | 44 | 26620
440050 | 44 | 11700
440058 | 44 | 16860
440059 | 44 | 34980
440060 | 44 | 27180
440067 | 34100 | 28940 |  | Knox
440068 | 44 | 16860
440072 | 44 | 32820
440073 | 44 | 34980
440148 | 44 | 34980
440151 | 44 | 34980
440175 | 44 | 26620
440180 | 44 | 28940 |  | Union
440185 | 17420 | 16860
440192 | 44 | 34980
450007 | 45 | 41700
450032 | 45 | 30980 | Lugar
450052 | 45 | 47380 | Lugar
450073 | 45 | 10180
450080 | 45 | 30980 |  | Usphur
450098 | 45 | 30980 |  | Usphur
450099 | 45 | 11100
450144 | 45 | 36220 |  | Ector
450187 | 45 | 26420
450192 | 45 | 19124
450194 | 45 | 19124
450196 | 45 | 19124
450211 | 45 | 26420
450214 | 45 | 26420
450224 | 45 | 46340
450283 | 45 | 19124 | Lugar
450286 | 45 | 17780 | Lugar
450347 | 45 | 26420
450348 | 45 | 47380 | Lugar
450351 | 45 | 23104
450389 | 45 | 19124 | Lugar
450400 | 45 | 47380
450447 | 45 | 19124
450451 | 45 | 23104
450484 | 45 | 26420
450508 | 45 | 46340
450534 | 45 | 11100
450547 | 45 | 19124
450563 | 23104 | 19124
450623 | 45 | 19124
450648 | 45 | 12420 | Lugar
450653 | 45 | 33260 |  | Midland
450656 | 45 | 46340
450694 | 45 | 26420
450747 | 45 | 19124
450755 | 45 | 31180
450770 | 45 | 12420 | Lugar
450830 | 45 | 36220 |  | Ector
460021 | 41100 | 29820 |  | Mohave
460029 | 46 | 39340
460036 | 46 | 39340
460039 | 46 | 36260 |  | Weber
470001 | 47 | 30
470011 | 47 | 15764
470012 | 47 | 38340
490004 | 25500 | 16820
490005 | 49020 | 47894 |  | Clarke
490006 | 49 | 49020 | Lugar
490013 | 49 | 31340
490018 | 49 | 16820
490047 | 49 | 47894 |  | Warren
490079 | 49 | 49180 |  | Stokes
490092 | 49 | 47260
490126 | 49 | 40220
500002 | 50 | 28420
500003 | 34580 | 42644 |  | Snohomish
500016 | 48300 | 42644 |  | King
500031 | 50 | 36500
500039 | 14740 | 42644 |  | King
500041 | 31020 | 38900
500059 | 50 | 42644 |  | King
500072 | 50 | 42644 |  | Snohomish
500118 | 50 | 36500 | Lugar
500122 | 50 | 42644 | Lugar
510001 | 34060 | 38300
510002 | 51 | 40220
510006 | 51 | 38300
510018 | 51 | 16620 | Lugar
510024 | 34060 | 38300
510028 | 51 | 16620
510046 | 51 | 16620
510047 | 51 | 38300
510048 | 51 | 26580 |  | Wayne
510070 | 51 | 16620
510071 | 51 | 16620
510081 | 51 | 16620 | Lugar
520002 | 52 | 48140
520021 | 29404 | 16974
520028 | 52 | 31540 | Lugar
520037 | 52 | 48140
520059 | 39540 | 33340
520060 | 52 | 22540 | Lugar
520066 | 27500 | 31540
520071 | 52 | 33340 | Lugar
520076 | 52 | 31540
520088 | 22540 | 33340
520094 | 39540 | 33340
520096 | 39540 | 33340
520102 | 52 | 16974 | Lugar
520107 | 52 | 24580
520113 | 52 | 24580
520116 | 52 | 33340 | Lugar
520152 | 52 | 24580
520173 | 52 | 20260
520189 | 52 | 16974
530002 | 53 | 16220
530009 | 53 | 16220
530025 | 53 | 22660

29. On pages 49720 through 49724, in Table 9B—Hospital Reclassifications and Resdesignations by Individual Hospital under Section 508 Pub. L. 108-173 and Special Exceptions Wage Index Assignments—FY 2005, the table is corrected to read as follows:

Table 9B.—Hospital Reclassifications and Resdesignations by Individual Hospital Under Section 508 Pub. L. 108-173 and Special Exceptions Wage Index Assignments—FY 2005
Provider No. | Old MSA or rural area | Wage index old MSA 508 reclassification | New MSA or rural area | Wage index new MSA 508 reclassification | Nearest county | Own wage index
010150 | 01 | 1800 | 01 | 17980 |  |
020008 | 02 |  | 02 |  |  | 1.3119
050494 | 05 | 7500 | 05 | 42220 |  |
050549 | 8735 | 7500 | 37100 | 42220 |  |
060057 | 06 | 2080 | 06 | 19740 |  |
060075 | 06 |  | 06 |  |  | 1.1677
070001 | 5483 | 5380 | 35300 | 35004 |  |
070005 | 5483 | 5380 | 35300 | 35004 |  |
070006* | 5483 |  | 14860 |  |  |
070010 | 5483 | 5600 | 14860 | 35644 |  |
070016 | 5483 | 5380 | 35300 | 35004 |  |
070017 | 5483 | 5380 | 35300 | 35004 |  |
070018* | 5483 |  | 14860 |  |  |
070019 | 5483 | 5380 | 35300 | 35004 |  |
070022 | 5483 | 5380 | 35300 | 35004 |  |
070028 | 5483 | 5600 | 14860 | 35644 |  |
070031 | 5483 | 5380 | 35300 | 35004 |  |
070034* | 5483 |  | 14860 |  |  |
070036 | 3283 |  | 25540 |  |  | 1.2918
070039 | 5483 | 5380 | 35300 | 35004 |  |
120025 | 12 | 3320 | 12 | 26180 |  |
140155* | 3740 |  | 28100 |  |  |
140186* | 3740 |  | 28100 |  |  |
150034 | 2960 | 1600 | 23844 | 16974 | Cook |
160040 | 8920 | 1360 | 47940 | 16300 |  |
160064 | 16 |  | 16 |  |  | 1.0481
160067 | 8920 | 1360 | 47940 | 16300 |  |
160110 | 8920 | 1360 | 47940 | 16300 |  |
190218 | 19 | 7680 | 19 | 43340 | Caddo |
220046 | 6323 | 1123 | 38340 | 14484 |  |
230003 | 3000 | 3720 | 26100 | 28020 | Van Buren |
230004 | 3000 | 3720 | 34740 | 28020 | Van Buren |
230013 | 2160 | 2640 | 47644 | 22420 |  |
230019 | 2160 | 2640 | 47644 | 22420 |  |
230020 | 2160 | 0440 | 19804 | 11460 | Washtenaw |
230024 | 2160 | 0440 | 19804 | 11460 | Washtenaw |
230029 | 2160 | 2640 | 47644 | 22420 |  |
230036 | 23 | 2640 | 23 | 22420 |  |
230038 | 3000 | 3720 | 24340 | 28020 | Kalamazoo |
230053 | 2160 | 0440 | 19804 | 11460 | Washtenaw |
230059 | 3000 | 3720 | 24340 | 28020 | Saginaw |
230066 | 3000 | 3720 | 34740 | 28020 | Van Buren |
230071 | 2160 | 2640 | 47644 | 22420 |  |
230072 | 3000 | 3720 | 26100 | 28020 | Van Buren |
230089 | 2160 | 0440 | 19804 | 11460 | Washtenaw |
230097 | 23 | 3720 | 23 | 28020 | Kalamazoo |
230104 | 2160 | 0440 | 19804 | 11460 | Washtenaw |
230106 | 23 | 3720 | 24340 | 28020 | Van Buren |
230119 | 2160 | 0440 | 19804 | 11460 | Washtenaw |
230130 | 2160 | 2640 | 47644 | 22420 |  |
230135 | 2160 | 0440 | 19804 | 11460 | Washtenaw |
230146 | 2160 | 0440 | 19804 | 11460 | Washtenaw |
230151 | 2160 | 2640 | 47644 | 22420 |  |
230165 | 2160 | 0440 | 19804 | 11460 | Washtenaw |
230174 | 3000 | 3720 | 26100 | 28020 | Van Buren |
230176 | 2160 | 0440 | 19804 | 11460 | Washtenaw |
230207 | 2160 | 2640 | 47644 | 22420 |  |
230223 | 2160 | 2640 | 47644 | 22420 |  |
230236 | 3000 | 3720 | 24340 | 28020 | Kalamazoo |
230254 | 2160 | 2640 | 47644 | 22420 |  |
230269 | 2160 | 2640 | 47644 | 22420 |  |
230270 | 2160 | 0440 | 19804 | 11460 | Washtenaw |
230273 | 2160 | 0440 | 19804 | 11460 | Washtenaw |
230277 | 2160 | 2640 | 47644 | 22420 |  |
250002 | 25 | 0920 | 25 | 25060 |  |
250078* | 3285 |  | 25620 |  |  |
250122 | 25 | 0920 | 25 | 25060 | Hancock |
270002* | 27 |  | 27 |  |  |
270012* | 3040 |  | 24500 |  |  |
270021 | 27 | 0880 | 27 | 13740 |  |
270032 | 27 | 0880 | 27 | 13740 |  |
270050 | 27 | 0880 | 27 | 13740 |  |
270057 | 27 | 0880 | 27 | 13740 |  |
270084* | 27 |  | 27 |  |  |
310021 | 8480 | 0875 | 45940 | 35644 |  |
310028 | 5640 | 5600 | 35084 | 35644 |  |
310050 | 5640 | 5600 | 35084 | 35644 |  |
310051 | 5640 | 5600 | 35084 | 35644 |  |
310060 | 5640 | 5600 | 10900 | 35644 |  |
310115 | 5640 | 5600 | 10900 | 35644 |  |
310120 | 5640 | 5600 | 35084 | 35644 |  |
330023* | 2281 |  | 39100 |  |  |
330049 | 2281 | 5600 | 39100 | 35644 |  |
330067* | 2281 |  | 39100 |  |  |
330106 | 5380 |  | 35004 |  |  | 1.5118
330126 | 5660 | 5600 | 39100 | 35644 |  |
330135 | 5660 | 5600 | 39100 | 35644 |  |
330205 | 5660 | 5600 | 39100 | 35644 |  |
330264 | 5660 | 5380 | 39100 | 35004 |  |
340002 | 0480 | 1520 | 11700 | 16740 | Gaston |
350002 | 1010 | 2520 | 13900 | 22020 |  |
350003 | 35 | 2520 | 35 | 22020 |  |
350006 | 35 | 2520 | 35 | 22020 |  |
350010 | 35 | 2520 | 35 | 22020 |  |
350014 | 35 | 2520 | 35 | 22020 |  |
350015 | 1010 | 2520 | 13900 | 22020 |  |
350017 | 35 | 2520 | 35 | 22020 |  |
350019* | 2985 |  | 24220 |  |  |
350030 | 35 | 2520 | 35 | 22020 |  |
350061 | 35 | 2520 | 35 | 22020 |  |
380090 | 38 |  | 38 |  |  | 1.2777
390001 | 7560 | 0240 | 42540 | 10900 |  |
390003 | 7560 | 0240 | 39 | 10900 |  |
390054 | 7560 | 4000 | 42540 | 29540 |  |
390072 | 7560 | 0240 | 39 | 10900 |  |
390095 | 7560 | 0240 | 42540 | 10900 |  |
390109 | 7560 | 0240 | 42540 | 10900 |  |
390119 | 7560 | 0240 | 42540 | 10900 |  |
390137 | 7560 | 0240 | 42540 | 10900 |  |
390169 | 7560 | 0240 | 42540 | 10900 |  |
390185 | 7560 | 4000 | 42540 | 29540 |  |
390192 | 7560 | 0240 | 42540 | 10900 |  |
390237 | 7560 | 0240 | 42540 | 10900 |  |
390270 | 7560 | 4000 | 42540 | 29540 |  |
410010 | 6483 |  | 39300 |  |  | 1.1677
430005 | 43 | 6660 | 43 | 39660 |  |
430008* | 43 |  | 43 |  |  |
430013* | 43 |  | 43 |  |  |
430015 | 43 | 7760 | 43 | 43620 |  |
430031* | 43 |  | 43 |  |  |
430048 | 43 | 7760 | 43 | 43620 |  |
430060 | 43 | 7760 | 43 | 43620 |  |
430064 | 43 | 7760 | 43 | 43620 |  |
430077 | 6660 | 7760 | 39660 | 43620 |  |
430091 | 6660 | 7760 | 39660 | 43620 |  |
450010 | 9080 | 4880 | 48660 | 32580 |  |
450072 | 1145 | 3360 | 26420 | 26420 |  |
450591 | 1145 | 3360 | 26420 | 26420 |  |
470003 | 1303 | 1123 | 15540 | 14484 |  |
490001 | 49 | 4640 | 49 | 31340 |  |
490024 | 6800 | 1950 | 40220 | 19260 |  |
530008* | 53 |  | 53 |  |  |
530010* | 53 |  | 53 |  |  |
530015 | 53 |  | 53 |  |  | 0.9980
*Special exception wage index as specified in section 1886(d)(5)(I)(i) of the Act. (For more information see sections IV.N.2. and N.4. of the preamble to this final rule.)

D. Correction of Appendix A (Regulatory Impact Analysis) Errors

1. On page 49755, first column,

Line 28, the figure “5.8” is corrected to read “5.7”;

Line 32, the figure “5.05” is corrected to read “4.96”.

2. On page 49756,

Second column,

Line 28, the figure “5.8” is corrected to read “5.7”;

Line 32, the figure “5.05” is corrected to read “4.96”.

Third column, after line 61, add the following:

“• The total change in payments based on final FY 2005 policies and MMA-imposed revisions relative to payment based on FY 2004 policies.”

3. On page 49757,

a. First column

(1) Line 18, the phrase “that most” is corrected to read “that almost all”;

(2) Lines 20 through 25, the sentence “Hospitals were not required to submit these data in order to qualify for al full update until July 2004, and we therefore unable to determine for the proposed rule the rate of compliance with this requirement for receiving the full update” is corrected to read “Because very few hospitals have failed to qualify for the full update, we modeled payments as if every hospital received the full update.”.

b. Second column,

(1) Line 54, the figure “2,661” is corrected to read “2,612”;

(2) Line 56, the figure “1,448” is corrected to read “1,438”;

(3) Line 58, the figure “1,213 is corrected to read “1,174”;

(4) Line 60, the figure “1,236” is corrected to read “1,285”;

(5) Line 75, the figures “2,639” and “1,455” are corrected to read “”2,688” and “1,454”; and

(6) Line 76, the figures “1,238” and “1,204” are corrected to read “1,234” and “1,209”.

c. Third column,

(1) Line 45 the figures “126” and “430” are corrected to read “127” and “433”;

(2) Line 46, the figure “73” is corrected to read “74”;

4. On pages 49758 through 49761, Table I.—Impact Analysis of Final Changes for FY 2005 is corrected to read as follows:

BILLING CODE 4120-01-P

5. On page 49762,

a. First column, line 62 the figure “0.1” is corrected to read “0.2”.

b. Second column,

(1) Line 64, the figure “0.3” is corrected to read “0.5”;

(2) Lines 69 and 70, the phrase “the South Atlantic, which will experience the next largest impact, with a 0.8 percent decrease” is corrected to read “the Mountain region, which will experience a 1.6 percent decrease”.

c. Third column,

(1) Lines 42 through 46, the sentence “The largest declines from updating the wage data are seen in the urban Middle Atlantic and Mountain regions (a 0.9 and 0.4 percent decreases, respectively).” is corrected to read “The largest decline from updating the wage data is seen in the urban Middle Atlantic region (a 0.9 percent decrease)”;

(2) Line 47, the phrase “rural Mountain region experiences a 0.2 percent increase” is corrected to read “East South Central region experiences a 0.5 percent decrease”;

(3) Line 64, the figure “104” is corrected to read “56”;

(4) Line 65, the figure “103” is corrected to read “14”;

(5) Line 67, the figure “25” is corrected to read “24”;

(6) Line 70, the figure “30” is corrected to read “31”;

(7) Lines 73 through 75, the sentence “One urban hospital would experience decreases in their wage index values greater than 10 percent.” is corrected to read “On rural hospital will experience a decrease in their wage index value of at least 5 percent, but less than 10 percent.

6. On page 49763,

a. Top of the page, the chart is corrected to read as follows:

Percentage Change in Area Wage Index Values | Number of hospitals: Urban | Number of hospitals: Rural
Increase more than 10 percent | 14 | 0
Increase more than 5 percent and less than 10 percent | 56 | 24
Increase or decrease less than 5 percent | 2562 | 1295
Decrease more than 5 percent and less than 10 percent | 31 | 1
Decrease more than 10 percent | 0 | 0

b. First column, lines 22 through 26, the sentence “The biggest change is in the rural hospital in the South Atlantic, East South Central, and West South Central regions, which are projected to experience a 0.1 percent increase for FY 2005.” is corrected to read “The biggest change is in the urban hospitals of the East South Central region, which are projected to experience a 0.4 percent increase for FY 2005.”

c. Second column, line 3, the figure “0.54” is corrected to read “0.5”.

d. Third column,

(1) Line 16, the figure “8” is corrected to read “9”; and

(2) Line 50, the phrase “1.8 percent in column 8” is corrected to read “1.9 percent in column 9”.

7. On page 49764,

a. First column,

(1) Line 1, the figure “0.9” is corrected to read “1.1”;

(2) Line 4, the figure “2.5” is corrected to read “2.7”;

(3) Line 6, the figure “3.0” is corrected to read “2.8”;

(4) Line 12, the figure “3.8” is corrected to read “3.9”;

(5) Line 17, the figure “3.8” is corrected to read “3.9”;

(6) Line 22, the figure “0.3” is corrected to read “0.4”;

(7) Line 45, the figure “230” is corrected to read “275”;

(8) Line 46, the figure “415” is corrected to read “555”;

(9) Line 54, the phrase “East South Central region” is corrected to read “New England region”;

(10) Line 55, the figure “0.2” is corrected to read “0.3”;

b. Second column,

(1) Line 3, the figure “5.8” is corrected to read “5.7”;

(2) Line 20, the figure “0.5” is corrected to read “0.4”.

c. Third column

(1) Line 39, the figure “5.8” is corrected to read “5.7”;

(2) Line 40, the figure “5.7” is corrected to read “5.6”;

(3) Line 45, the figure “5.4” is corrected to read “5.3”;

(4) Line 47, the figure “6.1” is corrected to read “5.9”; and

(5) Line 76, the figures “9.2” and “7.1” are corrected to read “9.5” and “7.2”.

8. On page 49765,

a. First column,

(1) Line 2, the figure “4.4” is corrected to read “4.0”; and

(2) Line 9, the figure “4.5” is corrected to read “4.6”.

b. Second column, line 7, the figure “5.8” is corrected to read “5.9”.

c. Third column,

(1) Line 2, the figure “6.2” is corrected to read “6.3”; and

(2) Line 7, the figure “5.3” is corrected to read “5.7”.

9. On pages 49765 through 49767, Table II.—Impact Analysis of Final Changes for FY 2005 Operating Prospective Payment System is corrected to read as follows:

BILLING CODE 4120-01-C

10. On page 49774. third column, lines 56 and 57, the section heading “VIII. Impact of Proposed Changes in the Capital PPS” is corrected to read “VIII. Impact of Changes in the Capital PPS”.

11. On pages 49778 through 49781, the text beginning with the section heading “VIII. Impact of Proposed Changes in the Capital PPS” and ending with the table entitled “Table III.—Comparison of Total Payments Per Case” is deleted.

III. Waiver of Proposed Rulemaking and Retroactive Application of Changes

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the notice.

The policies and payment methodology expressed in the FY 2005 final rule have previously been subjected to notice and comment procedures. This correcting amendment makes changes to conform the regulation text to the policies described in the preamble of the FY 2005 final rule and effective since October 1, 2004. This correcting amendment also revises the preamble of the FY 2005 final rule to clarify our policy regarding add-on payments for new technologies. We also have corrected errors in wage index tables. Therefore, we find it unnecessary to undertake further notice and comment procedures with respect to this correcting amendment. This correcting amendment is intended to ensure that the FY 2005 final rule accurately reflects the policies expressed in the final rule.

We are also waiving the 30-day delay in effective date for this correcting amendment. We believe that it is in the public interest to ensure that the FY 2005 final rule accurately represents our prospective payment methodology, payment rates, and that the correct wage index values are used to calculate hospital payments. We believe that a delay in the effective date of these corrections would be contrary to the public interest.

We also find that it is in the public interest to apply certain changes in this correcting amendment retroactively to October 1, 2004, the effective date of the FY 2005 final rule. Section 1871(e)(1)(A) of the Social Security Act, as amended by section 903(a) of Pub. L. 108-173, provides that a substantive change in regulations shall not be applied retroactively to items and services furnished before the effective date of the change, unless the Secretary finds that such retroactive application is necessary to comply with statutory requirements or failure to apply the change retroactively would be contrary to the public interest. In sections II.A., II.B., II.C. items 1 through 11 and 13, and II.D. of this correcting amendment, we have made substantive corrections to errors in the preamble, regulation text, operating standardized amounts and Federal capital rates, and the regulatory impact analysis that were published in the August 11, 2004 Federal Register and in the October 7, 2004 Federal Register to ensure that the final rule accurately reflects our policies and payment methodologies. Although the FY 2005 final rule and the correction of the final rule contained errors (that are described in this correcting amendment), we implemented the correct policies and payment methodologies as of October 1, 2004. Accordingly, hospitals have been paid under the appropriate policies and payment methodologies since that date. Therefore, not applying these changes retroactively to October 1, 2004 would have a disruptive effect on the hospital inpatient and long-term care hospital prospective payment systems. As a result, we are applying most changes in this correcting amendment retroactively to October 1, 2004 because we believe that to do otherwise would be contrary to the public interest.

Since October 1, 2004, hospitals have been paid using the wage index values posted on the CMS Website on September 29, 2004 and referenced in October 7, 2004 correction of the final rule that appeared in the October 7, 2004 Federal Register (69 FR 60243). Subsequent to this posting and publication, we identified additional errors in the hospital wage index, geographic reclassification, and out-migration data. Therefore, consistent with both 42 CFR 412.64(k)(2) and our longstanding policy of making midyear corrections to the wage index on a prospective basis, we are applying the corrections in section II.C. items 12 and 14 through 29 of this correcting amendment as of January 1, 2005. (For a more detailed explanation of our midyear wage index correction policy, see the January 3, 1984 Federal Register (49 FR 258)).

(Catalog of Federal Domestic Assistance Program No. 93.773, Medicare—Hospital Insurance; and Program No. 93.774, Medicare—Supplementary Medical Insurance Program)

Dated: December 20, 2004.
Ann C. Agnew,
Executive Secretary to the Department.

[FR Doc. 04-28128 Filed 12-22-04; 8:45 am]

BILLING CODE 4120-01-P